DEPARTMENT OF HOUSING AND URBAN DEVELOPMENT

[Docket No. FR-4800-N-01]

Super Notice of Funding Availability (SuperNOFA) for HUD's Discretionary Programs for Fiscal Year 2003

AGENCY: Office of the Secretary, HUD.

ACTION: Super Notice of Funding Availability (SuperNOFA) for HUD Discretionary Programs.

SUMMARY: This Fiscal Year (FY) 2003 SuperNOFA announces the availability of approximately $2.3 billion in HUD program funds covering 43 funding opportunities within programs operated and administered by HUD offices. This General Section of the SuperNOFA provides the application procedures and requirements that are applicable to all the programs in this SuperNOFA unless otherwise stated in the Program NOFA. The Program Section of this SuperNOFA provides a description of the specific programs for which funding is made available and describes any additional procedures and requirements that are applicable to a specific program. Please be sure you read both the General Section and the Program Section(s) of this SuperNOFA to ensure you respond to all the requirements for all programs you will be seeking funding.

APPLICATION DUE DATES: The information in this APPLICATION DUE DATES section applies to all programs that are part of this SuperNOFA. You, the applicant, must submit a completed application to HUD on or before the respective program's application due date. Application due dates can be found in the HUD FY 2003 SuperNOFA Funding Chart located in this General Section. Information for each program is reiterated in the appropriate Program Section of this SuperNOFA.

ADDRESSES AND APPLICATION SUBMISSION PROCEDURES: Mailing and Receipt Procedures. The following procedures apply to the delivery and receipt of applications in HUD Headquarters, the Grants Management Center (GMC), and field offices. Please read the following instructions carefully and completely as failure to comply with these procedures may disqualify your application. HUD's delivery and receipt policies are:

• No hand deliveries will be accepted;

• HUD will not accept any applications sent by facsimile;

• Applications sent to the Robert C. Weaver HUD Headquarters Building or the Public and Indian Housing Grants Management Center (GMC) may be shipped using DHL, Falcon Carrier, Federal Express (FedEx), United Parcel Service (UPS), or the United States Postal Service (USPS), as access by other delivery services is not guaranteed. HUD strongly suggests applicants use the delivery options listed above because no other delivery services are allowed unescorted entry to the HUD Headquarters Building and therefore deliveries by other services are often turned away;

• HUD strongly suggests applications submitted to HUD field offices be sent via USPS, as access by other delivery services is not guaranteed;

• With the exception of the Rural Housing and Economic Development NOFA, all mailed applications must be postmarked on or before midnight of their due date and received within fifteen (15) days of the due date.

• Applications for the Rural Housing and Economic Development NOFA must be received by the deadline date. Application received after the deadline date will not be considered.

Proof of Timely submission. Except for the Rural Housing and Economic Development NOFA, proof of timely submission of an application in accordance with these requirements consists of the Certificate of Mailing (USPS Form 3817) provided by the United States Post Office showing timely mailing of the application on or before the application due date. In the case of packages submitted to HUD via DHL, Falcon Carrier, FedEX, or UPS, documentary proof of timely submission will be the delivery service receipt indicating the application was submitted to the delivery service on or before the application due date and, through no fault of the applicant, delivery was not in time to meet the filing deadline. Receipts from other than DHL, Falcon Carrier, FedEX, or UPS, delivery services will not be accepted, as HUD cannot guarantee delivery due to its Security procedures. Proof of timely submission to HUD field offices will be the Certificate of Mailing (USPS Form 3817).

Proof of receipt for the Rural and Economic Development NOFA is the date HUD receives the application.

Please remember that mail to federal facilities is screened prior to delivery, so please allow time for your package to be delivered. If an application does not meet the filing requirements it will not receive funding consideration. If you mail your application to the wrong location and the office designated for receipt in accordance with these submission requirements does not receive it, your application will be considered late and not be considered for funding. HUD will not be responsible for directing it to the appropriate office.

Addresses. You, the applicant, must submit a complete application and the required number of copies to the locations identified in the Program Section of this SuperNOFA. When submitting your application, you must refer to the name of the program for which you are seeking funding and include the correct room number to ensure that your application is properly directed. Addresses for HUD Headquarters and the Public and Indian Housing Grants Management Center (GMC) are in the HUD 2003 SuperNOFA Funding Chart. Addresses for field offices are listed in Appendix A-3 of the General Section of this SuperNOFA. For applications directed to the Office of Native American Programs Field Offices, please be sure to use the addresses provided in Appendix A-2, Office of Native American Programs Address Listing. Please refer to the Funding Chart or pertinent Program Section of the SuperNOFA for room location or other additional information regarding address requirements for your application submission. Please make sure that you note the correct room number to ensure your application is not misdirected.

Copies of Applications. The Program Section of this SuperNOFA may specify that to facilitate the processing and review of your application, one or more copies of the application also must be sent to an additional HUD location (for example, a copy to the HUD field office and the original application to HUD Headquarters). If you are required to submit applications to HUD Headquarters (or the GMC) and field offices, the determination that your application was received on time will be made solely on receipt of the application at HUD Headquarters or the GMC, as applicable. If an application received on time at HUD Headquarters or GMC is not complete, but a complete copy was submitted and received on time at a HUD field office, HUD may conduct its review using the field office copy. See the information in Mailing and Receipt Procedures and Proof of Timely Submission above for additional information. If you do not submit the required number of copies HUD may request that you provide the additional copies to the appropriate HUD office(s) in accordance with the procedures described in Section VIII, Corrections to Deficient Applications.

Consolidated Application Submissions. If you, the applicant, are applying for funding under more than one program in this SuperNOFA, you need to submit only one original HUD-424, “Application for Federal Assistance,” which includes the HUD-424B, “Applicant Assurances and Certifications.” Page 2 of the HUD-424 allows you to list all the programs for which you are seeking funding. Once you have submitted one original set of forms, certifications, and assurances, you may send copies of these standard items with any additional application you submit. Make sure to specify the correct program on each copy of the HUD-424 application form and indicate the program to which you have submitted the original signature forms for the standard assurances and certifications. Additionally, the Program Section may specify additional forms, certifications, assurances, or other information that may be required for a particular program in this SuperNOFA.

FOR APPLICATION FORMS, FURTHER INFORMATION, AND TECHNICAL ASSISTANCE: The information in this section is applicable to all programs that are part of this SuperNOFA. This section describes how you may obtain application forms, additional information about the SuperNOFA, and technical assistance. Copies of all documents related to the SuperNOFA may be downloaded from HUD's Web site, www.hud.gov or you may call HUD's SuperNOFA Information Center at 1-800-HUD-8929 or for the hearing-impaired, 1-800-HUD-2209. Copies of all materials may also be ordered online from HUD's Web site.

Application Kits. In response to concerns about the length of time it takes for the publication and dissemination of application kits, HUD has made an effort to improve the readability of our NOFAs and publish all required forms and formats for application submission in the Federal Register. As a result of this effort, you will not have to wait for an application kit to begin to prepare your application for funding. Our goal is to have all required forms and information needed to apply for funding available to the public within the NOFA document itself and available immediately upon publication of the NOFA and downloadable from HUD's Web site at http://www.hud.gov. HUD is continuing to streamline our programs and application submission requirements and encourages the applicant community to offer additional suggestions. Please pay attention to the submission requirements and format for submission specified in the Program Section of the SuperNOFA to ensure that you have submitted all required elements of your application.

The published Federal Register document is the official document that HUD uses to evaluate applications. Therefore, if there is a discrepancy between any materials published by HUD in its Federal Register publication and other information provided in hard copy or on HUD's Web site, the Federal Register publication of the SuperNOFA prevails. Therefore, please be sure to review your application submission against the requirements in the Federal Register file of the SuperNOFA. A PDF copy of the General Section and Program Section for each program in the SuperNOFA is available on HUD's Web site at http://www.hud.gov and hard copies of these documents can be obtained from the SuperNOFA Information Center by calling 1-800 HUD-8929 or for the hearing-impaired, 1-800-HUD-2209.

Guidebook and Further Information. A guidebook to HUD programs titled “Connecting with Communities: A User's Guide to HUD Programs and the 2003 SuperNOFA Process” is available from the SuperNOFA Information Center and the HUD Web site at http://www.hud.gov. The guidebook provides a brief description of all HUD programs, a description of the SuperNOFA programs, eligible applicants for these programs, and examples of how programs can work in combination to serve local community needs. To obtain a guidebook, application kit, or print copy of the General Section or program NOFA, call the SuperNOFA Information Center at 1-800-HUD-8929 or 1-800-HUD-2209 (TTY).

You may request general information, copies of the General Section and Program Section of the SuperNOFA, and applications from the SuperNOFA Information Center (1-800-HUD-8929 or 1-800-HUD-2209 (TTY)) between the hours of 9:00 AM and 8:00 PM (Eastern Time) Monday through Friday, except on federal Holidays. When requesting information, please refer to the name of the program you are interested in. Be sure to provide your name, address (including zip code), and telephone number (including area code). To ensure sufficient time to prepare your application, requests for copies of this SuperNOFA can be made immediately following publication of the SuperNOFA. The SuperNOFA Information Center opens for business simultaneously with the publication of the SuperNOFA. You can also obtain information on this SuperNOFA and download application information for this SuperNOFA through the HUD Web site, http://www.hud.gov.

For Technical Assistance. Before the application due date, HUD staff will be available to provide you with general guidance and technical assistance about this SuperNOFA. However, HUD staff is not permitted to assist in preparing your application. Following selection of applicants, but before awards are made, HUD staff are available to assist in clarifying or confirming information that is a prerequisite to the offer of an award or Annual Contributions Contract (ACC) by HUD.

FEDERAL E-GRANTS INFORMATION

Streamlining Federal Financial Assistance. The Federal Financial Assistance Management Improvement Act of 1999 (Pub. L. 106-107) directs each federal agency to develop and implement a plan that, among other things, streamlines and simplifies the application, administrative, and reporting procedures for federal financial assistance programs administered by the agency. This law also requires the Director of the Office of Management and Budget (OMB) to direct, coordinate, and assist federal agencies in establishing (1) a common application and reporting system and, (2) an interagency process for addressing ways to streamline and simplify federal financial assistance application and administrative procedures and reporting requirements for program applicants.

This law also requires OMB to consult with the grantee community as it works with the federal agencies to develop and implement the course of action that would be undertaken by the federal agencies to establish an electronic site for accessing funding information and applications. Over the last two years, HUD has used its website to provide information to the public about HUD's participation in Interagency efforts to streamline grant and other financial assistance requirements and to seek your input as the federal agencies work together to achieve implementation. To find out about the work being done by the federal agencies to streamline and consolidate the application and reporting requirements, please go to http://www.hud.gov/offices/adm/grants/pl-106107/pl106-107.cfm

eGrants Initiative. HUD is working with the 26 federal grant-making agencies on President George W. Bush's eGrants Initiative. This Initiative is an effort by federal agencies to develop a common electronic application and reporting system for federal financial assistance. This system will provide “one-stop shopping” for funding opportunities for all federal programs. This system is being developed in response to concerns that it is difficult for organizations to know all the funding available from the federal government and how to apply for funding. It also is an effort by the federal government to develop common application requirements, further streamlining the application process, making it easier for you, our customers, to apply for funding. The first segment of the eGrants Initiative focuses on allowing the public to easily find funding opportunities and then apply via eGrants. Funding decisions would still be under the control of the federal agency sponsoring the program funding opportunity. To find out more about the eGrants vision and implementation schedule, please visit our website at http://www.hud.gov/offices/adm/grants/egrants/egrants.cfm

I. INTRODUCTION TO THE FY 2003 SUPERNOFA

Background

This SuperNOFA is designed to make it easier to find and apply for funding under a wide variety of HUD programs. The SuperNOFA provides a “menu” of HUD funding opportunities. From this menu, communities are made aware of funding available for their jurisdictions. By providing access to information about available funding at one time, HUD believes applicants are better able to coordinate services within communities, avoid duplication, and more efficiently serve those most in need of assistance. Public housing agencies, local and state governments, tribal governments and tribally-designated housing entities, veterans service organizations, non-profit organizations, including grass-roots faith-based and other community-based organizations, and others will be able to identify the programs for which they are eligible.

Organization of the SuperNOFA

The SuperNOFA is divided into two major sections, the General Section and the Program Section. The General Section of the SuperNOFA describes the procedures and requirements applicable to all applications. For each funding opportunity, the Program Section describes the eligible applicants, eligible activities, factors for award, and any additional requirements or limitations. Please read both sections carefully to be sure your application is complete. Your attention to the sections will ensure that you apply for funding for which your organization is eligible and that you fulfill all the requirements for application submission.

As part of the simplification of this funding process and to avoid duplication of effort, the SuperNOFA provides for consolidated notices and applications for several of the programs that are part of this SuperNOFA. The funding chart in this introductory section of the SuperNOFA identifies the programs that have been consolidated and for which a consolidated application is made available to eligible applicants.

HUD provides copies of all required forms in this publication. Standard forms, certifications, and assurances applicable to all programs are published in the General Section, Appendix B. The forms and any additional certifications and assurances unique to an individual program follow that program's section of the SuperNOFA.

The specific statutory and regulatory requirements of the programs that are part of this SuperNOFA continue to apply to each program. Each SuperNOFA Program Section identifies, where necessary, the statutory requirements and other unique requirements applicable to each specific program. Please pay careful attention to the specific submission requirements that are identified for each funding opportunity. Not all applicants are eligible to receive assistance under all funding opportunities identified in this SuperNOFA.

II. HUD'S FY 2003 SUPERNOFA PROCESS

HUD's Strategic Goals

Implementing HUD's Strategic Framework and Demonstrating Results. HUD is committed to ensuring that programs result in the achievement of HUD's strategic mission. To support this effort, grant applications submitted for HUD programs will be rated on how well they tie proposed outcomes to HUD's policy priorities and Annual Goals and Objectives, and the quality of proposed Evaluation and Monitoring Plans. HUD's Strategic Framework establishes the following Goals and Objectives for the Department:

1. Increase Homeownership Opportunities

• Expand national homeownership opportunities.

• Increase minority homeownership.

• Make the home buying process less complicated and less expensive.

• Fight practices that permit predatory lending.

• Help HUD-assisted renters become homeowners.

• Keep existing homeowners from losing their homes.

2. Promote Decent Affordable Housing

• Expand access to affordable rental housing.

• Improve the physical quality and management accountability of public and assisted housing.

• Increase housing opportunities for the elderly and persons with disabilities.

• Help HUD-assisted renters make progress toward self-sufficiency.

3. Strengthen Communities

• Improve economic conditions in distressed communities.

• Make communities more livable.

• End chronic homelessness.

• Mitigate housing conditions that threaten health.

4. Ensure Equal Opportunity in Housing

• Resolve discrimination complaints on a timely basis.

• Promote public awareness of Fair Housing laws.

• Improve housing accessibility for persons with disabilities.

5. Embrace High Standards of Ethics, Management, and Accountability

• Rebuild HUD's human capital and further diversify its workforce.

• Improve HUD's management, internal controls and systems, and resolve audit issues.

• Improve accountability, service delivery, and customer service of HUD and our partners.

• Ensure program compliance.

6. Promote Participation of Grass-Roots Faith-Based and Other Community-Based Organizations

• Reduce regulatory barriers to participation by grass-roots faith-based and other community-based organizations.

• Conduct outreach to inform potential partners of HUD opportunities.

• Expand technical assistance resources deployed to grass-roots faith-based and other community-based organizations.

• Encourage partnerships between grass-roots faith-based and other community-based organizations and HUD's traditional grantees.

You can find out about HUD's Strategic Framework and Annual Performance Plans at http://www.hud.gov/offices/cfo/reports/cforept.cfm.

Policy Priorities. HUD encourages applicants to undertake specific activities that will assist the Department in implementing its policy priorities and which help the Department achieve its goals for FY 2004, when the majority of funding recipients will be reporting programmatic results and achievements. Applicants who include work activities that specifically address one or more of these policy priorities will receive higher rating scores than applicants who do not address these HUD priorities. Each NOFA in the Program Section of this SuperNOFA will specify which priorities relate to a particular program and how many points will be awarded for addressing those priorities.

(A) Providing Increased Homeownership and Rental Opportunities for Low- and Moderate-Income Persons, Persons with Disabilities, the Elderly, Minorities, and Families with Limited English Proficiency. Too often, these individuals and families are shut out of the housing market through no fault of their own. Often developers of housing, housing counseling agencies, and other organizations engaged in the housing industry must work aggressively to open up the realm of homeownership and rental opportunities to low- and moderate-income persons, persons with disabilities, the elderly, minorities, or families with limited English proficiency. Many of these families are anxious to have a home of their own but are not aware of the programs and assistance that is available. Applicants are encouraged to address the housing, housing counseling, and other related supportive services needs of these individuals and coordinate their proposed activities with funding available through HUD's affordable housing programs and home loan programs. Proposed activities support strategic goals 1, 2, and 4.

(B) Improving our Nation's Communities. HUD wants to improve the quality of life for those living in distressed communities. Applicants are encouraged to include activities which:

(1) Bring private capital into distressed communities to:

• Finance business investments to grow new businesses;

• Maintain and expand existing businesses;

• Create a pool of funds for new small and minority-owned businesses;

• Create decent jobs for low-income persons.

(2) Improve the environmental health and safety of families living in public and privately-owned housing by including activities which:

• Coordinate lead hazard reduction programs with weatherization activities funded by state and local governments, and the federal government;

• Reduce or eliminate health related hazards in the home caused by toxic agents such as molds and other allergens, carbon monoxide and other hazardous agents and conditions.

(3) Make communities more livable.

• Provide public and social services.

• Improve infrastructure and community facilities.

Activities support strategic goals 2, 3, and 4.

(C) Encouraging Accessible Design Features. As described in Section V, applicants must comply with applicable civil rights laws including the Fair Housing Act, Section 504 of the Rehabilitation Act of 1973, and the Americans with Disabilities Act. These laws, and regulations implementing them, provide for nondiscrimination based on disability and require housing and other facilities to incorporate certain features intended to provide for their use and enjoyment by persons with disabilities. HUD is encouraging applicants to add accessible design features beyond those required under civil rights laws and regulations. These features would eliminate many other barriers limiting the access of persons with disabilities to housing and other facilities. Copies of the Uniform Federal Accessibility Standards (UFAS) are available from the SuperNOFA Information Center (1-800-HUD-8929 or 1-800-HUD-2209 (TTY)) and also from the Office of Fair Housing and Equal Opportunity, U.S. Department of Housing and Urban Development, Room 5230, 451 Seventh Street, SW, Washington, DC 20410-2000; 202-755-5404 or 1-800-877 8399 (TTY Federal Information Relay Service).

Accessible design features are intended to promote visitability and incorporate features of universal design as described below:

(1) Visitability in New Construction and Substantial Rehabilitation. Applicants are encouraged to incorporate visitability standards where feasible in new construction and substantial rehabilitation projects. Visitability standards allow a person with mobility impairments access into the home, but do not require that all features be made accessible. Visitability means that there is at least one entrance at grade (no steps), approached by an accessible route such as a sidewalk; and that the entrance door and all interior passage doors are at least 2 feet 10 inches wide, allowing 32 inches of clear passage space. A visitable home also serves persons without disabilities, such as a mother pushing a stroller or a person delivering a large appliance. More information about visitability is available at http://www.concretechange.org.

Activities support strategic goals 2, 3, and 4.

(2) Universal Design. Applicants are encouraged to incorporate universal design in the construction or rehabilitation of housing, retail establishments, and community facilities funded with HUD assistance. Universal design is the design of products and environments to be usable by all people to the greatest extent possible, without the need for adaptation or specialized design. The intent of universal design is to simplify life for everyone by making products, communications, and the built environment more usable by as many people as possible at little or no extra cost. Universal design benefits people of all ages and abilities. In addition to any applicable required accessibility features under Section 504 of the Rehabilitation Act of 1973 or the design and construction requirements of the Fair Housing Act, the Department encourages applicants to incorporate the principles of universal design when developing housing, community facilities, and electronic communication mechanisms, or when communicating with community residents at public meetings or events. HUD believes that by creating housing that is accessible to all, it can increase the supply of affordable housing for all, regardless of ability or age. Likewise, creating places where people work, train, and interact which are useable and open to all residents increases opportunities for economic and personal self-sufficiency. More information on Universal Design is available from the Center for Universal Design, at http://www.design.ncsu.edu:8120/cud/ or the Resource Center on Accessible Housing and Universal Design, at http://www.abledata.com/Site_2/accessib.htm.

Activities support strategic goals 1, 2, 3, and 4.

(D) Providing Full and Equal Access to Grassroots Faith-Based and Other Community-Based Organizations in HUD Program Implementation.

(1) HUD encourages non-profit organizations, including grassroots faith-based and other community-based organizations, to participate in the vast array of programs for which funding is available through this SuperNOFA. HUD also encourages states, units of local government, universities, and colleges and other organizations to partner with grassroots organizations, e.g., civic organizations, faith-communities, and grassroots faith-based and other community-based organizations that have not been effectively utilized. These grassroots organizations have a strong history of providing vital community services such as assisting the homeless and preventing homelessness, counseling individuals and families on fair housing rights, providing elderly housing opportunities, developing first-time homeownership programs, increasing homeownership and rental housing opportunities in neighborhoods of choice, developing affordable and accessible housing in neighborhoods across the country, creating economic development programs, and supporting the residents of public housing facilities. HUD wants to make its programs more effective, efficient, and accessible by expanding opportunities for grassroots organizations to participate in developing solutions for their own neighborhoods. Additionally, HUD encourages applicants to include these grass-roots faith-based and other community-based organizations in their workplans. Applicants, their partners, and participants must review the Program Section of this SuperNOFA to determine whether they are eligible to apply for funding directly or whether they must establish a working relationship with an eligible applicant in order to participate in a HUD funding opportunity. Grassroots faith-based and other community-based organizations, and applicants who currently or propose to partner, fund, subgrant, or subcontract with grassroots organizations (including grassroots faith-based or other community-based non-profits eligible under applicable program regulations) in conducting their work programs will receive higher rating points as specified in the program section of this SuperNOFA.

(2) Definition of Grassroots Organizations.

(a) HUD will consider an organization a “grassroots organization” if the organization is headquartered in the local community to which it provides services; and,

(i) Has a social services budget of $300,000 or less, or

(ii) Has six or fewer full-time equivalent employees.

(b) Local affiliates of national organizations are not considered “grassroots.” Local affiliates of national organizations are encouraged, however, to partner with grassroots organizations but must demonstrate that they are currently working with a grassroots organization (e.g., having a faith community or civic organization, or other charitable organization provide volunteers).

(c) The cap provided in paragraph (2)(a)(i) above includes only that portion of an organization's budget allocated to providing social services. It does not include other portions of the budget such as salaries and expenses not directly expended in the provision of social services.

Activities support strategic goal 6.

(E) Colonias. The Department of Housing and Urban Development is seeking to improve housing conditions for families living in Colonias. Colonias means any identifiable, rural community that:

• Is located in Arizona, California, New Mexico, or Texas;

• Is within 150 miles of the border between the United States and Mexico; and

• Is determined to be a colonia on the basis of objective need criteria, including lack of potable water supply, lack of adequate sewage systems, and lack of decent, safe, sanitary, and accessible housing.

Applicants proposing to create affordable housing and provide services to the Colonias will receive higher rating points.

Activities support strategic goals 1, 2, 3, and 4.

(F) Participation of Minority-Serving Institutions in HUD Programs. Pursuant to Executive Orders 13256 President's Board of Advisors on Historically Black Colleges and Universities, 13230 President's Advisory Commission on Educational Excellence for Hispanic Americans, 13216 Increasing Participation of Asian Americans and Pacific Islanders in Federal Programs, and 13270 Tribal Colleges and Universities, HUD is strongly committed to broadening the participation of Minority-Serving Institutions (MSIs) in its programs. HUD is interested in increasing the participation of MSIs in order to advance the development of human potential, strengthen the nation's capacity to provide high quality education, and increase opportunities for MSIs to participate and benefit from federal financial assistance programs. HUD encourages all applicants and recipients to include meaningful participation of MSIs in their work programs. A listing of MSIs can be found on the Department of Education Web site at http://www.ed.gov/offices/OCR/minorityinst.html or HUD's Web site at http://www.hud.gov.

Activities support strategic goals 3 and 4.

(G) Participation in Energy Star. The Department of Housing and Urban Development has adopted a wide-ranging energy action plan for improving energy efficiency in all program areas. As a first step in implementing the energy plan, HUD, the Environmental Protection Agency (EPA) and the Department of Energy (DoE) have signed a joint partnership to promote energy efficiency in HUD's affordable housing efforts and programs. The purpose of the Energy Star partnership is to promote energy efficiency of the affordable housing stock, but also to help protect the environment. Applicants constructing, rehabilitating, or maintaining housing or community facilities are encouraged to promote energy efficiency in design and operations. They are urged especially to purchase and use Energy Star labeled products. Applicants providing housing assistance or counseling services are encouraged to promote Energy Star building by homebuyers and renters. Program activities can include developing Energy Star promotional and information materials, outreach to low- and moderate-income renters and buyers on the benefits and savings when using Energy Star products and appliances, and promoting the designation of community buildings and homes as Energy Star compliant. For further information about Energy Star see http://www.energystar.gov or call 1-888-STAR-YES (1-888-782-7937) or for the hearing-impaired, 1-888-588-9920 TTY.

Activities support strategic goals 1 and 2.

(H) Ending Chronic Homelessness within Ten Years. President Bush has set a national goal to end chronic homelessness within ten years. Secretary Mel Martinez has embraced this goal and has pledged that HUD's grant programs will be used to support the President's goal and more adequately meet the needs of chronically homeless individuals. A person experiencing chronic homelessness is defined as an unaccompanied individual with a disabling condition who has been continuously homeless for a year or more or has experienced four or more episodes of homelessness over the last three years. In this year's SuperNOFA, applicants are encouraged to target assistance to chronically homeless persons by undertaking activities that will result in:

• Creation of affordable group homes or rental housing units;

• Establishing a set-aside of units of affordable housing for the chronically homeless;

• Substance abuse treatment programs targeted to homeless population;

• Job training programs which will provide opportunities for economic self-sufficiency;

• Counseling programs that assist homeless persons in finding housing, financial management, anger management, and building interpersonal relationships;

• Supportive services, such as health care assistance that will permit homeless individuals to become productive members of society;

• Provision of Service Coordinators or One Stop Assistance Centers that will ensure that chronically homeless persons have access to a variety of social services.

Activities support Strategic Goals 2 and 3.

Changes in the FY 2003 SuperNOFA Process

New Rating Factor 5. For FY 2003, rating Factor 5 has been changed to “Achieving Results and Program Evaluation.” This factor emphasizes HUD's commitment to ensuring that applicants keep promises made in their application and assess their performance to ensure performance goals are met.

Achieving results means you, the applicant, have clearly identified the benefits or outcomes of your program. Outcomes are ultimate goals. Benchmarks or outputs are interim activities or products that lead to the ultimate achievement of your goals.

Program evaluation requires that you, the applicant, identify program outcomes, interim products or benchmarks, and performance indicators that will allow you to measure your performance. Performance indicators should be objectively quantifiable and measure actual against planned achievements. Your Evaluation and Monitoring Plan should identify what you are going to measure, how it will be measured, and the steps you have in place to make adjustments to your work plan if performance targets are not met within established timeframes. HUD has included a new form, Logic Model, to help you complete your response to Rating Factor 5. The form is included in Appendix B, with other forms applicable to most or all of the programs in this SuperNOFA.

This new rating factor reflects HUD's goal to embrace high standards of ethics, management, and accountability.

Higher Minimum Score for Fundable Applications. For FY 2003, an application for any of the programs offered by this SuperNOFA must receive at least 75 points to be funded. Please take note of this scoring threshold and be sure to read the SuperNOFA carefully to ensure that you respond to the Factors for Award. A careful reading of the NOFA can help you improve your rating score.

Use of HUD 424 Forms. HUD has consolidated many of its application forms into a single HUD-424 form. The new HUD-424 consolidates budget-reporting forms for both construction and non-construction projects into a single form and eliminates the following separate certifications: Certification for a Drug-Free Workplace (HUD-50070), Certification of Payments to Influence Federal Transactions (HUD-50071), and Certification Regarding Debarment and Suspension (HUD-2992).

New form HUD 424 replaces SF 424 and HUD 424 M.

HUD 424 B replaces SF 424 B and D, and HUD 50070, 50071, and 2992.

HUD 424 C and CB replace SF 424 A and C.

The HUD 424 CBW is added as a common detailed Budget Worksheet to replace various budget worksheets used throughout the Department. These forms are available on HUD's Web Site at http://www.hud.gov/offices/adm/grants/fundsavail.cfm.

Race and Ethnicity. OMB published revised standards for collecting racial data on October 30, 1997. All agencies were required to be in compliance with the 1997 standards by January 1, 2003. These standards allow HUD and the other Federal agencies to acknowledge the growing diversity of the U.S. population. Under this policy, HUD and its business partners must offer individuals who are responding to agency data requests for race, the option of selecting one or more of five racial categories. HUD must also treat ethnicity as a separate category from race and change terminology for certain racial and ethnic groups. These definitions have been standardized across the Federal government and are provided below.

The two ethnic categories as revised by the Office of Management and Budget (OMB) are defined below:

• Hispanic or Latino. A person of Cuban, Mexican, Puerto Rican, South, or Central American, or other Spanish culture or origin, regardless of race. The term “Spanish origin,” can be used in addition to “Hispanic” or “Latino.”

• Not Hispanic or Latino. A person not of Cuban, Mexican, Puerto Rican, South or Central American, or other Spanish culture or origin, regardless of race.

The five racial categories as revised by the Office of Management and Budget are defined as follows:

• American Indian or Alaska Native. A person having origins in any of the original peoples of North and South America (including Central America), and who maintains tribal affiliation or community attachment.

• Asian. A person having origins in any of the original peoples of the Far East, Southeast Asia, or the Indian subcontinent including, for example, Cambodia, China, India, Japan, Korea, Malaysia, Pakistan, the Philippine Islands, Thailand, and Vietnam.

• Black or African American. A person having origins in any of the black racial groups of Africa. Terms such as “Haitian” or “Negro” can be used in addition to “Black” or “African American”.

• Native Hawaiian or Other Pacific Islander. A person having origins in any of the original peoples of Hawaii, Guam, Samoa, or other Pacific Islands.

• White. A person having origins in any of the original peoples of Europe, the Middle East, or North Africa.

Self-reporting or self-identification, rather than observer identification is the preferred method for collecting race and ethnicity data. Self-identification means that responses are based on self-perception. If you are required to provide HUD with race and ethnicity data, you must collect the data asking separate questions for race and for ethnicity. Furthermore, when collecting data the ethnicity question should precede the question about race. The Office of Management and Budget has recommended this sequence because pre-tests conducted by the U.S. Census Bureau found that placing ethnicity before race significantly reduced the non-response rate to the ethnicity question.

Thus, when collecting data from respondents it should be collected using the following two-question approach:

Ethnicity: (Select only one)

Hispanic or Latino

Not Hispanic or Latino

Race: (Select one or more):

American Indian or Alaskan Native

Asian

Black or African American

Native Hawaiian or Pacific Islander

White

Once data is collected using the method above, it can be analyzed and aggregated when reporting ethnicity and race data to HUD. You should use the categories listed in the template below to report the aggregate information. If any multiple race category not included in the template exceeds one percent of the population, you should identify the category, the actual count, and its percentage of population. In addition, you should identify the total number of all racial categories reported that do not fit the list of categories below, and do not equate to one percent of the total population being reported including, the total number of all such racial and ethnic categories. Finally, you should indicate the aggregate totals of all the information you have gathered including the total of all racial categories and the total of all the ethnic categories.

For grantees that are currently collecting data, you may need to compare data collected under both standards. Guidance on bridging data periods will be available in the Program Section of the SuperNOFA and HUD's SuperNOFA Web site at http://www.hud.gov. A copy of this reporting form can be found in Appendix B of the General Section of this SuperNOFA.

Executive Order 13166, Improving Access to Persons With Limited English Proficiency (LEP). Executive Order 13166 seeks to improve access to persons with limited English proficiency by providing materials and information in languages other than English.

Executive Order 13279 Equal Protection of the Laws for Faith-Based and Community Organizations. HUD is committed to full implementation of Executive Order 13279 and has undertaken a review of all policies and regulations that have implications for faith-based and community organizations, and has established a policy priority to provide full and equal access to grass-roots faith-based and other community-based organizations in HUD program implementation.

New Programs and Changes to Programs. The FY 2003 SuperNOFA includes the following funding opportunities, which were not included in FY2002:

• COPC Community Futures Awards;

• Housing Counseling—Predatory Lending;

• Housing Counseling—Section 8 Homeownership;

• Lead Outreach Grants;

• Lead Elimination Action Program;

• Community Development Work-Study;

• ROSS for Resident Services Delivery Model—Elderly;

• ROSS for Resident Services Delivery Model—Family.

Not Available for FY 2003. Funding opportunities that were part of the FY 2002 SuperNOFA but are not available in FY 2003 are:

• ROSS for Resident Management and Business Development;

• ROSS for Capacity Building;

• Rental Assistance for Non-elderly Persons with Disabilities Related to Certain Types of Section 8 Project-Based Development and Section 202, 221(d) and 236 Developments;

• Rental Assistance for Non-elderly Persons with Disabilities in Support of Designated Housing Plans.

Funding will be announced later in the year for:

• Permanent Housing and Special Efforts for Subpopulations Technical Assistance (PHASES-TA);

• Revitalization of Severely Distressed Public Housing (HOPE VI);

• Lead Hazard Reduction Demonstration Program;

• Community Development Block Grants for Indian Tribes and Alaska Native Villages (ICDBG);

• Urban Scholars Postdoctoral Fellowships;

• Research Studies on Homeownership and Affordable Lending;

• 202 Supportive Housing for the Elderly, Planning Grants.

Funding Notices Issued Prior to the SuperNOFA. Due to statutory deadlines for the obligation of funds or for other reasons, there are several programs for which notices of funding availability have been issued prior to the SuperNOFA. These include:

• Collaborative Initiative to Help End Chronic Homelessness;

• Capacity Building for Community Development and Affordable Housing, and;

• Hope VI Demolition Grants;

• Research on the Socio-Economic Change in Cities.

Information on these programs is available on the HUD Web site at ­http://www.hud.gov.

III. The Programs of This SUPERNOFA and the Amount of Funds Allocated

The funding opportunities that are part of this SuperNOFA are identified in the following chart. The amount of funds available is based on funds appropriated in FY 2003 and funds recaptured from prior years' appropriations. In the event that HUD recaptures program funds or other funds become available for a program, HUD reserves the right to increase the available funding by these additional amounts.

The chart also includes the application due date, the OMB approval number for the information collection requirements, and the Catalog of Federal Domestic Assistance (CFDA) number for each funding opportunity.

Paperwork Reduction Act Statement. The information collection requirements in this SuperNOFA have been approved by OMB under the Paperwork Reduction Act of 1995 (44 U.S.C. 3501-3520). The preceding chart provides the OMB approval number for each program that is part of this SuperNOFA. Where the chart notes that an OMB number is pending, this means that HUD has submitted the information to OMB to obtain an approval number and HUD's request for the number is pending. As soon as HUD receives the approval number, the number will be published in the Federal Register and provided to the SuperNOFA Information Center. Under the Paperwork Reduction Act, an agency may not conduct or sponsor, and a person is not required to respond to, a collection of information unless the collection displays a valid control number.

IV. Authority, Funding Amounts, and Eligible Applicants and Activities

(A) Authority. HUD's authority for making funding available under this SuperNOFA is Division K, Consolidated Appropriations Resolution, 2003, Public Law 108-7, approved February 20, 2003 (FY 2003 Consolidated Appropriations). Generally, this statement of authority is not repeated in the Program Section of this SuperNOFA. The authority provision in the Program Section identifies additional statutes and regulations that authorize the requirements listed for the funding competitions that make up this SuperNOFA.

(B) Funding Available. As noted in Section III of this General Section of the SuperNOFA, the HUD programs in this SuperNOFA are allocated amounts based on appropriated funds. If HUD recaptures funds in any program, HUD reserves the right to increase the available funding by those amounts.

(C) Eligible Applicants and Eligible Activities. The Program Section of the SuperNOFA describes the eligible applicants and eligible activities for each program.

V. Requirements and Procedures Applicable to All Programs

Except as may be modified in the Program Section of this SuperNOFA, the requirements, procedures and principles listed below apply to all programs that are part of this SuperNOFA. Please read the Program Section of the SuperNOFA for additional requirements or information.

(A) Statutory and Regulatory Requirements. To be eligible for funding under this SuperNOFA, you, the applicant, must meet all statutory and regulatory requirements applicable to the program or programs for which you seek funding. If you need copies of the program regulations, they are available from the SuperNOFA Information Center or through the HUD Web site, http://www.hud.gov. See the Program Section for instructions on how HUD will respond to proposed activities that are ineligible. With the exception of the Section 202 and Section 811 programs, HUD may also eliminate the ineligible activities from funding consideration and reduce funding amounts accordingly. Because of the competitive demand for Section 202 and Section 811 funds, applications to these two programs that include ineligible activities will be rejected and will not be rated and ranked.

(B) Threshold Requirements.

(1) Ineligible Applicants. HUD will not consider an application from an ineligible applicant.

(2) Compliance with Fair Housing and Civil Rights Laws.

(a) With the exception of federally recognized Indian tribes and their instrumentalities, all applicants and their subrecipients must comply with all Fair Housing and Civil Rights laws, statutes, regulations, and Executive Orders as enumerated in 24 CFR 5.105(a), as applicable. If you are a federally recognized Indian tribe, you must comply with the non-discrimination provisions enumerated at 24 CFR 1000.12, as applicable. In addition to these requirements, there may be program-specific threshold requirements identified in the Program Sections of the SuperNOFA.

(b) If you, the applicant:

(i) Have been charged with a systemic violation of the Fair Housing Act alleging ongoing discrimination;

(ii) Are a defendant in a Fair Housing Act lawsuit filed by the Department of Justice alleging an on-going pattern or practice of discrimination; or,

(iii) Have received a letter of non-compliance findings, identifying on-going or systemic noncompliance, under Title VI of the Civil Rights Act, Section 504 of the Rehabilitation Act, or Section 109 of the Housing and Community Development Act; and If the charge, lawsuit, or letter of findings has not been resolved to HUD's satisfaction before the application deadline stated in the individual program NOFA, you may not apply for assistance under this SuperNOFA. HUD will not rate and rank your application. HUD's decision regarding whether a charge, lawsuit, or a letter of findings has been satisfactorily resolved will be based upon whether appropriate actions have been taken to address allegations of on-going discrimination in the policies or practices involved in the charge, lawsuit, or letter of findings.

Examples of actions that may be taken prior to the application deadline to resolve the charge, lawsuit, or letter of findings, include but are not limited to a:

(i) Voluntary compliance agreement signed by all parties in response to the letter of findings;

(ii) HUD-approved conciliation agreement signed by all parties;

(iii) Consent order or consent decree; or

(iv) Judicial ruling or a HUD Administrative Law Judge's decision that exonerates the respondent of any allegations of discrimination.

(3) Conducting Business In Accordance with Core Values and Ethical Standards. Entities subject to 24 CFR parts 84 and 85 (most non-profit organizations and state, local and tribal governments or government agencies or instrumentalities who receive federal awards of financial assistance) are required to develop and maintain a written code of conduct (see §§ 84.42 and 85.36(b)(3)). Consistent with regulations governing specific programs, your code of conduct must: prohibit real and apparent conflicts of interest that may arise among officers, employees, or agents; prohibit the solicitation and acceptance of gifts or gratuities by your officers, employees, and agents for their personal benefit in excess of minimal value; and, outline administrative and disciplinary actions available to remedy violations of such standards. If awarded assistance under this SuperNOFA, you will be required, prior to entering into an agreement with HUD, to submit a copy of your code of conduct and describe the methods you will use to ensure that all officers, employees, and agents of your organization are aware of your code of conduct. Failure to meet the requirement for a code of conduct will prohibit you from receiving an award of funds from HUD.

(4) Delinquent Federal Debts. Consistent with the purpose and intent of 31 U.S.C. 3720B and 28 U.S.C. 3201(e), no award of federal funds shall be made to an applicant who has an outstanding delinquent federal debt until: (a) The delinquent account is paid in full; (b) a negotiated repayment schedule is established and at least one payment is received; or (c) other arrangements satisfactory to the Department of Housing and Urban Development are made prior to the deadline submission date.

(5) Pre-Award Accounting System Surveys. HUD may arrange for a pre-award survey of the applicant's financial management system in cases where the recommended applicant has no prior federal support, the program area has reason to question whether the applicant's financial management system meets federal financial management standards, or the applicant is considered a high risk based upon past performance or financial management findings. HUD will not make an award to any applicant who does not have a financial management system that meets federal standards.

(6) Other Threshold Requirements. The Program Section for the funding for which you are applying may specify other threshold requirements. Additional threshold requirements may be identified in the discussion of “eligibility” requirements in the Program Section.

(C) Additional Non-discrimination Requirements. You, the applicant, and your subrecipients must comply with the Americans with Disabilities Act of 1990 (42 U.S.C. 1201 et seq.) and Title IX of the Education Amendments Act of 1972 (20 U.S.C. 1681 et seq).

(D) Affirmatively Furthering Fair Housing. Under Section 808(e)(5) of the Fair Housing Act, HUD is obliged to affirmatively further fair housing. HUD requires the same of its funding recipients. If you are a successful applicant, you will have a duty to affirmatively further fair housing opportunities for classes protected under the Fair Housing Act. Protected classes are race, color, national origin, religion, sex, disability, and familial status. Unless otherwise instructed in the Program Section of this SuperNOFA, your application must include specific steps to:

(1) Overcome the effects of impediments to fair housing choice that were identified in the jurisdiction's Analysis of Impediments (AI) to Fair Housing Choice;

(2) Remedy discrimination in housing; and/or

(3) Promote fair housing rights and fair housing choice.

Further, you, the applicant, have a duty to carry out the specific activities provided in your responses to the SuperNOFA rating factors that address affirmatively furthering fair housing. Please see the Program Section of this SuperNOFA for additional information.

The requirements to affirmatively further fair housing apply to:

• Alaska Native/Native Hawaiian Institutions Assisting Communities (AN/NHIAC);

• Assisted Living Conversion Program (ALCP) for Eligible Multifamily Housing Projects;

• Brownfields Economic Development Initiative (BEDI);

• Community Outreach Partnership Centers (COPC);

• Continuum of Care Homeless Assistance Programs (SHP, Shelter Plus Care, Section 8 Moderate Rehab);

• Fair Housing Initiatives Program (FHIP);

• Funding Availability for Rental Certificate/Housing Choice Voucher Family Self-Sufficiency (FSS) Program;

• Healthy Homes Demonstration Program;

• Healthy Homes Initiative and Lead Technical Studies;

• Hispanic-Serving Institutions Assisting Communities (HSIAC);

• Historically Black Colleges and Universities (HBCU) Program;

• Housing Counseling;

• Housing Opportunities for Persons With AIDS (HOPWA);

• Lead Hazard Control Program;

• Mainstream Housing Opportunities for Persons with Disabilities;

• Public Housing Resident Opportunities and Self-Sufficiency (ROSS) Program;

• Rental Assistance for Non-Elderly Persons with Disabilities in Support of Designated Housing Plans;

• Rental Assistance for Non-Elderly Persons with Disabilities Related to Certain Developments;

• Resident Opportunities for Self-Sufficiency (ROSS) for Homeownership Supportive Services;

• Rural Housing and Economic Development (RHED);

• Section 202 Supportive Housing for Elderly Persons;

• Section 811 Supportive Housing for Persons with Disabilities;

• Self-Help Homeownership Opportunity Program (SHOP);

• Service Coordinators in Multifamily Housing; and

• Youthbuild Program.

(E) Economic Opportunities for Low- and Very Low-Income Persons (Section 3). Certain programs in this SuperNOFA require recipients of assistance to comply with Section 3 of the Housing and Urban Development Act of 1968 (Section 3), 12 U.S.C. 1701u (Economic Opportunities for Low- and Very Low-Income Persons in Connection with Assisted Projects) and the HUD regulations at 24 CFR part 135, including the reporting requirements at subpart E. Section 3 requires recipients to ensure that, to the greatest extent feasible, training, employment, and other economic opportunities will be directed to low- and very-low income persons, particularly those who are recipients of government assistance for housing, and business concerns which provide economic opportunities to low- and very low-income persons. As noted in the Program Section of this SuperNOFA, Section 3 is applicable to the following programs:

• Alaska Native/Native Hawaiian Institutions Assisting Communities (AN/NHIAC);

• Assisted Living Conversion Program (ALCP);

• Brownfields Economic Development Initiative (BEDI);

• Continuum of Care Homeless Assistance Programs;

• Healthy Homes and Lead Technical Studies;

• Healthy Homes Demonstration Program;

• Hispanic-Serving Institutions Assisting Communities (HSIAC);

• Historically Black Colleges and Universities (HBCU) Program;

• Housing Opportunities for Persons With AIDS (HOPWA);

• Lead Hazard Control;

• Lead Elimination Action Program (LEAP);

• Resident Opportunities and Self-Sufficiency Program (ROSS);

• Rural Housing and Economic Development (RHED);

• Section 202 Supportive Housing for the Elderly Program;

• Section 811 Supportive Housing for Persons with Disabilities Program;

• Self-Help Homeownership Opportunity Program (SHOP); and

• Youthbuild Program.

(F) Ensuring the Participation of Small Businesses, Small Disadvantaged Businesses, and Women-Owned Businesses. HUD is committed to ensuring that small businesses, small disadvantaged businesses, and women-owned businesses participate fully in HUD's direct contracting and in contracting opportunities generated by HUD financial assistance. Too often, these businesses still experience difficulty accessing information and successfully bidding on federal contracts. State, local, and tribal governments are required by 24 CFR 85.36(e) and non-profit recipients of assistance (grantees and sub-grantees) by 24 CFR 84.44(b), to take all necessary affirmative steps in contracting for purchase of goods or services to assure that minority firms, women's business enterprises, and labor surplus area firms are used when possible, or as specified in the Program Section.

(G) Relocation. The relocation requirements of the Uniform Relocation Assistance and Real Property Acquisition Policies Act of 1970, as amended, and the implementing government-wide regulation at 49 CFR part 24 cover any person who moves permanently from real property or moves personal property from real property directly because of acquisition, rehabilitation, or demolition for an activity undertaken with HUD assistance. Some HUD program regulations also cover persons who are temporarily relocated. See, e.g., 24 CFR 570.606(b)(2)(i)(D)(1)—(3), providing guidance on temporary relocation for CDBG. Applicants should review the regulations for the programs for which they are applying when planning their project.

(H) Forms, Certifications, and Assurances. You, the applicant, are required to submit signed copies of the standard forms, certifications, and assurances listed in this section, unless the requirements in the Program Section specify otherwise. In addition, the Program Section may specify additional forms, certifications, assurances, or other information that may be required for a particular program in this SuperNOFA. As part of HUD's continuing efforts to improve the SuperNOFA process, several of the required standard forms have been simplified this year. The HUD standard forms, certifications, and assurances are:

• Disclosure of Lobbying Activities (SF-LLL);

• Application for Federal Assistance (HUD-424);

• Budget Summary for Competitive Grant Programs (HUD-424C);

• Applicant Assurances and Certifications (HUD-424B);

• Grant Application Detailed Budget (HUD-424-CB);

• Grant Application Detailed Budget Worksheet (HUD-424-CBW);

• Applicant/Recipient Disclosure/Update Report (HUD-2880);

• Certification of Consistency with RC/EZ/EC Strategic Plan (HUD-2990) if applicable;

• Certification of Consistency with the Consolidated Plan (HUD-2991) if applicable;

• Acknowledgment of Application Receipt (HUD-2993);

• Client Comments and Suggestions (HUD 2994) (Optional);

• Survey on Ensuring Equal Opportunity for Applicants (HUD-23004);

• Race and Ethnic Data Reporting Form (HUD-27061);

• Program Outcome Logic Model (HUD-96010-I).

Copies of these standard forms and the Funding Application for the Housing Choice Voucher Program (HUD 52515) follow this General Section of the SuperNOFA. Copies of forms that are particular to an individual program follow the funding information for that program.

(I) Name Check Review. Applicants are subject to a name check review process. Name checks are intended to reveal matters that significantly reflect on the applicant's management and financial integrity, or if any key individuals have been convicted or are presently facing criminal charges. If the name check reveals significant adverse findings that reflect on the business integrity or responsibility of the recipient and/or key individual, HUD reserves the right to: (a) Deny funding or consider suspension/termination of an award immediately for cause; (b) require the removal of any key individual from association with management of and/or implementation of the award; and (c) make appropriate provisions or revisions with respect to the method of payment and/or financial reporting requirements.

(J) False Statements. A false statement in an application is grounds for denial or termination of an award and grounds for possible punishment as provided in 18 U.S.C. 1001.

(K) OMB Circulars and Government-wide Regulations Applicable to Financial Assistance Programs. Certain OMB circulars also apply to programs in this SuperNOFA. The policies, guidance, and requirements of OMB Circular A-87 (Cost Principles Applicable to Grants, Contracts and Other Agreements with State and Local Governments), OMB Circular A-21 (Cost Principles for Education Institutions), OMB A-122 (Cost Principles for Nonprofit Organizations), OMB Circular A-133 (Audits of States, Local Governments, and Non-Profit Organizations), and the regulations in 24 CFR part 84 (Grants and Agreements with Institutions of Higher Education, Hospitals, and other Non-Profit Organizations), and 24 CFR part 85 (Administrative Requirements for Grants and Cooperative Agreements to State, Local, and Federally recognized Indian tribal governments), may apply to the award, acceptance, and use of assistance under the programs of this SuperNOFA, and to the remedies for non-compliance, except when inconsistent with the provisions of the FY 2003 Consolidated Appropriations, other federal statutes or regulations, or the provisions of this SuperNOFA. Compliance with additional OMB Circulars or government-wide regulations may be specified for a particular program in the Program Section of the SuperNOFA. Copies of the OMB Circulars may be obtained from EOP Publications, Room 2200, New Executive Office Building, Washington, DC 20503, telephone (202) 395-3080 (this is not a toll-free number) or 1-800-877 8399 (TTY Federal Information Relay Service); or, from the Web site, http://www.whitehouse.gov/omb/circulars/index.html.

(L) Environmental Requirements. If you become a recipient under one of the programs in this SuperNOFA that assist physical development activities or property acquisition, you are generally prohibited from acquiring, rehabilitating, converting, demolishing, leasing, repairing or constructing property, or committing or expending HUD or non-HUD funds for these types of program activities, until one of the following has occurred:

(1) HUD has completed an environmental review in accordance with 24 CFR part 50; or

(2) For programs subject to 24 CFR part 58, HUD has approved a recipient's Request for Release of Funds (Form HUD 7015.15) following a Responsible Entity's completion of an environmental review.

You, the applicant, should consult the Program Section of the SuperNOFA for the applicable program to determine the procedures for, timing of, and any exclusions from environmental review under a particular program. For applicants applying for funding under the Sections 202 or 811 Programs, please note the environmental review requirements for these programs.

(M) Conflicts of Interest. If you are a consultant or expert who is assisting HUD in rating and ranking applicants for funding under this SuperNOFA, you are subject to 18 U.S.C. 208, the federal criminal conflict of interest statute, and the Standards of Ethical Conduct for Employees of the Executive Branch regulation published at 5 CFR part 2635. As a result, if you have assisted or plan to assist applicants with preparing applications for this SuperNOFA, you may not serve on a selection panel and you may not serve as a technical advisor to HUD for this SuperNOFA. All individuals involved in rating and ranking this SuperNOFA, including experts and consultants, must avoid conflicts of interest or the appearance of conflicts. Individuals involved in the rating and ranking of applications must disclose to HUD's General Counsel or HUD's Ethics Law Division the following information, if applicable: how the selection or non-selection of any applicant under this SuperNOFA will affect the individual's financial interests, as provided in 18 U.S.C. 208; or, how the application process involves a party with whom the individual has a covered relationship under 5 CFR 2635.502. The individual must disclose this information prior to participating in any matter regarding this SuperNOFA. If you have questions regarding these provisions or if you have questions concerning a conflict of interest, you may call the Office of General Counsel, Ethics Law Division, at (202) 708-3815.

(N) Prohibition Against Lobbying Activities. You, the applicant, are subject to the provisions of Section 319 of the Department of Interior and Related Agencies Appropriation Act for Fiscal Year 1991, 31 U.S.C. 1352 (the Byrd Amendment), which prohibits recipients of federal contracts, grants, or loans from using appropriated funds for lobbying the executive or legislative branches of the federal government in connection with a specific contract, grant, or loan. When you sign Form HUD-424, Application for Federal Assistance, you certify, to the best of your knowledge and belief, that no federal appropriated funds have been paid, or will be paid, by or on behalf of the applicant, to any person for influencing or attempting to influence an officer or employee of an agency, a Member of Congress, an officer or employee of Congress, or an employee of a Member of Congress, in connection with the awarding of this federal grant or its extension, renewal, amendment, or modification. In addition, you must disclose, using Standard Form LLL “Disclosure of Lobbying Activities,” any funds, other than federally appropriated funds, that will be or have been used to influence federal employees, Members of Congress, and congressional staff regarding specific grants or contracts. Federally recognized Indian tribes and tribally designated housing entities (TDHEs) established by federally recognized Indian tribes as a result of the exercise of the tribe's sovereign power are excluded from coverage of the Byrd Amendment, but state-recognized Indian tribes and TDHEs established under state law must comply with this requirement.

(O) Accessible Technology. The Rehabilitation Act Amendments of 1998 (the Act) apply to all electronic information technology (EIT) used by a recipient for transmitting, receiving, using, or storing information to carry out the responsibilities of any federal funds awarded. The Act's coverage includes, but is not limited to, computers (hardware, software, word-processing, email, and web pages), facsimile machines, copiers, and telephones. When developing, procuring, maintaining, or using EIT, funding recipients must ensure that the EIT allows employees with disabilities and members of the public with disabilities to have access to and use of information and data that is comparable to the access and use of information and data by employees and members of the public who do not have disabilities. If these standards impose a hardship on a funding recipient, a recipient may provide an alternative means to allow the individual to use the information and data. However, no recipient will be required to provide information services to a person with disabilities at any location other than the location at which the information services is generally provided.

(P) Procurement of Recovered Materials. State agencies and agencies of a political subdivision of a state that are using assistance under this SuperNOFA for procurement, and any person contracting with such an agency with respect to work performed under an assisted contract, must comply with the requirements of Section 6002 of the Solid Waste Disposal Act, as amended by the Resource Conservation and Recovery Act. In accordance with Section 6002, these agencies and persons must procure items designated in guidelines of the Environmental Protection Agency at 40 CFR part 247 that contain the highest percentage of recovered materials practicable, consistent with maintaining a satisfactory level of competition, where the purchase price of the item exceeds $10,000 or the quantity acquired in the preceding fiscal year exceeded $10,000; must procure solid waste management services in a manner that maximizes energy and resource recovery; and must have established an affirmative procurement program for procurement of recovered materials identified in the EPA guidelines.

(Q) Participation in HUD-Sponsored Program Evaluation. As a condition of the receipt of financial assistance under this SuperNOFA all successful applicants will be required to cooperate with all HUD staff or contractors performing HUD-funded research and evaluation studies.

(R) Executive Order 13202, Preservation of Open Competition and Government Neutrality Towards Government Contractors' Labor Relations on Federal and Federally Funded Construction Projects. Consistent with Executive Order 13202, “Preservation of Open Competition and Government Neutrality Towards Government Contractors' Labor Relations on Federal and Federally Funded Construction Projects,” as amended, it is a condition of receipt of assistance under this SuperNOFA that neither you nor any subrecipient or program beneficiary receiving funds under an award granted under this SuperNOFA, nor any construction manager acting on behalf of you or any such subrecipient or program beneficiary, may require bidders, offerors, contractors, or subcontractors to enter into or adhere to any agreement with any labor organization on any construction project funded in whole or in part by such award or on any related federally funded construction project; or prohibit bidders, offerors, contractors, or subcontractors from entering into or adhering to any such agreement on any such construction project; or otherwise discriminate against bidders, offerors, contractors, or subcontractors on any such construction project because they become or refuse to become or remain signatories or otherwise to adhere to any such agreements. Contractors and subcontractors are not prohibited from voluntarily entering into such agreements. A recipient or its construction manager may apply to HUD under Section 5(c) of the Executive Order for an exemption from these requirements for a project where a construction contract on the project had been awarded as of February 17, 2001, and was subject to requirements that are prohibited under the Executive Order.

(S) Executive Order 13166, Improving Access to Persons With Limited English Proficiency (LEP). Consistent with Executive Order 13166, “Improving Access to Persons With Limited English Proficiency (LEP”) issued on August 11, 2000, all HUD recipients should take reasonable steps to provide certain materials and information available in languages other than English. The determination as to what materials, languages, and modes of translation/interpretation services should be used shall be based upon: (a) The specific needs and capabilities of the LEP populations among the award recipient's program beneficiaries and potential beneficiaries of assistance (e.g. tenants, community residents, counselees, trainees, etc.); (b) the recipient's primary and major program purposes; (c) resources of the recipient and size of the program; and (d) local housing, demographic, and community conditions and needs. Further guidance may be found at http://www.lep.gov.

(T) Executive Order 13279 Equal Protection of the Laws for Faith-Based and Community Organizations. HUD is committed to full implementation of 13279 and has undertaken a review of all policies and regulations that have implications for faith-based and community organizations, and has established a policy priority to provide full and equal access to grass-roots faith-based and other community-based organizations in HUD program implementation. As part of HUD's efforts to support the Administration's Initiative, HUD has included Form HUD-23004, Survey on Ensuring Equal Opportunity for Applicants, with the standard forms in Appendix B of the General Section of this SuperNOFA. HUD asks that applicants complete this form to help HUD assess the extent of participation by grassroots faith-based and other community-based organizations.

(U) Salary Limitation for Consultants. FY 2003 funds may not be used to pay or to provide reimbursement for payment of the salary of a consultant at more than the daily equivalent of the rate paid for level IV of the Executive Schedule, unless specifically authorized by law.

VI. Application Selection Process

(A) Threshold Compliance. Only applications that meet all of the threshold requirements will be eligible to be rated and ranked.

(B) Rating Panels. To review and rate applications, HUD may establish panels which may include persons not currently employed by HUD. HUD may include these non-HUD employees to obtain certain expertise and outside points of view, including views from other federal agencies.

Rating. HUD will evaluate and rate all applications for funding that meet the threshold requirements.

• Past Performance. In evaluating applications for funding HUD will take into account applicants' past performance in managing funds, including the ability to account for funds appropriately; timely use of funds received either from HUD or other federal, state, or local programs; meeting performance targets for completion of activities and receipt of promised matching or leveraged funds; and, number of persons to be served or targeted for assistance. HUD may consider information available from HUD's records or available from public sources such as, but not limited to, newspapers, Inspector General or Government Accounting Office Reports or Findings, and/or hotline complaints that have been proven to have merit.

• Deducting Points for Poor Performance. In evaluating past performance, HUD may elect to deduct points from the rating score or establish threshold levels as specified under the Factors for Award in the Program Section of this SuperNOFA.

Ranking. HUD will rank applicants within each program or, for Continuum of Care applicants, across the three programs identified in the Continuum of Care section of this SuperNOFA. HUD will rank applicants only against those applying for the same program funding. Where there are set-asides within a program competition, you, the applicant, will compete against only those applicants in the same set-aside competition.

(C) Factors for Award Used to Evaluate and Rate Applications. For each program that is part of this SuperNOFA, the points awarded for the rating factors total 100. Depending upon the program for which you, the applicant, are seeking funding, the funding opportunity may provide for up to four bonus points as provided in paragraphs (1) and (2) of this Section VI(C).

(1) RC/EZ/EC. The SuperNOFA provides for the award of two bonus points for eligible activities/projects that the applicant proposes to be located in federally designated Empowerment Zones (EZs), Enterprise Communities (ECs), Urban Enhanced Enterprise Communities (EECs), Strategic Planning Communities, or Renewal Communities (RCs), that serve the residents of these areas, and are certified to be consistent with the area's strategic plan. (For ease of reference in the SuperNOFA, all these federally designated areas are collectively referred to as “RC/EZ/ECs” and residents of any of these federally designated areas as “RC/EZ/EC residents.”) The individual funding announcement will indicate if the bonus points are available for that funding. The SuperNOFA contains a certification that must be completed for the applicant to be considered for RC/EZ/EC bonus points. A list of RCs, EZs, ECs, EECs, and Strategic Planning Communities is attached to this General Section of the SuperNOFA as Appendix A-2 and is also available from the SuperNOFA Information Center, and the HUD Web site, http://www.hud.gov.

(2) Brownfields Show Case Communities: In the BEDI competition, two bonus points are available for federally designated Brownfields Show Case Communities. (Please see BEDI section of this SuperNOFA for additional information.) A list of the federally designated RCs, EZs, ECs, Enhanced ECs, and Brownfields Show Case Communities is available from the SuperNOFA Information Center or through the HUD Web site, http://www.hud.gov.

(D) The Five Standard Rating Factors for FY 2003. The majority of programs in this SuperNOFA use the five rating factors described below. Additional details about the five rating factors and the maximum points for each factor are provided in the Program Section of the SuperNOFA. You, the applicant, should carefully read the factors for award as described in the Program Section of the SuperNOFA. HUD has established these five factors as the basic factors for award in every program that is part of this SuperNOFA. For a specific funding opportunity, however, HUD may modify these factors to take into account specific program needs or statutory or regulatory limitations imposed on a program. The standard factors for award, except as modified in the program area section, are:

Factor 1: Capacity of the Applicant and Relevant Organizational Staff

Factor 2: Need/Extent of the Problem

Factor 3: Soundness of Approach

Factor 4: Leveraging Resources

Factor 5: Achieving Results and Program Evaluation

The Continuum of Care Homeless Assistance Program has only two factors that receive points: Need and Continuum of Care.

(E) Negotiation. After HUD has rated and ranked all applications and made selections, HUD may require, depending upon the program, that all selected applicants participate in negotiations to determine the specific terms of the funding agreement and budget. In cases where HUD cannot successfully conclude negotiations with a selected applicant or a selected applicant fails to provide HUD with requested information, an award will not be made to that applicant. In this instance, HUD may offer an award, and proceed with negotiations with the next highest-ranking applicant.

(F) Adjustments to Funding.

(1) HUD reserves the right to fund less than the full amount requested in your application to ensure the fair distribution of funds and ensure that the purposes or requirements of a specific program are met.

(2) HUD will not fund any portion of your application that: is not eligible for funding under specific program statutory or regulatory requirements; does not meet the requirements of this SuperNOFA; or may be duplicative of other funded programs or activities from prior year awards or other selected applicants. Only the eligible portions of your application (including non-duplicative portions) may be funded.

(3) If funds remain after funding the highest-ranking applications, HUD may fund all or part of the next highest-ranking application in a given program. If you, the applicant, turn down an award offer, HUD will make an offer of funding to the next highest-ranking application. If funds remain after all selections have been made, remaining funds may be available for other competitions for each program where there is a balance of funds.

(4) In the event HUD commits an error that, when corrected, would result in selection of an otherwise eligible applicant during the funding round of this SuperNOFA, HUD may select that applicant when sufficient funds become available.

(G) Performance and Compliance Actions of Funding Recipients. HUD will measure and address the performance and compliance actions of funding recipients in accordance with the applicable standards and sanctions of their respective programs.

VII. Application Submission Requirements

Be sure to read and follow the application submission requirements published in the Program Section for which you are applying. As noted above, once you have submitted one signed, original set of forms, certifications and assurances, you may send copies of these standard items with each additional application you submit.

VIII. Corrections to Deficient Applications

After the application due date, HUD may not, consistent with its regulations in 24 CFR part 4, subpart B, consider any unsolicited information you, the applicant, may want to provide. HUD may contact you to clarify an item in your application or to correct technical deficiencies. HUD may not seek clarification of items or responses that improve the substantive quality of your response to any rating factors. In order not to unreasonably exclude applications from being rated and ranked, HUD may contact applicants to ensure proper completion of the application and will do so on a uniform basis for all applicants. Examples of curable (correctable) technical deficiencies include failure to submit the proper certifications or failure to submit an application that contains an original signature by an authorized official or failure to submit the requested number of copies. In each case, HUD will notify you in writing by describing the clarification or technical deficiency. HUD will notify applicants by facsimile or by USPS, return receipt requested. Clarifications or corrections of technical deficiencies in accordance with the information provided by HUD must be submitted within 14 calendar days of the date of receipt of the HUD notification. (If the due date falls on a Saturday, Sunday, or federal holiday, your correction must be received by HUD on the next day that is not a Saturday, Sunday, or federal holiday.) If the deficiency is not corrected within this time period, HUD will reject the application as incomplete and it will not be considered for funding. (Sections 202 and 811 Programs provide for appeal of rejection of an application on technical deficiency. Please see the Program Section for these programs for additional information and instructions.)

IX. Findings and Certifications

Environmental Impact. A Finding of No Significant Impact with respect to the environment has been made in accordance with HUD regulations at 24 CFR part 50 that implement Section 102(2)(C) of the National Environmental Policy Act of 1969 (42 U.S.C. 4332). The Finding of No Significant Impact is available for public inspection between 8:00 a.m. and 5:00 p.m. in the Office of the General Counsel, Regulations Division, Room 10276, U.S. Department of Housing and Urban Development, 451 Seventh Street, SW., Washington, DC 20410-0500.

X. Executive Orders and Congressional Intent

(A) Executive Order 13132, Federalism. Executive Order 13132 prohibits, to the extent practicable and permitted by law, an agency from promulgating policies that have federalism implications and either impose substantial direct compliance costs on state and local governments and are not required by statute, or preempt state law, unless the relevant requirements of Section 6 of the Executive Order are met. This SuperNOFA does not have federalism implications and does not impose substantial direct compliance costs on state and local governments or preempt state law within the meaning of the Executive Order.

(B) Executive Order 12372, Intergovernmental Review of Federal Programs. Executive Order 12372 was issued to foster intergovernmental partnership and strengthen federalism by relying on state and local processes for the coordination and review of federal financial assistance and direct federal development. HUD implementing regulations are published in 24 CFR part 52. The Order allows each state to designate an entity to perform a state review function. The official listing of State Points of Contact (SPOC) for this review process can be found at http://www.whitehouse.gov/omb/grants/spoc.html. States not listed on the website have chosen not to participate in the intergovernmental review process and, therefore, do not have a SPOC. If your state has a SPOC, you should contact them to see if they are interested in reviewing your application prior to submission to HUD. Please make sure that you allow ample time for this review process when developing and submitting your applications. If your state does not have a SPOC, you may send applications directly to HUD.

(C) Sense of Congress. It is the sense of Congress, as published in section 409(a) of the Conference Report of HJR 2, that, to the greatest extent practicable, all equipment and products purchased with funds made available in this Act should be American-made.

XI. Public Access, Documentation and Disclosure

(A) Section 102 of the HUD Reform Act, Documentation and Public Access Requirements. Section 102 of the Department of Housing and Urban Development Reform Act of 1989 (42 U.S.C. 3545) (HUD Reform Act) and the regulations codified in 24 CFR part 4, subpart A, contain a number of provisions that are designed to ensure greater accountability and integrity in the provision of certain types of assistance administered by HUD. On January 14, 1992, HUD published a notice that also provides information on the implementation of Section 102 (57 FR 1942). The documentation, public access, and disclosure requirements of Section 102 apply to assistance awarded under this SuperNOFA as follows:

(1) Documentation, public access, and disclosure requirements. HUD will ensure that documentation and other information regarding each application submitted pursuant to this SuperNOFA are sufficient to indicate the basis upon which assistance was provided or denied. This material, including any letters of support, will be made available for public inspection for a five-year period beginning not less than 30 days after the award of the assistance. Material will be made available in accordance with the Freedom of Information Act (5 U.S.C. 552) and HUD's implementing regulations (24 CFR part 15).

(2) HUD Form 2880. HUD will also make available to the public for five years all applicant disclosure reports (HUD Form 2880) submitted in connection with this SuperNOFA. Update reports (also reported on HUD Form 2880) will be made available along with the applicant disclosure reports, but in no case for a period of less than three years. All reports, both applicant disclosures and updates, will be made available in accordance with the Freedom of Information Act (5 U.S.C. 552) and HUD's implementing regulations (24 CFR part 5).

(3) Publication of Recipients of HUD Funding. HUD's regulations at 24 CFR part 4 provide that HUD will publish a notice in the Federal Register to notify the public of all decisions made by the Department to provide:

(i) Assistance subject to Section 102(a) of the HUD Reform Act; and/or

(ii) Assistance provided through grants or cooperative agreements on a discretionary (non-formula, non-demand) basis, but that is not provided on the basis of a competition.

(4) Debriefing. Beginning 30 days after the awards for assistance are publicly announced and for at least 120 days after awards for assistance are publicly announced, HUD will provide a debriefing to any applicant requesting one on their application. All debriefing requests must be made in writing or by email by the authorized official whose signature appears on the SF-424 or his or her successor in office, and submitted to the person or organization identified as the Contact under the section entitled “Further Information and Technical Assistance” in the Program Section of the SuperNOFA under which you applied for assistance. Information provided during a debriefing will include, at a minimum, the final score you received for each rating factor, final evaluator comments for each rating factor, and the final assessment indicating the basis upon which assistance was provided or denied.

(B) Section 103 of the HUD Reform Act. HUD's regulations implementing Section 103 of the Department of Housing and Urban Development Reform Act of 1989 (42 U.S.C. 3537a), codified in 24 CFR part 4, subpart B, section 4.26(2)(c) et. seq. and 4.28 apply to this funding competition. The regulations continue to apply until the announcement of the selection of successful applicants. HUD employees involved in the review of applications and in the making of funding decisions are limited by the regulations from providing advance information to any person (other than an authorized employee of HUD) concerning funding decisions or from otherwise giving any applicant an unfair competitive advantage. Persons who apply for assistance in this competition should confine their inquiries to the subject areas permitted under 24 CFR part 4.

Applicants or employees who have ethics related questions should contact the HUD Ethics Law Division at 202-708-3815. (This is not a toll-free number.) HUD employees who have specific program questions should contact the appropriate field office counsel or Headquarters counsel for the program to which the question pertains.

XII. The FY 2003 SUPERNOFA Process and Future HUD Funding Processes

Each year, HUD strives to improve its SuperNOFA. The FY 2003 SuperNOFA was revised based upon comments received during the FY 2002 funding process. HUD continues to welcome comments and feedback from applicants and other members of the public on how HUD may further improve its competitive funding process. In FY 2004, as part of Public Law 106-107 streamlining efforts and the interagency eGrants Initiative, HUD anticipates making considerable changes to the format and presentation of its funding notices. We are continually striving to ensure effective communication with our program funding recipients and potential funding recipients. HUD has been posting pertinent documents related to these efforts on its website. HUD encourages you to visit our website on an ongoing basis to keep abreast of the latest developments. Our website address for information on the eGrants Initiative is http://www.hud.gov/offices/adm/grants/egrants/egrants.cfm. Information on Grant streamlining activities can be found on http://www.hud.gov/offices/adm/grants/pl-106107/pl106-107.cfm.

The description of programs for which funding is available under this SuperNOFA follows this General Section and its appendices.

Dated: April 15, 2003.
Mel Martinez,
Secretary.

FUNDING AVAILABILITY FOR COMMUNITY DEVELOPMENT TECHNICAL ASSISTANCE (CD-TA) PROGRAMS—HOME, CHDO (HOME), McKINNEY-VENTO HOMELESS ASSISTANCE, AND HOPMA

PROGRAM OVERVIEW

Purpose of the Program. Funds are available to provide technical assistance (TA), under cooperative agreements with HUD, for four separate programs: (1) HOME Investment Partnerships Program (HOME); (2) HOME Investment Partnerships Program for Community Housing Development Organizations [CHDO (HOME)]; (3) McKinney-Vento Homeless Assistance; and (4) Housing Opportunities for Persons With AIDS (HOPWA).

Available Funds. Approximately $22.9 million in Fiscal Year 2003 funds is available for the CD-TA programs and additional funds that may become available as a result of recapturing unused funds.

Eligible Applicants. Eligibility differs for each of the CD-TA programs. Specific eligibility requirements for the fourthree CD-TA programs are found below in Section III (B).

Application Deadline. June 4, 2003.

Match. None.

Additional Information

If an organization is interested in applying for funding under this program, it should review carefully the General Section of this SuperNOFA and the following additional information.

I. Application Due Date; Application Submission Procedures; Addresses for Submitting Applications; For Further Information and Technical Assistance

(A) Application Due Date. Applicants must submit completed applications on or before May 28, 2003 to the addresses shown below.

(B) Application Submission Procedures. Only one application per organization is permitted; however, the one application may contain a proposal for one, two, three, or all four CD-TA programs, including the special “pooled” Field Office HOME Program TA arrangement being offered for the first time in this NOFA and described in Section II (B).

Applicants must submit two copies of their application. One original application must be submitted to HUD Headquarters; it is considered the official application. Applicants must also send a copy of the original application to each HUD Field Office in which their organization is seeking to provide services, except that, in the case of pooled Field Office HOME TA, applicants need only submit the original and one copy to HUD Headquarters.

Applicants must refer to the General Section of this SuperNOFA for detailed requirements governing application submission and receipt

(C) Addresses for Submitting Applications. While following the procedures in the General Section of this SuperNOFA, submit the original application to HUD Headquarters at: U.S. Department of Housing and Urban Development; CPD Processing and Control Branch, Room 7251; 451 Seventh Street, SW; Washington, DC 20410; Attention: CD-TA. Submit a copy of the application to the appropriate Field Office(s) at the address(es) shown on the list of HUD Field Offices included as Appendix B. Please mark the package Attention: CD-TA.

(D) For Further Information and Technical Assistance. Applicants may contact HUD Headquarters at 202-708-3176, or they may contact the HUD Field Office serving their area shown in Appendix B. Persons with hearing and speech challenges may access the above numbers via TTY (text telephone) by calling the Federal Relay Service at 1-800-877-8339 (this is a toll-free number). Information may also be obtained through the HUD Web site on the Internet at http://www.hud.gov.

HUD will hold an informational satellite broadcast for potential applicants to learn more about the CD-TA programs and preparation of the application. For information about the date and time of the broadcast, consult the HUD Web site at http://www.hud.gov.

II. Description of National and Field Office TA; Amounts Allocated; Fair Share; Award Adjustments; Award Period

(A) Description of National and Field Office TA. National TA activities are those that address, at a national or regional level, one or more of the CD-TA program activities and/or priorities identified in Section III (C) of this NOFA. National TA activities may include the development and delivery of training, delivery of training courses previously approved by HUD, development of written products, delivery of direct TA, the organization and delivery of workshops and conferences, and the development of online training materials. National TA activities will be administered by a Government Technical Representative (GTR) and Government Technical Monitor (GTM) at HUD Headquarters. Regardless of the geographical coverage proposed for the TA, applicants for National TA must be willing to work in any Field Office area listed in Appendix A of this NOFA.

All Field Office TA activities must also address the CD-TA program activities and/or priorities identified in Section III (C), but the TA will be targeted to the specific needs of each Field Office in which the TA is proposed. Field Office TA activities are limited to the development of needs assessments, the organization and delivery of workshops and conferences, the customization and delivery of previously approved HUD trainings, and direct TA. Following the award of CD-TA program funds, HUD Headquarters may approve other proposed Field Office TA activities on a case-by-case basis. Field Office TA will be administered by a GTR and GTM in the respective HUD Field Office. Please note that the pooled Field Office HOME TA is Field Office TA carried out in Field Office jurisdictions and directed by Field Office GTRs and GTMs. Pooled Field Office HOME TA will involve coordination between HUD Headquarters and the respective Field Office as described in Section II (B).

(B) Amounts Allocated. The amounts allocated for each CD-TA program are given below. Appendix A shows how the funds are divided between National TA and Field Office TA.

(1) HOME TA funds available are approximately $8.3 million. National HOME TA funds will be available only to applicants proposing eligible activities that are national in scope. Field Office TA funds will be available to those proposing to provide TA in the geographic areas under the purview of Field Offices and those Field Offices selecting Option #2 as described below under (C) “Fair-Share”. (Field Offices that selected Option #2 are identified in Appendix A.) Please note that funding from HOME TA and all other HOME Program-related TA sources to any single eligible organization (excluding funds for organizational support and housing education “passed through” to CHDOs), whether as an applicant or subrecipient is limited to not more than 20 percent of the operating budget of the recipient organization, and is limited to 20 percent of the $17,883,000 made available for HOME and CHDO (HOME) TA in FY 2003.

(2) CHDO (HOME) TA funds available are approximately $6 million. Not less than 40 percent of the funds are available for eligible applicants that have worked primarily in one state. HUD will consider an intermediary as a primarily single State technical assistance provider if it can document that more than 50 percent of its past activities in working with CHDOs or similar nonprofit and other organizations (on the production of affordable housing, revitalization of deteriorating neighborhoods, and/or the delivery of technical assistance to these groups) was confined to the geographic limits of a single state. Funding from CHDO (HOME) TA and all other HOME program-related TA sources to any single eligible organization (excluding funds for organizational support and housing education “passed through” to CHDOs), whether as an applicant or subrecipient is limited to not more than 20 percent of the operating budget of the recipient organization, and is limited to 20 percent of the $17,883,000 made available for HOME and CHDO (HOME) TA in FY 2003.

(3) McKinney-Vento Act Homeless Assistance Programs TA funds available are up to $6.6 million. Up to 25 percent of the McKinney-Vento Act Homeless Assistance technical assistance funds are for qualified providers who have not previously received a HUD CD-TA award.

(4) HOPWA FY 2003 TA funds available are up to $2 million. HUD will ensure that at least $400,000 of the HOPWA TA funds are designated for each of the two national goals [see section III (C)(4)].

(C) Fair Share. Each HUD Field Office with a Community Planning and Development (CPD) Division has been allocated a “fair share” of CD-TA funds for purposes of this competition, except for the HOPWA TA funds that will be awarded only through a national competition. Appendix A lists the fair share allocations. The amounts are based on allocations of HOME, CHDO (HOME), and McKinney-Vento Act Homeless Assistance formula funds and competitive programs for which Field Offices have management oversight.

For HOME TA only, Field Offices are given two options for TA administration. Under Option 1, Field Offices administer their fair share HOME CD-TA funds.

Under Option 2, Field Offices place their fair share of HOME TA funds into a separate HOME TA pooled account. Applications for these funds are rated and ranked separately. Field Offices that have chosen to “opt in” to the HOME TA pooled account receive assistance from TA providers chosen to serve the pooled account jurisdictions through this competition. Consequently, applicants proposing to provide training and/or direct TA with HOME TA pooled account funds must be willing to provide coverage to all Field Office jurisdictions opting in the HOME TA pooled account. Please review Appendix A for those Field Offices that have opted into the HOME TA pooled account and take the “full coverage” requirement into consideration when determining your funding request. Because of the statutory requirement that 40 percent of CHDO (HOME) TA be provided by single-state providers, all Field Offices will continue to administer their fair-share of CHDO (HOME) TA funds.

(D) Award Adjustments. In addition to the funding adjustment authority provided for in the General Section of this SuperNOFA, HUD reserves the right to adjust funding levels for each CD-TA applicant. The amounts listed in Appendix A are provided to assist applicants to develop Field Office or national CD-TA program budgets and do not represent the exact amounts to be awarded. Once TA providers are selected for award, HUD will determine the total amount to be awarded to any provider based upon the size and needs of each of the provider's service areas, the funds available for that area and CD-TA program, the number of other CD-TA recipients selected in that area or CD-TA program, and the scope of the TA to be provided.

Additionally, HUD may reduce the amount of funds allocated for Field Office jurisdictions to fund national CD-TA providers and other CD-TA providers for activities that cannot be fully budgeted for or estimated by HUD Headquarters or Field Offices at the time this NOFA was published. HUD may also require selected applicants, as a condition of funding, to provide coverage on a geographically broader basis than proposed in order to supplement or strengthen the CD-TA network in terms of the size of the area covered and types and scope of TA proposed. To facilitate the implementation of its Colonias initiative, HUD expects winners of national HOME TA funds to direct up to ten percent of their TA award to undertake activities in or related to the Colonias areas or its residents, to the extent feasible. (See the General Section of this SuperNOFA for information on HUD's Colonias initiatives.)

If funds remain after all selections have been made, the remaining funds may be distributed among Field Offices (in proportion to their fair-share awards) and/or the national program, or made available for other CD-TA program competitions.

(E) Award Period. Cooperative agreements will be for a period of up to 36 months. HUD, however, reserves the right to:

(1) Terminate awards anytime after 12 months in accordance with provisions contained in 24 CFR parts 84 and 85;

(2) Withdraw funds from a specific provider, if HUD determines that the need for the assistance is greater in other Field Office jurisdictions or the need for assistance is not commensurate with the amount of the award for assistance; and

(3) In cases where a CD-TA provider currently is providing TA under an existing CD-TA grant/cooperative agreement, HUD reserves the right to adjust the start date of funding under this NOFA to coincide with the conclusion of the previous award or to incorporate the remaining activities from the previous award into the new agreement, adjusting the funding levels as necessary.

III. Program Description; Eligible Applicants; Eligible Activities

(A) Program Description. The CD-TA program provides assistance to achieve the highest level of performance and results for four separate community development programs. Information about the four community development programs and their mission, goals, and activities can be found on the HUD Web site at http://www.hud.gov.

(B) Eligible Applicants.

(1) General. The eligible applicants for each of the four CD-TA programs are listed in paragraphs (2), (3), (4), and (5) of this section. The following requirements are applicable to all applicants:

(a) An organization may not provide assistance to itself. An organization may not provide assistance to another organization with which it contracts or subawards funds to carry out activities under the TA award;

(b) A consortium of organizations may apply for one or more CD-TA programs, but one organization must be designated as the applicant;

(c) Applicants must meet minimum statutory eligibility requirements for each CD-TA program for which they are applying; and

(d) Applicants must meet the applicable threshold requirements of Section V (B)(2) of the General Section of the SuperNOFA.

Applicants may propose assistance using in-house staff, consultants, sub-contractors and sub-recipients, networks of private consultants, and/or local organizations with requisite experience and capabilities. Where appropriate, applicants should make use of TA providers located in the Field Office jurisdiction receiving services. This draws upon local expertise and persons familiar with the opportunities and resources available in the area to be served while reducing travel and other costs associated with delivering the proposed TA services.

(2) HOME TA Eligible Applicants.

(a) A for-profit or non-profit professional and technical services company or firm that has demonstrated capacity to provide technical assistance services;

(b) A HOME participating jurisdiction (PJ);

(c) A public purpose organization responsible to the chief elected official of a PJ and established pursuant to State or local legislation;

(d) An agency or authority established by two or more PJs to carry out activities consistent with the purposes of the HOME program; and

(e) A national or regional non-profit organization that has membership comprised predominantly of entities or officials of entities of PJs or PJs' agencies or established organizations.

(3) CHDO (HOME) TA Eligible Applicants.

(a) Public and private non-profit intermediary organizations that customarily provide services (in more than one community) related to HOME affordable housing development and management or other neighborhood revitalization by CHDOs; and

(b) Other non-profit organizations that engage in community revitalization activities undertaken by CHDOs, including all eligible organizations under section 233 of the Cranston-Gonzales National Affordable Housing Act, as amended.

(c) Any organization funded to assist CHDOs under this CD-TA program section of the SuperNOFA may not undertake CHDO set-aside activities itself within its service area while under cooperative agreement with HUD.

(4) McKinney-Vento Act Homeless Assistance Programs TA Eligible Applicants.

(a) States, units of general local government, and public housing authorities; and

(b) Public and private non-profit or for-profit groups, including educational institutions and area-wide planning organizations.

(5) HOPWA TA Eligible Applicants.

(a) Non-profit organizations; and

(b) States and units of general local government.

(C) Eligible Activities. Eligible activities for each of the four CD-TA programs are the following:

(1) HOME TA. By statute, HUD may provide TA to meet specified objectives. From these objectives, HUD has identified six TA priorities for FY 2003. These priorities are the following:

(a) Facilitate the exchange of information that will help PJs carry out the purposes of the HOME statute, including the design, implementation, and management of affordable housing programs that address accessibility, housing finance, land use controls, and building construction techniques;

(b) Improve the ability of PJs, particularly those PJs inexperienced in the development of affordable housing, to design and implement housing strategies that include an analysis and reduction of regulatory barriers, reflect sound management and fiscal controls, demonstrate measurable outcomes in the use of public funds, and provide for accurate and timely reporting of accomplishments;

(c) Encourage private lenders, non-profit organizations, and for-profit developers of low-income housing to participate in public-private partnerships to achieve the purposes of the HOME statute;

(d) Assist PJs in developing strategies that ameliorate the affordability gap between rapidly increasing housing costs and the less rapid growth in incomes among low-income households, especially among underserved populations (e.g., residents of the Colonias, homeless, persons with disabilities);

(e) Assist PJs in developing strategies that increase and help sustain homeownership opportunities for low-income households—particularly low-income, minority households; and

(f) Facilitate the establishment and efficient operation of land assembly, under which title to vacant and abandoned parcels of real estate located in or causing blighted neighborhoods is cleared for use consistent with the purposes and timeframes of the HOME statute.

(2) CHDO (HOME) TA. CHDO (HOME) TA funds may be used only for the following eligible activities:

(a) Organizational Support—Organizational support may be made available to CHDOs to cover operational expenses, training, technical, legal, engineering, and other assistance to the board of directors, staff, and members of the community development organization;

(b) Housing Education—Housing education assistance may be made available to CHDOs to cover expenses related to the provision or administration of programs for educating, counseling, and organizing homeowners and tenants who are eligible to receive assistance under the HOME Program;

(c) Program-Wide Support of Non-Profit Development and Management—Technical assistance, training, and continuing support may be made available to eligible CHDOs for managing and conserving properties developed under the HOME program;

(d) Benevolent Loan Funds—Technical assistance may be made available to increase the investment of private capital in housing for very low-income families, particularly by encouraging the establishment of benevolent loan funds through which private financial institutions will accept deposits at below-market interest rates and make those funds available at favorable rates to developers of low-income housing and to low-income homebuyers;

(e) Community Development Banks and Credit Unions—Technical assistance may be made available to establish privately-owned, local community development banks and credit unions to finance affordable housing;

(f) Community Land Trusts—Organizational support, technical assistance, education, and training and assistance to community groups for the establishment of community land trusts [as defined in section 233(f) of the Cranston-Gonzales National Affordable Housing Act]; and

(g) Facilitating Women in Homebuilding Professions—Technical assistance may be made available to businesses, unions and organizations involved in the construction and rehabilitation of housing in low- and moderate-income areas to assist women residing in the area to obtain jobs involving such activities, which may include facilitating access by helping such women to develop nontraditional skills, recruiting women to participate in such programs, providing continuing support for women at job sites, counseling and educating businesses regarding suitable work environments for women, providing information to such women regarding opportunities for establishing small housing construction and rehabilitation businesses, and providing materials and tools for training such women in an amount not to exceed ten percent of any assistance provided under this paragraph. HUD shall give priority under this paragraph to providing technical assistance for organizations rehabilitating single family housing owned or controlled by HUD pursuant to Title II of the National Housing Act and which have women members in occupations in which women constitute 25 percent or less of the total number of workers in the occupation (in this section referred to as “nontraditional occupations”).

(3) McKinney-Vento Act Homeless Assistance Programs TA. Funds are available to provide TA to McKinney-Vento Act-funded homeless assistance projects. Funds may be used to provide TA to prospective applicants, applicants, grantees, and project sponsors of McKinney-Vento Act-funded housing and supportive services for homeless persons. The assistance may include, but is not limited to, written information such as papers, manuals, guides and brochures; person-to-person exchanges; on-site assessments; provision of technical expertise; and training and related costs.

HUD has set a national goal to end chronic homelessness within ten years and seeks to meet the needs of chronically homeless individuals as well as other homeless persons and families. A person experiencing chronic homelessness is defined as an unaccompanied individual with a disabling condition who has been continuously homeless for a year or more or has experienced four or more episodes of homelessness over the last three years.

TA activities are focused on but not limited to the following:

(a) Facilitating the exchange of information between community organizations to develop and implement a community-wide discharge plan for individuals exiting publicly-funded institutions (e.g., criminal justice system, foster care system, mental health system) so that these individuals do not become homeless;

(b) Improving the ability of eligible applicants to develop and operate permanent housing projects for chronically homeless persons;

(c) Developing materials on effective grant administration for grantees and sponsors;

(d) Improving the ability of eligible grantees and sponsors in reaching out to and enumerating chronically homeless persons; and

(e) Improving the ability of grantees and sponsors in coordinating services available through mainstream resources with current housing units available for homeless persons.

(4) HOPWA TA. Funds are available to provide grantees, project sponsors, and potential recipients of HOPWA program funds with the skills and knowledge needed to develop, operate, and support HOPWA-eligible projects and activities in concert with two national goals: sustainable and sound management of HOPWA programs; and the accurate use of HUD's information and management tools. The national goals are to enhance the organization's ability to use HUD funds in a manner that upholds the public trust in the operation of the program, and to enhance the organization's ability to sustain their projects through financial downturns and beyond the term of the grant.

An applicant for HOPWA TA funds may propose activities on a national basis or a regional basis. To achieve the national goals, HOPWA TA must be used to address the following areas:

For goal one: Sustainable and sound management of HOPWA programs—

(a) Management and operations through such activities as training on management practices to ensure responsive, efficient, and cost effective facility and program operations; training on fiscal management to ensure accountability in the use of funds and in the development of long-term strategies to assure financial viability, including strategic planning, merger and acquisition consideration, and financial development programs;

(b) State, local, and community planning through such activities as training on the coordination of housing with health-care and other related supportive services for eligible persons; improving ability in developing collaborations with local, State and Federal agencies that administer HIV/AIDS-related programs, including programs funded under the Ryan White CARE Act; facilitating in creating or linking to existing needs assessments of the area's housing needs of persons living with HIV/AIDS and their families; facilitating in creating or linking to comprehensive multiple-year HIV/AIDS housing plans that are undertaken in collaboration with local, State and Federal programs including the Ryan White CARE Act programs; and facilitating in creating or linking to existing plans that address specialized needs of clients, including assistance for clients with serious mental illness, chronic alcohol and other drug abuse issues, and homelessness; and

(c) Program evaluation through such activities as advising on data collection and program evaluation and dissemination of results; and developing and providing program handbooks, guidance materials, audio/visual products, training, and other activities to promote good management practices.

For goal two: Accurate use of HUD's information and management tools—

Providing TA to grantees, project sponsors, and other nonprofit organizations involved in HIV/AIDS plans in using the Department's information technology, financial reporting on program activities. Proposed activities may support the use of the Department's Consolidated Planning Process and Comprehensive Annual Performance Evaluation Report (CAPER), Integrated Disbursement and Information System (IDIS), the use of HOPWA Annual Progress Reports, the Grants Management System, and LOCCS/HUDCAPS and other information collection or financial management tools, including the government-wide e-grants system when it becomes operational. The use of these management tools ensure that the performance of HOPWA recipients is measured under the HOPWA national performance goals. The proposed activities may include conducting grantee and sponsor workshops, developing training materials, developing or adapting program output and outcome measures and sponsoring related conferences and training of grantees and project sponsors.

IV. CD-TA Program Requirements

Because CD-TA program awards are made as cooperative agreements, they entail significant HUD involvement. Thus, the TA activities proposed in an application may change after discussion with HUD. In addition to the requirements listed in the General Section of this SuperNOFA, applicants are subject to the following requirements:

(A) Profit/Fee. No increment above cost, no fee or profit, may be paid to any recipient or subrecipient of an award under this CD-TA Program section of the SuperNOFA.

(B) TA Oversight. All Field Office TA providers, including those awarded pooled Field Office HOME TA account funds, must operate under the direction of each HUD Field Office within whose jurisdiction they are providing TA. When directed by a Field Office, TA providers may be required to coordinate activities through a lead CD-TA provider or other organization designated by the Field Office. If an applicant is selected as a Field Office CD-TA provider and is then designated as the lead CD-TA provider, the applicant must follow HUD Field Office direction and coordinate the activities of other CD-TA providers selected under this CD-TA Program section of the SuperNOFA. All national TA providers must coordinate their plans with, and operate under the direction of the GTR and GTM in HUD Headquarters.

Joint activities by CD-TA providers may be required.

(C) Demand-Response Delivery System. All CD-TA applicants must operate within the structure of the demand-response system. Under the demand-response system, CD-TA providers are required to:

(1) When requested by a HUD Headquarters or a Field Office GTR/GTM, market the availability of their services to existing and potential recipients within the jurisdictions in which the assistance will be delivered;

(2) Respond to requests for assistance from the HUD Headquarters or HUD Field Office GTR/GTM responsible for overseeing TA within a specific geographic service area, including responding to priorities established by the Field Office in its Grants Management System. HOME PJs, CHDOs, and McKinney-Vento Act Homeless Assistance grantees may request assistance from the CD-TA provider directly, but the CD-TA provider is responsible for obtaining the local HUD Field Office's approval before responding to such requests. For CHDO (HOME) TA, the Field Office will coordinate with the affected HOME PJ in which the CD-TA provider proposes to work;

(3) When requested by a HUD Headquarters or a Field Office GTR/GTM, conduct a Needs Assessment to identify the type and nature of the assistance needed by the recipient of the assistance. Needs Assessments identify the nature of the problem to be addressed, the plan of action, the type of TA to be provided, the duration of the assistance, the staff assigned to provide the assistance, anticipated products and/or outcomes, and the estimated cost; and

(4) CHDO (HOME) TA providers will be responsible for securing a technical assistance designation letter from a PJ stating that a CHDO, or prospective CHDO to be assisted by the provider, is a recipient or intended recipient of HOME funds and indicating, at its option, subject areas of assistance that are most important to the PJ.

(D) Technical Assistance Delivery Plan (TADP). After selection for funding but prior to executing the cooperative agreement, applicants must develop in consultation with the respective HUD Headquarters or Field Office GTR/GTM, a TADP for each national program or Field Office jurisdiction for which the applicant has been selected.

In developing the TADP, the applicant must follow the HUD Headquarters' or Field Office's management plan in determining the priority work activities, location of activities, and organizations to be assisted during the cooperative agreement performance period. The HUD Headquarters or Field Office GTR/GTM will direct TA activities and establish expected outcomes. Applicants will use the logic model to identify their planned outcomes and report on actual accomplishments in relation to the planned outcomes.

For national HOME TA, applicants must work cooperatively with the GTR and GTM in the Office of Affordable Housing Programs to develop a TADP that addresses the national priorities, as identified in Section III (C), paragraphs (1) and (2) of this CD-TA NOFA, and meets the needs of HOME PJs and their partners.

The TADP must delineate all tasks and sub-tasks for each CD-TA program the applicant will undertake either nationally or in each Field Office jurisdiction. The TADP must specify the location of the proposed CD-TA activities, the level of CD-TA funding and proposed activities by location, the improved program performance or other results expected from the CD-TA, and the methodology to be used for measuring the success of the CD-TA. A detailed time schedule for delivery of the activities, budget summary, budget-by-task, and staffing plan must be included in the TADP.

In the case of pooled Field Office HOME TA funds, applicants will work with the GTR and GTM in HUD Headquarters to develop a TADP that includes the elements contained in the previous paragraph except for the detailed time schedule for delivery of the activities, budget summary, budget-by-task, staffing plan, and scope of work which will be negotiated in the form of a Technical Plan for Assistance (TPA) with the Field Office in which the TA is to be provided to ensure that the TA provider is working under the control and direction of the Field Office. The TPA must be consistent with the approved TADP.

(E) Training Sessions. When conducting training sessions as part of its CD-TA activities, CD-TA providers are required to:

(1) Design the course materials as “step-in” packages (also called “train-the-trainer” packages) so that a Field Office or other CD-TA provider may independently conduct the course on its own;

(2) Provide all course material in an electronic format that will permit wide distribution among TA providers, Field Offices, and HUD grantees;

(3) Arrange for joint delivery of the training with Field Office or Headquarters participation when requested by the HUD Headquarters or Field Office GTR/GTM; and

(4) When required by HUD, deliver HUD-approved training courses that have been designed and developed by other HUD contractors or HUD cooperating parties on a “step-in” basis for CD-TA clients, and send trainers to approved “train-the-trainers” sessions. The costs associated with attending these required sessions are eligible under the cooperative agreement.

(F) Reports to HUD Headquarters and Field Office GTR/GTMs. CD-TA providers will be required to report to the HUD Field Office(s) with oversight of the geographic area(s) in which CD-TA services are provided or to Headquarters GTR/GTMs in the case of national providers. At a minimum, this reporting will be on a quarterly basis unless otherwise specified in the approved TADP.

(G) Financial Management and Audit Information. After selection for funding but prior to award, applicants must submit a certification from an Independent Public Accountant or the cognizant government auditor, stating that the applicant's financial management system meets prescribed standards for fund control and accountability required by 24 CFR part 84 for Institutions of Higher Education and other Non-Profit Institutions, 24 CFR part 85 for States and local governments, or the Federal Acquisition Regulations for all other applicants. The information should include the name and telephone number of the independent auditor, cognizant Federal auditor, or other audit agency as applicable. In addition, the applicant must submit a certification that the organization is in compliance with the statutory limitations placed on HOME and CHDO (HOME) TA.

(H) Affirmatively Furthering Fair Housing. Section V (D) of the General Section of the SuperNOFA does not apply to these technical assistance programs.

(I) CHDO (HOME) “Pass-Through Funds”. CD-TA providers may propose to fund the purchase of equipment and supplies, salaries and operating expenses, and training scholarships for eligible CHDOs that directly assist these organizations to own, develop, or sponsor affordable housing. CD-TA providers proposing “pass-through” grants are required to:

(1) Establish written criteria for selection of CHDOs receiving pass through funds which include the following: Participating jurisdictions must designate the organizations as CHDOs; and, generally, the organizations should not have been in existence more than 3 years.

(2) Enter into an agreement with the CHDO that the agreement and pass through funding may be terminated at the discretion of HUD if no written legally binding agreement to provide assistance for a specific housing project (for acquisition, rehabilitation, new construction, or tenant-based rental assistance) has been made by the PJ with the CHDO within 24 months of initially receiving pass-through funding.

(3) The pass-through amount, when combined with other capacity building and operating support available through the HOME program, cannot exceed the greater of 50 percent of the CHDO's operating budget for the year in which it receives funds or $50,000 annually.

(J) Program Requirements for HOPWA Technical Assistance.

(1) The items listed in (A)—(I) immediately above apply to HOPWA TA, except that the demand-response delivery system does not apply. The CD-TA provider is responsible for obtaining the Field Office's approval before responding to TA requests in Field Office jurisdictions.

(2) If selected, the TA provider is required to begin technical assistance activities within one year of selection (i.e., one year from the date of the signing of the selection letter by HUD) and to provide an initial report to the Field Office and the Headquarters GTR on the startup of the planned activities within three months of selection. If a selected project does not meet an appropriate performance benchmark, HUD reserves the right to cancel or withdraw the grant funds.

(3) Except for national meetings, research, information and other activities that are conducted on a program-wide basis in cooperation with HUD Headquarters TA providers must work cooperatively with HUD Field Offices. Providers must notify the applicable HUD Field Office of the planned activities; must consider the views or recommendations of that office, if any; must follow those recommendations, to the degree practicable; and must report to the applicable Field Office on the accomplishments of the assistance.

V. Application Selection Process

(A) Threshold Review, Rating and Ranking

(1) HUD will review each application to determine whether it meets the threshold requirements described in Sections I, III, and IV of this CD-TA NOFA. Only if an application meets all of the threshold requirements will it be eligible to be rated and ranked.

(2) HUD will evaluate and rate applications that meet the threshold requirements according to the Factors for Award noted below in Section V (B). Separate ratings will be given for each CD-TA program within each Field Office or nationally, as applicable, and for the pooled Field Office HOME TA. Under this system, the single application from one organization for multiple CD-TA programs in several geographic areas could be assigned different scores for each program and for each Field Office. For HOPWA, separate ratings will be given for applications for each of the two national goals.

The maximum number of points to be awarded for a CD-TA program proposal is 100. The minimum score for a program proposal to be considered within funding range is 75 with a minimum of 15 points on Factor 1. The CD-TA program is not subject to bonus points, as described in Section VI (C)(1)-(3) of the General Section of the Super NOFA.

(3) Once rating scores are assigned, rated applications submitted for each CD-TA program and for the pooled Field Office HOME TA at either the Headquarters or Field Office level will be listed in rank order for each CD-TA program and, in the case of HOPWA TA, for each of the two national HOPWA goals for which activities are proposed. Applications within the funding range (score of 75+ points with 15+ points for Factor 1) may then be funded in rank order under the CD-TA program and service area for which they applied. Applicants for pooled Field Office HOME TA may not necessarily be funded in rank order since the amount of their awards, if any, will be determined by totaling the fair share amounts assigned to them by the individual Field Offices participating in the pool. A Field Office participating in the pooled account may distribute some or all of its fair share amount to any applicant for pooled funds that scores in the fundable range (i.e., score of 75+ points with 15+ points for Factor 1).

(B) Factors for Award

For each CD-TA program and the pooled Field Office HOME TA, points are awarded on five factors. Factor 1 relates to the capacity of the applicant and its relevant organizational experience. Rating of the “applicant” or the “applicant's organization and staff” includes any sub-contractors, consultants, sub-recipients, and members of consortia which are firmly committed to the project. In responding to Factor 1, applicants should specify the experience, knowledge, skills, and abilities of the applicant's organization and staff, and any organizations firmly committed to the project.

When addressing Factors 2-5, applicants should discuss the specific TA projects, activities, tasks, etc. that will be carried out during the term of the cooperative agreement. Applicants should provide relevant examples to support the proposal, where appropriate. Applicants should also be specific when detailing the communities, populations, and/or organizations that they propose to serve and the specific outcomes expected as a result of the TA.

Rating Factor 1: Capacity of the Applicant and Relevant Organizational Experience (25 points) (Minimum for Funding Eligibility—15 Points)

In a narrative, applicants should describe:

(1) (10 points). Recent, relevant, and successful experience of the applicant's organization in providing TA in all activities and to all entities for the CD-TA programs applied for, and an ability to provide CD-TA in a geographic area larger than a single city or county.

(2) (10 points). Competence, knowledge, skills, and abilities of key personnel in managing complex, multi-faceted, or multi-disciplinary TA programs that require coordination with other entities or multiple, diverse units in an organization.

(3) (5 points). Sufficient personnel or access to qualified experts or professionals with the knowledge, skills, and abilities to deliver the proposed level of TA in each proposed service area in a timely and effective fashion.

In rating this factor, HUD will consider the extent to which the application demonstrates, in relation to the CD-TA program funding that is requested, relevant experience within the last four years of providing TA that demonstrates the ability to manage multiple TA assignments simultaneously, experience levels of key staff demonstrated by the technical complexity of assignments performed, and the number and experience of key staff as well as their availability to perform the work.

Rating Factor 2: Need/Extent of the Problem (20 Points)

In a narrative, applicants should:

(1) (10 points). Identify high priority needs in relation to the eligible activities [see section III (C) of the CD-TA NOFA] for the CD-TA program in each community or Field Office jurisdiction for which CD-TA funding is requested, or on a national or regional basis for national HOPWA, McKinney-Vento Homeless Assistance, and HOME grants. Even though applicants for pooled Field Office HOME TA funds must be willing to provide full coverage for all of the Field Office jurisdictions participating in the pool, for the purposes of this narrative, these applicants need only identify high priority needs in four (4) Field Office jurisdictions.

(2) (10 points). Support the description of the need described with objective information and/or data showing need in each community or Field Office jurisdiction for which CD-TA funding is requested, or on a national or regional basis for national HOPWA, McKinney-Vento Homeless Assistance, and HOME grants.

In rating this factor, HUD will evaluate the extent to which the application shows, in each geographic area for which CD-TA funding is requested, an understanding of the specific needs for TA and supports the description of need with reliable, quantitative information.

Rating Factor 3: Soundness of Approach (40 Points)

In a narrative, applicants should:

(1) (10 points). Describe a sound approach for addressing the identified needs.

(2) (10 points). Provide a cost-effective plan for designing, organizing, managing, and carrying out the proposed TA activities within the demand-response system.

(3) (10 points). Demonstrate an effective assistance program to specific disadvantaged communities, populations, and/or organizations which previously have been underserved and have the potential to participate in the four CD-TA programs.

(4) (10 points). Describe a feasible, creative plan which uses state of the art or new promising technology to transfer models and lessons learned in each of its CD-TA program's activities to grantees and/or program beneficiaries in other CD-TA programs.

In rating this factor, HUD will evaluate the extent to which the application presents and supports a detailed, sound approach in addressing identified needs and CD-TA program priorities. HUD will also evaluate the extent to which the application demonstrates the cost-effectiveness of its activities and the effectiveness of its operation under the demand-response system, including responding to requests for assistance at HUD's direction, handling competing demands, and responding to unanticipated demands.

Rating Factor 4: Leveraging Resources (5 Points)

This factor addresses the applicant's ability to secure community resources that can be combined with HUD's program resources to achieve program purposes.

Applicants should provide evidence of leveraging/partnerships by including in the application of firm commitments for specific dollar amounts in letters, memoranda of understanding, or agreements to participate from those entities identified as partners in the application. Each letter of commitment, memorandum of understanding, or agreement to participate should include the organization's name, proposed level of commitment of resources (at fair market value) and responsibilities as they relate to the proposed program. The commitment must be signed by an authorized official of the organization legally able to make commitments on behalf of the organization, and indicate specifically that the resources will be committed during the time period in which CD-TA funds will be used. Outdated or past commitments will not be considered.

Resources may include cash or in-kind contributions, such as services valued at the fair market rate. Resources may be provided by governmental entities, public or private nonprofit organizations, for-profit private organizations, or other entities.

In rating this factor, HUD will evaluate the extent to which, in relation to the funds requested, applicants can provide firm commitments for cash or in-kind services that will be used in conjunction with the CD-TA resources to achieve program purposes.

Rating Factor 5: Achieving Results and Program Evaluation (10 Points)

This factor emphasizes HUD's commitment to ensuring that the TA provided achieves measurable results. In a narrative, applicants should:

(1) (5 points). Propose an effective, quantifiable, outcome-oriented evaluation plan for measuring performance, i.e., actual against planned achievements. An “outcome” is an impact or end result of the TA activities undertaken, not the TA activities themselves. The evaluation plan shall identify outcomes to be measured, how they will be measured, and the steps in place to make adjustments to work plans if performance targets are not met within established timeframes. For example, plans shall include goals (and report accomplishments) for the percent increase in program accomplishments as a result of capacity building assistance; measures of improved efficiencies; and increase in project resources as a result of assistance. The evaluation plan shall also contain ways to identify shortcomings and recommend areas for improvement when providing TA.

(2) (5 points). Demonstrate successful past performance in administering HUD CD-TA programs or, for applicants new to HUD's CD-TA Programs, demonstrate successful past performance in providing TA in other community development programs.

In rating this factor, HUD will evaluate the extent to which the application has an evaluation plan that is specific, measurable, and appropriate in relation to the activities proposed and the extent to which the application demonstrates past performance that is timely and cost-effective in the delivery of community development TA. HUD will consider past performance of current CD-TA providers, including financial drawdown information in HUD's files.

(C) Selection. Applications within the funding range (75+ points with 15+ points on Factor 1) may be funded in rank order under the CD-TA program and service areas for which they applied. Applicants for pooled Field Office HOME TA may not necessarily be funded in rank order since the amount of their awards, if any, will be determined by totaling the fair share amounts assigned to them by the individual Field Offices participating in the pool. A participating Field Office may distribute some or all of its fair share amount to any applicant for pooled funds that scores in the fundable range. To the extent permitted by funding constraints, HUD intends to provide coverage for as full a range of eligible CD-TA program activities as possible both in Field Office jurisdictions and nationally. To achieve this objective, HUD will seek to fund the highest ranking applications that bring the required expertise in one or more specialized activity areas, and fund portions of providers' proposed programs in which they have the greatest skill and capability for given geographic areas or on a national basis. HUD also may require national, multi-jurisdictional, or other providers to provide coverage to Field Office jurisdictions that cannot otherwise receive cost-effective support from a CD-TA provider. In selecting applicants for funding, HUD will seek to select a range of providers and activities that will best serve HOME, CHDO (HOME), McKinney-Vento Act Homeless Assistance, and HOPWA program goals and priorities.

(D) Negotiation. After all applications have been rated and ranked and a selection has been made, HUD requires that all winners participate in negotiations to determine the specific terms of the TADP and the budget. HUD will follow the negotiation procedures described in Section VI (D) of the General Section of the SuperNOFA.

(E) Applicant Debriefing. Applicants may request a debriefing as described in the General Section of the SuperNOFA.

VI. Application Submission Requirements

The application must contain the following items:

(A) HUD-424 which identifies the legal name of the applicant organization, a contact person, mailing address (including zip code), telephone number, fax number, and e-mail address. If the organization has never received a CD-TA award, please include a statement to this effect.

(B) One-page summary outlining the key elements of the proposed CD-TA activities.

(C) Chart that summarizes the amount of funds the applicant is requesting for each CD-TA program in each Field Office jurisdiction, for the pooled Field Office HOME TA, and for National TA. Please use the chart in Appendix C of this NOFA.

For Field Office TA only: If the applicant will not offer services throughout the full jurisdictional area of the Field Office, attach a statement to the chart that identifies the service areas proposed (e.g., cities, counties, etc.), as well as the communities in which the organization proposes to offer services. Please note that applicants requesting funding under the pooled Field Office HOME TA account must be willing to provide coverage to all Field Office jurisdictions opting in to the pooled account.

(D) Statement as to whether the applicant proposes to be considered for the role of lead CD-TA provider in one or more specific program areas in a Field Office jurisdiction and, if so, the organization's capabilities and attributes that qualify the applicant organization for the role.

(E) Narrative addressing each of the Factors for Award described in Section V(B) of this CD-TA Program section of this SuperNOFA. This narrative statement will be the basis for evaluating the application.

(F) Statement as to whether the organization proposes to use pass through funds under the CHDO (HOME) TA program and, if so, the amount and proposed uses of such funds.

(G) If applying for the CHDO (HOME) program, a certification as to whether the organization qualifies as a primarily single-State provider under section 233(e) of the Cranston-Gonzales Affordable Housing Act and as discussed in Section III(C)(2) of this CD-TA program section of this SuperNOFA.

(H) Budget Summary identifying costs for implementing the plan of suggested TA activities by cost category for each CD-TA program for which funds are requested by Field Office or as a National Provider (applicants for pooled Field Office HOME TA should submit one Budget Summary to cover all Field Offices opting in) in accordance with the following:

(1) Direct Labor by position or individual indicating the estimated hours per position, the rate per hour, estimated cost per staff position, and the total estimated direct labor costs;

(2) Fringe Benefits by staff position identifying the rate, the salary base the rate was computed on, estimated cost per position, and the total estimated fringe benefit cost;

(3) Material Costs indicating the item, quantity, unit cost per item, estimated cost per item, and the total estimated material costs;

(4) Transportation Costs, as applicable;

(5) Equipment Costs, if any, identifying the type of equipment, quantity, unit costs, and total estimated equipment costs;

(6) Consultant Costs, if applicable, indicating the type, estimated number of consultant days, rate per day, total estimated consultant costs per consultant, and total estimated costs for all consultants;

(7) Subcontract Costs, if applicable, indicating each individual subcontract and amount;

(8) Other Direct Costs listed by item, quantity, unit cost, total for each item listed, and total other direct costs for the award; and

(9) Indirect Costs, if applicable, identifying the type, approved indirect cost rate, base to which the rate applies, and total indirect costs.

These line items should total the amount requested for each CD-TA program area. The grand total of all CD-TA program funds requested should reflect the grand total of all funds for which application is made.

(I) Forms, Certifications, and Assurances listed in Section II (H) of the General Section of the SuperNOFA (collectively referred to as the “standard forms”).

VII. Corrections to Deficient Applications

The General Section of the SuperNOFA provides the procedures for corrections to deficient applications.

VIII. Environmental Requirements

In accordance with 24 CFR 50.19(b)(9) and 58.34(a)(9), the assistance provided by these programs relates only to the provision of technical assistance and is categorically excluded from the requirements of the National Environmental Policy Act and not subject to environmental review under the related laws and authorities. This determination is based on the ineligibility of real property acquisition, construction, rehabilitation, conversion, leasing, or repair for HUD assistance under these technical assistance programs.

IX. Authority

The CHDO (HOME) Technical Assistance program is authorized by the HOME Investment Partnerships Act (42 U.S.C. 12773); 24 CFR part 92.

The HOME Technical Assistance Program is authorized by the HOME Investment Partnerships Act (42 U.S.C. 12781-12783); 24 CFR part 92.

For the McKinney-Vento Act Homeless Assistance Programs Technical Assistance, the Supportive Housing Program is authorized under 42 U.S.C. 11381 et seq.; 24 CFR 583.140. The Emergency Shelter Grant, Section 8 Moderate Rehabilitation Single Room Occupancy Program and Shelter Plus Care Technical Assistance Programs are authorized by the FY 2003 HUD Appropriations Act.

The HOPWA Technical Assistance program is authorized under the FY 2003 HUD Appropriations Act. The HOPWA program is authorized under the AIDS Housing Opportunities Act (42 U.S.C. 12901) and the HOPWA regulations are found at 24 CFR part 574.

X. HUD Reform Act

The provisions of the HUD Reform Act of 1989 that apply to the CD-TA programs are explained in the General Section of this SuperNOFA.

Appendix B to CD-TA Program—List of HUD CPD Field Offices

New England

Connecticut State Office, One Corporate Center, 19th Floor, Hartford, CT 06103-3220

Manchester Area Office, 275 Chestnut St., Norris Cotton Bldg., Manchester, NH 03101-2487

Massachusetts State Office, 10 Causeway Street, Room 301, Boston, MA 02222-1092

New York/New Jersey

Buffalo Area Office, 465 Main Street, Fifth Floor, Buffalo, NY 14203-1780

New Jersey State Office, One Newark Center, 13th Floor, Newark, NJ 07102-5260

New York State Office, 26 Federal Plaza, New York, NY 10278-0068

Mid-Atlanic

Maryland State Office, 10 S. Howard St., 5th Floor, City Crescent Bldg., Baltimore, MD 21201-2505

Pennsylvania State Office, Wanamaker Bldg., 100 Penn Square East, Philadelphia, PA 19107-3390

Pittsburgh State Office, 339 6th Avenue, 6th Floor, Pittsburgh, PA 15222-2515

Virginia State Office, 600 East Broad Street, Richmond, VA 23230-4920

District of Columbia Office, 820 1st St., N.E., Ste. 450, Washington, DC 20002-4205

Southeast/Caribbean

Alabama State Office, Medical Forum Building, Suite 900, 950 22nd Street North, Birmingham, AL 35203

Caribbean Office, 159 Carlos E. Chardon Avenue, San Juan, PR 00918-1804

Florida State Office, 909 Southeast 1st Ave., Rm 500, Miami, FL 33131

Georgia State Office, 40 Marietta Street, Five Points Plaza—15th Floor, Atlanta, GA 30303-3388

Jacksonville Area Office, Southern Bell Tower, 301 West Bay Street, Ste. 2200, Jacksonville, FL 32202-5121

Kentucky State Office, 601 W. Broadway, Louisville, KY 40202

Mississippi State Office, 100 West Capitol Street, Rm 910, Jackson, MS 39269-1096

North Carolina State Office, Koger Bldg., 2306 W. Meadowview Rd., Greensboro, NC 27407-3707

South Carolina State Office, S. Thurmon Fed. Bldg., 1835 Assembly Street, Columbia, SC 29201-2480

Tennessee State Office, 710 Locust Street, 3rd Floor, Knoxville, TN 37902-2526

Midwest

Illinois State Office, 77 West Jackson Boulevard, Ralph Metcalfe Bldg., Chicago, IL 60604-3507

Indiana State Office, 151 North Delaware Street, Indianapolis, IN 46204-2526

Michigan State Office, Patrick McNamara Building, 477 Michigan Avenue, Detroit, MI 48226-2592

Minnesota State Office, 920 Second Avenue, South, Minneapolis, MN 55401-2195

Ohio State Office, 200 North High Street, Columbus, OH 43215-2499

Wisconsin State Office, 310 W. Wisconsin Avenue, Ste. 1380, Milwaukee, WI 53203-2289

Southwest

Arkansas State Office, 425 West Capital Avenue, TCBY Tower, Ste. 900, Little Rock, AR 72201-3488

Louisiana State Office, 501 Magazine Street, Hale Boggs, 9th Floor, New Orleans, LA 70130-3099

New Mexico State Office, 625 Silver Avenue, SW., Ste. 100, Albuquerque, NM 87110-6472

Oklahoma State Office, 500 West Main Street, Ste. 40, Oklahoma City, OK 73102

San Antonio State Office, Washington Square, 800 Delorosa Street, San Antonio, TX 78207-4563

Texas State Office, 801 N. Cherry Street, 6T1, 25th Floor, Fort Worth, TX 76102

Great Plains

Kansas/Missouri State Office, Gateway Tower II, 400 State Avenue, Rm. 200, Kansas City, KS 66101-2406

Nebraska State Office, 10909 Mill Valley Road, Omaha, NE 68154-3955

St. Louis Area Office, 1222 Spruce Street, 3rd Floor, Suite 1200, St. Louis, MO 63103-2836

Rocky Mountain

Colorado State Office, First Interstate Tower North, 633—17th Street, Denver, CO 80202-3607

Pacific/Hawaii

California State Office, 450 Golden Gate Avenue, San Francisco, CA 94102-3448

Hawaii State Office, 500 Ala Moana Blvd., Ste. 3A, Honolulu, HI 96813-4918

Los Angeles Area Office, AT&T Center, 611 W. 6th Street, Ste. 800, Los Angeles, CA 90015-3801

Phoenix Area Office, 400 North 5th Street, Ste. 1600, Phoenix, AZ 85004

Northwest/Alaska

Alaska State Office, 949 East 36th Avenue, Ste. 401, Anchorage, AK 99508-4135

Oregon State Office, 400 Southwest 6th Ave., Ste. 700, Portland, OR 97204-1632

Washington State Office, 909 1st Avenue, Ste. 200, Seattle, WA 98104-1000

Funding Availability for Universities and Colleges Programs

As part of HUD's consolidation approach to streamline the NOFA process, the Office of University Partnerships (OUP) is announcing the following competitive grant programs in this NOFA.

• Community Outreach Partnership Centers Program (COPC)

• Historically Black Colleges and Universities (HBCU)

• Hispanic Serving Institutions Assisting Communities (HSIAC)

• Alaska Native/Native Hawaiian Institutions Assisting Communities (AN/NHIAC)

• Tribal Colleges and Universities Program (TCUP)

The purpose for combining all of the OUP competitive grant programs (excluding the Early Doctoral Student Research Grant Program, the Doctoral Dissertation Research Grant Program, the Community Development Work Study Program, and the Community Outreach Partnership Center (COPC) Community Futures Demonstration) under this NOFA is to make it easier for applicants to identify all of the funding opportunities available to colleges and universities through OUP. Please read this NOFA thoroughly and carefully prior to submitting a proposal, since each program in this NOFA has distinct requirements. THERE IS NO SEPARATE APPLICATION KIT FOR THESE PROGRAMS.

Available Funds. Approximately $34.092 million from the Fiscal Year (FY) 2003 Consolidated Appropriation Resolution, Division K (plus any unexpended and additional funds recaptured from prior appropriations) is available for the Office of University Partnership programs as follows:

• Community Outreach Partnership Centers Programs: $6.955 million ($1.955 million has been set aside to fund the COPC Community Futures Demonstration. A separate NOFA is included in this SuperNOFA for this program).

• Historically Black Colleges and Universities: $9.935 million (up to $2 million was earmarked to provide technical assistances).

• Hispanic Serving Institutions Assisting Communities: $6.458 million plus approximately $588,000 in previously unexpended FY 2002 funds.

• Alaska Native/Native Hawaiian Institutions Assisting Communities: $2.981 million plus approximately $4.0 million in previously unexpended funds.

• Tribal Colleges and Universities Program: $2.981 million plus approximately $194,552 in previously unexpended FY 2002 funds.

Additional Information

Applicants interested in applying for funds under these grant programs should carefully review the General Section of this SuperNOFA and the following additional information.

I. Application Due Date, Addresses, Submission Procedures, Further Information, and Technical Assistance

Application Due Date. A completed application package is due on or before June 12, 2003 for Historically Black Colleges and Universities (HBCU) Program, Hispanic-Serving Institutions Assisting Communities (HSIAC) Program, Alaska Native/Native Hawaiian Communities Program (AN/NHIAC), and Tribal Colleges and Universities Program (TCUP).

A completed application package is due on or before June 24, 2003 for the Community Outreach Partnership Centers (COPC) Program.

Address for Submitting Applications. A completed application package consists of one original signed application, three copies, and one computer disk (in Word 6.0 or higher) of the application. This package must be submitted to the following address: Processing and Control Branch, Office of Community Planning and Development, Department of Housing and Urban Development, 451 Seventh Street SW., Room 7251, Washington, DC, 20410. When submitting an application package, also please include the following information on the outside of the envelope: (a) the Office of University Partnerships, (b) name of the program under which funding is being requested, (c) Room number 7251, (d) applicant's name and mailing address (including zip code), and (e) applicant's telephone number (including area code). Applicants applying for funding under the HBCU program must also send a copy of their application to the Community Planning and Development (CPD) Director in the appropriate HUD Field Office. The address for each Field Office is listed in the General Section of this NOFA.

Mailing and Receipt Procedures. Applicants must refer to the General Section of this SuperNOFA for detailed requirements governing application submission and receipt.

For Further Information and Technical Assistance. Applicants may contact Armand W. Carriere of HUD's Office of University Partnerships at (202) 708-3061, ext. 3181 or Susan Brunson at (202) 708-3061, ext. 3852. For information regarding the Tribal Colleges and Universities Program, please contact Sherone Ivey, Office of Native American Programs at (202) 708-0314 ext. 4200. Speech- or hearing-impaired individuals may call the Federal Information Relay Service TTY at (800) 877-8399. Except for the “800” number, these numbers are not toll-free. Applicants may also reach Mr. Carriere via email at Armand_W._Carriere@hud.gov, Ms. Brunson at Susan_S._Brunson@hud.gov, and Ms. Ivey at Sherone_E._ Ivey@hud.gov.

Satellite Broadcast. HUD will hold an information broadcast via satellite for potential applicants to learn more about these programs and preparation of applications. For more information about the date and time of this broadcast, consult HUD's Website at www.hud.gov.

The Community Outreach Partnership Centers Program (COPC)

I. Program Overview

Purpose of the Program. To provide funds to two-year colleges, four-year colleges, and universities to establish and operate Community Outreach Partnership Centers (COPCs) to address the problems of urban areas.

II. Amount Allocated, Grant Size and Term, and Performance Period

The amount allocated, grant size and term, and performance period for this program are listed below.

Amount Allocated. In Fiscal Year 2003, approximately $6.955 million was earmarked by the conference report accompanying the FY 2003 Consolidation Appropriation Resolution, Division K ($1.955 million has been set aside to fund architectural and planning schools. There is a separate NOFA for this program and it is included in this SuperNOFA).

Grant Size and Term. HUD will award two kinds of grants under this program, New Grants and New Directions Grants.

(1) New Grants will be awarded to applicants who have never received a COPC grant to undertake eligible work (as identified in Section III(C) below). The minimum amount a New Grant applicant can request is $250,000 and the maximum amount is $400,000 for a three-year (36 months) grant performance period.

(2) New Directions Grants will be awarded to applicants who were previous COPC recipients to undertake new directions in their activities (as identified in Section III(C) below). The minimum and maximum amount a New Direction Grant applicant can request is $150,000 for a two-year (24 months) grant performance period.

HUD will use up to $4 million to fund approximately 10 New Grants and up to $1 million to fund approximately 6 New Directions Grants.

HUD intends to fund at least two eligible COPC applications (applications that receive a minimum score of 75 points) that serve Colonias, (as defined in the General Section of this SuperNOFA). HUD will select the highest-ranking COPC applications that serve Colonias among the rated COPC applications. If less than two fundable COPC applications that serve Colonias are eligible for award these funds will be used to award additional COPC grants.

III. Program Description; Eligible Applicants; Eligible Activities

(A) Program Description. The main purpose of the COPC Program is to assist in establishing or carrying out outreach and applied research activities that address problems of urban areas; and to encourage structural change, both within an institution of higher education and in the way the institution relates to its neighbors. Funding under this program shall be used to establish and operate local Community Outreach Partnership Centers (COPC). The five key concepts that a COPC Program should include are:

(1) Outreach, technical assistance, and applied research;

(2) Empowerment efforts that engage community-based organizations and residents as partners with the institution throughout the life of the project and beyond;

(3) Applied research related to the project's outreach activities;

(4) Assistance to target communities primarily from the faculty, students, and to a limited extent by neighborhood residents and community-based organizations funded by the university; and

(5) Support from the university's senior officials to make the program part of the institution's broader effort to meet its urban mission.

(B) Eligible Applicants. Public or private nonprofit institutions of higher education granting two- or four-year degrees that are accredited by a national or regional accrediting agency recognized by the U.S. Department of Education. Consortia of eligible institutions may also apply, as long as one institution is designated the lead applicant. (Note: Institutions that participated in a COPC grant as a member of a consortium are eligible to apply for New Grant if they received 25 percent or less of the earlier grant.)

(C) Eligible Activities. COPC Programs should combine research with outreach activities and work with communities and local governments to address the multidimensional problems that beset urban areas. Appropriate urban problems include, but are not limited to housing, economic development, neighborhood revitalization, infrastructure, health care, job training, education, crime prevention, planning, the environment, and community organizing.

(1) Research activities must have a clear near-term potential and practical application for solving specific, significant urban problems in designated communities and neighborhoods, including evaluation of the effectiveness of the outreach activities and how they relate to HUD programs. Applicants must have the capacity to apply the research results directly to the proposed outreach activities outlined in the application's work plan. In addition, applicants must work with communities and local institutions, including neighborhood groups, local governments, and other appropriate community stakeholders, in applying these results to real-life urban problems.

(2) Outreach, technical assistance, and information exchange activities designed to address specific urban problems in designated communities and neighborhoods served by the grant.

Examples of outreach activities include, but are not limited to:

(a) Assistance to communities to improve consolidated housing and community development plans and eliminate impediments to the design and implementation of such plans;

(b) Design of community or metropolitan strategies to resolve urban problems of communities and neighborhoods;

(c) Innovative use of funds to provide direct technical expertise and assistance to local community groups, residents, and other appropriate community stakeholders to resolve local problems such as homelessness, housing discrimination, and impediments to fair housing choice;

(d) Technical assistance in business start-up activities for low- and moderate-income individuals and organizations, including business start-up training and technical expertise and assistance, mentor programs, assistance in developing small loan funds, business incubators, etc;

(e) Technical assistance to local public housing authorities on welfare-to-work initiatives and physical transformations of public or assisted housing, including development of accessible and visitable housing;

(f) Job training and other training projects, such as workshops, seminars, and one-on-one and on-the-job training;

(g) Assistance to communities in eliminating or reducing excessive, unnecessary or duplicative regulations, processes or policies that restrict the development or rehabilitation of affordable housing (For further discussion of Regulatory Barriers see the General Section of this SuperNOFA);

(h) Assistance to communities to improve the design of affordable housing to better meet user needs and applying design approaches and principles that can improve overall quality and livability. For further information and guidance visit the Web site: http://www.designadvisor.org.

(i) Regional projects that maximize the interaction of targeted inner city distressed neighborhoods with suburban job opportunities similar to HUD's Bridges-to-Work or Moving to Opportunity programs. (For more information see www.HUDUSER.org.)

(3) Funds for faculty development including paying for course time or summer support to enable faculty members to work with the COPC.

(4) Funds for stipends or salaries for students (but the program cannot cover tuition and fees) while they are working with the COPC.

(5) Up to 20% of the grant for payments of reasonable grant administrative costs related to planning and execution of the project (e.g. preparation/submission of HUD reports). A detailed explanation of these costs is provided in the OMB circulars that can be accessed at the White House Web site at: http://www.whitehouse.gov/omb/circulars/index.html.

(6) Activities to carry out the “Program Requirements” as defined in this NOFA. These activities may include leases for office space in which to house the Community Outreach Partnership Center, under the following conditions:

(a) The lease must be for existing facilities not requiring rehabilitation or construction;

(b) No repairs or renovations of the property may be undertaken with federal funds; and

(c) Properties in the Coastal Barrier Resource System designated under the Coastal Barrier Resources Act (16 U.S.C. 3501) cannot be leased with federal funds.

(7) Components of the program may address metropolitan or regional strategies. Applicants must clearly demonstrate how:

(a) Strategies are directly related to what the targeted neighborhoods and neighborhood-based organizations have decided is needed; and

(b) Neighborhoods and neighborhood organizations are involved in the development and implementation of the metropolitan or regional strategies.

(D) Ineligible Activities. Activities ineligible for funding under this program include, but are not limited to the following:

(1) Research activities that have no clear and immediate practical application for solving urban problems or do not address specific problems in designated communities and neighborhoods or have any specific link to HUD programs.

(2) Any type of construction, rehabilitation, or other physical development costs.

(3) Costs used for routine operations and day-to-day administration of institutions of higher education, local governments or neighborhood groups.

IV. Program Requirements

In addition to the program requirements listed in the General Section of this SuperNOFA, applicants must meet the following program requirements:

(1) All funds awarded to New Grant applicants must be spent over a three-year (36 months) grant performance period. All funds awarded to New Direction Grants applicants must be spent over a two-year (24 months) grant performance period.

(2) Applicants are required to meet the following match requirements:

(a) New Grant applicants match requirements:

(1) Research Activities. 50% of the total project costs of establishing and operating research activities.

(2) Outreach Activities. 25% of the total project costs of establishing and operating outreach activities.

(b) New Directions Grant applicants match requirements:

(1) Research Activities. 60% of the total project costs of establishing and operating research activities.

(2) Outreach Activities. 35% of the total project costs of establishing and operating outreach activities.

For each match, cash or in-kind contributions to the program, applicants must submit a signed letter of commitment (Further detailed information is outlined in this NOFA in Section V. Application Selection Process, “Factor 4: Leveraging Resources” for this program). Applicants may not count as match any costs that would be ineligible for funding under the program (e.g., housing rehabilitation).

In previous competitions, some applicants incorrectly based their match calculations on the federal grant amount only. An applicant's match is evaluated as percentage of the total cost of establishing and operating research and outreach activities, not just the federal grant amount. Please remember to base the calculation on the TOTAL AMOUNT.

(3) Employ the research and outreach resources of the institution of higher education to solve specific urban problems identified by communities served by the Center;

(4) Establish outreach activities in areas identified in the application as the communities to be served;

(5) Establish a community advisory committee comprised of representatives of local institutions and residents of the communities to be served to assist in identifying local needs and advise on the development and implementation of strategies to address those issues;

(6) Coordinate outreach activities in communities to be served by the Center;

(7) Facilitate public service projects in the communities served by the Center;

(8) Act as a clearinghouse for dissemination of information;

(9) Develop instructional programs, convene conferences, and provide training for local community leaders, when appropriate;

(10) Exchange information with other Centers. The clearinghouse function in Section IV(8) above refers to a local or regional clearinghouse for dissemination of information and is separate and distinct from the functions in (10) above, which relate to the provision of information to the University Partnerships Clearinghouse, which is the national clearinghouse for the program; and

(11) Grant funds will pay for activities conducted directly, rather than passing funds to other entities (In order for an application to be competitive, no more than 25 percent of the grant funds should be passed to other entities).

V. Application Selection Process

Two types of reviews will be conducted:

(1) A threshold review to determine an application's eligibility; and

(2) A technical review for all applications that pass the threshold review to rate and rank the application based on the “Factors for Award” rating factors listed in Section V(B) below.

Only those applications that pass the threshold review will receive a technical review and be rated and ranked.

(A) Threshold Requirements For Funding Consideration

All applicants must be in compliance with the threshold requirements as defined in the General Section of this SuperNOFA and the requirements listed below to be evaluated, rated, and ranked. Applications that do not meet these requirements will be considered ineligible for funding and will be disqualified:

There will be two separate competitions, one for New Grants applicants and one for New Direction Grant applicants. For each type of grant applicants will be rated, ranked, and selected separately.

(1) The applicant is eligible as referenced in Section III, “Program Description, Eligible Applicants; Eligible Activities in this NOFA”.

(2) Applicants applying for New Grants may not request less than $250,000 or exceed $400,000. Applicants applying for New Direction Grants may not request less or exceed $150,000.

(3) Applicants must meet the program's statutory match requirement (the requirement is defined in Section IV, “Program Requirements”).

(4) New Grant applications must be multifaceted, address three or more urban problems, and propose at least one distinct activity to address each separate urban problem. Single purpose applications are not eligible.

(5) New Direction Grant applications are required to address two urban problems and undertake at least one activity for each of these problems. Applicants must also demonstrate that the proposed activities either implement new eligible projects in the current target neighborhood(s) or implement eligible projects in a new target neighborhood(s). Single purpose applications are not eligible.

(6) New Direction Grant applicants must have drawn down at least 75% from any previous COPC award two weeks prior to the program's application due date to be eligible to apply and receive a New Directions Grant.

(7) Applicants who were a member of a consortium and received more than 25 percent of the earlier funding are not eligible to apply for a New Grant. However applicants may submit an application for a New Direction Grant (Applicants may submit an application individually or as part of the old consortium).

(8) Only one New Grant application will be permitted from an institution. However different campuses of the same university system are eligible to apply, even if one campus has already received COPC funding if they have an administrative and budgeting structure independent of other campuses in the system.

(9) Applicants may be part of only one consortium or submit only one application or all applications will be disqualified. HUD will hold the applicant responsible for ensuring that neither the applicant nor any part of their institution, including specific faculty, participate in more than one application.

(10) Programs must operate in an urban area. The statute creating COPC is very specific that programs address the problems of urban areas. HUD uses the Census definition of an urban area: a single geographic place (e.g., a city, town, or village, but not a county) with a population of 2,500 or more. Applicants cannot meet this test by aggregating several places smaller than the population threshold in order to meet this requirement.

(11) In order to ensure that the primary focus of the proposed project is on outreach, there is a cap on research costs that can be budgeted for this program. No more than 25 percent of the total project costs (federal share plus match) can be spent on research activities. However, applicants are not required to undertake any research as part of their project and may apply for a project that is totally outreach focused.

(B) Factors for Award Used to Evaluate and Rate Applications

The factors for evaluating, rating, and ranking an application and the maximum points for each factor are listed below. Unless otherwise noted, New Grant applications and New Directions Grant applications will receive the same number of points on a given factor. Applications must receive a minimum of 75 out of the total possible points to be considered for funding. The maximum number of points available under this program is 102. This includes the two RC/EZ/EC bonus points as described in the General Section of this SuperNOFA.

Rating Factor 1: Capacity of the Applicant and Relevant Organizational Experience (15 Points)

This factor addresses the extent to which the applicant has the organizational resources necessary to successfully implement the proposed activities in a timely manner. In rating this factor HUD will consider the extent to which the proposal demonstrates:

(1) Knowledge and Experience (15 Points) For New Grant Applicants. (7 Points) For New Direction Grant Applicants.

(a) The knowledge and experience of the overall proposed project director and staff, including the day-to-day program manager, consultants, and contractors in planning and managing the kind of programs for which funding is being requested. Experience will be judged in terms of recent, relevant, and successful knowledge and skills of the staff to undertake eligible program activities. HUD will consider experience within the last 5 years to be recent; experience pertaining to the specific activities being proposed to be relevant; and experience producing specific accomplishments to be successful. The more recent and substantial the experience of the staff, particularly the institution's own staff who will work on the project have in successfully conducting and completing similar activities, the higher the number of points an applicant can receive for this rating factor. The following categories will be evaluated:

(1) Undertaking research activities in specific communities that have a clear near-term potential for practical application to significant urban issues;

(2) Undertaking outreach activities in specific communities to solve or ameliorate significant urban issues;

(3) Undertaking projects with community-based organizations or local governments; and

(4) Providing leadership in solving community problems and making national contributions to solving long-term and immediate urban problems.

(b) Past Performance (8 points). For New Directions Grants only. This subfactor will evaluate the extent to which an applicant has performed successfully under a previous COPC grant(s), as measured by:

(a) Achievement of specific measurable outcome objectives consistent with the timeline in the awarded grant proposal. Please provide a detailed list outlining those achievements as they related to the approved timeline in the awarded grant;

(b) Leveraging of funding consistent with or exceeding the funds originally proposed to be leveraged for that project. In addressing leveraging provide information that compares the proposed leveraged funds and resources with what was actually leveraged; and

(c) Full points will be awarded for performance that met the goals and objectives as outlined in the awarded grant proposal.

Rating Factor 2: Need/Extent of the Problem (10 Points)

This factor addresses the extent to which there is a need for funding the proposed program activities and an indication of the urgency of meeting the need in the target area. In evaluating this factor, the proposal will be rated on the extent to which the level of need for the proposed activities and the importance of meeting the need are documented.

Applicants should use statistics and analyses contained in at least one or more current data sources that are sound and reliable. The data provided must be current. In rating this factor, HUD will consider data collected within the last five years to be current. To the extent that the targeted community's Five (5) Year Consolidated Plan and Analysis of Impediments to Fair Housing Choice (AI) identify the level of the problem and the urgency in meeting the need, applicants should include references to these documents in the response.

If the proposed activities are not covered under the scope of the Consolidated Plan and Analysis of Impediments to Fair Housing Choice (AI), indicate such in the proposal and use other sound data sources to identify the level of need and the urgency in meeting the need. Other reliable sources of data include, but are not limited to, Census reports, HUD Continuum of Care gap analysis and its E-Map (http://www.hud.gov/emaps), law enforcement agency crime reports, Public Housing Authorities' Comprehensive Plan, community needs analyses such as provided by the United Way, the applicant's institution, and other sound and reliable appropriate sources. Needs in terms of fulfilling court orders or consent decrees, settlements, conciliation agreements, and voluntary compliance agreements may also be addressed.

The data used should be specific to the area where the proposed activities will be carried out. Needs should be documented as they apply to the area where the activities will be targeted, rather than the entire locality or state. Remember the statute creating COPC is very specific that the program addresses problems of an urban area: A single geographic place (e.g. a city, town, or village, but not a county) with a population of 2,500 or more.

Rating Factor 3: Soundness of Approach (55 Points)

This factor addresses the quality and cost-effectiveness of the proposed work plan. There must be a clear relationship between the proposed activities, community needs, and purpose of the program funding for an applicant to receive points for this factor. In addition, HUD will also consider the extent to which the budget is consistent with the Work Plan and the dollars indicated on the HUD 424 form.

This factor will be evaluated on the extent to which the proposed work plan will:

(1) (10 points). Identify the specific services or activities to be performed. (Note applicants are not required to undertake research as part of the grant.) In reviewing this subfactor, HUD will consider the extent to which:

(a) There is a clear research agenda;

(i) With identifiable research projects and outcomes (e.g., reports, surveys, etc.)

(ii) That identifies each task and who will be responsible for it;

(iii) Which is tied to the outreach agenda (e.g., if an applicant proposed to study the extent of housing abandonment in a neighborhood and then design a plan for reusing this housing, this demonstrates a link between the proposed research and outreach strategies);

(iv) Which does not duplicate research by the institution or others for the target area previously completed or currently underway. If other complimentary research is underway, describe how the proposed research agenda would complement it; and

(b) There is a clear outreach agenda:

(i) With identifiable outreach projects;

(ii) That identifies each task and who will be responsible for it;

(iii) That involves the institution as a whole (i.e., many academic disciplines and administrative offices);

(iv) That provides for on-site or frequent presence in the target area; and

(v) That does not duplicate outreach activities by the institution or others for the target area previously completed or currently underway.

(c) For research and outreach activities, applicant should briefly summarize the potential for their work to improve the performance of HUD programs, such as citizen participation requirements and other features of the Consolidated Plan.

(2) (7 Points). Involve the communities to be served in a partnership for the planning and implementation of the proposed program activities. In reviewing this subfactor, HUD will look at the extent to which:

(a) One or more Community Advisory Committees have been or will be formed that represent the communities' diversity (including businesses, community groups, residents, and others) to be served to develop and implement strategies to address the needs identified in Factor 2. In addressing this subfactor, applicants must demonstrate by providing a list that such a committee(s) has already been formed and what groups they represent or that commitments have been secured from the appropriate persons to serve on the committee(s), rather than just describing generally the types of people whose involvement will be sought.

(b) A wide range of neighborhood organizations and local government entities has been involved in the identification of the proposed research and outreach activities.

(c) The committee and partners will play an active role in all stages of the project and will not serve as merely advisors or monitors.

(d) The outreach agenda includes training projects for local community leaders, for example, to increase their capacity to direct their organizations or undertake various kinds of community development projects.

(3) (6 Points). Help solve or address an urgent problem as identified in Rating Factor 2 and will achieve the purposes of the program within the grant period. In reviewing this subfactor, HUD will look at the extent to which:

(a) Specific time phased and measurable objectives are identified to be accomplished; the proposed short and long term program objectives to be achieved as a result of the proposed activities; the tangible and measurable impact the program will have on the community in general; the target area or population in particular including affirmatively furthering fair housing for classes protected under the Fair Housing Act; and the relationship the proposed activities to other ongoing or proposed efforts to improve the economic, social or living environment in the impact area; and

(b) The activities proposed are responsive to the pressing and urgent needs, as identified in the documents described in Factor 2.

(4) (4 Points) Potentially yield innovative strategies or “best practices” that can be replicated and disseminated to other organizations, including nonprofit organizations, state and local governments. In reviewing this subfactor, HUD will assess the applicant's demonstrated ability to disseminate results of research and outreach activities to other COPCs and communities. HUD will evaluate an applicant's past experience and the scope and quality of the plan to disseminate information on COPC results, strategies, and lessons learned through such means as conferences, cross-site technical assistance, publications, etc. The more proactive the plan for providing information to a wide ranges of audiences, the higher the number of points an applicant will receive.

(5) (5 Points) Affirmatively Further Fair Housing. This factor will evaluate the extent to which an applicant proposes to undertake activities designed to affirmatively further fair housing, for example:

(a) Working with other entities in the community to overcome impediments to fair housing, such as discrimination in the sale or rental of housing or in advertising, provision of brokerage services, or lending;

(b) Promoting fair housing choice through the expansion of homeownership opportunities and improved quality of services for minorities, families with children, and persons with disabilities; or

(c) Providing housing mobility counseling services.

(6) (6 Points) HUD Policy Priorities. HUD encourages applicants to undertake specific activities that will assist the Department in implementing its policy priorities and which help the Department achieve its goals and objectives in FY 2004, when the majority of grant recipients will be reporting programmatic results and achievements. In addressing this factor, HUD will evaluate the extent to which a program will further and support HUD's priorities. The quality of the responses provided to one or more of HUD's priorities will determine the score an applicant can receive. For each policy priority addressed an applicant will receive one point. Applicants cannot receive more than six points. For the full list and explanation of each policy priority, please refer to the General Section of this SuperNOFA.

(7) (12 Points) For New Grant Applicants (7 Points) For New Directions Grant Applicants. Result in the COPC function and activities becoming part of the urban mission of the institution and being funded in the future by sources other than HUD. The rating for this subfactor will vary depending on whether the application is for a New Grant or a New Directions Grant.

In reviewing this subfactor for a New Grant, HUD will evaluate the extent to which the applicant addresses each of the categories below:

(a) COPC activities relate to the institution's urban mission; demonstrates support and involvement of the institution's executive leadership (e.g. department chairs, deans, etc.); are linked by a formal organizational structure to other units related to outreach and community partnerships; are reflected in budget and planning documents of the university; are part of a climate that rewards faculty work on these activities through promotion and tenure policies; benefit students because they are part of a service learning program or professional training at the institution (rather than just volunteer activities); and are reflected in the institution's curriculum. HUD will look at the institution's commitment to faculty and staff continuing work in COPC neighborhoods or replicating successes in other neighborhoods and to the long term commitment (e.g. three years after the start of the COPC) of hard dollars to COPC work. HUD will consider the extent to which the proposed activities are appropriate for an institution of higher education and are tied to the institution's teaching or research mission. In addition, HUD will consider the extent to which the faculty, staff and students from across many disciplines are involved in COPC-like activities as a way of demonstrating the institution's commitment to these kinds of activities.

(b) The institution has received commitments for funding from sources outside the university for related COPC-like projects and activities in the targeted neighborhood or other distressed neighborhoods. Funding sources to be considered include, but are not limited to, local governments, neighborhood organizations, private businesses, the institution, and foundations.

In reviewing this subfactor for a New Directions Grant, HUD will consider the extent to which the New Directions project will sustain the institutional capacity and commitment of the institution to undertake outreach activities. HUD will evaluate the following: (a) Increases in the number of faculty undertaking this kind of work, (b) increases in the number of courses linked to outreach activities and the number of students taking these courses, (c) formal changes in institutional policies related to support of outreach, and (d) other measures of the impact of this work on the institution.

(8) (5 Points) For New Direction Grants Only. Previous grantees have a wealth of knowledge that they can and should be shared with other institutions. If an applicant sends a faculty member of its team who has been listed in the application to participate in the peer review process for New Grants, the applicant will receive 5 points.

(9) (5 Points) Budget. HUD will consider the extent to which the budget presentation is consistent with the Work Plan and the dollars indicated on the HUD 424 form. The budget submission should follow the narrative statement in this factor and include the following documents:

(a) HUD 424-C “Budget Summary for Competitive Grant Programs”. This budget form shows the costs for each budget category for the program's entire period of performance.

(b) HUD 424-CB “Grant Application Detailed Budget”. This budget form shows the total budget by year and by line item for the program activities to be carried out. This will be a functional budget. Each year of the program should be presented separately.

All budget forms must be completed in full. If an application is selected for award, the applicant may be required to provide greater specificity to the budget during grant agreement negotiations.

(b) Budget-Narrative. A narrative explanation of how the applicant arrived at the cost estimates, for any line item, including match items, over $5,000. For example, a van rental, $150 per month × 36 months equals $5,400. The proposed cost estimates should be reasonable for the work to be performed and consistent with rates established for the level of expertise required to perform the work proposed in the geographical area. When necessary, quotes from various vendors or historical data should be used and included. All direct labor or salaries must be supported with mandated city/state pay scales, the Davis-Bacon rate, (if applicable) or other documentation. When an applicant proposes to use a consultant, the applicant must indicate whether there is a formal agreement or written procurement policy. For each consultant, please provide the name, if known, hour or daily fee, and the estimated time on the project. For equipment applicants must provide a list by type and cost for each item and explain how it will be used. Applicants using contracts must provide an individual description and cost estimate for each contract.

Indirect costs attributed to a particular project functional category should be listed under the category “Indirect Costs”. Indirect costs are allowable only if an applicant has a federally approved indirect cost rate. A copy of the institution's negotiated indirect cost rate as issued by the cognizant federal agency must be attached to the budget sheets when submitting an application.

Make sure that the amount shown on the HUD 424, the budget forms, and on all other required program forms is consistent and the budget totals correct. Remember to check addition in totaling the categories on the HUD 424-C and HUD 424-CB forms so that all items are included in the total. If there is an inconsistency between any of the forms required, the HUD 424C form will be used. If upon checking the addition HUD finds that an applicant has added incorrectly, the HUD 424-CB will be revised accordingly. Please note that this would be considered a substantive rather than a technical error. If this correction puts an application over the grant maximum, the applicant will not be able to correct the amount requested and the application will be disqualified.

Rating Factor 4: Leveraging Resources (10 Points)

This factor addresses the ability of the applicant to secure community resources that can be combined with HUD's grant funds to achieve the program purpose. This factor measures the extent to which partnerships have been established with other entities to secure additional resources to increase the effectiveness of the proposed program activities. Resources may include funding or in-kind contributions, such as services or equipment, allocated to the purpose(s) of the grant being sought. Resources may be provided by governmental entities, public or private nonprofit organizations, for-profit private organizations, or other entities willing to establish partnerships. Applicants may also establish partnerships with funding recipients in other grant programs to coordinate the use of resources in the target area. Please note that the value of the time of individuals serving on an applicant program advisory board cannot be counted as an in-kind contribution. Applicants may count overhead and other institutional costs (e.g., salaries) that the institution has waived. In evaluating this factor, HUD will allocate points as follows:

(1) Five (5 Points) will be awarded for a match that is 50 percent over the required match, as described in Section V, Application Selection Process. Less points will be assigned depending on the extent of the match. Matching funds must be provided unconditionally in order to be counted for this subfactor.

HUD is concerned that applicants should be providing hard dollars as part of their matching contributions to enhance the tangible resources going into targeted neighborhoods. Thus, while indirect costs can count towards meeting the required match, they will not be used in calculating match overage. Only direct costs can count in this factor.

(2) (Up to an additional five (5) points) will be awarded for the extent to which applicants document that matching funds are provided from eligible sources other than the institution (e.g., funds from the city, including CDBG, other state or local government agencies, public or private organizations, or foundations). Less points will be assigned depending on the extent of the outside match. Applicants must provide evidence of leveraging/partnerships by including in the application package letters of firm commitment, memoranda of understanding, or agreements to participate from any entity, including the applicant's own institution that will be providing matching funds to the project.

For each match, cash or in-kind contribution, a letter of commitment, memorandum of understanding, or agreement must be provided that shows the extent and firmness of the commitment of leveraged funds (including any commitment of resources from the applicant's own institution) in order for the resources to count in determining points under this factor. Resources will not be counted for which there is no commitment letter, memorandum of understanding, or agreement, nor quantified level of commitment. Letters, memoranda of understanding or agreements must be submitted from the provider on the provider's letterhead and be included with the application package. The date of the letter, memorandum of understanding, or agreement from the CEO of the provider organization must be dated no earlier than the date of this published SuperNOFA. Applications that do not include evidence of leveraging will receive zero (0) points for this Factor and will be disqualified.

A firm commitment letter, memorandum of understanding, or agreement must address the following:

(a) The cash amount contributed or dollar value of the in-kind goods and/or services committed (If a dollar amount and use is not shown, the source cannot be counted toward the match requirement);

(b) Specifically indicate how the match is to be used;

(c) The date the match will be made available and a statement that describes the duration of the contribution. If any of the matching sources are for more than one year, the commitment letter, memorandum of understanding, or agreement must state the number of years, the per year commitment, and the total commitment. Without this statement, HUD will assume that the commitment is for only one year;

(d) Any terms and conditions affecting the commitment, other than receipt of a HUD Grant; and

(e) The signature of the appropriate executive officer authorized to commit the funds and/or goods and/or services.

Please remember that only items eligible for funding under this program can be counted as a match.

Rating Factor 5: Achieving Results and Program Evaluation (10 Points)

This factor reflects HUD's goal to embrace high standards of ethics, management, and accountability. The factor measures the applicant's commitment to assess their performance to achieve the program's proposed objectives and goals. Applicants are required to develop an effective, quantifiable, outcome oriented evaluation plan for measuring performance and determining that objectives and goals have been achieved.

“Outcomes” are benefits accruing to institutions of higher education and/or communities during or after participation in the COPC program. Applicants must clearly identify the outcomes to be measured and achieved. Examples of outcomes are increasing business start-up in the target community, by a certain percentage, or increasing family financial stability (e.g., increasing assets to families and communities through the development of incubators).

In addition, applicants must establish interim benchmarks and outputs that lead to the ultimate achievement of outcomes. “Outputs” are the direct products of the program's activities. Examples of outputs are the number of new businesses developed, the number of students involved in service learning activities, the number of new courses an institution developed that focus on community outreach activities, the number of new formed partnerships that aid in community capacity building. Outputs should produce outcomes for the program. At a minimum an applicant must address the following activities in the evaluation plan:

(a) Short and long term objectives to be achieved;

(b) Actual accomplishments against anticipated achievements;

(c) Measurable impacts the grant will have on the community in general and the target area or population;

(d) The impact the grant will have on the long term commitment of the University to the faculty and students to provide opportunities to reward and continue this type of work; and

(e) The impact the grant will have on assisting the University to obtain additional resources to continue this type of work at the end of the funding period of this grant award.

This information should be provided in a Logic Model format. This form and information on how to use can be found in the General Section of this SuperNOFA.

The Historically Black Colleges and Universities Program (HBCU)

I. Program Overview

Purpose of the Program. To assist Historically Black Colleges and Universities (HBCU) expand their role and effectiveness in addressing community development needs in their localities, including neighborhood revitalization, housing, and economic development, principally for persons of low- and moderate-income, consistent with the purposes of Title I of the Housing and Community Development Act of 1974, as amended.

II. Amount Allocated, Grant Size and Term and Performance Period

Amount Allocated. In Fiscal Year 2003, $9.935 million was earmarked by the conference report accompanying the FY 2003 Consolidation Appropriation Resolution, Division K (of which up to $2 million was earmarked to provide technical assistance).

Grant Size and Term. HUD will award two kinds of grants under this program, Previously Unfunded HBCU Grants and Previously Funded HBCU Grants.

(1) Previously Unfunded HBCU Grants will be awarded to HBCU applicants who have never received an HBCU grant. The minimum and maximum amount a Previously Unfunded HBCU applicant can request is $340,000 for a three-year (36 months) grant performance period.

(2) Previously Funded HBCU Grants will be awarded to HBCU applicants that have received funding under previous HBCU grant competitions. The minimum amount a Previously Funded HBCU applicant can request is $340,000 and the maximum is $550,000 for a three-year (36 months) grant performance period.

In order to ensure that Previously Unfunded HBCU applicants receive awards in this competition, approximately $1.4 million will be made available to fund Previously Unfunded HBCU applicants and approximately $6.6 million will be made available to Previously Funded HBCU applicants that have received funding under previous HBCU competitions. (See Appendix C of this NOFA for a list of Previously Funded and Unfunded HBCUs).

III. Program Description; Eligible Applicants; Eligible Activities

(A) Program Description. The purpose of the HBCU Program is to assist HBCUs expand their role and effectiveness in addressing community development needs in their localities, including neighborhood revitalization, housing, and economic development.

(1) For the purposes of these programs, the term “locality” includes any city, county, township, parish, village, or other general political subdivision of a state, Puerto Rico, or the U.S. Virgin Islands where the institution is located.

(2) If the institution is located in a metropolitan statistical area (MSA), as established by the Office of Management and Budget (OMB), the locality may be considered to be one or more entities (as defined above) within the entire MSA. The nature of the locality for each HBCU may differ, therefore, depending on its location.

(3) A “target area” is the locality or the area within the locality in which the institution will implement its proposed HUD grant.

(B) Eligible Applicants. HBCUs as determined by the Department of Education in 34 CFR 608.2 in accordance with that Department's responsibilities under Executive Order 13256, dated February 12, 2002, are eligible for funding under this program. Applicants must be accredited by a national or regional accrediting agency recognized by the U.S. Department of Education.

(C) Eligible Activities. Each activity proposed for funding must meet both a Community Development Block Grant (CDBG) Program national objective and the CDBG eligibility requirements. Eligible activities that may be funded under this program are those activities eligible for CDBG funding. The eligible activities are listed in 24 CFR part 570, subpart C, particularly §§ 570.201 through 570.206. Each activity funded under this program must meet one of the three national objectives of the Community Development Block Grant program, which are:

(a) Benefit to low- or moderate-income persons;

(b) Aid in the prevention or elimination of slums or blight; or

(c) Meet other community development needs having a particular urgency because existing conditions pose a serious and immediate threat to the health and welfare of the community, and other financial resources are not available to meet such needs.

Criteria for determining whether an activity addresses one or more of these objectives are provided at 24 CFR 570.208.

Examples of Eligible Activities include, but are not limited to:

(a) Acquisition of real property;

(b) Clearance and demolition;

(c) Rehabilitation of residential structures including lead-based paint hazard evaluation and reduction; and encouraging accessible design features in accordance with the requirements of section 504 of the Rehabilitation Act of 1973;

(d) Acquisition, construction, reconstruction, rehabilitation, or installation of public facilities and improvements, such as water and sewer facilities and streets; including lead-based paint hazard evaluation and reduction; and encouraging compliance accessible with the design and construction requirements of Section 504 of the Rehabilitation Act of 1973 and the Fair Housing Act;

(e) Relocation payments and other assistance for permanently and temporarily relocated individuals, families, businesses, nonprofit organizations, and farm operations where the assistance is:

(i) Required under the provisions of 24 CFR 570.606(b) or (c); or

(ii) Determined by the grantee to be appropriate under the provisions of 24 CFR 570.606(d);

(f) Direct homeownership assistance to low- and moderate-income persons, as provided in section 105(a) (25) of the Housing and Community Development Act of 1974;

(g) Special economic development activities described at 24 CFR 570.203;

(h) Assistance to facilitate economic development by providing technical or financial assistance for the establishment, stabilization, and expansion of microenterprises, including minority enterprises;

(i) Assistance to community-based development organizations (CBDO) to carry out a CDBG neighborhood revitalization, community economic development, or energy conservation project, in accordance with 24 CFR 570.204. This could include activities in support of a HUD approved local entitlement grantee, CDBG Neighborhood Revitalization Strategy (NRS) or HUD approved State CDBG Community Revitalization Strategy (CRS);

(j) Eligible public service activities are those general support activities that can help to stabilize a neighborhood and contribute to sustainable redevelopment of the area, including but not limited to such activities as those concerned with employment, crime prevention, child care, health, drug abuse, education, fair housing counseling, energy conservation, homebuyer down payment assistance, or recreational needs;

The CDBG Publication entitled “Community Development Block Grant Program Guide to National Objectives and Eligible Activities for Entitlement Communities” describes the regulations, and a copy can be obtained from HUD's SuperNOFA Information Center at 1-800-HUD-8929 or 1-800-HUD-2209 for the hearing-impaired.

(k) Fair housing services designed to further the fair housing objectives of the Fair Housing Act (42 U.S.C. 3601-20) by making all persons, without regard to race, color, religion, sex, national origin, family status and/or disability aware of the range of housing opportunities available to them;

(l) Payments of reasonable grant administrative costs related to planning and execution of the project (e.g. preparation/submission of HUD reports). A detailed explanation of these costs are provided in the OMB circulars that can be accessed at the White House Web site at: http://www.whitehouse.gov/omb/circulars/index.html; and

(m) Activities Designed to Promote Training and Employment Opportunities. HUD urges applicants to consider undertaking activities designed to promote opportunities for training and employment of very low-income residents in connection with HUD initiatives such as “Neighborhood Networks” (NN) in other federally assisted or insured housing and Employment Opportunities for Lower Income Persons in connection with Assisted Projects.

(D) Ineligible Activities. Ineligible CDBG Activities are listed at 24 CFR 570.207.

IV. Program Requirements

In addition to the program requirements listed in the General Section of this SuperNOFA, applicants must meet the following requirements:

(1) All funds awarded under these programs must be spent over a three-year (36 months) grant performance period.

(2) Applicants that propose to undertake activities that involve the following: acquisition of real property, clearance, demolition, rehabilitation of residential structures including lead-based paint hazard evaluation, reduction encouraging accessible design features, acquisition, construction, reconstruction, rehabilitation, or installation of public facilities and improvements are required to provide at least one appraisal from a qualified certified appraiser other than the institution, of the cost to complete the activities. This information must be submitted with the application. Such an entity must be involved in the business of housing rehabilitation, construction, and/or management.

(3) Applicants must ensure that not less than 51% of the aggregated expenditures of the grant benefit low- and moderate-income persons under the criteria specified in 24 CFR 570.208(a) or 570.208(d)(5) or (6).

(4) Applicants that claim leveraging from any source, including their own institution, must provide letters of firm commitment, memoranda of understanding, or agreements evidencing the extent and firmness of commitment of leveraging from other federal (e.g., AmeriCorps Programs), state, local, and/other private sources (including the applicant's own resources). These documents must be dated no earlier than the date of this published NOFA and follow the outline provided in Section V, Application Process, “Factor 4: Leveraging Resources of this NOFA.

(5) Where grant funds will be used for acquisition, rehabilitation, or new construction an applicant must demonstrate site control. Funds may be recaptured or deobligated from applicants that cannot demonstrate control of a suitable site within one year after the initial notification of award.

(6) Labor Standards. Applicants awarded funds must comply with the labor standards (Davis-Bacon) as found at 24 CFR 570.603.

V. Application Selection Process

Two type of reviews will be conducted:

(1) A threshold review to determine an applicant's eligibility; and

(2) A technical review for all applications that pass the threshold review to rate and rank the application based on the “Factors for Award” rating factors listed in Section V (B) below.

Only those applications that pass the threshold review will receive a technical review and be rated and ranked.

(A) Threshold Requirements for Funding Consideration

All applicants must be in compliance with the threshold requirements as defined in the General Section of this SuperNOFA and the requirements listed below to be evaluated, rated, and ranked. Applications that do not meet these requirements will be considered ineligible for funding and will be disqualified:

(1) The applicant is eligible as referenced in Section III, “Program Description, Eligible Applicants; Eligible Activities in this NOFA”.

(2) The minimum and maximum amount Previously Unfunded HBCU applicants can request is $340,000. The minimum amount a Previously Funded HBCU applicant can request is $340,000 and the maximum is $550,000.

(3) Applicants are bound by the CDBG statutory requirement that no more than 15% of the total grant amount is used for public service activities that benefit low- and moderate-income persons. Therefore, at least 85% of the grant amount must be used for activities qualifying under an eligibility category other than public services (as described at 24 CFR 570.201(e). If an applicant proposes an activity which otherwise is eligible it may not be funded if state or local law requires that it be carried out by a governmental entity.

(4) Institutions with two (2) or more active HBCU grants who have drawn down less than 50 percent of the funding for each active grant two weeks prior to the program's application due date are ineligible to apply for a grant under this NOFA.

(B) Factors for Award Used To Evaluate and Rate Applications

The factors for evaluating, rating, and ranking an application and the maximum points for each factor are listed below. Applications must receive a minimum of 75 out of the total possible points to be considered for funding. The maximum number of points available under this program is 102. This includes the two RC/EZ/EC bonus points as described in the General Section of this SuperNOFA.

Rating Factor 1: Capacity of the Applicant and Relevant Organizational Experience (20 Points)

This factor addresses the extent to which the institution has the organizational resources necessary to successfully implement the proposed activities in a timely manner. In rating this factor, HUD will consider the extent to which the proposal demonstrates:

(1) Knowledge and Experience (20 Points) For previously Unfunded Applicants (5 Points) For previously Funded Applicants.

The knowledge and experience of the overall project director and staff, including the day-to-day program manager, consultants (including technical assistance providers), and contractors in planning and managing the kinds of programs for which funding is being requested. Experience will be judged in terms of recent, relevant, and successful knowledge and skills of the staff to undertake eligible program activities. HUD will consider experience within the last 5 years to be recent; experience pertaining to specific activities to be relevant; and experience producing specific accomplishments to be successful. The more recent and substantial the experience of the staff, particularly the institution's own staff who will work on the project have in successfully conducting and completing similar activities, the higher the number of points an applicant can receive for this rating factor. The following categories will be evaluated:

(a) Undertaking specific successful community development projects with community-based organizations or local governments; and

(b) Providing leadership in solving community problems that have a direct bearing on the proposed activities.

(2) Past Performance for Previously Funded Grant Applicants Only (15 points).

This subfactor will evaluate the extent to which an applicant has performed successfully under all previously awarded and current grant(s) as measured by:

(a) Achievement of specific measurable outcome objectives consistent with the timeline in the grant proposal(s). Provide a detailed list outlining those achievements as they relate to the approved timeline in the past grant award(s);

(b) Leveraging of funding consistent with or exceeding the funds originally proposed to be leveraged for that project. In addressing leveraging, provide information that compares the proposed leveraged funds and resources with what was actually leveraged; and

(c) Full points will be awarded for performance that has met the goals and objectives as outlined in the past awarded grant proposal(s).

To address this subfactor, applicants must submit the HUD 40076-HBCU “Response Sheet” (Preparation Narrative only) for each HBCU grant they have received. (This form is located in Appendix C at the end of this NOFA.) The form should be complete and detailed.

Rating Factor 2: Need/Extent of the Problem (10 Points)

This factor addresses the extent to which there is a need for funding the proposed program activities and an indication of the importance of meeting the need in the target area. In responding to this factor, the proposal will be rated on the extent to which the level of need for the proposed activities and the importance of meeting the need are documented.

Applicants should use statistics and analyses contained in at least one or more current data sources that are sound and reliable. The data provided must be current. In rating this factor HUD will consider data collected within the last five years to be current. To the extent that the targeted community's Five (5) Year Consolidated Plan and Analysis of Impediments to Fair Housing Choice (AI) identify the level of the problem and the urgency in meeting the need, applicants should include references to these documents in the response to this factor.

If the proposed activities are not covered under the scope of the Consolidated Plan and Analysis of Impediments to Fair Housing Choice (AI), indicate such in the proposal and use other sound data sources to identify the level of need and the urgency in meeting the need. Other reliable sources include, but are not limited to Census reports, HUD Continuum of Care gap analysis and its E-MAP (http://www.hud.gov/emaps), law enforcement agency crime reports, Public Housing Authorities' Comprehensive Plans, community needs analyses such as provided by the United Way, the applicant's institution, and other sound and reliable appropriate sources. Needs in terms of fulfilling court orders or consent decrees, settlements, conciliation agreements, and voluntary compliance agreements may also be addressed.

The data used should be specific to the area where the proposed activities will be carried out. Needs should be documented as they apply to the area where the activities will be targeted, rather than the entire locality or state, unless the target area is the entire locality or state.

Rating Factor 3: Soundness of Approach (50 Points)

This factor addresses the quality and cost effectiveness of the proposed work plan, the commitment of the institution to sustain the proposed activities, and actions regarding HUD's priorities, goals and objectives, and Affirmatively Furthering Fair Housing. In addition, HUD will also consider the extent to which the budget is consistent with the Work Plan and the dollars indicated on the HUD 424 form.

This factor will be evaluated based on the extent to which the proposed work plan will:

(1) Quality of the Work Plan (35 Points)

(a) (10 Points) Work Plan Impact. Describe how the proposed activities will:

(i) Expand the role of the institution in its community;

(ii) Alleviate and/or fulfill the needs identified in Factor 2;

(iii) Relate to and not duplicate other activities in the target area. Duplicative effort will be acceptable only if an applicant can demonstrate through documentation that there is a population in need that is not being served;

(iv) Involve and empower citizens of the target area in all stages of the proposed project (particularly through a committee that is representative of the target community to guide the project); and

(v) Be disseminated to a wide variety of audiences, both academic and community-based, using a wide variety of media, including print and Internet technology.

(b) (20 Points). Specific Services and/or Activities. The work plan must incorporate all proposed activities. HUD will consider the feasibility of success of the program, measurable objectives, and how timely products will be delivered.

Describe each proposed activity and the tasks required to implement and complete the activities. Also for each activity describe:

(i) Which CDBG national objective is being met and how;

(ii) The sequence, duration, and the products to be delivered in 6 month intervals, up to thirty-six (36) months. Indicate which staff member, as described in Factor 1, will be responsible and accountable for the deliverables; and

(iii) Measurable objectives to be accomplished, e.g., the number of persons to be trained and employed; houses to be built (pursuant to 24 CFR 570.207) or rehabilitated; minority owned businesses to be started.

(c) (5 Points) Involvement of the Faculty and Students. The extent to which the applicant proposes to integrate the institution's students and faculty into proposed project activities.

(2) (5 Points) HUD Policy Priorities. HUD encourages applicants to undertake specific activities that will assist the Department in implementing its policy priorities and which help the Department achieve its goals and objectives in FY 2004, when the majority of grant recipients will be reporting programmatic results and achievements. In addressing this factor, HUD will evaluate the extent to which a program will further and support HUD's priorities. The quality of the responses provided to one or more of HUD's priorities will determine the score an applicant can receive. For each policy priority addressed an applicant will receive one point. Applicants cannot receive more than five points. For the full list and explanation of each policy priority, please refer to the General Section of this SuperNOFA.

(3) (5 Points) Affirmatively Furthering Fair Housing. This subfactor will be evaluated on the extent to which an applicant proposes to undertake activities designed to affirmatively further fair housing, for example:

(a) Working with other entities in the community to overcome impediments to fair housing, such as discrimination in the sale or rental of housing or in advertising, provision of brokerage services or lending;

(b) Promoting fair housing choice through the expansion of homeownership opportunities and improved quality of services for minorities, families with children, and persons with disabilities; or

(c) Providing housing mobility counseling services.

(4) (5 Points) Budget. HUD will consider the extent to which the budget presentation is consistent with the Work Plan and the dollars indicated on the HUD 424 Form. The budget submission should follow the narrative statement in this factor and include the following documents:

(a) HUD 424-C “Budget Summary for Competitive Grant Programs”. This budget form shows the costs for each budget category for the program's entire period of performance.

(b) HUD 424-CB “Grant Application Detailed Budget”. This budget form must show the total budget by year and by line item for the program activities to be carried out. This will be a functional budget. Each year of the program should be presented separately.

All budget forms must be completed in full. If an application is selected for award, the applicant may be required to provide greater specificity to the budget during grant agreement negotiations.

(c) Budget-Narrative. A narrative explanation of how the applicant arrived at the cost estimates, for any line item, including match items, over $5,000. For example, a van rental, $150 per month × 36 months equals $5,400. The proposed cost estimates should be reasonable for the work to be performed and consistent with rates established for the level of expertise required to perform the work proposed in the geographical area. When necessary, quotes from various vendors or historical data should be used and included. All direct labor or salaries must be supported with mandated city/state pay scales, Davis-Bacon wage rates (if applicable) or other documentation. When an applicant proposes to use a consultant, the applicant must indicate whether there is a formal agreement or written procurement policy. For each consultant, please provide the name, if known, hour or daily fee, and the estimated time on the project. If applicants propose to undertake: rehabilitation of residential, commercial and/or industrial structures; and/or acquisition, construction, or installation of public facilities and improvements, applicants must submit one appraisal from a qualified certified appraiser other than the institution. Such an entity must be involved in the business of housing rehabilitation, construction and/or management. Guidance for securing these estimates can be obtained from the local HUD Office of Community Planning and Development. Equipment and contracts cannot be presented as a total estimated figure. For equipment applicants must provide a list by type and cost for each item and explain how it will be used. Applicants using contracts must provide an individual description and cost estimate for each contract.

Indirect costs attributed to a particular project functional category should be listed as “Indirect Costs” under that category. Indirect costs are allowable only if an applicant has a federally approved indirect cost rate. A copy of the institution's negotiated indirect cost rate as issued by the cognizant federal agency must be attached to the budget sheets when submitting an application.

Make sure that the amount shown on the HUD 424, the budget forms, and on all other required program forms is consistent and the budget totals correct. Remember to check addition in totaling the categories on the HUD 424-C and HUD 424-CB form so that all items are included in the total. If there is an inconsistency between any of the forms required, the HUD 424-C form will be used. If upon checking the addition HUD finds that an applicant has added incorrectly, the HUD 424-CB will be revised accordingly. Please note that this would be considered a substantive rather than a technical error. If this correction puts an application over the grant maximum, the applicant will not be able to correct the amount requested and the application will be disqualified.

Rating Factor 4: Leveraging Resources (10 Points)

This factor addresses the ability of the applicant to secure community resources that can be combined with HUD's grant funds to achieve the program's purpose.

In evaluating this factor, HUD will consider the extent to which the applicant established partnerships with other entities to secure additional resources to increase the effectiveness of the proposed activities. Resources may include funding or in-kind contributions, such as services or equipment, allocated to the purpose(s) of the grant. Resources may be provided by governmental entities, public or private nonprofit organizations, for-profit private organizations, or other entities. Applicants may also establish partnerships with other program funding recipients to coordinate the use of resources in the target area. Please note that the value of the time of individuals serving on the program's advisory board cannot be counted as an in-kind contribution. Overhead and other institutional costs (e.g., salaries) that the institution has waived may be counted. However, higher points will be awarded if an applicant secures leveraged resources from sources outside the institution. Examples of potential sources for outside assistance:

• State and local governments

• Housing Authorities

• Local or national nonprofit organizations

• Banks and/or private businesses

• Foundations

• Faith-based and other community based organizations.

For each match, cash or in-kind contribution to the program a letter of commitment, memorandum of understanding, or agreement must be provided that shows the extent and firmness of the commitment of leveraged funds (including any commitment of resources from the applicant's own institution) in order for these resources to count in determining points under this factor. Resources will not be counted for which there is no commitment letter, memorandum of understanding, or agreement, nor quantified level of commitment. Letters, memoranda of understanding, or agreements must be submitted from the provider on the provider's letterhead and be included with the application package. The date of the letter, memorandum of understanding, or agreement from the CEO of the provider organization must be dated no earlier than the date of this published SuperNOFA. Applications that do not include evidence of leveraging will receive zero (0) points for this Factor.

A firm commitment letter, memorandum of understanding, or agreement must address the following:

(a) The cash amount contributed or dollar value of the in-kind goods and/or services committed (If a dollar amount and use is not shown, the source cannot be counted towards the match requirement.);

(b) Specifically indicate how the match is to be used;

(c) The date the match will be made available and a statement that describes the duration of the contribution. If any of the matching sources are for more than one year, the commitment letter, memoranda of understanding, or agreement must state the number of years, the per year commitment, and the total commitment. Without this statement, HUD will assume that the commitment is for only one year;

(d) Any terms and conditions affecting the commitment, other than receipt of a HUD Grant; and

(e) The signature of the appropriate executive officer authorized to commit the funds and/or goods and/or services.

Please remember that only items eligible for funding under this program can be counted as a match.

Rating Factor 5: Achieving Results and Program Evaluation (10 Points)

This factor reflects HUD's goal to embrace high standards of ethics, management, and accountability. The factor measures the applicant's commitment to assess their performance to achieve the program's proposed objectives and goals. Applicants are required to develop an effective, quantifiable, outcome oriented evaluation plan for measuring performance and determining that objectives and goals have been achieved.

“Outcomes” are benefits accruing to institutions of higher education and/or communities during or after participation in the HBCU program. Applicants must clearly identify the outcomes to be measured and achieved. Examples of outcomes are increasing community development in the target community, by a certain percentage, or increasing family stability through the creation of affordable housing opportunities (e.g., increasing assets to families and communities through the development of affordable community housing).

In addition, applicants must establish interim benchmarks and outputs that lead to the ultimate achievement of outcomes. “Outputs” are the direct products of the program's activities. Examples of outputs are the number of new affordable housing units, the number of homes that have been renovated, and the number of community facilities that have been constructed or rehabilitated. Outputs should produce outcomes for the program. At a minimum, an applicant must address the following activities in the evaluation plan:

(a) Short and long term objectives to be achieved;

(b) Actual accomplishments against anticipated achievements;

(c) Measurable impacts the grant will have on the community in general and the target area or population;

(d) The impact the grant will have on the long term commitment of the University to the faculty and students to provide opportunities to reward and continue this type of work; and

(e) The impact the grant will have on assisting the university to obtain additional resources to continue this type of work at the end of the funding period of this grant award.

This information should be provided in a Logic Model format. This form and information on how to use can be found in the General Section of this SuperNOFA.

The Hispanic-Serving Institutions Assisting Communities Program (HSIAC)

I. Program Overview

Purpose of the Program. To assist Hispanic-serving Institutions (HSIs) expand their role and effectiveness in addressing community development needs in their localities, including neighborhood revitalization, housing, and economic development, consistent with the purposes of Title I of the Housing and Community Development Act of 1974, as amended.

II. Amount Allocated, Grant Size and Term and Performance Period

Amount Allocated. In Fiscal Year 2003, $6.458 million was earmarked by the conference report accompanying the FY 2003 Consolidation Appropriation Resolution, Division K plus approximately $588,000 in previously unexpended FY 2002 funds.

Grant Size and Term. The maximum amount an HSIAC applicant can request for award is $600,000 for a three-year (36 months) grant performance period.

HUD intends to fund at least two eligible HSIAC applications (applications that receive a minimum score of 75 points) that serve Colonias (as defined in the General Section of the SuperNOFA). HUD will select the highest-ranking HSIAC applications that serve Colonias among the rated HSIAC applications. If less than two fundable HSIAC applications that serve Colonias are eligible for award these funds will be used to award additional HSIAC grants.

III. Program Description; Eligible Applicants; Eligible Activities

(A) Program Description

The purpose of the HSIAC Program is to assist HSI's expand their role and effectiveness in addressing community development needs in their localities, including neighborhood revitalization, housing, and economic development, principally for persons of low- and moderate-income.

(1) For the purposes of these programs, the term “locality” includes any city, county, township, parish, village, or other general political subdivision of a state, Puerto Rico, or the U.S. Virgin Islands where the institution is located.

(2) A “target area” is the locality or the area within the locality in which the institution will implement its proposed HUD grant.

(B) Eligible Applicants

Nonprofit Hispanic-serving institutions of higher education that meet the definition of an HSI established in Title V of the 1998 Amendments to the Higher Education Act of 1965 (Pub. L. 105-244; enacted October 7, 1998). In order to meet this definition, at least 25 percent of the full-time undergraduate students enrolled in an institution must be Hispanic and not less than 50 percent of these Hispanic students must be low-income individuals. Institutions are not required to be on the list of eligible HSIs prepared by the U.S. Department of Education. However, an applicant that is not on the list is required to state in the application that the institution meets the U.S. Department of Education's statutory definition of an HSI.

(C) Eligible Activities

Each activity proposed for funding must meet both a Community Development Block Grant (CDBG) Program national objective and the CDBG eligibility requirements. Eligible activities that may be funded under this program are those activities eligible for CDBG funding. The eligible activities are listed in 24 CFR part 570, subpart C, particularly §§ 570.201 through 570.206. Each activity funded under this program must meet one of the three national objectives of the Community Development Block Grant program, which are:

(a) Benefit to low- or moderate-income persons;

(b) Aid in the prevention or elimination of slums or blight; or

(c) Meet other community development needs having a particular urgency because existing conditions pose a serious and immediate threat to the health and welfare of the community, and other financial resources are not available to meet such needs.

Criteria for determining whether an activity addresses one or more of these objectives are provided at 24 CFR 570.208.

Examples of Eligible Activities include, but are not limited to:

(a) Acquisition of real property;

(b) Clearance and demolition;

(c) Rehabilitation of residential structures including lead-based paint hazard evaluation and reduction; and encouraging accessible design features in accordance with the requirements of section 504 of the Rehabilitation Act of 1973;

(d) Acquisition, construction, reconstruction, rehabilitation, or installation of public facilities and improvements, such as water and sewer facilities and streets; including lead-based paint hazard evaluation and reduction; and encouraging compliance accessible with the design and construction requirements of Section 504 of the Rehabilitation Act of 1973 and the Fair Housing Act;

(e) Relocation payments and other assistance for permanently and temporarily relocated individuals, families, businesses, nonprofit organizations, and farm operations where the assistance is:

(i) Required under the provisions of 24 CFR 570.606(b) or (c); or

(ii) Determined by the grantee to be appropriate under the provisions of 24 CFR 570.606(d);

(f) Direct homeownership assistance to low- and moderate-income persons, as provided in section 105(a) (25) of the Housing and Community Development Act of 1974;

(g) Special economic development activities described at 24 CFR 570.203;

(h) Assistance to facilitate economic development by providing technical or financial assistance for the establishment, stabilization, and expansion of microenterprises, including minority enterprises;

(i) Assistance to community-based development organizations (CBDO) to carry out a CDBG neighborhood revitalization, community economic development, or energy conservation project, in accordance with 24 CFR 570.204. This could include activities in support of a HUD approved local entitlement grantee CDBG Neighborhood Revitalization Strategy (NRS) or HUD approved State CDBG Community Revitalization Strategy (CRS);

(j) Eligible public service activities are those general support activities that can help to stabilize a neighborhood and contribute to sustainable redevelopment of the area, including but not limited to such activities as those concerned with employment, crime prevention, child care, health, drug abuse, education, fair housing counseling, energy conservation, homebuyer down payment assistance, or recreational needs;

The CDBG Publication entitled “Community Development Block Grant Program Guide to National Objectives and Eligible Activities for Entitlement Communities” describes the regulations, and a copy can be obtained from HUD's SuperNOFA Information Center at 1-800-HUD-8929 or 1-800-HUD-2209 for the hearing-impaired.

(k) Fair housing services designed to further the fair housing objectives of the Fair Housing Act (42 U.S.C. 3601-20) by making all persons, without regard to race, color, religion, sex, national origin, family status and/or disability aware of the range of housing opportunities available to them;

(l) Up to 20% of the grant for payments of reasonable grant administrative costs related to planning and execution of the project (e.g. preparation/submission of HUD reports). A detailed explanation of these costs are provided in the OMB circulars that can be accessed at the White House website at: www.whitehouse.gov/omb/circulars/index.html; and

(m) Activities Designed to Promote Training and Employment Opportunities. HUD urges applicants to consider undertaking activities designed to promote opportunities for training and employment of very low-income residents in connection with HUD initiatives such as “Neighborhood Networks” (NN) in other federally assisted or insured housing and Employment Opportunities for Lower Income Persons in connection with Assisted Projects.

(D) Ineligible Activities

Ineligible CDBG Activities are listed at § 570.207.

IV. Program Requirements

In addition to the program requirements listed in the General Section of this SuperNOFA, applicants must meet the following requirements:

(1) All funds awarded under these programs must be spent over a three-year (36 months) grant performance period.

(2) Applicants that propose to undertake activities that involve the following: acquisition of real property, clearance, demolition, rehabilitation of residential structures including lead-based paint hazard evaluation, reduction encouraging accessible design features, acquisition, construction, reconstruction, rehabilitation, or installation of public facilities and improvements are required to provide at least one appraisal from a qualified certified appraiser other than the institution, of the cost to complete the activities. This information must be submitted with the application. Such an entity must be involved in the business of housing rehabilitation, construction, and/or management.

(3) Applicants must ensure that not less than 51% of the aggregated expenditures of a grant benefit low- and moderate-income persons under the criteria specified in 24 CFR 570.208(a) or 570.208(d)(5) or (6).

(4) Applicants that claim leveraging from any source, including their own institution, must provide letters of firm commitment, memoranda of understanding, or agreements evidencing the extent and firmness of commitment of leveraging from other federal (e.g., AmeriCorps Programs), state, local, and/other private sources (including the applicant's own resources). These documents must be dated no earlier than the date of this published NOFA and follow the outline provided for these programs in Section V, Application Process, “Factor 4: Leveraging Resources” of this NOFA.

(5) Where grant funds will be used for acquisition, rehabilitation, or new construction an applicant must demonstrate site control. Funds may be recaptured or deobligated from applicants that cannot demonstrate control of a suitable site within one year after the initial notification of award.

(6) Labor Standards. Applicants awarded funds must comply with the labor standards (Davis-Bacon) as found at 24 CFR 570.603.

V. Application Selection Process

Two types of reviews will be conducted:

(1) A threshold review to determine an applicant's eligibility; and

(2) A technical review for all applications that pass the threshold review to rate and rank the application based on the “Factors for Award” rating factors listed in Section V(B) below. Only those applications that pass the threshold review will receive a technical review and be rated and ranked.

(A) Threshold Requirements for Funding Consideration

All applicants must be in compliance with the threshold requirements as defined in the General Section of this SuperNOFA and the requirements listed below to be evaluated, rated, and ranked. Applications that do not meet these requirements will be considered ineligible for funding and will be disqualified:

(1) The applicant is eligible as referenced in Section III, “Program Description, Eligible Applicants; Eligible Activities in this NOFA”.

(2) The maximum amount an HSIAC applicant can request is $600,000.

(3) In order to meet the definition of a HISAC, at least 25 percent of the full-time undergraduate student enrolled in an institution must be Hispanic and not less than 50 percent of these Hispanic students must be low-income individuals.

(4) An individual campus that is one of several campuses of the same institution may apply separately from the other campus as long as the applicant's campus has a separate administrative and budget structure.

(5) Institutions that received an HSIAC grant in FY2002 cannot reapply. If an institution received an HSIAC grant in FY1999, FY2000, or FY2001 the institution may reapply as long as it: (a) propose a different activity (activities) in their current project location, or propose replicating their current project in a new location and (b) have drawn down at least 75 percent of the previous grant two weeks prior the program's application due date.

(B) Factors for Award Used To Evaluate and Rate Applications

The factors for evaluating, rating, and ranking an application and the maximum points for each factor are listed below. Applications must receive a minimum of 75 out of the total possible points to be considered for funding. The maximum number of points available under this program is 102. This includes the two RC/EZ/EC bonus points as described in the General Section of this SuperNOFA.

Rating Factor 1: Capacity of the Applicant and Relevant Organizational Experience (20 Points)

This factor addresses the extent to which the institution has the organizational resources necessary to successfully implement the proposed activities in a timely manner. In rating this factor, HUD will consider the extent to which the proposal demonstrates:

(1) Knowledge and Experience (20 Points) For previously Unfunded Applicants (5 Points) For previously Funded Applicants.

The knowledge and experience of the overall project director and staff, including the day-to-day program manager, consultants (including technical assistance providers), and contractors in planning and managing the kinds of programs for which funding is being requested. Experience will be judged in terms of recent, relevant, and successful knowledge and skills of the staff to undertake eligible program activities. HUD will consider experience within the last 5 years to be recent; experience pertaining to specific activities to be relevant; and experience producing specific accomplishments to be successful. The more recent and substantial the experience of the staff, particularly the institution's own staff who will work on the project have in successfully conducting and completing similar activities, the higher the number of points an applicant can receive for this rating factor. The following categories will be evaluated:

(a) Undertaking specific successful community development projects with community-based organizations or local governments; and

(b) Providing leadership in solving community problems that have a direct bearing on the proposed activities.

(2) Past Performance For previously Funded Grant Applicants Only (15 Points).

This subfactor will evaluate the extent to which an applicant has performed successfully under all previously awarded and current grant(s) as measured by:

(a) Achievement of specific measurable outcome objectives consistent with the timeline in the grant proposal(s). Provide a detailed list outlining those achievements as they relate to the approved timeline in the past grant award(s);

(b) Leveraging of funding consistent with or exceeding the funds originally proposed to be leveraged for that project. In addressing leveraging, provide information that compares the proposed leveraged funds and resources with what was actually leveraged; and

(c) Full points will be awarded for performance that has met the goals and objectives as outlined in the past awarded grant proposal(s).

Rating Factor 2: Need/Extent of the Problem (10 Points)

This factor addresses the extent to which there is a need for funding the proposed program activities and an indication of the importance of meeting the need in the target area. In responding to this factor, the proposal will be rated on the extent to which the level of need for the proposed activities and the importance of meeting the need are documented.

Applicants should use statistics and analyses contained in at least one or more current data sources that are sound and reliable. The data provided must be current. In rating this factor HUD will consider data collected within the last five years to be current. To the extent that the targeted community's Five (5) Year Consolidated Plan and Analysis of Impediments to Fair Housing Choice (AI) identify the level of the problem and the urgency in meeting the need, applicants should include references to these documents in the response to this factor.

If the proposed activities are not covered under the scope of the Consolidated Plan and Analysis of Impediments for Housing Choice (AI), indicate such in the proposal and use other sound data sources to identify the level of need and the urgency in meeting the need. Other reliable sources include, but are not limited to Census reports, HUD Continuum of Care gap analysis and its E-MAP (www.hud.gov/emaps), law enforcement agency crime reports, Public Housing Authorities' Comprehensive Plans, community needs analyses such as provided by the United Way, the applicant's institution, and other sound and reliable appropriate sources. Needs in terms of fulfilling court orders or consent decrees, settlements, conciliation agreements, and voluntary compliance agreements may also be addressed.

The data used should be specific to the area where the proposed activities will be carried out. Needs should be documented as they apply to the area where the activities will be targeted, rather than the entire locality or state, unless the target area is the entire locality or state.

Rating Factor 3: Soundness of Approach (50 Points)

This factor addresses the quality and cost effectiveness of the proposed work plan, the commitment of the institution to sustain the proposed activities, and actions regarding HUD's priorities, goals and objectives, and Affirmatively Furthering Fair Housing. In addition, HUD will also consider the extent to which the budget is consistent with the Work Plan and the dollars indicated on the HUD 424 form.

This factor will be evaluated based on the extent to which the proposed work plan will:

(1) Quality of the Work Plan (35 Points)

(a) (10 Points) Work Plan Impact. Describe how the proposed activities will:

(i) Expand the role of the institution in its community;

(ii) Alleviate and/or fulfill the needs identified in Factor 2;

(iii) Relate to and not duplicate other activities in the target area. Duplicative effort will be acceptable only if an applicant can demonstrate through documentation that there is a population in need that is not being served;

(iv) Involve and empower citizens of the target area in all stages of the proposed project (particularly through a committee that is representative of the target community to guide the project); and

(v) Be disseminated to a wide variety of audiences, both academic and community-based, using a wide variety of media, including print and Internet technology.

(b) (20 Points) Specific Services and/or Activities. The work plan must incorporate all proposed activities. HUD will consider the feasibility of success of the program, measurable objectives, and how timely products will be delivered.

Describe each proposed activity and the tasks required to implement and complete the activities. Also for each activity describe:

(1) Which CDBG national objective is being met and how;

(2) The sequence, duration, and the products to be delivered in 6 month intervals, up to thirty-six (36) months. Indicate which staff member, as described in Factor 1, will be responsible and accountable for the deliverables; and

(3) Measurable objectives to be accomplished, e.g., the number of persons to be trained and employed; houses to be built (pursuant to 24 CFR 570.207) or rehabilitated; minority owned businesses to be started.

(c) (5 Points) Involvement of the Faculty and Students. The extent to which the applicant proposes to integrate the institution's students and faculty into proposed project activities.

(2) (5 Points) HUD Policy Priorities. HUD encourages applicants to undertake specific activities that will assist the Department in implementing its policy priorities and which help the Department achieve its goals and objectives in FY2004, when the majority of grant recipients will be reporting programmatic results and achievements. In addressing this factor, HUD will evaluate the extent to which a program will further and support HUD's priorities. The quality of the responses provided to one or more of HUD's priorities will determine the score an applicant can receive. For each policy priority addressed, an applicant will receive one point. Applicants cannot receive more than five points. For the full list and explanation of each policy priority, please refer to the General Section of this SuperNOFA.

(3) (5 Points) Affirmatively Furthering Fair Housing. This subfactor will be evaluated on the extent to which an applicant proposes to undertake activities designed to affirmatively further fair housing, for example:

(a) Working with other entities in the community to overcome impediments to fair housing, such as discrimination in the sale or rental of housing or in advertising, provision of brokerage services or lending;

(b) Promoting fair housing choice through the expansion of homeownership opportunities and improved quality of services for minorities, families with children, and persons with disabilities; or

(c) Providing housing mobility counseling services.

(4) (5 Points) Budget. HUD will consider the extent to which the budget presentation is consistent with the Work Plan and the dollars indicated on the HUD 424 Form. The budget submission should follow the narrative statement in this factor and include the following documents:

(a) HUD 424-C “Budget Summary for Competitive Grant Programs”. This budget form shows the costs for the each budget category for the program's entire period of performance.

(b) HUD 424 CB “Grant Application Detailed Budget”. This budget form must show the total budget by year and by line item for the program activities to be carried out. This will be a functional budget. Each year of the program should be presented separately.

All budget forms must be completed in full. If an application is selected for award, the applicant may be required to provide greater specificity to the budget during grant agreement negotiations.

(c) Budget-Narrative. A narrative explanation of how the applicant arrived at the cost estimates, for any line item, including match items, over $5,000. For example, a van rental, $150 per month × 36 months equals $5,400. The proposed cost estimates should be reasonable for the work to be performed and consistent with rates established for the level of expertise required to perform the work proposed in the geographical area. When necessary, quotes from various vendors or historical data should be used and included. All direct labor or salaries must be supported with mandated city/state pay scales, Davis-Bacon wage rates (if applicable) or other documentation. When an applicant proposes to use a consultant, the applicant must indicate whether there is a formal agreement or written procurement policy. For each consultant, please provide the name, if known, hour or daily fee, and the estimated time on the project. If applicants propose to undertake: rehabilitation of residential, commercial and/or industrial structures; and/or acquisition, construction, or installation of public facilities and improvements, applicants must submit one appraisal from a qualified certified appraiser other than the institution. Such an entity must be involved in the business of housing rehabilitation, construction and/or management. Guidance for securing these estimates can be obtained from the local HUD Office of Community Planning and Development. Equipment and contracts cannot be presented as a total estimated figure. For equipment applicants must provide a list by type and cost for each item and explain how it will be used. Applicants using contracts must provide an individual description and cost estimate for each contract.

Indirect costs attributed to a particular project functional category should be listed as “Indirect Costs” under that category. Indirect costs are allowable only if an applicant has a federally approved indirect cost rate. A copy of the institution's negotiated indirect cost rate as issued by the cognizant federal agency must be attached to the budget sheets when submitting an application.

Make sure that the amount shown on the HUD 424, the budget forms, and on all other required program forms is consistent and the budget totals correct. Remember to check addition in totaling the categories on the HUD 424C and HUD 424-CB form so that all items are included in the total. If there is an inconsistency between any of the forms required, the HUD 424C form will be used. If upon checking the addition HUD finds that an applicant has added incorrectly, the HUD 424-CB will be revised accordingly. Please note that this would be considered a substantive rather than a technical error. If this correction puts an application over the grant maximum, the applicant will not be able to correct the amount requested and the application will be disqualified.

Rating Factor 4: Leveraging Resources (10 Points)

This factor addresses the ability of the applicant to secure community resources that can be combined with HUD's grant funds to achieve the program's purpose.

In evaluating this factor, HUD will consider the extent to which the applicant established partnerships with other entities to secure additional resources to increase the effectiveness of the proposed activities. Resources may include funding or in-kind contributions, such as services or equipment, allocated to the purpose(s) of the grant. Resources may be provided by governmental entities, public or private nonprofit organizations, for-profit private organizations, or other entities. Applicants may also establish partnerships with other program funding recipients to coordinate the use of resources in the target area. Please note that the value of the time of individuals serving on the program's advisory board cannot be counted as an in-kind contribution. Overhead and other institutional costs (e.g., salaries) that the institution has waived may be counted. However, higher points will be awarded if an applicant secures leveraging resources from sources outside the institution. Examples of potential sources for outside assistance:

• State and local governments

• Housing Authorities

• Local or national nonprofit organizations

• Banks and/or private businesses

• Foundations

• Faith-based and other community based organizations.

For each match, cash or in-kind contribution to the program a letter of commitment, memorandum of understanding, or agreement must be provided that shows the extent and firmness of the commitment of leveraged funds (including any commitment of resources from the applicant's own institution) in order for these resources to count in determining points under this factor. Resources will not be counted for which there is no commitment letter, memorandum of understanding, or agreement, nor quantified level of commitment. Letters, memoranda of understanding, or agreements must be submitted from the provider on the provider's letterhead and be included with the application package. The date of the letter, memorandum of understanding, or agreement from the CEO of the provider organization must be dated no earlier than the date of this published SuperNOFA. Applications that do not include evidence of leveraging will receive zero (0) points for this Factor.

A firm commitment letter, memorandum of understanding, or agreement must address the following:

(a) The cash amount contributed or dollar value of the in-kind goods and /or services committed (If a dollar amount and use is not shown, the source cannot be counted towards the match requirement);

(b) Specifically indicate how the match is to be used;

(c) The date the match will be made available and a statement that describes the duration of the contribution. If any of the matching sources are for more than one year, the commitment letter, memorandum of understanding, or agreement must state the number of years, the per year commitment, and the total commitment. Without this statement, HUD will assume that the commitment is for only one year;

(d) Any terms and conditions affecting the commitment, other than receipt of a HUD Grant; and

(e) The signature of the appropriate executive officer authorized to commit the funds and/ or goods and /or services.

Please remember that only items eligible for funding under this program can be counted as a match.

Rating Factor 5: Achieving Results and Program Evaluation (10 Points)

This factor reflects HUD's goal to embrace high standards of ethics, management, and accountability. The factor measures the applicant's commitment to assess their performance to achieve the program's proposed objectives and goals. Applicants are required to develop an effective, quantifiable, outcome oriented evaluation plan for measuring performance and determining that objectives and goals have been achieved.

“Outcomes” are benefits accruing to institutions of higher education and/or communities during or after participation in the HSIAC program. Applicants must clearly identify the outcomes to be measured and achieved. Examples of outcomes are increasing community development in the target community, by a certain percentage, or family stability through the creation of affordable housing opportunities (e.g. increasing assets to families and communities through the development of affordable community housing).

In addition, applicants must establish interim benchmarks and outputs that lead to the ultimate achievement of outcomes. “Outputs” are the direct products of the program's activities. Examples of outputs are the number of new affordable housing units, the number of homes that have been renovated, the number of community facilities that been constructed or rehabilitated. Outputs should produce outcomes for the program. At a minimum an applicant must address the following activities in the evaluation plan:

(a) Short and long term objectives to be achieved;

(b) Actual accomplishments against anticipated achievements.

(c) Measurable impacts the grant will have on the community in general and the target area or population;

(d) The impact the grant will have on the long term commitment of the University to the faculty and students to provide opportunities to reward and continue this type of work; and

(e) The impact the grant will have on assisting the university to obtain additional resources to continue this type of work at the end of the funding period of this grant award.

This information should be provided in a Logic Model format. This form and information can be found in the General Section of this SuperNOFA.

The Alaska Native/Native Hawaiian Institutions Assisting Communities Program (AN/NHIAC)

I. Program Overview

Purpose of the Program. To assist Alaska Native/Native Hawaiian Institutions of higher education (AN/NHIs) expand their role and effectiveness in addressing community development needs in their localities, including neighborhood revitalization, housing, and economic development, principally for persons of low- and moderate-income, consistent with the purposes of Title I of the Housing and Community Development Act of 1974, as amended.

II. Amount Allocated, Grant Size and Term, and Performance Period

Amount Allocated. In Fiscal Year 2003, $2.981 million was earmarked by the conference report accompanying the FY 2003 Consolidation Appropriation Resolution, Division K plus approximately $4 million in previously unexpended FY2002 funds.

III. Grant Size and Term, and Performance Period

HUD will award two kinds of grants under this program. Grants for Alaska Native Institutions (ANIs) and grants for Native Hawaiian Institutions (NHIs).

The maximum amount an ANI and NHI applicant can request is $800,000 for a three-year (36 months) grant performance period. $3.4 million is being made available for ANIs and $ 3.4 million is being made available for NHIs.

IV. Program Description; Eligible Applicants; Eligible Activities

(A) Program Description

The purpose is to assist AN/NHIs to expand their role and effectiveness in addressing community development needs in their localities, including neighborhood revitalization, housing, and economic development.

(1) For the purposes of this program, the term “locality” includes any city, county, township, parish, village, or other general political subdivision of a state within which your AN/NHI is located.

(2) A “target area” is the locality or the area within the locality in which the institution will implement its proposed HUD grant.

(B) Eligible Applicants

Nonprofit Alaska Native and Native Hawaiian institutions of higher education that meet the definitions of Alaska Native and Native Hawaiian institutions of higher education established in Title III, Part A, Section 317 of the Higher Education Act of 1965, as amended by the Higher Education Amendments of 1998 (Pub. L.105-244; enacted October 7, 1998). Institutions are not required to be on the list of eligible AN/NHIs prepared by the U.S. Department of Education. However, an institution that is not on the list is required to state in the application that the institution meets the U.S. Department of Education's statutory definition of an AN/NHI institution.

(C) Eligible Activities

Each activity proposed for funding must meet both a Community Development Block Grant (CDBG) Program national objective and the CDBG eligibility requirements. Eligible activities that may be funded under this program are those activities eligible for CDBG funding. The eligible activities are listed in 24 CFR part 570, subpart C, particularly §§ 570.201 through 570.206. Each activity funded under this program must meet one of the three national objectives of the Community Development Block Grant program, which are:

(a) Benefit to low-or moderate-income persons;

(b) Aid in the prevention or elimination of slums or blight; or

(c) Meet other community development needs having a particular urgency because existing conditions pose a serious and immediate threat to the health and welfare of the community, and other financial resources are not available to meet such needs.

Criteria for determining whether an activity addresses one or more of these objectives are provided at 24 CFR 570.208.

Examples of Eligible Activities include, but are not limited to:

(a) Acquisition of real property;

(b) Clearance and demolition;

(c) Rehabilitation of residential structures including lead-based paint hazard evaluation and reduction; and encouraging accessible design features in accordance with the requirements of section 504 of the Rehabilitation Act of 1973;

(d) Acquisition, construction, reconstruction, rehabilitation, or installation of public facilities and improvements, such as water and sewer facilities and streets; including lead-based paint hazard evaluation and reduction; and encouraging compliance accessible with the design and construction requirements of Section 504 of the Rehabilitation Act of 1973 and the Fair Housing Act;

(e) Relocation payments and other assistance for permanently and temporarily relocated individuals, families, businesses, nonprofit organizations, and farm operations where the assistance is:

(i) Required under the provisions of 24 CFR 570.606(b) or (c); or

(ii) Determined by the grantee to be appropriate under the provisions of 24 CFR 570.606(d);

(f) Direct homeownership assistance to low- and moderate-income persons, as provided in section 105(a) (25) of the Housing and Community Development Act of 1974;

(g) Special economic development activities described at 24 CFR 570.203;

(h) Assistance to facilitate economic development by providing technical or financial assistance for the establishment, stabilization, and expansion of microenterprises, including minority enterprises;

(i) Assistance to community-based development organizations (CBDO) to carry out a CDBG neighborhood revitalization, community economic development, or energy conservation project, in accordance with 24 CFR 570.204. This could include activities in support of a HUD-approved local entitlement grantee CDBG Neighborhood Revitalization Strategy (NRS) or HUD-approved State CDBG Community Revitalization Strategy (CRS);

(j) Eligible public service activities are those general support activities that can help to stabilize a neighborhood and contribute to sustainable redevelopment of the area, including but not limited to such activities as those concerned with employment, crime prevention, child care, health, drug abuse, education, fair housing counseling, energy conservation, homebuyer down payment assistance, or recreational needs.

The CDBG Publication entitled “Community Development Block Grant Program Guide to National Objectives and Eligible Activities for Entitlement Communities” describes the regulations, and a copy can be obtained from HUD's SuperNOFA Information Center at 1-800-HUD-8929 or 1-800-HUD-2209 for the hearing-impaired;

(k) Fair housing services designed to further the fair housing objectives of the Fair Housing Act (42 U.S.C. 3601-20) by making all persons, without regard to race, color, religion, sex, national origin, family status and/or disability aware of the range of housing opportunities available to them;

(l) Up to 20% of the grant for payments of reasonable grant administrative costs related to planning and execution of the project (e.g. preparation/submission of HUD reports). A detailed explanation of these costs are provided in the OMB circulars that can be accessed at the White House website at: www.whitehouse.gov/omb/circulars/index.html; and

(m) Activities Designed to Promote Training and Employment Opportunities. HUD urges applicants to consider undertaking activities designed to promote opportunities for training and employment of very low-income residents in connection with HUD initiatives such as “Neighborhood Networks” (NN) in other federally assisted or insured housing and Employment Opportunities for Lower Income Persons in connection with Assisted Projects.

(D) Ineligible Activities

Ineligible CDBG Activities are listed at 24 CFR 570.207.

V. Program Requirements

In addition to the program requirements listed in General Section of this SuperNOFA, applicants must meet the following program requirements:

(1) All funds awarded under these programs must be spent over a three-year (36 months) period grant performance period.

(2) Applicants that propose to undertake activities that involve the following: acquisition of real property, clearance, demolition, rehabilitation of residential structures including lead-based paint hazard evaluation, reduction encouraging accessible design features, acquisition, construction, reconstruction, rehabilitation, or installation of public facilities and improvements are required to provide at least one appraisal from a qualified certified appraiser other than the institution, of the cost to complete the activities. This information must be submitted with the application. Such an entity must be involved in the business of housing rehabilitation, construction, and/or management.

(3) Applicants must ensure that not less than 51% of the aggregated expenditures of a grant benefit low- and moderate-income persons under the criteria specified in 24 CFR 570.208(a) or 570.208(d)(5) or (6).

(4) Applicants that claim leveraging from any source, including their own institution, must provide letters of firm commitment, memoranda of understanding, or agreements evidencing the extent and firmness of commitment of leveraging from other federal (e.g., AmeriCorps Programs), state, local, and/other private sources (including the applicant's own resources). These documents must be dated no earlier than the date of this published NOFA and follow the outline provided for this program in Section V, Application Process, “Factor 4: Leveraging Resources” of this NOFA.

(5) Where grant funds will be used for acquisition, rehabilitation, or new construction an applicant must demonstrate site control. Funds may be recaptured or deobligated from applicants that cannot demonstrate control of a suitable site within one year after the initial notification of award.

(6) Labor Standards. Applicants awarded funds must comply with the labor standards (Davis-Bacon) as found at 24 CFR 570.603.

VI. Application Selection Process

Two types of reviews will be conducted:

(1) A threshold review to determine an applicant's eligibility; and

(2) A technical review for all applications that pass the threshold review to rate and rank the application based on the “Factors for Award” rating factors listed in Section V (B) below. Only those applications that pass the threshold review will receive a technical review and be rated and ranked.

(A) Threshold Requirements for Funding Consideration

All applicants must be in compliance with the threshold requirements as defined in the General Section of this SuperNOFA and the requirements listed below to be evaluated, rated, and ranked. Applications that do not meet these requirements will be considered ineligible for funding and will be disqualified:

(1) The applicant is eligible as referenced in Section III, “Program Description, Eligible Applicants; Eligible Activities in this NOFA”.

(2) The maximum amount ANI and NHI applicants can request for award is $800,000.

(3) In order to meet the Alaska Native Institution definition, at least 20% of the undergraduate headcount enrollment must be Alaska Native students. If applicant is a Native Hawaiian institution, in order to meet this definition at least 10% of the undergraduate headcount enrollment must be Native Hawaiian students.

(4) Institutions that received grants in FY 2002 are not eligible to submit an application.

(5) If an institution has multiple campuses, each one is eligible to apply separately as long as it meets the enrollment test.

(B) Factors for Award Used To Evaluate and Rate Applications

The factors for evaluating, rating, and ranking an application and the maximum points for each factor are listed below. Applications must receive a minimum of 75 out of the total possible points to be considered for funding. The maximum number of points available under this program is 102. This includes the two RC/EZ/EC bonus points as described in the General Section of this SuperNOFA.

Rating Factor 1: Capacity of the Applicant and Relevant Organizational Experience (20 Points)

This factor addresses the extent to which the institution has the organizational resources necessary to successfully implement the proposed activities in a timely manner. In rating this factor, HUD will consider the extent to which the proposal demonstrates:

(1) Knowledge and Experience (20 Points) For previously Unfunded Applicants (5 Points) For previously Funded Applicants.

The knowledge and experience of the overall project director and staff, including the day-to-day program manager, consultants (including technical assistance providers), and contractors in planning and managing the kinds of programs for which funding is being requested. Experience will be judged in terms of recent, relevant, and successful knowledge and skills of the staff to undertake eligible program activities. HUD will consider experience within the last 5 years to be recent; experience pertaining to specific activities to be relevant; and experience producing specific accomplishments to be successful. The more recent and substantial the experience of the staff, particularly the institution's own staff who will work on the project have in successfully conducting and completing similar activities, the higher the number of points an applicant can receive for this rating factor. The following categories will be evaluated:

(a) Undertaking specific successful community development projects with community-based organizations or local governments; and

(b) Providing leadership in solving community problems that have a direct bearing on the proposed activities.

(2) Past Performance—For previously Funded Grant Applicants Only (15 Points).

This subfactor will evaluate the extent to which an applicant has performed successfully under all previously awarded and current grant(s) as measured by:

(a) Achievement of specific measurable outcome objectives consistent with the timeline in the grant proposal(s). Provide a detailed list outlining those achievements as they relate to the approved timeline in the past grant award(s);

(b) Leveraging of funding consistent with or exceeding the funds originally proposed to be leveraged for that project. In addressing leveraging, provide information that compares the proposed leveraged funds and resources with what was actually leveraged; and

(c) Full points will be awarded for performance that has met the goals and objectives as outlined in the past awarded grant proposal(s).

Rating Factor 2: Need/Extent of the Problem (10 Points)

This factor addresses the extent to which there is a need for funding the proposed program activities and an indication of the importance of meeting the need in the target area. In responding to this factor, the proposal will be rated on the extent to which the level of need for the proposed activities and the importance of meeting the need are documented.

Applicants should use statistics and analyses contained in at least one or more current data sources that are sound and reliable. The data provided must be current. In rating this factor HUD will consider data collected within the last five years to be current. To the extent that the targeted community's Five (5) Year Consolidated Plan and Analysis of Impediments to Fair Housing Choice (AI) identify the level of the problem and the urgency in meeting the need, applicants should include references to these documents in the response to this factor.

If the proposed activities are not covered under the scope of the Consolidated Plan and Analysis of Impediments to Fair Housing Choice (AI), indicate such in the proposal and use other sound data sources to identify the level of need and the urgency in meeting the need. Other reliable sources include, but are not limited to Census reports, HUD Continuum of Care gap analysis and its E-MAP (http://www.hud.gov/emaps), law enforcement agency crime reports, Public Housing Authorities' Comprehensive Plans, community needs analyses such as provided by the United Way, the applicant's institution, and other sound and reliable appropriate sources. Needs in terms of fulfilling court orders or consent decrees, settlements, conciliation agreements, and voluntary compliance agreements may also be addressed.

The data used should be specific to the area where the proposed activities will be carried out. Needs should be documented as they apply to the area where the activities will be targeted, rather than the entire locality or state, unless the target area is the entire locality or state.

Rating Factor 3: Soundness of Approach (50 Points)

This factor addresses the quality and cost effectiveness of the proposed work plan, the commitment of the institution to sustain the proposed activities, and actions regarding HUD's priorities, goals and objectives, and Affirmatively Furthering Fair Housing. In addition, HUD will also consider the extent to which the budget is consistent with the Work Plan and the dollars indicated on the HUD 424 form.

This factor will be evaluated based on the extent to which the proposed work plan will:

(1) Quality of the Work Plan (35 Points)

(a) (10 Points) Work Plan Impact. Describe how the proposed activities will:

(i) Expand the role of the institution in its community;

(ii) Alleviate and/or fulfill the needs identified in Factor 2;

(iii) Relate to and not duplicate other activities in the target area. Duplicative effort will be acceptable only if an applicant can demonstrate through documentation that there is a population in need that is not being served;

(iv) Involve and empower citizens of the target area in all stages of the proposed project (particularly through a committee that is representative of the target community to guide the project); and

(v) Be disseminated to a wide variety of audiences, both academic and community-based, using a wide variety of media, including print and Internet technology.

(b) (20 Points). Specific Services and/or Activities. The work plan must incorporate all proposed activities. HUD will consider the feasibility of success of the program, measurable objectives, and how timely products will be delivered.

Describe each proposed activity and the tasks required to implement and complete the activities. Also for each activity, describe:

(1) Which CDBG national objective is being met and how;

(2) The sequence, duration, and the products to be delivered in 6 month intervals, up to thirty-six (36) months. Indicate which staff member, as described in Factor 1, will be responsible and accountable for the deliverables; and

(3) Measurable objectives to be accomplished, e.g., the number of persons to be trained and employed; houses to be built (pursuant to 24 CFR 570.207) or rehabilitated; minority-owned businesses to be started.

(c) (5 Points) Involvement of the Faculty and Students. The extent to which the applicant proposes to integrate the institution's students and faculty into proposed project activities.

(2) (5 Points) HUD Policy Priorities. HUD encourages applicants to undertake specific activities that will assist the Department in implementing its policy priorities and which help the Department achieve its goals and objectives in FY 2004, when the majority of grant recipients will be reporting programmatic results and achievements. In addressing this factor, HUD will evaluate the extent to which a program will further and support HUD's priorities. The quality of the responses provided to one or more of HUD's priorities will determine the score an applicant can receive. For each policy priority addressed an applicant will receive one point. Applicants cannot receive more than five points. For the full list and explanation of each policy priority, please refer to the General Section of this SuperNOFA.

(3) (5 Points) Affirmatively Furthering Fair Housing. This subfactor will be evaluated on the extent to which an applicant proposes to undertake activities designed to affirmatively further fair housing, for example:

(a) Working with other entities in the community to overcome impediments to fair housing, such as discrimination in the sale or rental of housing or in advertising, provision of brokerage services or lending;

(b) Promoting fair housing choice through the expansion of homeownership opportunities and improved quality of services for minorities, families with children, and persons with disabilities; or

(c) Providing housing mobility counseling services.

(4) (5 Points) Budget. HUD will consider the extent to which the budget presentation is consistent with the Work Plan and the dollars indicated on the HUD 424 Form. The budget submission should follow the narrative statement in this factor and include the following documents:

(a) HUD 424-C “Budget Summary for Competitive Grant Programs”. This budget form shows the costs for each budget category for the program's entire period of performance.

(b) HUD 424 CB “Grant Application Detailed Budget”. This budget form must show the total budget by year and by line item for the program activities to be carried out. This will be a functional budget. Each year of the program should be presented separately.

All budget forms must be completed in full. If an application is selected for award, the applicant may be required to provide greater specificity to the budget during grant agreement negotiations.

(c) Budget-Narrative. A narrative explanation of how the applicant arrived at the cost estimates, for any line item, including match items, over $5,000. For example, a van rental, $150 per month × 36 months equals $5,400. The proposed cost estimates should be reasonable for the work to be performed and consistent with rates established for the level of expertise required to perform the work proposed in the geographical area. When necessary, quotes from various vendors or historical data should be used and included. All direct labor or salaries must be supported with mandated city/state pay scales, Davis-Bacon wage rates (if applicable) or other documentation. When an applicant proposes to use a consultant, the applicant must indicate whether there is a formal agreement or written procurement policy. For each consultant, please provide the name, if known, hour or daily fee, and the estimated time on the project. If applicants propose to undertake: rehabilitation of residential, commercial and/or industrial structures; and/or acquisition, construction, or installation of public facilities and improvements, applicants must submit one appraisal from a qualified certified appraiser other than the institution. Such an entity must be involved in the business of housing rehabilitation, construction and/or management. Guidance for securing these estimates can be obtained from the local HUD Office of Community Planning and Development. Equipment and contracts cannot be presented as a total estimated figure. For equipment applicants must provide a list by type and cost for each item and explain how it will be used. Applicants using contracts must provide an individual description and cost estimate for each contract.

Indirect costs attributed to a particular project functional category should be listed as “Indirect Costs” under that category. Indirect costs are allowable only if an applicant has a federally approved indirect cost rate. A copy of the institution's negotiated indirect cost rate as issued by the cognizant federal agency must be attached to the budget sheets when submitting an application.

Make sure that the amount shown on the HUD 424, the budget forms, and on all other required program forms is consistent and the budget totals correct. Remember to check addition in totaling the categories on the HUD 424C and HUD 424-CB form so that all items are included in the total. If there is an inconsistency between any of the forms required, the HUD 424C form will be used. If upon checking the addition HUD finds that an applicant has added incorrectly, the HUD 424-CB will be revised accordingly. Please note that this would be considered a substantive rather than a technical error. If this correction puts an application over the grant maximum, the applicant will not be able to correct the amount requested and the application will be disqualified.

Rating Factor 4: Leveraging Resources (10 Points)

This factor addresses the ability of the applicant to secure community resources that can be combined with HUD's grant funds to achieve the program's purpose.

In evaluating this factor, HUD will consider the extent to which the applicant established partnerships with other entities to secure additional resources to increase the effectiveness of the proposed activities. Resources may include funding or in-kind contributions, such as services or equipment, allocated to the purpose(s) of the grant. Resources may be provided by governmental entities, public or private nonprofit organizations, for-profit private organizations, or other entities. Applicants may also establish partnerships with other program funding recipients to coordinate the use of resources in the target area. Please note that the value of the time of individuals serving on the program's advisory board cannot be counted as an in-kind contribution. Overhead and other institutional costs (e.g., salaries) that the institution has waived may be counted. However, higher points will be awarded if an applicant secures leveraging resources from sources outside the institution. Examples of potential sources for outside assistance:

• State and local governments

• Housing Authorities

• Local or national nonprofit organizations

• Banks and/or private businesses

• Foundations

• Faith-based and other community based organizations.

For each match, cash or in-kind contribution to the program a letter of commitment, memorandum of understanding, or agreement must be provided that shows the extent and firmness of the commitment of leveraged funds (including any commitment of resources from the applicant's own institution) in order for these resources to count in determining points under this factor. Resources will not be counted for which there is no commitment letter, memorandum of understanding, or agreement, nor quantified level of commitment. Letters, memoranda of understanding, or agreements must be submitted from the provider on the provider's letterhead and be included with the application package. The date of the letter, memorandum of understanding, or agreement from the CEO of the provider organization must be dated no earlier than the date of this published SuperNOFA. Applications that do not include evidence of leveraging will receive zero (0) points for this Factor.

A firm commitment letter, memorandum of understanding, or agreement must address the following:

(a) The cash amount contributed or dollar value of the in-kind goods and/or services committed (If a dollar amount and use is not shown, the source cannot be counted towards the match requirement);

(b) Specifically indicate how the match is to be used;

(c) The date the match will be made available and a statement that describes the duration of the contribution. If any of the matching sources are for more than one year, the commitment letter, memorandum of understanding, or agreement must state the number of years, the per year commitment, and the total commitment. Without this statement, HUD will assume that the commitment is for only one year;

(d) Any terms and conditions affecting the commitment, other than receipt of a HUD Grant; and

(e) The signature of the appropriate executive officer authorized to commit the funds and/ or goods and/or services.

Please remember that only items eligible for funding under this program can be counted as a match.

Rating Factor 5: Achieving Results and Program Evaluation (10 Points)

This factor reflects HUD's goal to embrace high standards of ethics, management, and accountability. The factor measures the applicant's commitment to assess their performance to achieve the program's proposed objectives and goals. Applicants are required to develop an effective, quantifiable, outcome oriented evaluation plan for measuring performance and determining that objectives and goals have been achieved.

“Outcomes” are benefits accruing to institutions of higher education and/or communities during or after participation in the AN/NHIAC program. Applicants must clearly identify the outcomes to be measured and achieved. Examples of outcomes are increasing community development in the target community, by a certain percentage, or increasing family stability through the creation of affordable housing opportunities (e.g., increasing assets to families and communities through the development of affordable community housing).

In addition, applicants must establish interim benchmarks and outputs that lead to the ultimate achievement of outcomes. “Outputs” are the direct products of the program's activities. Examples of outputs are the number of new affordable housing units, the number of homes that have been renovated, the number of community facilities that have been constructed or rehabilitated. Outputs should produce outcomes for the program. At a minimum, an applicant must address the following activities in the evaluation plan:

(a) Short- and long-term objectives to be achieved;

(b) Actual accomplishments against anticipated achievements.

(c) Measurable impacts the grant will have on the community in general and the target area or population;

(d) The impact the grant will have on the long term commitment of the University to the faculty and students to provide opportunities to reward and continue this type of work; and

(e) The impact the grant will have on assisting the university to obtain additional resources to continue this type of work at the end of the funding period of this grant award.

This information should be provided in a Logic Model format. This form and information on how to use can be found in the General Section of this SuperNOFA.

Tribal Colleges and Universities Program (TCUP)

I. Program Overview

Purpose of the Program. To assist Tribal Colleges and Universities (TCUs) to build, expand, renovate, and equip their own facilities.

II. Amount Allocated, Grant Size and Term, and Performance Period

Amount Allocated. In Fiscal Year 2003, $2.981 million was earmarked by the conference report accompanying the FY 2003 Consolidation Appropriation Resolution, Division K, and approximately $194,522 in previously unexpended FY 2002 funds is being made available.

Grant Size and Term. The maximum amount a TCUP applicant can request is $400,000 for a three-year (36 months) grant performance period.

III. Program Description; Eligible Applicants; Eligible Activities

(A) Program Description

The purpose of this program is to assist TCUs to build, expand, renovate, and equip their own facilities, especially those facilities that are used by or available to the larger community.

(B) Eligible Applicants

Tribal colleges and universities that meet the definition of a TCU established in Title III of the 1998 Amendments to the Higher Education Act of 1965 (Pub. L. 105-244, enacted October 7, 1998). Institutions must be accredited or state they are a candidate for accreditation by a regional institutional accrediting association recognized by the U.S. Department of Education.

(C) Eligible Activities

Each activity proposed for funding must meet one of the following Community Development Block Grant (CDBG) Program national objectives:

(a) Benefit low- and moderate-income persons;

(b) Aid in the prevention or elimination of slums or blight; or

(c) Meet other community development needs having a particular urgency because existing conditions pose a serious and immediate threat to the health and welfare of the community, and other financial resources are not available to meet such needs.

TCU Programs should build, expand, renovate, and equip facilities to assist activities that an institution normally provides. Buildings in which an institution undertakes activities that serve those not enrolled in the institution are eligible, however the facilities must be predominantly for the use of the institution.

Up to 20% of the grant for payments of reasonable grant administrative costs related to planning and execution of the project (e.g., preparation/submission of HUD reports). A detailed explanation of these costs is provided in the OMB circulars that can be accessed at the White House Web site at: http://www.whitehouse.gov/omb/circulars/index.html.

Examples of Eligible Activities include, but are not limited to:

(a) Small business assistance center operated by the institution or renovation of the facility in which the center is located;

(b) New gymnasium solely for students, but that offers some physical education classes or other activities in the evening to the larger community;

(c) Rehabilitation of a student union building that would also serve as a community meeting facility, with the community helping to plan the renovations and also helping to operate additional activities;

(d) Equipping the university's computer lab where the larger community helped the institution identify the equipment needs and also help in implementing workshops, etc.;

(e) Development of a facility that is solely for the institution (e.g., a dormitory or administration building); and

(f) Long-term leases of property (i.e., at least five years in duration are considered an acceptable form of ownership under this program).

(D) Ineligible Activities

Activities ineligible for funding under this program include, but are not limited to the following:

(a) Renovation of a facility/center in which the facility/center is not used at least 51% of the time by the institution.

(b) Rental space to another entity that operates a small business assistance center;

(c) Institution proposes to build a new gymnasium, where the majority of the activities are for non-students, or the activities are primarily run by an outside entity.

IV. Program Requirements

In addition to the program requirements listed in the General Section of this SuperNOFA, applicants must meet the following program requirements:

(1) All funds awarded under this program must be spent over a three-year (36 months) grant performance period.

(2) While community-wide use of a facility (that is purchased, leased, or built) is permissible under this program, the facility must be predominantly for the use of the institution (i.e., it must be used by the institution at least 51% of the time).

(3) Applicants that claim leveraging from any source, including their own institution, must provide letters of firm commitment, memoranda of understanding, or agreements evidencing the extent and firmness of commitment of leveraging from other federal (e.g., Bureau of Indian Affairs), state, Indian housing authorities, local, tribes, and/other private sources (including the applicant's own resources). These documents must be dated no earlier than the date of this published NOFA and follow the outline provided for these programs in Section V, Factor 4 of this NOFA.

(4) If a TCU is a part or instrumentality of a tribe, the applicant must comply with the Indian Civil Rights Act (25 U.S.C. 1301 et seq.). If the TCU is not a part or instrumentality of a tribe the applicant must comply with the Fair Housing Act (42 U.S.C. 3601-19) and implementing regulations at 24 CFR part 100 et seq. Title VI of the Civil Rights Act of 1964 (42 U.S.C. 2000d-2000d-4) (Nondiscrimination in Federally Assisted Programs) and implementing regulations at 24 CFR part 1, and Section 109 of Title One of the Housing and Community Development Act of 1974, as amended, with respect to nondiscrimination on the basis of age, sex, religion, or disability and implementing regulations at 24 CFR part 6;

(5) Labor Standards. Institutions and their subgrantees, contractors and subcontractors must comply with the labor standards (Davis-Bacon) requirements referenced in 24 CFR 570.603. However, in accordance with HCDA section 107(e)(2), the Secretary waives the provisions of HCDA section 110 with respect to the TCUP program for grants to a TCU that is part of a tribe, i.e., a TCU that is legally a department or other part of a tribal government, but not a TCU that is established under tribal law as an entity separate from the tribal government. If a TCU is not part of a tribe, the labor standards of HCDA section 110, as referenced in 24 CFR 570.603, apply to activities under the grant to the TCU.

V. Application Selection Process

Two types of reviews will be conducted:

(1) A threshold review to determine an applicant's eligibility; and

(2) A technical review for all applications that pass the threshold review to rate and rank the application based on the “Factors for Award” rating factors listed for each program in Section V(B) below.

Only those applications that pass the threshold review will receive a technical review and be rated and ranked.

(A) Threshold Requirements for Funding Consideration

All applicants must be in compliance with the threshold requirements as defined in the General Section of this SuperNOFA and the requirements listed below to be evaluated, rated, and ranked. Applications that do not meet these requirements will be considered ineligible for funding and will be disqualified:

(1) The applicant is eligible as referenced in Section III, “Program Description, Eligible Applicants; Eligible Activities in this NOFA.

(2) The maximum amount a TCUP applicant can request for award is $400,000.

(3) Funds awarded under this program may not be used for public services, as defined in 24 CFR part 570, subpart C, § 570.201(e).

(4) Only one application is eligible for funding from an institution or campus. However, an individual campus that is one of several campuses of the same institution may apply separately from the other campus as long as the applicant's campus has a separate administrative and budget structure.

(5) Institutions that received grants in FY 2002 are not eligible to submit an application

(B) Factors for Award Used To Evaluate and Rate Applications.

The factors for evaluating, rating, and ranking an application and the maximum points for each factor are listed below. Applications must receive a minimum of 75 out of the total possible points to be considered for funding. The maximum number of points available under this program is 100. The RC/EZ/EC bonus points do not apply to this program as described in the General Section of this SuperNOFA.

Rating Factor 1: Capacity of the Applicant and Relevant Organizational Experience (20 Points)

This factor addresses the extent to which the applicant has the organizational resources necessary to successfully implement the proposed activities in a timely manner. In rating this factor, HUD will consider the extent to which the proposal demonstrates the overall project director and staff, including the day-to-day program manager, consultants, and contractors in planning and managing the kind of activities/projects for which funding is being requested. Experience will be judged in terms of recent, relevant, and successful knowledge and skills of the staff to undertake eligible program activities. HUD will consider experience within the last 5 years to be recent; experience pertaining to specific activities to be relevant; and experience producing specific accomplishments to be successful. Higher points will be awarded for this factor where the experience belongs to members of the TCU staff who will actually do the work on the project rather than consultants, contractors, and other staff outside the institution.

Rating Factor 2: Need/Extent of the Problem (10 Points)

This factor addresses the extent to which there is a need for funding the proposed program activities and an indication of the importance of meeting that need. In responding to this factor, the proposal will be rated on the extent to which the level of need for the proposed activities and the importance of meeting the need are documented.

Applicants should use statistics and analyses contained in at least one or more current data sources that are sound and reliable. The data provided must be current and specific to the area where the proposed activities will be carried out. In rating this factor HUD will consider data collected within the last five years to be current.

Rating Factor 3: Soundness of Approach (50 Points)

This factor addresses the quality and cost-effectiveness of the proposed work plan.

(1) Quality of Work Plan (40 Points)

(a) (15 Points) Work Plan Impact. Specifically, HUD will consider the extent to which the proposed activities will:

(i) Meet an identified important need; and

(ii) Relate to and not duplicate other activities in the target area.

(b) (15 Points) Specific Services and/or Activities. HUD will consider the feasibility of success of the program, the measurable objectives, and how timely the identified tasks will be completed. Specifically, HUD will examine the extent to which the objectives are measurable (e.g., the number of classrooms added, the number of additional clients that can be helped in an expanded small business assistance center), result in measurable improvement to the community (e.g., fifty more people receiving computer literacy training, twenty more small businesses started, etc.), and how well the applicant demonstrates that these objectives will be achieved by the proposed management plan, and team and will result directly from the activities.

(c) (5 Points) Community Involvement. HUD will consider the extent to which the applicant has involved the community in all stages of the proposed project.

(d) (5 Points) Involvement of the Faculty and Students. The extent to which the applicant proposes to integrate students and faculty into project activities.

(2) (5 Points) HUD Policy Priorities. HUD encourages applicants to undertake specific activities that will assist the Department in implementing its policy priorities and which help the Department achieve its goals and objectives in FY 2004, when the majority of grant recipients will be reporting programmatic results and achievement. In addressing this factor, HUD will evaluate the extent to which a program will further and support HUD priorities. The quality of the responses provided to one or more of HUD's priorities will determine the score an applicant can receive. For each policy priority addressed an applicant will receive one point. Applicants cannot receive more than five points. For the full list and explanation of each policy priority, please refer to the General Section of this SuperNOFA.

(3) (5 Points) Budget. HUD will consider the extent to which the budget presentation is consistent with the Work Plan and the dollars indicated on the HUD 424 form. The budget submission should follow the narrative statement in this factor and include the following documents:

(a) HUD 424-C “Budget Summary for Competitive Grant Programs”. This budget form shows the cost for each budget category for the program's entire period of performance.

(b) HUD 424-CB “Grant Application Detailed Budget”. This budget form shows the total budget by year and by line item for the program activities to be carried out. This will be a functional budget. Each year of the program should be presented separately.

All budget forms must be completed in full. If an application is selected for award, the applicant may be required to provide greater specificity to the budget during grant agreement negotiations.

(b) Budget-Narrative. A narrative explanation of how the applicant arrived at the cost estimates, for any line item, including match items, over $5,000. For example, a van rental, $150 per month × 36 months equals $5,400. The proposed cost estimates should be reasonable for the work to be performed and consistent with rates established for the level of expertise required to perform the work proposed in the geographical area. When necessary, quotes from various vendors or historical data should be used and included. All direct labor or salaries must be supported with mandated city/state pay scales, Davis-Bacon wage rates (if applicable) or other documentation. When an applicant proposes to use a consultant, the applicant must indicate whether there is a formal agreement or written procurement policy. For each consultant, please provide the name, if known, hour or daily fee, and the estimated time on the project. Applicants must submit one appraisal from a qualified certified appraiser other than the institution for projects that involve rehabilitation of residential, commercial and/or industrial structures; and/or acquisition, construction, or installation of public facilities and improvements. Such an entity must be involved in the business of housing rehabilitation, construction and/or management. Guidance for securing these estimates can be obtained from the local Office of Native American Programs (ONAP) and the local HUD Office of Community Planning and Development. Equipment and contracts cannot be presented as a total estimated figure. For equipment applicants must provide a list by type and cost for each item and explain how it will be used. Applicants using contracts must provide an individual description and cost estimate for each contract.

Indirect costs attributed to a particular project functional category should be listed as “Indirect Costs” under that category. Indirect costs are allowable only if an applicant has a federally approved indirect cost rate. A copy of the institution's negotiated indirect cost rate as issued by the cognizant federal agency must be attached to the budget sheets when submitting an application.

Make sure that the amount shown on the HUD 424, the budget forms, and on all other required program forms is consistent and the budget totals correct. Remember to check addition in totaling the categories on the HUD 424-C and HUD 424-CB form so that all items are included in the total. If there is an inconsistency between any of the forms required, the HUD 424-C will be used. If upon checking the addition HUD finds that an applicant has added incorrectly, the HUD 424-CB will be revised accordingly. Please note that this would be considered a substantive rather than a technical error. If this correction puts an application over the grant maximum, the applicant will not be able to correct the amount requested and the application will be disqualified.

Rating Factor 4: Leveraging Resources (10 Points)

This factor addresses the ability of the applicant to secure community resources that can be combined with HUD's grant funds to achieve the program's purpose.

In evaluating this factor, HUD will consider the extent to which the applicant established partnerships with other entities to secure additional resources to increase the effectiveness of the proposed activities. Resources may include funding or in-kind contributions, such as services or equipment, allocated to the purpose(s) of the grant. Resources may be provided by governmental entities (e.g. the tribe, federal government (Bureau of Indian Affairs, Department of Health and Human Services, and Department of Education)), public or private nonprofit organizations, for-profit private organizations, or other entities. Applicants may also establish partnerships with other program funding recipients to coordinate the use of resources in the target area. Please note that the value of the time of individuals serving on the program's advisory board cannot be counted as an in-kind contribution. Overhead and other institutional costs (e.g., salaries) that the institution has waived may be counted. However, higher points will be awarded if an applicant secures leveraging resources from sources outside the institution. Examples of potential sources for outside assistance are:

• State and local governments

• Tribe/Tribally Designated Housing Entities

• Local or national nonprofit organizations

• Banks and/or private businesses

• Foundations

• Faith-based and other community based organizations.

For each match, cash or in-kind contribution, a letter of commitment, memorandum of understanding, or agreement must be provided that shows the extent and firmness of the commitments of leveraged funds (including any commitment of resources from the applicant's own institution) in order for these resources to count in determining points under this factor. Resources will not be counted for which there is no commitment letter, memorandum of understanding or agreement, nor quantified level of commitment. Letters, memoranda of understanding, or agreements must be submitted from the provider on the provider's letterhead and be included with the application package. The date of the letter, memorandum of understanding, or agreement from the CEO of the provider organization must be dated no earlier than the date of this published SuperNOFA. Applicants that do not include evidence of leveraging will receive zero (0) points for this Factor.

A firm commitment letter, memorandum of understanding, or agreement must address the following:

(a) The cash amount contributed or dollar value of the in-kind goods and/or services committed (If a dollar amount and use is not shown, the source cannot be counted towards the match requirement);

(b) Specifically indicate how the match is to be used;

(c) The date the match will be made available and a statement that describes the duration of the contribution. If any of the matching sources are for more than one year, the commitment letter, memorandum of understanding, or agreement must state the number of years, the per year commitment, and the total commitment. Without this statement, HUD will assume that the commitment is for only one year;

(d) Any terms and conditions affecting the commitment, other than receipt of a HUD grant; and

(e) The signature of the appropriate executive officer authorized to commit the funds and/or goods and/or services. Please remember that only items eligible for funding under this program can be counted as a match.

Rating Factor 5: Achieving Results and Program Evaluation (10 Points)

This factor reflects HUD's goal to embrace high standards of ethics, management, and accountability. The factor measures the applicant's commitment to assess their performance to achieve the program's proposed objectives and goals. Applicants are required to develop an effective, quantifiable, outcome-oriented evaluation plan for measuring performance and determining that objectives and goals have been achieved.

“Outcomes” are benefits accruing to institutions of higher education and/or communities during or after participation in the TCUP program. Applicants must clearly identify the outcomes to be measured and achieved. Examples of outcomes are increasing the number of facilities built or renovated, by a certain percentage (e.g. rehabilitation of a student union building primarily for the use of students).

In addition, applicants must establish interim benchmarks and outputs that lead to the ultimate achievement of outcomes. “Outputs” are the direct products of the program's activities. Examples of outputs are the number of new on campus facilities renovated, or the number of new dormitories built. Outputs should produce outcomes for the program. At a minimum, an applicant must address the following activities in the evaluation plan:

(a) Short and long term objectives to be achieved;

(b) Actual accomplishments against anticipated achievements;

(c) Measurable impacts the grant will have on the community in general and the target area or population;

(d) The impact the grant will have on the long term commitment of the University to the faculty and students to provide opportunities to reward and continue this type of work; and

(e) The impact the grant will have on assisting the university to obtain additional resources to continue this type of work at the end of the funding period of this grant award.

This information should be provided in a Logic Model format. This form and information can be found in the General Section of this SuperNOFA.

VI. Application Submission Requirements (For All Programs)

A complete application package must include an original signed application, three copies, and one computer disk of the application (in Word 6.0 or higher) of the items listed below. In order to be able to recycle paper, applications should not be submitted in bound form; binder clips or loose-leaf binders are acceptable. Please do not use colored paper. Applications must be submitted on 8½ by 11 inches paper, double-spaced on one side of the paper, and printed in a standard Times Roman 12-point font. Each page should include the applicant's name and be numbered. Each section should be tabbed sequentially. The application narrative including the statement of work, tables, and maps must not exceed 75 pages (excluding forms, budget narrative, assurances and commitment letters). The double-spacing requirement applies to all parts of the application including agreements and tables. Please note that although submitting pages in excess of the page limit will not disqualify an application, HUD will not consider the information on any excess page. This may result in a lower score or failure to meet a threshold. Please make sure that all items are submitted in the order listed below. Except where a particular form may direct otherwise, all forms included in an application, as well as the transmittal letter, must be signed by the Chief Executive Officer (this is generally the President or Provost) or an official authorized legally to make a commitment on behalf of the institution. If a designee signs, the application must contain a copy of the official designation of signatory authority.

Applicants applying for funding under more than one of the programs included in this NOFA will need to produce separate applications for each program. However, applicants may use portions of an application to fulfill certain requirements of all of the applications. There is no separate application kit for these programs. Note: All OUP programs are included under this NOFA (excluding the Early Doctoral Student Research Grant, the Doctoral Dissertation Research Grant, the Community Development Work Study Grant Programs, and the Community Outreach Partnerships Center Community Futures Demonstration). Applicants are advised to review each program for specific requirements. Therefore, it is important for applicants to thoroughly read the information presented in this NOFA. Please include each item in the order listed below:

(1) HUD 424 “Application for Federal Assistance”. Instructions for completing this form are found on the back of the first page of the form. Please remember the following: (a) The full grant amount should be entered in block 15, not the amount for just one year; (b) Include the name, title, address, telephone number, facsimile number, and email address of the designated contact in block 5. This is the person who will receive the reviewer comments; therefore please ensure the accuracy of the information (c) the correct Employer Identification/Tax ID number in block 6. This form should be signed by the appropriate official (d) Block 10, the Catalog of Federal Domestic Assistance Number for the program from which funding is requested, and (e) the project's proposed start date and completion date. For all projects the start date should be September 1, 2003. The Catalog of Federal Domestic Assistance (CDFA) numbers (Item 10) for all OUP programs are as follows:

—Community Outreach Partnership Center Programs 14.511

—Historically Black Colleges and Universities 14.237

—Hispanic Serving Institutions Assisting Communities 14.514

—Alaska Native/Native Hawaiian Institutions Assisting Communities 14.515

—Tribal Colleges and Universities Program 14.519

(2) Transmittal Letter. The letter should contain the following:

(a) A statement certifying that the institution is an eligible institution because it meets the requirement of the specific program from which funding is being sought; (b) the institution is a two-or four-year institution; and (c) the institution of higher education is fully accredited. This assurance must state not only the name of the accrediting agency but also that the particular accrediting agency is recognized by the U.S. Department of Education (or, for applicants to the Tribal Colleges and Universities Programs, that the institution has applied for accreditation by a regional instructional accrediting association recognized by the U.S. Department of Education). Applicants can also use the transmittal letter as one way to demonstrate the President's commitment to the institutionalization of the program. This letter must be signed by the Chief Executive Officer (usually the President or Provost) of the institution. If the Chief Executive Officer has delegated this responsibility to another official, that person may sign, but a copy of the delegation must be included or stated in the letter. (Note: If applying for funding under the TCUP program, applicants must also address whether their institution is a department or agency of a tribal government and is thus claiming exemption from Davis-Bacon labor standards and the non-discrimination provision of section 109 of the Housing and Community Development Act of 1974).

(3) Application Checklist. Applicants must include the completed checklist in their application. On the checklist, indicate the page number where each of the items can be found in the application (See Appendix A).

(4) Abstract. Applicants must include a two-page summary of the proposed project. Please include the following:

(a) The designated contact person, including phone number, facsimile number, and email address;

(b) University's name, department, mailing address, telephone number, facsimile number, and email address; and

(c) The principal investigator for the project, including phone number, facsimile number, and email address.

(5) Narrative statement addressing the Factors for Award. HUD will use the narrative response to the “Factors for Award” to evaluate, rate, and rank applications. This statement is the main source of information. Therefore, it is very important that applicants become fully familiar with each of the rating factors above since all OUP programs (excluding the Early Doctoral Student Research Grant, the Doctoral Dissertation Research Grant, the Community Development Work Study Programs, and the Community Outreach Partnership Centers Housing and Community Futures Demonstration) are included in this NOFA. Applicants are advised to review each factor carefully for program specific requirements. The response to each factor should be concise and contain only information relevant to the factor, but detailed enough to address each factor fully. Please do not repeat material in response to the five factors; instead focus on how well the proposal responds to each of the factors. In factors where there are subfactors, each subfactor should be presented separately, with the short title of the subfactor presented. Make sure to address each subfactor and provide sufficient information about every element of the subfactor.

The application narrative including the statement of work, tables, and maps must not exceed 75 pages (excluding forms, budget narrative, assurances, and letters of leveraging commitments).

(a) Statement of Work. The Statement of Work (SOW) under the Narrative Statement section of the application (Factor 3) should clearly identify and incorporate all proposed eligible activities in the application and detail how the proposed work will be accomplished. Specifically, the SOW must: briefly describe the target population that will be assisted with grant funds (See Factor for Award #2 for the kind of information that should be included).

(1) Arrange the presentation of related major activities by project functional category, (a) Summarize each activity, (b) Delineate the major tasks involved in carrying out each activity, (c) Indicate the sequence in which these tasks will be performed, noting areas of work that will be performed simultaneously and continually during the life of the grant and, (d) Identify the key personnel responsible for carrying out the activity (HUD recommends Applicant use a milestone chart to present the information above). Applicants applying for funding under the HBCU, HSIAC, AN/NHIAC, and TCUP programs should describe how each proposed activity meets one of the three Community Development Block Grant Program (CDBG) national objectives. The sequence and duration should be presented in six-month intervals for the entire life of the grant (See Allocation of Funding, Period of Performance, Match Requirement).

(2) Identify the specific number of quantifiable, major, intermediate, and end products and objectives (e.g., the number of individuals in the community that will receive job training) the proposal aims to deliver by the end of the grant period as a result of the work performed.

(3) State the impact objectives the project intends to achieve in measurable terms along with deadlines for meeting them (e.g., number of persons obtaining jobs that pay more than minimum wage, or persons entering full time employment with benefits).

(4) Briefly discuss, with specific details:

(a) How the proposed major activities do not duplicate those of other entities in an applicant's target community; and

(b) Are appropriate for an institution of higher education to undertake in light of its teaching, research, and service missions (if applicable).

Note: If applying for a COPC New Directions Grant, the Statement of Work should also describe the new directions proposed in the application either the new activities or new target neighborhoods—and how these differ from those in the previous COPC grant.

(6) Budget. The budget documents should follow the statement addressing Factor 3. The budget presentation should be consistent with the Statement of Work and include the following:

(a) HUD 424-C “Budget Summary for Competitive Grants Programs”

(b) (HUD 424-CB “Grant Application Detailed Budget”

Applicants should provide a budget for the funding period of the program for which they are applying (See Allocation of Funding, Period of Performance, and Match Requirement).

(c) Budget-Narrative. A narrative of how the applicant arrived at costs for line items over $5,000. All budget forms must be completed in full.

Make sure that the amount shown on the HUD 424, the budget forms, and on all other required program forms is consistent and the budget totals correct. If there is an inconsistency between any of the forms required, the HUD 424-C will be used. If upon checking the addition HUD finds that an applicant has added incorrectly, the HUD 424-CB will be revised accordingly.

(d) Indirect Cost Rate. A copy of the negotiated indirect cost rate as issued by the cognizant federal agency.

(e) Explanation of Compliance with Limitation on Research Allocation. (Applicable only to applicants applying for funding under the COPC program). Applicants must demonstrate that not more than 25% of the total budget (including federal and matching funds) will be allocated to research activities. An applicant must use the Form HUD-30002, “Community Outreach Partnership Centers Breakdown of Outreach and Research Activities” to demonstrate this. This form is included in Appendix B. For purposes of this form, all costs (including administrative costs) must be categorized or apportioned as either research or outreach, as appropriate.

(f) Explanation of Compliance with Matching Requirement. (Applicable only to applicants applying for funding under the COPC program). This NOFA spells out the matching responsibilities for applicants applying for funds under COPC. Note that research requires a 50 percent match, while outreach activities require a 25 percent match. Match requirements are based on Total Project Costs, not the federal grant amount. In order to avoid confusion about the calculation of the match, an example is provided.

Assume that the total project cost for a New COPC Grant was $500,000, with $125,000 for research and $375,000 for outreach. Note that this project meets the requirement that no more than one-quarter of the total project costs be allocated for research. The total amount of the required match would be $156,250. The research match would be $62,500 ($125,000 × 50 percent) and the outreach match would be $93,750 ($375,000 × 25 percent). The federal grant requested would be $343,750 ($500,000 minus the match of $156,250). In calculating the match, administrative costs should be applied to the appropriate attributable outreach or research component.

Applicants must use Form “HUD-30001, Community Outreach Partnership Centers Matching Requirements” (included in Appendix B) to show how the match requirements have been met. Under each category, list the specific project activities. Only the dollar totals for research and outreach activities should be listed; costs by activity do not need to be listed. For the purposes of this form, administrative costs should be allocated between research and outreach activities, as appropriate. Applicants must provide letters, memoranda of understanding or agreements that show the extent and firmness of commitments of leveraged funds (including an applicant's own resources) in order for these resources to count. Any resource for which there is no commitment letter will not be counted, nor will the resource be counted without the proposed level of commitment being quantified. Each letter must include a specific dollar amount and use of the funds. If a dollar amount and use is not shown, the source cannot be counted towards the match requirement (Applicable only to COPC) and Factor 4. (Note: While indirect costs can count towards meeting the required match, they will not be used to calculate the match percentage above the match requirement. Only direct costs can count in this factor). Letters, memoranda of understanding and agreements must be signed by an authorized representative of the funding source. If any matching sources are for more than one year, the commitment letter, memorandum of understanding, or agreement must state the number of years, the per year commitment, and the total commitment. Items eligible for program funding can be counted as match. Include matching documentation at the end of in the Narrative Statement Addressing the Factors for Award (see below). COPC program applicants only must include a multiple-page worksheet entitled “HUD 30011 or HUD 30012, Verification of the Match,” (included in Appendix B) which must be used to determine if a sufficient match has been provided. This worksheet must be included in the application. Please note on this form by each commitment listed if the match is an inside or outside match commitment.

(7) Certifications. The following certifications and assurances must be included in all application packages. These forms must be signed by the Chief Executive Officer (or official designee) of the institution and can be downloaded from the HUD Web site at http://www.hud.gov.

(a) Applicant Assurances and Certifications (HUD-424-B)

(b) Disclosure of Lobbying Activities (SF-LLL)

(c) Applicant/Recipient Disclosure/Update Report (HUD-2880)

(d) Certification of Consistency with the Consolidated Plan (HUD-2991)

(e) Certification of Consistency with the EZ/EC/RC Strategic Plan (HUD-2990). Must be signed by the certifying official of the EZ/EC/RC. The General Section of the SuperNOFA provides procedures and guidelines required to certify that proposed grant activities are being conducted in the EZ/EC/RC that serve the residents of these areas, and are certified to be consistent with the area's strategic plan. (Note: Applicants applying for funding under the TCUP programs are not eligible to receive these bonus points.)

(f) Acknowledgment of Receipt of Application (Form HUD-2993). To confirm that HUD has received the application package, please complete this form. Applicants are not required to include this form, but HUD recommends an applicant to do so.

(g) Client Comments and Suggestions (Form HUD-2994). This form is included to solicit information from the most valuable source, the applicant. The changes that we have instituted this year are designed to make things easier for the applicant. If applicants complete and submit this form, it will help us to assess whether the changes have had the intended results. It will also guide us in our continuing efforts to improve the competitive grant process. Applicants are not required to complete this form.

(h) Appendices. Applicants are not permitted to submit any appendices. Letters of commitment for matching funds should be included in the narrative response to Factor 4. An applicant may not submit general support letters or resumes or other back-up materials (unless an applicant is willing to have the latter count towards the page limits). Applicants should make sure that the Statement of Work and Narrative Statement addressing the “Factors for Award” contain sufficient detail to stand on their own, without the need for back-up material.

(B) Final selection.

If an application is in compliance with the applicable threshold requirements as defined in the General Section of this SuperNOFA and NOFA, as well as the applicable program requirements, it will be evaluated, rated, and ranked based on its total score on the program's rating factors. In order to be funded, an application must receive a minimum score of 75 points. HUD will fund applications for each program in this NOFA in rank order, until it has awarded all available program funds.

If two or more applications have the same number of points, the application with the most points for Factor 3, Soundness of Approach, shall be selected. If there is still a tie, the application with the most points for Factor 4, Leveraging, shall be selected. HUD also reserves the right to make selections out of rank order to provide for geographic distribution of grantees. If HUD decides to use this option, it will do so only if two adjacent HUD regions do not yield at least one fundable grantee on the basis of rank order. If this occurs, HUD will fund the highest-ranking applicant within the two regions as long as the minimum score of 75 points is achieved.

HUD reserves the right to reduce the amount of funding requested in order to fund as many highly ranked applications under each program in this NOFA as possible. Additionally, if funds remain after funding the highest ranked applications, HUD may fund part of the next highest-ranking application in a given program area. If an applicant turns down the award offer, HUD will make the same determination for the next highest-ranking application. If funds remain after all selections have been made, the remaining funds will be carried over to the next funding cycle's competition.

(C) Negotiations. After all selections have been made, HUD may require winning applicants to participate in negotiations to determine the specific terms of a program's Statement of Work and/or Grant Budget. In cases where HUD cannot successfully conclude negotiations, or an applicant fails to provide HUD with requested information, an award will not be made. In such instances, HUD may elect to offer an award to the next highest-ranking applicant, and proceed with negotiations with that applicant.

VII. Other Matters

The provisions of the HUD Reform Act of 1989 that apply to this NOFA are explained in the General Section of the SuperNOFA.

(A) Debriefing. The General Section of the SuperNOFA provides the procedures for requesting a debriefing. All requests for debriefings must be made in writing and submitted to Armand Carriere of HUD's Office of University Partnerships, Robert C. Weaver Building, 451 7th St., SW., Room 8106, Washington, DC 20410. Applicants may also write to Mr. Carriere via email at Armand_W._Carriere@hud.gov.

(B) Administrative. Grants awarded under this NOFA will be governed by the provisions of 24 CFR part 84 (Grants and Agreements with Institutions of Higher Education, Hospitals and Other Non-Profit Organizations), A-21 (Cost Principles for Education Institutions) and A-133 (Audits of States, Local Governments, and Non-Profit Organizations). Applicants can access the OMB circulars at the White House website at www.whitehouse.gov/omb/circulars/index.html.

VIII. Corrections to Deficient Applications

The General Section of this SuperNOFA provides the procedures for corrections to deficient applications.

IX. Site Control

Where grant funds will be used for acquisition, rehabilitation, or new construction an applicant must demonstrate site control. If the recipient cannot demonstrate control of a suitable site within one year after initial notification of award of assistance, HUD may recapture or deobligate any award for assistance. (This is not applicable to applicants applying for funding under COPC).

X. Environmental Requirements

(A) COPC Program. In accordance with 24 CFR 50.19 (b) of the HUD regulations, activities under the COPC program are categorically excluded from the requirements of the National Environment Policy Act and are not subject to environmental review under related laws and authorities.

(B) HBCU, HSIAC, AN/NHIAC, and TCUP Programs. Selection for award does not constitute approval of any proposed sites. Following selection for award, HUD will perform an environmental review of activities proposed for assistance in accordance with 24 CFR part 50. The results of the environmental review may require that proposed activities be modified or proposed sites be rejected. Applicants are particularly cautioned not to undertake or commit funds for acquisition or development of proposed properties prior to HUD approval of specific properties or areas. An application constitutes an assurance that the institution will assist HUD to comply with part 50; will supply HUD with all available and relevant information to perform an environmental review for each proposed property; will carry out mitigating measures required by HUD or select alternate property; and will not acquire, rehabilitate, convert, demolish, lease, repair, or construct property and not commit or expend HUD or local funds for these program activities with respect to any eligible property until HUD approval of the property is received. In supplying HUD with environmental information, applicants should use the same guidance as provided in the HUD Notice CPD-99-01 entitled “Field Environmental Review Processing for HUD Colonias Initiative (HCI) Grants” issued January 27, 1999.

XI. Authority

The COPC program is authorized under the Community Outreach Partnership Act of 1992 (42 U.S.C. 5307 note; the “COPC Act”). The COPC Act is contained in section 851 of the Housing and Community Development Act of 1992 (Pub. L. 102-550, approved October 28, 1992) (HCD Act of 1992). Section 801(c) of the HCD Act of 1992 authorized $7.5 million for each year of the 5-year demonstration to create Community Outreach Partnership Centers as authorized in the COPC Act. Division K of the Consolidated Appropriations Resolution, 2003 (Pub. L. 108-7, approved February 20, 2003) continued the program beyond the initial five-year demonstration by providing funding for Community Outreach Partnership Centers for FY 2003.

The HBCU program is authorized under section 107 (b) (3) of the Housing and Community Development Act of 1974 (42 U.S.C. 5307 (b) (3)), which was added by section 105 of the Department of Housing and Urban Development Reform Act of 1989 (Pub. L. 101-235, approved December 15, 1989). This program is governed by regulations contained in 24 CFR 570.400 and 570.404, and in 24 CFR part 570, subparts A, C, J, K, and O.

The HSIAC, AN/NHIAC, and TCUP programs were approved by the Congress under the conference report accompanying the CDBG appropriation for section 107, as part of the FY2003 Consolidated Appropriations Resolution (Pub. L. 108-7). These programs are being implemented through this NOFA and the policies governing its operation are contained herein.

XII. Appendices

The application checklist, non-standard forms required for the programs, and the list of previously funded and unfunded HBCUs follow in Appendices A-C.

Funding Availability for Universities and Colleges: Community Outreach Partnership Centers (COPC) Community Futures Demonstration

Program Overview

Purpose of the Program. The purpose of the Community Outreach Partnership Centers (COPC) Community Futures Demonstration is to provide funds to schools of architecture, planning or design at two-year colleges, four-year colleges, and universities to establish and operate Community Outreach Partnership Centers (COPCs) to:

(1) Develop case study housing plans and designs that address community housing needs as described below; or

(2) Develop long-range plans for local communities that address future growth and development trends in the metropolitan area or region.

Available Funds. Up to $1.955 million from the Fiscal Year (FY) 2003 Consolidated Appropriation Resolution for the Community Outreach Partnership Centers Program (COPC).

Additional Information

Applicants interested in applying for funds under this NOFA should carefully review the General Section of this SuperNOFA and the following additional information.

I. Application Due Date, Addresses, Submission Procedures, Further Information, and Technical Assistance

Application Due Date. A completed application package is due on or before June 24, 2003.

Address for Submitting Applications. A completed application package consists of one original signed application, three copies, and one computer disk (in Word 6.0 or higher) of the application. This package must be submitted to the following address: Processing and Control Branch, Office of Community Planning and Development, Department of Housing and Urban Development, 451 Seventh Street SW., Room 7251, Washington, DC 20410. When submitting an application package, also include the following information on the outside of the envelope: (a) Office of University Partnerships, (b) COPC Community Futures Demonstration Application, (c) Room number 7251, (d) applicant's name and mailing address (including zip code), and (e) applicant's telephone number (including area code).

Mailing and Receipt Procedures. Applicants must refer to the General Section of this SuperNOFA for detailed requirements governing application submission and receipt procedures.

For Further Information and Technical Assistance. Applicants may contact HUD's Office of University Partnerships staff—Armand W. Carriere at (202) 708-3061, ext. 3852 or Susan Brunson at (202) 708-3061, ext. 3181. Speech-or hearing-impaired individuals may call the Federal Information Relay Service TTY at 1 (800) 877-8399. Except for the “800” number, these numbers are not toll-free. Applicants may also reach Mr. Carriere via e-mail at Armand_W._Carriere@hud.gov and Ms. Brunson at Susan_S._Brunson@hud.gov.

Satellite Broadcast. HUD will hold an information broadcast via satellite for potential applicants to learn more about this NOFA and preparation of an application. For more information about the date and time of this broadcast, consult the HUD website at www.hud.gov.

II. Amount Allocated, Grant Size and Term, and Performance Period

The amount allocated, grant size and term, and performance period for this NOFA are listed below:

Amount Allocated. HUD will use up to $1.955 million to fund applications from accredited colleges and universities with programs in architecture, planning or design.

Grant Size and Term. HUD will make two kinds of grants under this NOFA (1) Housing Design Grants and (2) Planning Grants.

Applicants may apply for either (1) Housing Design Grants or (2) Planning Grants as described in Section III below, but not both.

The minimum grant amount an applicant can request is $250,000 and the maximum amount is $400,000 for a three-year (36-month) performance period.

Funds will be awarded on a competitive basis following the review of all applications that have passed the threshold review. A technical review will be conducted for all applications that pass the threshold review to rate and rank the applications according to the rating factors described in Section VII of this NOFA. Only applications that pass the threshold review will receive a technical review and be rated and ranked. A minimum score of 75 is required for award consideration. HUD will select the highest-ranking COPC Community Futures Demonstration application among the applications receiving the minimum score of 75 points. If funding remains after all the eligible applicants are awarded, these funds will be used to make awards to additional eligible applicants under the basic Universities and Colleges Community Outreach Partnership Centers (COPC) program, first to New Grants and then to New Directions applicants.

III. Purpose, Eligible Applicants, Program Description

(A) Purpose. The overall purpose of the COPC Community Futures Demonstration is to assist schools of architecture, planning and design to carry out applied research and outreach activities that address problems of urban areas and to enable them to form partnerships with local communities to address either of the urban issues described below.

COPC Community Futures awards are intended to focus on two specific urban problems that are cited in the COPC statute (housing and planning). They are also intended to further three of HUD's key Policy Priorities, as described in the General Section of the SuperNOFA: Policy Priority A—Providing increased homeownership and rental opportunities for low- and moderate-income persons, persons with disabilities, the elderly, minorities, and families with limited English proficiency; Policy Priority C—Encouraging accessible design features; Policy Priority G—Participation in Energy Star. Finally, the awards also intend to address three of HUD's key Strategic Goals that are described in the General Section of the SuperNOFA: (1) Increasing homeownership opportunities; (2) Promoting decent affordable housing; and (3) Strengthening communities.

HUD is also interested in how the research activities undertaken with COPC funds can assist HUD in improving its programs. In the case of the Community Futures awards, HUD is interested in how the research carried out with these funds can assist HUD in improving its Consolidated Plan requirements and procedures, which are currently in the process of being simplified and improved as an element in the President's Management Agenda. An area of special interest is the use of Geographic Information System (GIS), visual simulation tools and other computer technologies to enhance citizen participation and other elements of the planning process.

(B) Eligible Applicants. Public or private nonprofit institutions of higher education granting two- or four-year degrees in architecture, planning or design that are accredited by a national or regional accrediting agency recognized by the U.S. Department of Education may apply for COPC Community Futures awards. Institutions that were previous COPC grant recipients are eligible to apply for these funds. Consortia of eligible institutions may also apply, as long as one institution is designated the lead applicant. Institutions applying for COPC Community Futures awards may also submit applications for the basic Universities and Colleges COPC program provided the application is from a different academic unit with its own administrative structure.

(C) Program Description. In general, a Communities Futures COPC program must combine research and outreach with communities and local governments, and address the problems faced by urban areas. The statute creating COPC is very specific that COPC address problems of urban areas. Funded research must have a clear potential for solving significant urban problems. Applicants must have the capacity to apply the research results and work with communities and local institutions, including neighborhood groups, individual citizens, local governments, and other appropriate community stakeholders, in applying these results to specific, real-world community issues. More specifically, HUD will award COPC Community Futures Demonstration awards for research and outreach activities in one of the following two categories:

(1) Housing Design Awards. HUD will award funds to eligible schools of architecture, planning or design to establish and operate Community Outreach Partnership Centers to develop case study housing plans that incorporate innovative technologies, good design, energy efficiency, universal design, accessibility and affordability, so that the homes can be economically viable and marketable in the local area.

HUD is interested in stimulating the design and construction of housing that will reflect the future needs of communities in the United States. Applicants are expected to address the need for greater innovation and experimentation in the housing industry, training of architects and planners in affordable housing design, and merging quality affordable housing designs with market needs and constraints. These designs should be practicable but innovative, cost-effective but using cutting-edge technologies that incorporate good design.

Case study homes should include the following features: Innovative building technologies, including green building technologies; accessibility; energy efficiency; and good design that is both innovative and contextual. Clearly, there is no single definition of good design; however, it should at least address the following criteria: (1) Meet user needs; (2) understand and respond to local context; (3) enhance the neighborhood; and (4) be built to last (See www.designadvisor.org for further guidance on these criteria).

The extent to which the housing addresses market needs is as important as the physical design. The designs should be based on a careful cost analysis and priced to meet specific segments of the housing market—either specific income levels or specific populations (elderly, female-headed households, young couples, persons with disabilities, homeless persons, etc).

Case study houses are not restricted to a single building type; they may consist of single-family homes, both detached or attached, multifamily units, or a combination of housing types that are suitable for different users. They may be rental or homeownership units, or single-room occupancy (SRO) units. They should be affordable to low- to moderate-income families (up to 80 percent of area median income). However, the affordable units may make up a portion of a larger complex that is market-rate; in fact, this may be a desirable strategy for meeting affordable housing needs. Several states, counties, or cities have established programs that provide for a set-aside of affordable units within a larger market-rate complex. HUD has also encouraged production of mixed-income housing, which combines affordable, market rate and subsidized housing as an alternative to previous approaches that separated these housing types. To the extent that the state or city has one of these programs, applicants may wish to adopt this strategy for their case study design.

Case study housing designs developed in this grant category must be conceived in one or more target communities in cooperation with a private or non-profit developer or builder (or more than one developer or builder) that will agree to build one or more demonstrations of the product in the community by the end of the grant period. The process for designing and building case study homes should be a joint venture with a developer or builder that is committed to building the final product. HUD recognizes the difficulty in establishing such joint ventures, particularly when they involve innovative or experimental designs such as envisioned through this NOFA. However, HUD's intent is to ensure that the designs result in tangible benefits for local communities in the form of affordable housing. At the same time, applicants may develop a range of case study housing designs through this NOFA, provided that at least one of these designs results in actual construction.

Within these parameters, the purpose of the Community Futures awards in housing design is to foster and stimulate creativity and innovation on the part of architecture schools in addressing housing needs in their communities. This NOFA is therefore purposefully non-prescriptive in defining the specific characteristics that HUD is seeking in the design of case study homes. Rather, these should be determined by community needs, market economics, and financial feasibility. In addition to benefiting individual communities, HUD hopes that policy makers and the building industry can learn from these local case studies in shaping the next generation of affordable housing in the United States. HUD is interested in the completed designs and built projects as best practices for the building industry, and will share the results with key public and private sector leaders around the country.

For the purposes of this grant, applicants must identify the community or communities that will be served by the COPC. Applicants may identify a community as either (1) one or more specific communities or neighborhoods; or (2) the entire city, in which case applicants must identify one or more demographic groups (e.g., elderly, homeless persons, persons with disabilities) or income groups (e.g., low-income, very low-income or moderate income) that will be served by the designs, and identify those neighborhoods in which the housing will be made available.

(2) Planning Awards. HUD will award funds to eligible schools of architecture, planning or design to establish and operate Community Outreach Partnership Centers to develop, in cooperation with communities and local governments in a city, region or metropolitan area, a plan for the future of the cities or metropolitan areas for the next 20 years.

HUD is interested in universities and colleges assisting communities to address the challenges associated with metropolitan growth. By 2050, the U.S. population is projected to grow from the current (2000) 281 million to 410 million. Much of this growth will take place in cities and metropolitan areas, but it will take place unevenly, depending on the geographic region of the country and other facts. Some metropolitan areas are growing, but their central cities continue to experience population losses. Planning awards in this category are intended to help communities assess the nature of these changes and develop policies, plans and strategies to effectively address them.

Applicant's plans must identify trends that are changing the shape of the metropolitan area—both cities and counties—such as: growing populations, demographic shifts, expanding and more complex transportation needs, environmental challenges, changing land use patterns that include declining density and loss of open space and farmland, the shortage of affordable housing in locations close to jobs and employment centers, changing location and composition of job markets, and as our population ages, the need for accessible housing, among other things. Many of these emerging issues cannot adequately be addressed independently in an individual neighborhood or community, but are more appropriately addressed at the city, regional or metropolitan level. Neighborhoods, cities and suburbs must plan for their futures in ways that recognize and address these changes.

Applicants should also be aware of HUD-required Consolidated Plans that cities (with populations of 50,000 or more) and urban counties (with populations of 200,000 or more) are required to prepare in order to receive Community Development Block Grant and other formula grant funds. These are 3-5 year plans that include a detailed housing needs assessment and specific actions that the community will take to address these needs, as well as other community and economic development activities. Community Futures Planning Grants provide applicants with an opportunity to build on these plans, by extending them to a regional level, using the housing needs data already gathered, and to expanding the time frame to 20 years. Regional councils of governments and metropolitan planning organizations also prepare long-range transportation and land use plans. Applicants should review these plans and identify appropriate steps to coordinate the planning efforts to be mutually supportive.

The plans should identify key elements that impact the growth, financial stability and quality of life of cities or communities within a region, including but not limited to the following:

• Population growth, diversity, and locational trends;

• Changing housing needs, affordability issues, and the range of housing types needed by diverse income and population groups, including, for example, female-headed households, single households, the elderly and persons with disabilities;

• Changing energy and transportation needs;

• Changing job and employment markets; and

• Infrastructure needs including water, sewer, and communications infrastructure that will allow for industry and business growth.

Plans must also provide three or more scenarios that describe alternative population, land use and growth patterns that result from the assessment of these trends. The scenarios must address the physical shape of the urban landscape as it develops over the next two or more decades. Alternative development patterns may be modeled to include such factors as varying transportation assumptions, alternative density patterns, alternative employment, job growth and commercial development trends, and alternative environmental (air and water quality, and other) impacts. These scenarios must be documented in the form of one or more plans utilizing Geographic Information System (GIS) or other computer modeling tools as described below.

Applicants must make use of GIS systems, visual simulation and other computer modeling tools to model and document alternative development trends. Applicants must also undertake an extensive outreach process in developing the plan. Outreach activities should include such activities as community meetings or design charettes, and other activities that include citizens and groups such as civic and non-profit organizations, elected and appointed officials, Chambers of Commerce, representatives of the business or development community, public housing resident management organizations and public housing officials. Web sites and other forms of electronic communications may be utilized.

Additionally, completed plans must include a priority listing of projects designed to address local needs to be presented to community officials and other stakeholders for possible adoption as a roadmap for future development of the metropolitan area/region. Applicants should determine the appropriate scale for the plans.

For the purpose of these Planning awards, the urban area covered may be city-wide, county-wide or metropolitan area-wide, since much of future growth will be across jurisdictional boundaries. Additionally, applicants must identify one or more local communities and model how the metro-wide changes being proposed for adoption will impact these communities, the implications of these changes for these communities, and local strategies for addressing them.

IV. Threshold Requirements

In addition to the threshold requirements identified in the General Section of this SuperNOFA, applicants must meet the following additional threshold requirements for an application to be considered for funding. Applications that do not meet these requirements will be considered ineligible for funding and will be disqualified.

(1) Applicants must be an eligible applicant, as referenced in Section III (B) “Eligible Applicants.”

(2) Applicants must create a Community Outreach Partnership Center (COPC) to carry out the proposed activities.

(3) Applicants must meet the following, statutorily set match requirements:

(a) Research Activities. 50 percent of the total project costs of establishing and operating research activities.

(b) Outreach Activities. 25 percent of the total project costs of establishing and operating outreach activities.

(4) Total project costs do not include the cost of any housing units built by a participating developer or builder. For each match, cash or in-kind contribution provided applicants must submit a letter of commitment. Applicants may not count as meeting the match requirements any costs that would be ineligible for funding under this NOFA. An applicant's match is evaluated as percentage of the total cost of establishing and operating research and outreach activities, not just the federal grant amount. Please remember to base the calculation on the Total Amount. Applicants must use Form HUD-30001 “Community Outreach Partnership Centers Matching Requirements” (included in Appendix A) to show how the match requirements have been met. Applicants are also required to include Form HUD-30012, “Verification of the Match” (included in Appendix A) to determine if a sufficient match has been provided. Please note on this form by each commitment listed if the match is an inside or outside commitment.

(5) For each match, cash or in-kind contribution, a letter of commitment, memorandum of understanding, or agreement must be provided that shows the extent and firmness of the commitment of leveraged funds (including any commitment of resources from the applicant's own institution) in order for the resources to count in determining points under this factor. Resources will not be counted for which there is no commitment letter, memorandum of understanding, or agreement, nor quantified level of commitment. Letters of commitment, memoranda of understanding or agreements must be submitted from the provider on the provider's letterhead and be included with the application package. The date of the letter of commitment, memorandum of understanding, or agreement from the CEO of the provider organization must be dated no earlier than the date of this published SuperNOFA. Applications that do not meet the required matching amounts will be disqualified from further review. A firm commitment letter, memorandum of understanding, or agreement must address the following:

(a) The cash amount contributed or dollar value of the in-kind goods and/or services committed (If a dollar amount and use is not shown, the source cannot be counted towards the match requirement);

(b) How the match is to be used;

(c) The date the match will be made available and a statement that describes the duration of the contribution. If any of the matching sources are for more than one year, the commitment letter, memorandum of understanding, or agreement must state the number of years, the per year commitment, and the total commitment. Without this statement, HUD will assume that the commitment is for one year (e.g., $4,000 each year for three years totaling $12,000); and

(d) Any terms and conditions affecting the commitment, other than receipt of a HUD grant.

The commitment letter must be signed by the appropriate executive officer authorized to commit the funds and/or goods and/or services. Please remember that only items eligible for funding under this program can be counted as match.

Please note that the value of the time of individuals serving on an applicant program advisory board cannot be counted as an in-kind contribution. Applicants may count overhead and other institutional costs (e.g., salaries) that the institution has waived.

HUD is concerned that applicants should be providing hard dollars as part of their matching contributions to enhance the tangible resources going into targeted neighborhoods. Thus, while indirect costs can count toward meeting the required match, they will not be used to calculate the match percentage above the match requirement. Only direct costs can count in this factor.

(6) The COPC must operate in an urban area. The statute creating COPC is very specific that programs address the problems of urban areas. HUD uses the Census definition of an urban area: a single geographic place with a population of 2,500 or more.

(7) Applicants for a Housing Design award must provide evidence of a commitment from a private or non-profit developer or builder (or more than one developer or builder) to build at least one of the case study designs prepared with this NOFA. This must be in the form of a letter on the developer's or builder's stationery.

V. Program Requirements

In addition to the program requirements listed in the General Section of this SuperNOFA, applicants must meet the following requirements that are specific to the COPC program Community Futures Demonstration awards:

(1) Conduct the statutorily required activities described below:

(2) Employ the research and outreach resources of the institution of higher education to solve specific urban problems identified by communities served by the Center;

(3) Establish outreach activities in areas identified in the application as the communities to be served;

(4) Establish a community advisory committee comprised of representatives of local institutions and residents of the communities to be served to assist in identifying local needs and advise on the development and implementation of strategies to address those issues;

(5) Coordinate outreach activities in communities to be served by the Center;

(6) Act as a clearinghouse for dissemination of information;

(7) Develop instructional programs, convene conferences, and provide training for local community leaders, when appropriate; and

(8) Exchange information with other Centers.

(B) No more than 25 percent of the grant funds should be passed through to other entities.

VI. Eligible Activities

(A) Housing Design Grant. Eligible activities for this category of Community Futures Demonstration awards include, but are not limited to, the following:

(1) Researching and identifying housing market needs for one or more target communities.

(2) Identifying the range of housing markets within an urban area based on current and anticipated demographic trends, including market needs of different income groups as well as diverse populations such as the elderly, persons with disabilities, younger families with children, empty-nesters, and racial and ethnic minorities.

(3) Identifying relevant technologies that show promise for improving the durability, affordability and accessibility of housing, including but not limited to advanced technologies and building systems that have been identified through such sources as the PATH program (Partnership for Advancing Technology in Housing), Energy Star and other sources (See www. pathnet.org for further information on PATH's technology inventory, and www.energystar.gov for information on Energy Star).

(4) Developing housing designs for construction of case study homes that demonstrate innovative technologies, energy efficiency, accessibility, green building techniques and/or other features of innovative design.

(5) Preparing schematic designs of these houses for review by a panel of construction and design experts, such as builders, developers and local architects.

(6) Preparing cost analyses of these designs that illustrate that they are suitable for and affordable, to one or more market segments in the local community.

(7) Conducting focus groups, design charettes and/or other decision-making activities that engage residents and community leaders in providing input and responses to proposed designs and plans.

(8) Preparing final designs and construction specifications, including where appropriate the use of industrialized housing systems.

(9) Identifying a site or sites for construction of final “case study” design or designs.

(10) Working with local HUD offices, other government agencies and private institutions (such as private foundations and lending institutions), non-profit and private sector developers to identify sources of financing for the case study houses.

(11) Identifying regulatory barriers, including zoning restrictions, building codes, permitting or inspection standards that inhibit use of new technologies or construction methods, and assisting communities to eliminate or reduce excessive, unnecessary or duplicative regulations, processes or policies that restrict the development or rehabilitation or add to the cost of affordable housing (For further discussion of Regulatory Barriers, see the General Section of this SuperNOFA).

(12) Implementing an information dissemination program for builders, investors and civic leaders that could include exhibits of completed designs in suitable community locations, along with symposia, community workshops or other activities.

(13) Providing continuing architectural services during the construction of the completed design by a non-profit or for-profit developer.

(14) Conducting the required activities as described in Section V, “Program Requirements”.

(B) Planning Awards. Eligible activities in the planning category include, but are not limited to, the following:

(1) Making use of visual simulation, Geographic Information Systems, and other computer modeling tools in the planning process.

(2) Preparing computer models that can simulate growth, market and investment demands as a tool for community planning and development decision-making.

(3) Identifying and utilizing HUD approved Consolidated Plans, and other community, city or regional plans that may provide useful growth-related data.

(4) Partnering with economists and market analysts to determine market demands for housing and other needs.

(5) Conducting symposia to educate local officials and residents.

(6) Working with legal and regulatory authorities to resolve legal and regulatory issues that might limit housing development or growth options for the area.

(7) Meeting and entering into agreements with local officials and community groups to establish priorities for plan implementation.

(8) Conducting focus groups, charettes or other decision-making activities that involve communities in providing input and responses to proposed designs and plans.

(9) Conducting the required activities as described in Section V, “Program Requirements”.

(C) Both Grant Categories. In addition to eligible activities in each grant category described above, the following are eligible activities for both grant categories:

(1) Convening meetings and providing staff support for Community Advisory Boards.

(2) Incorporating relevant housing design and planning topics in the curriculum of architecture and planning schools, by offering design and planning courses and studios on relevant topics such as affordable housing, housing economics, real estate development, accessible design, energy efficient housing, and/or metropolitan growth.

(3) Stipends or salaries for students (but the program cannot cover tuition and fees) while they are working with the COPC.

(4) Faculty development, including paying for course time or summer support to enable faculty members to work with the COPC.

(5) Leases for office space in which to house the Community Outreach Partnership Center, under the following conditions:

(a) The lease must be for existing facilities not requiring rehabilitation or construction;

(b) No repairs or renovations of the property may be undertaken with COPC funds; and

(c) Properties in the Coastal Barrier Resource System designated under the Coastal Barrier Resources Act (16 U.S.C. 3501) cannot be leased with federal funds.

(6) Up to 20 percent of the grant for reasonable grant administrative activities related to planning and execution of the project (e.g., preparation/submission of HUD reports). A detailed explanation of these costs is provided in the OMB circulars that can be accessed at the White House Web site at: whitehouse.gov/omb/circulars/index.html.

VII. Ineligible Activities

(A) Activities ineligible for funding under this program are as follows:

(a) Any type of construction, rehabilitation, or other physical development. (Leveraged funds beyond the match requirements may be used for this purpose).

(b) Routine operations and day-to-day administration of institutions of higher education, local governments or neighborhood groups.

(c) Payment of court fines, judgments or fees imposed as a result of a court case or a settlement of a court case.

VIII. Application Selection Process

(A) Two Types of Reviews. Two types of reviews will be conducted:

(1) A threshold review to determine an application's eligibility; and

(2) A technical review based on the rating factors listed below.

Only those applications that pass the threshold review will receive a technical review and be rated and ranked.

(B) Factors for Award Used to Evaluate and Rate Applications. The factors for evaluating, rating, and ranking an application and the maximum points for each factor are listed in this NOFA below. Applications must receive a minimum of 75 out of the total possible points to be considered for funding. The maximum number of points available under the program is 102. This includes the two RC/EZ/EC bonus points as described in the General Section of the SuperNOFA.

Rating Factor 1: Capacity of the Applicant and Relevant Organizational Experience (15 Points)

This factor addresses the extent to which an applicant has the organizational resources necessary to successfully implement the proposed activities in a timely manner. The rating includes any faith-based and other community-based organizations, sub-contractors, consultants, sub-recipients and members of consortia that are firmly committed to the project. In rating this factor, HUD will consider the extent to which the proposal demonstrates the knowledge and experience of the overall proposed project director and staff, including the day-to-day program manager, consultants, and contractors in planning and managing the kind of programs for which funding is being requested. Experience will be judged in terms of recent, relevant, and successful knowledge and skills of the staff to undertake eligible program activities. HUD will consider experience within the last 5 years to be recent; experience pertaining to the specific activities being proposed to be relevant; and experience producing specific accomplishments to be successful. The more recent and substantial the experience of the staff, particularly the institution's own staff who will work on the project, in successfully conducting and completing similar activities, the higher the number of points an applicant can receive for this rating factor. The following categories will be evaluated:

(1) Undertaking research, planning, design or outreach activities in specific communities to solve or ameliorate significant urban issues;

(2) Undertaking projects with community-based organizations or local governments; and

(3) Experience in conducting planning or design work, including outreach to community groups, local officials and business leaders.

In addition, applicants should include information on project staff commitment to the project and position titles. Resumes of up to three pages each and position descriptions for up to three personnel (in addition to the project director and project manager) and a clearly delineated organizational chart for the project must be included.

(b) Applicants should provide their qualifications to carry out the proposed activities as evidenced by academic background, training, and/or relevant publications of project staff.

(c) Provide information that reflects whether an applicant has sufficient personnel, or will be able to retain qualified experts or professionals to begin the proposed project immediately, and to perform proposed activities in a timely and effective fashion. Applicants should describe how principal components of the organization will participate in or support the project.

(d) Applicants may submit attachments totaling no more than 25 pages over and above the narrative statement that consist of copies of plans, drawings, photographs, award announcements or journal articles that illustrate previous projects, both for project staff and/or representative studio design projects completed by students that illustrate the type of design and plans anticipated to be carried as part of the proposed activities.

Rating Factor 2: Need/Extent of the Problem (10 Points)

This factor addresses the extent to which there is a need for funding the proposed grant activities and an indication of urgency of meeting the need to participate in the target area. In responding to this factor, the proposal will be evaluated on the extent to which the level of need for the proposed activities and the importance of meeting the need are documented.

Applicants should use statistics and analyses contained in at least one or more current data sources that are sound and reliable. The data provided must be current. In rating this factor, HUD will consider data collected within the last five years to be current. To the extent that the targeted community or community's Five (5) Year Consolidated Plan and Analysis of Impediments to Fair Housing Choice (AI) identify the level of the problem and the urgency in meeting the need, applicants should include references to these documents in the response to this factor.

If the proposed activities are not covered under the scope of the Consolidated Plan and Analysis of Impediments to Fair Housing Choice (AI), indicate such in the proposal, and use other sound data sources to identify the level of need and the urgency in meeting the need. Other reliable sources include, but are not limited to, Census report data, HUD Continuum of Care gaps analysis and its E-Map (http//:www.hud.gov/emaps), law enforcement agency crime reports, Public Housing Authorities' Comprehensive Plans, community needs analyses such as provided by the United Way, the applicant's institution, etc., and other sound and reliable appropriate sources. Needs in terms of fulfilling court orders or consent decrees, settlements, conciliation agreements, and voluntary compliance agreements may also be addressed. The data used should be specific to the area where the proposed activities will be carried out. Needs should be documented as they apply to the area where the activities will be targeted. Remember, the statute creating COPC is very specific that the program address problems of an urban area: a single geographic place (e.g., a city, town, or village, but not a county) with a population of 2,500 or more.

Rating Factor 3: Soundness of Approach (60 Points)

This factor addresses the quality and cost-effectiveness of the proposed work plan. There must be a clear relationship among the proposed activities, community needs and the purpose of the funding to receive points for this factor.

The factor will be evaluated based on the extent to which the proposed work plan will:

(1) Perform Specific Services and/or Activities. (10 Points). Identify the specific services or activities to be performed in a Statement of Work, as well as the dollars allocated for each activity and task identified, milestones and timeline, and the budget for the activities proposed. HUD will make a judgment based upon the reasonableness and appropriateness of the budget to the dollars allocated for your work plan. In reviewing this sub-factor, HUD will consider the extent to which:

(a) There is a clear research agenda with identifiable research activities and outcomes (e.g., reports, surveys, etc.) that identifies each task and who will be responsible for it, and is tied to the outreach agenda which does not duplicate research by the institution or others for the target area previously completed or currently underway. If other complementary research is underway, describe how the proposed research agenda would complement it.

(b) There is a clear outreach agenda with identifiable outreach activities that involves the architecture, planning or design school (where appropriate in partnership with other disciplines, departments and administrative offices) and does not duplicate outreach activities by the institution or others for the target area previously completed or currently underway, that identifies each task and who will be responsible for it;

(c) For research and outreach activities, applicants should briefly summarize the potential for the work to improve the performance of HUD programs, such as the citizen participation requirements and other features of the Consolidated Plan that communities must prepare in order to receive Community Development Block Grant or other formula grant funds.

(2) Involve the communities to be served in a partnership for the planning and implementation of the proposed activities. (7 Points). In reviewing this subfactor, HUD will look at the extent to which:

(a) One or more Community Advisory Committees have been formed or will be formed that represent the community's or communities' diversity (including businesses, community groups, residents, and others) to be served to develop and implement strategies to address the needs identified in Rating Factor 2. In addressing this subfactor, applicants must demonstrate by providing a list that such a committee(s) has already been formed and what groups described above it represents, or that they have secured the commitment of the appropriate persons to serve on the committee(s), rather than just describing generally the types of people whose involvement will be sought.

(b) A range of neighborhood organizations and/or local government entities and or citizens have been involved in the proposed research and outreach activities.

(c ) Innovative techniques and technologies have been identified to involve local citizens directly in the decision-making and design processes (e.g., computer mapping technologies or visual simulation tools, Internet, or other multi-media techniques).

(3) Help solve or address an urgent problem as identified in Rating Factor 2 and will achieve the purposes of the proposed application within the award period. (6 Points). In reviewing this subfactor, HUD will look at the extent to which:

(a) Specific time phased and measurable objectives are identified to be accomplished, including the proposed short and long term objectives to be achieved as a result of the proposed activities; the tangible and measurable impact the activities will have on the community in general and the target area or population in particular, including affirmatively furthering fair housing for classes protected under the Fair Housing Act; and the relationship of the proposed activities to other ongoing or proposed efforts to improve the economic, social or living environment in the impact area; and

(b) The activities proposed are responsive to pressing and urgent needs, as identified in the documents described in Rating Factor 2.

(c) Grant funds will pay for activities you conduct directly, rather than passing funds through to other entities. (No more than 25 percent of your grant funds should be passed through to other entities.)

(4) Work will yield innovative strategies or “best practices” that can be replicated and disseminated to other organizations, including nonprofit organizations, state and local governments. (4 Points) In reviewing this subfactor, HUD will assess the applicant's demonstrated ability to disseminate results of research and outreach activities to other COPCs and communities. HUD will evaluate an applicant's past experience and the scope and quality of the plan provided to disseminate information on COPC results, strategies, and lessons learned through such means as conferences, cross-site technical assistance, publications, etc. The more proactive the plan for providing information to a wide range of audiences, the higher the number of points an applicant will receive.

(5) Affirmatively further Fair Housing. (5 Points). This factor will be evaluated on the extent to which the application incorporates principles and techniques to affirmatively further fair housing, for example:

(a) Working with other entities in the community to overcome impediments to fair housing, such as discrimination in the sale or rental of housing or in advertising, provision of brokerage services or lending;

(b) Promoting fair housing choice through the expansion of homeownership opportunities and improved quality of services for minorities, families with children, and persons with disabilities;

(c) Providing housing mobility counseling services; or

(d) Ensuring that any housing units that result from this award are affirmatively marketed, either directly or through existing organizations.

(6) HUD Policy Priorities. (6 Points). HUD encourages applicants to undertake specific activities that will assist the Department in implementing its policy priorities and that help the Department achieve its goals and objectives in FY 2004, when the majority of grant recipients will be reporting programmatic results and achievement. In addressing this factor, HUD will evaluate the extent to which the research and outreach will further and support HUD's priorities. The quality of the responses provided to one or more of HUD's priorities will determine the score an applicant can receive. For each policy priority addressed, applicants will receive one point. Applicants cannot receive more than six points. For the full list and explanation of each policy priority, please refer to the General Section of this SuperNOFA.

(7) Result in the COPC planning and design functions and activities becoming part of the urban mission of the institution and funded in the future by sources other than HUD. (12 Points).

In rating this subfactor, HUD will evaluate the extent to which the applicant addresses each of the following categories:

(a) COPC activities relate to the institution's urban mission; demonstrate support and involvement of the institution's executive leadership (e.g., department chairs, deans, etc.); are linked by a formal organizational structure to other units related to outreach and community partnerships; are reflected in budget and planning documents of the university; are part of a climate that rewards faculty work on these activities through promotion and tenure policies; benefit students because they are part of the professional training programs at the institution (rather than just volunteer activities); and are reflected in the institution's curriculum. HUD will look at the institution's commitment to faculty and staff continuing work in COPC neighborhoods or replicating successes in other neighborhoods and to the long term commitment (e.g., three years after the start of the COPC) of hard dollars to COPC work. HUD will consider the extent to which the proposed activities are appropriate for an institution of higher education and are tied to the institution's teaching or research mission. In addition, HUD will consider the extent to which the faculty, staff and students from across disciplines are involved in COPC activities as a way of demonstrating the institution's commitment to these kinds of activities.

(b) The institution has received commitments for funding from sources outside the university for related COPC-like activities in the targeted neighborhood or other distressed neighborhoods. Funding sources to be considered include, but are not limited to, local governments, neighborhood organizations, private businesses, and foundations.

(8) Involvement of students in course work. (5 points). The extent to which COPC activities are incorporated or addressed in student course work, including design and planning studios. This should include students' developing an understanding of design and planning issues associated with the project, as well as the market economics associated with housing development. Please describe the proposed relationship between student work and the final plans or housing designs.

(9) Budget. (5 points) The extent to which the budget presentation is consistent with the Work Plan and the dollars indicated on the HUD 424 form. The budget submission should follow the narrative statement in this factor and include the following documents:

(a) HUD 424-C “Budget Summary for Competitive Grant Programs”. This budget form shows the costs for each budget category for the program's entire period of performance. For budgeting purposes, applicants should assume a start date of September 1, 2003.

(b) HUD 424-CB “Grant Application Detailed Budget”. This budget form shows the total budget by year and by line item for the program activities to be carried out. This will be a functional budget. Each year of the program should be presented separately.

These forms must be completed in full. If an application is selected for award, the applicant may be required to provide greater specificity to the budget during grant agreement negotiations.

(c) Budget Narrative. A narrative explanation of how the applicant arrived at the cost estimates, for any line item, including match items, over $5,000. For example, a van rental, $150 per month × 36 months equals $5,400. The proposed cost estimates should be reasonable for the work to be performed and consistent with rates established for the level of expertise required to perform the work proposed in the geographical area. When necessary, quotes from various vendors or historical data should be used and included. All direct labor or salaries must be supported with mandated city/state pay scales, the Davis-Bacon rate (if applicable) or other documentation. When an applicant proposes to use a consultant, the applicant must indicate whether there is a formal agreement or written procurement policy. For each consultant, please provide the name, if known, hour or daily fee, and the estimated time on the project. For equipment, applicants must provide a list by type and cost for each item and explain how it will be used. Applicants using contracts must provide an individual description and cost estimate for each contract.

Indirect costs attributed to a particular project functional category should be listed under the “ Indirect Cost” category. Indirect costs are allowable only if an applicant has a federally approved indirect cost rate. A copy of the institution's negotiated indirect rate as issued by the cognizant federal agency must be attached to the budget sheets when submitting an application.

Make sure that the amount shown on the HUD 424, the budget forms, and all other required program forms are consistent and the budget totals correct. Remember to check addition in totaling the categories on the HUD 424-C and HUD 424-CB forms so that all items are included in the total. If there is an inconsistency between any of the forms required, the HUD 424-C form will be used. If upon checking the addition, HUD finds that an applicant has added incorrectly, the HUD 424-CB will be revised accordingly. Please note that, because this would be considered a substantive rather than a technical error, if this correction puts an application over the grant maximum, the application will be disqualified.

Rating Factor 4: Leveraging Resources (5 Points)

This factor addresses the applicant's ability to secure additional community resources that will aid in project implementation.

(A) Planning Grants. HUD is looking for proposed plans to be adopted and resources allocated from the community to support the development. Example of resources are items such as detailed design drawings, construction specs, legal services, etc. that will be necessary to implement the priority projects once they are developed. The greater the number of resources provided by the community to support the policy priority projects, the higher the number of points that will be allocated.

(B) Design Grants. HUD is interested in a private or non-profit developer (or a number of developers) building one or more of the proposed units; leveraging points will be awarded based on the total developer project costs as a percentage of the total COPC funding award. The higher the developer contribution, the higher the number of points. Resources may also include funding or in-kind contributions, such as services or equipment, allocated to the purpose(s) of the grant being sought.

Resources may be provided by governmental entities, public or private nonprofit organizations, for-profit private organizations, or other entities willing to establish partnerships with the institution. Applicants may also establish partnerships with funding recipients in other grant programs to coordinate the use of resources in the target area. In order to receive points under this factor, applicants must submit letters of commitment. Applicants should follow the requirements for letters of commitment as defined in Section IV (5) “Threshold Requirements”.

Rating Factor 5: Achieving Results and Program Evaluation (10 Points)

This factor reflects HUD's goal of embracing high standards of ethics, management, and accountability. The factor measures the applicant's commitment to assess your performance to achieve the program's proposed objectives and goals. Applicants are required to develop an effective, quantifiable, outcome oriented evaluation plan to measure performance and determine that objectives and goals have been achieved. HUD will evaluate the extent to which applicants identify program activities, outcomes, interim benchmarks and performance indicators that will describe how performance will be measured, and a description of the steps that will be taken to make adjustments to the work plan if performance targets are not met within the established time frame associated with each activity.

The evaluation plan must include a statement of outcomes and interim benchmarks or outputs. “Outcomes” are benefits accruing to institutions of higher education and/or communities during or after participation in the COPC Community Futures Demonstration. Outcomes are not the actual development of housing units or community plans. Examples of outcomes are: increasing the homeownership rate in a community by a certain percentage, increasing housing stability (e.g., increasing assets through additional savings, home equity), or increasing the availability of rental housing.

In addition, applicants must establish interim benchmarks and outputs that lead to the ultimate achievement of outcomes. “Outputs” are the direct products of the program's activities. Examples of outputs are the number of houses designed and/or built and the number of homes rehabilitated. Outputs should produce outcomes for the COPC. At a minimum, an applicant must address the following activities in the evaluation plan:

(a) Short and long term objectives to be achieved;

(b) Actual accomplishments against anticipated achievements;

(c) Measurable impacts the grant will have on the community in general and the target area or population;

(d) The impact the grant will have on the long term commitment of the University to the community to continue this type of work; and

(e) The impact this award will have on assisting the university to obtain additional resources to continue this type of work at the end of the funding period.

This information should be provided in a Logic Model format. This form and information on how to use it can be found in the General Section of this SuperNOFA.

VI. Application Submission Requirements

A complete application package must include an original signed application and three copies, and one computer disk of the application (in Word 6.0 or higher) of the items listed below. In order to be able to recycle paper, applicants should not submit applications in bound form. Binder clips or loose-leaf binders are acceptable. Applications must be submitted on 8½ by 11 inch paper, double-spaced, and printed in a standard Times Roman 12-point font. The doubled-spaced requirement applies to all parts of the narrative, but excludes materials submitted in the appendix (e.g., visual materials, such as copies of plans, drawings, photographs, award announcements or journals). Each page should include the applicant's name, be numbered, and each section tabbed sequentially.

Please make sure that all items are submitted in the application in the order listed below. Except where a particular form may direct otherwise, all forms included in the application, as well as the transmittal letter, must be signed by the Chief Executive Officer (generally the President or Provost) or an official authorized to make a binding legal commitment for the institution. If a designee signs, the application must contain a copy of the official delegation of signatory authority.

(A) Application Contents. All information needed to apply for funding is contained in this SuperNOFA. There is no separate application kit. Please include each item in the order listed below:

(1) Transmittal Letter. The letter should contain the following:

(a) A statement certifying that the institution is an eligible institution because it meets the requirement of the specific program from which funding is sought; (b) the institution is a two- or four-year institution; and (c) the institution of higher education is fully accredited. This assurance must state not only the name of the accrediting agency but also that the particular accrediting agency is recognized by the U.S. Department of Education (or, for applicants to the Tribal Colleges and Universities Programs, that the institution has applied for accreditation by a regional instructional accrediting association recognized by the U.S. Department of Education). Applicants can also use the transmittal letter as one way to demonstrate the President's commitment to the institutionalization of the program. This letter must be signed by the Chief Executive Officer (usually the President or Provost) of the institution. If the Chief Executive Officer has delegated this responsibility to another official, that person may sign, but a copy of the delegation must be included or stated in the letter.

(2) HUD 424 “Application for Federal Assistance”. Applicants should complete this form signed by the Chief Executive Officer of the institution. Community Outreach Partnership Centers Program is 14.511.

(3) Application Checklist. This checklist, provided in Appendix A to this program NOFA, provides a listing of all of the items that need to be included in your application. Applicants must include the application items in the order that they are listed on the checklist. Applicants must include the completed checklist in their application. On the checklist, indicate the page number where each of the items can be found in the application.

(4) Abstract. Applicants must include a two-page summary of their proposed project. Please include the following: Page (1), (a) project title, (b) name of College/University, (c) requested grant amount, (d) project address, (e) the designated contact person, including phone number, facsimile number, and e-mail address; page (2), (a) University's name, department, mailing address, telephone number, facsimile number, and e-mail address, and (b) the principal investigator for the project, designated contact person, including telephone number, facsimile number, and e-mail address, (c) brief description of the target area to be assisted through this grant, (d) needs of the target area to be addressed through the proposed activities, (e) the activities proposed to be funded, and (f) the grant's goals and objectives.

(5) Documentation required to verify match.

(a) Applicants are required to use form HUD-30001, “Community Outreach Partnership Center Match Requirements” (included in Appendix A) to show how the match requirements have been met.

(b) Applicants must also include the multiple-page worksheet HUD 30012, “Verification of the Match” (included in Appendix A) which must be used to determine if a sufficient match has been provided.

(6) Narrative statement (including any required forms and submissions) addressing the following factors for award.

Factor 1: Capacity. Include any resumes or documentation showing experience.

Factor 2: Need. Include any documentation of need including any excerpts from the HUD approved Consolidated Plan.

Factor 3: Approach. Include statement of work, required budget documentation and any explanatory budget narrative for line items over $5,000.

Factor 4: Leveraging Resources. Include letters of commitment for the leveraged funds.

Factor 5: Achieving Results and Program Evaluation.

Application should not exceed 60 pages, including letters of commitment for the required match, tables and maps, but not including letters of matching commitments, the match calculation and budget forms. Please note that although submitting pages in excess of the page limit will not disqualify your application, HUD will not consider the information submitted on any pages that exceed the 60-page limit. Failure to include all the requested information within the page limit may result in a lower score for failure to meet a threshold.

(7) Budget. The budget documents should follow the narrative addressing Factor 3. The budget presentation should be consistent with the Statement of Work and include the following:

(a) HUD 424-C “Budget Summary for Competitive Grants Programs”

(b) HUD 424-CW “Grant Application Detailed Budget”

(c) Budget-Narrative. A narrative of how the applicant arrived at costs, for line items over $5,000. All budget forms must be completed in full.

(8) Appendices. Applicants may submit appendices that include visual material illustrating past projects and awards, provided that they follow the requirements stated under Factor 1(d), above.

(9) Certifications. The following certifications and assurances must be included in the application package. These forms must be signed by the Chief Executive Officer (or official designee) of the institution and can be downloaded from the HUD Website at www.hud.gov.

(a) Applicant Assurances and Certification (HUD-424-B)

(b) Disclosure of Lobbying Activities (SF-LLL)

(c) Applicant/Recipient Disclosure/Update Report (HUD-2880)

(d) Certification of Consistency with the Consolidated Plan (HUD-2991)

(e) Certification of Consistency with the EZ/EC/RC Strategic Plan (HUD-2990) (Must be signed by the certifying official of the EZ/EC/RC. The General Section of the SuperNOFA provides procedures and guidelines required to certify that proposed grant activities are being conducted in the EZ/EC/EEC/RC that serve the residents of these areas, and are certified to be consistent with the area's strategic plan.)

(10) Acknowledgment of Receipt of Application (Form HUD-2993). To confirm that HUD has received the application package, please complete this form. Applicants are not required to include this form, but HUD recommends that an applicant do so.

(11) Client Comments and Suggestions (Form HUD-2994). This form is included so that HUD can solicit information from the most valuable source, the applicant—our customers. Applicants are not required to complete this form.

(B) Final selection. If an application is in compliance with the applicable threshold requirements as defined in the General Section of this SuperNOFA and NOFA, as well as the applicable program requirements, it will be evaluated, rated, and ranked based on its total score on the program's rating factors. In order to be funded, an application must receive a minimum score of 75 points. HUD will fund applications under this NOFA in rank order, until it has awarded all available program funds.

If two or more applications have the same number of points, the application with the most points for Factor 3, Soundness of Approach, shall be selected. If there is still a tie, the application with the most points for Factor 1, Capacity, shall be selected. HUD also reserves the right to make selections out of rank order to provide for geographic distribution of grantees and a combination of planning and design awards. If this occurs, HUD will fund the highest-ranking application within the two categories in different locations as long as the minimum score of 75 points is achieved.

HUD reserves the right to reduce the amount of funding requested in order to fund as many highly ranked applications in this NOFA as possible. Additionally, if funds remain after funding the highest-ranked applications, HUD may fund part of the next highest-ranking application in a given program area. If an applicant turns down the award offer, HUD will make the same determination for the next highest-ranking application. If funds remain after all selections have been made, the remaining funds will be made available to applicants to the basic Colleges and Universities COPC program in the following order: New Grants; New Directions.

(C) Negotiations. After all selections have been made, HUD may require winning applicants to participate in negotiations to determine the specific terms of a program's Statement of Work and/or Grant Budget. In cases where HUD cannot successfully conclude negotiations, or an applicant fails to provide HUD with requested information, an award will not be made. In such instances, HUD may elect to offer an award to the next highest-ranking applicant, and proceed with negotiations with that applicant.

VII. Other Matters

The provisions of the HUD Reform Act of 1989 that apply to this NOFA are explained in the General Section of the SuperNOFA.

(A) Debriefing. The General Section of the SuperNOFA provides the procedures for requesting a debriefing. All requests for debriefings must be made in writing and submitted to Armand Carriere of HUD's Office of University Partnerships, Robert C. Weaver Building, 451 7th Street SW., Room 8106, Washington, DC 20410. Applicants may also write to Mr. Carriere via e-mail at Armand_W._Carriere@hud.gov.

(B) Administrative. Grants awarded under this NOFA will be governed by the provisions of 24 CFR part 84 (Grants and Agreements with Institutions of Higher Education, Hospitals and Other Non-Profit Organizations), A-21 (Cost Principles for Education Institutions) and A-133 (Audits of States, Local Governments, and Non-Profit Organizations). Applicants can access the OMB circulars at the White House website at whitehouse.gove/omb/circulars/index.html.

(C) Davis-Bacon Requirements. Provided that no grant funds are used for construction or construction management of housing built as a result of this award, Davis-Bacon requirements do not apply, unless the funds used for construction are federal funds that carry their own Davis-Bacon requirements. Provision of architectural services, whether before or during construction, does not trigger Davis-Bacon requirements.

VIII. Corrections to Deficient Applications

The General Section of the SuperNOFA provides the procedures for corrections to deficient applications.

IX. Environmental Requirements

In accordance with 24 CFR 50.19(b) of the HUD regulations, activities assisted with Community Planning awards are categorically excluded from the requirements of the National Environmental Policy Act and are not subject to environmental review under the related laws and authorities.

With regard to Housing Design awards, selection for award does not constitute approval of any proposed sites for construction of the housing designs. Following selection for award, HUD will perform an environmental review of sites proposed for construction of housing designs, in accordance with 24 CFR part 50. The results of the environmental review may require that the proposed activities be modified or that the proposed sites be rejected. Applicants are particularly cautioned not to undertake or commit funds for acquisition or development of proposed properties prior to HUD approval of specific properties or areas.

An application constitutes an assurance that the institution will assist HUD to comply with 24 CFR part 50; will supply HUD with all available and relevant information to perform an environmental review for each proposed property; will carry out mitigating measures required by HUD or select an alternate property; and will not acquire, rehabilitate, convert, demolish, lease, repair or construct property and will not commit or expend HUD or local funds for these program activities with respect to any eligible property, until HUD approval of the property is received. In supplying HUD with environmental information, applicants should use the same guidance as provided in the HUD Notice CPD-99-01 entitled “Field Environmental Review Processing for HUD Colonias Initiative (HCI) Grants,” issued January 27, 1999.

X. Authority

The COPC program is authorized under the Community Outreach Partnership Act of 1992 (42 U.S.C. 5307 note; the “COPC Act”). The COPC Act is contained in section 851 of the Housing and Community Development Act of 1992 (Pub. L. 102-550, approved October 28, 1992 (HCD Act of 1992). Section 801(c) of the HCD Act of 1992 authorized $7.5 million for each year of the 5-year demonstration to create Community Outreach Partnership Centers as authorized in the COPC Act. Division K of the FY 2003 Consolidated Appropriations Resolution (Pub. L. 108-7, approved February 20, 2003) continued the program beyond the initial five-year demonstration by providing funding for Community Outreach Partnership Centers for FY 2003. Applicants are encouraged to familiarize themselves with the provisions of the statute on HUD's SuperNOFA website at www.hud.gov.

XI. Appendix A

Appendix A, which follows, includes the non-standard forms required for this NOFA.

Funding Availability for the Early Doctoral Student Research Grant Program and Doctoral Dissertation Research Grant Program

Program Overview

Purpose of the Programs. The purposes of the university partnership dissertation programs are:

Early Doctoral Student Research Grant Program (EDSRG). To help eligible doctoral students cultivate their research skills through the preparation of research manuscripts that focus on housing and urban development issues; and

Doctoral Dissertation Research Grant Program (DDRG). To assist Ph.D. candidates to complete their research and dissertations on housing and urban development issues.

Available Funds. Approximately $550,000 in Fiscal Year (FY) 2003 appropriations is available for the Office of University Partnerships dissertation programs as follows.

• Early Doctoral Student Research Program: $150,000

• Doctoral Dissertation Research Grant Program: $400,000

Application Deadline. May 27, 2003.

Match. None.

Additional Information

Doctoral students interested in applying for funding under these grant programs should carefully review the General Section of this SuperNOFA and the following additional information. There is no separate Application Kit for this NOFA.

Additional Information

I. Application Due Date, Further Information, and Technical Assistance

Application Due Date. A completed application package is due on or before May 27, 2003.

Address for Submitting Applications. A completed application package consists of an original signed application, three copies, and one computer disk (in Word 6.0 or higher) of the application. All applications must be submitted via the United States Postal Service to the following address: University Partnerships Clearinghouse, c/o Danya International, 8737 Colesville Road, Suite 1200, Silver Spring, MD 20910. When submitting an application package, indicate the following information on the outside of the envelope: Name of the program under which funding is being requested and the doctoral student's name and mailing address, including zip code. HUD will accept only one application package per doctoral student.

For Further Information and Technical Assistance. Doctoral students may contact Armand Carriere of HUD's Office of University Partnerships at (202) 708-3061, ext. 3181 or Susan Brunson at (202) 708-3061, ext. 3852. Speech- or hearing-impaired individuals may call the Federal Information Relay Service TTY at 1-800-877-8339. Except for the “800” number, these telephone numbers are not toll-free. Students may also reach Mr. Carriere via the Internet at Armand_W._Carriere@hud.gov and Ms. Brunson at Susan_S._Brunson@hud.gov.

Satellite Broadcast. HUD will hold an information broadcast via satellite for potential doctoral student applicants to learn more about the programs and preparation of applications. For more information about the date and time of this broadcast, consult the HUD Website at www.hud.gov.

II. Amount Allocated, Grant Size and Term, and Performance Period

The amount allocated, grant size and term, and performance period are listed below for each program in this NOFA. HUD's authority for making funding available under this NOFA is Division K of the Consolidated Appropriations Resolution of 2003 (Pub. L. 108-7, approved February 20, 2003).

Early Doctoral Student Research Grant Program—Approximately $150,000 will be made available for funding under this program.

The maximum grant period is 12 months. The performance period will commence on the effective date of the grant agreement.

The maximum amount that can be requested by a doctoral student for award is $15,000.

Doctoral Dissertation Research Grant Program—Approximately $400,000 will be made available for funding under this program.

The maximum grant period is 24 months. The performance period will commence on the effective date of the grant agreements.

The maximum amount that can be requested by a doctoral student for award is $25,000.

III. Program Description; Eligible Applicants; Eligible Activities

(A) Program Description

Early Doctoral Student Research Grant Program (EDSRG). The purpose of the EDSRG program is to enable doctoral students enrolled at an accredited institution of higher learning recognized by the U.S. Department of Education to cultivate their research skills through the preparation of research manuscripts that focus on policy-relevant housing and urban development issues. The program also encourages new scholars to share their research findings through presentation at scholarly conferences and/or publication in refereed journals. The FY 2003 EDSRG program seeks to fund research studies that may impact federal problem solving and policymaking and that are relevant to HUD's policy priorities and annual goals and objectives. (See the General Section of the SuperNOFA for discussion of these priorities and annual goals and objectives).

Doctoral Dissertation Research Grant Program (DDRG). The purpose of the DDRG program is to enable Ph.D. candidates enrolled at accredited institutions of higher education recognized by the U.S. Department of Education to complete their research and dissertations on policy-relevant housing and urban development issues. The FY 2003 DDRG program seeks to fund dissertations that may impact federal problem solving and policymaking and that are relevant to HUD's policy priorities and annual goals and objectives. (See the General Section of the SuperNOFA for discussion of these priorities and annual goals and objectives). Examples of topics addressing these issues (applicable to both the EDSRG and DDRG programs) include but are not limited to:

(1) Increase Homeownership Opportunities

(a) Increasing Minority Homeownership;

(b) Simplifying the Homebuying Process (RESPA reform) and Reducing Settlement Costs;

(c) Setting Appropriate Housing Goals for the GSEs;

(d) Countering Predatory Lending;

(e) Helping Low-Income Homeowners Avoid Default and Foreclosure;

(f) Evaluating Housing Counseling.

(2) Promote Decent Affordable Housing

(a) Reducing Regulatory Barriers to the Development of Affordable Housing, as well as All Forms of Multifamily Housing

(b) Developing Creative Strategies for Expanding the Availability of Affordable Housing. Strengthening the Delivery of HUD-Funded Rental Assistance and Assistance Provided Through the Low-Income Housing Tax Credit

(c) Promoting Self-Sufficiency Among Residents of Public and Assisted Housing

(d) Meeting the Housing-Related Needs of the Elderly

(e) Meeting the Housing-Related Needs of Persons with Disabilities

(f) Improving Housing Quality and Affordability through Technology and Design

(3) Strengthen Communities

(a) Ending Chronic Homelessness

(b) Preventing Homelessness

(c) Strengthening Cities

(d) Meeting the Housing and Community and Economic Development Needs of Residents of High-Needs Areas, including the Colonias, Appalachia, the Mississippi Delta, and Tribal Areas.

(4) Ensure Equal Opportunity In Housing

(a) Reducing Housing Discrimination

(b) Improving Housing Accessibility for Persons with Disabilities

(5) Embrace High Standards Of Ethics, Management And Accountability

(a) Reducing Fraud, Waste and Abuse in HUD-Funded Programs

(b) Improving the Effectiveness of HUD Programs Through Program Evaluations

(6) Promote Participation Of Faith-Based And Community Organizations

(a) Strengthening the Capacity of Faith-Based and Community Organizations

(B) Eligible Applicants

Doctoral students must demonstrate they meet the requirements listed under the grant program in this NOFA which they are requesting funding.

Early Doctoral Student Research Grant Program (EDSRG). Doctoral students applying for funding under this program must meet the following requirements:

(a) Be a U.S. citizen or resident alien currently enrolled, as a full-time student at an accredited doctoral program at an accredited institution of higher education (recognized by the U.S. Department of Education);

(b) Have a major or concentration within a field related to housing and urban development;

(c) Have not taken the preliminary/comprehensive examinations;

(d) Completed at least two semesters or three terms of a doctoral studies program (depending on the course structure of the institution);

(e) Have an assigned faculty advisor to supervise the research manuscript (provide the advisor's name, address, phone number, facsimile number, and email address);

(f) Submit support letters/documentation from the chairperson of the doctoral student's department that confirms the student meets all of the conditions above and that the proposed research manuscript can be completed within the one-year grant period; and

(g) Provide a support letter from the institution that includes in detail the type of support the university is providing. Such support might include tuition waivers, office space, equipment, computer time, assumption of indirect costs, or similar items the doctoral student might need in order to complete the required product. This support may not replace support or assistance the institution would otherwise provide to the student.

Doctoral Dissertation Research Grant Program (DDRG). Doctoral students applying for funding under this program must meet the following requirements:

(a) Be a U.S. citizen or resident alien (student) currently enrolled and matriculated who has been accepted into candidacy in an accredited doctoral program at an accredited institution of higher education recognized by the U.S. Department of Education;

(b) Developed an approved dissertation proposal;

(c) Provide documentation from the dissertation committee chairperson that confirms the following information;

(1) By the application due date, the student's dissertation proposal has been accepted by the full dissertation committee and the student has been assigned a dissertation advisor (provide the advisor's name, address, phone number, facsimile number, and email address);

(2) By September 1, 2003, the student will have satisfactorily completed all other written and oral Ph.D. requirements, including all examinations and defense of the proposal, except the dissertation; and

(3) The proposed dissertation can be completed within the two-year grant period.

(d) Provide a support letter from the institution that includes in detail the type of support the university is providing. Such support might include tuition waivers, office space, equipment, computer time, assumption of indirect costs, or similar items the student might need in order to complete the required product. This support may not replace support or assistance the institution would otherwise provide to the student.

(C) Eligible Activities

Grant funds awarded for programs in this NOFA must be used to support direct costs incurred in the timely completion of the research product. Eligible costs include stipends, computer software, purchase of data, travel expenses to collect data, transcription services, and compensation for interviews.

(D) Ineligible Activities

Grant funds awarded for programs under this NOFA may not be used to pay for tuition, computer hardware, or meals.

IV. Program Requirements

(A) Threshold Requirements

All applicants requesting funding from programs under this NOFA must be in compliance with the applicable threshold requirements found in Section V of the General Section of the SuperNOFA and the requirements listed below to be evaluated, rated, and ranked. Applications that do not meet these requirements will be considered ineligible for funding and will be disqualified.

(1) The doctoral student is eligible to apply (as defined in Section III (B) above) for the program for which they are requesting funding;

(2) University sponsorship. The university shall enter into a Grant Agreement with HUD that provides for payment of the grant by HUD to the university and from the university to the approved doctoral student, and that further provides all required certifications and assurances. The university shall agree to provide as the Principal Investigator under the Grant Agreement a dissertation advisor or chairperson of the doctoral student's dissertation committee who shall supervise the student's work under the Grant Agreement.

(3) The student has provided a letter from the department chairperson confirming the applicant is eligible as outlined in Section III (B).

(4) The student's institution has provided a letter agreeing to provide support and outlines the specific type of support they will provide as part of this grant as defined in Section III (B).

(5) The student has requested no more funding than the grant maximum allocated as defined in Section II Amount Allocated, Grant Size and Term, and Performance Period.

(B) Program Specific Requirements

Early Doctoral Student Research Grant Program (EDSRG). Three thousand dollars of the grant funds will be held until the doctoral student's research manuscript has been completed and accepted for presentation at a conference or publication in a refereed journal by the end of the grant period, or a committee of three faculty members (including the faculty sponsor, as the principal investigator of the grant) has determined and certified to HUD that the manuscript is of high quality and worthy of submission to conferences or journals and two copies of the research product are submitted to HUD in its final version.

Doctoral Dissertation Research Grant Program (DDRG). Six thousand dollars of the grant funds will be held until the doctoral student's dissertation has been completed, approved by the committee, and two final copies are submitted to HUD in its final version.

Note: Institutions that have had previously awarded grants under these programs terminated for non-performance and have outstanding funds owed to HUD resulting from the termination will be excluded from competition until the outstanding funds are repaid (Applicants must comply with the Delinquent Federal Debt Requirement as defined in Section V (B)(4) of the General Section of the SuperNOFA).

(C) Other Requirements (applicable to both grant programs)

(1) Progress reporting. All recipients of grant funds for programs in this NOFA are required to submit a report, halfway through the grant period, on the progress to date that has been made towards completion of the research product and the likelihood that it will be completed on time.

V. Application Selection Process

(A) Two Types of Reviews Will Be Conducted

(1) A threshold review to determine a student's eligibility to apply; and

(2) A technical review to rate the student's application based on the rating factors in this section.

(B) Threshold Criteria for Funding Consideration

Doctoral students must meet all of the threshold requirements listed above and the General Section of the SuperNOFA to be evaluated, rated, and ranked. Applications that do not meet these requirements will be considered ineligible for funding and will be disqualified.

(C) Final Selection

In order to be funded, an application must receive a minimum score of 75 points. HUD will fund applications under each program in rank order, until all available program funds are awarded. If two or more applications have the same number of points, the application with the higher points for Factor 1, Capacity to do the Research, shall be selected. If there is still a tie, the application with the higher points for Factor 2, Need for the Research, shall be selected.

(D) Factors for Award Used to Evaluate and Rate Applications

The factors for rating and ranking an application and the maximum points available for award for each factor are provided below. Doctoral students applying for either program must address these factors. Applications must receive a minimum of 75 points out of the total 100 maximum points available for each program. The RC/EZ/EC bonus points described in the General Section of the SuperNOFA do not apply to these research programs.

Rating Factor 1: Capacity to do the Research (20 points)

In reviewing this factor, HUD will determine the extent to which:

(1) The student's skills and experience are relevant to the proposed research manuscript/dissertation (e.g., course work, teaching, research projects, and presentations);

(2) The student provides a research outline that identifies the preliminary steps that have been undertaken (e.g., literature review, research hypotheses, questions to be answered) to produce the proposed manuscript/dissertation; and

For Early Doctoral Program Applicants only. (3) The proposed research will help to further the student's research skills (i.e., it is relevant to the kinds of projects the student will continue to work on as she/he earns his/her Ph.D.).

For Doctoral Dissertation Research Applicants only. (3) The doctoral student's previous research experience (e.g., graduate-level research projects, presentations at conferences, publications, etc.) is relevant to and supportive of the proposed dissertation.

Rating Factor 2: Need for the Research (35 points)

In reviewing this factor, HUD will determine the extent to which the research manuscript/dissertation will produce policy-relevant information that is directly related to HUD's research priorities and/or annual goals and objectives as defined in the General Section of the SuperNOFA (i.e., the research that will be produced could have an effect on HUD's strategic goals and programs and policies to achieve these goals). The more direct the relationship is between the doctoral student's manuscript/dissertation and one of these topics, the higher number of points awarded. For example a study of minorities' housing choice decisions would have high relevance to HUD's strategic goals; a study of transportation inequities would have medium relevance; and a study of the effects of global warming on urban development would have low relevance.

Rating Factor 3: Soundness of Approach (35 points)

In reviewing this factor, HUD will determine the extent to which:

(1) The research design and methodology proposed is likely to produce data and information that will successfully answer the research hypothesis;

(2) The methodology proposed is sound and generally accepted by the relevant research community and is in line with research already completed or existing publications in the field as they relate to the scholarly standard for the research questions; and

(3) The research and production of the research manuscript/dissertation can feasibly be completed within the grant performance period. Efforts on the part of the doctoral student who proposes extremely complex and time-consuming data collection efforts (e.g., major longitudinal studies or a very large number of site visits within the grant period) will be determined less feasible for completion within the allotted grant period. For example, if the proposed methodology is based on information that may not be publicly available until after the end of the grant period (e.g., Census information), or a data collection plan that will take longer than the allotted grant period, zero points will be awarded for this factor.

Rating Factor 4: Issuance of the Research Product (10 points)

An important purpose of these programs is to fund research that may impact federal problem solving and policymaking and is relevant to HUD's policy priorities and annual goals and objectives (See the General Section of the SuperNOFA for discussion). In reviewing this factor, HUD will evaluate the likelihood that the research will be completed and suitable for presentation at a conference or publication in a refereed journal by the end of the grant period. HUD will also evaluate the student's plan to disseminate the research through other means, e.g., seminars, university publications, or relevant Internet listserves.

VI. Application Submission Requirements

(A) Content of Application. The application package must include an original signed application, three copies, and one computer disk (in Word 6.0 or higher) of the items listed below. In order to be able to recycle paper, doctoral students should not submit applications in bound form; binder clips or loose-leaf binders are acceptable. Please do not use colored paper. The application narrative must not exceed 15 pages in length (excluding forms and assurances) and must be submitted on 8½ by 11-inch paper, double-spaced on one side of the paper, and printed in a standard Times Roman 12-point font. Each page should be numbered, section tabbed, and the name of the student and university on each page. The double-spacing requirement applies to all parts of an application including agreements. Please note that although submitting pages in excess of the page limit will not disqualify the application, HUD will not consider the information on any excess page. This may result in a lower score or failure to meet a threshold

Applications must contain the items listed in this section in the order shown below. There is no separate Application Kit for these programs.

(1) Transmittal Letter. This letter is from the student and must contain the following information: (a) Student's home address, telephone number, and email address; (b) Student's address, telephone number, facsimile number and email address at the university; (c) University's name, department, mailing address, telephone and facsimile number; and (d) The faculty advisor's name, title, department, address, telephone number, facsimile numbers, and email address—This must be the person who will serve as the Principal Investigator for the grant.

(2) HUD-424 (“Application for Federal Assistance”) Instructions for completing this form are found on the back of the first page of the form. Please remember the following: (a) The full grant amount should be entered in block 15, not the amount for one year, (b) Include the name, title, address, telephone number, facsimile number, and email address of the person authorized to execute the grant agreement in Block 5, (c) Include the institution's tax ID number in Block 6. The form should be signed by the appropriate university official, and (d) Block 10, the Catalog of Federal Domestic Assistance Number for the program funding is being requested. The Catalog of Federal Domestic Assistance (CDFA) number (block 10) for each program is as follows:

Early Doctoral Student Research Grant Program is 14.517

Doctoral Dissertation Research Grant Program is 14.516

(3) Table of Contents.

(4) Application Checklist (See Appendix A)

(5) Executive Summary (500 words or less). The Executive Summary should, at a minimum, include a summary of the proposed research project that addresses the following topics: (a) Specific purpose of the manuscript/dissertation; (b) Methodology being used; and (c) How the student meets the eligibility criteria for the program from which she/he is requesting funding.

(6) Narrative statement responding to the Factors for Award in Section V. The narrative of application must not exceed 15 pages, double-spaced, typed in standard Times Roman 12-point font, and be submitted on one side of 8½-by 11-inch paper. HUD will use the narrative response to the Factors for Award to rate and rank an application. This statement is the main source of information; therefore, it is very important that the student becomes fully familiar with the rating factors above for the program from which he/she is requesting funding. The narrative should be numbered in accordance with each factor and subfactor.

(7) Department Chairperson Support Letter. This letter must provide a statement from the doctoral student's department chairperson verifying the doctoral student has met all the eligibility criteria described in Section III (B).

(8) University Support Letter. This letter must provide a statement from the appropriate official at the university that describes in detail the type of support the university will be providing, as described in Section III (B). Please remember that this support may not replace support nor assistance that the institution would otherwise provide the student.

(9) Budget. The budget presentation should be consistent with the Statement of Work. (See Appendix B for a sample.)

(10) Additional Required Assurances and Certifications. These forms can be downloaded from the HUD website at www.hud.gov.

(a) Applicant Assurances and Certification (HUD-424B) (if applicable)

(b) Disclosure of Lobbying Activities (SF LLL) (if applicable)

(c) Acknowledgment of Receipt of Applications (HUD-2993). To confirm that HUD received the student's application, please complete this form. This form is optional.

(d) Client Comments and Suggestions (HUD 2994). This form is included so that we can solicit information from the most valuable source—the student, or customers. If the student completes and submits this form, it will help HUD to assess whether the changes made to this document have had the intended results. It will also guide us in our continuing efforts to improve the competitive grant process. This form is optional and can be completed by the student.

VII. Correction to Deficient Applications

After all application selections have been made, HUD may require the student to participate in negotiations to determine the specific terms of the Statement of Work and the grant budget. In cases where HUD cannot successfully complete negotiations, or the student fails to provide HUD with requested information, an award will not be made. Students must submit clarifications or corrections of technical deficiencies in accordance with the information provided by HUD within 14 calendar days of the date of receipt of the HUD notification. (If the due date falls on a Saturday, Sunday or federal holiday, the correction must be received by HUD on the next day that is not a Saturday, Sunday or federal holiday.) If the deficiency is not corrected within this time period, HUD will reject the application as incomplete, and it will not be considered for funding. In such instances, HUD may elect to offer an award to the next highest-ranking application, and proceed with negotiations with that student.

VIII. Environmental Requirements

The provision of assistance under these programs is categorically excluded from environmental review under the National Environmental Policy Act of 1969 (42 U.S.C. 4321) and not subject to compliance actions for related environmental authorities under 24 CFR 50.19(b)(1) and (b)(9).

IX. Other Matters

(1) Applicants must comply with the requirements for funding competitions established by the HUD Reform Act of 1989 (42 U.S.C. 3531 et seq.) as defined in the General Section of the SuperNOFA.

(2) Debriefing. The General Section of the SuperNOFA provides the procedures for requesting a debriefing. All requests for debriefings must be made in writing and submitted to Armand Carriere of HUD's Office of University Partnerships, Robert C. Weaver Building, 451 7th ST. SW., Room 8106, Washington DC 20410. Doctoral students may also write to Mr. Carriere via the Internet at Armand_W._Carriere@hud.gov.

X. Authority

These programs are being undertaken under HUD's research authority under Title V of the Housing and Urban Development Act of 1970.

Appendices A and B

The application checklist and sample budget are included in Appendices A and B.

Funding Availability for the Community Development Work Study Program

Program Overview

Purpose of the Program: To provide assistance to economically disadvantaged and minority graduate students who participate in community development work study programs, are U.S. citizens or resident aliens, and are enrolled full-time in a graduate community building academic degree program.

Available Funds: Approximately $2.981 million from Fiscal Year (FY) 2003 Consolidated Appropriation Resolution, (plus any additional funds recaptured from prior appropriations).

Eligible Applicants: Institutions of higher learning accredited by national or regional accrediting agency recognized by the U.S. Department of Education, Area-Wide Planning Organizations (APOs), and states.

Application Deadline: May 27, 2003

Match: None.

Additional Information

Applicants interested in applying for funding under this NOFA should carefully review the General Section of this SuperNOFA and the following additional information. There is no separate Application Kit for this NOFA.

I. Application Due Date and Technical Assistance

Application Due Date. A completed application package is due on or before May 27, 2003, based on the following submission requirements.

Address for submitting applications. A completed application package (one original signed application, three copies, and one computer disk (in Word 6.0 or higher) of the application. This package must be submitted to the following address: Processing and Control Branch, Office of Community Planning and Development, U.S. Department of Housing and Urban Development, 451 Seventh Street, SW., Room 7251, Washington, DC 20410. When submitting an application package, also please include the following information on the outside of the envelope: (a) the Office of University Partnerships, (b) refer to the Community Development Work Study Program, (c) Room number 7251, (d) the applicant's name and mailing address (including zip code), and (e) the applicant's telephone number (including area code).

Mailing and Receipt Procedures. Applicants must refer to the General Section of this SuperNOFA for detailed requirements governing application submission and receipt.

For Further Information and Technical Assistance. Applicants may contact Armand Carriere of HUD's Office of University Partnerships at (202) 708-3061, ext. 3181 or Susan Brunson, at (202) 708-3061, ext. 3852. Hearing-or speech-impaired individuals may call the Federal Information Relay Service at 1-800-877-8339 (this is the only toll-free number). Applicants may also reach Mr. Carriere via e-mail at Armand_W._Carriere@hud.gov and Ms. Brunson at Susan_S._Brunson@hud.gov.

Satellite Broadcast. HUD will hold an information broadcast via satellite for potential applicants to learn more about this program and preparation of the application. For more information about the date and time of this broadcast, consult HUD's website at www.hud.gov.

II. Amount Allocated, Grant Size and Term, and Performance Period

Up to $2.981 million, plus approximately $120,000 in previously unexpended funds and any additional funds recaptured from prior appropriations will be available for funding under this program.

The maximum grant performance period is two years (24 months). The performance period will commence on the effective date of the grant agreement.

Institutions may request no more than $15,000 per year per student for a total of $30,000 for a two-year (24 months) grant performance period. The minimum amount an institution can request is $90,000 (funding for three students) and the maximum amount is $150,000 (funding for five students).

III. Program Description; Eligible Applicants; Eligible Activities and Costs

(A) Program Description

Community Development Work Study Program (CDWSP) funds two-year grants to accredited institutions of higher education, APOs, and states applying on behalf of institutions of higher education to provide assistance to economically disadvantaged and minority graduate students who participate in a community development work study program. Students must be U.S. citizens or resident aliens and enrolled full-time in a graduate community building academic degree program. Grants will cover the academic period August 2003 through August 2005.

(B) Eligible Applicants

Organizations are eligible if they are:

(1) An accredited institution of higher education recognized by the U.S. Department of Education that offers a graduate degree in a community development academic program;

(2) An APO applying on behalf of two or more eligible accredited institutions of higher education recognized by the U.S. Department of Education that are located in the same Standard Metropolitan Statistical Area (SMSA) or non-SMSA as the APO (in accordance with the regulations at 24 CFR 570.415, institutions of higher education are permitted to choose whether to apply independently or through an APO); or

(3) A state applying on behalf of two or more eligible accredited institutions of higher education recognized by the U.S. Department of Education that are located in the state. If a state is approved for funding, accredited institutions of higher education located in that state may not apply independently.

(C) Eligible Activities and Costs

Applicants may request no more than $15,000 per year per student, for a total of $30,000 for two years. The total is broken down per year as follows: an administrative allowance of $1,000 per student per year; a work stipend of no more than $9,000 per student per year; and tuition, fees, and additional support of no more than $5,000 per student per year.

IV. Program Requirements

In addition to the program requirements listed in the General Section of this SuperNOFA, applicants must meet the following program requirements.

(A) Statutory Requirements. Applicants must comply with all statutory and regulatory requirements applicable to this program. CDWSP regulations can be found at 24 CFR 570.415. Copies of the regulations are available on request from HUD User (www.HUDUSER.org).

(B) Recipient/Student Bonding Agreement. This agreement should cover the purpose of the work placement, responsibilities of both parties, including financial support and work component. This agreement should also address the student's responsibilities as described in the program regulations.

(C) Recipient Workplace Agreement. This agreement should cover the purpose of the work placement and the respective roles of the parties. Among other matters determined to be appropriate, this agreement should address the work placement agency's responsibilities described in the program regulations.

(Note: HUD does not provide a model or sample format for either of these agreements).

V. Application Selection Process

(A) Two Types of Reviews

Two types of reviews will be conducted:

(1) A threshold review to determine an applicant's eligibility; and

(2) A technical review based on the “Factors for Award” rating factors listed in Section V below.

Only those applications that pass the threshold review will receive a technical review and be rated and ranked.

(B) Threshold Criteria for Funding Consideration

All applicants must be in compliance with the threshold requirements as defined in the General Section of this SuperNOFA and the requirements listed below to be evaluated, rated, and ranked. Applications that do not meet these requirements will be considered ineligible for funding and will be disqualified:

(1) Eligibility. Applicants must be eligible to apply for the program (Sec. III B). In an effort to expand the program to include a greater variety of institutions, institutions that received grants in FY 2002 (independently or through an APO or state) are not eligible to submit an application.

(2) Eligibility of the Degree Program. An eligible community building academic program includes but is not limited to accredited graduate degree programs in community and economic development, community planning, community management, public administration, public policy, urban economics, urban management, and urban planning. An eligible community building academic program excludes social and humanistic fields such as law, economics (except for urban economics), education, sociology, social work, business administration, history, and joint degree programs except where both joint degree fields have the purpose and focus of educating students in community building. Applicants are encouraged to contact Armand Carriere or Susan Brunson at the above listed telephone numbers if they have any questions about eligibility of a proposed degree program.

(3) Number of students to be assisted. The minimum number of students that may be assisted per participating institution is three. If an APO or state receives assistance for a program that is conducted by two or more institutions, each participating institution must have a minimum of three students per program. The maximum number of students that can be assisted under this program is five per participating institution.

(4) Graduation rates. If an applicant received funding during the FY 2000 round, at least 50 percent of the students assisted must have graduated. This round of funding covered the school years August 2000 to August 2002. To address this requirement an applicant must submit a copy of the final Community Development Work Study Program Student Data Sheet, HUD-30007, for each student that received assistance from the program. This rate must be achieved two weeks prior to the application submission date of this NOFA. Institutions funded under the FY 2000 CDWSP funding round that cannot verify such a rate will be excluded from participating in the FY 2003 funding competition.

(5) Budget. Submit a completed budget Form HUD-30015 (Community Development Work Study Program Student Budget Sheet) for the August 2003 through August 2005 funding period. Applicants may request no more than a total of $15,000 per year per student and funding for no more than five or fewer than three students per institution of higher education. An APO and/or state must also complete the HUD 30014 (Community Development Work Study Program State/Areawide Planning Organization Budget Summary).

(6) Compliance with nondiscrimination requirements. All applicants and their subrecipients must comply with all Fair Housing and civil rights laws, statutes, regulations and executive orders as enumerated in 24 CFR 5.105(a). In addition, applicants must comply with Title X of the Education Amendments Act of 1972 (2 U.S.C. 1681 et seq.). HUD will not approve an application for funding under this NOFA if, as of the due date, the applicant:

(a) Has been charged with a systemic violation of the Fair Housing Act alleging ongoing discrimination;

(b) Is the defendant in a Fair Housing Act lawsuit filed by the Department of Justice alleging an ongoing pattern or practice of discrimination; or

(c) Has received a letter of noncompliance findings identifying on-going or systemic noncompliance, under Title VI of the Civil Rights Act, Section 504 of the Rehabilitation Act, or Section 109 of the Housing and Community Development Act; and if the charge, lawsuit, or a letter of findings has not been resolved to HUD's satisfaction before the application deadline stated in this NOFA, the applicant may not apply for assistance under this program. HUD will not rate and rank the application. HUD's decision regarding whether a charge, lawsuit, or letter of findings has been satisfactorily resolved will be based upon whether appropriate actions have been taken to address allegations of ongoing discrimination in the policies or practices involved in the charge, lawsuit, or letter of findings. Examples of actions that may be taken prior to the application due date to resolve the charge, lawsuit, or letter of finding include, but are not limited to:

(i) A voluntary compliance agreement signed by all parties in response to the letter of findings;

(ii) A HUD-approved conciliation agreement signed by all parties;

(iii) A consent order or consent decree; or

(iv) A judicial ruling or a HUD Administrative Law Judge's decision that exonerates the respondent of any allegations or discrimination.

(C) Factors for Award Used to Evaluate and Rank Applications.

The factors for evaluating, rating, and ranking an application, and the maximum points for each factor, are listed below. The maximum number of points available for this program is 100. To be eligible for funding, an application must have a minimum score of 75 points out of the total possible points. The RC/EZ/EC bonus points described in the General Section of this SuperNOFA do not apply to this program.

Rating Factor 1: Capacity of the Academic Program and Relevant Past Experience (25 points)

This factor addresses the extent to which an applicant's academic program has the capacity to prepare students for careers in community building. In evaluating this factor, HUD will consider:

(1) Capacity of the Academic Program (20 points)for previously unfunded applicants and 15 points for previously funded applicants)

Applicants must describe the quality of the academic program the institution offers (or in the case of an application from an APO or state, those offered by the institutions included in the application) including, without limitation, the:

(a) Quality of the course offerings in terms of their depth and emphasis on applied coursework;

(b) Appropriateness of the courses offered for preparing students for careers in community building; and

(c) Qualifications of the faculty, such as the number of PhD's, and the percentage of their time devoted to teaching and research in community building.

As a supplement to the narrative response, applicants can include photocopies of excerpts from official publications of the educational institution or department. Please make sure to place these documents after the narrative and include them in the page count requirement.

(2) Rates of Graduation (5 points for previously unfunded applicants and 10 points for previously funded applicants)

HUD will evaluate the graduation rates of students previously enrolled in a community building academic degree program, specifically (where applicable) graduation rates from any previously funded CDWSP academic programs or similar programs. This factor measures the rate of graduation for all applicable years and awards points based on the extent to which the applicant exceeds a 50 percent graduation rate each applicable year. Previously funded CDWSP programs should include copies of the final Community Development Work Study Program Student Data Sheet, HUD-30007 for each previously enrolled student that received assistance from the program.

Rating Factor 2: Need for the Program (10 Points)

This factor addresses the extent to which there is a need for funding the proposed program activities and an indication of the importance of meeting the need. In responding to this factor, HUD will evaluate the applicant's commitment to meeting the needs of economically disadvantaged and minority students as demonstrated by the institution's policies and plans, past efforts and successes recruiting, enrolling, and financially assisting economically disadvantaged and minority students, including the provision of reasonable accommodations for students with disabilities. If the applicant is an APO or state, HUD will consider the demonstrated commitment of each accredited institution of higher education on whose behalf the APO or state is applying.

Rating Factor 3: Soundness of Approach (45 Points)

This factor addresses the quality and effectiveness of the proposed student work placement assignments.

(1) Quality of the Work Placement Assignments (13 Points) HUD will evaluate the extent to which participating students will receive a variety of work placement assignments. (Note: Students cannot be placed with a Federal Government agency). The assignments should provide practical and useful experience to students participating in the program and further the participating students' preparation for professional careers in community building. In rating this factor, HUD will consider the quality in terms of the variety of work placement agencies, and the variety of projects/experiences at each agency and overall. Applicants must also include a description of the plan for rotating students among work placement agencies. Note: Students engaging in community building projects through an institution of higher education (rather than being directly supervised by local work placement sites) may do so only through a HUD funded Community Outreach Partnership Center (COPC), which will in that instance be considered a work placement agency even if the community building projects are undertaken with or through a separate organization or entity. Accordingly, students engaging in community building through an institution of higher education's outreach center should do so during only part of their academic program and should rotate to other work placement agency responsibilities as well. In order to receive higher points on this subfactor, applicants must propose at least three different work placement experiences for each student (typically, one each school year and one during the summer between the two school years) and include executed agreements with their proposed work study sites, rather than just listing these sites.

(2) Effectiveness of Program Administration (15 Points) HUD will evaluate the degree to which the applicant will be able to coordinate and administer the program. HUD will allocate the maximum points available under this criterion equally among the following three considerations, except that the maximum points available under this criterion will be allocated equally only between (a) and (b), if the applicant has not previously administered a CDWSP-funded program. If an applicant received a CDWSP grant in FY 1999 or before and has not received one since, the applicant is considered a new applicant, for the purposes of this factor. Applicants must include a Management Work Plan that addresses the following details at a minimum:

(a) The strength and clarity of the plan for placing CDWSP students on rotating work placement assignments and for monitoring CDWSP students' progress both academically and in their work placement assignments. In addition, include plans, procedures, schedules, and preferably a milestone chart that indicates the sequence in which these tasks will be performed, noting areas of work that will be performed simultaneously and continually during the life of the grant, along with the name of the responsible individual. Also, include plans for recruiting and selecting students, monitoring and guidance of students academic progress, coordinating and monitoring student work placement agencies, and other matters deemed significant;

(b) The key personnel responsible for administering, managing, and evaluating the project, the experience, responsibilities, available time, and authority of the individual who will coordinate and administer the program; and

(c) The effectiveness of prior coordination and administration of a CDWSP-funded program, where applicable. In addressing this factor, applicants should describe the timeliness of report submissions. Applicants should review their prior CDWSP grant agreements and reports and compare when reports were due with when the reports actually were submitted. Applicants should also describe their timeliness in drawing down grant funds. Applicants are encouraged to provide a chart that outlines report submissions for each grant by the submission date and the pattern of drawing down of funds.

(3) Likelihood of Fostering Students' Permanent Employment in Community Building (15 Points)

HUD will evaluate the extent to which the proposed program will lead participating students directly and immediately to permanent employment in community building. Include a statement that describes, at a minimum, the following:

(a) Past success in placing graduates (particularly CDWSP-funded and similar program graduates, where applicable) in permanent employment in community building; and

(b) How the institution will assist students (particularly students in CDWSP-funded and similar programs, where applicable) in finding permanent employment in community building. Include the amount/type of faculty/staff time and resources that will be devoted to assisting students.

(4) HUD 2003 Policy Priorities (2 Points). The extent to which an applicant provides students with work place assignments that undertake specific activities that will further and support HUD's policy priorities and FY 2004 goals. In rating this factor, HUD will evaluate the quality of the responses provided to one or more of HUD's priorities to determine the score an applicant will receive. For each policy priority addressed an applicant can receive one point. Applicants cannot receive more than two points.[S1] For a full list and explanation of each priority, please refer to the General Section of this SuperNOFA.

Rating Factor 4: Leveraging Resources (10 points)

HUD will evaluate the applicant's commitment and ability to assure that CDWSP students will receive sufficient financial assistance above and beyond the CDWSP funding to complete their academic program in a timely manner and without working in excess of 20 hours a week during the school year. When addressing this issue, delineate the full costs budgeted annually per student (including living expenses, fees, etc), explain the basis for the budget and how the financial assistance package offered to each CDWSP student will meet that budget. Applicants must explain how variations in the budget needs and emergency financial needs will be addressed among students. Loans are less preferred than grants because of the burden placed on the student to repay them. Therefore, higher points will be given to applicants that provide assistance in the form of grants rather than loans.

Rating Factor 5: Achieving Results and Program Evaluation (10 Points)

HUD will evaluate the extent to which an applicant identifies program activities, outcomes, interim benchmarks, and performance indicators that will describe how performance will be measured. Applicants must also describe the steps that will be taken to make adjustments to the work plan if performance targets are not met within the established timeframe associated with each activity. At a minimum, the evaluation plan should address the following activities:

(a) Student recruitment;

(b) Student completion of degree program; and

(c) Long term placement after graduation (1year after graduation).

All performance indicators should be objectively quantifiable and measure actual achievements against anticipated achievements. This information should be provided in a Logic Model format. This form and information on how to use it can be found in the General Section of this SuperNOFA.

VI. Application Submission Requirements

(A) Content of Application. The application package should include one original signed application, three (3) copies, and one computer disk of the application (in Word 6.0 or higher) of the items listed below. In order to be able to recycle paper, applicants should not submit applications in bound form; binder clips or loose-leaf binders are acceptable. Also, please do not use colored paper. The application narrative must not exceed 50 pages in length (excluding forms and assurances) and must be submitted on 8½ by 11-inch paper, double-spaced on one side of the paper, and printed in a standard Times Roman 12-point font. The double-spacing requirement applies to all parts of the program narrative, including agreements and tables (photocopies of excerpts from official publications of the educational institution or department are excluded from this requirement). Please do not provide any additional exhibits, appendices, or resumes to support responses. No additional attachments are permitted. Please note that although submitting pages in excess of the page limit will not disqualify an application, HUD will not consider the information on any excess page. This may result in a lower score or failure to meet a threshold. Please make sure that all items are submitted in the order listed below and all pages numbered. Except where a particular form may direct otherwise, all forms included in the application, as well as the transmittal letter, must be signed by the Chief Executive Officer (this is generally the President or Provost) or an official designee legally authorized to make a commitment on behalf of the institution. If a designee signs, the application must contain a copy of the official delegation of signatory authority.

(1) Transmittal Letter. This letter must contain the following:

(a) A statement assuring that the institution of higher education (not the department or program) that will be receiving funds under this grant is fully accredited. The letter must state not only the name of the accrediting agency but also that the particular accrediting agency is recognized by the U.S. Department of Education. If a state or APO is the applicant, the transmittal letter must set forth this assurance for each institution of higher education with whom they will be working;

(b) The name, title, address, telephone number, fax number, and e-mail address of the Program Director and the individual(s) authorized to legally negotiate on the institution's behalf. All APOs and states must provide this assurance with respect to accreditation for each institution that would participate in their FY 2003 CDWSP grant.

(2) HUD Form 424 (Application for Federal Assistance). When completing this form, please remember the following:

(a) The full grant amount should be entered in block 15, not the amount for the first year;

(b) In designating the contact (in box 5), please include a title, address, telephone number, fax number, and ­e-mail address. This is the person who will be receiving the reviewer comments, so please ensure the accuracy of the address;

(c) Item 10, the Catalogue of Federal Domestic Assistance Number for this program is 14.512; and

(d) The project start date should be August 1, 2003 and the completion date should be August 31, 2005.

(3) Table of Contents.

(4) Application Checklist (See attachment A) fully completed.

(5) Executive Summary—no more than three (3) pages in length. The Executive Summary should, at a minimum, describe:

(a) The academic degree programs for which the students will be selected;

(b) The type of work placement agencies (including specific examples) that have committed to participate in the program (students cannot be placed at a Federal Government agency); and

(c) The plans and resources/facilities for administering the program and assisting students to pursue post-academic or community building opportunities.

(6) Designation of Applicable Graduate Degree Program(s) Form HUD-30013 (Community Development Work Study Program Designation of Applicable Graduate Academic Degree Program). Review carefully the regulations dealing with eligible types of degree programs before completing this form. If the proposed program is other than one listed as an eligible degree program, please contact Armand Carriere or Susan Brunson for additional guidance.

(7) Narrative statement addressing the Factors for Award in Section V. The application narrative must not exceed 50 pages in length (excluding required forms and assurances) and must be submitted on 8½ by 11-inch paper, double-spaced on one side of the paper, and printed in a standard Times Roman 12-point font. The double-spacing requirement applies to all parts of the program narrative, including agreements and tables (photocopies of excerpts from official publications of the educational institution or department are excluded from this requirement). Please do not provide any additional exhibits, appendices, or resumes to support your responses. No additional attachments are permitted. Please note that although submitting pages in excess of the page limit will not disqualify an application, HUD will not consider the information on any excess page. Failure to comply with this requirement may result in a lower score or failure to meet a threshold. This statement is the main source of information used to rate and rank an application; therefore, it is very important to become fully familiar with the rating factors above. In each factor there may be subfactors. Each subfactor should be presented separately, with the short tile of the subfactor and sufficient information about every element of the subfactor. The response to each factor and subfactor should be concise and contain only relevant information, but detailed enough to address each factor fully. Please do not repeat material in response to the factors and subfactors.

(8) Budget. Use the budget form HUD 30015 (Community Development Work Study Program Student Budget Sheet) for the August 2003 through August 2005 funding period. Applicants may request no more than a total of $15,000 per year per student for five students and no fewer than three students per institution of higher education. An APO and/or state must also complete the HUD 30014 (Community Development Work Study Program State/Area-wide Planning Organization Budget Summary). Please provide any necessary back-up documentation (e.g., pages from course catalogues listing the fees) to demonstrate concisely that the amounts requested are reasonable and customary. Applicants are not required to submit documentation for the administrative allowance amount. Any anticipated increases to these project costs should be included and an explanation for the basis of the increases provided. If documentation is not included, the award amount will be based on current tuition rates, regardless of any subsequent tuition increase. HUD will not increase the amount of the grant once awarded to reflect any tuition or fee increases that have not been set forth in the application. Also, HUD will not cover any costs exceeding the per-student maximum.

(9) Additional required Assurances and Certifications.

(a) Applicant Assurances and Certifications (HUD-424B) if applicable.

(b) Applicant/Recipient Disclosure Update Report (HUD-2880).

(c) Assurance Regarding the Applicant's Financial Management Systems.

(d) Acknowledgement of Applicant Receipt (HUD-2993)

(e) Client Comments and Suggestions (HUD-2994).

(B) Rating Panels. To review and rate applications, the Department may establish panels including persons not currently employed by HUD to obtain certain expertise and outside points of view, including views from other Federal agencies.

(C) Selections. If an application passes the threshold requirement review, it will be rated and then ranked based on the total score it received on the rating selection factors. Applications will be considered for selection based on their rank order. HUD may make awards out of rank order to achieve geographic diversity, and may provide assistance to support a number of students that is less than the number requested under an application or a lower funding level per student, in order to provide assistance to as many highly ranked applications as possible.

The minimum fundable score is 75 points. If there is a tie in the point scores of two applications, the rank order will be determined by the scores on Rating Factor 3 entitled “Soundness of Approach.” The application with the higher points on this factor will be given the higher rank. If there is still a tie, the rank order will be determined by the applicants' scores on Rating Factor 1 entitled “Capacity of the Applicant's Academic Program and Relevant Past Experience.” The application with the higher points for this selection factor will be given the higher rank.

If there are insufficient funds to fund an application, even if the request is reduced to the minimum number of students that could be funded (i.e., three students per institution of higher education), HUD may select the next ranked application that would not exceed the funding left available and still fund the minimum number of students allowed.

If funds remain after funding the highest ranked applications that can be fully funded, HUD may fund part of the next highest-ranking application (as long as it would provide assistance to the minimum number of students required to be served) in a given program area. If an applicant turns down the award offer, HUD will make the same determination for the next highest-ranking application. If funds remain after all selections have been made, the remaining funds will be carried over to the next funding cycle's competition.

(1) Applicants must comply with the requirements for funding competitions established by the HUD Reform Act of 1989.

(D) Debriefing. The General Section of the SuperNOFA provides the procedures for requesting a debriefing. All requests for a debriefing must be made in writing and submitted to Armand W. Carriere, Acting Director, Office of University Partnerships, Robert C. Weaver Building, 451 7th Street SW., Room 8106, Washington, DC 20410.

(E) Disclosures. HUD will make available to the public for five years all applicant disclosure reports (HUD Form 2880) submitted in connection with this NOFA. Update reports (also Form 2880) will be made available along with the applicant disclosure reports, but in no case for a period less than three years. All reports—both applicant disclosures and updates—will be made available in accordance with the Freedom of Information Act (5 U.S.C. 552) and HUD's implementing regulations at 24 CFR part 15.

(F) Negotiations. After selections have been made, HUD may require winners to participate in negotiations to determine the Grant Budget. In cases where HUD cannot successfully conclude negotiations, or an applicant fails to provide HUD with the requested information, an award will not be made. In such instances, HUD may elect to offer an award to the next highest-ranking applicant, and proceed with negotiations with the next highest applicant.

VII. Corrections to Deficient Applications

The General Section of the SuperNOFA provides the procedures for corrections to deficient applications.

VIII. Environmental Requirements

This NOFA does not direct, provide for assistance or loan and mortgage insurance for, or otherwise govern or regulate real property acquisition, disposition, leasing, rehabilitation, alteration, demolition, or new construction, or establish, revise, or provide for standards for construction or construction materials, manufactured housing, or occupancy. Accordingly, under 24 CFR 50.19(c)(1), this NOFA is categorically excluded from environmental review under the National Environmental Policy Act of 1969, as amended (42 U.S.C. 4321) and 24 CFR 50.19(b)(3) and (b)(9).

IX. Other Matters

The provisions of the HUD Reform Act of 1989 that apply to this NOFA are explained in the General Section of the SuperNOFA.

X. Authority

Section 107(c) of the Housing and Community Development Act of 1974, as amended (42 U.S.C. 5301 et seq.) authorizes CDWSP. Regulations for the program appear at 24 CFR part 57.

Funding Availability for the Fair Housing Initiatives Program (FHIP)

Program Overview

Purpose of the Program. To increase compliance with the Fair Housing Act (the Act) and with substantially equivalent State and local fair housing laws.

Available Funds. Approximately $20,118,375 in FY 2003 funds and any potential recapture is allocated to three (3) initiatives as follows:

A. Private Enforcement Initiative (PEI) $10.2 million

B. Education and Outreach Initiative (EOI) $5.318 million.

C. Fair Housing Organizations Initiative (FHOI) $2.1 million.

Approximately $2.5 million will be used for contracts including the continuation of activities for the third option year under the Project for Training and Technical Assistance Guidance (PATTG) and in furtherance of fair housing education and outreach to meet HUD's Minority Serving Institution (MSI) goals. The funds for PATTG were announced under a previous solicitation. The funds to further the Department's goals to work with MSIs will be announced under a separate solicitation.

Eligible Applicants. Eligibility requirements are described in detail under each of the funded initiatives and components, set forth below

Application Deadline. June 5, 2003.

Match: No matching funds are required for the Education and Outreach or Private Enforcement Initiatives. However, sponsored organizations under FHOI must meet the requirements described in Section IV (D) below.

Additional Information

If you are interested in applying for funding under the Fair Housing Initiatives Program (FHIP), please review carefully the General Section of this SuperNOFA (hereafter, the General Section), the FHIP Authorizing Statute (Sec. 561 of the Housing and Community Development Act of 1987, as amended), the FHIP Regulations (24 CFR 125.103-501), and the following additional information:

I. Application Due Date, Further Information, and Technical Assistance

Application Due Date. You must submit a completed application (one original and three copies) for the specific initiative and component for which you are applying on or before June 5, 2003, to the HUD Headquarters building, at the address shown below.

Application Submission Procedures. See the General Section of the SuperNOFA for specific procedures governing the submission and receipt of applications.

Address for Submitting Applications. Your application consists of an original signed application form (HUD-424) and all items listed in the Checklist (See Section IV and Appendix C for all submission requirements). Mail your completed application (one original and three copies) to:

FHIP SuperNOFA 2003 [Specify the Initiative/Component to which you apply], FHIP/FHAP Support Division, Office of Fair Housing and Equal Opportunity, U.S. Department of Housing and Urban Development, 451 Seventh Street, SW., Room 5224, Washington, DC 20410.

For Further Information and Technical Assistance. You may contact Myron P. Newry or Denise L. Brooks of the FHIP/FHAP Support Division, at 202-708-0800 (this is not a toll-free number). Persons with hearing or speech impairments may contact the Division by calling 1-800-290-1617 (this is a toll-free number). Contained in Appendix A of this NOFA is a Question and Answer section. Please review this section for answers to some of your questions.

Satellite Broadcast. HUD will hold an information broadcast via satellite for prospective applicants to learn more about the program and preparing applications. For more information about the date and time of this broadcast, you should consult the HUD web site at http://www.hud.gov/grants.

II. Amounts Allocated

In Fiscal Year 2003, $20,118,375 was appropriated for the Fair Housing Initiatives Program. Of this amount, $17,618,375 is being made available on a competitive basis to eligible organizations responding to this FHIP program section of the SuperNOFA. The remaining approximately $2,500,000 will be used for a continuation of activities for the third option year under the Project for Training and Technical Assistance Guidance (PATTG) and the awarding of a new contract in furtherance of a fair housing education and outreach effort in partnership with Historically Black Colleges and Universities (HBCU) with law schools. The amount available for each initiative or component and the maximum amount of funds that can be awarded for each grant are specified as follows:

(A) Private Enforcement Initiative (PEI). Approximately $10,200,000 is allocated; maximum award is $275,000 per grant; project duration is 12 to 18 months.

(B) Education and Outreach Initiative (EOI). Approximately $5,318,375 is allocated. This Initiative has five (5) components. Approximately $4,818,375 is allocated to four (4) components under the EOI Regional/Local/Community-Based (R/L/CB) Program. The maximum award is $100,000 for the R/L/CB Program and the project duration is 12 to 18 months. These four components are as follows:

(1) EOI—General Component. Approximately $3,018,375 is allocated.

(2) EOI—Disability Component. Approximately $900,000 is allocated.

(3) Hispanic Fair Housing Awareness Component. Approximately $450,000 is allocated.

(4) Fair Housing and Minority Homeownership Component. Approximately $450,000 is allocated.

The fifth Component falls under the EOI—National Program:

(5) Codes Component. Approximately $500,000 is allocated. The maximum award for the EOI National Program—Model Codes Component is $500,000 and the project duration is 24 months.

(C) Fair Housing Organizations Initiative (FHOI). Approximately $2,100,000 is allocated; project duration is three years. Maximum award is $1,050,000 allocated over a three year period at up to $350,000 per year.

III. Program Description; Eligible Applicants; Eligible Activities

(A) Program Description. The Fair Housing Initiatives Program (FHIP), 24 CFR part 125, assists fair housing activities that increase compliance with the Fair Housing Act (the Act) and with the substantially equivalent fair housing laws administered by state and local government agencies (Fair Housing Assistance Program Agencies (FHAP)). Applications submitted for funding under EOI are required to describe a complaint referral process that should result in referrals to HUD of fair housing complaints and other information regarding discriminatory housing practices. HUD's recently published Housing Discrimination Study found that discrimination against Hispanic renters appears to have remained essentially unchanged since 1989. To address this issue, HUD has created a separate Component under EOI to provide effective bilingual fair housing education and outreach to Hispanics; however, grantees may not deny services to a client who is not Hispanic. For the Fair Housing and Minority Homeownership Component, HUD wants to educate people on the Fair Housing Act and how to prepare for homeownership.

(B) Program Definitions. The definitions that apply to this FHIP section of the NOFA are as follows:

Broad-based proposals are those that include activities that are not limited to a single fair housing issue; instead, they cover multiple issues related to housing discrimination covered under the Act, such as: Rental, sales and financing of housing. (See also Full Service Projects below)

Colonias (See General Section).

Complainant means the person (including the Assistant Secretary for FHEO) who files a complaint under Section 810 of the Act.

Disability advocacy groups mean organizations that traditionally have provided for the civil rights of persons with disabilities. This would include organizations such as Independent Living Centers, and cross-disability legal services groups. Such organizations must be experienced in providing services to persons with a broad range of disabilities, including physical, cognitive, and psychiatric/mental disabilities. Such organizations must demonstrate actual involvement of persons with disabilities throughout their activities, including on staff and board levels.

Enforcement proposals are potential complaints under the Act that are timely, jurisdictional, and well-developed, that could reasonably be expected to become enforcement actions if an impartial investigation finds evidence supporting the allegations and the cases proceeded to a resolution with HUD or FHAP Agency involvement.

Fair Housing Act means Title VIII of the Civil Rights Act of 1968 as amended by the Fair Housing Amendments Act of 1988 (42 U.S.C. 3600-3620).

Fair Housing Assistance Program (FHAP) Agencies mean State and local fair housing enforcement government agencies that receive FHAP funds because they administer laws deemed substantially equivalent to the Act, as described in 24 CFR part 115.

Fair Housing Enforcement Organization (FHO) means an organization engaged in fair housing activities as defined in 24 CFR 125.103.

Full-service projects must include the following enforcement-related activities in your project application: Interviewing potential victims of discrimination; analyzing housing-related issues; taking complaints; testing; evaluating testing results; conducting preliminary investigations; conducting mediation; enforcing meritorious claims through litigation or referral to administrative enforcement agencies; and disseminating information about fair housing laws.

Grassroots organizations (See General Section).

Meritorious claims means enforcement activities by an organization that resulted in lawsuits, consent decrees, legal settlements, HUD and/or substantial equivalent agency (under 25 CFR 115.6) conciliations and organization initiated settlements with the outcome of monetary awards for compensatory and/or punitive damages to plaintiffs or complaining parties, or other affirmative relief, including the provision of housing (24 CFR 125.103).

Minority Serving Organization (See General Section).

Operating budget means your organization's total planned budget expenditures from all sources, including the value of in-kind and monetary contributions, in the period for which funding is requested.

Qualified Fair Housing Enforcement Organization (QFHO) means an organization engaged in fair housing activities as defined in 24 CFR 125.103.

Regional/Local/Community-Based Activities are defined at 24 CFR 125.301(a) & (d).

Rural Areas, according to the Rural Housing and Economic Development Program of Community Planning and Development (CPD), may be defined in one of five ways:

(i) A place having fewer than 2,500 inhabitants (within or outside of metropolitan areas).

(ii) A county with no urban population (i.e., city) or 20,000 inhabitants or more; territory, persons and housing units in the rural portions of ‘extended cities.’

(iii) The rural portions of extended cities in the United States as identified by the U.S. Census Bureau.

(iv) Open country that is not part of or associated with an urban area. The United States Department of Agriculture (USDA) describes open country as a site separated by open space from any adjacent densely populated urban area. Open space includes undeveloped land, agricultural land, or sparsely settled areas, but does not include physical barriers (such as rivers or canals) public parks, commercial and industrial developments, small areas reserved for recreational purposes, and open space set aside for future development.

(v) Any place with a population not in excess of 20,000 and that is not located in a Metropolitan Statistical Area.

Traditional Civil Rights Organizations mean non-profit organizations or institutions and/or private entities with a history and primary mission of securing Federal civil rights protection for groups and individuals protected under the Act or substantially equivalent State or local laws and that are engaged in programs to prevent or eliminate discriminatory housing practices.

Underserved Areas mean jurisdictions where there are no Fair Housing Initiatives Program or Fair Housing Assistance Program agencies and where either no public or private fair housing enforcement organizations exist or the jurisdiction is not sufficiently served by one or more public or private enforcement fair housing organizations and there is a need for service.

Underserved Populations mean groups of individuals who fall within one or more of the categories protected under the Act and who are also: (1) Of an immigrant population (especially racial and ethnic minorities who are not English-speaking or with limited English proficiency), (2) in rural populations, (3) persons living in the Colonias, (4) the homeless, (5) persons with disabilities who can be historically documented to have been subject to discriminatory practices not having been the focus of Federal, State or local fair housing enforcement efforts, and (6) areas that are heavily impacted with minorities and there is inadequate protection and ability to provide service from the State or local government or private fair housing organizations.

(C) Changes to this year's FHIP NOFA. A number of changes have been made this year.

(1) All technical deficiencies must be responded to in 5 days from receipt of notice of deficiency;

(2) For EOI, there is one new EOI National Program Component: the Model Codes Component and two new Regional/Local Community-Based Components—the Hispanic Fair Housing Awareness and the Fair Housing and Minority Homeownership Components;

(3) Except for applicants under FHOI, applicants may not submit multiple applications under this NOFA;

(4) All applicants must submit a completed Statement of Eligibility; and

(5) The criteria for awarding points under Rating Factor 2—Need/Distress/Extent of the Problem has been revised for FHOI.

Bonus Points: See General Section VI (C) “Factors For Award Used to Evaluate and Rate Applications” for information on how Bonus Points will be awarded under this SuperNOFA.

(D) Ineligible Activities. (1) Fair Housing and Free Speech. None of the amounts made available under this FHIP Program Section of the SuperNOFA may be used to investigate or prosecute under the Act any activity engaged in by one or more persons, including the filing or maintaining of a non-frivolous legal action that is protected by the First Amendment to the U.S. Constitution. This includes activities engaged in for the purpose of achieving or preventing action by a government official or entity.

(2) Insurance Testing. HUD will fund organizations that conduct insurance-related enforcement work under the FHIP, but no project that focuses exclusively on this issue will be funded.

(3) All Applicants. If a majority (51% or more) of the activities within your application, Statement of Work (SOW), or Budget are ineligible or you propose to carry out ineligible activities that total 51% or more, your application will be ineligible.

(4) Imposed Burdens. Registration fees, fundraising, professional/association dues, publications, and other fees or costs that result in burdens placed on the public being serviced by these awards are prohibited practices.

(E) Objectives. Applicants submitting applications to the Education and Outreach National Program's Model Codes Component and all the Regional/Local Community-Based Initiatives/Component must address all forms of housing discrimination covered under the Fair Housing Act.

For the Model Codes Component, applicants must partner with a Disability Advocacy Group to coordinate with current efforts by HUD to identify jurisdictions where activities can be targeted and education and outreach can be designed to provide technical assistance to these jurisdictions that wish to adopt HUD-recognized Fair Housing Act safe harbor codes. In addition, applicants must identify and coordinate with jurisdictions that want to update their existing codes to incorporate one of the safe harbors.

Lastly, President Bush announced an ambitious plan to help close the homeownership gap by increasing minority homeownership by 5.5 million families before the end of the decade. This year, HUD has included under this NOFA the Fair Housing and Minority Homeownership Component, where applicants must demonstrate the ability to conduct community outreach activities to educate people about their rights under the Fair Housing Act and to prepare them for homeownership. The goal of this Component is to improve access to homeownership by racial and ethnic minorities by educating them about fair housing, the home buying process and generally to help prepare participants for the responsibilities of homeownership.

(F) Eligible Activities. (1) Private Enforcement Initiative (PEI). This Initiative assists private, tax-exempt fair housing enforcement organizations in the investigation and enforcement of alleged violations of the Act and substantially equivalent State and local fair housing laws. As a condition of funding, you will be required to refer to HUD all cases arising from FHIP-funded enforcement activities (see Mandatory Referrals, Section IV below).

(a) Eligible Applicants. Eligible applicants are fair housing enforcement organizations (FHOs) with at least one year of experience in complaint intake, complaint investigation, testing for fair housing violations, and meritorious claims in the two years prior to the filing of this application (24 CFR 125.401(b)(2)) and Qualified Fair Housing Enforcement Organizations (QFHOs) with at least two years of enforcement-related experience, as noted above, and meritorious claims in the three years prior to filing this application, (24 CFR 125.103). You must certify, in the Statement of Eligibility that you submit with this application, that your organization is an FHO or a QFHO and document in the Statement of Eligibility that your organization has the required one or two years of enforcement-related experience. All applicants claiming QFHO and FHO status are required to be a 501(c)(3) tax-exempt organization and also to submit with their application a copy of its Letter of Determination from the Internal Revenue Service (IRS) in support of its 501(c)(3) tax-exempt status.

(b) Eligibility of Successor Organization. HUD recognizes that QFHOs and FHOs may merge with each other or other organizations. The merger of a QFHO or an FHO with a new organization, that has a separate Employer Identification Number (EIN), does not confer QFHO or FHO status upon the successor. To determine whether the successor organization meets the eligibility requirements for this Initiative, HUD will look at the enforcement-related experience of the successor organization (based upon the successor organization's EIN). The successor organization is not eligible to apply under this Initiative unless it establishes in the Statement of Eligibility that it is a private, tax-exempt organization with the requisite two years of enforcement related experience for a QFHO or one year experience for an FHO.

(c) Eligible Activities include either:

(i) Complaint intake of allegations of housing discrimination, testing, evaluating testing results, or providing other investigative and complaint support for administrative and judicial enforcement of fair housing laws; or

(ii) Investigations of individual complaints and systemic housing discrimination for further enforcement processing by HUD, through testing and other investigative methods; or

(iii) Mediated agreements or other voluntary resolution of allegations of fair housing discrimination after a complaint has been filed; and

(iv) Litigating fair housing cases including procuring expert witnesses.

(2) Education and Outreach Initiative (EOI). This Initiative assists projects that inform the public about the rights and obligations under the Act and substantially equivalent State and local fair housing laws. Under this Initiative, you must develop a complaint referral process so that activities funded under this Initiative will result in referrals to HUD of fair housing complaints and other information regarding possible discriminatory housing practices. Applications are solicited for this Initiative under the EOI-Regional/Local/Community-Based Program—in which activities are conducted on a regional/local/community-based level; and, under a National Program. You may submit your application for the Regional/Local/Community-Based General Component, Disability Component, the Hispanic Fair Housing Awareness Component; the Fair Housing and Minority Homeownership Component or the National Program's Model Codes Component depending upon its focus.

(a) Eligible Applicants. Eligible applicants are QFHOs; FHOs; public or private, for-profit or not-for-profit organizations or institutions and other public or private entities that are formulating or carrying out programs to prevent or eliminate discriminatory housing practices (including entities that will be established as a result of receiving an award under this FHIP NOFA); agencies of State or local governments; and agencies that participate in the FHAP (see the list of FHAP agencies at Appendix D). If you are a disability advocacy group, an organization that identifies or connects/communicates with Hispanics, grassroots faith-based and other community-based organization, minority universities or institutions, or traditional civil rights organization, you are encouraged to apply under this Initiative.

(b) Eligible Activities. The following are eligible activities for EOI: Conducting educational symposia or other training; developing new and innovative fair housing activities or materials throughout your project area; providing outreach and information on fair housing through printed and electronic media; developing fair housing curricula, and providing outreach to persons with disabilities and/or their support organizations and service housing providers working with homeless activists or persons to determine if fair housing plays a part in the homeless situation, and the general public regarding the rights of persons with disabilities under the Act. When conducting your outreach activities, we also encourage the use of existing, fair housing materials; except that we require that you translate these existing materials in languages other than English. The applicants for the Regional/Local/Community-Based Programs who submit an application in conjunction with a grassroots faith-based and other community-based organization must include in their application a letter of firm commitment from that grassroots faith-based and other community based organization. This letter of firm commitment must: (1) Identify the grassroots faith-based and other community-based organization; (2) identify the activities/tasks to be undertaken by the grassroots faith-based and other community-based organization under the project; and (3) be signed by the individual or organization with legal authority to make commitments for the organization. These components are described below:

Disability Component. Applications that emphasize the fair housing needs of persons with disabilities, so that persons with disabilities, housing providers and the general public better understand the rights and obligations under the Act and more fully appreciate the forms of housing discrimination that persons with disabilities may encounter, should submit their applications to the EOI-Disability Component. Although the component has a disability focus, the funded activities must provide education and outreach to all persons protected under the Act.

Hispanic Fair Housing Awareness Component. Applicants must be able to provide bilingual materials and services to Hispanics so that they are aware of and educated about their fair housing rights and responsibilities under the Fair Housing Act. In addition, applicants must have staff who are bilingual and have demonstrated experience, which is defined as 5 years of proven experience in providing social services to persons of Hispanic origin or must have established a partnership with an established faith-based or other community-based organization to carry out the objectives of this component and three years of experience with the applicant. Although the component has a focus in providing education and outreach to Hispanic communities, the funded activities must provide education and outreach in a non-discriminatory manner. Grantees may not deny services to a client who is not Hispanic.

Fair Housing and Minority Homeownership Component. Today, homeownership in America is at an all time high—but not all Americans have benefited. While 75% of white Americans own their own homes, less than half of all African Americans and Hispanic Americans are homeowners. Even with a surge in homeownership during the 1990's, the homeownership gap between minority and white households declined by just 1.5 percentage points. In June 2002, President George W. Bush announced an ambitious plan to help close the homeownership gap by increasing minority homeownership by 5.5 million families before the end of the decade. Educating homebuyers is an important step in meeting the President's challenge and there is a strong tie between equal housing opportunity and minority homeownership.

Under the Fair Housing and Minority Homeownership Component, applicants must demonstrate the ability to conduct community outreach activities to educate people about their rights under the Fair Housing Act and to prepare them for homeownership. The goal of this Component is to improve access to homeownership by racial and ethnic minorities by educating them about fair housing and how to recognize discriminatory housing practices in sales and financing of housing. Applicants must demonstrate the ability to educate participants about various forms of unlawful discrimination including discrimination in the sale of dwellings, discrimination in the financing of dwellings and unlawful segregation resulting from steering and other activities. Please ensure that all activities are tied to the protections outlined in the Fair Housing Act.

General Component. Applications for all other fair housing education and outreach activities should be submitted to the EOI-General Component.

The fifth component is the National Program—Model Codes Component.

The purpose of this component of the National Program is to increase compliance with the Fair Housing Act's accessible design and construction requirements through activities that will promote a collaborative partnership among builders and State and local government building code entities and disability advocacy or fair housing groups. These collaborations will ultimately result in encouraging the adoption of model building codes at the State and local level that are consistent with the accessibility requirements of the Fair Housing Act, its regulations and the Fair Housing Accessibility Guidelines. Activities to be carried out will involve taking steps to encourage State and local jurisdictions to adopt building codes that incorporate one of the HUD-recognized safe harbors for compliance. (These safe harbors are discussed below). Activities must be done in a manner that recognizes that under the Fair Housing Act, HUD cannot compel the adoption of model codes but HUD is encouraging jurisdictions to adopt such codes.

Activities may include identifying jurisdictions toward which to target activities and education and outreach designed to provide technical assistance to jurisdictions that wish to adopt HUD-recognized Fair Housing Act safe harbor codes or update their existing codes to incorporate one of the safe harbors. This may be done through direct meetings, educational workshops, on-line “how to” technical assistance, and technical assistance to State and local communities that may be in the process of updating State or local building codes. Such technical assistance shall include educating entities on incorporating commentary or appendices to their codes.

These kinds of activities may be carried out under this NOFA:

(1) Assisting State and local jurisdictions that modify their existing building codes so that they are consistent with the accessibility requirements of the Fair Housing Act and the Fair Housing Accessibility Guidelines, the ANSI A117.1 technical standards;

(2) Educating State and local officials on the requirements of the Fair Housing Act and the Fair Housing Accessibility Guidelines, the ANSI A117.1 technical standards, or the State or local building codes if such codes already incorporate requirements that are consistent with the Act;

(3) Developing an electronically accessible “Best Practices Directory” for dissemination of information to those interested in finding peer communities and organizations that have successfully adopted or revised their model building codes to meet the Fair Housing Act's accessibility requirements, the Fair Housing Accessibility Guidelines, and the ANSI A117.1 technical standards;

(4) Providing assistance and reviewing proposed modifications of language to be included in building codes to ensure that such codes meet the Fair Housing Act's accessibility requirements, the Fair Housing Accessibility Guidelines, and the ANSI A117.1 technical standards. (2)

(5) Encouraging jurisdictions to use one of the former three model codes, i.e., the Uniform Building Code, the Standard Building Code, or the BOCA National Building Code to update their codes to address inconsistencies identified in HUD's Final Report on the Review of Model Building Codes, published in the Federal Register on March 23, 2000.

There are currently seven documents recognized by HUD as providing a safe harbor for meeting the accessibility requirements of the Fair Housing Act. The seven documents include the following:

1. HUD's March 6, 1991 Fair Housing Accessibility Guidelines (the Guidelines) and the June 28, 1994 Supplemental Notice to Fair Housing Accessibility Guidelines: Questions and Answers about the Guidelines;

2. ANSI A117.1—1986—Accessible and Usable Buildings and Facilities, used in conjunction with the Act, HUD's Regulations, and the Guidelines;

3. CABO/ANSI A117.1—1992—Accessible and Usable Buildings and Facilities, used in conjunction with the Act, HUD's regulations, and the Guidelines;

4. ICC/ANSI A117.1—1998—Accessible and Usable Buildings and Facilities, used in conjunction the Act, HUD's regulations, and the Guidelines;

5. HUD's Fair Housing Act Design Manual;

6. Code Requirements for Housing Accessibility 2000 (CRHA), approved and published by the International Code Council (ICC), October 2000; and,

7. International Building Code (IBC) 2000 as amended by the IBC 2001 Supplement to the International Building Codes.

It is important to note that the ANSI A117.1 standard contains only technical criteria, whereas the Act, HUD's regulations, and the Guidelines contain both scoping and technical criteria. Therefore, in using any of the ANSI standards, it is necessary to also consult the Act, HUD's regulations, and the Guidelines for the scoping requirements. The CRHA and the IBC contain both scoping and technical criteria and are written in building code language, which make them readily adoptable by state and local jurisdictions.

(3) Fair Housing Organizations Initiative (FHOI). This Initiative provides assistance to projects (sponsoring organizations) that establish or build the capacity of organizations to become viable fair housing enforcement organizations that conduct fair housing enforcement activities in underserved areas (as defined in Section IV) in rural areas, in the Colonias, and areas with new immigrants (especially racial and ethnic minorities who are not English-speaking or have limited English proficiency). This is accomplished with the assistance of a sponsoring organization. It is the sponsoring organization that submits the application under this Initiative and certifies the sponsored organization's ability to become a QFHO or FHO (Note: The sponsoring organization is ineligible if they received a grant under this Initiative in 2001 or 2002.) The sponsored organization whose enforcement capacity is established or enhanced by funding under this Initiative, will be allowed to participate in this Initiative for three years contingent upon annual performance reviews. Funds are allocated under this NOFA for this Initiative for 3 years and distributed to the sponsored organization by the sponsoring organization. The sponsoring organization may expend FHIP funds for administrative costs as described below. HUD has targeted for funding under this Initiative projects that will provide fair housing enforcement services to the Colonias, rural areas, and to underserved areas, and to immigrants (especially racial and ethnic minorities who are not English speaking or have limited English proficiency).

(a) Eligible Applicants. Only the sponsoring organization is eligible to apply under this Initiative. The sponsoring organization must be a qualified fair housing enforcement organization (QFHO). You must certify in the Statement of Eligibility that you submit with this application that your organization is a QFHO.

(b) Eligible Activities. The proposed activities must build the enforcement capacity of the sponsored organization so that it can undertake all of the following activities by the conclusion of year 3 of the grant cycle:

(i) Complaint intake of allegations of housing discrimination, testing, evaluating testing results or providing other investigative and complaint support for administrative and judicial enforcement of fair housing laws;

(ii) Investigations of individual complaints and systemic housing discrimination for further enforcement processing by HUD, through testing and other investigative methods;

(iii) Mediation or other voluntary resolution of allegations of fair housing discrimination after a complaint has been filed; and

(iv) Litigating fair housing cases including procuring expert witnesses.

(c) Administrative Costs for the Sponsoring Organization. The sponsoring organization may use no more than 15 percent of the annually awarded funds to cover its costs to administer the grant.

IV. Program Requirements

(A) Requirements for All Initiatives. In addition to the Threshold Requirements in Section V of the General Section of this SuperNOFA, your FHIP-funded program application must also meet the following requirements:

(1) Protected Basis. All FHIP-funded projects must address housing discrimination based upon race, color, religion, sex, disability, familial status, or national origin.

(2) Performance Measures and Products. For all Initiatives, your application must demonstrate how your project activities will support HUD goals, identify performance measures/outcomes in support of those goals, describe your proposed record-keeping and evaluation systems, and identify current (baseline) conditions and target levels of the performance measures that you plan to achieve. For PEI, your application also must contain a strategy for generating enforcement related project products, with related timelines and milestones. For FHOI, if the sponsoring organization is enhancing an existing organization, then the sponsoring organization must submit a statement outlining: (1) What is expected of the sponsored organization, and (2) that the sponsored organization will be part of the program. If the sponsoring organization is being created, then the sponsored organization must submit a mission statement for the sponsoring organization and a timeline for creation and independence. If selected for funding, your final performance measures will be negotiated between you and HUD as part of your executed grant agreement.

(3) Reports and Meetings on Performance Measures and Products. Refer to the mandatory use of the Logic Model provided in the forms appended to the General Section.

(4) Single Applications. Except for applicants under FHOI, all applicants may only submit one application under the FHIP. FHOI applicants may apply under FHOI and one other Initiative. Applicants must determine which Initiative/Component to which they want to apply and submit a completed application to only that Initiative/Component. Multiple applications applying to more than one, except FHOI, Initiative/Component will be treated as a technical deficiency and the applicant will be asked to identify which application they want reviewed.

(5) Independence of Awards. HUD will review each application separately and without reference to other applications submitted by you or others. However, the application you submit must be independent and capable of being implemented without reliance on the selection of other applications submitted by you or other applicants.

(6) Project Starting Period. For planning purposes, assume a start date no later than March 1, 2004.

(7) Page Limitation and Formatting Requirements. The maximum narrative page requirement is ten (10) pages per factor. All pages in your application must be numbered consecutively from beginning to end. The narrative pages must be double-spaced (no more than three lines per vertical inch). This includes all narrative text, titles and headings. (However, you may single space footnotes, quotations, references, captions, charts, forms, tables, figures and graphs). You are required to use 12 point typesize. A page is 8.5″ × 11″, on one side only, with 1″ margins top, bottom, right and left. You must respond fully to each factor to obtain maximum points. Failure to provide narrative responses to all factors or omitting requested information will result in less than the maximum points available for the given rating factor or sub-factors. Failure to provide double spaced, 12 point typesize narrative responses will result in five points being deducted from your overall score (one point per factor). Failure to consecutively number pages within your application will result in one point being deducted from your overall score.

(8) Training funds. Your proposed budget must set-aside funds to participate in HUD mandatory sponsored or approved training $3000 for 12-18 month projects (EOI and PEI); and $6000 annually for 36 month projects (FHOI). For FHOI, there must be attendance from the sponsoring and sponsored organization.

Requests to attend HUD-approved training must be submitted to the GTR for approval in advance of the requested training. Do not include amounts over the $3000 or $6000 (as appropriate) for the training set-aside in this category. If applicants do not include these funds in the budget and you are selected for an award, HUD may modify your budget, reallocating the appropriate amount for training. If awardee's key personnel do not attend mandatory HUD-approved or HUD-sponsored training, training funds must be returned to HUD and it will be reflected on your performance assessment.

(9) Payment Contingent on Completion. Payment of FHIP funds is made on a reimbursement basis. Payments are contingent on the satisfactory and timely completion of your project activities and products as reflected in your grant or cooperative agreement. Requests for funds must be accompanied by financial and progress reports.

(10) Accessibility Requirements. All activities, facilities, and materials funded by this Program must be accessible to persons with disabilities (24 CFR 8.2, 8.4, 8.6, and 8.54).

(11) Copyright Materials. You may copyright any work that is eligible for copyright protection subject to HUD's right to reproduce, publish, or otherwise use your work for Federal purposes, and to authorize others to do so as required in 24 CFR 84.36.

(12) Complaints Against Awardees. Each FHIP award is overseen by a HUD Grant Officer (See Appendix B for list of Grant Officers per region). Complaints from the public against FHIP grantees should be forwarded to the Grant Officer. The Grant Officer's name and contact information is provided in the grant agreement. If, after notice and consideration of relevant information, the Grant Officer concludes that there has been inappropriate conduct, such as a violation of FHIP program requirements, terms or conditions of the grant, or any other applicable statute, regulation or other requirement, HUD will take appropriate action in accordance with 24 CFR 84.62. Such action may include: written reprimand; consideration of past performance in awarding future FHIP applications; repayment to HUD of funds received under the grant; or temporary or permanent denial of participation in the FHIP in accordance with 24 CFR part 24.

(13) Double Payments. If you are awarded funds under this NOFA, you (and any subcontractor or consultant) may not charge or claim credit for the activities performed under this project under any other Federal project.

(14) Award Instrument. The type of funding instrument HUD may offer a successful applicant which sets forth the relationship between HUD and the grantee will be a grant or cooperative agreement, where the principal purpose is the transfer of funds, property, services, or anything of value to the applicant to accomplish a public purpose. The agreement will identify the eligible activities to be undertaken, financial controls, and special conditions, including sanctions for violations of the agreement. HUD will determine the type of instrument under which your award will be made and monitor your progress to ensure that you have achieved the objectives set out in your agreement. Failure to meet such objectives may be the basis for HUD determining your agreement in default and exercising available sanctions, including suspension, termination, and/or the recapture of your funds. Also HUD may refer violations or suspected violations to enforcement offices within HUD, the Department of Justice, or other enforcement authorities.

(15) Reallocation of Funds. If after all applications within funding range have been selected or obligations are completed in an Initiative and funds remain available, the selecting official or designee will have the discretion to reallocate leftover funds in rank order between initiatives as follows:

(a) For EOI, any remaining funds from any component will be reallocated first within the initiative; if after reallocating funds within the initiative left over funds remain, they shall be reallocated to PEI then to FHOI;

(b) For PEI, any remaining funds will be reallocated to EOI then to FHOI;

(c) For FHOI, left over funds will be reallocated to PEI then to EOI.

Reallocated funds will be awarded within initiative as described in Section V of this Program Section of the SuperNOFA.

(16) Affirmatively Furthering Fair Housing. A separate AFFH submission is not required for FHIP.

(17) Name Check Review. (See General Section).

(18) Product Information. Press releases and any other product intended to be disseminated to the public must be submitted to the Government Technical Representative (GTR) 2 weeks before release for approval and acceptance.

(19) Ensuring the Participation of Small Businesses, Small Disadvantaged Businesses, and Women Owned Businesses. (See General Section).

(20) Retainer Fees. If you are a recipient of FHIP funds, you cannot require any complainant to whom you are providing assistance using FHIP funds, to sign a retainer agreement or other contract for legal fees as part of the filing, commencement, or maintenance of a Fair Housing Act complaint. If the FHIP recipient has a successful settlement or a verdict, then the FHIP is able to include its reasonable fees as a part of the settlement, though the complainant shall be under no obligation to accept such an arrangement. If reasonable legal fees are recovered, the FHIP agency must return a portion of its recovery to HUD, in proportion to the amount of FHIP funds spent on the prosecution of the case.

Agencies that are the recipients of FHIP funds agree to provide HUD with information regarding the recovery of fees and applicable reimbursement of FHIP funds to HUD on a yearly basis. All settlements and verdicts involving cases processed using FHIP funds are a matter of public record. An agency cannot claim attorney-client or other privilege against the release of data concerning the case. This restriction on withholding of information must be communicated to the complainant. The complainant must agree to such a restriction before the case can be processed using FHIP funds.

(21) For FHOI, HUD will fund applications that purpose to provide services in underserved areas (See Section III (B)(1)(b) of the FHIP Program Section of this NOFA.

(22) HUD expects applicants to address all forms of housing discrimination covered under the Fair Housing Act.

(23) HUD has determined there is a need to ensure equal opportunity and access to housing in communities across the nation.

(B) Screening/Threshold Review. Only applications that satisfy all of the applicable requirements under this FHIP NOFA will be considered for funding. The rating of the “applicant” or the “applicant's organization and staff” for technical merit or threshold compliance, unless otherwise specified, will include any sub-contractors, consultants, sub-recipients, and members of consortia that are firmly committed to the project.

(1) General Section Requirements and Procedures. Applicants are ineligible for funding if they do not meet the Threshold Requirements set forth in Section V (B), (C) and (D) of the General Section of this SuperNOFA.

(2) Debarment and Suspension. Applicants are ineligible for funding if they are debarred and suspended (See General Section).

(3) Maximum award. Applicants are ineligible for funding if they request funding in excess of the maximum allowed under the initiative or component for which you are applying your application is ineligible. Any amount over the maximum award, even if less than one dollar, will be considered a request in excess of the maximum award. In addition, inconsistencies in the amount requested and/or miscalculations that result in amounts over the maximum award will be considered excessive; therefore the application is ineligible.

(4) Incomplete Application. Applicants are ineligible for funding if their application does not include a completed Statement of Eligibility.

(5) Research Activities. Applicants are ineligible for funding if 100% of their project is aimed solely and primarily at research. Also, your application should not require any unapproved surveys or questionnaires.

(6) Eligible Applicants. Applicants are ineligible for funding if they do not meet the eligibility requirements for EOI, PEI and FHOI. For PEI, you must be a FHO or a QFHO and document in the Statement of Eligibility that your organization has the required one or two years of enforcement-related experience. For FHOI, you must be a QFHO. For EOI, see specific Component requirements.

(7) Tax Exempt Status. For PEI and FHOI applicants are ineligible for funding if they are not a 501(c)(3) tax exempt organization as determined by the Internal Revenue Service (IRS). Your application must include a copy of your Letter of Determination from the Internal Revenue Service, dated prior to the deadline date of this FHIP Program Section of the SuperNOFA, establishing your 501(c)(3) tax-exempt status. Failure to submit this with your application is a technical deficiency.

(8) Model Codes Component applications. Applicants are ineligible for funding if they do not have demonstrated technical expertise in the design and construction requirements of the Fair Housing Amendments Act of 1988, the applicable implementing regulations, the Fair Housing Accessibility Guidelines, the ANSI A117.1 technical standards, and State and local building codes.

Applicants may establish their “demonstrated technical expertise” in many ways. For example: (a) Your organization has designed or conducted training or seminars, (b) your organization's staff has taken a course/attended a seminar on the accessibility provisions of the Fair Housing Act for and have applied that training to your work as, for example, building inspectors, architects, housing providers, or developers in a jurisdiction with a building code that incorporates these provisions, or (c) your organization's work experience has made you thoroughly knowledgeable about design and construction requirements of the Fair Housing Act/Accessibility Guidelines, the ANSI A117.1 technical standards, and State and local building codes. Agendas, course(s) descriptions, specific examples of work experiences, and years of experience, must be highlighted when establishing demonstrated technical expertise.

Only joint applications filed by a minimum of two entities, at least one of which is a national and a State or local disability rights advocacy group or organization (national, State or local organization), will be considered, and the roles of each partner must be clearly delineated. Your application must identify additional sub-recipients and consultants/contractors who will work on this project. A letter of firm commitment must be included stating that the partner(s) agrees to the proposed Statement of Work and will participate in the project, if selected for award. If you fail to include this letter of firm commitment with your application, your application will be declared ineligible for funding.

(9) Poor Performance. Applicants are ineligible for funding if they are a previous FHIP grantee that has received a “Poor” performance rating for its most recent performance rating from its Government Technical Representative. HUD will assess performance ratings for applicants who have received FHIP funding in 1999, 2000, or 2001. If the applicant has received a “poor” performance rating for its most recent performance rating from its Government Technical Representative, its application is ineligible for FY 2003 competition. An applicant that does not agree with its determination of ineligibility for the FY 2003 competition because of “poor” performance must address to HUD's satisfaction the factors resulting in the “poor” performance rating before the FHIP application deadline. If the “poor” performance rating is not resolved to the Department's satisfaction before the application deadline, the application is ineligible for funding. HUD is interested in increasing the performance level of all grantees; therefore, applicants who are deemed ineligible because of a “poor” performance rating have the right and are encouraged to seek technical assistance from HUD to correct their performance in order to be eligible for future NOFA competition.

(10) Suits Against the United States. Your application is ineligible for funding if as a current or past recipient of FHIP funds, your organization used any funds provided by HUD for the payment of expenses in connection with litigation against the United States (24 CFR 125.104(f)).

(11) Other Litigation. Your application is ineligible for funding if you used funds under this Program provided by HUD to settle a claim, satisfy a judgment, or fulfill a court order in any defensive litigation (24 CFR 125.104).

(12) Hispanic Fair Housing Awareness Component. Applicants are ineligible for funding if staff persons that have been providing bilingual services have not been employees with the applicant for 3 of the 5 years used to prove eligibility under the Hispanic Fair Housing Awareness Component. List all bilingual employees and provide proof of employment of staff. Grantees may not deny services to a client who is not Hispanic.

(13) FHOI. Applicants for FHOI only are ineligible if their organization received previous FHOI awards in FY 2001 or FY 2002.

(C) Additional Requirements For PEI and FHOI. (1) Mandatory Referrals. You must refer to HUD all cases arising from FHIP-funded enforcement activities. In all FHIP-funded cases where you find a basis for filing a complaint on behalf of a complainant other than your organization, you must file the complaint with HUD unless the complainant declines to do so in writing. You must return copies of all complaints that the complainant declines to file to HUD. In addition to filing complaints with HUD, a complainant may file a civil action in Federal or State Court.

(2) Broad-Based and Full-Serviced. Your organization must conduct a broad-based and full-service enforcement project that addresses discrimination against all persons protected by the Fair Housing Act on the basis of race, color, religion, sex, disability, familial status, or national origin.

(3) Outreach Expenses. The funds awarded for enforcement grants may be used for outreach and education activities (hereafter, outreach activities) in order to promote awareness of your project's services, as follows: under FHOI, you may provide for up to 10 percent of the requested funds for the sponsored organization to be used for outreach activities; under PEI, you may designate up to 5 percent of the requested funds for outreach activities.

(4) Tester Requirements. Testers in your FHIP-funded testing activities must not have prior felony convictions or convictions of crimes involving fraud or perjury. All testers must receive training acceptable to HUD or be experienced in testing procedures and techniques. Testers and the organizations conducting tests, and the employees and agents of these organizations may not:

(a) Have an economic interest in the outcome of the test; except to the extent that they could recover damages as provided by law;

(b) Be a relative related by adoption, blood, or marriage to any party in a case;

(c) Have had any employment or other affiliation, within the past year, with the person or organization to be tested; or

(d) Be a licensed competitor of the person or organization to be tested in the listing, rental, sale, or financing of real estate.

(5) Review and Approval of Testing Methodology. If your SOW proposes testing, other than rental housing testing, HUD may require copies of the following documents to be reviewed and approved by HUD prior to your carrying out the testing activities:

(a) The testing methodology to be used,

(b) The training materials to be provided to testers, and

(c) Other forms, protocols, cover letters, etc. used in the conduct of testing and reporting of results.

The testing methodology and training materials that you submit to HUD for review and approval are for enforcement purposes and will remain confidential.

(6) Tester Training. You must provide sufficient information in the application to show how testers are trained by your organization and how the materials will be used.

(7) Conflict of Interest and Use of Settlement Funds.

(a) You may not solicit funds from or seek to provide fair housing educational or other services or products for compensation either directly or indirectly to any person or organization that has been the subject of FHIP-funded testing by your organization during the 12 month period following the test. This does not preclude providing training or technical assistance that is court ordered or contained in a negotiated settlement. HUD reserves the right to impose additional provisions addressing potential conflicts of interest in the grant agreement.

(b) You must reimburse the United States for FHIP-funded activities whenever you receive funds as the result of enforcement activities funded in whole or in part by the FHIP program, including testing. You must provide information about reimbursements and/or potential reimbursements in a report that you submit to HUD (see Reports below). Provisions regarding terms for reimbursing the United States will be specified in your grant or cooperative agreement. This reimbursement requirement does not apply to compensation received as a result of a judgment in Federal or State Court. Calculate your reimbursement on a per complaint basis. Identify the complaint, then subtract the amount of non-FHIP funds from the amount of FHIP funds used to resolve the complaint. The difference is the amount owed. For example:

Testing Expense = $500 (All FHIP funds used)

Settlement Award = $15,000

Reimburse HUD = $500

(8) Reports. You must provide reports in a format (which may be computer-generated), at a frequency and with contents specified by HUD. At a minimum, the report must include the number and basis of complaints filed with HUD, with a FHAP agency, or in Federal/State Court as well as the number and terms of settlements or other outcomes achieved. If HUD does not prescribe a format or frequency, you will provide a narrative report within 90 days after all grant activities have ended or at the end of each 12 month period of the grant, whichever comes first. All settlements and verdicts are public except settlements or judgment that a court or other tribunal has ordered to be kept confidential. However, all settlements and verdicts are public involving cases processed using FHIP funds are a matter of public record. Your agency will not be able to claim attorney-client or other privileges against the release of data to the Department on any case where FHIP funds are used. You will also be required to provide status reports on case referrals you have made to HUD or a FHAP agency. These reports are for enforcement purposes and will remain confidential.

(9) Enforcement Log. You are required to record information about the funded project in a case tracking log (or Fair Housing Enforcement Log) in a format prescribed by HUD. Such information must include: The number of complaints of possible discrimination you have received; the protected basis of these complaints; the issue, test type, and number of tests utilized in the investigation of each allegation; the respondent type and testing results; the time for case processing, including administrative or judicial proceedings; the cost of testing activities and case processing; the entity to which the case was referred; and the resolution and type of relief sought and received. You must agree to make this log available to HUD. This log will be considered confidential for enforcement purposes. This log should only have case information in it where FHIP funds were used.

(10) Attachments. All PEI, FHOI, EOI applicants must submit a Statement of Eligibility. All applicants must submit resumes, or position descriptions for newly created positions of all key personnel; if you received HUD funding in the past please submit the most recent SF 269. In addition, FHOI and PEI applicants must submit the Internal Revenue Service's, Letter of Determination declaring your Section 501(c)(3) status as a tax-exempt organization. Failure to submit your IRS Letter of Determination with your original application is a technical deficiency.

(D) Additional Requirements For Education and Outreach Initiative. Complaint Referral Process. EOI activities do not end with the delivery of outreach and educational activities. Its purpose is to ensure that persons are informed of their fair housing rights and to provide enforcement assistance to persons who believe they have experienced housing discrimination by providing immediate and accurate referral information to persons contacting them for assistance. EOI applicants must develop a process for referring fair housing complaints to HUD or Fair Housing Assistance Program agencies . The referral process must be described in the application.

(E) Additional Requirements For Fair Housing Organizations Initiative Sponsored and sponsoring organization's viability and fair housing enforcement capacity. Over the duration of the grant, the sponsored organization with the help of the sponsoring organization must demonstrate its capacity to become a viable, fair housing enforcement organization that conducts fair housing-related enforcement activities and leverages non-FHIP resources. These are the performance measures that, if not met, may result in termination of the grant, and your description of how you will achieve these measures will be considered when HUD evaluates your application. We will look for this description in your response to Rating Factor 3: Soundness of Approach. Specifically, the application must address:

(1) Fair Housing-related enforcement activities. The sponsored organization must be able to independently conduct enforcement-related activities by the conclusion of year 3 of the grant including: complaint intake, complaint investigation, testing for fair housing violations, and meritorious claims. Your application must identify which activities the sponsored organization will conduct at the end of the grant year 1, 2 and 3. A pro-forma budget must be submitted for the sponsored organization showing how funds will be allocated and accounted for in each of the grant years. Your performance measures will be based upon this description, and failure to meet them may result in termination of your grant or cooperative agreement.

(2) Organizational resources. The sponsored organization must not rely exclusively on FHIP funding. At the conclusion of each grant year, the sponsored organization must show increasing support from sources other than what is awarded under this program. Specifically, at the conclusion of year 1, no less than 5% of the funds supporting the sponsored organization's fair housing enforcement-related activities must be funded from non-FHIP funds; at the conclusion of year 2, no less than 10% of the funds supporting the sponsored organization's fair housing enforcement-related activities must be from non-FHIP funds; and at the conclusion of year 3, no less than 20% of the funds supporting the sponsored organization's fair housing enforcement-related activities must be from non-FHIP funds. Your application and budget must state how you will meet these requirements. Your performance measures will be based upon these requirements, and failure to meet them may result in termination of the grant.

In addition, the sponsoring organization must demonstrate its capacity to maintain itself as a viable, fair housing enforcement organization that has the ability to sustain itself over the course of the grant.

V. Application Selection Process

(A) Rating and Ranking. Although all rating factors are organized the same way for all FHIP initiatives, there are differences in application requirements and rating criteria, which are indicated throughout the Rating Factor instructions. Your application for funding will be evaluated competitively against all other applications submitted under one of the following initiatives or components:

(1) Private Enforcement Initiative (PEI);

(2) Education and Outreach Initiative (EOI);

(a) Regional/Local/Community-Based Program:

(i) General Component (EOI-GC);

(ii) Disability Component (EOI-DC);

(iii) Hispanic Fair Housing Awareness Component (EOI-HA);

(iv) Fair Housing and Minority Homeownership Component (EOI-HC);

(b) National Program:

(i) Model Codes Component;

(3) Fair Housing Organizations Initiative (FHOI)

All eligible applications will be reviewed and points awarded based upon: (1) Your narrative responses to the Factors for Award and accompanying materials (e.g., resumes) and (2) bonus points, if entitled. Ineligible applications will not be ranked. The maximum number of points to be awarded for the Rating Factors is 100. See Section VI (C) of the General Section for discussion on Bonus Points. Applications with a score of seventy-five (75) points or more will be considered of sufficient quality for funding. The Selecting Official will not select for award any application with a score below seventy-five (75) points. Generally, applications of sufficient quality for funding will be selected in rank order under each initiative or component. HUD reserves the right to select applicants out of rank order to achieve greater geographic distribution of awards under each initiative or component, as described in Section V (C) below. Selections under each initiative or component will continue to be made until either all allocated funds have been obligated or until no applications of sufficient quality remain.

(B) Tie Breaking. When two or more applications have the same total overall score, the application with the higher score under Rating Factor 3: Soundness of Approach will be ranked higher. If this does not break the tie, the application with the higher score under Rating Factor 1: Capacity of the Applicant and Relevant Organizational Experience will be ranked higher. If this does not break the tie, the application requesting the lower amount of FHIP funding will be ranked higher. Finally, if this does not break the tie, the application with the higher score under Rating Factor 2 will be rated higher.

(C) Achieving Geographic Diversity of Awards. (1) PEI and EOI. HUD reserves the right to select applications out of rank order under geographic diversity, to ensure that, to the extent possible, applications from more states for each initiative or component are selected for funding. If the Selecting Official exercises this discretion, there will be two determinants used: (a) Geography and (b) score. Geographic diversity shall be applied to all qualified applications (applications of sufficient quality for funding—applications that received a score of 75 or more points) in each Initiative or Component in which the Selecting Official applies geographic diversity. The geographic diversity provision will be applied as follows: when there are two or more applications of sufficient quality from the same state, the application(s) with the lower score(s) will be moved to the end of the qualified queue. The applications moved to the end of the qualified queue will retain their geographic rank order. If sufficient funds remain, it is possible that applications moved to the end of the queue may be selected for award.

(2) FHOI. The geographic diversity provision does not apply to FHOI.

(D) Factors for Award Used to Evaluate and Rate PEI, FHOI and EOI Regional/Local Community-Based Applications. The factors for rating and ranking applications and the maximum points for each Rating Factor are described below. Failure to provide the required information under the appropriate Factor will result in a lower score for that Factor—for example, information in the Project Abstract, although useful for obtaining a concise summary of the proposed activities is not considered in the rating of applications.

Please respond fully to the criteria in each Rating Factor and sub-factor and, when directed, provide other information in support of your response. The Factors for Award are set out as follows:

In general. This section applies to all applicants. Your responses to each Rating Factor and including the “In Addition” section below must not exceed the 10 page Rating Factor requirement.

In addition. This section identifies issues to which you must respond, if required, by the particular Initiative or Component for which you are applying.

Rating Factor 1: Capacity of Applicant and Relevant Organizational Experience (25 Points)

You must describe staff expertise and your organization's ability to complete the proposed activities within the grant period.

In General. HUD recognizes that, in carrying out the proposed activities, you may have persons already on staff, plan to hire additional staff, or rely on subcontractors or consultants to perform specific tasks. You must describe your staffing plan and the extent to which you plan to add staff (employees) or contractors. If your application proposes using subcontractors and these subcontractor activities amount to more than 10 percent of your total activities, you must submit a separate budget for each subcontractor. Failure to include a separate budget will result in lower points being assessed to your application.

(5) Points Current FHIP Grantees

(10) Points for New Applicants

a. Number and expertise of staff (this includes subcontractors and consultants). You must show that you will have sufficient, qualified staff who will be available to complete the proposed activities. Provide the following information for all staff assigned to or hired for this project, not just key personnel (those persons identified in attachments to Rating Factor 3: Soundness of Approach):

(i) Identify, by name and/or title, all persons that will be assigned to the project. You must describe the knowledge and experience of the proposed overall project director and day-to-day program manager (whose duties and responsibilities include managing all program and administrative activities as outlined in the SOW and ensuring that all timelines are met), in planning and managing projects similar in scope and complex interdisciplinary programs. Indicate the percentage of time that key personnel will devote to your project. To receive maximum points, your day-to-day program manager must devote a minimum of 75% of his/her time to the project. For day-to-day managers who do not have at least 75% of their time devoted to the project, no points will be awarded under this sub-factor. You may demonstrate capacity by thoroughly describing your prior experience in fair housing. You should indicate how this prior experience will be used in carrying out your proposed activities. Your application must clearly identify those persons that are on staff at the time this application is filed, and those persons who will be assigned at a later date; describe each person's duties and responsibilities and their expertise (including years of experience) to perform project tasks; indicate whether the staff person is assigned to work full-time or part-time (if part-time, indicate the percentage of time each person is assigned to the project).

(ii) Attach resumes for all key personnel or position descriptions for newly created positions. (Resumes or position descriptions do not count against the ten-page limit.)

(10) Points for Current FHIP Grantees

(15) Points for New Applicants

b. Organizational experience. In responding to this subfactor, you must show that your organization has: (1) Conducted a past project or projects similar in scope and complexity to the project proposed in this application (whether FHIP-funded or not), or (2) engaged in activities that, although not similar, are readily transferable to the proposed project. Experience will be judged in terms of recent, relevant and successful experience of your staff to undertake eligible activities.

In rating this factor, HUD will consider experience within the last 3 years to be recent, experience pertaining to the specific activities to be relevant, and experience producing measurable accomplishments to be successful. The more recent the experience and the more experience your own staff members who work on the project have in successfully conducting and completing similar activities, the greater the number of points you will receive for this rating factor. For all applicants, your fully completed and signed Statement of Eligibility will also be considered as part of your organizational experience. The applicant organization must state within its application that it is based in an area considered by the Department as Colonias.

In addition. If you are applying for funding under the EOI-Hispanic Fair Housing Awareness Component, provide the following information when responding to this sub-factor.

(i) A list of all bilingual materials you have distributed

(ii) A description of specific instances where projects similar to the scope and activities proposed in this application had an impact in a Hispanic community.

(iii) A description of recent relevant experience. Recent experience is experience within the past 3 years. Grantees may not deny services to a client who is not Hispanic.

In addition. If you are applying for funding under the EOI-Fair Housing and Minority Homeownership Component, provide the following information when responding to this subfactor:

(i) A description of staff's experience in providing fair housing and homeownership advice with the objective of increasing awareness of homeownership opportunities and

(ii) A description of staff's experience and accomplishments in advocating with the real estate industry, the mortgage lending industry, appraisers, and developers to increase awareness of homeownership opportunities.

In addition. If you are applying for funding under PEI or FHOI, provide the following information when responding to this subfactor:

(i) Describe the procedure you will use to ensure that testers comply with the requirements in Section IV(B)(3) of the FHIP Program Section of the SuperNOFA.

(ii) If you propose to conduct testing (other than rental or accessibility testing), projects proposing testing in the specific areas (for example, if testing is for sales of housing), your application should outline your sales testing experience) should document that, at a minimum, you have conducted successful testing in those areas. Provide a general description of when and where the tests occurred, the entities tested, and the overall results of the tests, including complaints filed and the settlements or remedies secured.

FHOI. Provide a statement of organizational capacity and experience of the sponsored organization and a list of persons who will work on the project along with their experience.

(10) Points for Current FHIP Grantees

(0) Points for New Applicants

c. Performance on past project(s). You must describe your organization's past performance in conducting activities relevant to your proposal, in the past three years (FY 1999-2001 FHIP grants), demonstrating good financial management and documenting timely use of funds, timely reporting and submissions of tasks and deliverables. HUD may supplement information you provide with relevant information on-hand or available from public sources such as newspapers, Inspector General or General Accounting Office Reports or Findings, hotline complaints that have been proven to have merit, or other such sources of information. In evaluating past performance, the following points will be deducted from your score under this rating sub-factor:

10 points will be deducted if you received a “fair performance” assessment;

5 points will be deducted if you received a “good performance” assessment; and

0 points will be deducted if you received an “excellent performance” assessment.

In addition. If you have received an FHOI or a PEI award under the FY 1999, 2000, or 2001 FHIP Program Section of the SuperNOFA, you must:

(i) Discuss your compliance with the mandatory referral requirement of all cases arising from FHIP-funded activities requirement, as described in the FY 1999, 2000, and 2001 FHIP Program Section of the SuperNOFAs. Five (5) points will be deducted for this subfactor if you do not show in your application compliance with the requirement. The compliance discussion should provide an explanation if discrepancies exist. For example, your application notes receipt of 100 applications. It also notes that only 25 complaints were referred. There should be an explanation for the difference of 75 complaints.

(ii) Discuss your compliance with the requirement to reimburse the Federal government for compensation received from FHIP-funded enforcement activities. If you have not reimbursed the Federal government for such compensation, explain why you have not. Also, state whether you reported to HUD any likely compensation that may result in such reimbursement. Two (2) points will be deducted for this sub-factor if you have not complied with the requirement.

Rating Factor 2: Need/Distress/Extent of the Problem (20 Points)

This factor addresses the extent to which there is a need for funding the proposed activities to address a documented fair housing problem(s) in the target area(s). You will be evaluated on the information that you submit that describes the fair housing need in the geographic area you propose to serve, its urgency and how your project is responsive to that need. You must also describe whether you and/or your project are not served by a State or local FHAP agency.

(15 Points for PEI/EOI and 20 Points for FHOI)

a. Documentation of Need. To justify the need for your project, PEI and EOI applicants must describe the following:

(1) The fair housing need, including:

(i) Geographic area to be served;

(ii) Populations that will be served—your project must serve all persons protected by the Act; and

(iii) The presence of housing discrimination, segregation and/or other indices of discrimination in the project area based upon race, color, religion, sex, national origin, familial status, or disability.

(2) The urgency of the identified need. For example:

(i) The potential consequences to persons if your application is not selected for funding;

(ii) The extent to which the organizations provides the services identified in your application;

(3) Other sources that support the need and urgency for this project. For example, make reference to reports, statistics, or other data sources that you used that are sound and reliable, including but not limited to, HUD or other Federal, state or local government reports analyses, relevant economic and/or demographic data, including those that show segregation, foundation reports and studies, news articles, and other information that relate to the identified need. Chapter V of the Fair Housing Planning Guide, Vol. 1 has other suggestions for supporting documentation. You may access the Guide from the HUD web at www.hud.gov.

To receive maximum points under this subfactor, applicants must submit data and studies that support (1), (2), and (3) above. Those that address each category and submit supporting data will receive higher points than those that do not.

For FHOI: To justify the need for a sponsored organization under FHOI, the sponsoring organization must describe the following:

(i) Populations that will be served—HUD has targeted for funding under this Initiative, projects that will provide fair housing enforcement services to underserved areas, rural areas, the Colonias, and areas serving individuals who are immigrants (especially racial and ethnic minorities who are not English-speaking or have limited English proficiency).

(ii) The presence of housing discrimination, segregation and/or other indices of discrimination in the project area based upon race, color, religion, sex, national origin, familial status, or disability and submit data and studies that support your claim; and

(iii) Why the project area is underserved and why the proposed sponsored organization is needed. Your proposal must serve all persons protected by the Act.

For example, make reference to reports, statistics, or other data sources that you used that are sound and reliable, including but not limited to, HUD or other Federal, state or local government reports analyses, relevant economic and/or demographic data, including those that show segregation, foundation reports and studies, news articles, and other information that relate to the identified need.

For all applicants: If the fair housing needs you have identified are not covered under the Consolidated Plan and Analysis of Impediments to Fair Housing Choice (AI) or if your locality does not have a CP or AI, you should so indicate, and use other sound data sources to identify the level of need and the urgency in meeting the need. If your application addresses needs that are identified in the AI, you will receive more points than applicants located in an area with an AI that do not relate their program to the identified needs in the AI. For you to receive maximum points for this factor, there must be a direct relationship between your proposed activities, community needs, and the purpose of the program funding.

To the extent possible, the data you use should be specific to the area where the proposed activity will be carried out. You should document needs as they apply to the area where activities will be targeted, rather than the entire locality or state. If the data presented does not specifically represent your target area, you should discuss why the target areas were proposed.

(4) The link between the need and your proposed activities:

(i) How the proposed activities augment or improve upon on-going efforts by public and private agencies, organizations and institutions in the target area, and/or

(ii) Why, in light of other on-going efforts, the additional funding you are requesting is necessary.

In addition, with respect to Documentation of Need, the following apply to specific FHIP initiatives or components:

EOI—Disability Component. Your project must focus on individuals who are disabled and must serve all persons protected by the Act.

EOI—Hispanic Fair Housing Awareness Component. Your project must focus on serving Hispanics and must serve all persons protected by the Act. Therefore, provide specific demographics on Hispanic neighborhoods to be served and the relationship of the area served to the objectives of the project. The need in these neighborhoods must be clearly stated and supported with documentation such as beneficiary information. Grantees may not deny services to a client who is not Hispanic.

EOI—Fair Housing and Minority Homeownership Component. Your project must document underrepresentation of homeownership by protected classes or a critical level of need for fair housing and homeownership activities in the area where activities will be carried out.

(5 Points PEI and EOI)

b. Underserved Areas. For EOI and PEI: Up to five points will be awarded when the applicant's location and the project area are not served by a State or local FHAP agency. In instances where the applicant is located in an area not served by a FHAP agency but the project activities are conducted in various geographic areas, some of which are not served by a State or local FHAP agency, points will be awarded as follows:

5 points will be awarded if more than 80% of the activities are conducted in areas not served by a State or local FHAP agency.

4 points will be awarded if more than 60% but less than 80% of the activities are conducted in areas not served by a State or local FHAP agency.

3 points will be awarded if more than 40% but less than 60% of the activities are conducted in areas not served by a State or local FHAP agency.

2 points will be awarded if more than 20% but less than 40% of the activities are conducted in areas not served by a State or local FHAP agency.

1 point will be awarded if less than 20% of the activities are conducted in areas not served by a State or local FHAP agency.

You must indicate whether (a) you are located in an area that is served by a State or local FHAP agency (see Appendix D of this FHIP Program Section of the SuperNOFA for a list of FHAP agencies); (b) the activities you propose will be conducted in a project areas served by a State or local FHAP agency; and (c) explain why the project area is underserved and/or why the proposed organization or activity is needed.

In addition: This subfactor is not applicable to FHOI.

Rating Factor 3: Soundness of Approach (40 Points)

You must describe your project in detail, demonstrate how your project activities will support HUD goals, propose suggested performance measures/outcomes in support of these goals, and identify current baseline conditions and target levels of the performance measures that you plan to achieve. Also attach a Statement of Work (SOW) and budget. Your proposed activities must support HUD's policy priorities as referenced in the General Section.

(7 Points)

a. Support of HUD Goals. Describe how your proposed project will further and support HUD's policy priorities. For FY 2003 FHIP applications, address the following:

1. All EOI-General, EOI-Disability, EOI-Hispanic Fair Housing Awareness, and EOI-Fair Housing and Minority Homeownership Component:

Applicants who relate HUD's policy priorities to:

(i) Their project's purpose,

(ii) Persons to be served,

(iii) Geographic area to be served,

(iv) Proposed activities and who will conduct these activities, e.g., you or a subcontractor(s) or consultant(s), and

(v) Applicants who provide a methodology for carrying out these activities that includes items (i), (ii), (iii) and (iv) above will be assessed as follows:

(a) Four points under this subfactor if you are a grassroots faith-based and other community-based organizations, or propose to partner or sub-contract with grassroots faith-based and other community-based organizations,

(b) One point under this subfactor if your application specifically addresses housing discrimination against new immigrants,

(c) One point under this subfactor if your application specifically addresses housing discrimination in Colonias, and

(d) One point under this subfactor if your application specifically addressing housing discrimination to persons who are homeless because of housing discrimination in violation of the Fair Housing Act.

PEI and FHOI

Applicants should discuss their project purpose and proposed activities, persons to be served, geographic areas and methodology and their relation to HUD's policy priorities (see General Section). Include specific information on how you will address the need(s) identified under Rating Factor 2. The quality of the response you provide to one or more of the policy priorities will determine the score you receive. You may receive one point for each policy priority you address up to a total of seven points.

In addition. If you apply under the:

EOI. Describe how activities or final products can be used by other organizations and agencies. Also, describe the elements of the complaint referral process you will develop as a task under this grant. Explain how this referral process will result in an increased number of referrals to HUD. For the Hispanic Fair Housing Awareness component, grantees may not deny services to a client who is not Hispanic.

FHOI. Over the course of the grant, the sponsored organization must conduct fair housing-related enforcement activities and leverage non-FHIP resources. These are the performance measures that, if not met, may result in termination of the grant. Clearly describe how you will ensure that these enforcement and leveraging requirements are met.

PEI/FHOI. Describe a procedure to ensure that referrals of all complaints are made as required by this NOFA. Your description should include safeguards to ensure that referred complaints are fully jurisdictional under the Act and supported by credible and legitimate evidence that the Act has been violated.

You may conduct limited outreach activities (PEI and FHOI), as described in Section IV(C)(3). This must be reflected clearly in your SOW and Budget.

(18 Points)

b. Proposed Statement of Work (SOW) and Information Requirements. The SOW and budget are attachments that will not count toward the 10-page limit on the narrative response to this factor. However, points will be assigned based on the relevance of proposed activities to stated needs, attention to implementation steps, proposed activities consistent with organizational expertise and capacity and accuracy of the SOW and budget.

(1) Statement of Work—Submit a proposed SOW that comprehensively outlines in chronological order the administrative and program activities and tasks to be performed during the grant period. Your outline should identify all activities and tasks to be performed and by whom (e.g., you, a subcontractor, or partner), and the products that will be provided to HUD and when. You should also include a schedule of your activities and products (with interim implementation steps), staff allocation over the term of the project; staff acquisition and training; and activities of partners and/or subcontractors (See Appendix C of this FHIP Program Section of the SuperNOFA for an optional SOW).

(2) Information Requirements. For PEI and FHOI, your application must include a description of the enforcement proposals to be referred to HUD. Your description must explain the information (see 24 CFR 121.2) you intend to collect and analyze, the type of complaints you anticipate referring to HUD for enforcement purposes, and describe the procedure you will implement for referring such complaints. If you propose a testing program, you must explain how you plan to structure the tests, train investigators, conduct investigations, etc. This description should make clear the safeguards to be used to ensure that complaints referred to HUD are fully jurisdictional under the Act and supported by credible and legitimate evidence that the Act has been violated. Describe the procedures you will put in place to ensure that referrals of all complaints are sent to HUD.

In addition.

For EOI:

For the Hispanic Fair Housing Awareness Component include:

(i) All bilingual key personnel and their capacity to communicate and disseminate information in projected Hispanic neighborhoods.

(ii) A plan that reflects an understanding of the characteristics and needs of the neighborhoods selected and outline a plan of action pertaining to the scope and detail of how the work outlined will be accomplished. Grantees may not deny services to a client who is not Hispanic.

(15 Points)

c. The Budget Form and the Budget Information—HUD will also assess the soundness of your approach by evaluating the quality, thoroughness, and reasonableness of the budget and financial controls of your organization, including information on your proposed program cost categories. As part of your response you must prepare a budget that is: (i) Reasonable in achieving the goals identified in your proposed SOW; (ii) relates tasks in the SOW to the proposed budget costs; (iii) cost-effective; (iv) quantifiable based on the Need identified in Factor 2; and (v) documents and justifies all cost categories in accordance with the cost categories indicated in the HUD-424-CB (see General Section Grant Application Detailed Budget). In addition, if you already have an approved indirect cost rate, please provide the necessary contact information (i.e., name, address, and telephone number of the cognizant agency).

(1) Cost Effectiveness of Program. Discuss and provide supportive facts concerning the extent to which your proposed program is cost effective in achieving the anticipated results of the proposed activities. Also, indicate how the proposed project is quantifiable based on the needs identified in Rating Factor 2.

(2) Financial Management Capacity. Describe and provide documentation to support your organization's financial management system. In addition, provide documentation about your capabilities in handling financial resources and maintenance of adequate accounting and internal control procedures.

In addition:

FHOI provide a statement of transfer of programmatic and management responsibilities from the sponsoring to sponsored organization by the end of grant year 3. Also provide budgetary information on the viability of the sponsoring organization to maintain the sponsored organization for the duration of the grant.

Your Grant Application Detailed Budget HUD-424-CB must show the total cost of the project and indicate other sources of funds that will be used for the project. While the costs are based only on estimates, the budget narrative work plan may include information obtained from various vendors, or you may rely on historical data. Applicants must round all budget items to the nearest dollar.

A written budget narrative must accompany the proposed budget explaining each budget category listed. Failure to provide a written budget narrative will result in 2 points being deducted from your application. It must explain each cost category you list. Generally, estimated costs for high-cost items or subcontractors/consultants should be supported by bids from at least three (3) sources. Where there are travel costs for subcontractors/consultants, you must show that the combined travel costs (per diem rates) are consistent with Federal Travel Regulations (41 CFR 301.11) and travel costs for the applicant's subcontractors and/or consultants do not exceed the rates and fees charged by local subcontractors and consultants. The narrative (which counts toward the 10 page limit) and supporting documentation (which does not count toward the 10 page limit) must address the Grant Application Detailed Budget as referenced in the General Section.

Enforcement Education & Outreach

Also, there is a 5% limit on the amount of education-related activities that can be funded in an enforcement grant. If you exceed this limit, points will be deducted from this sub-factor.

Rating Factor 4: Leveraging Resources (5 Points)

This factor addresses your ability to secure additional resources to support your project. Points will be awarded on the basis of the percentage of non-FHIP resources you have identified and how firm the commitment is for those resources.

Firm Commitment of Leveraging. HUD requires you to secure resources from sources other than what is requested under this FHIP Program Section of the SuperNOFA. Community resources may include funding or in-kind contributions, such as workspace or services or equipment, allocated to the purpose(s) of your proposal. Contributions from affiliates or employees of the applicant do not qualify as in-kind contributions. Resources may be provided by governmental entities (including other HUD programs if such costs are allowed by statute), public or private non-profit organizations, faith-based organizations, for-profit or civic private organizations, or other entities willing to work with you. In order to secure points you must establish leveraging of resources by providing letters of firm commitment from the organizations and/or individuals who will support your project. Each letter of firm commitment must: (1) Identify the organization and/or individual committing resources to the project, (2) identify the sources and amounts of the leveraged resources (the total FHIP and non-FHIP amounts must match those in your proposed budget submitted under Factor 3), and (3) describe how these resources will be used under your SOW. The letter must be signed by the individual or organization official legally able to make commitments for the organization. If the resources are in-kind or donated goods, the commitment letter must indicate the fair market value of those resources and describe how this fair market value was determined. (Do not include indirect costs within your in-kind resources). In-kind and matching contributions and Program Income must be in accordance with 24 CFR 84.23 and 84.24. If the applicant has no funding source other than the FHIP, it cannot propose in-kind or donated resources. No points will be awarded for general letters of support endorsing the project from organizations, including elected officials on the local, State, or national levels, and/or individuals in your community. For PEI and EOI, if your project will not be supported by non-FHIP resources, then you will not receive any points under this factor. Points will be assigned for PEI and EOI based on the following scale:

1 point will be awarded if your project will be supported by non-FHIP resources but less than 5% of the project's total costs are from non-FHIP resources.

2 points will be awarded if at least 5% but less than 10% of the project's total costs are from non-FHIP resources.

3 points will be awarded if at least 10% but less than 20% of the project's total costs are from non-FHIP resources.

4 points will be awarded if at least 20% but less than 30% of the project's total costs are from non-FHIP resources.

5 points will be awarded if at least 30% of the project's total costs are from non-FHIP resources.

For FHOI, 2 points will be awarded if at least 5%, but less than 10% of the project's total cost are from non-FHIP resources.

3 points will be awarded if at least 10% but less than 20% of the project's total costs are from non-FHIP resources.

4 points will be awarded if at least 20% but less than 30% of the project's total costs are from non-FHIP resources.

5 points will be awarded if at least 30% of the project's total costs are from non-FHIP resources.

Rating Factor 5: Achieving Results and Program Evaluation (10 Points)

In evaluating this factor, HUD will assess the extent to which you demonstrate how you will measure your success or results to be achieved and that represent the work of your organization as set out in your budget. Applicants must describe their specific methods and measures to assess progress, evaluate program effectiveness, and identify program changes necessary to improve performance, to ensure commitments made will be kept and results to be achieved can be accounted for and independently assessed, to ensure performance measures are met. Applicants who have identified inputs and outcome measurement and include means for assessing these measures, tracking and monitoring performance goals and achievements against these commitments made in the application, will receive higher points than those that do not. To meet this requirement, you should:

(i) First, identify the outcome. You should refer to the Logic Model provided in the forms appended to the General Section.

(ii) Second, identify the indicator. An indicator should be explained using numerical measures that can determine the extent to which the outcome was or is expected to be achieved and/or utilized to assess your performance. You should also track or monitor how your projected outcomes will be successfully achieved. Specify what form of measurement tool(s) will be utilized to quantify the overall results of your project's performance.

In formulating how you attain your end results, estimate the types and amounts of clients you expect to be served with the amount allocated as it relates to your proposed budget. Estimate approximately how many of those served will benefit from your project's activities and tasks and estimate the timeframe for this to be accomplished.

This can be done using real numbers and reasonable estimates. If you are proposing a new program, and numbers have never been assessed, indicate that actual numbers will be reported as you submit your required quarterly reports, should you receive funding.

Accomplishments can be achieved using specific measurement tools to assess the impact of your solutions. Examples include: (1) Intake Assessment Instrument; (2) Pre/Post Tests; (3) Customer/Client Satisfaction Survey; (4) Follow-up Survey; (5) Observational Survey; (6) Functioning scale; or (7) Self-sufficiency scale. You should describe what kind of fair housing activities you propose to accomplish and how successful you project them to be given the need, as identified in Factor 2, for these activities. Finally, you should consider this need, what you plan to accomplish, your proposed methodology and work plan to assess the benefits that will be derived from your project.

You should demonstrate the extent to which your application proposes solutions that result in creating linkages and using specific measurement tools to assess the impact of your project and a process to establish a clear relationship between all parties impacted. For the EOI-Disability Component, you should demonstrate how the activities would assist the Department in implementing the Olmstead Supreme Court decision. As your project ends, you must report meaningful data derived from client feedback on how they benefited from your project's activities.

E. Factors for Award Used To Evaluate and Rate Applications for the National Education and Outreach Initiative Program. The factors for rating and ranking applicants and the maximum points for each factor are provided below. The maximum number of points awarded any application is 100. Bonus points are not available for National Program education and outreach applications.

Rating Factor 1: Capacity of the Applicant and Relevant Organizational Experience (25 Points)

This factor addresses the extent to which the applicant has the organizational resources necessary to successfully implement the proposed activities in a timely manner, and the applicant's ability to develop and implement large information campaign projects as appropriate, on a national scale.

(5) Points Current FHIP Grantees

(10) Points for New Applicants

a. General Description of Applicant Organization and Relevant Experience.

In rating this factor, HUD will consider the extent to which the applicant demonstrates:

(1) The qualifications of the applicant organization; the type of organization (e.g., public, private, non-profit, for profit); and the organization's general areas of activity or line of business.

(2) If the applicant has managed large, complex, interdisciplinary projects, the applicant must include information on them in its response.

(3) Awards and major accomplishments of the applicant organization must be described. HUD will also consider any documented evidence, such as performance reviews, newspaper articles, or monitoring findings that may reflect positively or negatively upon the ability of the applicant and its proposed staff to perform the work.

(4) The applicant's capability in handling financial resources with adequate financial control procedures and accounting procedures. In addition, HUD will consider findings identified in applicants' most recent audits; accuracy of mathematical calculations, and other available information on financial management capability.

(5) The extent to which you have the organizational resources necessary to implement your proposed activities on time, and within budget and your past experience in working with State or local officials, housing industry representatives and organizations, and disability rights organizations and others in consensus building, achieving changes to existing laws and regulations which cover housing and accessibility codes and related items, operating in environments that are not receptive to complying with accessibility requirements, and interacting with officials, representatives, or advocates that have divergent or opposing viewpoints. Include descriptions of your organization and, if applicable, your affiliate chapters, or that of your partner's affiliates or other entities that will be used to ensure the National coverage required by this project.

(6) Your experience and knowledge of the Fair Housing Act's accessibility requirements, the Fair Housing Accessibility Guidelines, and the ANSI A117.1 technical standards and skill in disseminating information and training to State and local government agencies, housing agencies and/or the public on these requirements and responsibilities.

(10) Points for Current FHIP Grantees

(15) Points for New Applicants

b. Specific Description of Staff for Proposed Activities. The applicant must demonstrate that it has or will have sufficient personnel or will be able to quickly access qualified experts or professionals to deliver the proposed activities timely and effectively, including the readiness and ability of the applicant to immediately begin the proposed work program. Also the applicant must demonstrate relevant knowledge and experience of the overall proposed project director and staff, including the day-to-day program manager, consultants and contractors in planning and managing programs for which funding is being requested. To demonstrate that the applicant has sufficient qualified personnel, the applicant must submit the proposed number of staff hours for the sub-contractor, employees and experts to be allocated in the SOW and availability of proposed staff to operate the project, the titles and relevant professional background and experience of each employee and expert proposed to be assigned to the project, and the roles to be performed by each employee and expert. Highly competitive applications must demonstrate that proposed staff has at least 3 years of recent and relevant experience in performing eligible program activities or projects similar in scope or nature and directly relevant to the work activities proposed. Finally, applicants should describe their or their sub-contractor's expertise in languages other than English and in reaching the informational needs of individuals with limited English proficiency.

(10) Points for Current FHIP Grantees

(0) Points for New Applicants

c. Consideration of Past Performance. Your past experience in terms of your ability to attain measurable progress in the implementation of your most recent and similar activities where your performance has been assessed. HUD will take into account your past performance in managing funds, including the ability to account for funds appropriately; timely use of funds received either from HUD or other Federal, state or local programs; meeting performance targets for completion of activities and number of persons to be served or targeted for assistance. HUD will use information related to these measures based on information on hand or available from public sources such as newspapers, Inspector General or Government Accounting Office Reports or Findings, hotline complaints that have been proven to have merit, or other such sources of information. In evaluating past performance, the following will apply to Fiscal Years 1999, 2000, and 2001 FHIP grantees:

10 points will be deducted if you obtained any “fair performance” assessment;

5 points will be deducted if you obtained any “good performance” assessment; and

0 points will be deducted if you obtained any “excellent performance” assessment.

Rating Factor 2: Need/Approach to the Problem (20 Points)

This factor addresses the extent to which the applicant documents and defines the national need that its proposed activities and methods are intended to address, and how its proposal offers the most effective approach for dealing with that national need. The quality of the response you provide to one or more of the criteria listed below will determine the score you receive. You may receive up to five points for each criterion you address up to a total of twenty points. Please respond to the following criteria:

a. Identify areas that show where significant amounts of new multifamily housing construction will take place and identify the need to assist State and local governments that need to add or modify language to make local building codes so that they are consistent with the accessibility requirements of the Fair Housing Act and the Fair Housing Accessibility Guidelines, Regulations and the ANSI A117.1 technical standards. In order to document the need you must use reports, statistics, and other data sources that are sound and reliable, including but not limited to, HUD or other Federal, State or local government reports and analyses, relevant economic and/or demographic data, foundation reports and studies from educational institutions/foundations, news articles, and other information that relate to the identified need.

b. Identify State and local jurisdictions with codes that officials: (i) Whose codes are consistent with the requirements of the Fair Housing Act and those that need review, (ii) whose codes are not consistent with the requirements of the Fair Housing Act and will be targeted for assistance/services offered by this project who are in need of education and/or assistance on language to be included in building codes to ensure that such codes meet the requirements of the Fair Housing Act, Fair Housing Regulations, and the Fair Housing Accessibility Guidelines, and the ANSI A117.1 technical standards, such that codes can be adopted, and (iii) who have no codes and are in need of the assistance/services offered by this project so that they may adopt codes that education and/or assistance on language to be included in building codes to ensure that such codes meet the requirements of the Fair Housing Act, Fair Housing Regulations, and the Fair Housing Regulations, Housing Accessibility Guidelines, and the ANSI A117.1 technical standards such that codes can be adopted.

c. Identify how you will use your partnering organization(s)s and affiliates to address the needs and demands identified and how they will be deployed in support of your work activities;

d. Identify specific format, methodology, languages, and materials that are needed to conduct education and outreach to assist State and local jurisdictions in adopting building codes that include the accessibility standards of the Fair Housing Act, Fair Housing Regulations, the Fair Housing Accessibility Guidelines, and the ANSI A117.1 in their building codes. If the applicant has experienced staff or if the applicant proposes to use a contractor sub-grantee, the extent to which the applicant provides a rationale for how it will utilize its staff or a contractor or subgrantee to incorporate its proposed activities, methods, and media techniques will most effectively deal with the national need you describe above. To the extent possible, applicants should demonstrate effectiveness in terms of scope and cost.

Rating Factor 3: Soundness of Approach (35 Points)

This factor addresses the quality and cost-effectiveness of the applicant's proposed work plan. The SOW must address the strategy, quality and time frames needed to carry out the project and all activities as proposed.

(25 Points)

a. Statement of Work.

Submit a proposed SOW that comprehensively outlines in chronological order the administrative and program activities and tasks to be performed during the grant period. Your outline should also include a schedule of proposed activities and products (with interim implementation steps), staff allocation over the term of the project, staff acquisitions and training, and activities of partners and subcontractors.

For this Component—(1) Outline the extent to which your work program provides for national coverage, including States and local governments to be assisted through workshops, one-on-one technical assistance and distance learning opportunities, and your strategy for moving them from education to implementation of the accessibility standards in their building codes.

(2) Describe the extent to which you will provide outreach to states and local governments and technical staff to make them aware of the availability of your assistance and use a variety of techniques and media, including your proposed method of distribution, formats and languages to be used in providing information to diverse audiences.

(3) Clearly describe the specific activities and tasks to be performed, the sequence in which the tasks are to be performed, noting areas of work which must be performed simultaneously, estimated completion dates, and the work and program deliverables to be completed within the grant period, including specific numbers of quantifiable end products and program improvements the applicant aims to deliver by the end of the award agreement period as a result of the work performed; and

(4) Describe the immediate benefits of the project and how the benefits will be measured. Applicants must describe the methods they will use to determine the effectiveness of the impact of their fair housing educational curricula nationally.

(10 Points)

b. Budget Form and Budget Information. A written budget narrative must accompany the proposed budget for any listed item. Failure to submit the narrative will result in the 5 points being deducted under this sub-factor. The narrative (counted toward the 10 page limit) and supporting documentation (not counted toward the 10 page limit) must address the following for maximum points:

(1) Cost estimates of salary levels, staff assignments, number of staff hours, and all other budget items are reasonable, allowable, and appropriate for the proposed activities;

(2) How cost effective the proposed program is in achieving its anticipated results, as well as in achieving significant impact; and

(3) Have you explained and attached back-up documentation for each cost category. Generally, estimated costs for high-cost items or subcontractors/consultants should be supported by bids from at least three (3) sources. Where there are travel costs for subcontractors/consultants, you must show that the local combined travel costs (per diem rates must be consistent with Federal Travel Regulations but not in excess) and rates and fees do not exceed the rates and fees charged by local subcontractors and consultants. A breakdown of each cost category is listed in the General Section.

In addition:

(4) How proposed activities will yield long-term results and innovative strategies that can be readily disseminated to other organizations and State and local governments, and

(5) How the proposed project will make available activities, training and meeting sites, and information services and materials in places and formats that are accessible to all persons including persons with disabilities.

Rating Factor 4: Leveraging Resources (5 Points)

This factor addresses the ability of the applicant to secure other resources, which can be combined with HUD's program resources to achieve program purposes. In evaluating this factor HUD will consider:

The amount of non-FHIP resources you have identified and how firm the commitment is for those resources. HUD encourages you to secure resources from sources other than what is requested from this program. Resources may include funding or in-kind contributions, such as workspace, donated media announcements, or equipment allocated to the purposes of your proposal. Contributions from affiliates or employees of the applicant do not qualify as in-kind contributions. Resources may be provided by governmental entities (including other HUD programs where allowed by statute) public or private non-profit organizations, for profit private organizations, or other entities willing to work with you in accordance with the proposed FHIP activities. If your project will not be supported by non-FHIP resources, you cannot claim in kind and donation of resources and you will not receive any points under this factor. Points will be assigned based on the following scale:

1 point will be awarded if your project will be supported by non-FHIP resources but less than 5% of the project's total costs are from non-FHIP resources.

2 points will be awarded if at least 5% and less than 10% of the project's total costs are from non-FHIP resources.

3 points will be awarded if at least 10% and less than 20% of the project's total costs are from non-FHIP resources.

4 points will be awarded if at least 20% and less than 30% of the project's total costs are from non-FHIP resources.

5 points will be awarded if more than 30% of the project's total costs are from non-FHIP resources. You must establish leveraging of resources by providing letters of firm commitment from the organizations and/or individuals committing resources to the project. Each letter of firm commitment must: (i) Identify the organizations and/or individuals committing resources to the project; (ii) identify the sources and amounts of the leveraged resources (the total FHIP and non-FHIP amounts must match those in your proposed budget submitted under Factor 3), and (iii) describe how these resources will be used as part of your SOW. The letter must be signed by the individual or organization official legally able to make commitments for the organization. If the resources are in-kind or donated goods, the commitment letter must indicate the fair market value of these resources and describe how the fair market value was determined. No points will be awarded for general letters of support endorsing the project from organizations and/or individuals (including elected officials) in your project area(s).

Rating Factor 5: Achieving Results and Program Evaluations (15 Points)

This factor addresses the extent to which you discuss the accomplishments or results to be achieved and that represent the work of your organization as manifested in your budget. Applicants must describe their specific methods and measures to assess progress, evaluate program effectiveness, and identify program changes necessary to improve performance to ensure that commitments made and results to be achieved can be accounted for and independently assessed to ensure performance measurements are met. Applicants who have identified inputs and outcome measurements and include means for assessing these measures, tracking and monitoring performance goals and achievements against commitments made in the application will receive higher points than those that do not. You must collect data showing the outcomes of your grant. These outcomes may vary from grantee to grantee, but should include indicators, where applicable, such as number of persons trained, number of persons counseled, number of complaints filed, number of housing units obtained or made accessible, and relief obtained. You may include other outcomes if they apply to your grant. Outcome data must be collected and a data collection tool must be identified for your program and may include: functioning scale, or self-sufficiency scale. In evaluating this factor, HUD will consider the extent to which you demonstrate:

a. You have established a clear, concise relationship between the outcome of your project and its impact nationally.

b. The extent to which your application addresses outreach activities to promote awareness of project activities. At a minimum, your application should discuss procedures you will use to promote awareness of the services provided by your proposal.

You should demonstrate the extent to which your application develops solutions that result in creating linkages and using specific measurement tools to assess the impact of your solutions. Such linkages may include: increasing knowledge of fair housing rights and responsibilities, increasing awareness of the Act; increasing homeownership; empowering the homeless, and identifying barriers to housing choice.

c. The extent to which you have developed interrelationships to help build nationwide efforts that coordinates the resources of multiple applicants and programs. HUD encourages multiple entities to join together and pool all available resources in a common, coordinated effort to obtain national geographic coverage. Describe in your proposal how your project activities will be coordinated with other organizations and linked with: (i) Other on-going HUD-funded program activities; (ii) Other on-going national, Federal, State, local or privately funded activities. Also provide a measurement tool to assess coordinated progress, evaluate linked program effectiveness, and identify coordinated program changes necessary to improve performance to ensure that commitments made and results to be achieved can be accounted for and independently assessed to ensure performance measurements are met.

d. The extent to which your application addresses outreach activities to promote awareness of project activities and to achieve stated goals. This includes: (i) a discussion of how your methods or approaches will encourage State and local jurisdictions to adopt building codes that incorporate one of HUD's recognized safe harbors for compliance. Also include an assessment tool to measure the effectiveness of these methods and approaches; (ii) identification of State and local jurisdictions that need updates of their codes to address inconsistencies identified in HUD's final report on the Review of Model Building Codes and how you will provide technical assistance. Also include a methodology and approach of how you will reach these jurisdictions, address these inconsistencies, and measure your performance; and (iii) an explanation of how you will assess your partner's performance. Finally, you should demonstrate the extent to which your application develops solutions that result in collaborative partnerships among builders, State and local government building code entities, and disability advocacy or fair housing groups to encourage the adoption of Model building codes at the State or local level that are consistent with the accessibility requirements of the Act, its regulations, and the Fair Housing Accessibility Guidelines.

(F) Applicant Notification and Award Procedures. (1) Notification. No information about the review and award process will be available to you during the period of HUD evaluation, which begins on the closing date for applications under this NOFA and lasts approximately 90 days thereafter, except to advise you, in writing or by telephone, if HUD determines that your application is ineligible or has technical deficiencies which may be corrected as described in Section VI of the General Section of the SuperNOFA and Section VII of this NOFA. HUD will communicate only with persons specifically identified in the application. HUD will not provide information about the application to third parties such as subcontractors.

(2) Negotiations. If you are selected, HUD will require you to participate in negotiations to determine the specific terms of your cooperative or grant agreement. HUD will follow the negotiation procedures described at Section VI(D) of the General Section of the SuperNOFA. The selection is conditional and does not become final until the negotiations between the applicant and the Department are successfully concluded and the grant or cooperative agreement is signed and executed. HUD will negotiate only with the person identified in the application as the Director of the organization or if specifically identified in the application, the Project Director. HUD will not negotiate with any third party (i.e., a subcontractor, etc.).

(3) Funding Instrument. HUD expects to award a cost reimbursable or fixed-price cooperative or grant agreement to each applicant selected for award. Upon completion of negotiations, HUD reserves the right to use the funding instrument it determines is most appropriate.

(4) Adjustments to Funding. As provided in Section VI(F) of the General Section of the SuperNOFA, HUD may approve an application for an amount lower than the amount requested, fund only portions of your application, withhold funds after approval, reallocate funds among activities and/or require that special conditions be added to your grant agreement, in accordance with 24 CFR 84.14, the requirements of this SuperNOFA, or where:

(a) HUD determines the amount requested for one or more eligible activities is unreasonable or unnecessary;

(b) An ineligible activity is proposed in an otherwise eligible project;

(c) Insufficient amounts remain to fund the full amount requested in the application, and HUD determines that partial funding is a viable option;

(d) The past record of key personnel warrants special conditions; or,

(e) Training funds are not reserved for FHIP training.

(5) Performance Sanctions. A grantee or subcontractor failing to comply with the requirements set forth in its grant agreement will be liable for such sanctions as may be authorized by law, including repayment of improperly used funds, termination of further participation in the FHIP, and denial of further participation in programs of HUD or any Federal agency.

(6) Applicant Debriefing. After awards are announced, applicants may receive a debriefing on their application as described in Section XI(A)(4) of the General Section of this SuperNOFA. Materials provided during the debriefing will be the applicant's final scores for each rating factor, final evaluator comments for each rating factor, and the final assessment indicating the basis upon which assistance was provided or denied. Applicants requesting a debriefing must send a written request to Annette Corley, Grant Officer, U.S. Department of Housing and Urban Development, FHIP/FHAP Support Division, 451 7th Street SW., Room 5224, Washington, DC 20410. HUD will not release the names of applicants or their scores to third parties. Selections do not become final until final negotiations with HUD are successfully concluded.

VI. Application Submission Requirements

In addition to the forms, certifications and assurances required of applicants to all HUD programs, which can be found in the General Section of the SuperNOFA, you must submit with each FHIP application, the forms, certifications and assurances described below and found at Appendix B.

In general.

When applying under any Initiative or Component you should submit the following:

(A) Transmittal Letter. Your transmittal letter must identify: (1) The dollar amount requested, and (2) the specific FHIP Initiative, or in the case of EOI, whether for the Regional/Local Community Based Program or the National Program and the specific Component (General, Disability, Hispanic Servicing, or Model Codes), for which you are applying.

(B) Narrative Statement. Respond completely to the instructions under each of the five Factors for Award and include the related items, such as resumes, SOW, and budget. Failure to provide the required information in the appropriate Factor will result in a lower score for that Factor—for example, information in the Project Abstract, although useful for developing a project synopsis, will not be considered when evaluating applications. The narrative responses must not exceed 10 pages per factor (required attachments are not counted); text must be double-spaced and pages numbered consecutively (starting with Factor 1 through the end of Factor 5). Please use 12 point typesize for your narrative responses.

(C) Code of Conduct. Awarded applicants must develop, maintain, and submit a written code of conduct as noted in the General Section.

(D) Corrections to Deficient Applications. After the application due date, HUD may not, consistent with its regulations in 24 CFR part 4, subpart B, consider any unsolicited information you, the applicant, may want to provide. HUD may contact you to clarify an item in your application or to correct technical deficiencies. HUD may not seek clarification of items or responses that improve the substantive quality of your response to any rating factors. In order not to unreasonably exclude applications from being rated and ranked, HUD may contact applicants to ensure proper completion of the application and will do so on a uniform basis for all applicants. Examples of curable (correctable) technical deficiencies include failure to submit the proper certifications or failure to submit an application that contains an original signature by an authorized official or failure to submit the requested number of copies. In each case, HUD will notify you in writing by describing the clarification or technical deficiency. HUD will notify applicants by facsimile or by USPS, return receipt requested. Clarifications or corrections of technical deficiencies in accordance with the information provided by HUD must be submitted within 5 calendar days of the date of receipt of the HUD notification. (If the due date falls on a Federal holiday, your correction must be received by HUD on the next day that is not a Federal holiday.) If the deficiency is not corrected within this time period, HUD will reject the application as incomplete and it will not be considered for funding. (Sections 202 and 811 Programs provide for appeal of rejection of an application on technical deficiency. Please see the Program Section for these programs for additional information and instructions.)

Listed below are requirements by Factor for the Regional/Local Community Based Programs:

Award Factor 1: Capacity of Applicant and Relevant Organizational Experience—Narrative/Resumes or Position Descriptions.

In addition:

For PEI and FHOI Applicants:

(1) Testing Experience. You must document your prior testing experience (see Factor 1: Capacity of the Applicant and Relevant Organizational Experience),

(2) Letter of Determination from IRS of your 501(c)(3) tax-exempt status.

For all Applicants:

Statement of Eligibility.

Award Factor 2: Need/Distress/Extent of the Problem—Narrative. Reference or submit data and studies that indicate the presence of housing discrimination, segregation and/or other indices of discrimination in the project area based upon race, color, religion, sex, national origin, familial status or disability, and explain why the project area is underserved and why the proposed organization is needed. Do not attach copies of reports, computer printouts, etc. If you have tables or exhibits include them. Make sure they are referenced in the text. Attachments not mentioned in the text will not be reviewed.

Award Factor 3: Soundness of Approach—Narrative, Statement of Work, HUD Budget Form, Budget Narrative.

Award Factor 4: Leveraging Resources—Narrative. Letter(s) of Firm Commitment.

Award Factor 5: Achieving Results and Program Evaluation—Narrative. Logic Model.

Listed below are the requirements by Factor for the EOI—National Program Components.

Award Factor 1: Capacity of Applicant and Relevant Organizational Experience—Narrative. Resumes or Position Description, Statement of Eligibility.

Award Factor 2: Need/Distress/Extent of the Problem—Narrative. Reference and submit data designed to educate the public about their fair housing rights. Do not attach copies of reports, computer printouts, etc. If you have tables or exhibits include them. Make sure they are referenced in the text. Attachments not mentioned in the text will not be reviewed.

Award Factor 3: Soundness of Approach—Narrative, SOW, HUD Budget Form, Budget Narrative.

Award Factor 4: Leveraging Resources—Narrative. Letter(s) of Firm Commitment.

Award Factor 5: Achieving Results and Program Evaluation—Narrative. Logic Model.

VII. Corrections to Deficient Applications

Section VIII of the General Section of the SuperNOFA provides the procedures for corrections to deficient applications.

VIII. Environmental Requirements

In accordance with 24 CFR 50.19(b)(3), (4), (9), (12), and (13) of HUD regulations, activities assisted under this program are categorically excluded from the requirements of the National Environmental Policy Act and are not subject to environmental review under related laws and authorities.

IX. Authority

Section 561 of the Housing and Community Development Act of 1987, as amended, (42 U.S.C. 3616) established the Fair Housing Initiatives Program (FHIP)) and the implementing regulations are found at 24 CFR part 125.

Appendix A

Frequently Asked Questions

Q. If data, tables, exhibits, reports, and studies are submitted with the application, will they be counted toward the 10 page limit requirement?

A. The attachments do not count toward the ten-page limit. However, you are encouraged to summarize the points that support your Factor responses. Do not attach data tables, exhibits, and studies and expect the evaluator to read them and discern the points that should be considered. If you summarize information from studies, reports, etc, simply include a bibliography or other reference at the end of Factor.

Q. In previous years, FHIP applicants were not required to submit the Certification of Consistency with the Consolidated Plan. Is the Certification required this year?

A. Yes.

Q. Where can I find a copy of the Application Kit?

A. There is no Application Kit for the FY2003 FHIP SuperNOFA. The NOFA clearly describes the requirements for completing a successful application and all forms and certifications needed to complete the application are included in the General and FHIP Sections of the SuperNOFA.

Q. What is the maximum number of narrative pages that can be submitted for each Rating Factor?

A. The maximum number is 10 pages per Rating Factor. This does not include any attachments that may be required under each factor (for example, the proposed statement of work and budget required under Factor 3, Resumes as required by Factor 1, or any reports or documents you attach to support your Factor information). The narrative pages must be double-spaced and you are required to use 12 type size (font). However, all pages in the application must be consecutively numbered starting with number one (1) through the end of your application. For example, Factor 1 has 10 pages of narrative and 10 pages of attachments. Each attachment page must be numbered. When you get to Factor 2, the first page of the Factor will be numbered 21, and so on. If you do not number each page in your entire application, points will be deducted from your application if this criterion is not met.

Q. The FHIP SuperNOFA refers to QFHOs and FHOs. What is the difference between them?

A. These terms are defined in the FHIP regulations. Both organizations must be private, tax-exempt, charitable organizations that have engaged in enforcement-related activities. The amount of enforcement-related experience is an eligibility requirement for PEI, least one year for and FHOI, at least two years. (See 24 CFR 125.103 for QFHO and 24 CFR 125.401(b)(2) for FHO.)

All applicants are required to complete the Statement of Eligibility. For PEI and FHOI, applicants must self-identify as a QFHO or an FHO AND provide information, including dates of enforcement-related activities. The information you provide should enable HUD to determine if your organization meets at least the one or two year enforcement-related experience requirement. Your application will be declared ineligible if you fail to submit the Statement of Eligibility with your application.

Q. May an applicant subcontract out a percentage of its activities to subcontractors, partner, or consultants, if it is selected for a FHIP award?

A. Yes. However, when the expenditures to a particular subcontractor, partner, or consultant exceed 10% of the grant amount, an itemized budget is required.

Q. Is an organization “engaged in testing for fair housing violations” if it hires a qualified organization to carry out its testing program?

A. Yes, so long as the applicant maintains decision making authority, analyzes the test results, and maintains oversight or selection of testing operations.

Q. Does the SuperNOFA identify what makes an application ineligible?

A. Yes. For FHIP, see the eligibility requirements for each Initiative, and the Threshold Criteria in Section V(A). For threshold requirement information under the SuperNOFA, see Section V of the General Section of the SuperNOFA.

Q. Can an applicant propose to do an Analysis of Impediments (AI)?

A. No. The applicant can identify activities to be carved out of the AI but not to do planning to develop AI.

Q. Are there major differences between this year's SuperNOFA and last year's?

A. Yes, those differences are explained in Section III of the FHIP NOFA and Section II of the General Section of the SuperNOFA. Please note the major differences in eligibility requirements. Some requirements that were technical deficiencies in previous years are ineligible under this NOFA.

Q. At what point may a FHOI “sponsored organization” apply under any FHIP Initiative?

A. A sponsored organization is eligible after three (3) years to apply for funds under other initiatives or components.

Q. What are maximum awards?

A. Maximum award is the maximum amount that will be awarded under the Initiative for which you are applying. If you request an amount over this maximum amount, your application will be declared ineligible.

Q. Where do you send completed applications?

A. All completed applications must be received by the FHIP/FHAP Support Division Office in Washington, DC. These applications should be mailed or sent by an express service to the address stated in the SuperNOFA under the Section Addresses and Application Submission Procedures. Please note that applications incorrectly addressed may not be forwarded to this Division at all or it may be forwarded late. If that happens, your application will be deemed ineligible.

Q. What is the best method of knowing that the appropriate person has received my application? Should I follow up with a call?

A. Include with your completed application a complete copy of the Acknowledgment of Application Receipt. Be sure to include your correct mailing address and the person to whom the Acknowledgment should be sent. The Acknowledgement will be returned to the address indicated. HUD will not acknowledge the receipt of applications over the telephone (see General Section for return receipt requirements).

Q. What is the website address?

A. Http//www.hud.gov/grants

Q. What is the due date?

A. The due date is outlined in this NOFA under Section I, Application Due Date.

Q. If I have a technical question, can I call HUD?

A. Yes, technical questions should be directed to Lauretta A. Dixon, Myron P. Newry, or Denise L. Brooks of the FHIP/FHAP Support Division at (202) 708-0800 (this is not a toll-free number). Persons with hearing or speech impairments may call 1-800-290-1617 (this is a toll-free number). Technical assistance does not include assisting you in determining your eligibility to apply for funds. Applicants must make their own determination, based upon the requirements identified in the FHIP component under the section labeled Eligible Applicants. Technical Assistance cannot be provided to help you write any part of your application or develop responses to the application requirements. Rather, technical assistance, outside of the training broadcasts, will only clarify general application and program requirements published in the NOFA.

Q. What is meant by geographic diversity?

A. See comments above in Section V.

Q. As an FHOI applicant, are education and outreach expenses required to come out of my 15% administrative costs?

A. No. The education and outreach expenses can be accounted for in the budget of the organization being established or enhanced.

BILLING CODE 4210-32-P

Funding Availability for the Housing Counseling Program

Program Overview

Program Purpose. This program supports the delivery of a wide variety of housing counseling services to homebuyers, homeowners, low- to moderate-income renters, and the homeless. The primary objectives of the program are to expand homeownership opportunities and improve access to affordable housing. Counselors provide guidance and advice to help families and individuals improve their housing conditions and meet the responsibilities of tenancy and homeownership.

Agencies funded through this program may also provide Home Equity Conversion Mortgage (HECM) counseling to elderly homeowners who are looking to convert equity in their homes into income that can be used to pay for home improvements, medical costs, living expenses, or other expenses.

Available Funds. $35.56 million in FY03 Funds.

Application Deadline. June 25, 2003.

Match. No specific ratio is required. However, in order to receive points under Rating Factor 4, applicants are required to demonstrate the commitment of other private and public sources of funding to supplement HUD funding for the applicant's counseling program. HUD does not intend for its housing counseling grants to cover all costs incurred by an applicant.

I. Application Submission, Further Information and Technical Assistance

Application Kits. There is no application kit. Specific application submission requirements are outlined in Section VI.

Application Due Date. Completed applications must be submitted on or before June 25, 2003.

Mailing. See the General Section of the SuperNOFA for mailing instructions and procedures.

Application Submission Procedures. Local Housing Counseling Agencies (LHCAs) applying under Category 1 and State Housing Finance Agencies (SHFAs) applying under Category 3 must submit an original and two copies of a complete application to the contact person listed for the Homeownership Center (HOC) whose jurisdiction includes the geographic area in which the applicant is proposing to provide services (see Appendix B.) The envelope should be clearly marked “FY 2003 Housing Counseling Grant Application (indicate Category 1 or 3.)”

National and regional housing counseling intermediaries applying under Category 2 must submit an original and two copies of a complete application to “Director, Program Support Division, Room 9266, Office of Single Family Housing, HUD Headquarters, 451 Seventh Street, SW., Washington, DC 20410.” The envelope should be clearly marked, “FY 2003 Housing Counseling Intermediary Application.”

Colonias and Predatory Lending Grant Applications. All applicants applying under Categories 4 and 5 must submit an original and two copies of a complete application to the Santa Ana HOC (see Appendix B.) The Santa Ana HOC will be evaluating all applications submitted under Categories 4 and 5. Applications should be sent to the attention of the Program Support Division Director. For Category 4 applicants, the envelope should be clearly marked “FY 2003 Housing Counseling—Colonias Application.” For Category 5, the envelope should be marked “FY 2003 Housing Counseling—Predatory Lending Application (indicate your organization type, e.g.: National Intermediary / Regional Intermediary, SHFA, LHCA.)”

Further Information. Local housing counseling agencies (LHCAs) and state housing finance agencies (SHFAs) should call the HOC serving their area (See Appendix B for the contact information for the HOCs). National and regional intermediaries should contact HUD Headquarters, Program Support Division at (202) 708-0317 (this is not a toll-free number). Persons with hearing or speech impairments may access any of these numbers via TTY by calling the toll-free federal Information Relay Service at 1-800-877-8339.

Satellite Broadcast. HUD will hold an informational broadcast via satellite for potential applicants to learn more about the program and the application. For more information about the date and time of the broadcast, consult the HUD web site at http://www.hud.gov/grants.

II. Amount Allocated

Amount Allocated.—Of the $39,740,000 appropriated for housing counseling in FY 2003, $37.561 million is made available for eligible applicants under this SuperNOFA. Specifically, $35.561 million is available through this NOFA, and $2 million is available through a separate NOFA for Section 8 Homeownership Voucher Housing Counseling found elsewhere in this SuperNOFA. Of this $35.561 million, up to $250,000 is available for counseling services that specifically target Colonias, and $2.7 million is available for counseling services addressing predatory lending. An allocation of $1 million of the $39,740,000 appropriated is available for the Home Equity Conversion Mortgage (HECM) Program, as provided in section 255(k) of the National Housing Act (12 U.S.C. 1715z-20). With the balance of FY03 appropriation, and additional carry-over funding, an allocation of up to $4 million has been set aside for housing counseling support such as training and tuition assistance for housing counselors, or other HUD counseling initiatives and activities, or both.

Grant Categories—HUD will award grants to qualified public or private nonprofit organizations to provide housing counseling services through five grant categories: (1) Local Housing Counseling Agencies (LHCAs); (2) National and Regional Intermediaries; (3) State Housing Finance Agencies (SHFAs); (4) Agencies Serving Colonias; and (5) Predatory Lending.

HUD-approved LHCAs, HUD-approved national or regional intermediaries, and SHFAs are eligible for funding under Categories 4 and/or 5. Applicants applying under Categories 4 and/or 5 may also apply under one of Categories 1-3, as described below. A separate application must be submitted for each Category under which you apply. See Section VI, “Application Submission,” below for details on where to submit applications, as submission requirements vary by category and applicant type.

HUD-approved LHCAs—In addition to Categories 4 and 5, HUD-approved LHCAs may apply for and receive: (1) One grant under Category 1; or (2) one sub-grant from an intermediary or SHFA under Category 2 or 3; but not both. HUD-approved LHCAs that apply under Category 1 are prohibited from also applying for or receiving a sub-grant under Category 2 or 3.

LHCAs that are not HUD-approved, but are affiliates or branches of SHFAs or national or regional intermediaries, may receive only one sub-grant from an intermediary under Category 2 or 3, but not both, and/or a sub-grant from an intermediary under Category 4 and/or 5. They are not, however, eligible to apply directly to HUD under Categories 1, 4 or 5.

HUD-approved national and regional intermediaries—In addition to Categories 4 and 5, HUD-approved national and regional intermediaries may apply for a grant under Category 2.

SHFAs—In addition to Categories 4 and 5, SHFAs may only apply for grants under Category 3.

Category 1—Local Housing Counseling Agencies (LHCAs.) $12.45 million is available from HUD to directly fund HUD-approved LHCAs.

Award: No individual LHCA may be awarded more than $150,000. HUD anticipates that the average award will be approximately $36,000.

Funding allocation: Funding is allocated to each HOC jurisdiction by a formula that incorporates first-time homebuyer and default rates.

Allocations for Category 1 by HOC are as follows:

HOC | Funding allocation
Philadelphia HOC | 3,679,412
Atlanta HOC | 3,837,703
Denver HOC | 2,848,906
Santa Ana | 2,083,980
Total | $12.45 million

Category 2—National and Regional Intermediaries. $18.161 million is available from HUD to directly fund HUD-approved national and regional intermediaries.

Awards for HUD-approved national and regional intermediaries may not exceed $2.5 million and $750,000, respectively.

Category 3—State Housing Finance Agencies (SHFA). $2 million is available to fund SHFAs that provide housing counseling services directly or serve as intermediaries to affiliates who offer housing counseling services.

Award: There is no cap on the award amount that a SHFA, or its affiliates, may receive.

Funding allocation: Funding is allocated to each HOC jurisdiction by a formula that incorporates first-time homebuyer and default rates.

Allocations for Category 3 by HOC are as follows:

HOC | Funding allocation
Philadelphia HOC | 591,070
Atlanta HOC | 616,498
Denver HOC | 457,656
Santa Ana | 334,776
Total | $2 million

Category 4—Colonias. $250,000 is available for housing counseling services that specifically target Colonias.

Eligible applicants include (1) HUD-approved LHCAs; (2) HUD-approved national and regional intermediaries; and (3) SHFAs.

Award: There is no cap on the award amount.

Category 5—Predatory Lending. $2.7 million is available for housing counseling services addressing predatory lending. Specifically, grants under this category are designed to: (a) assist victims of predatory lending; and (b) assist clients with identifying and avoiding predatory lending practices, such as loans with unfair and inappropriate terms and conditions, and other unscrupulous practices intended to defraud and/or take advantage of homebuyers / borrowers.

Eligible applicants include (1) HUD-approved LHCAs; (2) HUD-approved national and regional intermediaries; and (3) SHFAs.

Award. Awards for HUD-approved national intermediaries may not exceed $450,000. Awards for HUD-approved regional intermediaries and SHFAs may not exceed $140,000. Awards for HUD-approved LHCAs may not exceed $40,000.

Funding Allocation. $1.5 million is available for national intermediaries. $300,000 is available for regional intermediaries and SHFAs. The amount of funding available for LHCAs is $900,000.

III. Program Description/Eligibility

(A) Eligible Applicants—Eligible SHFAs are entities that satisfy the definition in 24 CFR 266.5 of a “Housing Finance Agency.” SHFAs and eligible sub-grantees/affiliates do not need HUD approval in order to receive these funds.

Eligible LHCAs and intermediaries are private nonprofit and public organizations, including grass-roots faith-based and other community-based organizations, that secure HUD-approval as an LHCA, or as a national or regional intermediary, as of the publication date of this SuperNOFA, and retain such approval through the term of any grant awarded. For information on securing HUD-approval visit HUD's website at http://www.hud.gov/offices/hsg/sfh/hcc/hccprof13.cfm.

Additionally, to be eligible to receive a grant directly from HUD under this Housing Counseling NOFA, all applicants (except SHFAs) must be (1) duly organized and existing as a nonprofit, (2) in good standing under the laws of the state of its organization, and (3) authorized to do business in the states where it proposes to provide counseling services. For example, applicable state licensing, corporate filing, and registering requirements must be satisfied.

An LHCA, intermediary, SHFA or affiliate may use branch offices to provide counseling funded through this NOFA. A branch office is an organizational and subordinate unit of the LHCA, intermediary, or SHFA, not separately incorporated or organized. LHCAs and affiliates of intermediaries and SHFAs may maintain a main office and branch offices in no more than two states, which must be contiguous.

Intermediaries and SHFAs provide sub-grants to affiliates and/or branches. Eligible sub-grantees are not required to be HUD-approved, although HUD-approved LHCAs may apply to an intermediary or SHFA as a sub-grantee. Intermediaries and SHFAs that award sub-grants to affiliates or branches that are not HUD-approved must assure that said organizations meet or exceed the standards, as specified in paragraph 2-1 of HUD Handbook 7610.1, Rev-4, CHG-1, for HUD-approved LHCAs. These organizations will be monitored by HUD, and intermediaries that do not ensure their affiliates'/branches' compliance with HUD standards could be prohibited from participating in the program.

To be eligible for a sub-grant under categories 2 or 3, affiliates or branches must not have directly applied for or received a grant under Category 1 of this NOFA, or another sub-grant from an Intermediary or SHFA under Category 2 or 3 of this NOFA. Affiliates or branches receiving a sub-grant under Category 2 or 3 are also eligible to receive sub-grants under categories 4 and/or 5, but only with the same intermediary or SHFA through which they receive a sub-grant under Categories 2 or 3. If also HUD-approved as an LHCA, affiliates or branches receiving a sub-grant under Categories 2 or 3 are permitted to apply to HUD directly as an LHCA under Categories 4 and/or 5. Similarly, an LHCA that applies directly to HUD under Category 1 may also receive sub-grants from an intermediary or SHFA under Categories 4 and/or 5, but only with the same intermediary or SHFA.

Additionally, to be eligible for a sub-grant, an affiliate must be (1) duly organized and existing as a nonprofit, (2) in good standing under the laws of the state of its organization, and (3) authorized to do business in the states where it proposes to provide housing counseling services. For example, applicable state licensing, corporate filing, and registering requirements must be satisfied.

(B) Eligible Activities. Agencies selected as grantees or sub-grantees will only be reimbursed for the eligible activities outlined in this Section.

Grantees or sub-grantees directly providing housing counseling services under Categories 1 through 4 may use their HUD housing counseling funds for one or more of the 8 eligible activities listed below.

Grantees or sub-grantees directly providing housing counseling services under Category 5 (Predatory Lending) may use their HUD housing counseling funds for group sessions and/or one-on-one counseling that clearly and directly assists victims of predatory lending or helps to prevent predatory lending.

(1) Pre-Occupancy Counseling. This includes the following types of one-on-one counseling: pre-purchase; pre-rental; search assistance/mobility; fair housing; budgeting for mortgage or rent payments; money management; and housing care and maintenance. This also may include guidance on: alternative sources of mortgage credit; how to apply for housing assistance; how to identify and avoid predatory lending practices; locating housing which provides universal design and visitability; referrals to community or homeless services, and regulatory agencies; and advocating with lenders for non-traditional lending standards.

(2) Homebuyer Education Programs. These programs are housing related education programs in which educational materials are used in training sessions for multiple participants, including HUD's Homebuyer Education and Learning Program (HELP). For a typical homebuyer education program, participants complete eight to twelve course hours. Agencies that provide this service must also offer individual counseling to complement group sessions.

(3) Post-Purchase/Mortgage Default and Rent Delinquency Counseling. This includes counseling on how to: restructure debt, obtain recertification for rent subsidy, establish reinstatement plans, seek loan forbearance, and manage household finances. This counseling can also include helping victims of predatory lending, educating clients on renter's and landlord's rights, explaining the eviction process, providing referrals to other sources, and assisting clients with locating alternative housing or pursuing loss mitigation strategies.

(4) Post-Purchase/Post-Occupancy Counseling. This includes education programs and counseling activities on property maintenance, personal money management, and relations with lenders and landlords.

(5) Home Equity Conversion Mortgage (HECM) Counseling. HECM counseling assists clients who are 62 years or older with the opportunity to convert the equity in their homes into income to pay living, medical or other expenses.

(6) Home Improvement and Rehabilitation Counseling. This counseling includes educating the client about: Their loan and grant options; the loan and/or grant application processes; what housing codes and housing enforcement procedures apply for the intended activity; accessibility codes and how to design features to provide accessibility for persons with disabilities; non-discriminatory lending and other funding for persons who modify their dwellings to accommodate disabilities; visitability and universal design; how to specify and bid construction work; how to enter into construction contracts; and how to manage construction contracts, including actions to address the non-performance of contractors.

(7) Displacement and Relocation Counseling. This counseling includes helping clients understand their rights when faced with displacement, explaining the responsibility of the entity causing displacement, assisting clients with understanding eviction proceedings, providing assistance with locating alternate housing, and referring clients to homeless services.

(8) Marketing and Outreach Initiatives. This includes providing general information about housing opportunities, conducting informational campaigns, and raising awareness about critical housing topics, such as predatory lending or fair housing issues. (Note: affirmative fair housing outreach should be directed at those populations least likely to seek counseling services. To do so, it may be necessary to broaden the target areas in order to reach a greater variety of racial and ethnic minorities.)

Note: For each of the eight general activities you propose, you must be prepared to meet the needs of all individuals requesting services, including persons with disabilities, regardless of the complexity of the services involved. Additionally, services must be affirmatively marketed to persons with disabilities, including visual and hearing disabilities, as they would be to any other segment of the population not likely to apply for such services.

(C) Eligible Intermediary/SHFA Activities. Intermediaries and SHFAs can directly provide the housing counseling services described above in Sub-Section A through branches, or distribute and administer grant funds and provide technical assistance and other services to affiliates, who are eligible to undertake any or all of the eligible housing counseling activities outlined above.

Intermediaries and SHFAs have wide discretion to decide how to allocate their HUD Housing counseling and leveraged funding among their branches or affiliates, with the understanding that a written record must be kept documenting and justifying funding decisions. This record must be made available to affiliates and to HUD. Intermediaries and SHFAs must also execute sub-grant agreements with their affiliates that clearly delineate the mutual responsibilities for program management, including appropriate time frames for reporting results to HUD.

IV. Requirements

Agencies selected as grantees or sub-grantees must also comply with the following requirements:

(A) Threshold Requirements. The requirements listed in Section V of the General Section of the SuperNOFA apply to this program. Applications will be declared ineligible for any of the following reasons:

—If you or any of your affiliates or branches do not meet the Civil Rights Threshold Requirements set forth in Section V(B) of the General Section of this SuperNOFA.

—If you are presently debarred, suspended, proposed for debarment, declared ineligible, or voluntarily excluded from covered transactions from any federal department or agency.

—If you are not currently approved by HUD as an LHCA or as a National or Regional Housing Counseling Intermediary, and if you didn't secure approval by the publication date of this SuperNOFA. SHFAs need only satisfy the definition in 24 CFR 266.5 of a “Housing Finance Agency.”

(B) Program Requirements. Programmatic requirements are outlined in detail in HUD Handbook 7610.1, REV-4, CHG-1, dated October 27, 1997, which can be viewed on HUD's website at http://www.hud.gov/offices/hsg/sfh/hcc/hccprof7.cfm.

Additionally, the following also apply:

(1) List of Agencies. Pursuant to section 106(C)(5) of the Housing and Urban Development Act of 1968, HUD maintains a list of all HUD-approved and HUD-funded counseling agencies, including contact information, which interested persons can access. All grantees under Categories 1, 4, and 5 and sub-grantees under Categories 2, 3, 4 and 5 will be placed on this list and must accept subsequent referrals, or when they do not provide the services sought, refer the person to another agency in the area that does provide the services.

(2) Accessibility—All grant recipients and sub-recipients must make counseling offices and services reasonably accessible to persons with a wide range of disabilities and help persons locate suitable housing in locations throughout the applicant's community, target area, or metropolitan area, as defined by the applicant.

(C) Religious Discrimination. Grant recipients and sub-recipients are prohibited from discriminating on behalf of or against any segment of the population in the provision of services or in outreach, including those of other religious affiliations.

Additionally, organizations funded under this program may not engage in inherently religious activities, such as worship, religious instruction, or proselytization, as part of the programs or services funded under this program. If an organization conducts such activities, these activities must be offered separately, in time or location, from the programs or services funded under this part, and participation must be voluntary for the HUD-funded programs or services.

(D) Code of Conduct. Entities that are subject to 24 CFR parts 84 and 85 (most nonprofit organizations and state, local and tribal governments or government agencies or instrumentalities who receive federal awards of financial assistance) are required to develop and maintain a written code of conduct (See §§ 84.42 and 85.36(b)(3)). Consistent with regulations governing housing counseling programs, your code of conduct must prohibit real and apparent conflicts of interest that may arise among employees, officers or agents; prohibit the solicitation and acceptance of gifts or gratuities by your officers, employees and agents for their personal benefit in excess of minimal value; and outline administrative and disciplinary actions available to remedy violations of such standards. Self-recusal shall not eliminate a potential or apparent conflict of interest. If awarded assistance under this SuperNOFA, prior to entering into a grant agreement with HUD you will be required to submit a copy of your code of conduct and describe the methods you will use to ensure that all officers, employees and agents of your organization are aware of your code of conduct.

(E) Performance Measurement. Grant recipients are required to complete and submit a form HUD-9902, Fiscal Year Activity Report (Appendix A). The information compiled from this report provides HUD with its primary means of measuring your program performance.

(F) Environmental Requirements. In accordance with 24 CFR 50.19(b)(9) and (12) of the HUD regulations, activities assisted under this program are categorically excluded from the requirements of the National Environmental Policy Act and are not subject to environmental review under the related laws and authorities.

(G) Financial Management Systems. Applicants selected for funding must provide documentation demonstrating that the applicant's financial management systems satisfy the requirements in the applicable regulations at 24 CFR 84.21(b) and 85.20. Consistent with the requirements of the Single Audit Act Amendments of 1996 (31 U.S.C. 7501-07), if the applicant expended $300,000 or more in federal awards in its most recent fiscal year, such documentation must include a certification from, or most recent audit by, the applicant's Independent Public Accountant that the applicant maintains internal controls over federal awards; complies with applicable laws, regulations, and contract or grant provisions; and prepares appropriate financial statements. The applicant will have at least thirty (30) calendar days to respond to this requirement. If an applicant does not respond within the prescribed time or responds with insufficient documentation, then HUD may determine that the applicant has not met this requirement and may withdraw the grant offer.

(H) Indirect Cost Rate. You must also submit documentation establishing your organization's indirect cost rate. Such documentation may consist of a certification from, most recent audit, or indirect cost rate agreement by, the cognizant federal agency or an Independent Public Accountant. If your organization does not have an established indirect cost rate, you will be required to develop and submit an indirect cost proposal to HUD or the cognizant federal agency as applicable, for determination of an indirect cost rate that will govern your award. Applicants that do not have a previously established indirect cost rate with a federal agency shall submit an initial indirect cost rate proposal immediately after the applicant is advised that it will be offered a grant and, in no event, later than three months after the effective date of the grant. OMB Circular A-122 established the requirements to determine allowable direct and indirect costs and the preparation of indirect cost proposals, and can be found at www.whitehouse.omb.gov.

V. Application Selection Process

(A) General. Applications will be evaluated competitively, and ranked against all other applicants that applied in the same funding category. For Category 2, applications by national and regional intermediaries will be scored and ranked in HUD Headquarters. For Category 1, LHCAs, and Category 3, SHFAs, applications will be scored and ranked by the relevant HOC. The Santa Ana HOC will score all applications under Category 4, Colonias, and Category 5, Predatory Lending Grants.

(B) Factors For Award Used to Rate and Rank Applications. Information on the application scoring process appears in section VI(B) of the General Section of this SuperNOFA. The Factors for Award, and maximum points for each factor, are outlined below.

These factors will be used to evaluate applications under Categories 1-5, and the maximum number of points for each applicant is 102 points for LHCAs and 100 for all other applicants. LHCAs are eligible for 2 bonus points if they can demonstrate that at least 51% of their proposed services: (1) Will be provided to residents of federally designated Empowerment Zones (EZs), Enterprise Communities (ECs), Urban Enhanced Enterprise Communities (EECs), Strategic Planning Communities, or Renewal Communities (RCs); and (2) are certified to be consistent with the area's strategic plan. Section VI(C)(1) of the General Section of this SuperNOFA, entitled “RC/EZ/EC,” contains additional information regarding these bonus points.

HUD may rely on information from performance reports, financial status information, monitoring reports, audit reports and other information available to HUD in making score determinations under any Rating Factor.

Rating Factor 1: Capacity of the Applicant and Relevant Organizational Staff (35 Points)

HUD uses responses to this Rating Factor to evaluate the readiness and ability of an applicant to immediately begin the proposed work program, as well as the potential for an applicant to cost-effectively and successfully implement the proposed activities indicated under Rating Factor 3.

(A) (6 points) Knowledge and Experience. In rating this Section, HUD will consider the degree to which the applicant, and, if applicable, affiliates, has sufficient personnel with the relevant knowledge and experience to implement the proposed activities in a timely and effective fashion.

Specifically, for LHCAs, scoring will be based on the number of years of recent housing counseling experience of counselors. For intermediaries and SHFAs, scoring will be based on: The number of years of recent housing counseling experience of counselors in affiliates and branches; and the number of years, for key intermediary/SHFA personnel, of recent experience running a housing counseling program consisting of a network of multiple counseling agencies. Related experience, such as experience in mortgage lending, will also be considered, but will not be weighted as heavily as direct housing counseling or housing counseling program management experience.

—Submit the names and titles of employees, including subcontractors and consultants, performing the activities proposed in Rating Factor 3. Clerical staff should not be listed. Describe each employee's, subcontractor's, or consultant's relevant professional background and experience. Experience is relevant if it corresponds directly to projects of a similar scale and purpose. Provide the number of years of experience for each position listed, and indicate when each position was held. Individual descriptions should be limited to one page. List recent and relevant training received.

Applicants for Category 5 should specifically highlight the predatory lending-related experience, both one-on-one and group sessions, of staff to demonstrate that your organization has the knowledge and capacity to effectively utilize a predatory lending grant. Also indicate whether or not relevant staff has received loss mitigation training.

(B) Past Grantee Performance. Sections B1 and B2 pertain to the applicant's performance with their FY01 HUD award for the grant period October 1, 2001-September 30, 2002, the most recent complete grant year. If you received no HUD grant for that grant period, the seven points available in Section B1, and the fourteen points available in Section B2, will be allocated to Section B3 (Impact of Leveraged Resources,) for a total of 24 points.

(B1) (7 points) Quality and Complexity of Services. In scoring this Section, HUD will evaluate the level of effort and time required to provide the housing counseling services captured in the form HUD-9902 for the time period October 1, 2001 to September 30, 2002. Scoring will be based on the degree to which the applicant demonstrates that, for each type of counseling service delivered, and compared to other applicants, sufficient time and resources were devoted to ensure that clients received quality counseling. Additionally, scorers will evaluate the extent to which, as compared to other applicants, an agency encouraged and provided one-on one counseling, which HUD considers the most effective form of housing counseling, instead of over-relying on homebuyer education workshops and other forms of group sessions.

Applicants should carefully document the types and complexity of the services provided with FY01 HUD grant funds, and the outcomes for clients as a result of the counseling. Describe the level of effort and time required to provide the housing counseling services and to meet the needs of your clients. Indicate the average counseling time per client for all types of counseling performed. Also describe follow-up activities, if applicable.

Indicate the number of clients that participated only in Homebuyer Education workshops or other types of classes offered as group sessions. Indicate the number of individuals who participated in group-sessions and also received one-on-one counseling.

(B2) (14 points) Impact/Outcomes—HUD Grant. In scoring this Section, HUD will evaluate the applicant's, and if applicable, affiliates' and branches', clients served numbers and performance-related outcomes for the grant period October 1, 2001 to September 30, 2002. Clients served numbers will be scored based on the quantity of clients the applicant was able to serve compared to similar applicants providing similar services. Clients served numbers will be analyzed in the context of budget, costs, spending decisions, the types of services provided, level of effort expended, etc. Outcomes will be scored based on how well the applicant met performance goals.

Indicate the number of clients that you proposed to serve with your HUD grant in Factor 3 of your FY01 Housing Counseling NOFA application (submitted May 3, 2001), and compare it with the number attributed to the HUD grant appearing on the 9902 form submitted with this application, covering October 1, 2001-September 30, 2002, which corresponds to the FY01 application and resulting award. Explain any differences between goals and results, including differences in proposed and actual grant amounts.

If you received no FY01 HUD grant covering October 1, 2001-September 30, 2002, characterize your performance at meeting your goals regarding activities for that time period, under other sources of funding, such as other federal, state or local grant awards. Explain any differences between goals and results.

While HUD values cost-effectiveness, we are not simply trying to identify and fund the lowest-cost service providers. We realize that costs vary depending on location and types of services provided, and we appreciate that strategic investments, such as investments in training, technology, or more qualified staff, may potentially be an efficient use of resources, but impact counseling volume in the short-term.

So HUD can evaluate your program results, provide a context for, or qualify, the number of clients you indicated, on the form HUD-9902 submitted with this application, that were served with your HUD-grant. Describe the types of counseling conducted. Indicate how location, counseling and client type, and expenses may have impacted client volume, and, if applicable, how they will impact client volume in the future.

Identify specific uses of HUD grant funds, such as staff salaries, other staff costs, training, and travel expenses. Itemize the total costs for each use. Provide the average hourly labor rate for counselors. Justify your expenses and explain why they were reasonable, strategic, and appropriate for the counseling activities identified above.

Intermediaries and SHFAs that received an FY01 HUD award for the grant period October 1, 2001 to September 30, 2002 must also indicate what percentage of their award was passed through directly to affiliates or branches, and explain how funds not passed through were spent.

Provide the following performance outcomes for counseling activities covered by your FY01 HUD grant, for the grant period October 1, 2001 to September 30, 2002:

• The number of individuals receiving pre-purchase counseling that purchased a home;

• The number of individuals receiving pre-purchase counseling that are working toward becoming mortgage ready;

• The number of individuals receiving pre-purchase counseling that, after evaluating their unique financial situation and the costs of homeownership, elected not to purchase a home;

• The number of individuals receiving default counseling that successfully avoided foreclosure;

• For applicants applying under Category 5, the number of victims of predatory lending counseled that were able to have their mortgage modified, refinanced, or otherwise assisted to avoid foreclosure.

So HUD can evaluate these outcome/results, indicate the outcome goals that you had set for yourself prior to the grant period, October 1, 2001 to September 30, 2002, and characterize your performance at meeting those goals. Compare these outcome goals with your actual performance outcomes. Describe relevant market conditions and other circumstances that you believe affected reported outcome numbers.

[Note: The outcomes listed above correspond to the new form HUD-9902 (appendix A), from which these outcome results will be derived in future NOFAs. In future NOFAs, outcomes will be evaluated based on the degree to which the applicant was able to meet the outcome estimates it provided in Factor 5 of the relevant previous application. In other words, applicants will be held accountable for fulfilling performance-related promises made in NOFA applications.]

If you received no FY01 HUD grant, provide these performance outcomes for counseling activities covering October 1, 2001—September 30, 2002, under other sources of funding, such as other federal, state or local grant awards. Indicate how each compares with the outcome goals that you had set for yourself for the activity period, and characterize your performance at meeting outcome goals.

Applicants applying under Category 5 must also describe your organization's direct experience for the grant period October 1, 2001 to September 30, 2002, in assisting individuals, through outreach, in identifying and avoiding predatory lending, and in recognizing victimization. For example, describe outreach and educational efforts, including group workshops, community meetings, mass media, material distribution (provide copies of relevant letters, brochures, etc.), and indicate the number of one-on-one counseling interactions that have resulted from your outreach efforts. Also describe your outreach strategy, including the various types of individuals targeted (e.g. sub-prime borrowers, elderly homeowners with substantial equity in their homes, attorneys, etc.), explain your rationale for targeting specific areas, types of community forums that are effective, methods through which your ideas and materials are disseminated, and all other relevant information.

Also, describe efforts through one-on-one counseling, for the grant period October 1, 2001 to September 30, 2002, to assist individuals in identifying and avoiding predatory lending. Indicate the number of clients that have received front-end individual counseling related to predatory lending from you, or from your affiliates and/or branches.

Similarly, describe efforts through one-on-one counseling, for the grant period October 1, 2001 to September 30, 2002, to assist victims of predatory lending and indicate the number of clients that received one-on-one predatory lending counseling from you or your affiliates and branches. Also quantify and describe the results of one-on-one counseling pertaining to predatory lending, including the number of victims for whom loans have been successfully restructured, credit fixed and the success of other loss mitigation strategies.

(B3) (3 points) Impact—Leveraged Resources—In scoring this Section, HUD will evaluate the applicant's non-HUD funded counseling activities and budget during the grant period October 1, 2001 to September 30, 2002. Scoring will be based on the quantity of clients the applicant was able to serve, compared to similar applicants providing similar services. Clients served numbers will be analyzed in the context of budget, costs, spending decisions, the types of services provided, level of effort expended, etc.

Provide all the information requested in Sections B1 and B2 above, except outcomes, relevant to the non-HUD funded activities recorded on the form HUD-9902 submitted with this application.

Applicants applying under Category 5 should highlight leveraged awards your organization received specifically for work related to predatory lending during the grant period October 1, 2001 to September 30, 2002.

(C) (5 points) Performance/Grant Requirements—In scoring this Section, HUD will evaluate how well the applicant satisfied the requirements, including reporting, of their FY01 HUD Housing Counseling grant, for the grant period October 1, 2001 to September 30, 2002. If you did not receive a FY01 HUD grant, base your response on activities and requirements under other sources of funding, such as other federal, state or local grant awards.

• Characterize your performance with regards to the timeliness and completeness with which you satisfied reporting requirements (such as Form HUD 9902.)

• Also indicate whether or not you fully expended grant awards during the grant period October 1, 2001 to September 30, 2002. If not fully expended, provide an explanation as to the reason why the funds were not fully expended and the steps you have taken to ensure that future funding will be expended in a timely manner.

• Significant findings on biennial reviews conducted by HUD staff will be taken into consideration when scoring this Section. Explain how you have taken steps to address and correct any significant findings, if applicable.

Rating Factor 2: Need/Extent of the Problem (10 Points)

This factor addresses the extent to which there is a need for funding your proposed activities described in your response to Rating Factor 3.

(A) (6 points) Needs Data. In scoring this Section, HUD will evaluate the degree to which the applicant is able to provide current or recent economic and demographic data, and any other evidence, that demonstrates housing counseling need relevant to the target area. Applicants that fail to identify current or recent objective data will receive no points for this factor. Sources for all data provided must be clearly cited. To the extent that the community you serve has documented need in its Consolidated Plan, Analysis of Impediments to Fair Housing Choice (AI), or other planning documents, reference these in your response. Economic and demographic data must include persons with disabilities located in the target area. The U.S. Census Bureau, for example, maintains disability data by state, county and metropolitan statistical area (MSA) at the following website address: http:www.census.gov/hhes/www/disability.html.

In scoring this Section, HUD will also evaluate the degree to which the applicant is able to provide current or recent economic and demographic data, and any other evidence, that demonstrates need relative to the activities proposed in Rating Factor 3.

Demonstrate that there is a clear relationship between the community needs outlined above, and your proposed activities. All proposed activities must have corresponding need-related data.

Applicants under category 5 must provide current or recent economic and demographic data, and any other evidence, that demonstrates the prevalence and impact of predatory lending within the target area.

(B) (4 points) Departmental Policy Priorities. The Departmental policy priorities are listed in section II of the General Section of the SuperNOFA. Of those listed, the following 4 apply to the Housing Counseling Program for the purpose of this NOFA:

(1) Providing Increased Homeownership and Rental Opportunities for Low- and Moderate-Income Persons, Persons with Disabilities, the Elderly, Minorities, and Families with Limited English Proficiency.

(2) Providing Full and Equal Access to Grass-Roots Faith-Based and Other Community-Based Organizations in HUD Program Implementation.

(3) Colonias.

(4) Participation of Minority Serving Institutions in HUD Programs.

You will receive one point (up to 4 total) for each of the Departmental policy priorities that your work plan substantively addresses.

Rating Factor 3: Soundness of Approach/Scope of Housing Counseling Services (40 Points)

This factor addresses the quality and effectiveness of your proposed housing counseling activities.

(A) (2 points) Work Plan. In scoring this Section, HUD will consider the quality and completeness of the response.

Describe the proposed housing counseling services and if applicable, intermediary activities, including training, you propose to undertake, and identify the geographic area your services will cover.

National and Regional Intermediaries and State Housing Finance Agencies must also provide the following additional information:

(a) Identify which affiliates or branches will receive funding through this grant award. Applicants unable to identify which affiliates will receive sub-grants must explain why this is the case and what process will be used to select grantees. Pursuant to the applicable regulations at 24 CFR 84.82(d)(3)(iii) and 85.30(d)(4), grantees must receive HUD's prior written approval for sub-grants.

(b) Describe the activities of those affiliates, explicitly stating the types of services to be offered.

(c) Describe your legal relationship with your affiliates or branches (i.e., membership organization, field or branch office, subsidiary organization, etc.)

(d) Explain the process that will be used to determine affiliate or branch funding levels, distribute funds, and monitor affiliate performance, including compliance with the civil rights requirements outlined in the General Section of the SuperNOFA.

(B) (6 points) Employee Allocation/Staff hours. In scoring this Section, HUD will evaluate whether allocated staff and staff hours are appropriate and sufficient to perform all proposed tasks.

Indicate the names and titles of employees, including subcontractors and consultants, allocated to each proposed activity, as well as the corresponding staff hours for each task. Demonstrate that each employee's experience is related to the tasks they are to perform.

(C) (6 points) Coordination. In scoring this Section, HUD will consider the extent to which the applicant can demonstrate they will coordinate proposed activities with other organizations, and with other services and products offered by the applicant's organization, in a manner that benefits their clients.

Describe partnerships and efforts to coordinate proposed activities with other organizations, including, but not limited to, emergency services providers, lending organizations and nonprofit housing providers. Any written agreements or memoranda of understanding in place should be described and copies provided.

National and regional intermediaries should also highlight internal lending operations and loan products available to clients, as well as internal affordable housing programs that can be a resource for clients.

Describe plans to avoid conflicts of interest, such as methods for disclosing to participants that they are free to choose lenders, lending products, and homes, regardless of the recommendations made by counselors, and provide copies of relevant disclosure forms and materials.

Applicants under Category 5 should also describe relevant partnerships and relationships with other organizations, including state and local government regulatory agencies, Legal Aid groups, and other organizations with whom you collaborate on predatory lending cases and issues, or to whom you refer victims.

(D) (13 points) Quality and Complexity of Services. In scoring this Section, HUD will evaluate the quality of the proposed housing counseling services, and level of effort and time associated with providing the proposed counseling services to the number of clients you estimate you will serve in Section E. Scoring will be based on the degree to which the applicant demonstrates that, for each type of counseling service delivered, and compared to other applicants, sufficient time and resources will be devoted to ensure that clients receive quality counseling. Additionally, scorers will evaluate the extent to which, as compared to other applicants, an agency will encourage and provide one-on-one counseling, which HUD considers the most effective form of housing counseling, instead of over-relying on homebuyer education workshops and other forms of group sessions.

Applicants should carefully document the types and complexity of the services to be provided. Describe the level of effort and time you anticipate is required to provide the proposed counseling services to, and meet the needs of, the number of clients you indicate in Section E that you will serve with the proposed grant. Estimate the average counseling time you, and if applicable your affiliates and branches, anticipate per client for all types of counseling offered. Also describe planned follow-up activities, if applicable.

Indicate how many of the clients that you propose to serve with the HUD grant in Section E will participate only in Homebuyer Education workshops or other group sessions. Also estimate the number of clients that will participate in Homebuyer Education workshops or other group session and also received one-on-one counseling. Explain and justify significant changes in the quantity of group sessions and one-on-one counseling sessions you propose to provide, relative to past performance and grant/budget size described in Rating Factor 1.

(E) (13 points) Efficient Use of Resources—Proposed HUD Grant Activities. In scoring this Section, HUD will evaluate the number of clients that the applicant, and if applicable, affiliates and branches, estimate will be served under the proposed HUD grant, for the grant period October 1, 2003 to September 30, 2004. Scoring will be based on the quantity of clients the applicant proposes to serve, compared to similar applicants providing similar services. Proposed clients served numbers will also be analyzed in the context of budget, costs, spending decisions, the types of services provided, level of effort expended, etc.

Indicate the number of clients you project will be served by your organization, or, if applicable, affiliates and branch offices, under the proposed HUD grant. Do not provide ranges or percentages, but a specific number of clients.

For applicants applying under Category 5, project the number of clients you propose to serve (no ranges or percentages) through both outreach and other types of group sessions, and individual counseling.

Explain and justify significant changes, relative to past performance and grant/budget size described in Rating Factor 1, in the number of clients you propose to serve. For example, demonstrate that you have the financial and human resources necessary to adequately serve the additional clients, or describe changes in the types of counseling being delivered, costs, etc.

Provide a context for, or qualify the number of clients you project to serve with the proposed HUD grant. Indicate how location, counseling and client types, and expenses may affect client volume, and whether the impact will be short-term or long-term.

Itemize the costs associated with each specific proposed use of counseling funds, such as staff salaries, other staff costs, and training and travel expenses. Provide the average hourly-labor rate for counselors. Justify your proposed expenses and explain why they are reasonable, strategic, and appropriate for the counseling activities identified above.

Intermediaries and SHFAs must indicate what percentage of their proposed HUD grant will be passed through directly to affiliates or branches, and explain how funds not passed through will be spent.

Rating Factor 4: Leveraging Resources (10 Points)

HUD housing counseling funding is not intended to fully fund an organization's housing counseling program, or that of its local affiliates and branch offices. All organizations that use housing counseling grant funds are expected to seek other private and public sources of funding for housing counseling to supplement HUD funding. Any agency that does not have other resources available will receive no points for this factor.

Applicants will be evaluated based on their ability to provide evidence that they have obtained additional resources for their housing counseling activities, including: direct financial assistance; in-kind contributions, such as services, equipment, office space, labor; etc. In responding to this Rating Factor, applicants under Categories 4 and 5 should submit evidence of all housing counseling-related leveraged resources, not just the leveraged funds they intend to devote to Colonias or predatory lending, respectively. Resources may be provided by governmental entities, public or private nonprofit organizations, for-profit private organizations, or other entities committed to providing you assistance.

In order to obtain points under this factor, the applicant must demonstrate leveraging by providing letters from entities and/or individuals committing resources to the project that include:

—The identity of the entity or individual committing resources to the project.

—Dollar value of the resources to be committed.

—Types of resources to be committed.

—An indication that the resources will be available during the grant period pertaining to this NOFA, October 1, 2003-September 30, 2004.

—An indication that the award, or a specific portion of it, is intended for housing counseling.

—The signature of an official of the entity legally able to make commitments on behalf of the entity.

—No conditions that would nullify the commitment. (It is, however, acceptable for the commitment to be conditional on HUD funding.)

Additionally, resources provided by the applicant itself, recorded as ‘applicant match’ and ‘program income’ on the form HUD-424, will count as leveraged resources.

Points for this factor will be awarded based on the satisfactory provision of evidence of leveraging and financial sustainability, as described above, and the ratio of requested HUD housing counseling funds to total housing counseling budget. Depending on organization type, the following scales will be used to determine scores for this factor:

Percentage | Points
LHCAs and SHFAs
1-20 | 10
21-35 | 9
36-42 | 8
43-50 | 7
51-58 | 6
59-65 | 5
66-73 | 4
74-80 | 3
81-90 | 2
91-99 | 1
National and Regional Intermediaries
1-10 | 10
11-15 | 9
16-20 | 8
21-25 | 7
26-30 | 6
31-35 | 5
36-40 | 4
41-45 | 3
46-50 | 2
51-99 | 1

Rating Factor 5: Achieving Results and Program Evaluation (5 Points )

This factor emphasizes HUD's determination to ensure that applicants meet commitments made in their applications and grant agreements and assess their performance to realize performance goals, and reflects HUD's goal to embrace high standards of ethics, management and accountability.

The purpose of this factor is for the applicant to identify program outputs and outcomes that will allow you and HUD to measure actual achievements against anticipated achievements. Outputs and outcomes must be objectively quantifiable.

Submission Requirements for Factor 5. Applicants must submit an effective, quantifiable, outcome-oriented evaluation plan for measuring performance and determining that output and outcome goals have been met. You must submit a program evaluation plan that demonstrates how you will measure your own program performance. Your Evaluation Plan should identify what you are going to measure, how you are going to measure it, and the steps you have in place to make adjustments to your work plan if performance targets are not met within established timeframes. Specifically, your plan must identify:

—Outputs. Outputs are the direct products of your program's activities that lead to the ultimate achievement of outcomes. Examples of outputs are the number of individual counseling sessions, and the number of group sessions to be provided. Identify interim and full grant term outputs, and timeframes for accomplishing these goals. Your plan must show how you will measure actual accomplishments against anticipated achievements.

—Work Plan Adjustments. Describe steps in place to make adjustments to your work plan if outputs are not met within established timeframes or if you begin to fall short of established outputs and timeframes. Intermediaries and SHFAs should indicate if and how the performance of affiliates and branch offices affects current and future sub-grant allocations.

—Outcomes. Outcomes are benefits accruing to the families as a result of participation in the program. Outcomes are performance indicators you expect to achieve or goals you hope to meet over the term of your proposed grant. In scoring this Section, HUD will consider the appropriateness of the proposed outcomes given the proposed HUD award, and past performance, and evaluate proposed outcomes in comparison to similar applicants. For the period October 1, 2003-September 30, 2004, provide the following anticipated outcomes for clients as a result of the proposed grant:

• The number of individuals receiving pre-purchase counseling that will purchase a home

• The number of individuals receiving pre-purchase counseling that are working toward becoming mortgage ready

• The number of individuals receiving pre-purchase counseling that, after evaluating their unique financial situation and the costs of homeownership, will elect not to purchase a home

• The number of individuals receiving default counseling that will successfully avoid foreclosure

Applicants applying under Category 5 should indicate the number of victims of predatory lending counseled that will have their mortgage modified, refinanced, or otherwise assisted to avoid foreclosure. [These specific outcomes correspond to the new form HUD-9902. The proposed outcomes you provide will be compared with the results captured in the HUD-9902 you submit in the FY05 NOFA to evaluate the impact you were able to achieve with this award, and the degree to which you were able to meet or exceed your proposed outcomes.]

—Information Collection. Describe your strategy for following-up with clients and collecting outcome information.

(C) Funding Methodology for Categories 1-4. The following funding formula will be used to calculate award amounts for Categories 1-4. Only applicants who receive a score of 75 points or above will be considered eligible for funding. All eligible applicants will then be funded in proportion to the score they receive.

The formula will work as follows for each category: Every applicant that scores 75 points or above will receive a base award of $15,000, plus additional funds for every point above the 75 point cutoff. The total number of applicants receiving the base award will be multiplied by $15,000 and that amount will be subtracted from the total amount available under the category, or in the cases of Categories 1 and 3, available to the HOC. Then, the remaining balance will be divided by the total number of points each applicant scores that are above the 75-point cutoff. The division will result in a dollar value for each point. The number of points that each applicant scores above the 75 point base will be multiplied by that dollar value. The result of that multiplication will be added to the $15,000 base for the total award amount. For example, an applicant with a score of 85 would receive $15,000 plus the dollar value for each point times 10 (10 being the number of points above the 75 point cutoff.)

All grantees will receive the lower of either the award amount determined with the formula, or the amount actually requested by the applicant.

(D) Funding Methodology for Category 5—Predatory Lending Grants. Only applicants scoring 75 points or above are eligible for funding under Category 5. However, because of the limited amount of funds available under Category 5, in relation to the potential number of applicants, all applicants scoring 75 points or above are not guaranteed funding.

For national intermediaries, up to the top 4 scoring applicants (scoring 75 points or above) will receive a base award of $300,000, plus additional funds for every point above the 75 point cutoff. The total number of applicants receiving the base award will be multiplied by $300,000 and that amount will be subtracted from the total amount available under the category. The remaining balance ($300,000 if 4 agencies score 75 points or above) available to national intermediaries will be divided by the total number of points each applicant scores that are above the 75 point cutoff. The division will result in a dollar value for each point. The number of points that each applicant scores above the 75 point threshold will be multiplied by that dollar value. The result of that multiplication will be added to the $300,000 base for the total award amount. Awards for HUD-approved national intermediaries may not exceed $450,000.

For regional intermediaries and SHFAs, up to the top 3 scoring applicants (scoring 75 points or above) will receive a base award of $50,000, plus additional funds for every point above the 75 point cutoff. The total number of applicants receiving the base award will be multiplied by $50,000 and that amount will be subtracted from the total amount available under the category. The remaining balance ($150,000 if 3 agencies score 75 points or above) available to regional intermediaries and SHFAs will be divided by the total number of points each applicant scores that are above the 75 point cutoff. The division will result in a dollar value for each point. The number of points that each applicant scores above the 75 point threshold will be multiplied by that dollar value. The result of that multiplication will be added to the $50,000 base for the total award amount. Awards for HUD-approved regional intermediaries and SHFAs may not exceed $140,000.

All LHCAs will be ranked against each other nationally. Up to the top 30 scoring applicants nationwide scoring 75 points or above will receive a base award of $20,000. The total number of applicants receiving the base award will be multiplied by $20,000 and that amount will be subtracted from the total available under the category. Then, the remaining balance ($300,000 if 30 agencies score 75 points or above) will be divided by the total number of points each of those 30 applicants (potentially) scores that are above the 75-point cutoff. The division will result in a dollar value for each point. The number of points that each applicant scores above the 75 point threshold will be multiplied by that dollar value. The result of that multiplication will be added to the $20,000 base for the total award amount. Awards for HUD-approved LHCAs may not exceed $40,000.

All grantees will receive the lower of either the award amount determined with the formula, or the amount actually requested by the applicant.

(E) Reallocation of Unspent Funds. If funds designated for a specific grant Category or sub-category remain unspent after the formula has been run and award recommendations determined, HUD may, at its discretion, reallocate those funds to any other funding category or sub-category in this NOFA, or may reallocate those funds to any category under the Section 8 Homeownership / Housing Counseling NOFA also issued with this SuperNOFA. Additionally, HUD may reallocate unspent funds for housing counseling support activities.

(F) Applicant Debriefing. Applicants interested in a debriefing should consult the instructions in section XI(A)(4) of the General Section of the SuperNOFA. Requests should be submitted to the person or organization to which you were instructed, in Section VI of this NOFA, to submit your application.

(G) Grant Period. Funds awarded shall be available for a period of twelve (12) calendar months. Applicants selected for award must receive prior HUD approval to incur costs prior to the date of the grant agreement. Grantees may incur pre-award costs ninety (90) calendar days prior to the effective date of the grant agreement. All pre-award costs are incurred at the applicant's risk and HUD has no obligation to reimburse such costs if the award is inadequate to cover such costs or the award offer is withdrawn because of the applicant's failure to satisfy the requirements of this NOFA.

(H) Award Instrument. HUD expects to use a grant agreement, but it reserves the right to use the award instrument it determines to be most appropriate. All Housing Counseling Program awards shall be made on a cost reimbursement basis in accordance with the requirements in OMB Circular A-87, Cost Principles for state and local governments and Indian tribal governments; or OMB Circular A-122, Cost Principles for Non-Profit Organizations, as applicable to your organization; and the administrative requirements established in OMB Circular A-102, which was implemented by 24 CFR part 85 (Administrative Requirements for Grants and Cooperative Agreements to state, local and federally recognized Indian tribal governments); OMB Circular A-110, which was implemented by 24 CFR part 84 (Grants and Agreements with Institutions of Higher Education, Hospitals and Other Non-Profit Organizations); and OMB Circular A-133 which was implemented by 24 CFR parts 84 and 85. If you receive an award you are also required to ensure that any sub-recipients also comply with the above requirements. OMB circulars can be found at http://www.whitehouse.gov/omb/.

VI. Application Submission Requirements

In addition to reviewing the instructions below, all applicants should consult the General Section of this SuperNOFA and review the procedures that affect application submission.

Application. Because applications will be handled by various staff members, they must be bound or secured in a binder, and tabbed. Use the checklist below to organize your application. Unless indicated below, all applicants must submit the following:

(1) The standard forms, certifications, and assurances listed in section V(H) of the General Section of the SuperNOFA (collectively, referred to as the “standard forms.”)

(2) HUD-approval/Statutory Authority. Each applicant is required to submit a copy of their most recent approval letter or certificate of approval as a housing counseling agency from HUD, unless the applicant is a SHFA that satisfies the definition of a “Housing Finance Agency” in 24 CFR 266.5. SHFAs must submit evidence of their statutory authority to operate as a SHFA, and apply for, and use, any funds awarded.

(3) Form HUD-9902, Housing Counseling Agency Fiscal Year Activity Report, for fiscal year October 1, 2001 through September 30, 2002. In the space provided on the form, indicate the amount of the FY01 HUD grant you received that corresponds with this data. If you did not participate in HUD's Housing Counseling Program during the period October 1, 2001 through September 30, 2002, this report should be completed to reflect your counseling workload and budget during that period. A copy of this form is included in Appendix A of this NOFA.

(4) National and Regional Intermediaries must provide a list of, and certify to, the states in which they maintain offices, including the national office and all affiliates or branch offices. Provide this information for all affiliates and branch offices, not just the ones you propose to fund through this grant.

(5) Narrative statements addressing the Rating Factors in section V(B) above. Responses to the rating factors should provide HUD with detailed quantitative and qualitative information and relevant examples regarding the housing counseling work of your organization.

For applicants applying under Category 4, narrative statements must address how you will meet the needs of clients residing in the Colonias you target. Similarly, applicants applying under Category 5 must describe predatory lending-related needs and corresponding activities. The Rating Factors below contain requests for additional information from applicants applying under Categories 4 and 5 (italicized).

Applicants applying for funding under Category 5 should also address predatory lending needs, issues and activities, if applicable, in their responses to Rating Factors 1—5 while applying under categories 1-4 of this NOFA, to ensure that these activities are fairly considered for grants under Categories 1—4, in the event that an applicant does not receive funding under Category 5.

Please be as specific and direct as possible. For LHCAs, responses to each factor must be limited to 10 double-spaced, size 12 font, single-sided pages. Additional submissions by LHCAs will not be read. These guidelines are also recommended for National and Regional Intermediaries and SHFAs; however, if you feel you need to include more information to make your case, you should feel free to do so.

VII. Corrections to Deficient Applications

Section VIII of the General Section of the SuperNOFA provides the procedures for corrections to deficient applications.

VIII. Authority

HUD's Housing Counseling Program is authorized by Section 106 of the Housing and Urban Development Act of 1968 (12 U.S.C. 1701x), and is generally governed by HUD Handbook 7610.1, REV-4, CHG-1, dated October 27, 1997.

Appendix A

Form HUD-9902, Fiscal Year Activity Report

BILLING CODE 4210-32-P

Funding Availability for the Section 8 Homeownership Voucher—Housing Counseling Grant Program

Program Overview

Program Purpose. This grant program supports the delivery of housing counseling services to potential homebuyers and homeowners utilizing Section 8 Homeownership Vouchers (hereafter referred to as Homeownership Vouchers) under HUD's Homeownership Voucher Program. The primary objectives of the program are to: help Homeownership Voucher Program participants make the transition from renting to homeownership; to assist them in evaluating their readiness and in making informed decisions; to help them meet the responsibilities of homeownership; and to encourage increased participation by Public Housing Agencies (PHAs) in HUD's Homeownership Voucher Program.

Available Funds. $2 million in Fiscal Year 2003 Funds.

Application Deadline. June 25, 2003.

Match. No match is required. However, in order to receive points under Rating Factor 4, applicants are required to demonstrate the commitment of other private and public sources of funding to supplement HUD funding for the applicant's proposed counseling program relevant to the Homeownership Voucher Program.

I. Application Submission, Further Information and Technical Assistance

Application Kits. There is no application kit. Specific application submission requirements are outlined in Section VI of this NOFA.

Application Due Date. Completed applications must be submitted on or before June 25, 2003.

Mailing. See the General Section of the SuperNOFA for mailing instructions and procedures.

Application Submission Procedures. All applicants must submit an original and two copies of a complete application to ‘Director, Program Support Division, Room 9266, Office of Single Family Housing, HUD Headquarters, 451 Seventh Street, SW., Washington, DC 20410.' The envelope should be clearly marked, “FY 2003 Homeownership Voucher—Housing Counseling Grant Application (Category 1/2/3/4.)” Please indicate the grant category for which you are applying.

Further Information. Local housing counseling agencies (LHCAs) and state housing finance agencies (SHFAs) should call the Homeownership Center (HOC) serving their area (See Appendix B for the contact information for the HOCs). National and Regional Intermediaries should contact HUD Headquarters, Program Support Division at (202) 708-0317 (this is not a toll-free number). Persons with hearing or speech impairments may access any of these numbers via TTY by calling the toll-free Federal Information Relay Service at 1-800-877-8339.

Satellite Broadcast. HUD will hold an informational broadcast via satellite for potential applicants to learn more about the program and the application. For more information about the date and time of the broadcast, consult the HUD Web site at http://www.hud.gov/grants.

II. Amount Allocated

Under this SuperNOFA, $37.561 million of the $39.74 million appropriated for Housing Counseling in FY 2003 is made available for eligible applicants. Specifically, $2 million is available through this NOFA for counseling activities occurring in conjunction with HUD's Homeownership Voucher Program, and $35.561 million is available for general counseling services through a separate NOFA found elsewhere in this SuperNOFA. Through that separate NOFA, up to $250,000 is available for counseling services that specifically target Colonias, and $2.7 million is available for counseling services addressing predatory lending. An allocation of $1 million of the $39.74 million appropriated is available for counseling in conjunction with the Home Equity Conversion Mortgage (HECM) Program, as provided in section 255(k) of the National Housing Act (12 U.S.C. 1715z-20).

With the balance of FY03 appropriation, and additional carry-over funding, an allocation of up to $4 million has been set aside for housing counseling support such as training and tuition assistance for housing counselors, or other HUD counseling initiatives and activities, or both.

Grant Categories. HUD will award grants to qualified public or private nonprofit organizations to provide housing counseling services in conjunction with the Homeownership Voucher Program through four grant categories: (1) Local Housing Counseling Agencies (LHCA); (2) National Intermediaries; (3) Regional Intermediaries; and (4) State Housing Finance Agencies (SHFAs).

Category 1—Local Housing Counseling Agencies (LHCAs). $750,000 is available from HUD to directly fund HUD-approved LHCAs.

Award: No individual LHCA may be awarded more than $60,000.

Category 2—National Intermediaries. $950,000 is available from HUD to directly fund HUD-approved national intermediaries.

Awards for HUD-approved national intermediaries may not exceed $400,000. Category 3—Regional Intermediaries. $150,000 is available from HUD to directly fund HUD-approved regional intermediaries.

Awards for HUD-approved regional intermediaries may not exceed $150,000. Category 4—State Housing Finance Agencies (SHFA). $150,000 is available to fund SHFAs that provide housing counseling services directly or serve as intermediaries to affiliates who offer housing counseling services.

Award: There is no cap on awards for SHFAs.

III. Program Description/Eligibility

(A) Eligible Service Recipients. Housing counseling services funded under this NOFA can only be provided to Homeownership Voucher recipients whom a PHA has indicated are eligible to participate in the Homeownership Voucher Program, having met programmatic requirements and additional PHA eligibility requirements, if applicable, and who will receive the benefit of homeownership voucher assistance should they purchase a home.

(B) Eligible Activities. Agencies selected as grantees and, if applicable, their sub-grantees, will only be reimbursed for activities that are eligible according to the criteria outlined in this Section.

According to the Final Rule on the Homeownership Voucher Program (FR-4427-F-02), suggested topics for the PHA-required pre-assistance counseling program include: how to negotiate the purchase price of a home; how to obtain homeownership financing and loan pre-approvals, including a description of types of financing that may be available, and the pros and cons of different types of financing; alternative sources of mortgage credit; how to find a home, including information about homeownership opportunities, schools, and transportation in the PHA jurisdiction; advantages of purchasing a home in an area that does not have a high concentration of low-income families and how to locate homes in such areas; how to design features to provide accessibility for persons with disabilities; funding for modifications that will make housing accessible and available to clients and their family members with disabilities; advocating with lenders for non-traditional lending standards; information on fair housing, including fair housing lending and local fair housing enforcement agencies; information about the Real Estate Settlement Procedures Act (12 U.S.C. 2601 et seq.) (RESPA), state and federal truth-in-lending laws, and how to identify and avoid predatory loans with oppressive terms and conditions; home maintenance; budgeting and money management; and credit counseling.

Counseling services can be adapted to reflect local circumstances, fit the pre- and ongoing post-purchase needs of the individual families, and fulfill specific requirements established by the PHA. The PHA has the discretion to require ongoing counseling for all or select participants in the homeownership option.

For example, agencies may provide on-going counseling on issues such as home improvement and rehabilitation. This could include educating the client about: Their loan and grant options; the loan and/or grant application processes; what housing codes and housing enforcement procedures apply for the intended activity; accessibility codes; visitability and universal design; non-discriminatory lending for persons who modify their dwellings to accommodate disabilities; how to identify and hire a construction contractor; how to specify and bid construction work; how to enter into construction contracts; and how to manage construction contracts, including actions to address the non-performance of contractors.

Additional ongoing counseling needs may include default counseling and loss mitigation strategies such as debt restructuring, establishing reinstatement plans, seeking loan forbearance, and managing household finances. Counselors can also help program participants that are victims of predatory lending, provide referrals to emergency and social service providers, and assist clients with locating alternative housing.

All counseling must occur one-on-one. These grant funds may not be used for any type of group sessions or workshops. Applications including group sessions as proposed activities will be evaluated only on proposed one-on-one counseling.

Note: For each activity you propose, you must be prepared to meet the needs of all individuals requesting services, including persons with disabilities, regardless of the complexity of the services involved. Additionally, services must be affirmatively marketed to persons with disabilities, including visual and hearing disabilities, as they would be to any other segment of the population not likely to apply for such services.

Intermediaries and SHFAs can directly provide the housing counseling services described above, or distribute and administer grant funds and provide technical assistance and other services to affiliates, who are eligible to undertake any or all of the eligible housing counseling activities outlined above.

Intermediaries and SHFAs have wide discretion to decide how to allocate their HUD Housing counseling and leveraged funding among their affiliates, with the understanding that a written record must be kept documenting and justifying funding decisions. This record must be made available to affiliates and to HUD. Intermediaries and SHFAs must also execute sub-grant agreements with their affiliates that clearly delineate the mutual responsibilities for program management, including appropriate time frames for reporting results to HUD.

(C) Eligible Applicants. Eligible applicants are: (1) HUD-approved local housing counseling agencies (LHCAs); (2) HUD-approved national intermediaries; (3) HUD-approved regional intermediaries; and (4) state housing finance agencies (SHFAs.)

HUD-approved LHCAs—Under this NOFA, HUD-approved LHCAs may apply for and receive a grant under Category 1 or one sub-grant from an Intermediary or SHFA under Categories 2, 3 and 4, but not both. HUD-approved LHCAs that apply directly under Category 1 are prohibited from also applying for or receiving a sub-grant under Categories 2, 3 and 4 of this NOFA. HUD-approved LHCAs that receive a sub-grant through an intermediary or SHFA under the other Housing Counseling NOFA in this SuperNOFA may receive a sub-grant under this NOFA with the same intermediary or SHFA, or they may apply directly as an LHCA.

HUD-approved national and regional intermediaries—HUD-approved National and Regional Intermediaries may apply for a grant under Categories 2 and 3, respectively.

SHFAs—SHFAs may only apply for grants under Category 4. Eligible SHFAs are entities that satisfy the definition in 24 CFR 266.5 of a “Housing Finance Agency.” SHFAs and eligible sub-grantees/affiliates do not need HUD-approval in order to receive these funds.

Eligible applicants under Categories 1-3 are private nonprofit and public organizations, including grass roots faith-based and other community-based organizations, that secure HUD-approval as an LHCA, or as a national or regional intermediary, as of the publication date of this SuperNOFA, and retain such approval through the term of any grant awarded. For information on securing HUD-approval visit HUD's Web site at http://www.hud.gov/offices/hsg/sfh/hcc/hccprof13.cfm.

Additionally, to be eligible to receive a grant directly from HUD under this Housing Counseling NOFA, all applicants (except SHFAs) must be (1) duly organized and existing as a nonprofit, (2) in good standing under the laws of the state of its organization, and (3) authorized to do business in the states where it proposes to provide counseling services. For example, applicable state licensing, corporate filing, and registering requirements must be satisfied.

An LHCA, national or regional intermediary, or SHFA may use branch offices to provide counseling funded through this NOFA. A branch office is an organizational and subordinate unit of the LHCA, intermediary, or SHFA, not separately incorporated or organized. LHCAs may maintain a main office and branch offices in no more that two states, which must be contiguous.

More typically, National and Regional Intermediaries and SHFAs provide sub-grants to separately incorporated or organized affiliates. Eligible sub-grantees are not required to be HUD-approved, although HUD-approved LHCAs may apply to an intermediary or SHFA as a sub-grantee. Intermediaries and SHFAs that award sub-grants to affiliates that are not HUD-approved must assure that said affiliates meet or exceed the standards, as specified in paragraph 2-1 of HUD Handbook 7610.1, Rev-4, CHG-1, for HUD-approved LHCAs. These organizations will be monitored by HUD, and intermediaries that do not ensure their affiliates'/branches' compliance with HUD standards could be prohibited from participating in the program.

To be eligible for a sub-grant under categories 2, 3 or 4, affiliates must not have directly applied for or received a grant under Category 1 of this NOFA, or another sub-grant from an Intermediary or SHFA under Categories 2, 3 or 4 of this NOFA.

Additionally, to be eligible for a sub-grant, an affiliate must be (1) duly organized and existing as a nonprofit, (2) in good standing under the laws of the state of its organization, and (3) authorized to do business in the states where it proposes to provide counseling services. For example, applicable state licensing, corporate filing, and registering requirements must be met.

Written Commitment to Partner. To be eligible, applicants must also provide a written commitment to partner from one or more PHAs with which it has come to an agreement to provide housing counseling to participants of the PHA's Homeownership Voucher Program. Intermediaries and SHFAs proposing to make sub-grants to affiliates or branch offices must provide a separate written commitment to partner from a PHA for each affiliate or branch office covered by the proposal. There is no requirement that the PHA commit to partner with the applicant for the provision of all housing counseling services related to its Homeownership Voucher Program, although this would be acceptable.

Written commitments to partner from PHAs do not have to be ratified by the PHA Board, although a formal document, such as a Memorandum of Understanding (MOU) between the PHA and the applicant, is acceptable. The written commitment to partner must, however, be on PHA letter-head, must specifically mention the housing counseling agency/applicant, and must be signed by an authorized PHA official. Moreover, the written commitment to partner must indicate that the PHA is exercising its option to implement the Homeownership Voucher Program and agrees to refer Homeownership Voucher participants to the applicant to fulfill the housing counseling requirement specified in the Homeownership Voucher Program regulations. The written commitment to partner must clearly outline: the broad roles and responsibilities of the PHA and the housing counseling agency applying for funding under this NOFA; the estimated number of Homeownership Voucher Program participants, both pre-purchase and ongoing, to be referred by the PHA to the counseling agency during the grant period October 1, 2003 to September 30, 2004; specific PHA requirements for ongoing counseling; and outcome goals.

While no written commitment to partner is required from PHAs approved by HUD as housing counseling agencies, the PHA must estimate the number of voucher participants to be counseled in connection with the Homeownership Voucher Program, and describe the outcome goals to be achieved.

IV. Requirements

Agencies selected as grantees or sub-grantees must comply with the following requirements:

(A) Threshold Requirements. The requirements listed in Section V of the General Section of the SuperNOFA apply to this program. Applications will be declared ineligible for any of the following reasons:

—If you or any of your affiliates or branches do not meet the Civil Rights Threshold Requirements set forth in Section V(B) of the General Section of this SuperNOFA.

—If you are presently debarred, suspended, proposed for debarment, declared ineligible, or voluntarily excluded from covered transactions from any federal department or agency.

—If you are not currently approved by HUD as an LHCA or as a National or Regional Housing Counseling Intermediary, and if you didn't secure approval by the publication date of this SuperNOFA. SHFAs need only satisfy the definition in 24 CFR 266.5 of a “Housing Finance Agency.”

(B) Program Requirements. Program requirements are outlined in detail in HUD Handbook 7610.1, REV-4, CHG-1, dated October 27, 1997, which can be viewed on HUD's Web site at http://www.hud.gov/offices/hsg/sfh/hcc/hccprof7.cfm.

Additionally, the following also apply:

(1) List of Agencies. Pursuant to section 106 (C)(5) of the Housing and Urban Development Act of 1968, HUD maintains a list of all HUD-approved and HUD-funded counseling agencies, including contact information, which interested persons can access. All grantees under Category 1, and sub-grantees under Categories 2, 3, and 4 will be placed on this list and must accept subsequent referrals, or when they do not provide the services sought, refer the person to another agency in the area that does provide the services.

(2) Accessibility—All grant recipients and sub-recipients must make counseling offices and services reasonably accessible to persons with a wide range of disabilities and help persons locate suitable housing in locations throughout the applicant's community, target area, or metropolitan area, as defined by the applicant.

(3) All counseling services provided in conjunction with the Homeownership Voucher Program must be provided free of charge.

(C) Religious Discrimination. Grant recipients and sub-recipients are prohibited from discriminating on behalf of or against any segment of the population in the provision of services or in outreach, including those of other religious affiliations.

Additionally, organizations funded under this program may not engage in inherently religious activities, such as worship, religious instruction, or proselytization, as part of the programs or services funded under this program. If an organization conducts such activities, these activities must be offered separately, in time or location, from the programs or services funded under this part, and participation must be voluntary for the HUD-funded programs or services.

(D) Code of Conduct. Entities that are subject to 24 CFR parts 84 and 85 (most nonprofit organizations and state, local and tribal governments or government agencies or instrumentalities who receive federal awards of financial assistance) are required to develop and maintain a written code of conduct (See §§ 84.42 and 85.36(b)(3)). Consistent with regulations governing housing counseling programs, your code of conduct must prohibit real and apparent conflicts of interest that may arise among employees, officers or agents; prohibit the solicitation and acceptance of gifts or gratuities by your officers, employees and agents for their personal benefit in excess of minimal value; and outline administrative and disciplinary actions available to remedy violations of such standards. Self-recusal shall not eliminate a potential or apparent conflict of interest. If awarded assistance under this SuperNOFA, prior to entering into a grant agreement with HUD you will be required to submit a copy of your code of conduct and describe the methods you will use to ensure that all officers, employees and agents of your organization are aware of your code of conduct.

(E) Performance Measurement. Grant recipients are required to complete and submit a form HUD-9902, Fiscal Year Activity Report (Appendix A). The information compiled from this report provides HUD with its primary means of measuring your program performance.

(F) Environmental Requirements. In accordance with 24 CFR 50.19(b)(9) and (12) of the HUD regulations, activities assisted under this program are categorically excluded from the requirements of the National Environmental Policy Act and are not subject to environmental review under the related laws and authorities.

(G) Financial Management Systems. Applicants selected for funding must provide documentation demonstrating that the applicant's financial management systems satisfy the requirements in the applicable regulations at 24 CFR 84.21(b) and 85.20. Consistent with the requirements of the Single Audit Act Amendments of 1996 (31 U.S.C. 7501-07), if the applicant expended $300,000 or more in federal awards in its most recent fiscal year, such documentation must include a certification from, or most recent audit by, the applicant's Independent Public Accountant that the applicant maintains internal controls over federal awards; complies with applicable laws, regulations, and contract or grant provisions; and prepares appropriate financial statements. The applicant will have at least thirty (30) calendar days to respond to this requirement. If an applicant does not respond within the prescribed time or responds with insufficient documentation, then HUD may determine that the applicant has not met this requirement and may withdraw the grant offer.

(H) Indirect Cost Rate. You must also submit documentation establishing your organization's indirect cost rate. Such documentation may consist of a certification from, most recent audit, or indirect cost rate agreement by, the cognizant federal agency or an Independent Public Accountant. If your organization does not have an established indirect cost rate, you will be required to develop and submit an indirect cost proposal to HUD or the cognizant federal Agency as applicable, for determination of an indirect cost rate that will govern your award. Applicants that do not have a previously established indirect cost rate with a federal agency shall submit an initial indirect cost rate proposal immediately after the applicant is advised that it will be offered a grant and, in no event, later than three months after the effective date of the grant. OMB Circular A-122 established the requirements to determine allowable direct and indirect costs and the preparation of indirect cost proposals, and can be found at www.whitehouse.omb.gov

V. Application Selection Process

(A) General. Applications will be evaluated competitively, and ranked against all other applicants that applied in the same funding category. All applicants will be rated and ranked in HUD Headquarters. The funding formula described below will be used to calculate award amounts.

(B) Factors For Award Used to Rate and Rank Applications. Section VI(B) of the General Section of the SuperNOFA contains information on the rating panels used to review and score applications. The Factors for Award, and maximum points for each factor, are outlined below.

These factors will be used to evaluate applications and the maximum number of points for each applicant is 102 points for LHCAs and 100 for all other applicants. LHCAs are eligible for 2 bonus points if they can demonstrate that at least 51% of their proposed services: (1) Will be provided to residents of federally designated Empowerment Zones (EZs), Enterprise Communities (ECs), Urban Enhanced Enterprise Communities (EECs), Strategic Planning Communities, or Renewal Communities (RCs); and (2) are certified to be consistent with the area's strategic plan. Section VI.C(1) of the General Section of this SuperNOFA, entitled “RC/EZ/EC,” contains additional information regarding these bonus points.

HUD may rely on information from performance reports, financial status information, monitoring reports, audit reports and other information available to HUD in making score determinations under any Rating Factor.

Rating Factor 1: Capacity—Readiness and Effectiveness (35 Points)

HUD uses responses to this Rating Factor to evaluate the readiness and ability of an applicant to immediately begin the proposed work program, as well as the potential for an applicant to cost-effectively and successfully implement the proposed activities indicated in response to Rating Factor 3.

(A) (6 points) Knowledge and Experience. In rating this sub-factor, HUD will consider the degree to which the applicant, and, if applicable, affiliates, has sufficient personnel with the relevant knowledge and experience to implement the proposed activities in a timely and effective fashion.

Specifically, for LHCAs, scoring will be based on the number of years of recent housing counseling experience of counselors. For intermediaries and SHFAs, scoring will be based on: the number of years of recent housing counseling experience of counselors in affiliates and branches; and the number of years, for key intermediary / SHFA personnel, of recent experience running a housing counseling program consisting of a network of multiple counseling agencies. Related experience, such as experience in mortgage lending, will also be considered, but will not be weighted as heavily as direct housing counseling or housing counseling program management experience.

Submit the names and titles of employees, including subcontractors and consultants, performing the activities proposed in Rating Factor 3. Clerical staff should not be listed. Describe each employee's, subcontractor's, or consultant's relevant professional background and experience. Experience is relevant if it corresponds directly to projects of a similar scale and purpose. Provide the number of years of experience for each position listed, and indicate when each position was held. Individual descriptions should be limited to one page. List recent and relevant trainings received.

(B) (4 points) Section 8 Homeownership Experience. In scoring this section, HUD will evaluate the degree to which, as compared to other applicants, the applicant and partnering PHA(s) have experience working with HUD's Homeownership Voucher Program.

Highlight counselors and key staff with experience related to counseling Homeownership Voucher families in the context of the homeownership option. Describe counseling activities and results performed in conjunction with the Homeownership Voucher Program, if applicable, including the number of families counseled by your agency that participated in Homeownership Voucher Program last year. Identify the sources and amount of funding used to support counseling in conjunction with the Homeownership Voucher Program.

Additionally, if applicable, provide detailed information regarding the Homeownership Voucher Program-related experience of each PHA with whom you, or your affiliates or branch offices, have a written commitment to partner, including the number of families that participated in the PHA's Homeownership Voucher Program in the past year, and the number of current homeowners receiving voucher assistance to date, and other notable outcomes and information demonstrating the effectiveness of the existing program. If different from the applicant, explain what counseling agency or other organization provided the housing counseling related to the Program.

(Sections C and D pertain to the applicant's performance with their FY01 HUD grant, the most recent complete grant year. If you received no FY01 HUD grant, the five points available in Section C, and the twelve points available in Section D will be allocated to Section E (Impact-Leveraged Resources) for a total of 20 points.)

(C) (5 points) Quality and Complexity of Services. In scoring this Section, HUD will evaluate the quality of services provided, and level of effort and time required to provide the housing counseling services (in general, not just Homeownership Voucher-related), captured in the form HUD-9902 for the time period October 1, 2001 to September 30, 2002. Scoring will be based on the degree to which the applicant demonstrates that, for each type of counseling service delivered, and compared to other applicants, sufficient time and resources were devoted to ensure that clients received quality counseling. Additionally, scorers will evaluate the extent to which, as compared to other applicants, an agency encouraged and provided one-on-one counseling, which HUD views as the most effective form of housing counseling, instead of over-relying on homebuyer education workshops and other forms of group sessions.

Applicants should carefully document the types and complexity of the services provided with FY01 HUD grant funds, and the outcomes for clients as a result of the counseling. Describe the level of effort and time required to provide the housing counseling services and to meet the needs of your clients. Indicate the average counseling time per client for all types of counseling performed. Also describe follow-up activities, if applicable.

Indicate the number of clients that participated only in Homebuyer Education workshops or other group sessions. Indicate the number of clients that participated in Homebuyer Education workshops or other group session and also received one-on-one counseling.

(D) (12 points) Impact/Outcomes—HUD Grant. In scoring this Section, HUD will evaluate the applicant's, and if applicable, affiliates' and branches', clients served numbers and performance-related outcomes (in general, not just Homeownership Voucher-related) for the grant period October 1, 2001 to September 30, 2002. Clients served numbers will be scored based on the quantity of clients the applicant was able to serve compared to similar applicants providing similar services. Clients served numbers will be analyzed in the context of budget, costs, spending decisions, the types of services provided, level of effort expended, etc. Outcomes will be scored based on how well the applicant met performance goals.

Indicate the number of clients (in general) that you proposed to serve with your HUD grant in Factor 3 of your FY01 Housing Counseling NOFA application (submitted May 3, 2001), and compare it with the number attributed to the HUD grant appearing on the 9902 form submitted with this application, covering October 1, 2001-September 30, 2002, which corresponds to the FY01 application and resulting award. Explain any differences between goals and results, including differences in proposed and actual grant amounts.

If you received no FY01 HUD grant covering October 1, 2001-September 30, 2002, characterize your performance at meeting your goals regarding activities for that time period, under other sources of funding, such as other federal, state or local grant awards. Explain any differences between goals and results.

While HUD values cost-effectiveness, we are not simply trying to identify and fund the lowest-cost service providers. We realize that costs vary depending on location and types of services provided, and can appreciate that strategic investments, such as investments in training, technology, or more qualified staff, may potentially be an efficient use of resources, but affect counseling volume in the short-term.

So HUD can evaluate your program results, provide a context for, or qualify, the number of clients, indicated on the form HUD-9902 submitted with this application, that were served with your HUD-grant. Describe the types of counseling conducted. Indicate how location, counseling and client type, spending decisions, and expenses may have affected client volume, and, if applicable, how they will impact client volume in the future.

Identify all specific uses of HUD grant funds, such as staff salaries, other staff costs, training, and travel expenses. Itemize the total costs for each use. Provide the average hourly labor rate for counselors. Justify your expenses and explain why they were reasonable, strategic, and appropriate for the counseling activities identified above.

Intermediaries and SHFAs that received an FY01 HUD award for the grant period October 1, 2001 to September 30, 2002 must also indicate what percentage of their award was passed through directly to affiliates and branches, and explain how funds not passed through were spent.

Provide the following performance outcomes for counseling activities covered by your FY01 HUD grant, for the grant period October 1, 2001 to September 30, 2002:

• The number of individuals receiving pre-purchase counseling that purchased a home;

• The number of individuals receiving pre-purchase counseling that are working toward becoming mortgage ready;

• The number of individuals receiving pre-purchase counseling that, after evaluating their unique financial situation and the costs of homeownership, elected not to purchase a home;

• The number of individuals receiving default counseling that successfully avoided foreclosure.

So HUD can evaluate these outcomes/results, indicate the outcome goals that you had set for yourself prior to the grant period, October 1, 2001 to September 30, 2002, and characterize your performance at meeting those goals. Compares these outcome goals with your actual performance outcomes. Describe relevant market conditions and other circumstances that you believe affected reported outcome numbers.

Note: The outcomes listed above correspond to the new form HUD-9902 (appendix A), from which these outcome results will be derived in future NOFAs. In future NOFAs, outcomes will be evaluated based on the degree to which the applicant was able to meet the outcome estimates it provided in Factor 5 of the relevant previous application. In other words, applicants will be held accountable for fulfilling performance-related promises made in NOFA applications.

If you received no FY01 HUD grant, provide these performance outcomes for counseling activities covering October 1, 2001-September 30, 2002, under other sources of funding, such as other federal, state or local grant awards. Indicate how each compares with the outcome goals that you had set for yourself for the activity period, and characterize your performance at meeting outcome goals.

(E) (3 points) Impact—Leveraged Resources. In scoring this Section, HUD will evaluate the applicant's non-HUD funded counseling activities and budget during the grant period October 1, 2001 to September 30, 2002. Scoring will be based on the quantity of clients the applicant was able to serve, compared to similar applicants providing similar services. Clients served numbers will be analyzed in the context of budget, costs, spending decisions, the types of services provided, level of effort expended, etc.

Provide all the information requested in Sections C and D above, except outcomes, relevant to the non-HUD funded activities recorded on the form HUD-9902 submitted with this application.

(F) (5 points) Performance/Grant Requirements. In scoring this Section, HUD will evaluate how well the applicant satisfied the requirements, including reporting, of their FY01 HUD housing counseling grant, for the grant period October 1, 2001 to September 30, 2002. If you did not receive a FY01 HUD grant, base your response on activities and requirements under other sources of funding, such as other federal, state or local grant awards.

• Characterize your performance with regards to the timeliness and completeness with which you satisfied reporting requirements (such as Form HUD 9902.)

• Also indicate whether or not you fully expended HUD and other grant awards during the grant period October 1, 2001 to September 30, 2002. If not fully expended, provide an explanation as to why the funds were not fully expended and the steps you have taken to ensure that future funding will be expended in a timely manner.

• Significant findings on biennial reviews conducted by HUD staff will be taken into consideration when scoring this Section. Explain how you have taken steps to address and correct any significant findings, if applicable.

Rating Factor 2: Need/Extent of Problem (10 Points)

This factor addresses the extent to which there is a demonstrated need for the proposed activities described in your response to Rating Factor 3, and the degree to which proposed activities correspond to Departmental policy priorities.

(A) (3 points) Demand for Homeownership Vouchers. Provide an estimate by the PHA as to the volume of Homeownership Voucher Program participants it anticipates in general for the grant period October 1, 2003 through September 30, 2004. Explain in detail how the estimate was calculated. Estimates and explanations must be provided on PHA letterhead and signed by an authorized PHA official.

(B) (3 points) Local Market. Demonstrate that the local market will support affordable homeownership. For example, describe the income and wealth characteristics of Homeownership Voucher Program participants, such as average income as a percent of area median income, and average savings available for down payment, and then demonstrate the availability in the local market of homes affordable to these participants. Intermediaries and SHFAs must provide this information for each affiliate or branch included in their application.

(C) (4 points) Departmental Policy Priorities. The Departmental policy priorities are listed in Section II of the General Section of the SuperNOFA. Of those listed, the following 4 apply to the Housing Counseling Program for the purpose of this NOFA:

(1) Providing Increased Homeownership and Rental Opportunities for Low- and Moderate-Income Persons, Persons with Disabilities, the Elderly, Minorities, and Families with Limited English Proficiency.

(2) Providing Full and Equal Access to Grass-Roots Faith-Based and Other Community-Based Organizations in HUD Program Implementation.

(3) Colonias.

(4) Participation of Minority Serving Institutions in HUD Programs.

You will receive one point (up to 4 total) for each of the Departmental policy priorities that your work plan substantively addresses.

Rating Factor 3: Scope of Housing Counseling Services / Soundness of Approach (40 Points)

This factor addresses the quality and effectiveness of your proposed housing counseling activities.

(A) (2 points) Work Plan. In scoring this Section, HUD will consider whether the applicant provided all of the information requested.

Describe the proposed housing counseling services and if applicable, intermediary activities, including training, you propose to undertake, and identify the geographic area your services will cover.

National and Regional Intermediaries and State Housing Finance Agencies must also provide the following additional information:

(a) Identify which affiliates will receive funding through this grant award. Applicants unable to identify which affiliates will receive sub-grants must explain why this is the case and what process will be used to select grantees. Pursuant to the applicable regulations at 24 CFR 84.82(d)(3)(iii) and 85.30(d)(4), grantees must receive HUD's prior written approval for sub-grants.

(b) Describe the activities of those affiliates, explicitly stating the types of services to be offered.

(c) Describe your relationship with your affiliates (i.e. membership organization, field or branch office, subsidiary organization, etc.).

(d) Explain the process that will be used to determine affiliate funding levels, distribute funds, and monitor affiliate performance, including compliance with the civil rights requirements outlined in the General Section of the SuperNOFA.

(B) (5 points) Employee Allocation/Staff hours. In scoring this Section, HUD will evaluate whether allocated staff and staff hours are appropriate and sufficient to perform all proposed tasks.

Indicate the names and titles of employees, including subcontractors and consultants, allocated to each proposed activity, as well as the corresponding staff hours for each task. Demonstrate that each employee's experience is related to the tasks they are to perform.

(C) (9 points) Coordination. In scoring this Section, HUD will consider the extent to which the applicant can demonstrate they will coordinate proposed activities with other organizations, and with other services and products offered by the applicant's organization, in a manner that benefits their clients.

Describe partnerships and efforts to coordinate proposed activities with other organizations, particularly lending organizations and nonprofit housing providers. Any written agreements or memoranda of understanding in place should be described and copies provided.

National and regional intermediaries should also highlight internal lending operations and loan products available to clients, as well as internal affordable housing programs that can be a resource for clients.

Describe plans to avoid conflicts of interest, such as methods for disclosing to participants that they are free to choose lenders, lending products, and homes, regardless of the recommendations made by counselors, and provide copies of relevant disclosure forms and materials.

(D) (12 points) Quality and Complexity of Services. In scoring this Section, HUD will evaluate the quality of the proposed housing counseling services, and the level of effort and time associated with providing the proposed counseling services to the number of clients you estimate you will serve in Section E. Scoring will be based on the degree to which the applicant demonstrates that, for each type of counseling service delivered, and compared to other applicants, sufficient time and resources will be devoted to ensure that clients receive quality counseling.

Applicants should carefully document the types and complexity of the services to be provided. Describe the level of effort and time you estimate is required to provide the proposed counseling services to, and meet the needs of, the number of clients you indicate in Section E that you will serve with the proposed grant. Estimate the average counseling time you, and if applicable your affiliates and branches, anticipate per client for all types of counseling offered. Also describe planned follow-up activities, if applicable.

(E) (12 points) Efficient Use of Resources—Proposed HUD Grant Activities. In scoring this Section, HUD will evaluate the number of clients that the applicant, and if applicable, affiliates and branches, estimate will be served under the proposed HUD grant, for the grant period October 1, 2003 to September 30, 2004. Scoring will be based on the quantity of clients the applicant proposes to serve, compared to similar applicants providing similar services. Proposed clients served numbers will also be analyzed in the context of budget, costs, spending decisions, the types of services provided, level of effort expended, etc.

Indicate the number of clients you project will be served by your organization, or, if applicable, affiliates and branch offices, under the proposed HUD grant. Do not provide ranges or percentages, but a specific number of clients. Estimates must be consistent with the number of clients, indicated in the required written commitment to partner, that the PHA indicates will be referred to the counseling agency/applicant during the grant period October 1, 2003 to September 30, 2004, or differences should be explained clearly.

Provide a context for, or qualify the number of clients you project to serve with the proposed HUD grant. Indicate how location, counseling and client types, and expenses may affect client volume, and whether the impact will be short-term or long-term.

Itemize the costs associated with each specific proposed use of counseling funds, such as staff salaries, other staff costs, training and travel expenses. Provide the average hourly-labor rate for counselors. Justify your proposed expenses and explain why they are reasonable, strategic, and appropriate for the counseling activities identified above.

National and Regional Intermediaries and SHFAs must indicate what percentage of their proposed HUD grant will be passed through directly to affiliates or branches, and explain how funds not passed through will be spent.

Rating Factor 4: Leveraging Resources (10 Points)

Applicants will be evaluated based on their ability to provide evidence that they have obtained additional resources for their housing counseling activities (in general, not just Homeownership Voucher Program-related counseling), including: Direct financial assistance; in-kind contributions, such as services, equipment, office space; labor; etc. Resources may be provided by governmental entities, public or private nonprofit organizations, for-profit private organizations, or other entities committed to providing you assistance.

In order to obtain points under this factor, the applicant must demonstrate leveraging by providing letters from entities and/or individuals committing resources to the project that include:

—The identity of the entity or individual committing resources to the project.

—Dollar value of the resources to be committed.

—Types of resources to be committed.

—An indication that the resources will be available during the grant period pertaining to this NOFA, October 1, 2003-September 30, 2004.

—An indication that the award, or a specific portion of it, is intended for housing counseling.

—The signature of an official of the entity legally able to make commitments on behalf of the entity.

—No conditions that would nullify the commitment. (It is, however, acceptable for the commitment to be conditional on HUD funding.)

Additionally, resources provided by the applicant itself, recorded as ‘applicant match' and ‘program income' on the form HUD-424, will count as leveraged resources.

Points for this factor will be awarded based on the satisfactory provision of evidence of leveraging and financial sustainability, as described above, and the ratio of requested HUD housing counseling funds to total housing counseling budget. Depending on organization type, the following scales will be used to determine scores for this factor:

Percentage | Points
LHCAs and SHFAs
1-20 | 10
21-35 | 9
36-42 | 8
43-50 | 7
51-58 | 6
59-65 | 5
66-73 | 4
74-80 | 3
81-90 | 2
91-99 | 1
National and Regional Intermediaries
1-10 | 10
11-15 | 9
16-20 | 8
21-25 | 7
26-30 | 6
31-35 | 5
36-40 | 4
41-45 | 3
46-50 | 2
51-99 | 1

Rating Factor 5: Achieving Results and Program Evaluation (5 Points)

This factor emphasizes HUD's determination to ensure that applicants meet commitments made in their applications and grant agreements and assess their performance to realize performance goals, and reflects HUD's goal to embrace high standards of ethics, management and accountability.

The purpose of this factor is for the applicant to identify program outputs and outcomes that will allow you and HUD to measure actual achievements against anticipated achievements. Outputs and outcomes must be objectively quantifiable.

Submission Requirements for Factor 5. Applicants must submit an effective, quantifiable, outcome-oriented evaluation plan for measuring performance and determining that output and outcome goals have been met. You must submit a program evaluation plan that demonstrates how you will measure your own program performance. Your Evaluation Plan should identify what you are going to measure, how you are going to measure it, and the steps you have in place to make adjustments to your work plan if performance targets are not met within established timeframes. Specifically, your plan must identify:

—Outputs. Outputs are the direct products of your program's activities that lead to the ultimate achievement of outcomes. Examples of outputs are the number of individual counseling sessions, and the number of group sessions to be provided. Identify interim and full grant term outputs, and timeframes for accomplishing these goals. Your plan must show how you will measure actual accomplishments against anticipated achievements.

—Work Plan Adjustments. Describe steps in place to make adjustments to your work plan if outputs are not met within established timeframes or if you begin to fall short of established outputs and timeframes. Intermediaries and SHFAs should indicate if and how the performance of affiliates and branch offices affects current and future sub-grant allocations.

—Outcomes. Outcomes are benefits accruing to the families as a result of participation in the program. Outcomes are performance indicators you expect to achieve or goals you hope to meet over the term of your proposed grant. In scoring this Section, HUD will consider the appropriateness of the proposed outcomes given the proposed HUD award and past performance, and evaluate proposed outcomes in comparison to similar applicants. For the period October 1, 2003-September 30, 2004, provide the following anticipated outcomes for clients as a result of the proposed grant:

• The number of individuals receiving pre-purchase counseling that will purchase a home

• The number of individuals receiving pre-purchase counseling that are working toward becoming mortgage ready

• The number of individuals receiving pre-purchase counseling that, after evaluating their unique financial situation and the costs of homeownership, will elect not to purchase a home

• The number of individuals receiving default counseling that will successfully avoid foreclosure

(These specific outcomes correspond to the new form HUD-9902. The proposed outcomes you provide will be compared with the results captured in the HUD-9902 you submit in the FY05 NOFA, should you apply, to evaluate the impact you were able to achieve with this award, and the degree to which you were able to meet or exceed your proposed outcomes.)

—Information Collection. Describe your strategy for following-up with clients and collecting outcome information.

(C) Funding Methodology. Only applicants scoring 75 points or above are eligible for funding under Categories 1, 2, 3, and 4. However, because of the limited amount of funds available in relation to the potential number of applicants, all applicants scoring 75 points or above are not guaranteed funding, as described below.

All LHCAs will be ranked against each other nationally. Up to the top 30 scoring applicants nationwide with scores of 75 points or above will receive a base award of $15,000. The total number of applicants receiving the base award will be multiplied by $15,000 and that amount will be subtracted from the total amount available under the category. Then, the remaining balance ($300,000 if 30 applicants score 75 points or above) will be divided by the total number of points each of those 30 applicants scores that are above the 75 point cutoff. The division will result in a dollar value for each point. The number of points that each applicant scores above the 75 point threshold will be multiplied by that dollar value. The result of that multiplication will be added to the $15,000 base for the total award amount.

All National Intermediaries will be ranked against each other. Up to the top 4 scoring applicants with scores of 75 points or above will receive a base award of $150,000. The total number of applicants receiving the base award will be multiplied by $150,000 and that amount will be subtracted from the total amount available under the category. The remaining balance ($350,000 if 4 national intermediaries score 75 points or above) will be divided by the total number of points each of those 4 agencies scores that are above the 75-point cutoff. The division will result in a dollar value for each point. The number of points that each applicant scores above the 75 point threshold will be multiplied by that dollar value. The result of that multiplication will be added to the $150,000 base for the total award amount.

All Regional Intermediaries will be ranked against each other. Up to the top 2 scoring applicants with scores of 75 points or above will receive a base award of $60,000. The total number of applicants receiving a base award will be multiplied by $60,000 and that amount will be subtracted from the total amount available under the category. Then, the remaining balance ($30,000 if 2 regional intermediaries score 75 points or above) will be divided by the total number of points each of those 2 agencies scores that are above the 75-point cutoff. The division will result in a dollar value for each point. The number of points that each applicant scores above the 75 point threshold will be multiplied by that dollar value. The result of that multiplication will be added to the $60,000 base for the total award amount.

All SHFAs will be ranked against each other nationally. Up to the top 5 scoring applicants with scores of 75 points or above will receive a base award of $20,000. The total number of applicants receiving a base award will be multiplied by $20,000 and that amount will be subtracted from the total amount available under the category. The remaining balance ($50,000 if 5 SHFAs score 75 points or above) will be divided by the total number of points each of those applicants scores that are above the 75 point cutoff. The division will result in a dollar value for each point. The number of points that each applicant scores above the 75 point threshold will be multiplied by that dollar value. The result of that multiplication will be added to the $20,000 base for the total award amount.

All grantees will receive the lower of either the award amount determined with the formula, or the amount actually requested by the applicant.

(D) Reallocation of Unspent Funds. If funds designated for a specific grant Category remain unspent after the formula has been run and award recommendations determined, HUD may reallocate those funds to any other funding category in this NOFA, at its discretion, or may reallocate those funds to any category under the general Housing Counseling NOFA also issued with this SuperNOFA. Additionally, HUD may reallocate unspent funds for housing counseling support activities.

(E) Applicant Debriefing. Applicants interested in a debriefing should consult the instructions in section XI(A)(4) of the General Section of the SuperNOFA. Requests should be submitted to the person or organization to which you were instructed, in section VI of this NOFA, to submit your application.

(F) Grant Period. Funds awarded shall be available for a period of twelve (12) calendar months. Applicants selected for award must receive prior HUD approval to incur costs prior to the date of the grant agreement. Grantees may incur pre-award costs ninety (90) calendar days prior to the effective date of the grant agreement. All pre-award costs are incurred at the applicant's risk and HUD has no obligation to reimburse such costs if the award is inadequate to cover such costs or the award offer is withdrawn because of the applicant's failure to satisfy the requirements of this NOFA.

(G) Award Instrument. HUD expects to use a grant agreement, but it reserves the right to use the award instrument it determines to be most appropriate. All Housing Counseling Program awards shall be made on a cost reimbursement basis in accordance with the requirements in OMB Circular A-87, Cost Principles for State and Local Governments and Indian Tribal Governments; or OMB Circular A-122, Cost Principles for Non-Profit Organizations, as applicable to your organization; and the administrative requirements established in OMB Circular A-102, which was implemented by 24 CFR part 85 (Administrative Requirements for Grants and Cooperative Agreements to State, Local and federally recognized Indian tribal governments); OMB Circular A-110, which was implemented by 24 CFR part 84 (Grants and Agreements with Institutions of Higher Education, Hospitals and Other Non-Profit Organizations); and OMB Circular A-133 which was implemented by 24 CFR parts 84 and 85. If you receive an award you are also required to ensure that any sub-recipients also comply with the above requirements. OMB circulars can be found at: http://www.whitehouse.gov/omb/.

VI. Application Submission

In addition to reviewing the instructions below, all applicants should consult the General Section of this SuperNOFA and review the procedures that affect application submission.

Application. Because applications will be handled by various staff members, they must be bound or secured in a binder, and tabbed. Use the checklist below to organize your application. Unless indicated below, all applicants must submit the following:

(1) The standard forms, certifications, and assurances listed in Section V(H) of the General Section of the SuperNOFA (collectively, referred to as the “standard forms”).

(2) HUD-approval / Statutory Authority. Each applicant is required to submit a copy of their most recent approval letter or certificate of approval as a housing counseling agency from HUD, unless the applicant is a SHFA that satisfies the definition of a ‘Housing Finance Agency' in 24 CFR 266.5. SHFAs must submit evidence of their statutory authority to operate as a SHFA, and apply for, and use, any funds awarded.

(3) Written Commitment to Partner. Provide a copy of a written commitment to partner from each PHA with which you or your affiliates and branches have entered into an agreement, as described in Section III of this NOFA.

(4) Form HUD-9902, Housing Counseling Agency Fiscal Year Activity Report, for fiscal year October 1, 2001 through September 30, 2002. In the space provided on the form, indicate the amount of the FY01 HUD grant you received that corresponds with this data. If you did not participate in HUD's Housing Counseling Program during the period October 1, 2001 through September 30, 2002, this report should be completed to reflect your counseling workload and budget during that period. A copy of this form is included in Appendix A of this NOFA.

(5) National and Regional Intermediaries must provide a list of, and certify to, the states in which they maintain offices, including the national office and all affiliates or branch offices.

(6) Narrative statements addressing the Rating Factors in section V(B) above. Responses to the rating factors should provide HUD with detailed quantitative and qualitative information and relevant examples regarding the housing counseling work of your organization.

Please be as specific and direct as possible. For LHCAs, responses to each factor must be limited to 10 double-spaced, size 12 font, single-sided pages. Additional submissions by LHCAs will not be read. These guidelines are also recommended for National and Regional Intermediaries and SHFAs, however, if you feel you need to include more information to make your case, you should feel free to do so.

VII. Corrections to Deficient Applications

The General Section of the SuperNOFA provides the procedures for corrections to deficient applications. Applications will be declared ineligible for any of the following reasons:

—If you do not meet the Civil Rights Threshold Requirements set forth in section V(B) of the General Section of this SuperNOFA.

—If you are presently debarred, suspended, proposed for debarment, declared ineligible, or voluntarily excluded from covered transactions from any federal department or agency.

VIII. Authority

HUD's Housing Counseling Program is authorized by Section 106 of the Housing and Urban Development Act of 1968 (12 U.S.C. 1701x), and is generally governed by HUD Handbook 7610.1, REV-4, CHG-1, dated October 27, 1997.

The Homeownership Voucher Program and the Section 8 Homeownership Program refer to the homeownership option in the Housing Choice Voucher Program. The homeownership option is authorized by section 8(y) of the United States Housing Act of 1937, as amended by section 555 of the Quality Housing and Work Responsibility Act of 1998. The implementing regulations are found at 24 CFR 982.625 through 24 CFR 982.642.

Appendix A—Form HUD-9902, Fiscal Year Activity Report

BILLING CODE 4210-32-P

Funding Availability for the Lead-Based Paint Hazard Control Grant Program

PROGRAM OVERVIEW

Purpose of the Program. The purpose of the Lead-Based Paint Hazard Control Grant Program is to assist States, Native American Tribes and local governments in undertaking comprehensive programs to identify and control lead-based paint hazards in eligible privately owned housing for rental or owner-occupants in partnership with nonprofit organizations including grassroots faith-based and other community-based organizations.

Available Funds. Approximately $96 million in Fiscal Year 2003 and approximately $7 million in previous year recaptured funds.

Eligible Applicants. States, Native American Tribes or local governments. If you are a State or Tribal applicant, you must have a Lead-Based Paint Contractor Certification and Accreditation Program authorized by the Environmental Protection Agency (EPA).

Application Deadline. You, the applicant, must submit a completed application to HUD on or before the respective program's application due date. The application deadline is June 10, 2003

Match. A statutory minimum of 10% match in local funds.

ADDITIONAL INFORMATION

Application and Submission Procedures

(1) Application Submission. See the General Section of this SuperNOFA for specific procedures concerning the form of application submission (e.g., mailed applications, express mail or overnight delivery). Be advised that there is no Application Kit for this year's Lead-Based Paint Hazard Control Grant Program. All the information required to submit an application is contained in this Notice of Funding Availability (NOFA).

(2) Addresses. You, the applicant, must submit a complete application to: Department of Housing and Urban Development, Office of Healthy Homes and Lead Hazard Control, Attn: Lead Hazard Control Grant Program, 451 Seventh Street, SW, Room P3206, Washington, DC 20410.

For Further Information and Technical Assistance: You may contact Matthew E. Ammon, Director, Lead Hazard Control Grants Division, Office of Healthy Homes and Lead Hazard Control, at the address above; telephone (202) 755-1785, extension 158 (this is not a toll-free number). If you are a hearing-or speech-impaired person, you may reach the above telephone numbers via TTY by calling the toll-free Federal Information Relay Service at 1-800-877-8339.

I. Authority, Funding Amounts, and Amount of Funds Allocated

(A) Authority. The Lead-Based Paint Hazard Control Program is authorized by Section 1011 of the Residential Lead-Based Paint Hazard Reduction Act of 1992 (Title X of the Housing and Community Development Act of 1992). HUD's authority for making funding available under this NOFA is the Consolidated Appropriations Resolution of 2003, Public Law 108-7, approved February 20, 2003.

(B) Funding Available and Eligibility. Approximately $96 million in Fiscal Year 2003 and approximately $7 million in previous year recaptured funds will be available for the Lead-Based Paint Hazard Control Grant Program. The maximum award amount shall be $3 million per grant. Approximately 30 to 40 grants will be awarded. New applicants or those previously funded lead-based paint hazard control grantee applicants whose period of performance ended prior to the application deadline date will be evaluated and scored as a separate group and will not be in direct competition with applications from current grantee applicants that are eligible for a Performance-Based Renewal to their existing grant. A maximum of 35 percent of the funds will be made available to applicants eligible for a Performance-Based Renewal. The project duration shall be 42 months for new grant recipients and 36 months for Performance-Based Renewal grantees. HUD reserves the right to approve no-cost time extensions for a period not to exceed 24 months. For new applicants, a minimum score of 75 is required for award consideration. Current grantees with active grants at the application deadline date must meet specific performance criteria in their current grant to be eligible for a Performance-Based Renewal. Current grantees eligible for a Performance-Based Renewal must meet or exceed the specific work plan performance benchmark goals and objectives outlined below for the period ending March 31, 2003 to be eligible to receive up to $3 million to continue grant program activities for an additional 36 months after their current period of performance ends. Current grantees that do not meet the performance criteria below are not eligible to submit an application under this NOFA. Current grantees with active grants at the application deadline date funded under the Fiscal Year 1998 Lead-Based Paint Hazard Control Grant Program NOFA published in the Federal Register (FR) March 31, 1998 and grantees funded under the Fiscal Year 2002 Lead-Based Paint Hazard Control Grant Program NOFA published in the Federal Register (FR) March 26, 2002 are not eligible to apply.

Performance-Based Renewal Eligibility Criteria
[For period ending March 31, 2003]
FY | Round | Percentage of units completed and cleared | Percentage of federal funds reimbursed through the line of credit control system (LOCCS)
1999 | 7 | 80 | 55
2000 | 8 | 65 | 45
2001 | 9 | 50 | 35

By achieving the above-referenced level of performance, current grantees have demonstrated a clear competitive basis for eligibility in receiving additional funds without the need to submit a full application in response to the NOFA. The Performance-Based Renewal category reflects the intention of the Lead Hazard Control Grant Program to move towards more competitive performance-based awards. Applicants eligible to submit a Performance-Based Renewal will be required to submit a Total Budget (Federal Share and Matching), a work plan strategy with specific, measurable, and realistic benchmark performance objectives and any supporting materials prescribed in the NOFA for the entire Performance-Based Renewal period of performance. In addition, grantees awarded grant funds under this category will be required to meet the terms and conditions of their current grant agreement and any additional applicable requirements under this NOFA and subsequent grant agreement modification. HUD may terminate awards to grantees that fail to meet established milestones or benchmark performance standards established by this NOFA or the Award Agreement.

II. Eligible Applicants and Activities

(A) Program Description. The Lead-Based Paint Hazard Control Grant Program assists States, Native American Tribes and local governments in undertaking programs for the identification and control of lead-based paint hazards in eligible privately-owned rental and owner-occupied housing units. Appendix B (Eligibility of HUD Assisted Housing) lists the HUD-associated housing programs that meet the definition of eligible housing under this program.

(1) Because lead-based paint is a national problem, these funds will be awarded to programs which:

(a) Maximize the combination of children protected from lead poisoning and housing units where lead-hazards are controlled;

(b) Target lead hazard control efforts at housing in which children are at greatest risk of lead poisoning;

(c) Stimulate cost-effective approaches that can be replicated;

(d) Emphasize lower cost methods of hazard control;

(e) Build local capacity to safely and effectively address lead hazards during lead hazard control, renovation, remodeling, and maintenance activities; and

(f) Affirmatively further fair housing and environmental justice.

(2) The objectives of this program include:

(a) Implementation of a national strategy, as defined in Title X of the Housing and

Community Development Act of 1992 (42 U.S.C. 4851 et seq.) (Title X), to build the community's capacity necessary to eliminate lead-based paint hazards in housing, as widely and quickly as possible by establishing a workable framework for lead-based paint hazard identification and control;

(b) Mobilization of public and private resources, involving cooperation among all levels of government, the private sector, and grassroots faith-based and other community-based organizations to develop cost-effective methods for identifying and controlling lead-based paint hazards;

(c) Development of comprehensive community approaches which result in integration of all community resources (governmental, grassroots faith-based and other community-based, and private businesses) to address lead hazards in housing;

(d) Integration of lead-safe work practices into housing maintenance, repair, weatherization, rehabilitation, and other programs that will continue after the grant period ends;

(e) Establishment of a public registry (listing) of lead-safe housing or inclusion of the lead-safe status of properties in another publicly accessible address-based property information system and affirmatively marketed to families with young children; and

(f) To the greatest extent feasible, promotion of job training, employment, and other economic opportunities for low-income and minority residents and businesses that are owned by and/or employ low-income and minority residents as defined in 24 CFR 135.5 (see 59 FR 33881, June 30, 1994).

(B) Eligible Applicants.

(1) To be eligible to apply for funding under this program, the applicant must be a State, Indian Tribe, or unit of local government. Multiple units of a local government (or multiple local governments) may apply as part of a consortium; however, you must identify a lead applicant that will be responsible for ensuring compliance with all requirements specified in this NOFA. You may submit only one application. In the event that multiple applications are submitted, this will be considered a curable (minor) defect and the application review process delayed until you notify HUD in writing which application should be reviewed. Your other applications will be returned unevaluated (see Section VIII of the General Section of this SuperNOFA).

(2) Threshold Requirements. As an applicant, you must meet all of the threshold requirements of the General Section of this SuperNOFA (Section V (B)) as well as any specific threshold requirements for applicants under the Lead Hazard Control Grant Program. Applications will not be rated or ranked if they do not meet the threshold requirements.

(3) Consolidated Plans. (This requirement does not apply to Native American Tribes.)

(a) If your jurisdiction has a current HUD-approved Consolidated Plan, you must submit, as an appendix, a copy of the lead-based paint element included in the approved Consolidated Plan.

(b) If your jurisdiction does not have a currently approved Consolidated Plan, but it is otherwise eligible for this grant program, you must include your jurisdiction's abbreviated Consolidated Plan, which includes a lead-based paint hazard control strategy developed in accordance with 24 CFR 91.235.

(4) Contracts or other formal arrangements with nonprofit grassroots faith-based and other community-based organizations. If selected for funding, local and State applicants must enter into contractual relationships or other formal arrangements with grassroots faith-based and other community-based organizations. Such relationships must be established prior to actual execution of the grant agreement. This requirement does not apply to Native American Tribes.

(5) EPA Authorization. If you are a State government or Indian (Native American) Tribal government, you must have an EPA-authorized Lead-Based Paint Training and Certification Program in effect on the application deadline date to be eligible to apply for Lead Hazard Control Grant funds. The approval date in the Federal Register notice published by the EPA will be used in determining the Training and Certification status of the applicant State or Indian (Native American) Tribal government.

(6) Current grantees with active grants at the application deadline date must meet specific performance criteria in their most recent grant to be eligible for a Performance-Based Renewal Grant. Current grantees that do not meet the performance criteria in Section II (B) for the period ending March 31, 2003 are not eligible for a Performance-Based Renewal grant. Current grantees funded under the Fiscal Year 1998 Lead-Based Paint Hazard Control Grant Program published in the Federal Register (FR) March 31, 1998 or funded under the Fiscal Year 2002 Lead-Based Paint Hazard Control Grant Program NOFA published in the Federal Register (FR) March 26, 2002 are not eligible to apply.

(7) The eligibility factors discussed in paragraphs (1) through (6) above are threshold requirements. If you do not satisfy the appropriate eligibility requirements stated in these paragraphs, HUD will not review your application.

(C) Eligible Activities. HUD is interested in promoting lead hazard control approaches that result in the reduction of this health threat for the maximum number of low-income families with children under six years of age, for the longest period of time, and that demonstrate techniques which are cost-effective, efficient, and replicable elsewhere. Activities must be conducted in compliance with HUD's Lead-Safe Housing Regulation, 24 CFR part 35, and with any applicable requirements of a Training and Certification Program that has been authorized by the EPA under the requirements of 40 CFR 745.320. Copies of HUD's Lead-Safe Housing Regulation, and the companion publication “Interpretive Guidance: The HUD Regulation on Controlling Lead-Based Paint Hazards in Housing Receiving Federal Assistance and Federally Owned Housing Being Sold,” are available from the National Lead Information Clearinghouse at 1-800-424-LEAD (this is a toll-free number). If you are a hearing- or speech-impaired person, you may reach the telephone number via TTY by calling the toll-free Federal Information Relay Service at 1-800-877-8339. Copies are also available from the Office of Healthy Homes and Lead Hazard Control website at: www.hud.gov/offices/lead.

(1) Direct Project Elements that you may undertake directly or through sub-recipients, include:

(a) Performing dust testing, inspections, and risk assessments of eligible housing units constructed prior to 1978 to determine the presence of lead-based paint and/or lead hazards from paint, dust, or soil through the use of acceptable testing procedures. All test results must be provided to the owner of the unit, together with a notice describing the owner's legal duty to disclose the results to tenants and buyers.

(b) Conducting required pre-hazard control blood lead testing of children under the age of six years of age residing in units undergoing lead paint inspection/ risk assessment, or hazard control, unless reimbursable from Medicaid or another source.

(c) Conducting lead hazard control activities that may include any combination of the following:

(i) Interim control of lead-based paint hazards in housing (that must include specialized cleaning techniques to address lead dust);

(ii) Abatement. The complete abatement of all lead-based paint hazards or lead-contaminated soil in a unit or structure is acceptable. Abatement of lead-contaminated soil should be limited to areas with bare soil in the immediate vicinity of the structure, i.e. dripline or foundation of the unit being treated, and children's play areas. Abatement of all lead based paint is only acceptable in limited circumstances with prior HUD approval.

All lead hazards identified in a housing unit enrolled in the lead hazard control grant program must be controlled or eliminated by any combination of these strategies.

(d) Carrying out relocation of families and individuals during the period in which hazard control is conducted and until the time the affected unit receives clearance for reoccupancy.

(e) Performing blood lead testing and air sampling to protect the health of the hazard control workers, supervisors, and contractors.

(f) Undertaking minimal housing rehabilitation activities that are specifically required to carry out effective hazard control, and without which the hazard control could not be completed and maintained. These grant funds may be used for lead hazard control work done in conjunction with other housing rehabilitation programs. HUD strongly encourages integration of this grant program with housing rehabilitation, maintenance, weatherization, and other energy conservation activities.

(g) Conducting clearance dust-wipe testing and laboratory analysis (laboratory must be recognized by the National Lead Laboratory Accreditation Program (NLLAP) as being capable of performing lead analyses of samples of paint, dust-wipes, and/or soil).

(h) Engineering and architectural activities that are required for, and in direct support of, lead hazard control.

(i) Providing resources to build capacity for lead-safe housing and lead hazard control, including free delivery of HUD-approved lead-safe work practices training courses for housing rehabilitation contractors, rehabilitation workers, homeowners, renters, painters, remodelers, maintenance staff, and others conducting renovation, rehabilitation, maintenance or other work in private housing; free delivery of lead sampling technician training, lead-based paint worker or contractor certification training; and subsidies for licensing or certification fees to low-income persons seeking credentials as lead-based paint workers or contractors or lead sampling technicians.

(j) Providing instruction, training, and material supplies for dust control activities to grassroots faith-based and other community-based organizations, parent organizations, homeowners, and renters in low-income private housing.

(k) Conducting planning, coordination, and training activities to comply with HUD's Lead-Safe Housing Regulation (24 CFR Part 35) that became effective on September 15, 2000. These activities should support the expansion of a workforce properly trained in lead-safe work practices which is available to conduct interim controls on HUD assisted housing covered by these regulations. The regulation and interpretive guidance about the rule are available from the National Lead Information Center at 1-800-424-LEAD (this is a toll-free number). If you are a hearing-or speech-impaired person, you may reach the telephone number via TTY by calling the toll-free Federal Information Relay Service at 1-800-877-8339. Copies are also available from the HUD website at: www.hud.gov

(l) Conducting general or targeted community awareness, education or outreach programs on lead hazard control and lead poisoning prevention designed to increase the ability of the program to deliver lead hazard control services including educating owners of rental properties, tenants, and others on the Residential Lead-Based Paint Hazard Reduction Act, Lead-Safe Housing Regulation, and applicable provisions of the Fair Housing Act, and offering educational materials in languages other than English, when needed, and providing training on lead-safe maintenance and renovation practices and management. Upon request, this also would include making all materials available in alternative formats to persons with disabilities (e.g., Braille, audio, large type).

(m) Procuring liability insurance for lead-hazard control activities.

(n) Supporting data collection, analysis, and evaluation of grant program activities. This includes compiling and delivering such information and data as may be required by HUD. This activity is separate from administrative costs.

(o) Participating in applied research, studies, or developing information systems to enhance the delivery, analysis, or conduct of lead hazard control activities, or to facilitate targeting and consolidating resources to further childhood lead poisoning prevention efforts.

(p) Purchasing or leasing equipment having a per unit cost under $5,000.

(q) Purchasing or leasing no more than two (2) X-ray fluorescence analyzers for use by the Lead-Based Paint Hazard Control Grant Program, if not already available.

(r) Preparing a final report at the conclusion of grant activities.

(2) Support Elements.

(a) Administrative costs. There is a 10% maximum for administrative costs. Specific information on administrative costs is included in Appendix B.

(b) Program planning and management costs of sub-grantees and other sub-recipients.

(D) Ineligible Activities. You may not use grant funds for:

(1) Purchase of real property.

(2) Purchase or lease of equipment having a per unit cost in excess of $5,000, except for the purchase of X-ray fluorescence analyzers.

(3) Chelation or other medical treatment costs related to children with elevated blood lead levels. Non-federal funds used to cover these costs may be counted as part of the required matching contribution.

(4) Lead hazard control activities in publicly owned housing, or project-based Section 8 housing (This housing stock is not eligible under Section 1011 of the Lead-Based Paint Hazard Reduction Act, but other funds are available).

III. Requirements

(A) Threshold Requirements. In addition to the requirements listed in Section V. of the General Section of this SuperNOFA, the applicant must comply with the following:

(1) Matching Contribution. You must provide a matching contribution of at least 10% of the requested grant sum. This may be in the form of cash, including private sector funding, or in-kind (non-cash) contributions or a combination of these sources. With the exception of Community Development Block Grant (CDBG) funds, Federal Revenue Sharing programs, or other programs which by statute allow their funds to be considered local funds and therefore eligible to be used as matching funds, Federal funds may not be used to satisfy the statutorily required 10% matching requirement. Federal funds may be used, however, for contributions above the statutory requirement. If an applicant does not include the minimum ten percent match in the application, it will be considered a curable (correctable) technical deficiency (see Section VIII, Corrections to Deficient Applications in the General Section of this SuperNOFA for the specific details on how to correct this technical deficiency).

(B) Program Requirements. In addition to the threshold requirements, the applicant must also comply with the following:

(1) Work Activities. Conformance of proposed plans to Federal and State policies for Lead-Based Paint Hazard Control. All lead hazard control activities must be conducted in compliance with the applicable requirements of HUD's Lead-Safe Housing Regulation, 24 CFR Part 35, and as clarified in HUD's Interpretive Guidance about the rule. Activities must also comply with any additional requirements in effect under a State or Tribal Lead-Based Paint Training and Certification Program that has been authorized by the EPA pursuant to 40 CFR 745.320.

(2) Direct Lead Hazard Identification and Control Activities. The budget proposed must show a minimum of 60 percent of the total Federal amount requested identified for direct lead hazard control activities. Direct lead hazard control activities consist of dust testing, lead paint inspections, risk assessments, lead hazard control services, and clearance examinations. Direct hazard control activities do not include relocation, blood lead testing of residents or workers, housing rehabilitation, training, community education, applied research, purchase of supplies or equipment, or administrative costs.

(3) Lead-Safe Work Practice Training Activities. For most applicants, at least two percent of the total Federal amount in the budget proposal will be necessary to promote the expansion of a workforce properly trained in lead-safe work practices and which is available to conduct interim controls and/or lead hazard abatement as well as follow lead-safe work practices while performing work on HUD assisted housing units per the provisions of the HUD Lead-Safe Housing Regulation 24 CFR part 35(1330(a)(4)(iii)(v), and to safely repair, rehabilitate, and maintain other privately-owned residential property. Any applicant that proposes to use less than two percent of the total Federal amount for this purpose shall present evidence that there is currently in place a workforce that is sufficient in size and is properly trained to carry out the work under the Lead Hazard Control grant and the HUD Lead-Safe Housing Regulation.

(C) Administrative Costs. There is a 10% maximum for administrative costs as specified in Section 1011 (j) of the Residential Lead-Based Paint Hazard Reduction Act of 1992 (Title X of the Housing and Community Development Act of 1992, Public Law 102-550). Additional information about allowable administrative costs is provided in Appendix B of this NOFA.

(D) Period of Performance. The period of performance is 42 months for new or prior grantee applicants. The period of performance for current grantee applicants eligible for a Performance-Based Renewal is 36 months. HUD reserves the right to approve no cost time extensions for a period not to exceed 24 months.

(E) Certified and Trained Performers. Funded activities must be conducted by persons qualified for the activities according to 24 CFR part 35 (possessing certification as abatement contractors, risk assessors, inspectors, abatement workers, or sampling technicians, or others having been trained in a HUD-approved course in lead-safe work practices).

(F) Coastal Barrier Resources Act. Pursuant to the Coastal Barrier Resources Act (16 U.S.C. 3501), you may not use these grant funds for properties located in the Coastal Barrier Resources System.

(G) Flood Disaster Protection Act. Under the Flood Disaster Protection Act of 1973 (42 U.S.C. 4001-4128), you may not use these grant funds for lead-based paint hazard control of a building or manufactured home that is located in an area identified by the Federal Emergency Management Agency (FEMA) as having special flood hazards unless:

(1) The community in which the area is situated is participating in the National Flood Insurance Program in accordance with the applicable regulations (44 CFR parts 59-79), or less than a year has passed since FEMA notification regarding these hazards; and

(2) Where the community is participating in the National Flood Insurance Program, flood insurance on the property is obtained in accordance with section 102(a) of the Flood Disaster Protection Act (42 U.S.C. 4012a(a)). You are responsible for assuring that flood insurance is obtained and maintained for the appropriate amount and term.

(H) National Historic Preservation Act. The National Historic Preservation Act of 1966 (16 U.S.C. 470) and the regulations at 36 CFR part 800 apply to the lead-based paint hazard control activities that are undertaken pursuant to this program. HUD and the Advisory Council for Historic Preservation have developed an optional Model Agreement for use by grantees and State Historic Preservation Officers in carrying out activities under this program. The Model Agreement may be obtained from the HUD Web site at: www.hud.gov/utilities/intercept.cfm?/offices/lead/grantfrm/pgi/95_06.pdf.

(I) Waste Disposal. You must handle waste disposal according to the requirements of the appropriate local, State and Federal regulatory agencies. You must handle disposal of wastes from hazard control activities that contain lead-based paint, but are not classified as hazardous in accordance with state or local law or the HUD Guidelines for the Evaluation and Control of Lead-Based Hazards in Housing (HUD Guidelines). The Guidelines are available from the HUD Web site at: www.hud.gov/offices/lead/guidelines/hudguidelines/index.cfm.

(J) Worker Protection Procedures. You must observe the procedures for worker protection established in the HUD Guidelines, as well as the requirements of the Occupational Health and Safety Administration (OSHA) (29 CFR 1926.62, Lead Exposure in Construction), or the State or local occupational safety and health regulations, whichever are most protective. If other applicable requirements contain more stringent requirements than the HUD Guidelines, the more rigorous standards shall be followed.

(K) Prohibited Practices. You must not engage in the following prohibited practices:

(1) Open flame burning or torching;

(2) Machine sanding or grinding without a high-efficiency particulate air (HEPA) exhaust control;

(3) Uncontained hydro blasting or high-pressure wash;

(4) Abrasive blasting or sandblasting without HEPA exhaust control;

(5) Heat guns operating above 1,100 degrees Fahrenheit;

(6) Chemical paint strippers containing methylene chloride or other volatile hazardous chemicals in a poorly ventilated space; and

(7) Dry scraping or dry sanding, except scraping in conjunction with heat guns or around electrical outlets or when treating no more than two square feet in any one interior room or space, or totaling no more than 20 square feet on exterior surfaces.

(L) Written Policies and Procedures. You must have clearly established, written policies and procedures for eligibility, program marketing, unit selection, expediting work on homes occupied by children with elevated blood lead levels, and all phases of lead hazard control, including risk assessment, inspection, development of specifications, pre-hazard control blood lead testing, financing, relocation and clearance testing. Grantees, subcontractors, sub-grantees, sub-recipients, and their contractors must adhere to these policies and procedures.

(M) Continued Availability of Lead-Safe Housing to Low-Income Families. Units in which lead hazards have been controlled under this program shall be occupied by and/or continue to be available to low-income residents as required by Title X (Section 1011). You must maintain a publicly available registry (listing) of units in which lead hazards have been controlled and ensure that these units are affirmatively marketed to agencies and families as suitable housing for families with children under six years of age. The grantee must also notify the owner of the information that is collected so that the owner will comply with disclosure requirements under 24 CFR part 35, subpart A.

(N) Testing. In developing your application budget, include costs for lead paint inspection, risk assessment, and clearance testing for each dwelling that will receive lead hazard control, as follows:

(1) General. All testing and sampling shall conform to the current HUD Guidelines and Federal, state or tribal regulations developed as part of the appropriate contractor certification program whichever is more stringent. It is particularly important to provide this full cycle of testing for lead hazard control, including interim controls. Testing must be conducted according to the HUD Guidelines and the EPA lead hazard standards rule at 40 CFR part 745. All test results must be provided to the owner in a timely fashion, together with a notice describing the owner's legal duty to disclose the results to tenants and buyers under 24 CFR part 35, subpart A.

(a) Lead-Based Paint and Lead-Based Paint Hazard Identification. A combined inspection and risk assessment is required. You should ensure that lead paint inspection and risk assessment reports are conducted in accordance with established protocols and sufficient to support hazard control decisions.

(b) Clearance Testing. Clearance testing shall be completed in accordance with Chapter 15 of the HUD Guidelines and the EPA lead hazards standards rule at 40 CFR part 745 for abatement projects and the Lead-Safe Housing Regulation (24 CFR part 35) for lead hazard control activities or other abatement. The clearance standards shall be the more restrictive of those set by the local jurisdiction or by EPA or HUD.

(c) Blood lead testing. Before lead hazard control work begins, each occupant who is under six years of age must be tested for lead poisoning within the six months preceding the housing intervention. Any child with an elevated blood lead level must be referred for appropriate medical follow-up. The standards for such testing are described in the Centers for Disease Control and Prevention (CDC) publications Preventing Lead Poisoning in Young Children (1991), and Screening Young Children for Lead Poisoning: Guidance for State and Local Public Health Officials (1997).

(O) Cooperation With Related Research and Evaluation. You shall cooperate fully with any research or evaluation sponsored by HUD, CDC, EPA or other government agency and associated with this grant program, including preservation of project data and records and compiling requested information in formats provided by the researchers, evaluators or HUD. This also may include the compiling of certain relevant local demographic, dwelling unit, and participant data not contemplated in your original proposal. Participant data shall be subject to Privacy Act protection.

(P) Data collection. You will be required to collect and maintain the data necessary to document the various lead hazard control methods used and the cost of these methods.

(Q) Section 3 Employment Opportunities. Please see Section V (E) of the General Section of this SuperNOFA. The requirements of Section 3 of the Housing and Urban Development Act of 1968 are applicable to the Lead-Based Paint Hazard Control Program.

(R) Replacing Existing Resources. Funds received under this grant program shall not be used to replace existing community resources dedicated to any ongoing project.

(S) Certifications and Assurances. You must include the certifications and assurances listed in the General Section of this SuperNOFA with your application.

(T) Davis-Bacon Act. The Davis-Bacon Act does not apply to this program. However, if you use grant funds in conjunction with other Federal programs in which Davis-Bacon prevailing wage rates apply, then Davis-Bacon provisions would apply to the extent required under the other Federal programs.

(U) Conducting Business in Accordance with HUD Core Values and Ethical Standards. If awarded assistance under this NOFA, you will be required, prior to entering into a new or modified grant agreement with HUD, to submit a copy of your code of conduct and describe the methods you will use to ensure that all officers, employees and agents of your organization are aware of your code of conduct (see Section V (B)(3) of the General Section of this SuperNOFA for information about conducting business in accordance with HUD's core values and ethical standards).

(V) Ensuring the participation of Small Businesses, Small Disadvantaged Businesses, and Women-Owned Businesses. HUD is committed to ensuring that small businesses, small disadvantaged businesses and women-owned businesses participate fully in HUD's direct contracting and in contracting opportunities generated by HUD grant funds. Too often, these businesses still experience difficulty accessing information and successfully bidding on Federal contracts. HUD regulations at 24 CFR 85.36(e) require recipients of assistance (grantees and sub grantees) to take all necessary affirmative steps in contracting for purchase of goods or services to assure that minority firms, women's business enterprises, and labor surplus area firms are used when possible. Affirmative steps shall include:

(1) Placing qualified small and minority businesses and women's business enterprises on solicitation lists;

(2) Assuring that small and minority businesses, and women's business enterprises are solicited whenever they are potential sources;

(3) Dividing total requirements, when economically feasible, into smaller tasks or quantities to permit maximum participation by small and minority businesses, and women's business enterprises;

(4) Establishing delivery schedules, where the requirement permits, which encourage participation by small and minority businesses, and women's business enterprises;

(5) Using the services and assistance of the Small Business Administration (SBA), and the Minority Business Development Agency of the Department of Commerce; and

(6) Requiring the prime contractor, if subcontracts are to be let, to take the affirmative steps listed in paragraphs (e)(2)(i) through (v) above.

IV. Application Selection Process

(A) Rating and Ranking. Please see Section VI (B) of the General Section of this SuperNOFA. Only those applications that meet the threshold review requirements will be rated and ranked. For new applicants, HUD intends to fund the highest ranked applications receiving a minimum score of 75 within the limits of funding.

A current grantee eligible to receive a Performance-Based Renewal Grant will be rated and ranked based on its demonstrated performance in terms of the number of housing units completed and cleared (as a percentage of units in current grant agreement), the cumulative Line of Credit Control System (LOCCS) drawdowns to date, and other work plan benchmarks or milestones achieved. Performance will be evaluated based upon the quarterly progress data submitted to HUD for the period ending March 31, 2003 and other data available to HUD.

In addition, the work plan and budget submitted in response to this NOFA will be evaluated as part of the rating and ranking process.

Current grantees that are eligible to submit a Performance-Based Renewal application and are successful applicants, will have their current grant agreement modified to allow for an additional 36-months grant. Eligible current grantee applicants are not to respond to the Factors for Award in this NOFA, but must submit the required budget forms included in this NOFA and develop a work plan strategy with benchmark standards for conducting lead hazard control program activities. A work plan and budget should be developed for the 36-month period. The submission requirements for the Performance-Based Renewal grant can be found in Appendix C of this Program Section of the NOFA.

HUD intends to fund the highest ranked applicants within the limits of funding.

(1) Remaining Funds. See Section VI (E) (3) of the General Section of this SuperNOFA for HUD's procedures if funds remain after all selections have been made within a category of the Lead Hazard Control Grant Program.

(B) Factors for Award Used to Evaluate and Rate Applications. The factors for rating and ranking applicants, and maximum points for each factor, are stated below.

(1) Performance-Based Renewal applications will be evaluated based on the criteria below:

The maximum number of points to be awarded will be 40.

(a) Production (10 points). The number of units completed and cleared. Grantees whose percentage of units completed and cleared in their current agreement meets or exceeds the performance criteria below will be awarded points based on the chart below.

Percentage of units completed and cleared | Round 7 FY 1999 | Round 8 FY 2000 | Round 9 FY 2001
>50-55 |  |  | 3
>55-60 |  |  | 4
>60-65 |  |  | 5
>65-70 |  | 6 | 6
>70-80 |  | 7 | 7
>80-85 | 8 | 8 | 8
>85-90 | 9 | 9 | 9
>90-100 | 10 | 10 | 10

(b) Cumulative LOCCS Drawdowns (10 Points). The cumulative drawdowns from LOCCS as a percentage of the Federal funds awarded in their current agreement. Grantees whose percentage of cumulative LOCCS drawdowns in their current agreement meet or exceed the performance criteria below will be awarded points based on the chart below.

Percentage of cumulative LOCCS drawdowns to date | Round 7 FY 1999 | Round 8 FY 2000 | Round 9 FY 2001
>35-40 |  |  | 3
>40-45 |  |  | 4
>45-50 |  | 5 | 5
>50-55 |  | 6 | 6
>55-60 | 7 | 7 | 7
>60-70 | 8 | 8 | 8
>70-75 | 9 | 9 | 9
>75-100 | 10 | 10 | 10

(c) Other Work Plan Achievements. (5 Points). A grantee will be awarded points for meeting or exceeding their community education, outreach, and training objectives that were outlined in their most recent approved work plan and reported to HUD.

(d) Work Plan and Budget. (15 Points) The work plan and budget submitted by a grantee will be evaluated to ensure that there are specific and measurable performance objectives with benchmark milestones developed for the 36-month additional period of performance.

(2) HUD is encouraging applicants to undertake specific activities that will assist the Department in implementing its policy priorities. HUD's Strategic Goals and Policy Priorities are outlined in Section II of the General Section of this SuperNOFA. For Lead Hazard Control Grant Program applicants, activities that promote economic opportunities for low-income persons support HUD's policy priority for Improving the Quality of Life in Our Nation's Communities. A new applicant will be awarded one point under Rating Factor 3(A)(3): Economic Opportunities for activities undertaken that specifically address this policy priority. Activities that promote the participation of grassroots faith-based and community organizations support HUD's policy priority for: Providing Full and Equal Access to Grassroots Faith-Based and Other Community-Based Organizations. An applicant will be awarded one point under Rating Factor 3(A)(4): Lead Hazard Control Outreach and Community Private Sector Involvement for activities undertaken that specifically addresses this policy priority.

The maximum number of points to be awarded is 102. This maximum includes two bonus points as described in Section VI(C) of the General Section of this SuperNOFA. For new applicants, a minimum score of 75 is required for fundable applications.

Rating factor | Maximum points
1. Capacity of the Applicant and Relevant Organizational Experience | 20
2. Needs/Extent of the Problem | 20
3. Soundness of Approach | 40
4. Leveraging Resources | 10
5. Achieving Results and Program Evaluation | 10
Empowerment Zone and Enterprise Community Bonus Points | 2
Total | 102

Rating Factor 1: Capacity of the Applicant and Relevant Organizational Experience (20 points)

This factor addresses your organizational capacity necessary to successfully implement the proposed activities in a timely manner. The rating of the “applicant” or the “applicant's staff” for technical merit or threshold compliance, unless otherwise specified, includes any grassroots faith-based and other community-based organizations, sub-contractors, consultants, sub-recipients, and members of consortia that are firmly committed to your project. In rating this factor, HUD will consider:

(1) The applicant's recent, relevant and successful demonstrated experience (including governmental, parent groups, and grassroots faith-based and other community-based partners) to undertake eligible program activities. The applicant must describe the knowledge and experience of the current or proposed overall project director and day-to-day program manager in planning and managing large and complex interdisciplinary programs, especially involving housing rehabilitation, public health, or environmental programs. The applicant must demonstrate that it has sufficient personnel or will be able to retain qualified experts or professionals, and be prepared to perform lead hazard evaluation, lead hazard control intervention work, and other proposed activities within 120 days of the effective date of the grant award. HUD reserves the right to terminate the grant if sufficient personnel or qualified experts are not retained within these 120 days. In the narrative response for this factor, you should include information on your program staff, their experience, their commitment to the program, salary information, and position titles. Resumes (for up to three key personnel) or position descriptions for those key personnel to be hired, and a clearly identified organizational chart for the lead hazard control grant program effort (and for the overall organization) must be included in an appendix. Indicate the percentage of time that key personnel will devote to your project (see Appendix A of this NOFA for Sample Worksheet 1-Key Personnel). The applicant's day-to-day program manager must be experienced in the management of housing rehabilitation or lead hazard control, childhood lead poisoning prevention, or similar work involving project management, and must be dedicated to the proposed program for a minimum of 75% of the time. Ideally, the program manager should be available at the inception of the program in order to implement this comprehensive program within the 120-day period after the effective date of the grant award. The applicant should provide a description of any previous experience in enrolling units and in completing lead hazard control work, housing rehabilitation or other work in a timely and effective manner. Describe how any other principal components of your agency, other public entities, or other organizations will participate in implementing or otherwise supporting or participating in the grant program. You may demonstrate capacity by thoroughly describing your prior experience in initiating and implementing lead hazard control efforts and/or related environmental, health, or housing projects. You should indicate how this prior experience will be used in carrying out your proposed comprehensive Lead-Based Paint Hazard Control Grant Program.

(2) If the applicant received previous HUD Lead-Based Paint Hazard Control Grant funding, this past experience will be evaluated in terms of cumulative progress and achievements under the previous grant(s). If the applicant has received multiple HUD Lead Hazard Control Grants, performance under the most recent grant award will be primarily evaluated. The applicant must provide a description of its progress and performance implementing the most recent grant award including the total number of housing units enrolled, assessed, and completed and cleared as a result of program efforts. The applicant must also describe outcomes, capacity building efforts and impediments experienced during a previous Lead Hazard Control Grant program. Other work plan activities and tasks associated with implementing HUD's Lead-Safe Housing Regulation, integrating lead-safe work practices into the private market, and promoting effective education, outreach, and other training activities should be described. The applicant should also describe specific instances where the program has contributed positive impacts in the community, and indicate what activities were undertaken to develop, enhance or expand the local infrastructure through collaboration.

HUD's evaluation process will consider an applicant's past performance record as reported to HUD in effectively organizing and managing their grant operations, in meeting performance and work plan benchmarks and goals, and in managing funds, including their ability to account for funds appropriately, the timely use of funds received either from HUD or other Federal, State or local programs, and meeting performance milestones. HUD may also use other information relating to these items from sources at hand, including public sources such as newspapers, Inspector General or Government Accounting Office Reports or Findings, hotline complaints, or other sources of information that have been proven to have merit.

Rating Factor 2: Needs/Extent of the Problem (20 points)

This factor addresses the extent to which there is a need for the proposed program to address a documented problem related to lead-based paint and lead-based paint hazards in your identified target area(s). An applicant will receive a higher score in this rating factor based on their documented need as evidenced by thorough, credible, and appropriate data and information. The evaluation will be based on the applicant's documentation of the number of children with elevated blood lead levels, and/or number and proportion of pre-1978 housing units with deteriorating paint (i.e., condition of housing stock) and the number of very low- and low-income families in the proposed target area(s).

(1) Document a critical level of need for your proposed activities in the geographical area where activities will be performed. Since an objective of the program is to prevent at-risk children from being poisoned, specific attention must be paid to documenting such need as it applies to the targeted area(s), rather than the entire locality or state.

(2) Document the following for the target area(s):

(a) Numbers and percentages of children less than six years of age (see Appendix A for Sample Worksheet 2—Blood Lead Level (BLL) Information).

(i) The number and percentage of children with elevated blood lead levels for the following categories:

(1) less than 10μg/dL;

(2) greater than or equal to 10μg/dL and less than15μg/dL;

(3) greater than or equal to 15μg/dL and less than20μg/dL; and

(4) greater than or equal to 20μg/dL.

(ii) The total number and percentage of children tested for blood lead levels,

(b1) Housing market data relevant to the specified target area(s) (see Appendix A of this NOFA for Sample Worksheet 3-Housing Age and Condition).

(i) Housing Age for the following sub-categories: Pre-1940, 1940-1949, 1950-1959, 1960-1969, 1970-1977 and 1978 or newer;

(ii) Housing Condition for the following sub-categories: Pre-1940, 1940-1949, 1950-1959, 1960-1969, 1970-1977 and 1978 or newer.

(a) The number and percentage of very-low (income less than 50% of the area median) and low-(income less than 80% of the area median) income families, as determined by HUD (www.huduser.org), with adjustments for smaller and larger families (see Appendix A of this NOFA for Sample Worksheet 4—Very-Low and Low-Income Population);

(d) Poverty data relevant to the specified target area(s);

(e) Housing market data relevant to lead hazard conditions in housing available from HUD, or other data sources, including the Consolidated Plan/Analysis of Impediments, Public Housing Authority's Five-Year Comprehensive Plan, State or local Welfare Department's Welfare Reform Plan; and

(f) Other socio-economic, environmental, or demographic data relevant to the target area(s) or jurisdiction that demonstrate a need for lead-safe housing may be included. These data may include: the number of units that have been occupied by lead-poisoned children where the identified lead-based paint hazards have not been eliminated or controlled; the number of lead-based paint health and/or housing code violations; the number of pre 60 and pre-1978 housing units anticipated to undergo rehabilitation in the next 12 months; the proportion or number of units with lead dust hazards; information about the principal sources of exposure in your community, their prevalence, and the segments and/or characteristics of the housing most affected by these exposure sources; and/or other information about housing conditions (including the condition of housing units noted during previous lead hazard control work). Relevant data for other socio-economic, environmental, or demographic information may be obtained from census data, special studies, the jurisdiction's Consolidated Plan/Analysis of Impediments, the Public Housing Authority's Five-Year Comprehensive Plan, or the State or local Welfare Department's Welfare Reform Plan or local health, housing, or community development agencies.

(3) You also must provide documentation of the priority that the community's Consolidated Plan and Analysis of Impediments to Fair Housing Choice has placed on addressing the needs you described. (This section does not apply to Native American Tribes. However, a Native American Tribe applicant may use the Indian Housing Plan to document how the Indian Housing Plan addresses the need for lead hazard control grant activities.) If your application addresses needs that are in the Consolidated Plan, Analysis of Impediments to Fair Housing Choice, or the result of court orders or consent decrees, settlements, conciliation agreements, voluntary compliance agreements, Childhood Lead Poisoning Prevention Programs or other relevant local initiatives you will receive a higher score in this rating factor than applicants that do not relate their program to identified needs.

(4) For you to receive maximum points for this rating factor there must be a direct relationship between your proposed lead hazard control activities in the target area(s) and the documented community needs.

Rating Factor 3: Soundness of Approach (40 points)

This factor addresses the quality and cost-effectiveness of your proposed work plan. Applicants should develop a work plan that includes specific, measurable and time-phased objectives for each major program activity. The applicant's work plan should reflect benchmark standards for production, expenditures and other activities that have been developed by the Office of Healthy Homes and Lead Hazard Control. These benchmark standards, as well as policy guidance on developing work plans have been included in Appendix A of this NOFA and are available at the HUD Web site at: www.hud.gov/offices/lead/lhc/pgi/index.cfm. This policy guidance provides a sample format and outline for developing the Lead Hazard Control Grant Program Work Plan.

Applicants should describe the proposed activities and provide HUD with measurable outcome results to be achieved with the requested funds. Measurable outcome results should be stated in terms relevant to the purpose of the program funds as a direct result of the work performed within the performance period of the grant (e.g., estimated number of units to be made lead-safe, estimated number of children living in units made lead-safe, estimated number of persons to be trained to perform lead hazard control activities, estimated number of educational programs to be presented and/or the number of persons to be served by such programs, and the basis for these estimates). Each proposed activity must be eligible as described in the NOFA and meet statutory requirements for assistance to low- and very low-income persons.

You should present information on your proposed lead-based paint hazard control program and describe how it will satisfy the need identified in Factor 2; Need and Extent of the Problem and protect young children and families from lead poisoning in the target area(s). To the extent possible, describe a comprehensive strategy to address the need to protect targeted neighborhoods rather than individual units or homes. Your response to this factor must include the elements described below:

(A) Lead Hazard Control Work Plan Strategy (32 points) Describe your work plan goals and specific time-phased strategy to complete work under the grant within the 42-month period of performance for your lead hazard control grant program. You should provide information on:

(1) Implementing a Lead Hazard Control Program (13 of 32 points). Describe how you will implement the strategy for your proposed lead hazard control program. The description must include information on:

(a) How the project will be organized, managed and staffed. You must also identify the specific steps that will be taken to train and ensure the availability of enough lead-based paint contractors and workers to conduct lead hazard control interventions, and to perform other program activities. In addition, a detailed description of the selection process for sub-grantees, subcontractors or sub-recipients, and how assistance and funding will flow from the grantee to those who will actually perform the work under the grant.

(b) The overall number of eligible privately-owned housing units scheduled for lead hazard control intervention work and the strategy for their identification, selection, prioritization, and enrollment in the selected target area(s). Discuss the eligibility criteria for unit selection and how the program will identify units that meet these criteria. Explain how referrals of eligible units will be obtained from childhood lead poisoning prevention programs, other health care or housing agencies or health providers that serve children. Also discuss how referrals from the Section 8/Housing Choice Voucher programs and other agencies that provide housing assistance to low-income households with children including CDBG, HOME Investment Partnerships Program-funded housing programs or other sources. (Include as attachments any referral agreements, commitment letters or other documents from other entities that describe their participation recruiting eligible units in the lead hazard control grant program; see Rating Factor 4 Leveraging Resources for additional information regarding referral agreements). Provide estimates of the total number of owner-occupied and/or rental units that will receive lead hazard control (see Sample Worksheet 5—Housing Occupancy Projections). You should describe how the program will respond to the needs of children with elevated blood lead levels (EBLs) located outside the target area(s).

(c) The degree to which the work plan focuses on eligible privately-owned housing units occupied by low-income families with children under six years of age. Describe your planned approaches to control lead hazards in vacant and/or occupied units before children are poisoned and your plans to ensure that the program will continue to affirmatively market and match these units made lead-safe with low-income families with children under six years of age in the future. Discuss strategies to control lead hazards in units where children have already been identified with an elevated blood lead level (EBL), including your process for referring and tracking children with EBLs for medical case management, and your capacity to rapidly complete lead hazard control work in their units. Provide estimates of the number of low-income children you will assist through this program.

(d) Discuss the lead hazard control financing strategy, including eligibility requirements, terms, conditions, dollar limits, and amounts available for lead hazard control work. Applicants must also describe how grant funds will be recaptured by the program in the event that a recipient of grant funds fails to comply with any terms and conditions of the financing arrangement (e.g. affordability, sale of property, etc.) You must discuss the way assistance from the grant funds will be administered to or on behalf of property owners (e.g. use of grants, deferred loans and/or forgivable loans and the basis and schedule for forgiveness), and the role of other resources, such as private sector financing). You should identify the entity that will administer the financing process and describe how coordination and payment between the program and contractors performing the work will be accomplished. Describe matching requirements, if any, proposed for assistance to rental property owners.

(e) You should describe how your proposed program will satisfy the stated needs in the Consolidated Plan or Indian Housing Plan, and eliminate impediments identified in the Analysis of Impediments (AI). Also describe how your proposed program will further and support the policy priorities of the Department: including promoting healthy homes and the quality of housing. In addition, describe how your strategy will provide long-term benefits to families with children under six years of age, and whether any of the proposed activities will occur in an Enterprise Zones/Enterprise Community/Renewal Communities (EZ/EC/RC) and how they will benefit the residents of those zones or communities. A list of EZ/EC/RC communities is available at www.hud.gov.

(2) Technical Approach/Performance (15 of 32 points). New and prior grantee applicants are to respond to the items below (see Appendix A of this NOFA for Sample Worksheet 6).

(a) Describe your process for the conduct of lead hazard evaluation (risk assessments and/or inspections) in units of eligible privately owned housing to confirm that there are lead-based paint hazards in the housing units where lead hazard control is undertaken.

(b) Describe your testing methods, schedule, and costs for performing blood lead testing, risk assessments, paint inspections and clearance examinations to be used. If you propose to use a more restrictive standard than the HUD/EPA thresholds (e.g., less than 0.5% or 1.0 mg/ square centimeter for lead in paint, or less than 40, 250, 400 μg/square foot for lead in dust on floors, sills and troughs, respectively); or 400 ppm in bare soil in children's play areas and 1200 ppm for bare soil in the rest of the yard), identify the standard(s) that will be used. All testing shall be performed in accordance with applicable regulations.

(c) Describe the lead hazard control methods and strategies you will undertake and the number of units you will treat for each method selected (interim controls or hazard abatement). Complete abatement of all lead painted surfaces in all units is generally not acceptable as a strategy. In cases where only a few surfaces have lead hazards in a specific unit and abatement is cost-effective, the applicant must provide a detailed rationale for selecting complete abatement as a strategy. Provide an estimate of the per unit costs (and a basis for those estimates) for each lead hazard control method proposed and a schedule for initiating and completing lead hazard control work in the selected units. Discuss efforts to incorporate cost-effective lead hazard control methods. Explain your cost estimates, providing detail on how the estimates were developed, with particular references to cost effectiveness.

(d) Schedule. Provide a realistic schedule for completing key activities, by quarter, so that all activities can be completed within the period of performance of the grant. Key production activities include enrollment of units, paint inspections/risk assessments, and completion/clearance of units. When developing the application, the applicant shall take into consideration previous experience and performance in administering similar kinds of lead hazard control or rehabilitation programs.

(e) Timeframes. Describe the estimated elapsed timeframe for treating a typical unit that will receive lead hazard control, including referral/intake, enrollment (qualification of the unit as eligible), combined paint inspection/risk assessments, preparation of specifications or work write-up, selection of the contractor, lead hazard control intervention work activities, quality control and monitoring of work activities, and clearance. The timeframe should include an estimate of the staff and contractor time required to treat a typical unit that will receive lead hazard control. Describe the schedule for emergency referrals (e.g., unit occupied by a child under six years of age with an elevated blood lead level). List the type of unit (e.g., owner-occupied, rental, or vacant) and the number of units projected in each of the following categories: lead-based paint inspections/risk assessments; interim controls; hazard abatement and clearance inspections.

(f) Workflow and Production Control. Provide guidelines and/or flowcharts showing agency/partner responsibilities for each step in the process (from intake to clearance) and describe/show how coordination and hand-offs will be handled. Discuss how the actual production status of units, from intake to final clearance, will be monitored, and how and when production bottlenecks will be identified, remedied and monitored.

(g) Describe how you will integrate proposed lead hazard control activities with rehabilitation activities, including providing the training needed to create a workforce properly trained in lead-safe work practices for units assisted or rehabilitated under other HUD programs, and any collaboration with local housing or health departments, rehabilitation programs or community development corporations to stage lead hazard control and rehabilitation in the same units.

(h) Describe your contracting process, including development of specifications or adoption of existing specifications for selected lead hazard control methods. Describe the management processes you will use to ensure the cost-effectiveness of your lead hazard control methods. Your application must include a discussion of the contracting process for the conduct of lead hazard control activities in the selected units, and requirements for coordination among lead hazard control, rehabilitation, weatherization, and other contractors.

(i) Describe your plan for occupant protection or the relocation of the occupants of units selected for lead hazard control work. Describe any plan to avoid overnight relocation in small scale projects consistent with 24 CFR 35.1345(a)(2) and HUD's Interpretive Guidance of 24 CFR part 35, including J24, R18, and R19 (see Appendix B of this NOFA). Your work plan should address the use of safe houses and other temporary housing arrangements, storage of household goods, stipends, incentives, etc.

(3) Economic Opportunity (4 points).

(a) Describe the ways you will train individuals and contractors in housing related trades, such as painters, remodelers, renovators, maintenance personnel, rehabilitation specialists, and others in lead-safe work practices.

(b) Describe how you will help to integrate lead-safety into other housing activities, such as meeting the requirements of the HUD Lead-Safe Housing Regulation in housing units rehabilitated or assisted with Federal funds.

(c) Describe the methods to be used to provide economic opportunities for residents and businesses throughout the community within the target area. This discussion should include information on how you will promote training, employment, business development, and contract opportunities as part of your lead hazard control program. Grantees must comply with Section 3 of the Housing and Urban Development Act of 1968 (12 U.S.C. 1701u) and HUD's implementing rules at 24 CFR part 135. Describe how you will accomplish the requirement by (1) providing training and employment opportunities for low and very low-income persons living within the grantee's jurisdiction, and by (2) providing business opportunities to businesses owned by low and very low-income persons living within the grantee's jurisdiction. Applicants that provide training, employment or business opportunities for low and very low income persons will receive one point in this sub factor.

(4) Lead Hazard Control Outreach and Community Private Sector Involvement (6 points). Applicants are encouraged to solicit participation of grassroots faith-based and other community-based and private sector organizations to accomplish outreach and community involvement activities and to build long-term capacity to sustain accomplishments in the target area. Applicants that partner, fund, or subcontract with grassroots faith-based and other community-based organizations will receive one point in this sub-factor. Your application must describe:

(a) Proposed methods of community education. These may include community awareness, education, training, and outreach programs in support of the work plan and objectives. This description should include general and/or targeted efforts undertaken to assist your program in reducing lead exposure. Programs should be culturally sensitive, targeted, and linguistically appropriate. Upon request, this would include making materials available in alternative formats to persons with disabilities (e.g., Braille, audio, large type), and in other languages common to the community to the extent possible.

(b) Strategy for involving neighborhood or grassroots faith-based and other community based organizations in your proposed activities. Your activities may include training (including training residents to screen houses through visual assessment and sampling), outreach, community education, marketing, inspection (including dust lead testing), and the conduct of lead hazard control activities. HUD will evaluate the proposed level of substantive involvement of such organizations during the review process.

(c) Strategies and methodologies that affirmatively further fair housing and increase access to lead-safe housing for all segments of the population: homeowners, owners of rental properties, and tenants. This outreach should address ways to avoid housing discrimination against families with young children, and ways to ensure that all families will have adequate, lead-safe housing choices in the future. These strategies could include your plans to develop and implement a registry (listing) of lead-safe housing that is available to the public, or to incorporate the inclusion of the lead-safe status of properties in another publicly accessible address-based property information system. The strategy could also include affirmatively marketing your services to those populations least likely to apply and who may not be served by any of the partner organizations working with you.

(5) Data Collection and other Program Support Activities (2 points).

(a) Identify and discuss the specific methods you will use (in addition to HUD reporting requirements) to document activities, progress, program effectiveness, and how changes necessary to improve performance will be implemented. Describe how you will obtain, document and report on information collected.

(b) Provide a detailed description of any proposed participation in research activities, studies, or development of information systems designed to enhance the delivery, analysis, or conduct of lead hazard control activities, or that will facilitate the targeting and pooling of resources to further childhood lead poisoning prevention efforts.

If you are proposing to participate in research activities, describe the objectives, methodology and impact at the local level of the proposed research activities.

Rating Factor 4: Leveraging Resources (10 points)

This factor addresses your ability to obtain other community and private sector resources that can be combined with HUD's program resources to achieve program objectives. In evaluating this factor, HUD will consider the extent to which you have established working partnerships with other entities to get additional resources or commitments to increase the effectiveness of the proposed program activities (see Appendix A of this NOFA for Sample Worksheet 7 (Match Funding) and Worksheet 8 (Grant Partners)). Resources may include cash or in-kind contributions of services, equipment, or supplies allocated to the proposed program. Resources may be provided by governmental entities, public or private organizations, and other entities partnering with you. Leveraging arrangements with rental property owners may have the benefits of increasing the efficiency of public lead hazard identification and control expenditures and creating a financial stake for rental property owners in the quality of lead hazard control work. Contractual or other formal relationships with grassroots faith-based and other community-based organizations are a requirement for State and local government applicants. Documentation of relationships with grassroots faith-based and community-based organizations must be provided in this application either in the form of signed agreements or commitment letters. This requirement does not apply to Native American Tribe applicants. You also may partner with other program funding recipients to coordinate the use of resources in your target area(s).

(1) You should detail any activities to increase the understanding of lead poisoning prevention in your community. This could include partnerships with childhood lead screening programs, collaboration with ongoing health, housing or environmental research efforts which could result in a greater availability of resources, and efforts to build capacity for lead-safe housing.

(2) Matching funds must be shown to be specifically dedicated to and integrated into supporting the lead-based paint hazard control program (see Appendix A of this NOFA for Sample Worksheet 7—Match Funding). You may not include funding from any Federally funded program (except the CDBG program) as part of your required 10% match. Other resources from the private sector or other sources committed to the program that exceed the required 10% match will provide points for this rating factor. Contributions above the first 10% may include funds from other Federally funded programs, and/or State, local, charity, non-profit or for-profit entities. You must support each source of contributions, cash or in-kind, both for the required minimum and additional amounts, by a letter of commitment from the contributing entity, whether a public or private source. The letter must describe the contributed resources that you will use in the program and their designated purpose. The signature of the authorized official on the HUD Form-424 commits matching or other contributed resources of the applicant organization. A separate letter from the applicant organization is not required. Staff in-kind contributions should be given a monetary value based on the local market value of the staff skills. If you do not provide letters from contributors specifying details and the amount of the actual contributions, those contributions will not be counted. Contributions required of rental property owners may be included as part of your match. You should document and estimate the amount of the match from each resource.

Applicants will not receive full points under this rating factor if they do not submit evidence of a firm commitment and the appropriate use of leveraged resources under the grant program. Such evidence must be provided in the form of letters of firm commitment, memoranda of understanding, or other signed agreements to participate from those entities identified as partners in your application. Each letter of commitment, memorandum of understanding, or agreement to participate should include the organization's name, the proposed level of commitment and the responsibilities as they relate to your proposed program. The commitment must be signed by an official of the organization legally able to make commitments on behalf of the organization. Describe the role of grassroots faith-based and other community-based organizations in specific program activities, such as: hazard evaluation and control; monitoring; and awareness, education, and outreach within the community. Describe how you will ensure that commitments to sub-grantees specified in your proposal will be honored and executed, contingent upon an award from HUD.

Rating Factor 5: Achieving Results and Program Evaluation. (10 Points)

This factor emphasizes HUD's commitment to ensuring that applicants achieve the goals outlined in their work plan and other benchmark standards and assess their performance to ensure performance goals are met. Achieving results means you, the applicant, have clearly identified the benefits, or outcomes of your program. Outcomes are ultimate goals. Benchmarks or outputs are interim activities or products that lead to the ultimate achievement of your goals.

Program evaluation requires that you, the applicant, identify program outcomes, interim products or benchmarks, and performance indicators that will allow you to measure your performance. Performance indicators should be objectively quantifiable and measure actual achievements against anticipated achievements. Your Evaluation Plan should identify what you are going to measure, how you are going measure it and the steps you have in place to make adjustments to your work plan if performance targets are not met within established timeframes.

This new rating factor reflects HUD's goal to embrace high standards of ethics, management and accountability. Applicants are required to complete the HUD Logic Form included in Appendix B of the General Section of this SuperNOFA.

(1) An applicant is to identify and describe specific methods, measures, and tools that you will use (in addition to HUD reporting requirements) to measure progress, evaluate program effectiveness, and identify program changes necessary to improve performance. Describe how you will obtain, document and report the information. In evaluating this factor, HUD will consider how you have described outcome measures and benefits of your program including:

(a) The degree to which lead hazard control work will be done in conjunction with other housing-related activities (i.e., rehabilitation, weatherization, correction of code violations, and other similar work), or your plan for the integration and coordination of lead hazard control activities into those activities in the future.

(b) Plans to develop public/private lending partnerships to finance lead hazard control as part of acquisition and rehabilitation financing such as the use of Community Reinvestment Act “credits” by lending institutions or other financing strategies.

(c) Results of any specific plans and objectives established to implement and/or maintain a registry (listing) of lead-safe housing that is available to the public, or to incorporate the inclusion of the lead-safe status of properties in another publicly accessible address-based property information system. Results could include how the information would be managed and affirmatively marketed to the public so that families (particularly low-income families with children under six years of age) can make informed decisions regarding their housing options. Prior grantee applicants must address any registry (listing) of lead-safe housing developed during the prior grant period by specifically discussing the availability, amount of information contained, and its maintenance.

(d) The extent to which affirmatively furthering fair housing for all segments of the population is advanced by the proposed activities. (This section does not apply to Native American Tribes.) Detail how your proposed work plan will support the community's efforts to affirmatively further affordable housing and discuss the impact of prior activities that have contributed to enhanced lead-safe housing opportunities.

(e) The resulting impact of plans to adopt or amend statutes, regulations, or policies that will more fully integrate lead hazard control into community policies and priorities.

(f) Results of activities to coordinate and cooperate with other organizations that will lead to a reduction in lead risks to community residents. This could include documenting such activities as: free training to create a workforce properly trained in lead safe work practices; lead-safe repainting and remodeling; promotion of essential maintenance practices; and provision of lead dust testing to low-income, privately-owned homes which may not receive lead hazard control assistance under this grant program.

(g) How your program will be held accountable for meeting program goals, objectives, and the actions undertaken in implementing the grant program. Applicants should provide a description of the mechanism to assess progress and track performance in meeting the goals and objectives outlined in the work plan. Applicants should provide assurances that work plans and performance measures developed for the program will assist intended beneficiaries, and that work will be conducted in a timely and cost-effective manner.

Note on Program Performance: Grantees shall take all reasonable steps to accomplish all lead hazard control activities outlined in an approved work plan within the approved period of performance. HUD will closely monitor grantee performance with particular attention placed on the completion of the number of units in the grant agreement, the expenditure of HUD grant funds as evidenced by drawdowns from the Line of Credit Control System (LOCCS), and other established community education, outreach and training objectives. HUD reserves the right to terminate the grant prior to the expiration of the period of performance if a grantee fails to meet established work plan benchmark milestones in implementing the approved program of activities.

Bonus Points (2 Points).

Applicants may also meet the requirements listed in Section VI (C) of the General Section of this SuperNOFA for a possible award of two bonus points.

V. Application Submission Requirements for New and Prior Grantee Applicants

(Grantee applicants eligible for a Performance-Based Renewal are to follow the submission requirements included in Appendix C of this Lead Hazard Control Grant Program NOFA)

(A) Applicant Information

(1) Application Format. The application narrative response from new and eligible prior grantees to the Rating Factors is limited to a maximum of 25 pages (excluding appendices and worksheets). Your response must be typewritten on one side only on 8½″ x 11″ paper using a 12-point (minimum) font with not less than ¾″ margins on all sides. Appendices should be referenced and discussed in the narrative response. Materials provided in the appendices should directly apply to the rating factor narrative.

(2) Application Checklist. Your application must contain all of the required information noted in this Program Section and the General Section of this SuperNOFA. These items include the standard forms, certifications, and assurances listed in the General Section of this SuperNOFA that are applicable to this funding (collectively referred to as the “standard forms”). The standard forms can be found in Appendix B of the General Section of this SuperNOFA. In addition, the following items are to be included in an application:

(a) Transmittal Letter. The applicant (or applicants) submitting the application, the dollar amount requested, the number of units to receive lead hazard control work, what the program funds are requested for, the nature of involvement with grassroots faith-based and other community-based organizations, and the name, mailing address, telephone number, and principal contact person of “the applicant.”

(b) Checklist and Submission Table of Contents (see Appendix A of this NOFA).

(c) Abstract Summary. An abstract summary describing the goals and objectives of your proposed program (two page maximum). The abstract should briefly highlight the major goals and objectives established for the program.

(d) Section V Forms. All forms as required by Section V (H) of the General Section of this SuperNOFA.

(e) Budget. A detailed budget (total budget is the Federal share and matching contribution) with supporting cost justifications for all budget categories of your grant request. You must provide a separate estimate for the overall grant management element (Administrative Costs), which is more fully defined in Appendix B of this NOFA. The budget shall include not more than 10% for administrative costs and not less than 90% for direct project elements. A minimum of 60% of the total Federal amount requested must be dedicated to direct lead hazard control activities. A sufficient amount (two percent for most applicants) of the total Federal amount must be dedicated to activities to create a workforce properly trained in lead-safe work practices. If an applicant chooses not to include costs related to lead-safe work practices training in their work plan and budget, it must demonstrate that there is a workforce currently in place that is sufficient in size and is properly trained to carry out the work under the Lead Hazard Control Grant Program and the HUD Lead-Safe Housing Regulation. In the event of a discrepancy between grant amounts requested in various sections of the application, the amount you indicate on the HUD Form-424 will govern as the correct value.

(f) Matching Contribution. An itemized breakout (using the HUD 424) of your required matching contribution, including:

(i) Values placed on donated in-kind services;

(ii) Letters or other evidence of commitment from donors; and

(iii) The amounts and sources of contributed resources.

(g) Application Forms. Standard Forms SF-LLL and HUD Forms 2880, 2990, 2991, 2993, and 2994.

(h) Grant Partners. Contracts, Memoranda of Understanding or Agreement, letters of commitment or other documentation describing the proposed roles of agencies, local broad-based task forces, participating grassroots faith-based and other community or neighborhood-based groups or organizations, local businesses, and others working with the program.

(i) Consolidated Plan Element. A copy of the lead hazard control element included in your current program year's Consolidated Plan. (This does not apply to Native American Tribes) You should include the discussion of any lead-based paint issues in your jurisdiction's Analysis of Impediments, particularly as it addresses your target areas.

(j) Rating Factor Response. Narrative responses to the five rating factors.

(B) Proposed Activities. Unless otherwise noted in this NOFA, all applicants must, at a minimum, describe the proposed activities in the narrative responses to the rating factors. Your narrative statement must be numbered in accordance with each factor for award (Rating Factors 1 through 5). Please see Section V of the General Section of this SuperNOFA for additional requirements and submittal procedures.

(C) Applicant Debriefing. See Section XI(A)(d) of the General Section of this SuperNOFA for information about applicant debriefing.

V. Corrections to Deficient Applications

See Section VIII of the General Section of this SuperNOFA for information about corrections to deficient applications.

VI. Environmental Requirements

(A) Environmental Impact. See Section IX of the General Section of this SuperNOFA for information about the Finding of No Significant Impact.

(B) Environmental Requirements. Recipients of lead-based paint hazard control grants must comply with 24 CFR Part 58—“Environmental Review Procedures for Entities Assuming HUD Environmental Responsibilities.” Recipients are prohibited from committing or expending HUD and non-HUD funds on the project until HUD approves the recipient's Request for the Release of Funds (form HUD 7015.15) or the recipient has determined that the activity is either Categorically Excluded, not subject to the related Federal laws and authorities pursuant to 24 CFR 58.35(b) or Exempt pursuant to 24 CFR 58.34. For Part 58 procedures, see http://www.hud.gov/offices/cpd/energyenviron/environment/index.cfm. For assistance, contact Karen Choi, the Office of Healthy Homes and Lead Hazard Control Environmental Officer at (213) 894-8000 x3015 (this is not a toll-free number) or the HUD Environmental Review Officer in the HUD Field Office serving your area. If you are a hearing-or speech-impaired person, you may reach the telephone number via TTY by calling the toll-free Federal Information Relay Service at 1-800-877-8339. Recipients of a grant under this funded program will be given additional guidance in these responsibilities.

VII. HUD Reform Act of 1989

The provisions of the HUD Reform Act of 1989 that apply to this NOFA are explained in the General Section of this SuperNOFA at Section XI (A) Public Access, Documentation and Disclosure

Appendix A

Appendix A of this NOFA contains sample worksheets to assist you in your response to specific information requested in this NOFA. The submission of these worksheets are not mandatory, but have been developed to reduce the applicant's burden on providing this information.

Appendix B

The description of Administrative Costs, Eligibility of HUD Assisted Housing, and Work Plan Guidance are included in this section of the NOFA.

Appendix C

The eligibility criteria and submission requirements for current grantees eligible to submit a Performance-Based Renewal are included in this section of the NOFA.

BILLING CODE 4210-32-P

BILLING CODE: 4210-32-C

Appendix B

This appendix to this NOFA contains the list of the standard forms, certifications and assurances used by the programs that are part of this NOFA. Listed forms are located in Appendix B of the General Section of the SuperNOFA.

The following forms are to be used for the Programs listed in this NOFA

(1) Form HUD-424

(2) Form HUD-424 B

(3) Form HUD-424 C

(4) Form HUD-424 CBW

(5) Form HUD Logic Model Form

(6) Application Checklist and Submission Table of Contents

(7) Ethnicity and Race Data

HUD has consolidated many of its application forms into a single HUD-424 form. The new HUD-424 consolidates budget-reporting forms for both construction and non-construction projects into a single form and eliminates having to have the following separate certifications: Certification for a Drug-Free Workplace (HUD-50070), the Certification of Payments to Influence Federal Transactions (HUD-50071), and the Certification Regarding Debarment and Suspension (HUD-2992).

New form HUD-424 replaces SF-424 and HUD-424 M

HUD-424 B replaces SF-424 B and D and HUD-50070, 50071 and 2992.

HUD-424 C and CB replaces SF-424 A and C

The HUD-424 CBW is added as a common detailed Budget Worksheet and replaces various budget worksheets used throughout the Department.

(A) Administrative Costs. Administrative costs that may be applicable to the programs included in this NOFA are discussed below:

I. Purpose

The intent of this HUD grant program is to allow the Grantee to be reimbursed for the reasonable direct and indirect costs, subject to a top limit, for overall management of the grant. In most instances the grantee, whether a State or a local government, principally serves as a conduit to pass funding to sub-grantees, which are to be responsible for the conducting lead-hazard reduction work. Congress set a top limit of ten percent of the total grant sum for the grantee to perform the function of overall management of the grant program, including passing on funding to sub-grantees. The cost of that function, for the purpose of this grant, is defined as the “administrative cost” of the grant, and is limited to ten percent of the total grant amount. The balance of ninety percent or more of the total grant sum is reserved sub-grantees or other direct-performers of lead-hazard identification and reduction work. Lead hazard identification and reduction includes, but is not necessarily limited to outreach, training, enrollment, lead paint inspection/risk assessments, interim controls, hazard abatement, clearance documentation, blood lead testing, and public education.

II. Administrative Costs: What They Are Not

For the purposes of this HUD grant program for States and local governments to provide support for the evaluation and reduction of lead-hazards in low- and moderate-income, private target housing, the term “administrative costs” should not be confused with the terms “general and administrative cost,” “indirect costs,” “overhead,” and “burden rate.” These are accounting terms usually represented by a government-accepted standard percentage rate. The percentage rate allocates a fair share of an organization's costs that cannot be attributed to a particular project or department (such as the chief executive's salary or the costs of the organization's headquarters building) to all projects and operating departments (such as the Fire Department, the Police Department, the Community Development Department, the Health Department or this program). Such allocated costs are added to those projects' or departments' direct costs to determine their total costs to the organization.

III. Administrative Costs: What They Are

For the purposes of this HUD grant program, “Administrative Costs” are the grantee's allowable direct costs for the overall management of the grant program plus the allocable indirect costs. The allowable limit of such costs that can be reimbursed under this program is ten (10) percent of the total grant sum. Should the grantee's actual costs for overall management of the grant program exceed ten percent of the total grant sum, those excess costs shall be paid for by the grantee. However, excess costs paid for by the grantee may be shown as part of the requirement for cost-sharing funds to support the grant.

IV. Administrative Costs: Definition

A. General

Administrative costs are the allowable, reasonable, and allocable direct and indirect costs related to the overall management of the HUD grant for lead-hazard reduction activities. Those costs shall be segregated in a separate cost center within the grantee's accounting system, and they are eligible costs for reimbursement as part of the grant, subject to the ten percent limit. Such administrative costs do not include any of the staff and overhead costs directly arising from specific sub-grantee program activities eligible under Section II (C) of this NOFA, because those costs are eligible for reimbursement under a separate cost center as a direct part of project activities.

The grantee may elect to serve solely as a conduit to sub-grantees, who will in turn perform the direct program activities eligible under NOFA Section II (C), or the grantee may elect to perform all or a part of the direct program activities in other parts of its own organization, which shall have their own segregated, cost centers for those direct program activities. In either case, not more than 10 percent of the total HUD grant sum may be devoted to administrative costs, and not less than 90% of the total grant sum shall be devoted to direct program activities. The grantee shall take care not to mix or attribute administrative costs to the direct project cost centers.

B. Specific

Reasonable costs for the grantee's overall grant management, coordination, monitoring, and evaluation are eligible administrative costs. Subject to the ten percent limit, such costs include, but are not limited to, necessary expenditures for the following goods, activities and services:

(1) Salaries, wages, and related costs of the grantee's staff, the staff of affiliated public agencies, or other staff engaged in grantee's overall grant management activities. In charging costs to this category the recipient may either include the entire salary, wages, and related costs allocable to the program for each person whose primary responsibilities (more than 65% of their time) with regard to the grant program involve direct overall grant management assignments, or the pro rata share of the salary, wages, and related costs of each person whose job includes any overall grant management assignments. The grantee may use only one of these two methods during this program. Overall grant management includes the following types of activities:

(a) Preparing grantee program budgets and schedules, and amendments thereto;

(b) Developing systems for the selection and award of funding to sub-grantees and other sub-recipients;

(c) Developing suitable agreements for use with sub-grantees and other sub-recipients to carry out grant activities;

(d) Developing systems for assuring compliance with program requirements;

(e) Monitoring sub-grantee and sub-recipient activities for progress and compliance with program requirements;

(f) Preparing presentations, reports, and other documents related to the program for submission to HUD;

(g) Evaluating program results against stated objectives;

(h) Providing local officials and citizens with information about the overall grant program; however, a more general education program, helping the public understand the nature of lead hazards, lead hazard reduction, blood-lead screening, and the health consequences of lead poisoning is a direct project support activity);

(i) Coordinating the resolution of overall grant audit and monitoring findings; and

(j) Managing or supervising persons whose responsibilities with regard to the program include such assignments as those described in paragraphs (a) through (i).

(2) Travel costs incurred for official business in carrying out the overall grant management;

(3) Administrative services performed under third party contracts or agreements, for services directly allocable to grant management such as: legal services, accounting services, and audit services;

(4) Other costs for goods and services required for and directly related to the overall management of the grant program; and including such goods and services as telephone, postage, rental of equipment, renter's insurance for the program management space, utilities, office supplies, and rental and maintenance (but not purchase) of office space for the program.

(5) The fair and allocable share of grantee's general costs that are not directly attributable to specific projects or operating departments such as salaries, office expenses and other related costs for local officials (e.g., mayor and city council members, etc.), and expenses for a city's legal or accounting department which are not charged back to particular projects or other operating departments. If a grantee has an established burden rate, it should be used; if not, the grantee shall be assigned a negotiated provisional burden rate, subject to final audit.

(B) Eligibility of HUD-Assisted Housing

Eligibility of HUD-associated “eligible” housing units to participate under HUD's lead-based paint hazard control grant program.

BILLING CODE 4210-32-P

BILLING CODE 4210-32-C

(C) Section 1011 of Title X Section 217 of Public Law 104-134 (the Omnibus Consolidated Rescissions and Appropriations Act of 1996, 110 Stat. 1321, approved April 26, 1996) amended Section 1011(a) of the Residential Lead-Based Paint Hazard Reduction Act of 1992 (Title X) to read as follows:

Sec. 1011 Grants for Lead-Based Paint Hazard Reduction in Target Housing

(a) General Authority. The Secretary is authorized to provide grants to eligible applicants to evaluate and reduce lead-based paint hazards in housing that is not federally assisted housing, federally owned housing, or public housing, in accordance with the provisions of this section. Grants shall only be made under this section to provide assistance for housing which meets the following criteria—

(1) For grants made to assist rental housing, at least 50 percent of the units must be occupied by or made available to families with incomes at or below 50 percent of the area median income level and the remaining units shall be occupied or made available to families with incomes at or below 80 percent of the area median income level, and in all cases the landlord shall give priority in renting units assisted under this section, for not less than 3 years following the completion of lead abatement activities, to families with a child under the age of six years, except that buildings with five or more units may have 20 percent of the units occupied by families with incomes above 80 percent of area median income level:

(2) For grants made to assist housing owned by owner-occupants, all units assisted with grants under this section shall be the principal residence of families with income at or below 80 percent of the area median income level, and not less than 90 percent of the units assisted with grants under this section shall be occupied by a child under the age of six years or shall be units where a child under the age of six years spends a significant amount of time visiting; and

(3) Notwithstanding paragraphs (1) and (2), Round II grantees who receive assistance under this section may use such assistance for priority housing.

(D) Elements of a State Certification Program

To be eligible to receive a Lead-Based Paint Hazard Control grant, an applicant must be a State, tribal or local (city or county) government. State government and Native American tribal applicants must have an EPA approved State program for certification of lead-based paint contractors, inspectors, and risk assessors in accordance with 40 CFR 745.

Background

In October 1992, Congress passed the Residential Lead-Based Paint Hazard Reduction Act (Title X of the Housing and Community Development Act of 1992). Congress assigned Federal responsibility to the Environmental Protection Agency (EPA) for the definition, implementation, and oversight of State and Tribal Certification Programs for workers, contractors, and inspectors engaged in the detection and reduction of lead-based paint hazards. This legislation required EPA to develop regulations on accreditation of training programs, the certification of contractors and the training of workers engaged in lead-based paint activities. In addition, EPA was directed to issue work practice standards. Under the statute, lead-based paint activities are defined as:

• In the case of target housing: Risk assessment, inspection, and abatement; and

• In the case of any public building constructed before 1978, commercial building, bridge, or other structure or superstructure: identification of lead-based paint and materials containing lead-based paint, deleading, removal of lead from bridges, and demolition.

On August 29, 1996, EPA promulgated a final regulation that established requirements for lead-based paint activities in Target Housing and Child Occupied Facilities.

• 40 CFR part 745 Subpart L addressed the requirements for the certification of individuals and the accreditation of training programs as well as work practice standards.

• 40 CFR part 745 Subpart Q addresses the procedures and requirements for the approval of State programs that would be administered and enforced in lieu of the Federal Program in that State.

• 40 CFR 745.325 and 745.327 establishes the minimum programmatic and enforcement elements that a program must have in order to be authorized. States had until August 30, 1998 to receive authorization from the Agency. After that date, EPA will administer the Federal program in that State.

Any State or Tribe applying for a HUD Lead-Based Paint Hazard Control Grant must have implemented legislation and programs that fulfills the requirements of 40 CFR 745.325 and 327and received EPA authorization for such a program. States and Tribes should be aware that HUD will not award grants for lead-based paint hazard evaluation or reduction to States without an EPA authorized program under section 404 of the Toxic Substances Control Act. An EPA administered, training and certification program established in the place of an approved state program does not satisfy the requirement for a State applicant to have a Federally-authorized State program. State or Tribal applicants must have received EPA authorization for their program as of the date the Lead-Based Paint Hazard Control Grant program applications are due at HUD. State and Tribal applicants should coordinate with the appropriate EPA Region to ensure their application for an authorized program is approved by the due date for the grant applications. All local government applicants will be required to use performers certified by their state or the EPA to perform lead hazard control work in their state.

Questions regarding the EPA authorization process should be directed to your EPA Regional Lead Coordinator.

(C) Work Plan Guidance

The work plan shall be submitted to the Government Technical Representative (GTR) and shall consist of the goals and specific time-phased objectives established for each of the major activities and tasks required to implement the program. These major activities and tasks are outlined in the Quarterly Progress Reporting System (Form-HUD-96006) and include: (1) Program Management and Capacity Building including data collection and program evaluation; (2) Community Education, Outreach and Training; and (3) Lead Hazard Activities including testing, interventions conducted, and relocation.

Note: Approval of the work plan by the GTR and HUD approval of the Release of Funds Request (HUD Form 7015.15) are required prior to conducting lead hazard control intervention work in homes.

The work plan narrative shall include:

☐ The management plan that describes how the project will be managed, and the timeline for staffing the program, establishing a lead-based paint contractor pool, and obtaining HUD approval for the Release of Funds Request (HUD Form 7015.15);

☐ A detailed description of how assistance and funding will flow from the grantee to the actual performers of the hazard reduction work;

☐ The selection process for sub-grantees, sub-contractors and/or sub-recipients;

☐ The identification, selection, and prioritization process for the particular properties where lead hazard control interventions are to be conducted;

☐ * A description of the financing mechanism used to support lead hazard control work in units (name of administering agency, eligibility requirements, type of financing (grant, forgivable or deferred loans, private sector financing, etc), any owner contribution requirement, and the terms, conditions and amounts of assistance available (include affordability terms and forgiveness and recapture of funds provisions);

☐ The inspection/risk assessment testing procedures using EPA standards to identify lead hazards and to conduct clearance testing. (Dust wipe samples, soil samples and any paint samples to be analyzed by a laboratory must be analyzed by a laboratory recognized by the EPA National Lead Laboratory Accreditation Program (NLAPP));

☐ * The process for developing work specifications and bids on properties selected for lead hazard control;

☐ The levels of intervention and clearance procedures to be conducted for units enrolled;

☐ The number of rental-occupied, vacant, and owner-occupied units proposed for each intervention level;

☐ The relocation plan that will be carried out for residents required to be out of their homes during hazard control activities;

☐ The education, outreach, and training activities to be undertaken by the program;

☐ The blood lead testing and other health measures to be undertaken to protect children and other occupants of units undergoing lead hazard control work; and

☐ The evaluation process used to measure program performance.

* To be added as amendment to Work Plan Policy Guidance Issuance 2001-03

Objectives and Milestones

Specific and measurable performance objectives and milestones to be developed in support of the work plan narrative include:

☐ The overall objectives for lead hazard control activities including the total number of lead hazard evaluations, units projected to be completed and cleared, and the expenditure of Federal grant funds (HUD Agreement HUD-1044). Quarterly performance milestones are to be developed to achieve the overall objectives for these activities;

☐ The overall objectives for community education, outreach, and training activities. Quarterly performance milestones are to be developed to achieve the overall objectives for these activities;

☐ Performance benchmarks for 36-, and 42-month grants have been developed. These benchmarks are included in Appendix A of this NOFA and can also be found on the HUD website at: http://www.hud.gov/offices/lead/grantfrm/hudgrantee.cfm.

Development of your work plan should include and reflect these benchmark standards.

Appendix C

(1) General Instructions and Guidelines for Performance-Based Renewal Applicants

Current lead hazard control grantees that meet the eligibility requirements described below are eligible to submit an application for a Performance-Based Renewal to their current grant. If a current lead hazard control grantee does not meet these threshold requirements, they are not eligible to submit a Performance-Based Renewal application.

(2) Preparing Your Application

Transmittal Letter

Prepare a brief letter applying for the Performance-Based Renewal and signed by the Chief Executive or other authorized official. The transmittal letter should indicate the applicant agency, the amount of the grant requested for a Performance-Based Renewal, the amount of cash or in-kind matching contributions and the number of housing units in which lead hazard control will be conducted. Also include the name, telephone number, facsimile number, and e-mail address of the individual to contact for further information pertaining to the application.

Abstract Summary

Prepare a brief (two page maximum) abstract summary describing your jurisdiction, and the proposed lead-based paint hazard control project. Include the following items (be specific and concise):

• The total amount of the Federal request and the amount of the matching contribution for the entire period of performance (including your current grant period and up to 36-months additional period);

• The number of units in which lead hazard control activities will be conducted (include your current grant agreement and those to be treated during the 36-month modification period);

• The organization(s) that will participate in the program, either conducting lead hazard control activities or in other roles;

• Demographic, socio-economic and housing characteristics of neighborhood(s) selected for hazard control activities;

• Your prior activities, experience and achievements in residential lead-based paint hazard control work or related work, including testing and treatment methods, and collaboration with other agencies;

• The scope and magnitude of the proposed lead hazard control project that details the area selected, number of housing units, intended beneficiaries, and the projected impact on the neighborhood/jurisdiction; how the work will be accomplished;

• Any changes proposed in your work plan strategy for the 36-month proposed extension period.

Required Forms

Prepare and submit the following forms (found in this NOFA) as part of your application:

Current lead hazard control grantees applying for Performance-Based Renewal Grant are required to prepare and submit the following forms as part of their application package.

HUD Form—424

HUD Form—424B

HUD Form—424C

HUD Form—424CBW

HUD Form—2993

* These forms are found in the General Section of this SuperNOFA and are available as fillable Adobe Reader (PDF) or Word (DOC) formats from the HUD website at: www.hudclips.org.

Performance-Based Renewal applicants are encouraged to use the electronic version of the HUD Form 424CBW.

BILLING CODE 4210-32-P

Funding Availability for Healthy Homes and Lead Technical Studies

Program Overview

Purpose of the Program. To fund technical studies to improve methods for detecting and controlling lead-based paint and other residential health and safety hazards. The purpose of the Healthy Homes Technical Studies program is to improve our knowledge of housing-related health hazards, and to improve or develop new hazard assessment and control methods. The purpose of the Lead Technical Studies program is to improve methods for detecting and controlling residential lead-based paint hazards.

Available Funds. Approximately $2 million for healthy homes technical studies in FY 2003 funds; and approximately $3 million for lead technical studies, of which approximately $1.25 million is FY 2003 funds, and approximately $1.75 million is previous-year recaptured funds.

Eligible Applicants. Academic, not-for-profit and for-profit institutions located in the U.S., State and local governments, and federally recognized Native American tribes are eligible to apply. Historically Black Colleges and Universities (HBCUs) are also eligible to apply under a set-aside for technical studies on increasing the efficacy of lead hazard control (LHC) programs in low-income urban minority communities. For-profit institutions are not allowed to earn a fee.

Application Deadline. June 10, 2003.

Match. None required.

Additional Information

If you are interested in applying for funding under this program, please review carefully the General Section of this Notice of Funding Availability and the following additional information.

I. Addresses And Application Submission Procedures

(A) Application Submission

See the General Section of this SuperNOFA for specific procedures concerning the form of application submission (e.g., mailed applications, express mail or overnight delivery). There is no Application Kit. All the information required to submit an application is contained in this NOFA.

(B) Address for Submitting Applications

You, the applicant, must submit a complete application to: Department of Housing and Urban Development, Office of Healthy Homes and Lead Hazard Control, ATTN: Lead and Healthy Homes Technical Studies Program, 451 Seventh Street, SW., Room P3206, Washington, DC 20410.

(C) For Further Information and Technical Assistance

You may contact Dr. Peter Ashley, Office of Healthy Homes and Lead Hazard Control, at the address above; telephone (202) 755-1785, extension 115 (this is not a toll-free number) or via email at Peter_J._Ashley@hud.gov. If you are a hearing-or speech-impaired person, you may reach the above telephone numbers via TTY by calling the toll-free Federal Information Relay Service at 1-800-877-8339.

II. Authority, Funding Amounts, And Eligibility

(A) Authority

These grants are authorized under sections 1011(g)(1), 1011(o), 1051-1053 of the Residential Lead Based Paint Hazard Reduction Act of 1992, which is Title X of the Housing and Community Development Act of 1992; sections 501 and 502 of the Housing and Urban Development Act of 1970; and the Consolidated Appropriations Resolution of 2003, Public Law 108-7, signed February 20, 2003.

(B) Funding Available

(1) Healthy Homes Technical Studies. Approximately $2 million from HUD's Fiscal Year (FY) 2003 Healthy Homes Initiative appropriation set-aside will be available to fund technical studies proposals. Grants or cooperative agreements will be awarded on a competitive basis according to the Rating Factors described in Section V(B). For technical studies under the Healthy Homes Initiative, HUD anticipates awarding three to six grants ranging from approximately $200,000 to approximately $1 million. The project duration may be up to 24 months, except for projects involving human subjects that require Institutional Review Board (IRB) approval and periodic monitoring, which cannot exceed 30 months. HUD reserves the right to approve no cost time extensions for a period not to exceed 12 months. The amounts included in this program are subject to change based on funds availability.

(2) Lead Technical Studies. Approximately $3 million for lead technical studies, of which approximately $1.25 million is from the FY 2003 lead technical assistance set-aside under the lead hazard reduction appropriation, and approximately $1.75 million is previous-year recaptured funds, will be available to fund lead technical studies proposals in FY 2003. Of this amount, $2.25 million is set-aside for HBCUs. The remaining funds are available to fund technical studies applications from all eligible applicants. Grants or cooperative agreements will be awarded on a competitive basis according to the Rating Factors described in Section V(B) of this program section of this NOFA. For lead technical studies, HUD anticipates awarding between three and 30 grants ranging from approximately $100,000 to approximately $1 million. The project duration may be up to 24 months, except for projects involving human subjects that require Institutional Review Board (IRB) approval and periodic monitoring, which cannot exceed 30 months. HUD reserves the right to approve no cost time extensions for a period not to exceed 12 months. The amounts included in this program are subject to change based on funds availability.

(C) Eligible Applicants

Academic and not-for-profit institutions located in the U.S., State and local governments, and federally recognized Native American tribes are eligible under all existing authorizations. For-profit firms also are eligible; however, they are not allowed to earn a fee (i.e., no profit can be made from the project). HBCUs, that is, educational institutions which satisfy the requirements of 34 CFR 608.2, are eligible to apply under the set-aside for the Lead Technical Studies Program, as described in sections III.A.3 and III.C.2(a), as well as under the general provisions of this NOFA for both the Healthy Homes Technical Studies Program and Lead Technical Studies Program. HBCUs should identify whether each application is being submitted under the set-aside or the general provisions. Federal agencies and federal employees are not eligible to submit applications. The General Section of this SuperNOFA provides additional eligibility requirements.

III. Program Description And Eligible Activities

(A) Program Description

(1) General Goals and Objectives. The overall goal of the Healthy Homes and Lead Technical Studies grant program is to gain knowledge to improve the efficacy and cost-effectiveness of methods for evaluation and control of lead and other health and safety hazards in the home.

Through the Healthy Homes Technical Studies Program, HUD is funding studies to improve our knowledge of housing-related health hazards, and to improve or develop new hazard assessment and control methods, with a focus on the key hazards described in Appendix A of this program section of the NOFA.

Through the Lead Technical Studies Program, HUD is helping “develop the capacity of eligible applicants * * * to carry out activities under” lead hazard control grant programs, by advancing the technology and increasing the effectiveness of workers on LHC projects, in fulfillment of the requirements of Section 1011(g)(1) of Title X, and is “conduct[ing] research to develop improved methods for evaluating (and) reducing lead-based paint hazards in housing,” and related topics, in fulfillment of the requirements of sections 1051 and 1052 of Title X.

HUD encourages applicants to consider using the “community based participatory research” approach, where applicable, in the design and implementation of both healthy homes and lead technical studies (see e.g., http://www.niehs.nih.gov/translat/cbpr/cbpr.htm).

A table of examples of current Healthy Homes and Lead Technical Studies projects being funded by HUD can be found in Appendix C.

(2) Healthy Homes Initiative. The Healthy Homes Initiative (HHI), which includes the Healthy Homes Technical Studies Program, departs from the more traditional approach of attempting to correct one hazard at a time. In April 1999, HUD submitted to Congress a preliminary plan containing a full description of the HHI. The preliminary plan (Summary and Full Report) and a description of the HHI are available on the HUD Web site at www.hud.gov/offices/lead/hhi/index.cfm.

In addition to deficiencies in basic housing facilities that may impact health, changes in the U.S. housing stock and more sophisticated epidemiological methods and biomedical research have led to the identification of new and often more subtle health hazards in the residential environment (e.g., asthma and mold-induced illness). While such hazards will tend to be found disproportionately in housing that is substandard (e.g., structural problems, lack of adequate heat, etc.), such housing-related environmental hazards may also exist in housing that is otherwise of good quality. Appendix A of this program section of the NOFA briefly describes the housing-associated health and injury hazards HUD considers key targets for intervention. Appendix B of this program section of the NOFA lists the references that serve as the basis for the information provided in this program section.

HUD is interested in promoting approaches that are cost-effective and efficient and that result in the reduction of health threats for the maximum number of residents for the long run, and, in particular, low-income children. The overall goals and objectives of the HHI are to:

(a) Mobilize public and private resources, involving cooperation among all levels of government, the private sector, grassroots organizations, particularly including faith-based, and other community-based, non-profit organizations to develop the most promising, cost-effective methods for identifying and controlling housing-based hazards; and

(b) Build local capacity to operate sustainable programs that will continue to prevent and, where they occur, minimize and control housing-based hazards in low- and very low-income residences when HUD funding is exhausted.

With this NOFA, HUD hopes to advance the recognition and control of residential health and safety hazards and more closely examine the link between housing and health.

The overall objectives of Healthy Homes technical studies projects to be funded through this NOFA include, but are not limited to:

(i) Investigation of the epidemiology of housing-related hazards and illness and injury;

(ii) Development and assessment of low-cost test methods and protocols for identification and assessment of housing-related hazards;

(iii) Development and assessment of cost-effective methods for reducing or eliminating housing-related hazards;

(iv) Evaluation of the effectiveness of housing interventions and public education campaigns, and barriers and incentives affecting future use of the most cost-effective strategies; and

(v) Investigation of the health effects on children living in deteriorated housing and the impact on their development and productivity.

HUD has also developed resource papers on a number of topic areas of importance under the Healthy Homes Initiative, including mold, environmental aspects of asthma, carbon monoxide, and unintentional injuries. These papers can be downloaded from the HUD Web site at www.hud.gov/offices/lead/hhi.

(3) Lead Technical Studies.

(a) General. HUD has been actively engaged in a number of activities relating to lead-based paint as a result of the Lead-Based Paint Poisoning Prevention Act of 1971, as amended, 42 U.S.C. 4801-4856. Sections 1051 and 1052 of the Lead-Based Paint Hazard Reduction Act of 1992 (Title X) (42 U.S.C. 4854 and 4854a) state that the Secretary of HUD, in cooperation with other federal agencies, shall conduct technical studies on specific topics related to the evaluation and subsequent mitigation of residential lead hazards. Section 1053 of Title X authorized HUD to spend funds to conduct these studies, under the Lead Hazard Control Grant Program's funding authorization in Section 1011(o). The HUD-sponsored technical studies program also responds to recommendations by the Task Force on Lead-Based Paint Hazard Reduction and Financing, which was established pursuant to section 1015 of Title X. The Task Force presented its final report to HUD and the Environmental Protection Agency (EPA) in July 1995. The Task Force Report, entitled “Putting the Pieces Together: Controlling Lead Hazards in the Nation's Housing” (see Appendix B of this program section of this NOFA), recommended that research be conducted on a number of key topics to address significant gaps in our knowledge of lead exposure and hazard control.

The findings of technical studies will be used in part to update HUD's Guidelines for the Evaluation and Control of Lead-Based Paint Hazards in Housing (Guidelines), which were published in June 1995 and partly amended in September 1997. The Guidelines include state-of-the-art procedures for all aspects of lead-based paint hazard evaluation and control. The Guidelines reflect the Title X framework for LHC, which distinguishes two types of control measures: interim controls and abatement of lead-based paint hazards. Interim controls are designed to address hazards quickly, inexpensively, and temporarily, while abatement is intended to produce a permanent solution. While the Guidelines recommend procedures that are effective in identifying and controlling lead hazards while protecting the health of abatement workers and occupants, HUD recognizes that targeted technical studies and field experience will result in future changes to the Guidelines. For availability of the Guidelines, see Appendix B.

HUD is especially interested in the following lead technical studies topics:

(i) Evaluation of interior and exterior LHC methodologies, especially novel approaches;

(ii) The effectiveness of ongoing maintenance activities in controlling lead-based paint hazards; and

(iii) Other areas of focus that are consistent with the overall goals of HUD's lead technical studies program.

(b) HBCU set-aside. As noted in the Program Overview, above, HBCUs are defined as those listed in 34 CFR 608.2 (see, for example, www.ed.gov/offices/ope/hep/idues/hbculist.html). The lead technical studies program includes a set-aside of $2.25 million for HBCUs. This set-aside is established for HBCUs to expand their role and effectiveness in addressing community development needs, specifically for conducting technical studies focused on increasing the efficacy of LHC programs in low-income, minority communities, consistent with the purposes of title I of the Housing and Community Development Act of 1974 in addressing critical social, economic, and environmental problems facing Nation's urban communities (see 42 U.S.C. 5301). Low-income, minority children in these communities are at highest risk of suffering of exposure to lead-based paint hazards and subsequently developing lead poisoning (Morbidity and Mortality Weekly Report, 1997; Jacobs et al., 2002). The Department is aware that HBCUs are often involved in projects that address problems such as lead poisoning, that disproportionately affect low-income, minority populations. The goal of this set aside is to encourage HBCUs to apply their unique perspective on community issues and the community relationships that they have established, to design and implement technical studies to increase the efficacy of LHC programs in their communities and in additional communities, in accordance with section 1011(g)(1) of Title X, which requires HUD to “develop the capacity of eligible applicants * * * to carry out activities under” LHC grant programs.

HBCU applications should understand that the ultimate goal of these LHC grant programs is to reduce the incidence of childhood lead poisoning by identifying and eliminating lead hazards in target, privately owned, housing (see FY 2003 NOFA for LHC grants). Important aspects of the HUD LHC grants include:

(i) Working cooperatively with other governmental and community-based organizations;

(ii) Identifying target housing and recruiting owners into the program;

(iii) Identifying lead-based paint hazards and developing work specifications for contractors;

(iv) Awarding contracts and ensuring that work is completed;

(v) Conducting outreach and education to residents and the community; and

(vi) Promotion of job training, employment, and other economic opportunities for low-income and minority residents and businesses.

LHC grantees are encouraged to employ hazard control interventions that are effective in eliminating lead hazards while minimizing (e.g., using interim controls instead of complete abatement) cost so that the largest number of housing units can be treated. HUD conducted an evaluation of the effectiveness of lead hazard interventions conducted by the initial recipients of the Department's lead-hazard control grants and these were found to be effective in reducing dust-lead levels (preliminary results were reported by Galke et al. 2001).

(B) Eligible Activities

(1) Healthy Homes Technical Studies.

(a) Evaluation of residential health and safety hazard assessment and control methodologies and approaches (including both existing methods and the evaluation of improved or novel approaches). Areas of particular interest to HUD include:

(i) Improving indoor air quality, such as through cost-effective approaches to upgrading residential ventilation or improving control/management of combustion appliances. Applicants should discuss how proposed approaches might affect residential energy costs (e.g., increasing air exchange rates resulting in an increase in heating costs);

(ii) Improving or assessing the efficacy of current methods for residential Integrated Pest Management (IPM). IPM approaches focus on the use of economical means for managing pests, which incorporate information on the life cycles of pests and their interaction with the environment, while minimizing hazards to people, property, and the environment. HUD is particularly interested in IPM methods for reducing cockroach and/or rodent populations in multifamily housing;

(iii) Controlling excess moisture and dust control measures (e.g., preventing track-in of exterior dust and soil, improved methods for interior dust cleaning) have been identified as key areas in the HHI Preliminary Plan;

(iv) Evaluate the effectiveness of education and outreach methods designed to provide at-risk families with the knowledge to adopt self-protective behaviors with respect to housing-related health hazards; and

(v) Additional ideas will be considered with an open mind toward novel techniques and applications.

(b) Analysis of existing data or generation of new data to improve knowledge regarding the prevalence and severity of specific hazards in various classes of housing, with a focus on low-income housing. Specific examples include:

(i) The prevalence of carbon monoxide and other indoor air quality hazards;

(ii) The prevalence and patterns of moisture problems and biological contaminants associated with excess moisture (e.g., fungi, bacteria, dust mites);

(iii) The prevalence of specific childhood injury hazards in housing; and

(iv) Improved understanding of the relationship between a residential exposure and childhood illness or injury.

(c) Low-cost analytical techniques for the rapid, on- and off-site determination of environmental contaminants of concern (e.g., bioaerosols, pesticides, allergens).

(i) Establish and validate any necessary procedures (e.g., such as extraction and/or digestion) that would work well with the field device/procedure;

(ii) Improve old technology (e.g., colorimetric tests, titrimetric procedures) as well as examine and improve newer techniques; and

(iii) Consider the safety, environmental impacts, and cost of the procedure, particularly as used in the field.

(d) In proposing technical studies within the broad topic areas discussed in III.C.1(a) and III.C.1(b), applicants should consider:

(i) The “fit” of the proposed hazard assessment and/or control methods within the overall goal of addressing “priority” health and safety hazards in a cost-effective manner;

(ii) The efficacy of the proposed methods for hazard control and risk reduction (e.g., how long is effective hazard reduction maintained?);

(iii) Consider where and how these methods would be applied and tested, and/or perform demonstration activities; and

(iv) The degree to which your study will help develop practical, widely applicable methods and protocols or improve our understanding of a residential health hazard.

Although HUD is soliciting proposals for technical studies on these broad topics, HUD will also consider funding applications for technical studies on topics that are relevant under the overall goals and objectives of this program, as described above. In such instances, the applicant should describe how the proposed project activity addresses these overall goals and objectives.

Applicants should consider the efficiencies that might be gained by working cooperatively with some of the recipients of HUD's Healthy Homes and Lead Hazard Control grants, which are widely distributed throughout the U.S. Information on current grantees is available at www.hud.gov/offices/lead.

You may address one or more of the technical studies topic areas within your proposal, or submit separate applications for different topic areas.

(2) Lead Technical Studies.

(a) Set-Aside for Historically Black Colleges and Universities for Technical Studies on Increasing the Efficacy of Lead Hazard Control Programs in Low-Income, Urban Communities.

Conduct studies focused on evaluating and improving the efficacy of LHC programs as conducted in low-income, urban communities. You are encouraged to focus on one or more important components of a LHC program, as discussed in section III.A.3, above, with the goal being to increase the effectiveness of that component (e.g., selection and recruitment of units, design of interventions, contracting, promotion of job training, outreach and education). You are encouraged to work with the organizations that are currently administering LHC programs as well as with the community in the design and implementation of your study. As noted in section III.A.1(i), above, you are encouraged to use the “community-based participatory research” approach, where applicable, in the design and implementation of your studies.

In order that your studies can be relied upon for use in other communities and programs, it is important that your findings be statistically and programmatically verifiable. You are encouraged to use a study design that incorporates objective, quantitative measures of performance, and that assesses hypotheses that can be evaluated statistically based on the data obtained by your studies.

Some examples of design options are:

(i) Evaluate one or more components of an existing HUD LHC grant, propose a revised approach that reflects the findings of the evaluation, and evaluate the application of the revised approach;

(ii) Compare the effectiveness of a component across two or more existing HUD LHC grants, propose a revised approach that reflects the findings of the evaluation, and evaluate the application of the revised approach; or

(iii) Compare the effectiveness of one or more components among two or more jurisdictions, some of which have HUD LHC grants and some which do not, propose how jurisdictions without control grants could better achieve some of the goals of control grants, and evaluate the application of the proposed method in jurisdictions without LHC control grants.

(b) Evaluation of Interior and Exterior Lead Hazard Control Methodologies, Especially Novel Approaches. Identify and evaluate new methods and/or techniques for lead-based paint hazard control. Identify materials and/or procedures that may be used for abatement or for interim controls. Show the potential utility of these methods for LHC and risk reduction. Evaluate critical elements and potential weaknesses of the methods or techniques, and address how to minimize the effect of each critical element and/or eliminate or mitigate each weakness. Demonstrate where and how these methods have been applied and tested, and/or perform demonstration activities. Illustrate the results obtained, and the costs involved. Recommend cost-effective changes to the program for inclusion in future HUD LHC grants, and for possible inclusion in future revisions to the Guidelines.

(c) The Effectiveness of Ongoing Maintenance Program Activities in Controlling Lead-Based Paint Hazards. While a variety of lead abatement and interim control techniques have been evaluated for their effectiveness in controlling lead-based paint hazards at and after their implementation, there are few studies directly assessing the effectiveness of ongoing lead-based paint maintenance programs. Evaluate the effectiveness and feasibility of developing and implementing ongoing lead-based paint maintenance programs, identify program components for which particular implementation difficulties exist, and evaluate proposed measures for overcoming those difficulties. Such quantitative evaluation of program components could address whether and how technically-acceptable and cost-effective work practices are selected and implemented, how effective supervisors are in monitoring work activities to ensure that lead-based paint hazards are controlled and that dust and debris are contained and cleaned up during work, and how well clearance procedures (including necessary re-cleaning) are integrated into the maintenance program, among other factors.

(d) Other Focus Areas that are Consistent with the Overall Goals of HUD's Lead Technical Studies Program. Additional ideas will be considered with an open mind toward novel techniques and applications. Although HUD is soliciting proposals for technical studies on some specific topics, HUD will also consider funding applications for technical studies on topics which are relevant under the overall goals and objectives of the LHC technical studies program, as described above. In such instances, the applicant should describe how the proposed activity addresses these overall goals and objectives.

(C) Ineligible Activities

(1) Purchase or lease of equipment having a per unit cost in excess of $5,000, unless prior written approval is obtained from HUD.

(2) Medical treatment costs.

IV. Program Requirements

In addition to the requirements listed in Section V of the General Section of this SuperNOFA, the applicant must comply with requirements of this Section IV.

(A) Administrative Costs

There is a 10% maximum for administrative costs for successful applicants. Additional information about allowable administrative costs is provided in Appendix E of this program section of the NOFA.

(B) Period of Performance

The period of performance cannot exceed 24 months from the time of award, except for projects involving human subjects that require Institutional Review Board (IRB) approval and periodic monitoring, which cannot exceed 30 months. The additional time is allowed for obtaining approval for such studies, under HUD regulation (24 CFR part 60), which incorporates the Department of Health and Human Services' regulation of studies involving human subjects. In addition, HUD reserves the right to approve no cost time extensions for a total period not to exceed 12 months.

(C) Program Performance

Grantees shall take all reasonable steps to accomplish all grant-funded activities within the approved period of performance. HUD reserves the right to terminate the grant prior to the expiration of the period of performance if the grantee fails to make reasonable progress in implementing the approved program of activities.

(D) Certifications and Assurances

In addition to the certifications mentioned in the Section V(H) of the General Section of this NOFA, you must comply with:

(1) All relevant State and Federal regulations regarding exposure to and proper disposal of hazardous materials;

(2) Any blood lead testing, blood lead level test results, and medical referral and follow-up for children under six years of age will be conducted according to the recommendations of the Centers for Disease Control and Prevention (CDC), Preventing Lead Poisoning in Young Children (see Appendix B of this program section of the NOFA);

(3) HUD technical studies grant funds will not replace existing resources dedicated to any ongoing project;

(4) Laboratory analysis covered by the National Lead Laboratory Accreditation Program (NLLAP) will be conducted by a laboratory recognized under the program;

(5) Human research subjects will be protected from research risks in conformance with Federal Policy for the Protection of Human Subjects, codified by HUD at 24 CFR part 60; and

(6) The requirements of OSHA (e.g., 29 CFR part 1910 and/or 1926, as applicable) or the State or local occupational safety and health regulations, whichever are most stringent, will be met;

(7) If an individual researcher or a research team submits the application, the institution administering the grant will meet the civil rights threshold in Section V of the General Section of this NOFA.

(E) Conducting Business in Accordance with HUD Core Values and Ethical Standards

If awarded assistance under this NOFA, prior to entering into a grant agreement with HUD, you will be required to submit a copy of your code of conduct and describe the methods you will use to ensure that all officers, employees, and agents of your organization are aware of your code of conduct. See Section V of the General Section of the SuperNOFA for information about conducting business in accordance with HUD's core values and ethical standards.

(F) Participation in HUD-Sponsored Program Evaluation

As a condition of the receipt of financial assistance under this NOFA, you will be required to cooperate with all HUD staff or contractors performing HUD-funded research and evaluation studies pertaining to the subject of the grant.

(G) HUD Reform Act of 1989

The provisions of the HUD Reform Act of 1989 that apply to this NOFA are explained in the General Section of the NOFA at section XI.

V. Application Selection Process

(A) Threshold Requirements

Applications that meet all of the threshold requirements will be eligible to be scored and ranked, based on the total number of points allocated for each of the rating factors described below in Section V (B) of this NOFA. Your application must receive a total score of at least 75 points to remain in consideration for funding.

(B) Rating and Ranking

Awards will be made separately in rank order for Healthy Homes Technical Studies applications and for each category of Lead Technical Studies applications, within the limits of funding availability for each program.

(1) Award Factors. Applications will be reviewed by a Source Evaluation Board which will assign each application a numerical score based on the rating factors presented below (see also section V(B) of the NOFA). Each factor is weighted as indicated by the number of points that are attainable for it. The maximum score that can be assigned to an application is 102 points. Applicants should be certain that these factors are adequately addressed in the project description (see Section 2) and accompanying materials. The five rating factors are listed below.

Rating Factor 1: Capacity of the Applicant and Relevant Organizational Experience (30 points)

Rating Factor 2: Need/Extent of the Problem (10 points)

Rating Factor 3: Soundness of Approach (45 points)

Rating Factor 4: Leveraging Resources (5 points)

Rating Factor 5: Achieving Results and Program Evaluation (10 points)

RC/EZ/EC Bonus Points (2 points)

TOTAL: 102 points

Applicants are eligible to receive two bonus points for projects located within federally designated Renewable Communities (RC)/Employment Zones (EZ)/Enterprise Communities (EC) (RC/EZ/ECs) and which will serve the residents of these communities (see Section VI of the General Section of this NOFA.

You will receive one point under Rating Factor 3(1) for each of the applicable FY 2003 policy priorities that are adequately addressed in your application, up to a maximum of three points (see Section II of the General Section of this NOFA). Policy priorities that are applicable to the Lead and Healthy Homes Technical Studies NOFA are: (1) Improving our Nation's Communities (focus on distressed communities); (2) Providing Full and Equal Access to Grass-Roots Faith-based and other Community-based Organizations in HUD Program Implementation; and (3) Colonias.

Within each of the two technical studies program areas, you may address more than one of the technical study topic areas within your proposal (e.g., a healthy homes technical studies applicant can address multiple topics consistent with the HHI program objectives) or submit separate applications for different topic areas. You are encouraged to plan projects that can be completed over a short time period (e.g., 12 to 24 months from the date of award (plus up to six months to accommodate approval by an IRB for human subjects research)), so useful information generated from the technical studies can be available for policy or program decisions and disseminated to the public as quickly as possible.

Regarding the amount to be awarded to the selected applicants, please refer to the Negotiation section VI(D) in the General Section of this NOFA.

(2) Partial Funding. In the selection process, HUD reserves the right to offer partial funding to any or all applicants. If you are offered a reduced grant amount, you will have a maximum of 14 calendar days to accept such a reduced award. If you fail to respond within the 14-day limit, you shall be considered to have declined the award.

(3) Remaining Funds. See section VI of the General Section of this NOFA for HUD's procedures if funds remain after all selections have been made within a category of the Lead Technical Studies Program.

(C) Rating Factors

The factors for rating and ranking applicants, and maximum points for each factor, are provided below. The factors or their assigned points differ somewhat from those used for most program areas included in this NOFA because they have been amended for rating the unique aspects of technical study applications. The maximum number of points to be awarded is 102.

Rating Factor 1: Capacity of the Applicant and Relevant Organizational Experience (30 Points)

This factor addresses the extent to which you have the ability and organizational resources necessary to successfully implement your proposed activities in a timely manner. The rating of you, the “applicant,” will include any sub-grantees, consultants, sub-recipients, and members of consortia that are firmly committed to the project (generally, “subordinate organizations”). In rating this factor, HUD will consider the extent to which your application demonstrates:

(1) The capability and qualifications of the principal investigator and key personnel (20 points). Qualifications to carry out the proposed study as evidenced by academic background, relevant publications, and recent (within the past 10 years) relevant research experience. Publications and research experience are considered relevant if they required the acquisition and use of knowledge and skills that can be applied in the planning and execution of the technical study that is proposed under this program section of this NOFA; and

(2) Past performance of the study team in managing similar projects (10 points). Demonstrated ability to successfully manage various aspects of a complex technical study in such areas as logistics, study personnel management, data management, quality control, community study involvement (if applicable), and report writing, as well as overall success in project completion (i.e., projects completed on time and within budget). You should also demonstrate that your project would have adequate administrative support, including clerical and specialized support in areas such as accounting and equipment maintenance.

Rating Factor 2: Need/Extent of the Problem (10 Points)

This factor addresses the extent to which there is a need for your proposed technical study. In responding to this factor, you should document in detail how your project would make a significant contribution towards achieving some or all of HUD's stated goals and objectives for one or more of the topic areas described in Sections III (A) and (C)(1)-(2). You should demonstrate how your proposed study addresses a need associated with an important housing-related health hazard, with an emphasis on children's health. Specific topics to be addressed for this factor include:

(1) Provide a concise review of the health hazard that is addressed in your study and why you consider it a “high priority” hazard. If appropriate, include documented rates of illness or injury associated with the hazard, including local, regional, and national data;

(2) Discuss how your proposed project would significantly advance the current state of knowledge for your focus area, especially with respect to the development of practical solutions; and

(3) Discuss how you anticipate your study findings will be used to improve current methods for assessing or mitigating the hazard that your study addresses. Indicate why the method/protocol that would be improved through your study would be widely adopted (e.g., low cost, easily replicated, lack of other options).

Rating Factor 3: Soundness of Approach (45 Points)

This factor addresses the quality of your proposed technical study plan. Specific components include:

(1) Soundness of the study design (25 points). The project description/study design must be thorough and feasible, and reflect your knowledge of the relevant scientific literature. You should clearly describe how your study builds upon the current state of knowledge for your focus area. If possible, your study should be designed to address testable hypotheses, which are clearly stated. Your study design should be statistically based, with adequate power to test your stated hypotheses. The study design should be presented as a logical sequence of steps or phases, with individual tasks described for each phase. You should identify any important “decision points” in your study plan and you should discuss plans for data management, analysis and archiving.

Indicate if you will address any of the Department's FY 2003 policy priorities that are applicable to this program (see Section II of the General Section of this NOFA for a description of these policy priorities). You will receive one point for each of the applicable policy priorities that are addressed in your application. Policy priorities that are applicable to the Healthy Homes and Lead Technical Studies programs are: (1) Improving the Quality of Life in Our Nation's Communities (focus on distressed communities); (2) Providing Full and Equal Access to Faith-Based and Other Community-Based Organizations in HUD Program Implementation; and (3) Colonias (improving housing conditions for families living in Colonias).

(2) Quality assurance mechanisms (10 points). You must describe the quality assurance mechanisms that will be integrated into your project design to ensure the validity and quality of the results.

(a) Areas to be addressed include acceptance criteria for data quality, procedures for selection of samples/sample sites, sample handling, measurement and analysis, and any standard/nonstandard quality assurance/control procedures to be followed. Documents (e.g., government reports, peer-reviewed academic literature) that provide the basis for your quality assurance mechanisms should be cited.

(b) If your project involves human subjects in a manner which requires Institutional Review Board (IRB) approval and periodic monitoring, address how you will obtain such approval and your monitoring plan (before you can receive funds from HUD for activities that require IRB approval, you must provide an assurance that your study has been reviewed and approved by an IRB and evidence of your organization's “institutional assurance;” see Section VI(A)(6)). Describe how you will provide informed consent (e.g., from the subjects, their parents or their guardians, as applicable) to help ensure their understanding of, and consent to, the elements of informed consent, such as the purposes, benefits and risks of the research. Describe how this information will be provided and how the consent will be collected. For example, describe your use of “plain language” forms, flyers and verbal scripts, and how you plan to work with families with limited English proficiency or primary languages other than English, and with families including persons with disabilities.

(3) Project management plan (8 points). The proposal should include a management plan that provides a schedule for the completion of major activities, tasks and deliverables, with an indication that there will be adequate resources (e.g., personnel, financial) to successfully meet the proposed schedule. You are encouraged to plan a project with a duration of 24 months or less (or 30 months or less for projects requiring IRB approval). You should include preparation of one or more articles for peer-reviewed academic journals and submission of the draft(s) to the journal(s) after HUD acceptance during the period of performance of your grant.

(4) Budget Proposal (2 points).

(a) Your budget proposal should thoroughly estimate all applicable direct and indirect costs, and be presented in a clear and coherent format in accordance with the requirements listed in the General Section of this NOFA. HUD is not required to approve or fund all proposed activities. Your budget should be submitted in the format provided in Appendix D (an electronic spreadsheet is available on HUD's Web site, www.hud.gov/offices/lead). You must thoroughly document and justify all budget categories and costs (Part B of Standard Form 424A) and all major tasks, for yourself, sub-recipients, partners, major subcontractors, joint venture participants, or others contributing resources to the project (especially those proposed to receive more than 10% of the federal budget request). Your budget proposal should be activity- and task-related.

(b) Your narrative justification associated with these budgeted costs should be included as an attachment to the Total Budget (Federal Share and Matching), but does not count in the 25-page limit for this submission.

(c) The application will not be rated on the proposed cost; however, cost will be considered in addition to the rated factors to determine the proposal most advantageous to the Federal government. Cost will be the deciding factor when proposals ranked under the listed factors are considered acceptable and are substantially equal.

Rating Factor 4: Leveraging Resources (5 Points)

Your proposal should demonstrate that the effectiveness of HUD's Healthy Homes and Lead Technical Studies grant funds is being increased by securing other public and/or private resources or by structuring the project in a cost-effective manner, such as integrating the project into an existing study. Resources may include funding or in-kind contributions (such as services, facilities or equipment) allocated to the purpose(s) of your project. Staff and in-kind contributions should be given a monetary value.

You should provide evidence of leveraging/partnerships by attaching to your application the following: letters of firm commitment; memoranda of understanding; or agreements to participate from those entities identified as partners in the project efforts. Each letter of commitment, memorandum of understanding, or agreement to participate must include the organization's name, proposed level of commitment (with monetary value) and responsibilities as they relate to specific activities or tasks of your proposed program. The commitment must also be signed by an official of the organization legally able to make commitments on behalf of the organization.

Rating Factor 5: Achieving Results and Program Evaluation (10 Points)

This factor emphasizes HUD's commitment to ensuring that applicants keep promises made in their applications and assess their performance to ensure performance goals are met. Achieving results means you, the applicant, have clearly identified the benefits or outcomes of your program. Outcomes are ultimate goals. Benchmarks or outputs are interim activities or products that lead to the ultimate achievement of your goals.

Program evaluation requires that you, the applicant, identify program outcomes, interim products or benchmarks, and performance indicators that will allow you to measure your performance. Performance indicators should be objectively quantifiable and measure actual achievements against anticipated achievements. Your evaluation plan should identify what you are going to measure, how you are going to measure it, and the steps you have in place to make adjustments to your work plan if performance targets are not met within established timeframes.

This new rating factor reflects HUD's goal to embrace high standards of ethics, management and accountability. In evaluating this factor, HUD will consider how you have described outcome measures and benefits of your program.

In your response to this Rating Factor you are to discuss the performance goals for your project and identify specific outcome measures. You are also to describe how the outcome information will be obtained, documented, and reported. You must complete and return the Logic Model Form included in Appendix B of the General Section of the SuperNOFA showing your proposed project long-term, mid-term, short-term and final results, and how they support HUD's departmental goals and objectives. Information about developing a Logic Model is available at www.hud.gov.

Also, in responding to this factor, you should:

(a) Identify benchmarks that you will use to track the progress of your study;

(b) Identify important study milestones (e.g., the end of specific phases in a multiphased study), which should also be clearly indicated in your study timeline;

(c) Identify milestones that are critical for achieving study objectives (e.g., recruitment of study participants, developing a new analytical protocol), potential obstacles in meeting these objectives, and how you would respond to these obstacles;

(d) Identify how your program will be held accountable for meeting program goals, objectives, and the actions undertaken in implementing the grant program.

This new rating factor reflects HUD's goal to embrace high standards of ethics, management and accountability.

VI. Application Submission Requirements

(A) Applicant Data

Your application must contain the items listed in this Section (VI(A)). These items include the standard forms, certifications, and assurances listed in the General Section of this NOFA that are applicable to this funding (collectively referred to as the “standard forms”). The standard forms can be found in Appendix B to the General Section of the SuperNOFA. The remaining application item required with your application is a non-standard form (i.e., excluding such items as narratives) that can be found as Appendix D to this is NOFA. The items are:

(1) A transmittal letter, signed by the chief executive or other authorized official, that identifies what the technical study program funds are requested for (you should clearly specify that you are applying for funds under either the HHI technical studies program or the LHC technical studies program), the dollar amount requested, and the applicant(s) submitting the application. The name, mailing address, telephone number, and principal contact person of the prime applicant. If you have consortium associates, sub-grantees, partners, major subcontractors, joint venture participants, or others contributing resources to your project, similar information must be provided for each of these entities. If two or more organizations are working together on the project, a primary applicant must be designated.

(2) Application Abstract Summary. An abstract describing the project title, the names and affiliations of all investigators, and a summary of the objectives, expected results, and study design (two-page maximum) must be included in the proposal.

(3) Checklist and Submission Table of Contents (see Appendix D).

(4) All forms as required by Section V(H) of the General Section of this SuperNOFA. A Certification of Consistency with the Consolidated Plan is not required for this application.

(5) A project description/narrative statement addressing the rating factors for award of funding under this program section of the NOFA. The narrative statement must be numbered in accordance with each factor for award (Rating Factors 1 through 5). The project description can either be included in the responses to the rating factors or provided separately. The response to the rating factors should not exceed a total of 25 pages (10- to 12-point font with at least ¾ inch margins on 8½″ by 11″ pages) for each technical study topic area. Any pages in excess of this limit will not be read.

(6) In conformance with the Common Rule (Federal Policy for the Protection of Human Subjects, codified by HUD at 24 CFR Part 60), if your research involves human subjects, your organization must provide an assurance (e.g., a letter signed by an appropriate official) that the research has been reviewed and approved by an IRB before you can receive funds from HUD for activities that require IRB approval. Before receiving such funds, you must also provide the number for your organization's assurance (i.e., an “institutional assurance”) that has been approved by the Department of Health and Human Service's Office of Human Research Protections (OHRP). For additional information on what constitutes human subject research or how to obtain an institutional assurance see the OHRP Web site at http://ohrp.osophs.dhhs.gov/.

(7) Within Appendix 1, the resumes of the principal investigator and other key personnel. Resumes shall not exceed three pages each, and are limited to information that is relevant in assessing the qualifications of key personnel to conduct and/or manage the proposed technical studies. This information will not be counted towards the page limit.

(8) Within Appendix 3, a detailed total budget with supporting cost justification for all budget categories of the federal grant request. Use the budget format discussed in Section V(B) Rating Factor 3(5), above. In completing the budget forms and justification, you should address the following elements:

(a) Direct Labor costs should include all full- and part-time staff required for the planning and implementation phases of the project. These costs should be based on FTE (full time equivalent) or hours per year (hours/year) (i.e., one FTE equals 2,080 hours/year);

(b) You should budget for two trips to HUD Headquarters in Washington, DC, planning each trip for two people, assuming a stay of one or two days, depending on your location;

(c) A separate budget proposal should be provided for any subrecipients receiving more than 10% of the total federal budget request;

(d) You should be prepared to provide supporting documentation for salaries and prices of materials and equipment upon request;

(e) Organizations that have a federally-negotiated indirect rate should use that rate and the appropriate base. Other organizations should use their current overhead rate; and

(f) You should submit the negotiated rate agreements for fringe benefits and indirect costs, if applicable, as an attachment to the budget sheets.

(9) Any important attachments, appendices, references, or other relevant information may accompany the project description, but must not exceed 20 pages for the entire application, although mandatory materials (budget detail and justification, organizational chart, resumes, job descriptions, letters of commitment and memoranda of agreement from participating organizations) are not included in this page limit. Any pages in excess of this limit will not be read.

(B) Quality Assurance Plan (QAP)

Successful applicants will be required to submit a Quality Assurance Plan to HUD prior to initiating work under the grant. This is a streamlined version of the format used by some other federal agencies, and is intended to help ensure the accuracy and validity of the data that you will collect under the grant. You should plan for this and include it in your study work plan. (See the HUD Office of Healthy Homes and Lead Hazard Control's Internet site, www.hud.gov/offices/lead.)

(C) Applicant Debriefing

See Section the General Section of this NOFA for information about applicant debriefing.

VII. Corrections to Deficient Applications

The General Section of this SuperNOFA provides the procedures for corrections to deficient applications.

VIII. Environmental Requirements

In accordance with 24 CFR 50.19(b)(1) and (b)(5) of the HUD regulations, activities assisted under this program are categorically excluded from the requirements of the National Environmental Policy Act of 1969 (42 U.S.C. 4321) and are not subject to environmental review under the related laws and authorities.

Appendix A

The following briefly describes the residential health and injury hazards HUD considers key targets for intervention:

Allergens and asthma: Experts estimate that 14 million Americans have asthma, with an associated annual cost of $14 billion. Asthma is now recognized as the leading cause of school and work absences, emergency room visits and hospitalizations. For sensitized children, exposure to antigens from dust mites, certain pets, and cockroaches has been associated with more severe asthma. There is a preponderance of evidence showing a dose-response relationship between exposure and prevalence of asthma and allergies; some evidence also indicates that exposure to antigens early in life may predispose or hasten the onset of allergies and asthma. Dust mites have been identified as the largest trigger for asthma and allergies. Cockroach allergens appear to be excessive in 30-50 percent of inner-city housing and affect 5-15 percent of the population, whereas dust mites appear to be the dominant allergen in other environments.

Interventions known to have beneficial effects include the installation of impervious mattress and pillow covers, which can reduce allergen exposure by 90 percent. Other dust mite control measures include dehumidification, laundering bedding, and removal of carpets and other materials that accumulate dust and are difficult to clean (e.g., dust sinks). Cleaning carpets with tannic acid solution has also been demonstrated to greatly reduce dust mites. Asthma prevention program costs have been estimated at about $500 per unit, which includes about $150 for educational interventions.

Asbestos: Asbestos is a mineral fiber that has been used commonly in a variety of building construction materials and household products for insulation and as a fire-retardant. The Environmental Protection Agency (EPA) and the Consumer Product Safety Commission (CPSC) have banned most asbestos products. Manufacturers have also voluntarily limited uses of asbestos. Today, asbestos is most commonly found in older homes in pipe and furnace insulation materials, asbestos shingles, millboard, textured paints and other coating materials, and floor tiles. Elevated concentrations of airborne asbestos can occur when asbestos-containing materials (ACMs) are disturbed by cutting, sanding or other remodeling activities. Improper attempts to remove these materials can release asbestos fibers into the air in homes, increasing asbestos levels and endangering the people living in those homes. The most dangerous asbestos fibers are too small to be visible. After they are inhaled, they can remain and accumulate in the lungs. Asbestos can cause lung cancer, mesothelioma (a cancer of the chest and abdominal linings), and asbestosis (irreversible lung scarring that can be fatal). Most people with asbestos-related diseases were exposed to elevated concentrations on the job; some developed disease from exposure to clothing and equipment brought home from job sites. As with radon, dose-response extrapolations suggest that lower level exposures, as may occur when asbestos-containing building materials deteriorate or are disturbed, may also cause cancer.

Intact asbestos-containing materials are not a hazard; they should be monitored for damage or deterioration and isolated if possible. Repair of damaged or deteriorating ACMs usually involves either sealing (encapsulation) or covering (enclosure) it. Repair is usually cheaper than removal, but it may make later removal of asbestos more difficult and costly. Repairs should be done only by a professional trained and certified to handle asbestos safely and can cost from a few hundred to a few thousand dollars; removal can be more expensive.

Combustion products of heating and cooking appliances: Burning of oil, natural gas, kerosene, and wood for heating or cooking purposes can release a variety of combustion products of health concern. Depending upon the fuel, these may include carbon monoxide (a chemical asphyxiant), oxides of nitrogen (respiratory irritants), polycyclic aromatic hydrocarbons (e.g., the carcinogen benzo[a]pyrene), and airborne particulate matter (respiratory irritants). Carbon monoxide, an odorless gas, can be fatal. Nitrogen dioxide can damage the respiratory tract, and sulfur dioxide can irritate the eyes, nose and respiratory tract. Smoke and other particulates irritate the eyes, nose and throat, and can cause lung cancer.

Improper venting and poor maintenance of heating systems and cooking appliances can dramatically increase exposure to combustion products. Experts recommend having combustion heating systems inspected by a trained professional every year to identify blocked openings to flues and chimneys, cracked or disconnected flue pipes, dirty filters, rust or cracks in the heat exchanger, soot or creosote build-up, and exhaust or gas odors. Installing a carbon monoxide detector is also recommended; however, such a detector will not detect other combustion by-products.

Insect and Rodent pests: The observed association between exposure to cockroach antigen and asthma severity has already been noted above. In addition, cockroaches may act as vehicles to contaminate environmental surfaces with certain pathogenic organisms. Rodents can transmit a number of communicable diseases to humans, either through bites, arthropod vectors, or exposure to aerosolized excreta. In addition, humans can become sensitized to proteins in rodent urine, dander and saliva. Such sensitization may contribute to asthma severity among children. Insect and rodent infestation is frequently associated with substandard housing that makes it difficult to eliminate. Treatment of rodent and insect infestations often includes the use of toxic pesticides that may present hazards to occupants (see below). Integrated pest management (IPM) for rodents and cockroaches, which reduces the use of pesticides, is estimated to cost approximately $150 per unit. IPM control measures include sealing holes and cracks, removing food sources and use of traps.

Lead: Exposure to lead, especially from deteriorating lead-based paint, remains one of the most important and best-studied of the household environmental hazards to children. Although blood lead levels have fallen nationally, a large reservoir of lead remains in housing. The most recent national survey, conducted from 1991-94, showed that nearly one million U.S. preschoolers still have elevated blood lead levels. Overall, the prevalence rate among all children under six years of age is 4.4 percent. Among low-income children living in older housing where lead-based paint is most prevalent, the rate climbs to 16 percent; and for African-American children living in such housing, it reaches 21 percent.

HUD estimates that 38 million dwellings have some lead-based paint, and that 26 million have significant lead-based paint hazards. Of those, about 5.7 million have young children and of those, about 1.6 million have household incomes under $30,000 per year. LHC costs can range anywhere from $500 to $15,000 per unit. Corrective measures include paint stabilization, enclosure and removal of certain building components coated with lead paint, and cleanup and “clearance testing,” which ensures the unit is safe for young children.

Mold and moisture: An analysis of several pulmonary disease studies estimates that 25 percent of airways disease, and 60 percent of interstitial lung disease may be associated with moisture in the home or work environment. Moisture is a precursor to the growth of mold and other biological agents, which is also associated with respiratory symptoms. An investigation of a cluster of pulmonary hemosiderosis (PH) cases in infants showed PH was associated with a history of recent water damage to homes and with levels of the mold Stachybotrys atra (SA) in air and cultured surface samples. Associations between exposure to SA and “sick building” symptoms in adults have also been observed. Other related toxigenic fungi have been found in association with SA-associated illness and could play a role. For sensitive individuals, exposure to a wide variety of common molds may also aggravate asthma. Addressing mold problems in housing requires coordination among the medical, public health, microbiological, housing, and building science communities.

The cost of mold/moisture-related intervention work (e.g., IPM, clean and tune furnace, remove debris, vent clothes dryer, cover dirt floor with impermeable vapor barrier) is a few hundred dollars, unless major modification of the ventilation system is needed. For example, in Cleveland, mold interventions, including repairs to ventilation systems and basement flooring, in the most heavily contaminated homes range from $500-$5,000, with some costs also being dedicated to LHC simultaneously through its lead and asthma program.

Pesticide residues: According to the EPA, 75 percent of U.S. households used at least one pesticide product indoors during the past year. Products used most often are insecticides and disinfectants. Another study suggests that 80 percent of most people's exposure to pesticides occurs indoors and that measurable levels of up to a dozen pesticides have been found in the air inside homes. The amount of pesticides found in homes appears to be greater than can be explained by recent pesticide use in those households; other possible sources include contaminated soil or dust that migrates in from outside, stored pesticide containers, and household surfaces that collect and then release the pesticides. Pesticides used in and around the home include products to control insects (insecticides), termites (termiticides), rodents (rodenticides), molds and fungi (fungicides), and microbes (disinfectants). In 1990, the American Association of Poison Control Centers reported that some 79,000 children were involved in common household pesticide poisonings or exposures. In households with children under five years of age, almost half stored at least one pesticide product within the reach of children. Exposure to chlorpyriphos (CP), a commonly used organophosphate insecticide, in the prenatal and early postnatal period may impair neurological development. While CP is a biodegradable pesticide, substantial persistence of CP in house dust has been demonstrated. Exposure to high levels of cyclodiene pesticides, commonly associated with misapplication, has produced various symptoms, including headaches, dizziness, muscle twitching, weakness, tingling sensations, and nausea. In addition, the EPA is concerned that cyclodienes might cause long-term damage to the liver and the central nervous system, as well as an increased risk of cancer.

There are available data on hazard evaluation methods and remediation effectiveness regarding pesticide residues in the home environment.

Radon progeny: The National Academy of Sciences estimates that approximately 15,000 cases of lung cancer per year are related to radon exposure. Epidemiologic studies of miners exposed to high levels of radon in inhaled air have defined the dose response relation for radon-induced lung cancer at high exposure levels. Extrapolation of these data has been used to estimate the excess risk of lung cancer attributable to exposure to radon gas at the lower levels found in homes. These estimates indicate that radon gas is an important cause of lung cancer deaths in the U.S. Excessive exposures are typically related to home ventilation, structural integrity and location.

Radon measurement and remediation methods are well developed, and the Environmental Protection Agency (EPA) recommends that every home be measured for radon. EPA estimates that materials and labor costs for radon reduction in an existing home are $800-$2,500. Including radon resistant techniques in new home construction costs $350-$500, and can save up to $65 annually in energy costs, according to the EPA.

Take-home hazards from work/hobbies and work at home: When the clothing, hair, skin, or shoes of workers become contaminated with hazardous materials in the workplace, such contaminants may inadvertently be carried to the home environment and/or an automobile. Such “take-home” exposures have been demonstrated, for example, in homes of lead-exposed workers. In addition, certain hobbies or workplaces located in the home may provide an especially great risk of household contamination.

Control methods include storing and laundering work clothes separately, and showering and changing clothes before leaving work or immediately after arriving home. Once a home becomes contaminated, cleaning floors and contact surfaces and replacing furnishings may be necessary to reduce exposures.

Unintentional injuries/fire: Unintentional injury is now the leading cause of death and disability among children younger than 15 years of age. In 1997, nearly 7 million persons in the U.S. were disabled for at least one full day by unintentional injuries received at home. During the same year, 28,400 deaths were attributable to unintentional home injuries, of which 1800 occurred among children 0-4 years of age. Among young children, three types of events accounted for more than 75 percent of deaths: fires/ burns; drowning; and mechanical suffocation. Falls and poisoning are the next most common causes of death.

Home visitation protocols have been shown to be effective in reducing exposure to such hazards. The “add-on” cost of injury prevention measures, when combined with other housing interventions are estimated at about $100 per unit. This includes the cost of some injury prevention devices (e.g., smoke alarms, electrical socket covers, etc.).

Appendix B—Relevant Publications and Guidelines

To secure any of the documents listed, call the telephone number provided. If you are a hearing-or speech-impaired person, you may reach the telephone numbers via TTY by calling the toll-free Federal Information Relay Service at 1-800-877-8339. A number of these references are provided on HUD's CD, “Residential Lead Desktop Reference, 3rd Edition.” This CD can be obtained at no charge by calling the National Lead Information Clearinghouse's (NLIC's) toll free number, 1-800-424-LEAD. Several of these references can be downloaded from the Internet without charge from the HUD Office of Healthy Homes and Lead Hazard Control's Internet site, www.hud.gov/offices/lead.

Regulations

1. Worker Protection: The two Occupational and Safety Administration (OSHA) publications listed below can be purchased by calling either OSHA Regulations at 202-693-1888 (OSHA Regulations) (this is not a toll free number) or the Government Printing Office (GPO) at 202-512-1800 (this is not a toll-free number). If you are a hearing-or speech-impaired person, you may reach these telephone numbers via TTY by calling the toll-free Federal Information Relay Service at 1-800-877-8339.

(a) General Industry Lead Standard, 29 CFR 1910.1025 (Document Number 869022001124). This document can be downloaded without charge from the OSHA Web site at: www.osha-slc.gov/OshStd_data/1910_1025.html;

(b) Lead Exposure in Construction, 29 CFR 1926.62, and appendices A, B, C, and D (Document Number 869022001141). This document can be downloaded without charge from the OSHA Web site at: www.osha-slc.gov/OshStd_data/1926_0062.html.

2. Waste Disposal. A copy of the EPA regulations at 40 CFR parts 260-268 can be purchased by calling 1-800-424-9346, or, from the Washington, DC, metropolitan area, 1-703-412-9810 (not a toll-free number). If you are a hearing- or speech-impaired person, you may reach this telephone number via TTY by calling the toll-free Federal Information Relay Service at 1-800-877-8339. The regulations can also be downloaded without charge from the EPA Web site at www.epa.gov/docs/epacfr40/chapt-I.info/subch-I/htm.

3. Lead.

(a) Requirements for Lead-Based Paint Activities in Target Housing and Child-Occupied Facilities; Final Rule: 40 CFR part 745 (EPA) (Lead Hazard Standards, Work Practice Standards, EPA and State Certification and Accreditation Programs for those engaged in lead-based paint activities) can be purchased by calling the Toxic Substances Control Act (TSCA) Hotline at 202-554-1404 (this is not a toll-free number). If you are a hearing- or speech-impaired person, you may reach this telephone number via TTY by calling the toll-free Federal Information Relay Service at 1-800-877-8339. The rule and guidance can be downloaded from the Internet without charge at www.epa.gov/lead/.

(b) Requirements for Notification, Evaluation and Reduction of Lead-Based Paint Hazards in Federally Owned Residential Property and Housing Receiving Federal Assistance; Final Rule: 24 CFR part 35, subparts B through R, published September 15, 1999, at Federal Register pages 50201 through 50231(HUD) can be purchased by calling NLIC's toll-free number (800-424-LEAD) or downloaded without charge from the HUD Web site at www.hud.gov/offices/lead.

(c) Requirements for Disclosure of Information Concerning Lead-Based Paint in Housing, 24 CFR Part 35, Subpart A (HUD, Lead-Based Paint Disclosure Rule) by calling the NLIC's toll free number (800-424-LEAD). If you are a hearing- or speech-impaired person, you may reach this telephone number via TTY by calling the toll-free Federal Information Relay Service at 1-800-877-8339. The rule, guidance, pamphlet and disclosure formats can be downloaded from the HUD Web site at www.hud.gov/offices/lead.

(d) U.S. Environmental Protection Agency. Lead; Identification of Dangerous Levels of Lead; Final Rule at 66 FR 1205-1240, January 5, 2001. This rule and guidance can be obtained without charge by calling the NLIC's toll free number (800-424-LEAD) or by calling the TSCA at: 202-554-1404 (not a toll-free number). The rule and guidance can be downloaded from the EPA Web site at www.epa.gov/lead/leadhaz.htm.

Guidelines

1. Guidelines for the Evaluation and Control of Lead-Based Paint Hazards in Housing; HUD, June 1995, and amended September 1997. These guidelines can be purchased by calling 800-245-2691 toll-free. If you are a hearing- or speech-impaired person, you may reach this telephone number via TTY by calling the toll-free Federal Information Relay Service at 1-800-877-8339. The Guidelines can be downloaded from the HUD Web site without charge at www.hud.gov/offices/lead.

2. Preventing Lead Poisoning in Young Children; Centers for Disease Control, October 1991. These guidelines can be obtained without charge by calling the CDC toll free number at 888-232-6789. If you are a hearing- or speech-impaired person, you may reach this telephone number via TTY by calling the toll-free Federal Information Relay Service at 1-800-877-8339. The guidelines can also be downloaded from the HUD Web site without charge at www.hud.gov/offices/lead.

3. Screening Young Children for Lead Poisoning: Guidance for State and Local Public Health Officials, November 1997; Centers for Disease Control and Prevention (CDC). These guidelines can be obtained without charge by calling the CDC toll free number at 888-232-6789 or they can be downloaded from the HUD Web site at www.hud.gov/offices/lead.

Reports and Articles

1. Putting the Pieces Together: Controlling Lead Hazards in the Nation's Housing, (Summary and Full Report); HUD, July 1995. A copy of this summary and report can be purchased by calling 800-245-2691 toll free or downloaded from the HUD Web site without charge at www.hud.gov/offices/lead.

2. The Healthy Homes Initiative: A Preliminary Plan (Summary and Full Report); HUD, July 1995. A copy of this summary and report can be downloaded from the HUD Web site without charge at www.hud.gov/offices/lead.

3. Institute of Medicine. Indoor Allergens. Assessing and Controlling Adverse Health Effects. National Academy Press. Washington, DC 1993.

4. Mott L., Our Children at Risk. Natural Resources Defense Council. Washington, DC 1997. Can be ordered from the Internet from www.nrdc.org.

5. Rom W.N., Ed. Environmental and Occupational Medicine. Little, Brown and Co., Boston. 1992.

6. President's Task Force on Environmental Health Risks and Safety Risks to Children. Asthma and The Environment: An Action Plan to Protect Children. Washington, DC 1999. Eliminating Childhood Lead Poisoning: A Federal Strategy Targeting Lead Paint Hazards. Washington, DC 2000. Can be downloaded from the Internet without charge from www.epa.gov/children.

7. Morbidity and Mortality Weekly Report (MMWR). Update: Blood Lead Level—United States, 1991-1994. U.S. Department of Health and Human Services, Centers for Disease Control and Prevention. February 21, 1997. Vol. 46, No 7.

8. Jacobs, D.E., R.P. Clickner, J.Y. Zhou, et al., 2002. Prevalence of Lead-Based Paint in U.S. Housing. Env. Health Persp. 110(10): A599-A606.

9. Galke, W., S. Clark, J. Wilson, et al., 2001. Evaluation of the HUD lead hazard control grant program: Early overall findings. Env. Res. 86, 149-156.

BILLING CODE 4210-32-P

Appendix E

This appendix to this NOFA lists the standard forms, certifications and assurances used by the programs that are part of this NOFA. Listed forms are located in Appendix B of the General Section of the SuperNOFA.

The following forms are to be used for the Programs listed in this NOFA

(1) Form HUD-424

(2) Form HUD-424 B

(3) Form HUD-424 C

(4) Form HUD-424 CBW

(5) Form HUD Logic Model Form

(6) Application Checklist and Submission Table of Contents

(7) Ethnicity and Race Data

HUD has consolidated many of its application forms into a single HUD-424 form. The new HUD-424 consolidates budget-reporting forms for both construction and non-construction projects into a single form and eliminates having to have the following separate certifications: Certification for a Drug-Free Workplace (HUD-50070), the Certification of Payments to Influence Federal Transactions (HUD-50071), and the Certification Regarding Debarment and Suspension (HUD-2992).

New form HUD-424 replaces SF-424 and HUD-424 M

HUD-424 B replaces SF-424 B and D, and HUD-50070, 50071 and 2992.

HUD-424 C and CB replaces SF-424 A and C

The HUD-424 CBW is added as a common detailed Budget Worksheet and replaces various budget worksheets used throughout the Department.

Administrative costs that may be applicable to the programs included in this NOFA are discussed below:

Administrative Costs

I. Purpose

The intent of this HUD grant program is to allow the Grantee to be reimbursed for the reasonable direct and indirect costs, subject to a top limit, for overall management of the grant. In most instances the grantee, whether a State or a local government, principally serves as a conduit to pass funding to sub-grantees, which are to be responsible for the conducting lead-hazard reduction work. Congress set a top limit of ten percent of the total grant sum for the grantee to perform the function of overall management of the grant program, including passing on funding to sub-grantees. The cost of that function, for the purpose of this grant, is defined as the “administrative cost” of the grant, and is limited to ten percent of the total grant amount. The balance of ninety percent or more of the total grant sum is reserved sub-grantees or other direct-performers of lead-hazard identification and reduction work. Lead hazard identification and reduction includes, but is not necessarily limited to outreach, training, enrollment, lead paint inspection/risk assessments, interim controls, hazard abatement, clearance documentation, blood lead testing, and public education.

II. Administrative Costs: What They Are Not

For the purposes of this HUD grant program for States and local governments to provide support for the evaluation and reduction of lead-hazards in low- and moderate-income, private target housing, the term “administrative costs” should not be confused with the terms “general and administrative cost,” “indirect costs,” “overhead,” and “burden rate.” These are accounting terms usually represented by a government-accepted standard percentage rate. The percentage rate allocates a fair share of an organization's costs that cannot be attributed to a particular project or department (such as the chief executive's salary or the costs of the organization's headquarters building) to all projects and operating departments (such as the Fire Department, the Police Department, the Community Development Department, the Health Department or this program). Such allocated costs are added to those projects' or departments' direct costs to determine their total costs to the organization.

III. Administrative Costs: What They Are

For the purposes of this HUD grant program, “Administrative Costs” are the grantee's allowable direct costs for the overall management of the grant program plus the allocable indirect costs. The allowable limit of such costs that can be reimbursed under this program is ten (10) percent of the total grant sum. Should the grantee's actual costs for overall management of the grant program exceed ten percent of the total grant sum, those excess costs shall be paid for by the grantee. However, excess costs paid for by the grantee may be shown as part of the requirement for cost-sharing funds to support the grant.

IV. Administrative Costs: Definition

A. General

Administrative costs are the allowable, reasonable, and allocable direct and indirect costs related to the overall management of the HUD grant for lead-hazard reduction activities. Those costs shall be segregated in a separate cost center within the grantee's accounting system, and they are eligible costs for reimbursement as part of the grant, subject to the ten percent limit. Such administrative costs do not include any of the staff and overhead costs directly arising from specific sub-grantee program activities eligible under Section III(B) of this program section of this SuperNOFA, because those costs are eligible for reimbursement under a separate cost center as a direct part of project activities.

The grantee may elect to serve solely as a conduit to sub-grantees, who will in turn perform the direct program activities eligible under Section III(B) of this program section of this NOFA, or the grantee may elect to perform all or a part of the direct program activities in other parts of its own organization, which shall have their own segregated, cost centers for those direct program activities. In either case, not more than 10 percent of the total HUD grant sum may be devoted to administrative costs, and not less than 90% of the total grant sum shall be devoted to direct program activities. The grantee shall take care not to mix or attribute administrative costs to the direct project cost centers.

B. Specific

Reasonable costs for the grantee's overall grant management, coordination, monitoring, and evaluation are eligible administrative costs. Subject to the ten percent limit, such costs include, but are not limited to, necessary expenditures for the following goods, activities and services:

(1) Salaries, wages, and related costs of the grantee's staff, the staff of affiliated public agencies, or other staff engaged in grantee's overall grant management activities. In charging costs to this category the recipient may either include the entire salary, wages, and related costs allocable to the program for each person whose primary responsibilities (more than 65% of their time) with regard to the grant program involve direct overall grant management assignments, or the pro rata share of the salary, wages, and related costs of each person whose job includes any overall grant management assignments. The grantee may use only one of these two methods during this program. Overall grant management includes the following types of activities:

(a) Preparing grantee program budgets and schedules, and amendments thereto;

(b) Developing systems for the selection and award of funding to sub-grantees and other sub-recipients;

(c) Developing suitable agreements for use with sub-grantees and other sub-recipients to carry out grant activities;

(d) Developing systems for assuring compliance with program requirements;

(e) Monitoring sub-grantee and sub-recipient activities for progress and compliance with program requirements;

(f) Preparing presentations, reports, and other documents related to the program for submission to HUD;

(g) Evaluating program results against stated objectives;

(h) Providing local officials and citizens with information about the overall grant program; however, a more general education program, helping the public understand the nature of lead hazards, lead hazard reduction, blood-lead screening, and the health consequences of lead poisoning is a direct project support activity);

(i) Coordinating the resolution of overall grant audit and monitoring findings; and

(j) Managing or supervising persons whose responsibilities with regard to the program include such assignments as those described in paragraphs (a) through (i).

(2) Travel costs incurred for official business in carrying out the overall grant management;

(3) Administrative services performed under third party contracts or agreements, for services directly allocable to grant management such as: legal services, accounting services, and audit services;

(4) Other costs for goods and services required for and directly related to the overall management of the grant program; and including such goods and services as telephone, postage, rental of equipment, renter's insurance for the program management space, utilities, office supplies, and rental and maintenance (but not purchase) of office space for the program.

(5) The fair and allocable share of grantee's general costs that are not directly attributable to specific projects or operating departments such as salaries, office expenses and other related costs for local officials (e.g., mayor and city council members, etc.), and expenses for a city's legal or accounting department which are not charged back to particular projects or other operating departments. If a grantee has an established burden rate, it should be used; if not, the grantee shall be assigned a negotiated provisional burden rate, subject to final audit.

BILLING CODE 4210-32-P

Funding Availability for the Healthy Homes Demonstration Program

PROGRAM OVERVIEW

Purpose of the Program. The purpose of the Healthy Homes Demonstration Program is to develop, demonstrate and promote cost-effective, preventive measures to correct multiple safety and health hazards in the home environment that produce serious diseases and injuries in children of low-income families. HUD is interested in reducing health threats to the maximum number of residents, especially children, in a cost efficient manner.

Available Funds. Approximately $5 million in Fiscal Year 2003 funds.

Eligible Applicants. Not-for-profit institutions, and for-profit firms located in the U.S., Native American Tribes, State and local governments, and federally recognized Indian Tribes are eligible to apply. For-profit firms are not allowed to include a fee in the cost proposal (i.e., no profit can be made from the project). Federal agencies and federal employees are not eligible to apply for this program.

Application Due Date: June 10, 2003.

Match. None required.

Additional Information

I. Application Due Date and Technical Assistance

If you are interested in applying for funding under this program, please carefully review the General Section of this SuperNOFA and the following additional information.

Application Due Date. You must submit a completed application to HUD on or before the respective program's application due date. The application due date for all programs contained in this NOFA is July 9, 2003.

Application Submission Procedures. See the General Section of this SuperNOFA for specific procedures concerning the form of application submission (e.g., mailed applications, express mail or overnight delivery). Be advised that there is no Application Kit. All of the information required for submitting an application is contained in this NOFA.

Addresses. You must submit a complete application to, Department of Housing and Urban Development, Office of Healthy Homes and Lead Hazard Control, ATTN: Healthy Homes Demonstration Program, 451 Seventh Street, SW, Room P3206, Washington, DC 20410.

For Further Information and Technical Assistance. You may contact Ellen R. Taylor, Director, Healthy Homes Division, Office of Healthy Homes and Lead Hazard Control, at the address above; telephone (202) 755-1785, extension 116 (this is not a toll-free number). If you are hearing-or speech-impaired, you may reach the above telephone number via TTY by calling the toll-free Federal Information Relay Service at 1-800-877-8339.

II. Authority, Funding Amounts, And Amount Of Funds Allocated

(A) Authority. The authority for this program is Sections 501 and 502 of the Housing and Urban Development Act of 1970 and the Consolidated Appropriations Resolution of 2003, Public Law 108-7, approved February 20, 2003.

(B) Funding Available and Eligibility. Approximately $5 million in Fiscal Year 2003 will be available for the Healthy Homes Demonstration Program Grants will be awarded on a competitive basis following evaluation of all proposals according to the rating factors described in the General Section of this SuperNOFA. HUD anticipates that approximately six to eight grants will be awarded, ranging from approximately $250,000 to approximately $1,000,000 each. A minimum score of 75 is required for award consideration.

III. Eligible Applicants and Activities

(A) Program Description

(1) Background. The Healthy Homes Demonstration Program is a part of HUD's Healthy Homes Initiative (HHI). The HHI departs from the more traditional approach of attempting to correct one hazard at a time (e.g., asbestos, radon). In April 1999, HUD submitted to Congress a preliminary plan containing a full description of the HHI. This description (Summary and Full Report) is available on the HUD website at www.hud.gov.

The HHI builds upon HUD's existing housing-related health and safety issues, including lead hazard control, building structural safety, electrical safety, and fire protection to address multiple childhood diseases and injuries, such as asthma, mold-induced illness, carbon monoxide poisoning, and other conditions, related to housing in a more coordinated fashion. A coordinated effort is feasible because a limited number of building deficiencies contribute to many hazards. Substantial savings are possible using this approach, because separate visits to a home by an inspector, public health nurse, or outreach worker can add significant costs to efforts to eliminate hazards. A description of the HHI program, and a link to its website, are available at www.hud.gov.

In addition to deficiencies in basic housing facilities that may impact health, changes in the U.S. housing stock and more sophisticated epidemiological methods and biomedical research have led to the identification of new and often more subtle health hazards in the residential environment. While such hazards will tend to be found disproportionately in housing that is substandard (e.g., structural problems, lack of adequate heat, etc.), such housing-related environmental hazards may also exist in housing that is otherwise of good quality. Appendix A of this NOFA briefly describes the housing-associated health and injury hazards HUD considers key targets for intervention. Appendix D lists references that serve as the basis for the information provided in the Healthy Homes Demonstration Program.

HUD is interested in promoting approaches that are cost-effective and efficient and that result in the reduction of health threats for the maximum number of residents for the long run, and, in particular, for children in low-income families. Section II of the General Section of the SuperNOFA presents Policy Priorities. The overall goals and objectives of the HHI are to:

(a) Mobilize public and private resources, involving cooperation among all levels of government, the private sector, and faith-based and other community-based organizations to develop the most promising, cost-effective methods for identifying and controlling housing-based hazards;

(b) Build local capacity to operate sustainable programs that will prevent and control housing-based hazards in low- and very low-income residences when HUD funding is exhausted; and

(c) Affirmatively further fair housing and environmental justice.

(2) Healthy Homes Demonstration Activities. Through the Healthy Homes Demonstration program, HUD will initiate competitive projects to promote implementation of available risk reduction techniques for the control of key hazards described in Appendix A. HUD will award demonstration projects that implement housing assessment, maintenance, renovation and construction techniques to identify and correct housing-related illness and injury risk factors, and disseminate healthy homes information and replicate successful interventions.

HUD will evaluate proposals based on the elements described below. Applicants are required to be specific as to the locations where they are targeting their intervention activities to occur, the residents, individuals, or groups targeted to receive interventions, and the organizations targeted to continue to operate effective intervention strategies over the life of the award and thereafter.

The objectives of the Healthy Homes Demonstration program include:

(a) Identification of target areas and homes where assessment and interventions will occur;

(b) Identification and evaluation of effective methods of hazard abatement and risk reduction;

(c) Development of appropriately-scaled, flexible, cost-effective and efficient intervention strategies that take into account the range of conditions likely to be encountered in housing and that maximize the number of housing units that receive an intervention;

(d) Development of methodologies for evaluating intervention effectiveness;

(e) Development of local capacity in target areas and training programs for target groups to operate sustainable programs to prevent and control housing-based hazards, especially in low- and very low-income residences;

(f) Development of a cost-effective protocol for identifying homes that are candidates for interventions, identifying hazards in these homes, and screening out homes where structural or other condition factors (e.g., cost) make interventions infeasible or impractical;

(g) Development and delivery of public outreach programs that provide information about effective methods for preventing housing-related childhood diseases and injuries and for promoting the use of these interventions;

(h) Targeting, through education and outreach, specific high-risk communities and other identified audiences such as homeowners, landlords, health care deliverers, pregnant women, children, residential construction contractors, maintenance personnel, housing inspectors, real estate professionals, home buyers, and low-income minority families;

(i) Implementation of media strategies to use print, radio and television to increase public awareness of housing-related hazards that threaten children, including the use of minority media, nonprofit organizations that work with persons with disabilities, and advocates for racial and ethnic minorities, and faith-based organizations;

(j) Dissemination of existing tools and, as needed, new tools to inform parents and caregivers about housing-related hazards and enable them to take prompt corrective action; and

(k) Development of training programs for Healthy Homes activities to emphasize assessment and intervention methods applicable to public and private housing in the target area.

(B) Eligible Applicants

Not-for-profit institutions, including faith-based and community-based organizations, and for-profit firms located in the U.S., state and local governments, and federally recognized Indian Tribes are eligible to apply. For-profit firms are not allowed to include a fee in the cost proposal (i.e., no profit can be made from the project). Federal agencies and federal employees are not eligible to apply for this program.

(C) Eligible Activities

The following direct activities and support activities are eligible under this grant program.

(1) Direct Project Elements. These include activities that you may undertake directly, or through sub-recipients, such as:

(a) Performing evaluations of eligible housing to determine the presence of housing-based hazards (e.g., mold growth, allergens, unvented appliances, exposed steam pipes or radiators, deteriorated lead-based paint) through the use of generally accepted testing procedures.

(b) Conducting housing interventions to remediate existing housing-based hazards and address conditions that could result in their recurrence. Any lead hazard evaluation and control work shall be conducted by persons qualified for the activities according to 24 CFR part 35, especially sections 35.1325 for abatement and 35.1330 for interim controls. Qualified persons must possess certification as abatement contractors, risk assessors, inspectors, abatement workers, or sampling technicians, or otherwise having been trained in a HUD-approved course in lead-safe work practices. You may refer to the HUD Guidelines for the Evaluation and Control of Lead-Based Paint Hazards in Housing (Guidelines) for additional information. The Guidelines and/or applicable regulations may be downloaded from the Office of Healthy Homes and Lead Hazard Control's homepage, linked to HUD's website at www.hud.gov. All pest control activities shall incorporate the principles and methods of integrated pest management (IPM). In technical terms, IPM is the coordinated use of pest and environmental information with available pest control methods to prevent unacceptable levels of pest damage by the most economical means and with the least possible hazard to people, property, and the environment. (One information source is the University of Minnesota's electronic textbook of Integrated Pest Management, available at http://ipmworld.umn.edu/textbook.htm.)

(c) Undertaking housing rehabilitation activities that are specifically required to carry out effective control of housing-based hazards, and without which the intervention could not be completed and maintained. Funds under this program may also be used to control lead-based paint hazards; however, such controls may not be a principal focus of the grant. Lead hazard control activities are carried out under HUD's Lead-Based Paint Hazard Control Grant Program.

(d) Carrying out relocation of families and individuals, when necessary, during the period in which intervention is conducted and until the time the affected unit receives clearance for re-occupancy. Residents relocated must be guaranteed the choice of returning to the unit after the intervention.

(e) If medical examinations of young children for conditions caused or exacerbated by exposure to hazards are demonstrated to be critical to the outcome of your project, and there are no alternative sources to cover these costs, conducting such examinations.

(f) Environmental sampling and medical testing recommended by a physician or applicable occupational or public health agency to protect the health of the intervention workers, supervisors, and contractors, unless reimbursable from another source.

(g) Conducting testing and analysis for lead, mold, carbon monoxide and/or other toxins as appropriate, with respect to generally accepted standards or criteria, or where not available, other appropriate levels justified in conjunction with the project. Clearance dust samples related to lead-based paint must be analyzed by a laboratory recognized by the Environmental Protection Agency's (EPA's) National Lead Laboratory Accreditation Program (NLLAP). All tests results related to lead-based paint must be provided to the owner of the unit, together with a notice describing the owner's legal duty to disclose the results to tenants and buyers.

(h) Carrying out architectural, engineering and work specification development and other construction management services to control housing-based hazards and remediate existing hazards.

(i) Providing training on Healthy Homes practices to homeowners, renters, painters, remodelers, and housing maintenance staff working in low-or very low-income housing.

(j) Providing cleaning supplies for hazard intervention and hazard control to faith-based and other community-based organizations for use by homeowners and tenants in low-income housing, or to such homeowners and tenants directly. (See Section II of the General Section of the SuperNOFA for more information about faith-based and other community-based organizations.)

(k) Conducting general or targeted community education programs on environmental health and safety hazards. This activity would include training on Healthy Homes maintenance and renovation practices, among other topics. It would also include making materials available, upon request, in alternative formats for persons with disabilities (e.g., Braille, audio, large type), and in languages other than English that are common in the community, whenever possible.

(l) Securing liability insurance for hazard evaluation and control activities to be performed. This activity is not an administrative activity.

(m) Supporting data collection, analysis, and evaluation of project activities. As a condition of the receipt of financial assistance under this NOFA all successful applicants will be required to cooperate with all HUD staff and contractors performing HUD funded research and evaluation studies. Maintaining a registry of housing units in which housing-based hazards were not found during evaluation, and those in which such problems have been controlled.

(n) Preparing quarterly progress reports and an overall final grant report detailing activities (e.g., number of units tested, hazards found, types of interventions provided, evaluation of the most cost-efficient methodologies by type of unit), findings, and recommended future actions for cost-effective interventions at the conclusion of grant activities.

(2) Support Elements

(a) Your administrative costs. There is a 10 percent maximum allowance for administrative costs. Specific information about administrative costs is included in Appendix F of this NOFA.

(b) Program planning and management costs of sub-grantees and other sub-recipients.

(D) Ineligible Activities

(1) Purchase of Real Property

(2) Purchase or lease of equipment having a per unit cost in excess of $5,000, unless prior written approval is obtained from HUD.

(3) Medical treatment costs, except as specified in Section III (C)(1)(e) above.

IV. Requirements

In addition to requirements listed in the General Section of the SuperNOFA, you, the applicant, must comply with the requirements listed below:

(A) Threshold Requirements

As an applicant, you must meet all of the threshold requirements Section V (B) of the General Section of the SuperNOFA. Threshold requirements include Ineligible Applicants, Compliance with Fair Housing and Civil Rights Laws, Conducting Business in Accordance with Core Values and Ethical Standards, Delinquent Federal Debts and Pre-Award Accounting System Surveys. Information about threshold requirements is provided in Section (V)(B) of the General Section of the SuperNOFA. These requirements include the requirement to affirmatively further fair housing (AFFH) in accordance with paragraph V(D) of the General Section of the SuperNOFA. Applications that meet all of the threshold requirements will be eligible to be scored and ranked based on the total number of points allocated for each of the rating factors described below. Your application must receive a total score of at least 75 points to be considered for funding. Applications will not be rated or ranked if they do not meet the threshold requirements of the General Section of the SuperNOFA.

(B) Program Requirements

(1) Work Activities. All lead hazard control activities must be conducted in compliance with the applicable requirements of HUD's Lead-Safe Housing Rule, 24 CFR part 35, and as clarified in HUD's Interpretive Guidance about this rule. Activities must also comply with any additional requirements in effect under a State or Native American Tribal Lead-Based Paint Training and Certification Program that has been authorized by the EPA pursuant to 40 CFR 745.320.

(2) Budgeting.

(a) Matching Requirement. You are not required to provide a matching contribution in the Healthy Homes Demonstration Program.

(b) Administrative Costs. There is a 10 percent maximum allowance for administrative costs as specified in Section 1011(j) of the Residential Lead-Based Paint Hazard Reduction Act of 1992 (Title X of the Housing and Community Development Act of 1992, Public Law 102-550). Additional information about allowable administrative costs is provided in Appendix F of this NOFA.

(3) Period of Performance. The period of performance cannot exceed 36 months from the time of the award.

(4) Program Performance. Grantees shall take all reasonable steps to accomplish all healthy homes activities within the approved period of performance. HUD will closely monitor the grantee's performance with particular attention to completion of specified activities, deliverables and milestones, and number of units proposed to be assessed or receive interventions within the approved period of performance. HUD reserves the right to terminate the grant prior to the expiration of the period of performance if the grantee fails to meet 25 percent of the milestones, including all deliverables, as scheduled in their work plan.

(5) Certified and Trained Providers. Lead hazard control activities must be conducted by persons qualified for the activities according to 24 CFR part 35 (possessing certification as abatement contractors, risk assessors, inspectors, abatement workers, or sampling technicians, or others having been trained in a HUD-approved course in lead-safe work practices).

(6) Coastal Barrier Resources Act. Pursuant to the Coastal Barrier Resources Act (16 U.S.C. 3501), funds may not be used for properties located in the Coastal Barrier Resources System.

(7) Flood Disaster Protection Act. Under the Flood Disaster Protection Act of 1973 (42 U.S.C. 4001-4128), funds may not be used for construction, reconstruction, repair or improvement of a building or mobile home which is located in an area identified by the Federal Emergency Management Agency (FEMA) as having special flood hazards unless:

(a) The community in which the area is situated is participating in the National Flood Insurance Program in accordance with the applicable regulations (44 CFR parts 59-79), or less than a year has passed since FEMA notification regarding these hazards; and

(b) Where the community is participating in the National Flood Insurance Program, flood insurance on the property is obtained in accordance with section 102(a) of the Flood Disaster Protection Act (42 U.S.C. 4012a(a)). You are responsible for assuring that flood insurance is obtained and maintained for the appropriate amount and term.

(8) National Historic Preservation Act. The National Historic Preservation Act of 1966 (16 U.S.C. 470) (NHPA) and the regulations at 36 CFR part 800 apply to the mold intervention and related hazard control activities that are undertaken pursuant to this program. HUD and the Advisory Council for Historic Preservation have developed an optional Model Agreement for use by grantees and State Historic Preservation Officers in carrying out any lead hazard control activities under this program. A Model Agreement (Prototype Programmatic Agreement) is available at the Office of Healthy Homes and Lead Hazard Control's Web site, linked to http://www.hud.gov.

(9) Waste Disposal. Waste disposal will be handled according to the requirements of the Occupational Health and Safety Administration (OSHA) (e.g., 29 CFR part 1910 and/or 1926, as applicable), the EPA (e.g., 40 CFR parts 61, 260-282, 300-374, and/or 700-799, as applicable), the Department of Transportation (e.g., 49 CFR parts 171-177), and/or appropriate State or local regulatory agencies and applicable EPA, HUD, State and local regulatory agency guidance. You must handle disposal of wastes from hazard control activities that contain lead-based paint, but are not classified as hazardous in accordance with State or local law or the HUD Guidelines for the Evaluation and Control of Lead-Based Hazards in Housing (HUD Guidelines). The HUD Guidelines may be downloaded from the HUD Web site at http://www.hud.gov.

(10) Worker Protection Procedures. You must comply with the procedures for worker protection established in the HUD Guidelines as well as the requirements of the OHSA, e.g., 29 CFR part 1910 and/or 1926, as applicable, or the state or local occupational safety and health regulations, whichever are more stringent.

(11) Written Policies and Procedures. You must have written policies and procedures for all phases of intervention, including evaluation, development of specifications, financing, occupant relocation, independent project inspection, and clearance testing (e.g., for mold, lead, carbon monoxide or other hazards, as applicable). You and all your subcontractors, sub-recipients, and their contractors must comply with these policies and procedures.

(12) Clearance Testing for Lead Hazard Control Activities. Clearance dust testing must be conducted according to the EPA lead hazards standards rule (40 CFR part 745) for abatement projects and the Lead-Safe Housing rule (24 CFR part 35) for lead hazard control activities other than abatement. These are available at http://www.epa.gov/lead and http://www.hud.gov, respectively.

(13) Continued Availability of Safe Housing to Low-Income Families. Units in which housing-based hazards have been controlled under this program shall be occupied by and/or continue to be available to low-income residents for not less than three years following the completion of intervention activities.

(14) Environmental Review. See Section VIII (Environmental Requirements) of this program section.

(15) Relocation. Any person (including individuals, partnerships, corporations or associations) who moves from real property or moves personal property from real property directly (1) because of a written notice to acquire real property, in whole or in part, or (2) because of the acquisition of the real property, in whole or in part, for a HUD-assisted activity, is covered by Federal relocation statutes and regulations. Specifically, this type of move is covered by the acquisition policies and procedures and the relocation requirements of the Uniform Relocation Assistance and Real Property Acquisition Policies Act of 1970 URA, as amended, and the implementing government-wide regulation at 49 CFR part 24. The relocation requirements of the URA and the government-wide regulations cover any person who moves permanently from real property or moves personal property from real property directly because of acquisition, rehabilitation or demolition for an activity undertaken with HUD assistance. See Section V(G) of the General Section of the SuperNOFA for additional information about relocation.

(16) Data Collection and Provision. You must collect, maintain and provide to HUD the data necessary to document the various approaches used to evaluate and control housing-based hazards, including evaluation and control methods, building conditions, medical and familial information (with confidentiality of individually-identifiable information ensured) in order to determine the effectiveness and relative cost of these methods.

(17) Section 3 Employment Opportunities. Recipients of assistance in the Healthy Homes Demonstration Program must comply with Section 3 of the Housing and Urban Development Act of 1968, 12 U.S.C. 1701u (Economic Opportunities for Low- and Very Low-Income Persons in Connection with Assisted Projects) and the HUD regulations at 24 CFR part 135, including the reporting requirements of subpart E. Please see section V(E) of the General Section of the SuperNOFA for additional information about section 3 requirements.

(18) Certifications and Assurances. You must include the certifications and assurances listed in section V (H) of the General Section of this SuperNOFA with your application. A Certification of Consistency with the Consolidated Plan is not required for the Healthy Homes Demonstration NOFA.

(19) Davis-Bacon Act. The Davis-Bacon Act does not apply to this program. However, if program funds are used in conjunction with other Federal programs in which Davis-Bacon prevailing wage rates apply, then Davis-Bacon provisions would apply to the extent required under the other Federal programs.

(20) Conducting Business in Accordance with HUD Core Values and Ethical Standards. If awarded assistance under the Healthy Homes Demonstration NOFA, you will be required, prior to entering into a grant agreement with HUD, to submit a copy of your code of conduct and describe the methods you will use to ensure that all officers, employees, and agents of your organization are aware of your code of conduct. See section V(B)(3) of the General Section of the SuperNOFA for information about conducting business in accordance with HUD's core values and ethical standards.

(21) Ensuring the Participation of Small Businesses, Small Disadvantaged Businesses, and Women-Owned Businesses. HUD is committed to ensuring that small businesses, small disadvantaged businesses and women-owned businesses participate fully in HUD's direct contracting and in contracting opportunities generated by HUD grant funds. Too often, these businesses still experience difficulty accessing information and successfully bidding on Federal contracts. HUD regulations at 24 CFR 85.36(e) require recipients of assistance (grantees and sub-grantees) to take all necessary affirmative steps in contracting for purchase of goods or services to assure that minority firms, women's business enterprises, and labor surplus area firms are used when possible. Affirmative steps shall include:

(a) Placing qualified small and minority businesses and women's business enterprises on solicitation lists;

(b) Assuring that small and minority business and women's business enterprises are solicited whenever they are potential sources;

(c) Dividing total requirements, when economically feasible, into smaller tasks or quantities to permit maximum participation by small and minority business and women's business enterprises;

(d) Establishing delivery schedules, where the requirement permits, which encourage participation by small and minority business and women's business enterprises;

(e) Using the services and assistance of the Small Business Administration and the Minority Business Development Agency of the Department of Commerce; and

(f) Requiring the prime contractor, if subcontracts are to be let, to take the affirmative steps listed in paragraphs (V) (a) through (e) above.

Refer to section V(F) the General Section of the SuperNOFA for additional information.

(22) Human Subjects Research. In conformance with the Common Rule (Federal Policy for the Protection of Human Subjects, codified by HUD at 21 CFR part 60), if your research involves human subjects, your organization must provide an assurance (e.g., a letter signed by an appropriate official) that the research has been reviewed and approved by an Institutional Review Board (IRB) before you can receive funds from HUD for activities that require IRB approval. Before proceeding with activities that require IRB approval, you must provide the number for your organization's assurance (i.e., an “institutional assurance”) that has been approved by the Department of Health and Human Service's Office of Human Research Protections (OHRP). For additional information on what constitutes human subject research or how to obtain an institutional assurance see the OHRP Web site at http://www.ohrp.osophs.dhhs.gov.

V. Application Selection Process

(A) Rating and Ranking. Please see section VI of the General Section of the SuperNOFA. Only those applications that meet the threshold requirements will be rated and ranked. HUD intends to award the highest ranked applications receiving a minimum score of 75 within the limits of funding.

In evaluating applications for funding, HUD will take into account an applicant's past performance in managing funds, including the ability to account for funds appropriately; timely use of funds received either from HUD or other Federal, State or local programs; meeting performance targets for completion of activities and number of persons to be served or targeted for assistance. HUD may use information relating to these items based on information at hand or available from public sources such as newspapers, Inspector General or Government Accounting Office Reports or Findings, hotline complaints that have been proven to have merit, or other such sources of information. In evaluating past performance, HUD may elect to deduct points from the rating score as specified under the Factors for Award or set threshold levels for performance as specified in the funding announcement.

(B) Factors for Award Used to Evaluate and Rate Applications. The factors for rating and ranking applicants, and maximum points for each factor, are stated below. The maximum number of points to be awarded is 102, including the potential for two bonus points for RC/EZ/EC, as described in the section VI (C) (1) of the General Section of the SuperNOFA.

Rating Factor 1: Capacity of the Applicant and Relevant Organizational Experience (20 Points)

This factor addresses your organizational capacity necessary to successfully implement your proposed activities in a timely manner. The rating of you or your staff includes any faith-based and other community-based organizations, sub-contractors, consultants, sub-recipients, and members of consortia that are firmly committed to your project. Applicants that are, or propose to either partner, fund, or sub-contract with grassroots organizations, including faith-based and other community-based non-profits, in conducting their work programs will receive higher rating points as specified in section II of the General Section of the SuperNOFA. In rating this factor, HUD will consider the four items listed below.

(1) Your recent, relevant and successful demonstrated experience in undertaking eligible program activities. You must describe the knowledge and experience of the proposed overall project director and day-to-day project manager in planning and managing large and complex interdisciplinary programs, especially those involving housing, public health, or environmental programs. In your narrative response for this factor, you should include information on your project staff, their experience, percentage commitment to the project, and position titles. Resumes of up to three pages each and position descriptions for up to three key personnel in addition to the project director and project manager, and a clearly delineated organizational chart for the Healthy Homes project you propose, must be included in Appendix 1 of your application. Position descriptions and copies of job announcements (including salary range) should be included for any key positions that are currently vacant or contingent upon an award. Indicate the name of the position of key personnel, the percentage of time that proposed staff will devote to your project and any salary costs to be paid by funds from this program. Include descriptions of the experience and qualifications of subcontractors and consultants. You may find it useful to include a table indicating the name, position and percentage contribution of staff members, specifying organizational affiliation. HUD reserves the right to terminate grant awards made to applicants that fail to timely hire (within 120 days of award) staff to fill key positions identified in the applicant's proposal as vacant.

(2) Your qualifications to carry out the proposed activities as evidenced by experience, academic background, training, and/or relevant publications of project staff. Whether you have sufficient personnel, or will be able to quickly retain qualified experts or professionals to begin your proposed project immediately, and to perform your proposed activities in a timely and effective fashion. Describe how principal components of your organization will participate in, or support, your project. You should thoroughly describe capacity, as demonstrated by experience in initiating and implementing related environmental, health, or housing projects.

(3) The past performance of the organization (applicant or partners) in another Healthy Homes or Lead Hazard Control grant, another grant related to environmental health and safety issues, or other experience in a similar program. Provide details about the nature of the project, the funding agency, and your performance, relative to performance measures or the achievement of desired health outcomes.

(4) If your organization is an existing Healthy Homes grantee, provide a description of the progress and outcomes achieved in that grant. If you received previous Healthy Homes Demonstration funding, this experience will be evaluated in terms of cumulative progress and achievements under the previous grant.

Appendix B provides a sample worksheet to facilitate your response to this Rating Factor.

Rating Factor 2: Need/Extent of the Problem (15 Points)

This factor addresses the extent to which there is a need for your proposed project activities to address documented problems related to healthy homes issues and housing-related hazards in your target area(s) and target group(s).

(1) Document a critical level of need for your proposed activities in the area where activities will be performed. You should pay specific attention to documenting the need as it applies to your target area(s), rather than the larger geographic area.

(2) Your documentation should summarize available data linking housing-based hazards to disease or injuries to children in your target area(s). Examples of data that might be used to demonstrate need include:

(a) Economic and demographic data relevant to your target area(s), including poverty and unemployment rates;

(b) Rates of childhood illnesses (e.g., asthma, allergies, hypertension, elevated blood lead levels) or injuries (e.g., falls, burns) among children residing in your target areas that could be caused or exacerbated by exposure to conditions in the home environment; and

(c) Unavailability of other Federal, State or local funding or private sector resources that could be, or are being, used to address the problem. Document what funding sources were investigated and why there were inadequate.

(3) For the areas targeted for your project activities, provide data available in your jurisdiction's currently approved Consolidated Plan and the Analysis of Impediments to Fair Housing Choice (AI) or Indian Housing Plan or derived from current census data or from other sources. Provide and reference data that address the following:

(a) The age and condition of housing;

(b) The number and percentage of low- and very low-income families with incomes less than 50 percent and 80 percent of the median income, respectively, as determined by HUD, for the area, with adjustments for smaller and larger families. Statistics that describe low- and very-low income families are available at http://www.huduser.org/datasets/il/fmr00/sect82.html. Additional census statistics are available at: http://www.census.gov/hhes/www/income00.html, http://www.census.gov/hhes/income/income00/statemhi.html, and http://www.huduser.org/datasets/il/fmr00/index.html;

(c) To the extent that statistics and other data contained in your community's Consolidated Plan or AI support the extent of the problem, you should include references to the Consolidated Plan or AI in your response; and

(d) Data documenting targeted groups that are traditionally underserved or have special needs. For a maximum score in this rating factor, data provided should specifically represent the target area. If the data presented in your response does not specifically represent your target area, you should discuss why the target areas are being proposed. If your application addresses needs that are in the Consolidated Plan or AI, you will receive more points than applicants that do not relate their project to a previously identified need.

Sample worksheets are provided at Appendix B to facilitate your response to Rating Factor 2.

Rating Factor 3: Soundness of Approach (40 Points)

This factor addresses the quality and cost-effectiveness of your proposed work plan. You should present information on the proposed approach for addressing housing-based hazards and describe how proposed activities would help HUD achieve its goals for this program area. For you to receive maximum points for this factor, there must be a direct relationship between the proposed activities, documented and demonstrated community needs, and the purpose of the project. Your application will be evaluated according to the comprehensiveness of addressing activities that are applicable to your project. The response to this factor should include details about your technical approach and project activities. HUD is looking for a clear statement of activities, timeline form completing the work and expected deliverables, including any quantitative deliverables.

(1) Approach for Implementing the Project (25 points).

(a) Technical Approach. Describe your overall technical approach for strategizing and implementing your proposed project. Your narrative response to this sub-factor will be used to assess how well your proposed project will be executed. The discussion must include a work plan of essential elements, such as who, what, when, where and how the project will be performed and provide information about the execution of the project. In this factor, describe the methods, schedule, and quality assurance activities that will be carried out to identify and control housing-based hazards and to achieve the desired project outcomes.

(b) Project Activities. Your project description must include a discussion of specific planned project activities that address one or more of the following activities.

(i) Describe in detail how you will identify, select, prioritize, and enroll units of eligible housing in which you will undertake housing-based hazard interventions, how you will integrate safe work practices into housing maintenance, repair, and improvements, and then target such units to low-income families with young children. Describe impediments that you anticipate for recruitment, measures you will perform to sustain recruitment, and the staff responsible for both monitoring recruitment status and implementing the measures identified to sustain recruitment. You should use all reasonably available sources of information on controlling housing-based hazards in buildings and protecting workers and occupants during and after the intervention process.

(ii) Describe any assessment tools you would employ to establish baseline data. These tools include questionnaires, visual assessment protocols and environmental sampling and analysis. Include a description of the Informed Consent/Disclosure process you intend to follow and relevant Institutional Review Board (IRB) procedures. In particular, describe how you will provide informed consent (e.g., from the subjects, and their parents and guardians, as applicable) to help ensure their understanding of, and consent to, the elements of informed consent, such as the purposes, benefits and risks of the research activities. Describe how this information will be provided and how the consent will be collected. For example, describe the use of “plain language” forms, flyers, and verbal scripts, and your plans to work with families with Limited English Proficiency or primary languages other than English, and with families including persons with disabilities.

(iii) Describe your process for evaluating units of eligible housing in which you will undertake housing-based hazard interventions. Provide the estimated total number of owner-occupied and/or rental units in which you will perform assessments and conduct interventions.

(iv) Describe any specialized testing, if any, or visual inspection that you will conduct during unit inspection with reference to source(s) of the protocol(s). Provide a description of protocols or include protocols in an appendix of your application.

(v) Discuss efforts to incorporate cost-effective methods to address multiple environmental health and safety hazards, and describe the specific interventions you will utilize to control housing-based hazards before children are affected; and/or to control these hazards in units where children have already been treated for illnesses or injuries associated with housing-based hazards (e.g., burns, lead poisoning, asthma). Provide an estimate of the cost of each intervention and an estimate of costs projected per unit. (You may want to provide these cost estimates in a tabular format.)

(vi) Describe the process for your referral of children for medical case management if this is not ongoing and the organizations that will be involved in this process.

(vii) Describe your process for the development of work specifications for the selected interventions.

(viii) Describe your management processes to be used to ensure the cost-effectiveness of the housing interventions.

(ix) Discuss your process to select and obtain contractors for conducting interventions in selected units and provide details about the competitive bidding process, if applicable.

(x) Describe your plan for the relocation of occupants of units selected for intervention, if relocation is necessary. Describe criteria that will determine the need for relocation and identify staff who will make relocation decisions. Address the use of safe houses and other housing arrangements, storage of household goods, stipends, incentives, etc., and the source of funding for relocation.

(xi) Describe your plan for ensuring right of return and/or first referral for occupants of units selected for intervention who have had to move for intervention to occur.

(xii) Describe how you will affirmatively further fair housing, which would include, but not be limited to: Affirmative marketing of the program to those least likely to apply based on race, religion, disability, and large families, especially when persons in these demographic groups are generally not served by the nonprofit or faith-based applicant or partner organizations; using a variety of materials for outreach to persons with disabilities and with Limited English Proficiency (LEP); assuring long-term residency by families currently living in the community; assuring that priority for treated units go to those who need the features (treatment) of the unit, and issues of environmental justice.

(xiii) Describe the financing strategy, including eligibility requirements, terms, conditions, and amounts available, to be employed in conducting housing-based hazards activities. You must discuss the way funds will be administered (e.g., use of grants, deferred loans, forgivable loans, other resources, private sector financing, etc.) as well as the agency that will administer the process.

(xiv) Describe your proposed methods for community and/or targeted education and training. These should include community awareness, education, training, and outreach programs that support your work plan and are culturally sensitive, targeted, and linguistically appropriate. Provide information about specific educational/outreach activities with quantitative data (number of individuals to be reached, etc.) and a description of the intended audience. Describe proposed activities to deliver culturally appropriate educational materials and methods to the target population and communities. Describe efforts to understand and incorporate culturally sensitive approaches to assessment and interventions.

(xv) Provide detailed information about training staff to provide the knowledge and skills required to address Healthy Homes issues that are essential for successfully implementing your project (e.g., assessments and interventions). Include an outline of training curricula and a description of qualifications of trainers. Describe how Healthy Homes training programs will be expanded to include public housing agencies or tribally Designated Housing Entities and other potential collaborators, such as faith-based and community organizations.

(xvi) Describe your proposed involvement of neighborhood, or faith-based and other community-based organizations in the proposed activities. These activities may include outreach, community education, marketing, inspection, and housing evaluations and interventions.

(xvii) Describe your proposed methods to reach high-risk groups and communities, vulnerable populations and persons traditionally underserved.

(xviii) Indicate if, and describe how, you will address any of HUD's Departmental policy priorities (see the section II of the General Section of the SuperNOFA for a fuller explanation of HUD's policy priorities). Applicants that include work activities that specifically address one or more applicable policy priorities will receive higher rating scores than applicants that do not address these HUD priorities, up to a maximum of 3 points. Policy priorities that are potentially applicable to the Healthy Homes Demonstration NOFA are: Improving the Quality of Life in our Nation's Communities; Providing Full and Equal Access to Faith-Based and Other Community-Based Organizations in HUD Program Implementation; Colonias; and Participation in Energy Star.

(2) Approach for Managing the Project. (12 points). Describe your project goals and objectives and the strategy you will use in managing and executing the project. You should provide information on the general approach and overall plan employed.

(a) Baseline Plan for Project Management (10 points). Include a management plan that:

(i) Lists the project objectives, major tasks and activities. All specific activities necessary to complete the proposed project must be included in the task listing;

(ii) Incorporates appropriate performance goals and benchmarks;

(iii) Identifies major milestones and provides a schedule for the assignment, tracking and completion of major tasks and activities, and a timeframe for delivery;

(iv) Ensures that quality assurance activities and corrective actions are managed;

(v) Designates resources and identifies responsible entities;

(vi) Describes the strategy and methods for coordination and communication between partners; and

(vii) Describes the management processes to manage costs and ensure that cost-effective housing interventions will be implemented.

(b) Budget Justification (2 points). Your proposed budget will be evaluated for the extent to which it is reasonable, clearly justified, and consistent with the project management plan and intended use of program funds. HUD is not required to approve or fund all proposed activities. Your budget should be submitted in the format recommended in Appendix E (Forms) of this NOFA. An electronic spreadsheet and other budgetary forms are available at HUD's Web site, http://www.hud.gov. You must thoroughly document and justify all budget categories and costs (HUD Form 424-C) and all major tasks for yourself, sub-recipients, partners, major subcontractors, joint venture participants, or others contributing resources to the project. Describe clearly and in detail your budgeted costs for each required program element (major task) included in your overall plan.

(3) Economic Opportunity (3 points). To the greatest extent feasible, your project should promote job training, employment, and other economic opportunities for low-income and minority residents and businesses which are owned by, and/or employ, low-income and minority residents as defined in 24 CFR 135.5. You should:

(a) Describe how you or your partners will comply with section 3 of the Housing and Urban Development Act of 1968 (12 U.S.C. 1701u) and HUD's implementing rules at 24 CFR part 135. Describe how you will accomplish this requirement by (1) providing training and employment opportunities for low- and very low-income persons living within the grantee's jurisdiction, and by (2) providing business opportunities to businesses owned by low- and very low-income persons living within the targeted jurisdiction;

(b) Describe how your project will give preference to hiring low- and very low-income persons or contracting with businesses owned by or employing low- and very-low income persons. Information about section 3 requirements is available by searching HUD's Web site, http://www.hud.gov;

(c) Describe how your proposed project will further and support the policy priorities of the Department (section II of the General Section of the SuperNOFA and Rating Factor 3 (1)(b)(xviii) of this NOFA), including providing opportunities for self-sufficiency, particularly for persons enrolled in welfare-to-work programs, or providing educational and job training opportunities; and

(d) Describe the extent to which your proposed activities will occur in an Empowerment Zone or Enterprise Community (EZ/EC), Urban Enhanced Enterprise Community (EEC), or Strategic Planning Community or Renewal Community (RC) as defined in section VI (C)(1) of the General Section of the SuperNOFA.

Rating Factor 4: Leveraging Resources (10 Points)

This factor addresses your ability to secure other community resources (e.g., financing, supplies or services) that can be combined with HUD's resources to achieve project purposes. These community resources may be contributions from organizations such as the applicant, partners, or other organizations not directly involved in the project.

(1) In evaluating this factor, HUD will consider the extent to which you have developed partnerships to secure additional resources to increase the effectiveness of your proposed project. Describe how other organizations will participate in or support your project. Resources may include funding or in-kind contributions (e.g., labor, fringe benefits, services, supplies, or equipment) budgeted for your proposed project. Resources may be provided by State and local governmental entities, public or private organizations, or other partners.

(2) Each source of contributions (financial or in-kind) must be supported by a letter of commitment from the contributing entity, whether the applicant, a partner organization, or a public or private source. The letter must describe the contributed resource(s) that will be used in your project and the dollar value of each contribution. Staff in-kind contributions should be given a market-based monetary value. If you fail to provide letters of commitment with specific details, including the amount of the actual contributions, you will not get rating points for this factor. Each letter of commitment, memorandum of understanding, or agreement to participate shall include the organization's name and the proposed level of commitment and responsibilities as they relate to the proposed project. The commitment must be signed by an official legally able to make commitments on behalf of the organization. Letters of support (letters that indicate support, but do not specify a monetary commitment to the project) will not be considered in the scoring of Rating Factor 4. Include information to address the following elements.

(a) The extent to which you have coordinated your activities with other known organizations that are not directly participating in your proposed work activities, but with which you share common goals and objectives.

(i) Describe your plan for integrating and coordinating housing-based hazard interventions with other housing-related activities (e.g., rehabilitation, weatherization, correction of code violations, and other similar work).

(ii) Describe your plans to generate and use public subsidies or other resources, such as revolving loan funds, to finance future interventions to prevent and control housing-based hazards, particularly in low- and very low-income housing.

(b) The extent to which your project exhibits the potential to be financially self-sustaining by decreasing dependence on Federal funding and relying more on State, local and private funding to continue healthy homes activities after the grant period is completed.

Rating Factor 5: Achieving Results and Program Evaluation (15 points)

This factor emphasizes HUD's commitment to ensuring that applicants keep promises made in their applications and assess their performance to ensure that performance goals are met. Achieving results means you, the applicant, have clearly identified the benefits or outcomes of your program. Outcomes are ultimate goals. Benchmarks or outputs are interim activities or products that lead to the ultimate achievement of your goals.

Program evaluation requires that you, the applicant, identify program outcomes, interim products or benchmarks, and performance indicators that will allow you to measure your performance. Performance indicators should be objectively quantifiable and measure actual achievements against anticipated achievements. Your Evaluation Plan should identify what you are going to measure, how you are going to measure it, and the steps you have in place to make adjustments to your work plan if performance targets are not met within established timeframes.

This new rating factor reflects HUD's goal to embrace high standards of ethics, management and accountability. In evaluating this factor, HUD will consider how you have described outcome measures and benefits of your program.

In your response to this rating factor, you are to discuss the performance goals for your project, and identify specific outcome measures. You are also to describe how the outcome information will be obtained, documented, and reported. You must complete and return the Logic Model Form included in Appendix B of the General Section of the SuperNOFA showing your proposed project long-term, mid-term, short-term and final results, and how they support HUD's departmental goals and objectives. Information about developing a Logic Model is available at http://www.hud.gov.

In responding to this factor, you should:

(1) Identify and discuss the specific methods you will use to measure progress towards your goals, track and report results of interventions, and evaluate the effectiveness of interventions;

(2) Identify benchmarks that you will use to track the progress of your project;

(3) Identify important project milestones (e.g., the end of specific phases in a multi-phased project) and deliverables specific to your project timeline;

(4) Identify milestones that are critical to achieving project objectives (e.g., recruitment and sustainability of participants, the Institutional Review Board process, if applicable, or the process of Informed Consent);

(5) Identify how your project will be held accountable for meeting project goals, objectives, and the actions undertaken in implementing the grant program. You should provide assurances that work plans and performance measures developed for your project will be achieved in a timely and cost-effective manner;

(6) Provide data on those served by race, ethnicity, disability, size of family and ages of children, and single-parent households; and

(7) Provide a Logic Model that describes activities, assessments, interventions and outcomes for your project. Information and templates for the Logic Model are available at http://www.hud.gov.

(C) Applicant Debriefing. See Section XI (A)(4) of the General Section of the SuperNOFA for information about applicant debriefing.

VI. Application Submission Requirements

(A) Applicant Information. You should submit your application in accordance with the format and instructions contained in this NOFA and in the section VII of the General Section of the SuperNOFA. The following is a list of required application contents. Your application must contain the items in the list below and in the General Section of the SuperNOFA. These requirements are presented as a “Checklist and Submission Table of Contents,” provided in Appendix E of this NOFA.

(1) Transmittal letter (one-page only) that summarizes your proposed project, provides the dollar amount requested, and identifies you and your partners in the application.

(2) The name, mailing address, and telephone number of the principal contact person. If you are a consortium of associates, sub-recipients, partners, major subcontractors, joint venture participants, or others contributing resources to the project, similar information shall also be provided for each of these entities. You must specify the primary entity.

(3) An abstract describing the goals and objectives of your proposed program (2-page limit, single-spaced, 12-point font, one-inch margins) must be included in the proposal.

(4) Checklist and Submission Table of Contents. (Appendix E)

(5) Required Forms:

HUD Form 424, Standard Form for Application for Federal Assistance;

HUD Form 424 B, Applicant Assurances and Certifications;

HUD Form 424 C, Budget Summary for Competitive Grant Programs;

HUD Form 424 CBW;

HUD Form Logic Model Form;

HUD 2880, Applicant/Recipient Disclosure/Update Report;

HUD 2990, Certification of Consistency with EZ/EC Strategic Plan, if applicable;

Form SF-LLL, Disclosure of Lobbying Activities, where applicable;

HUD 2993, Acknowledgment of Application Receipt; and

HUD 2994, Client Comments and Suggestions (optional).

A Certification of Consistency with the Consolidated Plan is not required for this application.

(6) A narrative statement addressing the rating factors for award. The narrative statement must be numbered in accordance with each factor for award (Rating Factors 1 through 5). The response to the rating factors must not exceed a total of 25 pages (single-spaced, 12 point font, one-inch margins). Any pages in excess of this limit will not be read. Key points to consider in preparing your application are provided in Appendix C of this NOFA.

(7) Any attachments, appendices, references, or other relevant information that directly support the narrative may accompany it, but must not exceed twenty (20) pages (12-point font with one-inch margins) for your entire application. Any pages in excess of this limit will not be read. Specific criteria for the content of the appendices for the Healthy Homes Demonstration Program grant application are listed in the Checklist and Submission Table of Contents (see Appendix E of this NOFA.)

(8) A detailed budget with supporting cost justification for all budget categories of your funding request, in accordance with Rating Factor 3, element (2)(b). This information will not be counted towards the page limits. A detailed budget must also be provided for any subcontractors, subgrantees, or subrecipients receiving more than 10 percent of the Federal budget request.

(9) The resumes and position descriptions of your project director and project manager and up to three additional key personnel (in accordance with Rating Factor 1), not to exceed three pages each (single-spaced, 12-point font with one-inch margins). This information is to be included in Appendix 1 of your application and will not be counted towards the page limit.

VII. Corrections to Deficient Applications

Section VIII of the General Section of the SuperNOFA provides the procedures for corrections to deficient applications.

VIII. Environmental Requirements

Activities assisted under this program are subject to HUD environmental review to the extent required under 24 CFR part 50. An award under the Healthy Homes Initiative does not constitute approval of specific sites where activities may be carried out. Following award execution, HUD will perform environmental reviews for activities to be carried out on properties proposed by your organization. You must comply with HUD's regulations in 24 CFR 50.3(h) in carrying out responsibilities regarding environmental review. You may not rehabilitate, convert, repair or construct a property, or commit or expend program funds or non-HUD funds for these program activities for any eligible property, until you receive written notification from the appropriate HUD official that HUD has completed its environmental review and the property has been approved. The results of environmental reviews may require that proposed activities be modified or proposed sites rejected. Recipients of a grant under this NOFA will be given guidance in these responsibilities.

IX. HUD Reform Act of 1989

The provisions of the HUD Reform Act of 1989 that apply to this NOFA are explained in the section XI (A) of the General Section of the SuperNOFA.

X. Authority

The authority for this program is sections 501 and 502 of the Housing and Urban Development Act of 1970 and the Consolidated Appropriations Resolution of 2003, Public Law 108-7, approved February 20, 2003.

Appendix A: Housing-Related Health and Injury Hazards

The following briefly describes the housing-associated health and injury hazards HUD considers key targets for intervention. More information about housing-associated health and injury hazards is available at the Healthy Homes Initiative Web site, at http://www.hud.gov.

Allergens and asthma: Experts estimate that 14 million Americans have asthma, with an associated annual cost of $6.2 billion. Asthma is now recognized as the leading cause of school and work absences, emergency room visits and hospitalizations. For sensitized children, exposure to antigens from dust mites, certain pets, and cockroaches has been associated with more severe asthma. There is a preponderance of evidence showing a dose-response relationship between exposure and prevalence of asthma and allergies; some evidence also indicates that exposure to antigens early in life may predispose or hasten the onset of allergies and asthma. Dust mites have been identified as the largest trigger for asthma and allergies. Cockroach allergens appear to be excessive in 30-50 percent of inner-city housing and affect 5-15 percent of the population, whereas dust mites appear to be the dominant allergen in other environments.

Interventions known to have beneficial effects include the installation of impervious mattress and pillow covers, which can reduce allergen exposure by 90 percent. Other dust mite control measures include dehumidification, laundering bedding, and removal of carpets and other dust sinks. Cleaning carpets with tannic acid solution has also been demonstrated to greatly reduce dust mites. Asthma prevention program costs have been estimated at about $500 per unit, which includes about $150 for educational interventions. Additional information is available in HUD's research topic paper, “Healthy Homes Issues: Asthma” available at the Resources, Technical Resources link of HUD's Healthy Homes Initiative Web site, linked to HUD's Web site, http://www.hud.gov.

Asbestos: Asbestos is a mineral fiber that has been used commonly in a variety of building construction materials and household products for insulation and as a fire-retardant. The Environmental Protection Agency (EPA) and the Consumer Product Safety Commission (CPSC) have banned most asbestos products. Manufacturers have also voluntarily limited uses of asbestos. Today, asbestos is most commonly found in older homes, in pipe and furnace insulation materials, asbestos shingles, millboard, textured paints and other coating materials, and floor tiles. Elevated concentrations of airborne asbestos can occur when asbestos-containing materials (ACMs) are disturbed by cutting, sanding or other remodeling activities. Improper attempts to remove these materials can release asbestos fibers into the air in homes, increasing asbestos levels and endangering the people living in those homes. The most dangerous asbestos fibers are too small to be visible. After they are inhaled, they can remain and accumulate in the lungs. Asbestos can cause lung cancer, mesothelioma (a cancer of the chest and abdominal linings), and asbestosis (irreversible lung scarring that can be fatal). Most people with an asbestos-related disease were exposed to elevated concentrations on the job; some developed disease from exposure to clothing and equipment brought home from job sites. As with radon, dose-response extrapolations suggest that lower level exposures, as may occur when asbestos-containing building materials deteriorate or are disturbed, may also cause cancer.

Intact asbestos-containing materials are not a hazard; they should be monitored for damage or deterioration and isolated if possible. Repair of damaged or deteriorating ACMs usually involves either sealing (encapsulation) or covering (enclosure) it. Repair is usually cheaper than removal, but it may make later removal of asbestos more difficult and costly. Repairs should be done only by a professional who is trained and certified to handle asbestos safely. Repairs can cost from a few hundred to a few thousand dollars and removal can be more expensive.

Combustion products of heating and cooking appliances: Burning of oil, natural gas, kerosene, and wood for heating or cooking purposes can release a variety of combustion products of health concern. Depending upon the fuel, these may include carbon monoxide (a chemical asphyxiant), oxides of nitrogen (respiratory irritants), polycyclic aromatic hydrocarbons (e.g., the carcinogen benzo[a]pyrene), and airborne particulate matter (respiratory irritants). Carbon monoxide, an odorless gas, can be fatal. Nitrogen dioxide can damage the respiratory tract, and sulfur dioxide can irritate the eyes, nose and respiratory tract. Smoke and other particulates irritate the eyes, nose and throat, and can cause lung cancer.

Improper venting and poor maintenance of heating systems and cooking appliances can dramatically increase exposure to combustion products. Experts recommend having combustion heating systems inspected by a trained professional every year to identify blocked openings to flues and chimneys, cracked or disconnected flue pipes, dirty filters, rust or cracks in heat exchangers, soot or creosote build-up, and exhaust or gas odors. Installing a carbon monoxide detector is also recommended; however, such a detector will not detect other combustion by-products.

Insect and rodent pests: The observed association between exposure to cockroach antigen and asthma severity has already been noted above. In addition, cockroaches may act as vehicles to contaminate environmental surfaces with certain pathogenic organisms. Rodents can transmit a number of communicable diseases to humans, either through bites, arthropod vectors, or exposure to aerosolized excreta. In addition, humans can become sensitized to proteins in rodent urine, dander and saliva. Such sensitization may contribute to asthma severity among children. Insect and rodent infestation is frequently associated with substandard housing that makes it difficult to eliminate. Treatment of rodent and insect infestations often includes the use of toxic pesticides that may present hazards to occupants (see below). Integrated pest management (IPM) for rodents and cockroaches, which reduces the use of pesticides, is estimated to cost approximately $150 per unit. IPM control measures include sealing holes and cracks, removing food sources and the use of traps. In technical terms, IPM is the coordinated use of pest and environmental information with available pest control methods to prevent unacceptable levels of pest damage by the most economical means and with the least possible hazard to people, property, and the environment. (One information source is the University of Minnesota's electronic textbook of Integrated Pest Management, available at http://ipmworld.umn.edu/textbook.htm.)

Lead: Exposure to lead, especially from deteriorating lead-based paint, remains one of the most important and best-studied of the household environmental hazards to children. Although blood lead levels have fallen nationally, a large reservoir of lead remains in housing. The National Health and Nutrition Examination Survey (1991-1994) showed that nearly one million U.S. preschoolers still have elevated blood lead levels. Overall, the prevalence rate among all children under six years of age is 4.4 percent. Among low-income children living in older housing where lead-based paint is most prevalent, the rate climbs to 16 percent; and for African-American children living in such housing, it reaches 21 percent.

The National Survey of Lead and Allergens in Housing (2000) estimates that 38 million dwellings have some lead-based paint, and that 24 million have significant lead-based paint hazards. Of those, about 4.8 million have young children and of those, about 1.2 million have household incomes under $30,000 per year. Costs for Lead Hazard Control can range anywhere from $500 to $15,000 per unit. Corrective measures include paint stabilization, enclosure and removal of certain building components coated with lead paint, and cleanup and “clearance testing,” which ensures the unit is safe for young children.

Mold and moisture: An analysis of several pulmonary disease studies estimates that 25 percent of airways disease, and 60 percent of interstitial lung disease may be associated with moisture in the home or work environment. Moisture is a precursor to the growth of mold and other biological agents, which is also associated with respiratory symptoms. An investigation of a cluster of pulmonary hemosiderosis (PH) cases in infants showed PH was associated with a history of recent water damage to homes and with levels of the mold Stachybotrys atra (SA) in air and in cultured surface samples. Associations between exposure to SA and “sick building” symptoms in adults have also been observed. Other related toxigenic fungi have been found in association with SA-associated illness and could play a role. For sensitive individuals, exposure to a wide variety of common molds may also aggravate asthma. Addressing mold problems in housing requires coordination among the medical, public health, microbiological, housing, and building science communities. Additional information is available in HUD's research topic paper, “Healthy Homes Issues: Mold” available at the Resources, Technical Resources link of HUD's Healthy Homes Initiative website, linked to HUD's Web site, http://www.hud.gov.

The cost of mold/moisture-related intervention work (e.g., IPM, clean and tune furnace, remove debris, vent clothes dryer, cover dirt floor with impermeable vapor barrier) is a few hundred dollars, unless major modification of the ventilation system is needed. For example, in Cleveland, mold interventions, including repairs to ventilation systems and basement flooring, in the most heavily contaminated homes range from $500-$5,000, with some costs also being dedicated to lead hazard control simultaneously through its Lead+Asthma program.

Pesticide residues: According to the EPA, 75 percent of U.S. households used at least one pesticide product indoors during the past year. Products used most often are insecticides and disinfectants. Another study suggests that 80 percent of most people's exposure to pesticides occurs indoors and that measurable levels of up to a dozen pesticides have been found in the air inside homes. The amount of pesticides found in homes appears to be greater than can be explained by recent pesticide use in those households; other possible sources include contaminated soil or dust that migrates in from outside, stored pesticide containers, and household surfaces that collect and then release the pesticides. Pesticides used in and around the home include products to control insects (insecticides), termites (termiticides), rodents (rodenticides), molds and fungi (fungicides), and microbes (disinfectants). In 1990, the American Association of Poison Control Centers reported that some 79,000 children were involved in common household pesticide poisonings or exposures. In households with children under five years of age, almost half stored at least one pesticide product within the reach of children. Exposure to chlorpyriphos (CP), a commonly used organophosphate insecticide, in the prenatal and early postnatal period may impair neurological development. While CP is a biodegradable pesticide, substantial persistence of CP in house dust has been demonstrated. Exposure to high levels of cyclodiene pesticides, commonly associated with misapplication, has produced various symptoms, including headaches, dizziness, muscle twitching, weakness, tingling sensations, and nausea. In addition, the EPA is concerned that cyclodienes might cause long-term damage to the liver and the central nervous system, as well as an increased risk of cancer.

There are available data on hazard evaluation methods and remediation effectiveness regarding pesticide residues in the home environment.

Radon progeny: The National Academy of Sciences estimates that approximately 15,000 cases of lung cancer per year are related to radon exposure. Epidemiologic studies of miners exposed to high levels of radon in inhaled air have defined the dose response relation for radon-induced lung cancer at high exposure levels. Extrapolation of this data has been used to estimate the excess risk of lung cancer attributable to exposure to radon gas at the lower levels found in homes. These estimates indicate that radon gas is an important cause of lung cancer deaths in the U.S. Excessive exposures are typically related to home ventilation, structural integrity and location.

Radon measurement and remediation methods are well developed, and the EPA recommends that every home be measured for radon. The EPA estimates that materials and labor costs for radon reduction in an existing home are $800-$2,500. Including radon resistant techniques in new home construction costs $350-$500, and can save up to $65 annually in energy costs, according to the EPA.

Take-home hazards from work/hobbies and work at home: When the clothing, hair, skin, or shoes of workers become contaminated with hazardous materials in the workplace, such contaminants may inadvertently be carried to the home environment and/or an automobile. Such “take-home” exposures have been demonstrated, for example, in homes of lead-exposed workers. In addition, certain hobbies or workplaces located in the home may provide an especially great risk of household contamination.

Control methods include storing and laundering work clothes separately, and showering and changing clothes before leaving work or immediately after arriving at home. Once a home becomes contaminated, cleaning floors and contact surfaces and replacing furnishings may be necessary to reduce exposures.

Unintentional injuries/fire: Unintentional injury is now the leading cause of death and disability among children younger than 15 years of age. In 1997, nearly 7 million persons in the U.S. were disabled for at least one full day by unintentional injuries received at home. During the same year, 28,400 deaths were attributable to unintentional home injuries, of which 1,800 occurred among children four years of age and younger. Among young children, three types of events accounted for more than 75 percent of deaths: fires/ burns; drownings; and mechanical suffocation. Falls and poisoning are the next most common causes of death.

Home visitation protocols have been shown to be effective in reducing exposure to such hazards. The “add-on” cost of injury prevention measures, when combined with other housing interventions are estimated at about $100 per unit. This includes the cost of some injury prevention devices (e.g., smoke alarms, electrical socket covers, etc.).

BILLING CODE 4210-32-P

Appendix C: Preparing Your Application

Rating Factor 1: Capacity of the Applicant and Relevant Organizational Experience

In this rating factor, you should provide details about the following:

1. The skills and experience of the staff and the applicant organization;

2. A description of the participating organization, its roles and experience;

3. The past performance of the organization (applicant or partners) in another Healthy Homes or Lead Hazard Control grant, another grant related to environmental health and safety issues, or other experience in a similar program; include the name of the project, funding organization, amount funded and desired outcomes and results achieved in these projects;

4. The percentage of time each staff person or subcontractor will devote to the project. A staffing table or roster may be helpful to address this element. You may want to use the template provided as Worksheet 1 of Appendix B;

5. Level of involvement of the applicant organization in general oversight of the project and oversight of the partnering organizations;

Rating Factor 2: Need/Extent of the Problem

In this rating factor, you should provide details about the following:

1. The location of the target area(s) and the rationale for selecting these area(s); include backup documentation;

2. The number of children at risk of environmental illnesses or injuries, and the sources of this information;

3. The age and condition of the housing to receive interventions, and the sources of this information;

4. The number of low- and very low-income families and the demographic composition of families served by race, ethnicity, disability, size of family and ages of children, number of single-parent households in the target area(s);

5. Other socio-economic or environmental factors relating to need in the target area(s);

6. The relationship of the Consolidated Plan, Indian Housing Plan or the Analysis of Impediments to Fair Housing Choice (AI) to the request for assistance.

Rating Factor 3: Soundness of Approach

In this rating factor, you should provide details about the following:

1. A project work plan that identifies tasks, deliverables, and quality assurance activities and describes how the applicant will organize and perform Healthy Homes activities;

2. A schedule of deliverables and project milestones;

3. The target population for the project and the selection criteria involved, and the relationship of the activities to “Need/Extent of the Problem” as established in Rating Factor 2;

4. The number of families or individuals to be enrolled and/or units to receive assessment and interventions;

5. The rationale for selecting hazards of concern and intervention methods;

6. The mechanism for funding assessments and interventions;

7. The costs/unit for intervention;

8. The medical case management process, if applicable;

9. The process used to develop work specifications;

10. The temporary relocation plan, if appropriate, that includes who will decide on the need for relocation and the source of funding for relocation. Indicate how you will distinguish between temporary and permanent relocation and the benefits to be provided;

11. Awareness, outreach and education activities;

12. A discussion of project evaluation, data collection, and outcome analysis;

13. The proposed budget, with justification of costs by task;

14. Actions to affirmatively further fair housing;

15. Provisions for employment and economic development opportunities for low- and very low-income individuals;

16. Mechanisms for communication between the applicant organization and partners; and

17. The coordination of activities in this project with other similar projects being performed by the applicant or partnering organizations;

Rating Factor 4: Leveraging Resources

In this rating factor, you should provide details about the following:

1. Identify participating faith-based and community-based organizations and other private sector organizations that will contribute time and resources to the project;

2. Include (in Appendix 1 of your application) letters of commitment or memoranda of understanding from organizations. These letters must provide details about resources to be contributed and a dollar amount for the contributed (in-kind or matching) resources. (Letters of support that do not provide a dollar amount of contributed funding should be included in Appendix 2 of your application.);

3. Applicants should provide a discussion of their plans to enhance or expand partnership efforts under this application;

4. Describe how the effectiveness of grant funds will be increased as a result of leveraged efforts; and

5. Describe any existing or potential Community Reinvestment Act funding mechanisms.

Rating Factor 5: Achieving Results and Program Evaluation

In this rating factor, you should provide details about the following:

1. Desired outcomes for your project;

2. Mechanisms for collecting and archiving data to develop the outcome analysis; and

3. Include a Logic Model in this Rating Factor. (Information about developing a Logic Model is available at http://www.hud.gov.), and in the General Section of this SuperNOFA.

A tabular summary of the Rating Factors and Bonus Points is provided below.

Rating factor | Points
1. Capacity of the Applicant and Relevant Organizational Experience | 20
2. Need/Extent of the Problem | 15
3. Soundness of Approach | 40
4. Leveraging Resources | 10
5. Achieving Results and Program Evaluation | 15
Empowerment Zone and Enterprise Community Bonus Points | 2
Total | 102

Appendix D: References

To secure any of the documents listed, call the telephone number provided. A number of these references are provided on HUD's CD, “Residential Lead Desktop Reference, 3rd Edition.” This CD can be obtained at no charge by calling the National Lead Information Clearinghouse, 1-800-424-LEAD.

Regulations

1. Worker Protection: The two Occupational Safety and Health Administration (OSHA) publications listed below can be purchased by calling either OSHA Regulations at 202-693-1888 or the Government Printing Office (GPO) at 202-512-1800 (these are not toll-free numbers).

(a) General Industry Lead Standard, 29 CFR 1910.1025 (Document Number 869022001124). This document can be downloaded without charge from the OSHA Web site at http://www.osha-slc.gov/OshStd_data/1910_1025.html;

(b) Lead Exposure in Construction, 29 CFR 1926.62, and appendices A, B, C, and D (Document Number 869022001141). This document can be downloaded without charge from the OSHA Web site at http://www.osha-slc.gov/OshStd_data/1926_0062.html.

2. Waste Disposal. A copy of the EPA regulations at 40 CFR parts 260-268 can be purchased by calling 1-800-424-9346 (this is a toll-free number) or downloaded without charge from the EPA Web site at http://www.epa.gov/docs/epacfr40/chapt-I.info/subch-I.htm.

3. Lead.

(a) Requirements for Lead-Based Paint Activities in Target Housing and Child-Occupied Facilities; Final Rule: 40 CFR Part 745, (EPA) (Lead Hazard Standards, Work Practice Standards, EDP and State Certification and Accreditation programs for those engaged in lead-based paint activities). Can be purchased by calling the Toxic Substances Control Act Hotline at 202-554-1404 (this is not a toll-free number) or downloaded without charge from the EPA Web site at http://www.epa.gov/lead.

Guidelines

1. Guidelines for the Evaluation and Control of Lead-Based Paint Hazards in Housing; HUD, June 1995, and amended September 1997. These guidelines can be purchased by calling 1-800-245-2691 toll free or downloaded without charge from the HUD Web site at http://www.hud.gov/offices/lead.

2. Preventing Lead Poisoning in Young Children; Centers for Disease Control, October 1991. These guidelines can be obtained without charge by calling the CDC's toll-free number, 1-888-232-6789 or they can be downloaded from the HUD Web site at http://www.hud.gov/offices/lead.

3. Screening Young Children for Lead Poisoning: Guidance for State and Local Public Health Officials, November 1997; Centers for Disease Control and Prevention (CDC). These guidelines can be obtained without charge by calling the CDC's toll-free number, 1-888-232-6789 or they can be downloaded from the HUD Web site at http://www.hud.gov/offices/lead.

Reports

1. Putting the Pieces Together: Controlling Lead Hazards in the Nation's Housing, (Summary and Full Report); HUD, July 1995. A copy of this summary and report may be purchased by calling 1-800-245-2691 toll-free or through the HUD Web site at http://www.hud.gov/offices/lead.

2. The Healthy Homes Initiative: A Preliminary Plan (Summary and Full Report); HUD, April, 1999. A copy of this summary report may be obtained by calling NLIC's toll-free number, 1-800-424-LEAD, or downloaded from the HUD Web site at http://www.hud.gov/offices/lead.

3. Institute of Medicine. Indoor Allergens. Assessing and Controlling Adverse Health Effects. National Academy Press. Washington, DC 1993.

4. Mott L., Our Children at Risk. Natural Resources Defense Council. Washington, DC 1997. Can be ordered from the Internet from http://www.nrdc.org.

5. Rom W.N., Ed. Environmental and Occupational Medicine. Little, Brown and Co., Boston. 1992.

6. President's Task Force on Environmental Health Risks and Safety Risks to Children. Asthma and The Environment: An Action Plan to Protect Children. Washington, DC 1999. Eliminating Childhood Lead Poisoning: A Federal Strategy Targeting Lead Paint Hazards. Washington, DC 2000. Can be downloaded from the Internet without charge from http://www.epa.gov/children.

Appendix F: Forms and Administrative Costs

This appendix lists the standard forms, certifications and assurances used by the programs that are part of this NOFA. Listed forms are located in Appendix B of the General Section of the SuperNOFA.

The following forms are to be used for the Programs listed in this NOFA:

(1) Form HUD-424

(2) Form HUD-424 B

(3) Form HUD-424 C

(4) Form HUD-424 CBW

(5) Form HUD Logic Model Form

(6) Application Checklist and Submission Table of Contents

(7) Ethnicity and Race Data

HUD has consolidated many of its application forms into a single HUD-424 form. The new HUD-424 consolidates budget-reporting forms for both construction and non-construction projects into a single form and eliminates having to have the following separate certifications: Certification for a Drug-Free Workplace (HUD-50070), the Certification of Payments to Influence Federal Transactions (HUD-50071), and the Certification Regarding Debarment and Suspension (HUD-2992).

New form HUD-424 replaces SF-424 and HUD-424 M

HUD-424 B replaces SF-424 B and D and HUD-50070, 50071 and 2992.

HUD-424 C and CB replaces SF-424 A and C

The HUD-424 CBW is added as a common detailed Budget Worksheet and replaces various budget worksheets used throughout the Department.

Administrative Costs

Administrative costs that may be applicable to the programs included in this NOFA are discussed below:

I. Purpose

The intent of this HUD grant program is to allow the Grantee to be reimbursed for the reasonable direct and indirect costs, subject to a top limit, for overall management of the grant. In most instances the grantee, whether a State or a local government, principally serves as a conduit to pass funding to sub-grantees, which are to be responsible for the conducting lead-hazard reduction work. Congress set a top limit of ten percent of the total grant sum for the grantee to perform the function of overall management of the grant program, including passing on funding to sub-grantees. The cost of that function, for the purpose of this grant, is defined as the “administrative cost” of the grant, and is limited to ten percent of the total grant amount. The balance of ninety percent or more of the total grant sum is reserved sub-grantees or other direct-performers of lead-hazard identification and reduction work. Lead hazard identification and reduction includes, but is not necessarily limited to outreach, training, enrollment, lead paint inspection/risk assessments, interim controls, hazard abatement, clearance documentation, blood lead testing, and public education.

II. Administrative Costs: What They Are Not

For the purposes of this HUD grant program for States and local governments to provide support for the evaluation and reduction of lead-hazards in low- and moderate-income, private target housing, the term “administrative costs” should not be confused with the terms “general and administrative cost,” “indirect costs,” “overhead,” and “burden rate.” These are accounting terms usually represented by a government-accepted standard percentage rate. The percentage rate allocates a fair share of an organization's costs that cannot be attributed to a particular project or department (such as the chief executive's salary or the costs of the organization's headquarters building) to all projects and operating departments (such as the Fire Department, the Police Department, the Community Development Department, the Health Department or this program). Such allocated costs are added to those projects' or departments' direct costs to determine their total costs to the organization.

III. Administrative Costs: What They Are

For the purposes of this HUD grant program, “Administrative Costs” are the grantee's allowable direct costs for the overall management of the grant program plus the allocable indirect costs. The allowable limit of such costs that can be reimbursed under this program is ten (10) percent of the total grant sum. Should the grantee's actual costs for overall management of the grant program exceed ten percent of the total grant sum, those excess costs shall be paid for by the grantee. However, excess costs paid for by the grantee may be shown as part of the requirement for cost-sharing funds to support the grant.

IV. Administrative Costs: Definition

A. General

Administrative costs are the allowable, reasonable, and allocable direct and indirect costs related to the overall management of the HUD grant for lead-hazard reduction activities. Those costs shall be segregated in a separate cost center within the grantee's accounting system, and they are eligible costs for reimbursement as part of the grant, subject to the ten percent limit. Such administrative costs do not include any of the staff and overhead costs directly arising from specific sub-grantee program activities eligible under Section III of this NOFA because those costs are eligible for reimbursement under a separate cost center as a direct part of project activities.

The grantee may elect to serve solely as a conduit to sub-grantees, who will in turn perform the direct program activities eligible under Section III (C) (1) of this NOFA, or the grantee may elect to perform all or a part of the direct program activities in other parts of its own organization, which shall have their own segregated, cost centers for those direct program activities. In either case, not more than 10 percent of the total HUD grant sum may be devoted to administrative costs, and not less than 90% of the total grant sum shall be devoted to direct program activities. The grantee shall take care not to mix or attribute administrative costs to the direct project cost centers.

B. Specific

Reasonable costs for the grantee's overall grant management, coordination, monitoring, and evaluation are eligible administrative costs. Subject to the ten percent limit, such costs include, but are not limited to, necessary expenditures for the following goods, activities and services:

(1) Salaries, wages, and related costs of the grantee's staff, the staff of affiliated public agencies, or other staff engaged in grantee's overall grant management activities. In charging costs to this category the recipient may either include the entire salary, wages, and related costs allocable to the program for each person whose primary responsibilities (more than 65% of their time) with regard to the grant program involve direct overall grant management assignments, or the pro rata share of the salary, wages, and related costs of each person whose job includes any overall grant management assignments. The grantee may use only one of these two methods during this program. Overall grant management includes the following types of activities:

(a) Preparing grantee program budgets and schedules, and amendments thereto;

(b) Developing systems for the selection and award of funding to sub-grantees and other sub-recipients;

(c) Developing suitable agreements for use with sub-grantees and other sub-recipients to carry out grant activities;

(d) Developing systems for assuring compliance with program requirements;

(e) Monitoring sub-grantee and sub-recipient activities for progress and compliance with program requirements;

(f) Preparing presentations, reports, and other documents related to the program for submission to HUD;

(g) Evaluating program results against stated objectives;

(h) Providing local officials and citizens with information about the overall grant program; however, a more general education program, helping the public understand the nature of lead hazards, lead hazard reduction, blood-lead screening, and the health consequences of lead poisoning is a direct project support activity);

(i) Coordinating the resolution of overall grant audit and monitoring findings; and

(j) Managing or supervising persons whose responsibilities with regard to the program include such assignments as those described in paragraphs (a) through (i).

(2) Travel costs incurred for official business in carrying out the overall grant management;

(3) Administrative services performed under third party contracts or agreements, for services directly allocable to grant management such as: legal services, accounting services, and audit services;

(4) Other costs for goods and services required for and directly related to the overall management of the grant program; and including such goods and services as telephone, postage, rental of equipment, renter's insurance for the program management space, utilities, office supplies, and rental and maintenance (but not purchase) of office space for the program.

(5) The fair and allocable share of grantee's general costs that are not directly attributable to specific projects or operating departments such as salaries, office expenses and other related costs for local officials (e.g., mayor and city council members, etc.), and expenses for a city's legal or accounting department which are not charged back to particular projects or other operating departments. If a grantee has an established burden rate, it should be used; if not, the grantee shall be assigned a negotiated provisional burden rate, subject to final audit.

BILLING CODE 4210-32-P

Funding Availability for the Lead Outreach Grant Program

Program Overview

Purpose of the Program. The purpose of this lead outreach grant program is to:

(A) Increase enrollment of low-income housing units for treatment via the HUD lead hazard control grant program or another lead hazard treatment program;

(B) Develop and distribute outreach and educational materials in order to raise public awareness of childhood lead poisoning, its prevention and proper lead hazard identification and control methods among at-risk communities and at-risk populations of children and workers in the housing maintenance or rehabilitation fields; and

(C) Encourage occupants to identify potential lead-based paint hazards and report them to property owners and managers, and public health and/or housing officials as appropriate.

Available Funds. Approximately $2,200,000, including approximately $480,000 in FY 2003 funds, and approximately $1,720,000 in previous-year recaptured funds.

Eligible Applicants. States, Tribes and units of general local government are eligible. Partnerships are encouraged, although the application must be made by a single entity.

Application Deadline. June 10, 2003.

Match. None required

Additional Information

If you are interested in applying for funding under this program, please carefully read the General Section of this SuperNOFA and the following additional information.

I. Application Due Date and Technical Assistance

(A) Application Due Date. Completed applications (one original and four copies) must be submitted and received by HUD on or before 12 midnight on June 10, 2003, at the address shown below.

(B) Application Submission Procedures. HUD has implemented security procedures that impact application submission. Please review the requirements for mailing and receipt of applications in the General Section of this SuperNOFA to ensure that your application is timely filed. No hand deliveries will be accepted.

(C) Application Submission. See the General Section of this Super Notice of Funding Availability (SuperNOFA) for specific procedures concerning the form of application submission and requirements for receipt (e.g., mailed applications, express mail or overnight delivery). Please note that the requirements for submission have been revised this year. Be advised that there is no Application Kit for this year's Lead Outreach Grant Program. This program NOFA clearly describes the requirements for completing a successful application and all forms and certifications needed to complete a successful application are included in the General Section and Lead Outreach Grant Program sections of this SuperNOFA.

(D) Addresses. You, the applicant, must submit one original and four copies of your complete application to the Department of Housing and Urban Development, Office of Homes and Lead Hazard Control, ATTN: Lead Outreach Grant Program, 451 Seventh Street, SW., Room P3206, Washington, DC 20410 on or before the application due date.

(E) For Further Information and Technical Assistance: You may contact Rachel M. Riley, Training Manager, Office of Healthy Homes and Lead Hazard Control, at the address above; telephone (202) 755-1785, extension 107 (this is not a toll-free number). If you are a hearing- or speech-impaired person, you may reach the above telephone numbers via TTY by calling the toll-free Federal Information Relay Service at 1-800-877-8339.

(F) Satellite Broadcast. HUD will hold an information broadcast via satellite for potential applicants to learn more about the program and the preparation of the application. For more information about the date and time of the broadcast, you should consult the HUD Web site at http://www.hud.gov/.

II. Authority, Funding Amounts and Amount of Funds Allocated

(A) Authority. The authority for this program is Section 1011(e)(8) & (g)(1) of the Residential Lead-Based Paint Hazard Reduction Act of 1992 (Title X of the Housing and Community Development Act of 1992), and Division K of the Consolidated Appropriations Resolution of 2003, Pub. L. 108-7, signed February 20, 2003.

(B) Funding Available and Eligibility. Approximately $2,200,000, including approximately $480,000 in Fiscal Year 2003 funds from the lead technical assistance set aside under the lead hazard reduction appropriation, and approximately $1,720,000 in previous-year recaptured funds, will be available for the Lead Outreach Program. Grants will be awarded on a competitive basis following evaluation of all proposals according to the Rating Factors described in Section V of this program section. Between five and 11 States, Tribes or units of general local government could receive grant awards ranging between approximately $200,000 and approximately $500,000. A minimum score of 75 is required for award consideration. The amounts included in this program are subject to change based on funds availability.

III. Eligible Applicants and Activities

(A) Background

Lead toxicity in children has been well established, yet childhood lead poisoning is the primary childhood environmental health problem in the United States today. The February 2000, report of the President's Task Force on Environmental Health Risks and Safety Risks to Children, titled “Eliminating Childhood Lead Poisoning: A Federal Strategy Targeting Lead Paint Hazards,” sets forth what action needs to be taken to prevent such poisoning. In addition to eliminating lead hazards in housing occupied by low-income families with children, the Federal government's public education and outreach activities must measurably increase the public's awareness of lead hazards and how to address them.

In keeping with the mandate of section 1011(g)(1) of Title X for HUD “develop the capacity of eligible applicants * * * to carry out activities under” lead hazard control grant programs, the Department has conducted outreach and public education initiatives through the Lead Hazard Control Grant program, the National Lead Information Center, and other education and outreach initiatives.

Lead Hazard Control Grants are awarded competitively to eligible States, tribes, or units of local government to perform lead hazard reduction in low-income privately owned pre-1978 housing. Lead outreach activities contribute to building the capacity of jurisdictions to submit successful applications for lead hazard control grants, because they have the effect of inducing local businesses to enter into the lead hazard control field before jurisdictions apply for the grants and, thus, increase jurisdictions' ability to demonstrate their capacity to meet the grant's requirements. These inducements can be expressed by the market directly, and/or through the efforts of the jurisdictions.

HUD's lead awareness supplement to the Current Population Survey has determined that only a fraction of citizens are well-educated about how lead-based paint hazards threaten young children and are more common in older housing. One consequence of this low level of awareness is that few housing construction and maintenance business owners are aware of the extent of lead-based paint hazards. One result is that few areas have an adequate supply of businesses that work in the lead hazard control field, or an adequate supply of workers trained to perform interim controls or lead hazard abatement for more than their HUD-assisted pre-1978 housing, as required by the Lead Safe Housing Rule.

Lead outreach activities have the effect of encouraging residents of older low-income housing to prompt their state, tribal or local governments to control lead-based paint hazards. In turn, these governments are induced to consider obtaining funding under the HUD Lead Hazard Control Grant Program, or perform lead hazard reduction in conjunction with other housing, health or environmental activities. In practice, this can be done only if housing owners and occupants are aware of and apply for enrollment in lead hazard treatment programs. Potential applicant agencies are, thereby, induced to promote lead hazard control activities locally, by working with private-sector stakeholders (e.g., grassroots organizations, including faith-based and community-based non-profit organizations, community colleges, etc.). As described above, HUD's outreach efforts contribute to the timely performance of successful lead hazard control work and associated capacity building.

Outcomes of this outreach program include:

(1) Identifying and maximizing opportunities to raise visibility of and publicize the lead issue among the general public, and invigorating the efforts in both the public and private sectors to take action to eradicate childhood lead poisoning, especially by increasing the number of low-income housing units that are enrolled in lead hazard treatment programs.

(2) Increasing lead awareness in communities identified as being at greatest risk of lead poisoning (e.g., those with many low-income and minority families), with special interest in target audiences within those communities, such as parents, pregnant women, health care providers, multi-family and single family housing owners, corporations, educational institutions such as community colleges, schools, non-profit organizations, and historic preservation, renovation, remodeling, weatherization and maintenance firms and personnel, major banks, lenders and insurance companies, housing inspectors, real estate professionals and appraisers, homebuyers and low-income minority families.

(3) Increasing the base of support for this important outreach activity through the creation of partnerships between public and private entities, especially grassroots organizations, including faith-based and community-based non-profit organizations and community colleges.

(4) Implementing strategies to directly contact and speak to the general public, especially high-risk populations, or media strategies for using print, radio and/or television, as applicable, to increase public awareness of childhood lead poisoning and ways to prevent it.

(5) Disseminating existing tools and, as needed, new tools to inform parents and caregivers about lead-related hazards and enabling them to take prompt corrective action, especially enrolling their housing in lead hazard treatment programs.

(B) Eligible Applicants

(1) States, Tribes, and units of general local government are eligible. Partnerships are encouraged, although the application must be made by a single entity. Non-profit organizations, such as groups of parents of lead poisoned children, and grassroots organizations, including faith-based and community-based non-profit organizations, and colleges and universities, can be sub-grantees or sub-contractors.

(2) As an applicant, you must meet all of the threshold requirements of the General Section of this SuperNOFA (Section V(B)) as well as any specific threshold requirements for applicants under the Lead Outreach Grant Program. Applications will not be rated or ranked if they do not meet the threshold requirements of the General Section of this SuperNOFA.

(3) All awardees are expected to commence activity immediately upon completion of budget and work plan negotiations, and execution of the grant agreement.

(C) Eligible Activities

Eligible activities to be funded under this program include, but are not limited to, developing and conducting education and outreach campaigns in high-risk communities to:

—Increase lead awareness.

—Encourage owners and low-income occupants to enroll their housing units in programs conducting lead hazard treatment activities.

—Encourage owners and low-income occupants to identify potential lead-based paint hazards and report them to property owners and managers, and public health and/or housing officials as appropriate.

HUD is interested in promoting approaches that are cost-effective and efficient and that result in the reduction of lead poisoning for the maximum number of children, and, in particular, low-income children. Section II of the General Section of this SuperNOFA presents HUD's FY 2003 Policy Priorities.

Outreach can take various forms, depending on the intended audience(s). Activities may include publicizing and/or conducting events, developing and distributing publications in, for example, stores, schools, churches, community centers, or other neighborhood locations, making presentations, or forging partnerships to cost-effectively disseminate information to populations identified as being at-risk. Regardless of the form of outreach you choose to implement, all eligible activities must identify at-risk populations (or areas), propose an outreach program to meet those populations' information needs, and evaluate the program's effectiveness.

(1) Eligible activities may include:

(a) Establishing partnerships with non-profit organizations and associations, such as grassroots organizations, including faith-based, parent, and community-based non-profit organizations, or corporations, retailers, construction organizations, and unions or for the purpose of coordinating or conducting joint activities;

(b) Preparing publications, graphics, public service announcements, posters and entries for newspapers and magazines with local and/or regional distribution. These activities could include training local residents and businesses on identifying potential lead-based paint hazards, and lead-safe maintenance and renovation practices, etc.;

(c) Making materials available in alternative formats for persons with disabilities (e.g., Braille, audio, large type), and in languages other than English that are common in the community, whenever possible. Applicants are encouraged to utilize minority media in an effort to achieve diversity in outreach and educational efforts. Applications that include development and distribution of media products in languages other than English must include a discussion of the applicant's (or subcontractor's) expertise in those languages and in meeting the informational needs of non-English-speaking, underserved populations.

(d) Preparing quarterly progress reports and an overall final grant report, detailing activities (e.g., the number of low-income housing units enrolled in lead hazard treatment programs as a result of activities performed under this grant, number and type of materials produced, activities conducted, evaluation of the various outreach and educational methods used, findings, and recommended future actions at the conclusion of grant activities).

(2) Support Elements.

(a) Your administrative costs. There is a 10 percent maximum for administrative costs. Specific information about administrative costs is included in Appendix D of this program section of this NOFA.

(b) Program planning and management costs of sub-grantees and other sub-recipients.

(D) Ineligible Activities

(1) Purchase of real property.

(2) Purchase or lease of equipment having a per-unit cost in excess of $5,000, unless prior written approval is obtained from HUD.

(3) Hazard abatement, hazard reduction, rehabilitation, remodeling, repair, or other construction work.

IV. Requirements and Procedures Applicable to the Lead Outreach Grant Program

In addition to program requirements listed in the General Section of this SuperNOFA, you, the applicant, must comply with the following requirements:

(A) Budgeting

(1) Matching Contribution. You are not required to provide a matching contribution in the Lead Outreach Program.

(2) Administrative Costs. There is a 10 percent maximum for administrative costs. Additional information about allowable administrative costs is provided in Appendix D of this program section of this NOFA.

(B) Period of Performance. The period of performance cannot exceed 24 months from the date of the award, except that HUD reserves the right to approve no cost time extensions for a total period not to exceed 12 months.

(C) Environmental Review. In accordance with 24 CFR 50.19(b)(2) and (b)(3) of the HUD regulations, activities assisted under this program are categorically excluded from the requirements of the National Environmental Policy Act of 1969 (42 U.S.C. 4321) and are not subject to environmental review under the related laws and authorities.

(D) Certifications and Assurances. You must include the certifications and assurances listed in the General Section of this SuperNOFA with your application. A Certification of Consistency with the Consolidated Plan is not required for this program Section of this SuperNOFA.

(E) Conducting Business in Accordance with HUD Core Values and Ethical Standards. If awarded assistance under the Lead Outreach NOFA, you will be required, prior to entering into a grant agreement with HUD, to submit a copy of your code of conduct and describe the methods you will use to ensure that all officers, employees, and agents of your organization are aware of your code of conduct. (See Section V(B)(3) of the General Section of this SuperNOFA for information about conducting business in accordance with HUD's core values and ethical standards.)

(F) Ensuring the Participation of Small Businesses, Small Disadvantaged Businesses, and Women-Owned Businesses. The Department of Housing and Urban Development (HUD) is committed to ensuring that small businesses, small disadvantaged businesses and women-owned businesses participate fully in HUD's direct contracting and in contracting opportunities generated by HUD grant funds. Too often, these businesses still experience difficulty accessing information and successfully bidding on Federal contracts. HUD Regulations at 24 CFR 85.36(e) require recipients of assistance (grantees and sub-grantees) to take all necessary affirmative steps in contracting for purchase of goods or services to assure that minority firms, women's business enterprises, and labor surplus area firms are used when possible. Affirmative steps shall include:

(1) Placing qualified small and minority businesses and women's business enterprises on solicitation lists.

(2) Assuring that small and minority business, and women's business enterprises are solicited whenever they are potential sources.

(3) Dividing total requirements, when economically feasible, into smaller tasks or quantities to permit maximum participation by small and minority business, and women's business enterprises.

(4) Establishing delivery schedules, where the requirement permits, which encourage participation by small and minority business, and women's business enterprises.

(5) Using the services and assistance of the Small Business Administration, and the Minority Business Development Agency of the Department of Commerce.

(G) Participation in HUD-Sponsored Program Evaluation. As a condition of the receipt of financial assistance under this NOFA, you will be required to cooperate with all HUD staff or contractors performing HUD-funded research and evaluation studies pertaining to the subject of the grant.

(H) HUD Reform Act of 1989. See the General Section of this SuperNOFA for information regarding the applicability of the HUD Reform Act.

V. Application Selection Process

(A) Rating and Ranking. Please see Section VI(B) of the General Section of this SuperNOFA. Only those applications that meet the threshold requirements will be rated and ranked. HUD intends to award the highest ranked applications receiving a minimum score of 75 within the limits of funding.

(B) Factors for Award Used to Evaluate and Rate Applications. The factors for rating and ranking applicants, and maximum points for each factor, are stated below. The maximum number of points to be awarded is 102, including the potential for two bonus points, as described in the General Section of this SuperNOFA.

Rating Factor 1: Capacity of the Applicant and Relevant Organizational Experience (20 Points)

This factor addresses your organizational capacity necessary to successfully implement your proposed activities in a timely manner. The rating of you or your staff includes any grassroots organizations, including faith-based and other community-based non-profit organizations, sub-contractors, consultants, sub-recipients, and members of consortia that are firmly committed to your project. For all of the descriptions of personnel and organizational qualifications and experience in this factor, more points will be given for more recent relevant experience of high quality with this kind of work, as documented below. Applicants who are funding or sub-contracting with grassroots organizations, including faith-based, and other community-based non-profit organizations, in conducting their work programs should include the qualifications and experience of these organizations in responding to this rating factor. In rating this factor HUD will consider:

(a) Your recent, relevant and successful demonstrated experience in undertaking eligible program activities. You must describe the knowledge and experience of the proposed overall project director and day-to-day project manager in planning and managing large and complex interdisciplinary outreach programs, especially those involving housing, public health, or environmental programs. In your narrative response for this factor, you should include information on your project staff, their experience, percentage commitment to the project, and position titles. You must provide resumes (or position descriptions and copies of job announcements including salary range, for vacant positions) of up to three pages each for the project director, project manager, and up to three key personnel, and a clearly delineated organizational chart for the Lead Outreach project in Appendix 1 of your application. Indicate the name of the position of key personnel, the percentage of time that proposed staff will devote to your project and any salary costs to be paid by funds from this program. Include descriptions of the experience and qualifications of subcontractors and consultants. You may find it useful to include a table indicating the name, position and percentage contribution of staff members, specifying organizational affiliation. HUD reserves the right to terminate grant awards made to applicants that fail to timely hire (within 90 days of award) staff to fill key positions identified in the applicant's proposal as vacant.

(b) Your qualifications to carry out the proposed activities as evidenced by experience, training, and/or relevant publications of project staff, and whether you have sufficient personnel, or will be able to quickly retain qualified experts or professionals to begin your proposed project immediately, and to perform your proposed activities in a timely and effective fashion. Describe how principal components of your organization will participate in, or support, your project. You should thoroughly describe capacity, as demonstrated by experience in initiating and implementing and evaluating related health education, outreach and recruitment projects.

(c) Your past performance in previous projects with an emphasis on health education, outreach and recruitment. Provide details about the nature of the project, the funding agency, and your performance, relative to performance measures or the achievement of desired health outcomes. If a subgrantee or subcontractor is an existing lead outreach grantee, provide a description of the progress and outcomes achieved in that grant.

HUD's evaluation process will consider an applicant's past performance in effectively organizing and managing their grant operations, in meeting performance and work plan benchmarks and goals, and in managing funds, including their ability to account for funds appropriately, timely use of funds received either from HUD or other Federal, State, Tribal or local programs, and meeting performance milestones. HUD may use other information relating to these items from sources at hand, public sources such as newspapers, Inspector General or Government Accounting Office Reports or Findings, hotline complaints, or other sources of information that have been proven to have merit.

Rating Factor 2: Need/Extent of the Problem (15 Points)

This factor addresses the extent to which there is a need for your proposed project activities to address documented problems, target area(s) and target populations. Applications that demonstrate a greater need for lead outreach beyond existing levels as a mechanism for increasing enrollment in lead hazard treatment programs, or more thoroughly document this need will earn higher numbers of points.

(a) Your application should document a critical level of need for your proposed outreach activities in the area(s) where activities will be carried out. You should pay specific attention to documenting the need for outreach to increase enrollment of low-income housing units in lead hazard treatment programs as it applies to your target area(s) and target populations, rather than a larger geographic area or general population. Examples of information that might be used to demonstrate need, include:

(1) Economic or sociological information relevant to your target area(s). If this information is applied locally, the neighborhoods or type of neighborhoods to be targeted should be characterized with regard to age of housing and populations that the outreach activities are attempting to reach.

(2) Data documenting targeted populations that are traditionally underserved or have special needs. For a maximum score in this Rating Factor, data provided should specifically represent the target area. If the data presented in your response does not specifically represent your target area, you should discuss why the target areas are being proposed. If your application addresses needs that are in the Consolidated Plan or Analysis of Impediments (AI) to Fair Housing Choice (see paragraph V.C of the General Section of this SuperNOFA), court orders or consent decrees, settlements, conciliation agreements, or voluntary compliance agreements, you will receive more points than applicants that do not relate their project to an identified need.

(3) Information from the local (or State or Tribe, if applicable) health department, if available, on rates of elevated blood lead levels among children residing in your target area(s).

(4) Readily available information on the presence of existing outreach and educational resources in your target area(s).

Rating Factor 3: Soundness of Approach (40 Points)

This factor addresses the quality and cost-effectiveness of your proposed work plan. You should present information on your proposed approach for increasing the public's awareness and knowledge about lead poisoning and lead-based paint hazards, and for encouraging owners and low-income family occupants to identify potential lead-based paint hazards and enroll their housing units in lead hazard treatment programs Applications containing approaches with clear activities and sub-activities that will result in increasing the enrollment in lead hazard treatment programs; that include a range of approaches that address the needs of populations with limited English proficiency, persons with disabilities, persons with low literacy, etc.; that demonstrate a logical progression of implementation steps; that include more appropriate mechanisms for reaching audiences, and that provide better documentation of the methodology of the proposed approach, will receive higher numbers of points. Applicants will receive higher rating points for approaches that include higher percentages of funding or sub-contracting for substantive work by grassroots organizations, including faith-based, and other community-based non-profit organizations.

You should describe how proposed activities would help HUD achieve its goals for this program area. You should demonstrate your knowledge of the outreach methodology relevant to your approach. You should develop a work plan that includes specific, measurable and time-phased objectives for each major program activity, accompanied by a complementary schedule indicating proposed date(s) of completion.

There must be a direct relationship between the proposed activities, community needs, the purpose of the project, and the number of low-income housing units enrolled in lead hazard treatment programs. Your response to this factor should include the following elements:

(a) Approach for Developing the Project. (30 points) Describe your overall approach for your proposed project. The description must include a discussion of specific planned project activities:

(1) Provide the estimated total number of low-income housing units that you expect to be enrolled in lead hazard treatment programs. Describe in detail how you will identify and track participants receiving outreach under your project, especially participants in high-risk groups and communities, vulnerable populations and persons traditionally underserved. (6 points)

(2) Describe your process for developing outreach materials, or using existing materials. (3 points)

(3) Describe your management processes to be used to ensure the cost-effectiveness of expenditures of funds. (2 points)

(4) Describe any measurement tools you would employ to evaluate the effectiveness of your outreach and educational activities for occupants of housing units enrolled in lead hazard treatment programs before and after treatment. (3 points)

(5) Describe the methods of community education you would use including community awareness, education, training, and outreach programs in support of your work plan and objectives that are culturally sensitive, targeted, and linguistically appropriate. (3 points)

(6) Proposed involvement of grassroots organizations, including faith-based and other community-based non-profit organizations in the proposed activities. HUD strongly encourages you to substantively use grassroots organizations, including faith-based, and other community-based non-profit organizations. (10 points)

(7) Indicate if, and describe how, you will address any of HUD's Departmental policy priorities. (See Section II of the General Section of this NOFA for a fuller explanation of HUD's policy priorities.) Policy priorities that are potentially applicable to this NOFA include: (1) Improving the Quality of Public and Assisted Housing and Providing More Choices for its Residents; (2) Increasing the Participation of Faith-based and other Community-based Organizations in HUD Program Implementation; and (3) Colonias. You will receive one point for each of the applicable policy priorities that are adequately addressed in your application, up to a maximum of three points. If your application addresses all three policy priorities, you would get at least three points. (3 points)

(b) Approach for Implementing the Project. (10 points) Describe your project goals and objectives and the strategy you will use in executing the project. You should provide information on the general approach and overall plan employed.

(1) Baseline Plan for Project Management. (5 points) Include a management plan that:

(i) Lists the outreach project objectives, major tasks and activities. All specific activities necessary to complete the proposed project must be included in the task listing.

(ii) Incorporates appropriate performance goals with projected outputs and outcomes of the outreach program's activities.

(iii) Identifies major milestones and provides a schedule for the assignment, tracking and completion of major tasks and activities, and a timeframe for delivery, including reports and other proposed deliverables of the outreach activity.

(iv) Designates resources and identifies responsible entities for performing work.

(2) Budget Justification. (5 points) Your proposed budget will be evaluated for the extent to which it is reasonable, clearly justified, and consistent with the outreach project management plan and intended use of program funds. HUD is not required to approve or fund all proposed activities. Your budget should be submitted in the format recommended in Appendix B of the General Section of this NOFA. An electronic spreadsheet and other budgetary forms are available on HUD's website at www.hud.gov. You must thoroughly document and justify all budget categories and costs (HUD Form 424-C) and all major tasks, for yourself, sub-recipients (especially grassroots organizations, including faith-based, and other community-based non-profit organizations), partners, major subcontractors, joint venture participants, or others contributing resources to the project, especially those proposed to receive greater than 10 percent of the Federal budget request. Describe clearly and in detail your budgeted costs for each required program element (major task) included in your overall plan.

Rating Factor 4: Leveraging Resources (10 Points)

This factor addresses your ability to secure other community and/or private-sector resources (such as financing, supplies or services) that can be combined with HUD's resources to achieve project purposes. These community resources may be contributions from organizations such as the applicant, subrecipients, partners, or other organizations not directly involved in the project.

(a) In evaluating this factor, HUD will consider the extent to which you have developed partnerships to secure additional resources to increase the effectiveness of your proposed project. Describe how other organizations will participate in or support your project. Resources may include funding or in-kind contributions (such as labor, fringe benefits, services, supplies, or equipment) budgeted for your proposed project. Resources may be provided by State, Tribal and local governmental entities, public or private organizations, or other partners.

(b) Each source of contributions (financial or in-kind) must be supported by a letter of commitment from the contributing entity, whether the applicant, a partner organization, or a public or private source. The letter must describe the contributed resources that will be used in your project and the dollar value of that contribution. Staff in-kind contributions should be given a market-based monetary value. If you fail to provide letters of commitment with specific details including the amount of the actual contributions, you will not get points for this factor. Each letter of commitment, memorandum of understanding, or agreement to participate shall include the organization's name and the proposed level of commitment and responsibilities as they relate to the proposed project. The commitment must be signed by an official legally able to make commitments on behalf of the organization. Letters of support (letters that indicate support but do not specify a monetary commitment to the project) will not be considered in the scoring of this Rating Factor. Include information to address the following elements:

(1) The extent to which you have coordinated your activities with other known organizations that are not directly participating in your proposed work activities, but with which you share common goals and objectives.

(2) The extent to which your project exhibits the potential to be financially self-sustaining by decreasing dependence on Federal funding and relying more on State, Tribal, local and private funding to continue educational and outreach activities after the grant period is completed.

Rating Factor 5: Achieving Results and Program Evaluation (15 points)

This factor emphasizes HUD's commitment to ensuring that applicants keep promises made in their application and assessing their performance to ensure performance goals are met. Achieving results means you, the applicant, have clearly identified the benefits, or outcomes of your program. Outcomes are ultimate goals; for this lead outreach grant program, the major outcome is increasing the number of low-income housing units enrolled in lead hazard treatment programs as a result of the grant activity. Benchmarks or outputs are interim activities or products that lead to the ultimate achievement of your goals.

Program evaluation requires that you, the applicant, identify program outcomes, interim products or benchmarks, and performance indicators that will allow you to measure your performance. Performance indicators should be objectively quantifiable and measure actual achievements against anticipated achievements. Your Evaluation Plan should identify what you are going to measure, how you are going to measure it, and the steps you have in place to make adjustments to your work plan if performance targets are not met within established timeframes.

This new rating factor reflects HUD's goal to embrace high standards of ethics, management and accountability. In evaluating this factor, HUD will consider how you have described outcome measures and benefits of your program.

In your response to this Rating Factor you are to discuss the performance goals for your project and identify specific outcome measures. You are also to describe how the outcome information will be obtained, documented, and reported. You must complete and return the Logic Model Form included in Appendix A of the General Section of this NOFA showing your proposed project long-term, mid-term, short-term and final results, and how they support HUD's departmental goals and objectives. Information about developing a Logic Model is available at www.hud.gov.

In evaluating this factor, HUD will consider how you have:

(1) Described the degree to which you have identified and characterized the information needs of your intended audience or targeted populations.

(2) Refined your outreach message.

(3) Specified how you will deliver your message to the audience.

(4) Described anticipated results of specific plans and objectives and listed projected products or outputs. Outputs are actions, attendance numbers, materials, publications, inquiries or other products of the process.

(5) Demonstrated ability to measure outcomes. The major outcome is the increasing the number of low-income housing units enrolled in lead hazard treatment programs that result from the grant activity.

(6) Developed a proposed organization with the capacity to begin work immediately and incorporating adequate management planning and financial controls.

(7) Demonstrated how you have identified potential obstacles in meeting your objectives, and how you will respond to these obstacles.

(8) Described efforts to coordinate and cooperate with other organizations that will result in a reduction in lead risks to community residents.

(9) Described how your program will be held accountable for meeting program goals, objectives, and the actions undertaken in implementing the grant program. You should provide a description of the mechanism to assess progress and track performance in meeting the goals and objectives outlined in the work plan.

Bonus Points for Federally Designated Zones and Communities. (2 points)

This Section of the NOFA provides for the award of two bonus points for eligible activities/projects that the applicant proposes to be located in federally designated Empowerment Zones (EZs), Enterprise Communities (ECs), Urban Enhanced Enterprise Communities (EECs), Strategic Planning Communities, or Renewal Communities (RCs), serve the residents of these areas, and are certified to be consistent with the area's strategic plan. For ease of reference in this NOFA, all these federally designated areas are collectively referred to as “RC/EZ/ECs” and residents of any of these federally designated areas as “RC/EZ/EC residents.” This NOFA contains a certification that must be completed for the applicant to be considered for RC/EZ/EC bonus points. A list of RCs, EZs, ECs, EECs, and Strategic Planning Communities is available from HUD's Web site at http://www.hud.gov. See also Section VI(C) of the General Section of this SuperNOFA.

(C) Applicant Debriefing. See Section XI(A)(4) of the General Section of this SuperNOFA for information about applicant debriefing, and Section I(I) of this Section for contact information.

VI. Application Submission Requirements

(A) Applicant Information

(1) Application Format. The application narrative response is limited to a maximum of 25 pages (excluding appendices and worksheets). Your response must be typewritten on one side only on 8½″ × 11″ paper using a 12-point (minimum) font with not less than ¾″ margins on all sides. Appendices should be referenced and discussed in the narrative response. Materials provided in the appendices should directly apply to the rating factor narrative.

(2) Application Checklist. Your application must contain all of the required information as noted in this Section of this NOFA and the General Section of this SuperNOFA. These items include the standard forms, certifications, and assurances listed in the General Section of this SuperNOFA that are applicable to this funding (collectively, referred to as the “standard forms”). The standard forms can be found in Appendix B of the General Section of this SuperNOFA. The application items are as follows:

(a) Transmittal letter (one-page only) that summarizes your proposed project, provides the dollar amount requested, and identifies you and your partners in the application. Provide the name, mailing address, and telephone number of the principal contact person. If you are a consortium of associates, sub-recipients, partners, major subcontractors, joint venture participants, or others contributing resources to the project, similar information shall also be provided for each of these entities and you must specify the primary entity.

(b) Application Abstract Summary. An abstract describing the goals and objectives of your proposed program (two-page maximum) must be included in the proposal.

(c) Checklist and Submission Table of Contents.

(d) All application forms found in the General Section of this SuperNOFA.

(e) A narrative statement addressing the rating factors for award. The narrative statement must be numbered in accordance with each factor for award (Rating Factors 1 through 5). The response to the rating factors must not exceed a total of 25 pages. Any pages in excess of this limit will not be read. (The 25-page limit does not apply to the two-page abstract.) Key points to consider in preparing your application are provided in the General Section of this NOFA.

(f) Any attachments, appendices, references, or other relevant information that directly support the narrative may accompany it, but must not exceed 20 pages for your entire application. Any pages in excess of this limit will not be read. Specific criteria for the content of the appendices for the Lead Outreach Grant Program application are listed in the Checklist and Submission Table of Contents.

(g) Within Appendix 1, the resumes and position descriptions of your project director, project manager and up to three additional key personnel (in accordance with Rating Factor 1). These should not exceed three pages each. This information will not be counted towards the page limit.

(h) Within Appendix 3, a detailed budget with supporting cost justification for all budget categories of your funding request, in accordance with Rating Factor 3. This information will not be counted towards the page limits. A detailed budget must also be provided for any subcontractors, subgrantees, or subrecipients receiving greater than 10 percent of the Federal budget request.

(i) Any information or materials that are not listed above will not be reviewed.

VII. Corrections to Deficient Applications

See Section VIII of the General Section of this SuperNOFA for information about corrections to deficient applications.

Appendix A

Lead: Exposure to lead, especially from deteriorating lead-based paint, remains one of the most important and best studied of the household environmental hazards to children. Although blood lead levels have fallen nationally, a large reservoir of lead remains in housing. The national survey published by the Centers for Disease Control and Prevention, conducted from 1991-94, showed that nearly one million U.S. preschoolers still have elevated blood lead levels. Overall, the prevalence rate among all children under six years of age was 4.4 percent. Among low-income children living in older housing where lead-based paint is most prevalent, the rate climbed to 16 percent; and for African-American children living in such housing, it reached 21 percent.

HUD estimates that 38 million dwellings have some lead-based paint, and that 26 million have significant lead-based paint hazards. Of those, about 5.7 million have young children and of those, about 1.6 million have household incomes under $30,000 per year. Costs for lead hazard control can range anywhere from $500 to $15,000 per unit, depending on the extent of the hazard and the type of hazard control measures. Corrective measures include paint stabilization, enclosure and removal of certain building components coated with lead paint, and cleanup and clearance testing, which ensures the unit is safe for young children.

Educating the public and individuals living in “at-risk communities” about lead poisoning, symptoms, treatment and lead hazard prevention and control, and encouraging occupants to identify potential lead-based paint hazards, report them to property owners and managers, and public health and/or housing officials as appropriate, and enroll their housing units in lead hazard treatment programs, are key components in an overall plan to reduce the prevalence rate of lead poisoned children.

Appendix B

References

To secure any of the documents listed below, call the telephone number provided. Several of these references are provided on HUD's CD, “Residential Lead Desktop Reference, 3rd Edition.” This CD can be obtained at no charge by calling the National Lead Information Clearinghouse's toll-free number, 1-800-424-LEAD. If you are a hearing- or speech-impaired person, you may reach the telephone numbers via TTY by calling the toll-free Federal Information Relay Service at 1-800-877-8339. Several of these references can be downloaded from the Internet without charge from the HUD Office of Healthy Homes and Lead Hazard Control's Internet site, http://www.hud.gov/offices/lead.

Regulations

1. Requirements for Notification, Evaluation and Reduction of Lead-Based Paint Hazards in Federally Owned Residential Property and Housing Receiving Federal Assistance, 24 CFR Part 35 (HUD, Lead Safe Housing Rule). A free copy of this rule and guidance can be obtained by calling 1-800-424-LEAD (this is a toll-free number). If you are a hearing- or speech-impaired person, you may reach this telephone number via TTY by calling the toll-free Federal Information Relay Service at 1-800-877-8339.) or through the HUD Web site at http://www.hud.gov/offices/lead.

2. Lead; Requirements for Disclosure of Information Concerning Lead-Based Paint in Housing, 24 CFR Part 35, Subpart A (HUD, Lead-Based Paint Disclosure Rule). A free copy of the rule, guidance, pamphlet and disclosure formats can be obtained by calling 1-800-424-LEAD (this is a toll-free number) or through the HUD Web site at http://www.hud.gov/offices/lead.

3. Lead; Requirements for Lead-Based Paint Activities in Target Housing and Child-Occupied Facilities; Final Rule: 40 CFR Part 745, (EPA Lead Hazard Standards, Work Practice Standards, EPA and State Certification and Accreditation programs for those engaged in lead-based paint activities). A free copy of the rule and guidance can be obtained by calling the Toxic Substances Control Act Hotline at 1-202-554-1404 (this is not a toll-free number) or through the EPA Web site at http://www.epa.gov/lead. If you are a hearing- or speech-impaired person, you may reach this telephone number via TTY by calling the toll-free Federal Information Relay Service at 1-800-877-8339.

4. Lead; Requirements for Hazard Education Before Renovation of Target Housing, 40 CFR Part 745 (EPA, Pre-Renovation Education Rule). A free copy of the rule, guidance and pamphlet can be obtained by calling 1-800-424-LEAD (this is a toll-free number) or through the EPA Web site at http://www.epa.gov/lead.

Guidelines

1. Guidelines for the Evaluation and Control of Lead-Based Paint Hazards in Housing; HUD, June 1995, and amended September, 1997. A copy of the guidelines can be purchased by calling 1-800-245-2691 (this is a toll-free number) or downloaded without charge from the HUD Web site at http://www.hud.gov/offices/lead. If you are a hearing- or speech-impaired person, you may reach this telephone number via TTY by calling the toll-free Federal Information Relay Service at 1-800-877-8339.

2. Preventing Lead Poisoning in Young Children; Centers for Disease Control, October 1991. A free copy of this document can be obtained by calling 1-888-232-6789 (this is a toll-free number) or through the HUD Web site at http://www.hud.gov/offices/lead. If you are a hearing- or speech-impaired person, you may reach this telephone number via TTY by calling the toll-free Federal Information Relay Service at 1-800-877-8339.

3. Screening Young Children for Lead Poisoning: Guidance for State and Local Public Health Officials, November 1997. Centers for Disease Control and Prevention (CDC). A free copy of this document can be obtained by calling 1-888-232-6789 (this is a toll-free number) or through the HUD Web site at http://www.hud.gov/offices/lead.

Reports

1. Putting the Pieces Together: Controlling Lead Hazards in the Nation's Housing, (Summary and Full Report); HUD, July 1995. A copy of this summary and report can be purchased by calling 1-800-245-2691 (this is a toll-free number) or downloaded without charge from the HUD Web site at http://www.hud.gov/offices/lead.

2. President's Task Force on Environmental Health Risks and Safety Risks to Children. Eliminating Childhood Lead Poisoning: A Federal Strategy Targeting Lead Paint Hazards. Washington, DC, 2000. These documents can be downloaded without charge from the HUD Web site at http://www.hud.gov/offices/lead.

Appendix C

Existing Outreach Materials

To secure any of the documents listed below, call the telephone number provided. All of these documents are provided on HUD's Web site and the CD, “Residential Lead Desktop Reference, 3rd Edition.” This CD can be obtained by calling the National Lead Information Clearinghouse's toll-free number, 1-800-424-LEAD.

1. HUD/EPA Informational Pamphlet: “Protect Your Family from Lead in Your Home” (available in English and Spanish versions). A free copy of this document can be obtained by calling 1-800-424-LEAD (this is a toll-free number) or through the HUD Web site at http://www.hud.gov/offices/lead/outreach/communityoutreach.cfm.

2. “Reducing Lead Hazards When Remodeling Your Home” (available in English and Spanish versions). A free copy of this document can be obtained by calling 1-800-424-LEAD (this is a toll-free number) or through the HUD Web site at http://www.hud.gov/offices/lead/outreach/communityoutreach.cfm.

3. “Lead Paint Safety Field Guide” (available in English and Spanish versions). A free copy of this guide can be obtained by calling 1-800-424-LEAD (this is a toll-free number) or through the HUD Web site at http://www.hud.gov/offices/lead/outreach/communityoutreach.cfm.

4. “A Parent's Reference Guide” EPA Document Number 747-B-98-002. A free copy of this guide can be obtained by calling 1-800-424-LEAD (this is a toll-free number) or through the HUD Web site at http://www.hud.gov/offices/lead/outreach/communityoutreach.cfm.

Appendix D

This appendix to this NOFA contains lists the standard forms, certifications and assurances used by the programs that are part of this NOFA. Listed forms are located in Appendix B of the General Section of the SuperNOFA.

The following forms are to be used for the Programs listed in this NOFA

Form HUD-424

Form HUD-424 B

Form HUD-424 C

Form HUD-424 CBW

Form HUD Logic Model Form

Application Checklist and Submission Table of Contents

Ethnicity and Race Data

Form SF-LLL (Disclosure of Lobbying Activities)

HUD has consolidated many of its application forms into a single HUD-424 form. The new HUD-424 consolidates budget-reporting forms for both construction and non-construction projects into a single form and eliminates having to have the following separate certifications: Certification for a Drug-Free Workplace (HUD-50070), the Certification of Payments to Influence Federal Transactions (HUD-50071), and the Certification Regarding Debarment and Suspension (HUD-2992).

New form HUD-424 replaces SF-424 and HUD-424 M

HUD-424 B replaces SF-424 B and D and HUD-50070, 50071 and 2992.

HUD-424 C and CB replaces SF-424 A and C

The HUD-424 CBW is added as a common detailed Budget Worksheet and replaces various budget worksheets used throughout the Department.

Administrative costs that may be applicable to the programs included in this NOFA are discussed below:

Administrative Costs

I. Purpose

The intent of this HUD grant program is to allow the Grantee to be reimbursed for the reasonable direct and indirect costs, subject to a top limit, for overall management of the grant. In most instances the grantee, whether a State, Tribal or a local government, principally serves as a conduit to pass funding to sub-grantees, which are to be responsible for the conducting lead-hazard reduction work. Congress set a top limit of ten percent of the total grant sum for the grantee to perform the function of overall management of the grant program, including passing on funding to sub-grantees. The cost of that function, for the purpose of this grant, is defined as the “administrative cost” of the grant, and is limited to ten percent of the total grant amount. The balance of ninety percent or more of the total grant sum is reserved sub-grantees or other direct-performers of lead-hazard identification and reduction work. Lead hazard identification and reduction includes, but is not necessarily limited to outreach, training, enrollment, lead paint inspection/risk assessments, interim controls, hazard abatement, clearance documentation, blood lead testing, and public education.

II. Administrative Costs: What They Are Not

For the purposes of this HUD grant program for States, Tribes and local governments to provide support for outreach to increase the enrollment of low-income, private target housing in lead hazard treatment programs, the term “administrative costs” should not be confused with the terms “general and administrative cost,” “indirect costs,” “overhead,” and “burden rate.” These are accounting terms usually represented by a government-accepted standard percentage rate. The percentage rate allocates a fair share of an organization's costs that cannot be attributed to a particular project or department (such as the chief executive's salary or the costs of the organization's headquarters building) to all projects and operating departments (such as the Fire Department, the Police Department, the Community Development Department, the Health Department or this program). Such allocated costs are added to those projects' or departments' direct costs to determine their total costs to the organization.

III. Administrative Costs: What They Are

For the purposes of this HUD grant program, “Administrative Costs” are the grantee's allowable direct costs for the overall management of the grant program plus the allocable indirect costs. The allowable limit of such costs that can be reimbursed under this program is ten (10) percent of the total grant sum. Should the grantee's actual costs for overall management of the grant program exceed ten percent of the total grant sum, those excess costs shall be paid for by the grantee. However, excess costs paid for by the grantee may be shown as part of the requirement for cost-sharing funds to support the grant.

IV. Administrative Costs: Definition

A. General

Administrative costs are the allowable, reasonable, and allocable direct and indirect costs related to the overall management of the HUD grant for lead outreach activities. Those costs shall be segregated in a separate cost center within the grantee's accounting system, and they are eligible costs for reimbursement as part of the grant, subject to the ten percent limit. Such administrative costs do not include any of the staff and overhead costs directly arising from specific sub-grantee program activities eligible under Section III (C) of this NOFA, because those costs are eligible for reimbursement under a separate cost center as a direct part of project activities.

The grantee may elect to serve solely as a conduit to sub-grantees, who will in turn perform the direct program activities eligible under Section III (C) of this NOFA, or the grantee may elect to perform all or a part of the direct program activities in other parts of its own organization, which shall have their own segregated, cost centers for those direct program activities. In either case, not more than 10 percent of the total HUD grant sum may be devoted to administrative costs, and not less than 90% of the total grant sum shall be devoted to direct program activities. The grantee shall take care not to mix or attribute administrative costs to the direct project cost centers.

B. Specific

Reasonable costs for the grantee's overall grant management, coordination, monitoring, and evaluation are eligible administrative costs. Subject to the ten percent limit, such costs include, but are not limited to, necessary expenditures for the following goods, activities and services:

(1) Salaries, wages, and related costs of the grantee's staff, the staff of affiliated public agencies, or other staff engaged in grantee's overall grant management activities. In charging costs to this category the recipient may either include the entire salary, wages, and related costs allocable to the program for each person whose primary responsibilities (more than 65% of their time) with regard to the grant program involve direct overall grant management assignments, or the pro rata share of the salary, wages, and related costs of each person whose job includes any overall grant management assignments. The grantee may use only one of these two methods during this program. Overall grant management includes the following types of activities:

(a) Preparing grantee program budgets and schedules, and amendments thereto;

(b) Developing systems for the selection and award of funding to sub-grantees and other sub-recipients;

(c) Developing suitable agreements for use with sub-grantees and other sub-recipients to carry out grant activities;

(d) Developing systems for assuring compliance with program requirements;

(e) Monitoring sub-grantee and sub-recipient activities for progress and compliance with program requirements;

(f) Preparing presentations, reports, and other documents related to the program for submission to HUD;

(g) Evaluating program results against stated objectives;

(h) Providing local officials and citizens with information about the overall grant program; however, a more general education program, helping the public understand the nature of lead hazards, lead hazard reduction, blood-lead screening, and the health consequences of lead poisoning is a direct project support activity);

(i) Coordinating the resolution of overall grant audit and monitoring findings; and

(j) Managing or supervising persons whose responsibilities with regard to the program include such assignments as those described in paragraphs (a) through (i).

(2) Travel costs incurred for official business in carrying out the overall grant management;

(3) Administrative services performed under third-party contracts or agreements, for services directly allocable to grant management such as: legal services, accounting services, and audit services;

(4) Other costs for goods and services required for and directly related to the overall management of the grant program; and including such goods and services as telephone, postage, rental of equipment, renter's insurance for the program management space, utilities, office supplies, and rental and maintenance (but not purchase) of office space for the program.

(5) The fair and allocable share of grantee's general costs that are not directly attributable to specific projects or operating departments such as salaries, office expenses and other related costs for local officials (e.g., mayor and city council members, etc.), and expenses for a city's legal or accounting department which are not charged back to particular projects or other operating departments. If a grantee has an established burden rate, it should be used; if not, the grantee shall be assigned a negotiated provisional burden rate, subject to final audit.

Funding Availability for the Operation Lead Elimination Action Program

Program Overview

Purpose of the Program. The purpose of the Operation Lead Elimination Action Program (LEAP) is to leverage private sector resources to eliminate lead poisoning as a major public health threat to young children.

Available Funds. Approximately $9.935 million in Fiscal Year (FY) 2003 funds.

Eligible Applicants. To be eligible to apply for funding under this program, the applicant must be a tax-exempt non-profit or for-profit entity or firm. States and units of general local government and their departments are not eligible. Colleges and universities are eligible as a non-profit entity.

Application Due Date. You, the applicant, must submit a completed application to HUD on or before the respective program's application due date. The application deadline is June 10, 2003.

Additional Information

I. Application and Application Submission Procedures.

Match. None required.

(1) Application Submission. See the General Section of this SuperNOFA for specific procedures concerning the form of application submission (e.g., mailed applications, express mail or overnight delivery). Be advised that there is no Application Kit for this year's Operation Lead Elimination Action Program (LEAP). All the information required to submit an application is contained in this NOFA.

(2) Addresses. You, the applicant, must submit a completed application to: Robert C. Weaver HUD Headquarters Building, Office of Healthy Homes and Lead Hazard Control, ATTN: Operation Lead Elimination Action Program, 451 Seventh Street, SW., Room P3206, Washington, DC 20410.

For Further Information and Technical Assistance. You may contact John Baker, Lead Hazard Control Grants Division, Office of Healthy Homes and Lead Hazard Control, at the address above; telephone (804) 771-2100, extension 3765 (this is not a toll-free number). If you are a hearing- or speech-impaired person, you may reach the above telephone numbers via TTY by calling the toll-free Federal Information Relay Service at 1-800-877-8339.

II. Authority, Funding Amounts, and Amount Of Funds Allocated

(A) Authority. HUD's authority for making funding available under this NOFA is Division K of the Consolidated Appropriations Resolution of 2003, Pub. L. 108-7, approved February 20, 2003.

(B) Funding Available. Approximately $10 million will be available for the FY 2003 Operation Lead Elimination Action Program (LEAP). Grants of 24 months duration will be awarded on a competitive basis following evaluation of all proposals according to the rating factors described in this NOFA. HUD anticipates that approximately 6-10 grants will be awarded.

(C) Allocation of Funds/Grant Awards. Through Operation LEAP, grantees will aggressively pursue additional private sector resources with the goal of securing the resources needed to eliminate lead-based paint hazards in housing. Resources generated by awardees must be used and/or distributed to assist national, state, and local entities actively committed to lead hazard control in residential structures and that possess the requisite skills, certifications, and capacity to utilize these resources to conduct lead hazard control/abatement activities in low-income, privately-owned rental or owner-occupied housing containing lead-based paint hazards. The allocation and distribution of generated resources by the grantee requires prior approval of the HUD Office of Healthy Homes and Lead Hazard Control.

III. Eligible Applicants and Activities

(A) Program Description. Operation LEAP grant funds will be used to support non-profit and for-profit entities with substantial fundraising and/or leveraging skills to use those skills to mobilize substantial private sector resources for addressing lead hazards in housing. HUD is particularly looking for innovative or creative local, regional or nationwide fund raising and/or leveraging and mobilization strategies that can yield large amounts of contributions in a two-year time frame and also increase awareness of lead hazards and abatement measures in the home. Grants will be awarded to those entities that are able to demonstrate the ability to generate substantial private sector resources that can be used toward lead abatement programs and efforts, based upon the responses provided in the Factors for Award described below. (Private sector resources do not include any funding or in-kind resources from the public sector.)

LEAP funds may also be used to eliminate lead-based paint hazards in low-income privately owned housing, which supplements the National strategy as defined by Title X of the Housing and Community Development Act of 1992 (42 U.S.C. 4851 et. seq.).

(B) Eligible Applicants. To be eligible to apply for funding under this program, the applicant must be a tax-exempt (501(c)), other non-profit or for-profit entity or firm. States and units of general local government and their departments are not eligible. Colleges and Universities are eligible as non-profit entities.

(C) Eligible Activities. Activities that you may conduct for the purposes of developing a national or regional (multi-state) strategy designed to leverage or mobilize resources from the private sector may include, but are not necessarily limited to:

(1) Recruiting and placing appropriate staff skilled in leveraging private sector resources;

(2) Identifying innovative approaches for mobilizing resources and coordinating activities among a number of diverse organizations in both the public and private sectors;

(3) Providing all necessary administrative and indirect support, including rent, equipment, materials, travel expenses and logistics, and subcontractors/consultants necessary to carry out grant activities;

(4) Conducting fund raising, outreach activities and other activities that will result in increased lead hazard control activities in low-income privately owned or owner occupied housing with lead-based paint hazards;

(5) Other activities that may be carried out include:

(a) Performing dust, paint or soil testing, hazard screens, inspections, and risk assessments of eligible housing constructed before 1978 to determine the presence of lead-based paint and/or lead hazards from paint, dust, or soil;

(b) Conducting lead hazard control, which may include: interim control of lead-based paint hazards in housing (which may include specialized cleaning techniques to address lead dust); and abatement of lead-based paint hazards, including soil and dust, by means of removal, enclosure, encapsulation, or replacement methods. Unless there are only a few surfaces coated with lead paint, complete abatement of all lead-based paint or lead-contaminated soil is not usually acceptable as a cost-effective strategy unless justification is provided and subsequently approved by HUD. Abatement of lead-contaminated soil should be limited to areas with bare soil in the immediate vicinity of the structure, i.e., drip line or foundation of the structure being treated, and children's play areas. All hazard control activities must comply with 24 CFR part 35, subpart R, the HUD Guidelines for the Evaluation and Control of Lead-Based Paint Hazards in Housing and all applicable Federal, State and local regulations; in the case of a conflict between any of the above, the more stringent shall apply;

(c) Carrying out temporary relocation of families and individuals during the period in which lead hazard control is conducted and until the time the affected unit receives clearance for re-occupancy;

(d) Performing blood lead testing and air sampling to protect the health of the hazard control workers, supervisors, and contractors; and

(e) Undertaking minimal housing rehabilitation activities that are specifically required to carry out effective hazard control, and without which the hazard control could not be completed and maintained. Operation LEAP grant funds may be used for lead hazard control work done in conjunction with other housing rehabilitation programs. HUD strongly encourages integration of this grant program with housing rehabilitation, weatherization, and other energy conservation activities.

(f) Conducting clearance dust-wipe testing and associated laboratory analysis.

(D) Strategies/Approaches. The applicant is encouraged to employ creativity and initiative in achieving the objectives of the program: leveraging private sector resources to increase local and regional lead hazard control measures through a variety of means. Some examples of possible strategies/approaches include the following:

(1) Enlisting the support and resource commitment of financial institutions, foundations, private industry and others to make residential housing lead-safe and eliminate lead poisoning as a public health threat to children;

(2) Soliciting the support of national building materials providers, building component manufacturers, and housing-related national retail outlets to donate money or materials to lead hazard control programs in housing and health departments, landlords and owner-occupants to eliminate lead-based paint hazards in privately owned low-income dwellings: For example, a window, wallboard, or paint manufacturer/retailer could donate or coordinate the donation and distribution of windows or paint to lead-based paint and/or rehabilitation projects throughout the country. This strategy could also include the distribution of discount coupons for purchases of paint or other materials from national supplies;

(3) Forming partnerships with banks or other mortgage or financial institutions willing to provide no or low-interest home improvement loans to finance lead hazard control activities and abatement measures among low-income recipients who would not otherwise be served. By participating, banks could fulfill a major element of their responsibilities under the Community Reinvestment Act;

(4) Creating a national clearinghouse for facilitating the coordination and distribution of donated building materials, such as windows, trim molding, or paint, etc. to local projects involved in lead hazard control programs;

(5) Identifying and facilitating the availability and use of relocation facilities for families who need to move out of their dwellings while lead hazard control work is being undertaken. For example, hotel chains, colleges, and other lead-safe sites could be contacted to make housing available for the relocation of families during lead hazard control;

(6) Working with landlords, tenant groups and others to form consortia or otherwise engage landlords and owner-occupants to enroll their eligible housing units in local lead hazard control or rehabilitation programs. The applicant should obtain commitments from landlords to provide matching resources for work to be done on their units. For example, the lead hazard control program could offer landlords grant funds for replacement windows if the landlords contribute the cost of additional repairs (such as basic system upgrades, or other rehabilitation work including painting and maintenance) that is associated with lead hazard control;

(7) Creating a nationwide “lead-safe unit” identification seal of approval program that would be used by landlords and others to market lead-safe units. Housing units that have lead-based paint hazards safely eliminated or controlled and have passed a lead clearance test, would receive a lead-safe unit seal;

(8) Promoting homebuilder, remodeler, or contractor associations to coordinate efforts to reduce lead hazards by contributing technical assistance, training, presentations and materials and/or labor to lead hazard control efforts;

(9) Encourage landscaping firms, nurseries, and landscape architects to contribute lead-safe soil, mulch, and other forms of vegetation cover and shrubbery designed to mitigate lead contamination of soil around the exterior/perimeter and play areas of affected housing units;

(10) Working with grassroots faith-based and other community-based organizations that are committed to improving the quality of life within the community;

(11) Providing training for significant numbers of trades people to implement lead-safe work practices, such as window replacement and weatherization work; and

(12) Expand dust testing and clearance testing, especially in high-risk communities.

(E) Support Elements

(1) Administrative costs. Up to 10 percent of the HUD grant funds may be used for administration. Such costs would include the costs associated with completing HUD reports, accounting and bookkeeping expenses, costs associated with obtaining audits, and other direct grant management expenses (see Appendix A of this NOFA for the definition of Administrative Costs applicable to this program).

(2) Outreach, Education, and Training Costs. Up to twenty percent of the leveraged funds may be used for training, lead hazard awareness and other public education, outreach and education initiatives.

(F) Ineligible Activities. You may not use grant funds for any of the following:

(1) Purchase of real property;

(2) Chelation or other medical treatment costs related to children with elevated blood lead levels;

(3) Lead hazard abatement activities in publicly owned housing, or project-based Section 8 housing; and

(4) Capital expenditures in excess of $5,000 per unit cost.

IV. Program Requirements

In addition to the requirements listed in this NOFA, the applicant must comply with the requirements described below:

(A) Period of Performance. The period of performance is 24 months. HUD reserves the right to approve no-cost time extensions for a period not to exceed 24 months.

(B) Statutory Requirements. To be eligible for funding under this NOFA, the applicant must meet all federal statutory and regulatory requirements applicable to this program. The specific requirements will be identified in the grant agreement for successful applicants. In addition, you will be required to comply with all state and local statutes, regulations or other applicable requirements.

(C) Threshold Requirements. As an applicant, you must meet all of the threshold requirements of the General Section of this SuperNOFA (Section V(B)) as well as any specific threshold requirements for applicants under Operation LEAP. Applications will not be rated or ranked if they do not meet the threshold requirements of the General Section of this SuperNOFA. Your application must receive at least 75 points to be eligible for funding.

V. Application Selection Process

(A) Partial Funding. In the selection process, once available funds have been allocated to meet the requested or negotiated amounts of the top eligible applicants, HUD reserves the right to offer any residual amount as partial funding to the next eligible applicant, provided HUD is satisfied that the residual amount is sufficient to support a viable, though reduced effort, by this applicant. If an applicant is offered a reduced grant amount, the applicant will have a maximum of 14 calendar days to accept such a reduced award and a maximum of 30 calendar days after acceptance to submit a revised strategy and budget. If the applicant fails to respond within the seven-day limit, the applicant shall be considered to have declined the award and the award will be offered to the next highest ranked applicant. HUD intends to fund the highest ranked applications within the limits of funding.

(B) Budget. HUD will evaluate an applicant's proposal to determine if it is reasonable, clearly justified, and consistent with the intended use of grant funds. HUD is not required to approve or fund all proposed activities. You must thoroughly document and justify all budget categories and costs. Leveraged funds should be listed in the column labeled “Applicant Match” on Form 424C.

(C) Factors for Award Used to Evaluate and Rate Applications. The factors for rating and ranking applicants, and maximum points for each factor, are stated below. The maximum number of points to be awarded is 100. The application must receive a total score of at least 75 points to be eligible for funding.

Rating Factor 1: Organizational Capacity (30 points)

This factor addresses the applicant's organizational capacity to successfully implement the proposed activities in a timely manner.

(A) Staff Experience (20 points)

Describe the knowledge and experience of the staff responsible for the following functions: Executive Direction; Finance Marketing; and Program Coordination. The applicant must have sufficient qualified personnel or be able to quickly retain qualified experts or professionals in financial/grant management, marketing, and/or lead-based paint programs that will allow you to immediately begin your proposed work program and to perform your proposed activities within the two-year period of performance.

The applicant's narrative should include information about your organizational and staff capacity in fund raising and/or leveraging, and private sector recruitment successfully conducted recently (e.g., within the past five years). Include a discussion of staff knowledge and expertise in fund raising, organizational skills, lead hazard control and lead-safe housing information.

The discussion on capacity should include the depth, (depth relates to the number of persons with available knowledge and expertise: range relates to the extent of that knowledge and expertise), experience, the commitment of time to the program, salary information, length of time with organization and position titles of the program staff. Resumes or detailed job announcements for the above key positions must be included as an appendix to your application. Indicate the percentage of time key personnel will devote to the proposed project. The Program Coordinator must be dedicated to this effort for a minimum of 75 percent of the time. An applicant may demonstrate capacity by thoroughly describing prior experience in this type of activity and/or how the applicant will develop the necessary capacity to carryout proposed activities.

(B) Grants Management (5 points)

Describe the agency's or organization's ability to manage grants and leveraged program funds and activities.

(C) Partner Expertise (5 points)

Describe project participants/partners knowledge and experience regarding lead poisoning as a public health threat to children, and/or lead-based paint issues and hazard control. Use of staff with more recent, relevant, and demonstrated successful experience will result in a higher rating.

Rating Factor 2: Approach (30 points)

This factor addresses the work plan strategy that the applicant intends to follow in meeting the goals and objectives of the program. This work plan strategy should address the following:

(A) Selection Process for Partner Organization (20 points)

Describe the selection process for those organizations that are to conduct or coordinate work activities for lead hazard control, outreach, evaluation, etc. How do you intend to involve faith-based and other community-based organizations in your proposed activities?

(B) Leveraging Strategy (10 points)

Describe the proposed strategy for leveraging private sector resources including:

(1) Target audiences/constituencies;

(2) Use of contractors/subgrantees/partners and their method of selection;

(3) Methods of outreach/promotion;

(4) Types of leveraging to be employed;

(5) Proposed use and distribution of funds/resources leveraged;

(6) Overall project management and coordination; and

(7) Proposed schedule of activities within the 24-month period of performance.

Although creativity and innovation are strongly encouraged, these activities must be realistic and capable of accomplishment. An applicant's award would be contingent upon budget negotiation and approval of a revised work plan. This work plan would have to describe the deliverables as goals with specific measures of achievement. For example: if an applicant proposed to use as leverage the resources from property owners who are eliminating and/or controlling lead hazards for their properties, the applicant would have to provide the number of units and an average investment amount. This information would be shown in the applicant's work plan and become part of the applicant's performance expectations.

Rating Factor 3: Leveraging Resources (35 points)

This factor addresses the applicant's ability to obtain and use private sector resources or leverage private sector activities that can be combined with HUD and other program resources to achieve program objectives. Private funds/resources do not include any public sector funds, e.g., funds provided by states and units of general local government including Community Development Block Grant (CDBG)/Home Investment Partnership (HOME) funds. Applicants may use such funds as part of this program but will not receive any points for use of public funds under this rating factor. Points will be awarded based on the satisfactory provision of evidence of leveraging and financial sustainability, as described above, and the ratio of requested HUD LEAP funds to the total Federal budget meets the following:

(1) Leveraged Funds (25 Points)

Points for this sub-factor will be awarded based on the satisfactory provision of evidence of leveraging and financial sustainability, as described above, and the ratio of leveraged funds as a percentage of the HUD funds requested.

Percentage of leveraged funds | Points
1-9 | 5
10-20 | 10
21-40 | 15
41-75 | 20
>75 | 25

(2) Prior Ability to Leverage Funds (5 Points)

Describe what the organization has done in the recent past (e.g., within the past five years) that gives evidence of its ability and experience to leverage substantial private sector resources. Describe specific activities, the amount of funds or goods leveraged, and what the leveraged funds were used to support. If an applicant has experience in generating funds or goods for purposes similar to addressing lead paint abatement or control measures, the applicant should describe those activities and the results achieved.

(3) Current Commitments (5 points)

Describe the types of public or private sector commitments, if any, currently available to devote to Operation LEAP grant program activities, and the anticipated future amounts to be generated. Based upon the estimated amount of funding anticipated for leveraging over the life of the award, identify the general geographic locations of the units that will be treated by this increased funding or leveraged goods. Also provide an estimate of the number of units that can be expected to be treated. The description of the location of treatment areas should be sufficient to determine that the units serve low-income persons. Generated resources may include cash or in-kind contributions of services, equipment, or supplies. In evaluating this factor, HUD will consider the extent to which the applicant has established working partnerships, memoranda of understanding and/or firm agreements with other identified entities for the commitment of additional resources. Resources may be provided by any private source, including contributions of investor-owners. However, leveraged claims for donations of goods and services should be based on market values and documented where possible. Applicants that do not have such partnerships at the time of application will be required to establish partnerships immediately following notification of grant award. Only contributions that have a stated monetary value with supporting documentation from the contributing organization/entity authorized to make such commitment will be counted. Firmly established commitments will be rated more highly than applications with commitments that have not yet been established. Applicants that have targeted specific high-risk neighborhoods or geographic locations for leveraging/fundraising and abatement/control activities will receive a higher number of rating points.

Rating Factor 4: Achieving Results and Program Evaluation. (5 Points)

This factor emphasizes HUD's commitment to ensuring that applicants achieve the goals outlined in their work plan and other benchmark standards and assess their performance to ensure performance goals are met. Achieving results means you, the applicant, have clearly identified the benefits, or outcomes of your program. Outcomes are ultimate goals. Benchmarks or outputs are interim activities or products that lead to the ultimate achievement of your goals.

Program evaluation requires that you, the applicant, identify program outcomes, interim products or benchmarks, and performance indicators that will allow you to measure your performance. Performance indicators should be objectively quantifiable and measure actual achievements against anticipated achievements. Your Evaluation Plan should identify what you are going to measure, how you are going measure it and the steps you have in place to make adjustments to your work plan if performance targets are not met within established timeframes.

This new rating factor reflects HUD's goal to embrace high standards of ethics, management and accountability. Applicants are required to complete the HUD Logic Form included in Appendix A of this NOFA.

(1) An applicant is to identify and describe specific methods, measures, and tools that you will use (in addition to HUD reporting requirements) to measure progress, evaluate program effectiveness, and identify program changes necessary to improve performance. Describe how you will obtain, document and report the information. In evaluating this factor, HUD will consider how you have described outcome measures and benefits of your program including:

(a) The purpose of the Operation LEAP is to leverage private sector resources to eliminate lead poisoning as a major public health threat to young children. The key terms here are “leverage of private sector resources.” HUD is looking for those applicants that demonstrate the most realistic and positive fund raising and/or leveraging skills to mobilize substantial private sector resources for addressing lead hazards in housing.

(b) Demonstration of a national and/or regional (multi-state) strategy for leveraging resources from the private sector is essential. Those resources should be realistic and achievable and made part of the workplan and benchmark activities of this proposal. The proposed budget should demonstrate how these leveraged funds would be used to address lead hazards in housing and make residential housing lead-safe and eliminate lead poisoning as a public health threat to children.

(c) Results of any specific plans and objectives established to implement and/or maintain a registry (listing) of lead-safe housing that is available to the public, or to incorporate the inclusion of the lead-safe status of properties in another publicly accessible address-based property information system. Results could include how the information would be managed and affirmatively marketed to the public so that families (particularly low-income families with children under six years of age) can make informed decisions regarding their housing options. Applicants that demonstrate partnerships with national or regionally recognized material suppliers, e.g., sheet rock/drywall manufacturers or retailers, paint manufacturers or distributors, window manufacturers or distributors, etc., will receive stronger consideration.

(d) The extent to which affirmatively furthering fair housing for all segments of the population is advanced by the proposed activities. Detail how the proposed work plan will support the community's efforts to affirmatively further affordable housing and discuss the impact of prior activities that have contributed to enhanced lead-safe housing opportunities.

(e) How your program will be held accountable for meeting program goals, objectives, and the actions undertaken in implementing the grant program. Applicants should provide a description of the mechanism to assess progress and track performance in meeting the goals and objectives outlined in the work plan. Applicants should provide assurances that work plans and performance measures developed for the program will assist intended beneficiaries, and that work will be conducted in a timely and cost-effective manner.

Note on Program Performance: Grantees shall take all reasonable steps to accomplish all LEAP activities outlined in an approved work plan within the approved period of performance. HUD will closely monitor grantee performance with particular attention placed on the leveraging of private sector resources specified in the application and grant agreement, the expenditure of HUD grant funds as evidenced by draw downs from the Line of Credit Control System (LOCCS), and other approved grant activities. HUD reserves the right to terminate the grant prior to the expiration of the period of performance if a grantee fails to meet established work plan benchmark milestones in implementing the approved program of activities.

(D) Applicant Debriefing. See Section XI (A)(d) of the General Section of this SuperNOFA for information about applicant debriefing. Written requests for debriefings after the selection of successful applicants should be sent to Matthew Ammon, Director, Lead Hazard Control Grants Division, 451 7th Street SW., Washington, DC, 20410.

(E) Rating Panels. See Section VI (B) of the General Section of this SuperNOFA for information about rating panels.

(F) Adjustments to Funding. See Section VI (F) of the General Section of the SuperNOFA for information about adjustments to funding.

(G) Participation in HUD-Sponsored Program Evaluation. As a condition of the receipt of financial assistance under this NOFA, you will be required to cooperate with all HUD staff or contractors performing HUD-funded research and evaluation studies pertaining to the subject of the grant.

VI. Application Submission Requirements

(A) Applicant Information

(1) Application Format. The application narrative response to the Rating Factors are limited to a maximum of 15 pages. Your response must be typewritten on one (1) side only on 8½″ x 11″ paper using a 12-point (minimum) font with not less than ¾″ margins on all sides. Appendices should be referenced and discussed in the narrative response. Materials provided in the appendices should directly apply to the rating factor narrative.

(2) Application Checklist. Your application must contain the items listed in the Checklist and Submission Table of Contents included in Appendix A of this NOFA. These items include the standard forms, certifications, and assurances listed that are applicable to this funding (collectively, referred to as the “standard forms”). The standard forms can be found in the General Section of the SuperNOFA. The application items required for submission are:

(a) Transmittal Letter. A transmittal letter that identifies the applicant(s) or submitting the application, the dollar amount requested, what the program funds are requested for, and the nature of involvement with community-based organizations. Also include the name, mailing address, telephone number, and principal contact person of the applicant. If you have consortium associates, sub-grantees, partners, major subcontractors, joint venture participants, or others contributing resources to your project, you must provide similar information for each of these partners;

(b) Abstract Summary. Provide an abstract summary describing the goals and objectives of the proposed program (two-page maximum);

(c) Standard Forms. All forms as required by the General Section of the SuperNOFA

(d) Budget. A total budget summary (total budget is the federal share and leveraged contribution) with supporting cost justifications for all budget categories of your grant request. A maximum of ten percent of the federal share can be for administrative costs (see Appendix A—Administrative Costs of this NOFA for a description of administrative costs applicable to this grant program);

An itemized breakout (using the HUD Form-424) of your required matching contribution, including:

i. Values placed on donated in-kind services;

ii. Letters or other evidence of commitment from donors; and

iii. The amounts and sources of contributed resources; and

(e) Partners. Contracts, Memoranda of Understanding or Agreement, letters of commitment or other documentation must describe the proposed roles of agencies, local broad-based task forces, participating faith-based and other community-or neighborhood-based groups or organizations, local businesses, and others working with the program. For-profit entities and/or firms must clearly demonstrate and document how the lead-based paint hazard identification and control measures will be coordinated with local organizations, state(s) or units of general local government to carry out lead hazard control.

(B) Proposed Activities. All applications must, at a minimum, describe the proposed activities in the narrative responses to the rating factors. Your narrative statement must be numbered in accordance with each factor for award (Rating Factors 1 through 4).

VII. Findings and Certifications

See Section IX of the General Section of this SuperNOFA for specific requirements.

VIII. Corrections to Deficient Applications

See Section VIII of the General Section of this SuperNOFA for information about corrections to deficient applications.

IX. Environmental Requirements

Environmental Requirements. Certain activities assisted under this program may be subject to HUD environmental review to the extent required under 24 CFR part 50. An award under the Lead Elimination Action Program (LEAP) does not constitute approval of specific sites where activities that are subject to environmental review may be carried out. Following grant award execution, HUD will be responsible for ensuring that any necessary environmental reviews are completed. You may not rehabilitate, convert or repair property, or commit or expend grant funds or HUD-leveraged funds for any eligible property, until you receive written notification from the appropriate HUD official that HUD has completed its environmental review and the property has been approved. The results of the environmental reviews may require that proposed activities be modified or proposed sites rejected.

X. HUD Reform Act of 1989

The provisions of the HUD Reform Act of 1989 that apply to this NOFA are explained in the General Section of the SuperNOFA at Section XI.

Appendix A.

This appendix to this NOFA contains lists the standard forms, certifications and assurances used by the programs that are part of this NOFA. Listed forms are located in Appendix B of the General Section of the SuperNOFA.

The following forms are to be used for the Programs listed in this NOFA

(1) Form HUD-424

(2) Form HUD-424 B

(3) Form HUD-424 C

(4) Form HUD-424 CBW

(5) Form HUD Logic Model Form

(6) Application Checklist and Submission Table of Contents

(7) Ethnicity and Race Data

HUD has consolidated many of its application forms into a single HUD-424 form. The new HUD-424 consolidates budget-reporting forms for both construction and non-construction projects into a single form and eliminates having to have the following separate certifications: Certification for a Drug-Free Workplace (HUD-50070), the Certification of Payments to Influence Federal Transactions (HUD-50071), and the Certification Regarding Debarment and Suspension (HUD-2992).

New form HUD-424 replaces SF-424 and HUD-424 M

HUD-424 B replaces SF-424 B and D and HUD-50070, 50071 and 2992.

HUD-424 C and CB replaces SF-424 A and C

The HUD-424 CBW is added as a common detailed Budget Worksheet and replaces various budget worksheets used throughout the Department.

Administrative Costs

Administrative costs that may be applicable to the programs included in this NOFA are discussed below:

I. Purpose

The intent of this HUD grant program is to allow the Grantee to be reimbursed for the reasonable direct and indirect costs, subject to a top limit, for overall management of the grant. In most instances the grantee, whether a State or a local government, principally serves as a conduit to pass funding to sub-grantees, which are to be responsible for the conducting lead-hazard reduction work. Congress set a top limit of ten percent of the total grant sum for the grantee to perform the function of overall management of the grant program, including passing on funding to sub-grantees. The cost of that function, for the purpose of this grant, is defined as the “administrative cost” of the grant, and is limited to ten percent of the total grant amount. The balance of ninety percent or more of the total grant sum is reserved sub-grantees or other direct-performers of lead-hazard identification and reduction work. Lead hazard identification and reduction includes, but is not necessarily limited to outreach, training, enrollment, lead paint inspection/risk assessments, interim controls, hazard abatement, clearance documentation, blood lead testing, and public education.

II. Administrative Costs: What They Are Not

For the purposes of this HUD grant program for States and local governments to provide support for the evaluation and reduction of lead-hazards in low- and moderate-income, private target housing, the term “administrative costs” should not be confused with the terms “general and administrative cost,” “indirect costs,” “overhead,” and “burden rate.” These are accounting terms usually represented by a government-accepted standard percentage rate. The percentage rate allocates a fair share of an organization's costs that cannot be attributed to a particular project or department (such as the chief executive's salary or the costs of the organization's headquarters building) to all projects and operating departments (such as the Fire Department, the Police Department, the Community Development Department, the Health Department or this program). Such allocated costs are added to those projects' or departments' direct costs to determine their total costs to the organization.

III. Administrative Costs: What They Are

For the purposes of this HUD grant program, “Administrative Costs” are the grantee's allowable direct costs for the overall management of the grant program plus the allocable indirect costs. The allowable limit of such costs that can be reimbursed under this program is ten (10) percent of the total grant sum. Should the grantee's actual costs for overall management of the grant program exceed ten percent of the total grant sum, those excess costs shall be paid for by the grantee. However, excess costs paid for by the grantee may be shown as part of the requirement for cost-sharing funds to support the grant.

IV. Administrative Costs: Definition

A. General

Administrative costs are the allowable, reasonable, and allocable direct and indirect costs related to the overall management of the HUD grant for lead-hazard reduction activities. Those costs shall be segregated in a separate cost center within the grantee's accounting system, and they are eligible costs for reimbursement as part of the grant, subject to the ten percent limit. Such administrative costs do not include any of the staff and overhead costs directly arising from specific sub-grantee program activities eligible under Section II (C) of this NOFA, because those costs are eligible for reimbursement under a separate cost center as a direct part of project activities.

The grantee may elect to serve solely as a conduit to sub-grantees, who will in turn perform the direct program activities eligible under NOFA Section II (C), or the grantee may elect to perform all or a part of the direct program activities in other parts of its own organization, which shall have their own segregated, cost centers for those direct program activities. In either case, not more than 10 percent of the total HUD grant sum may be devoted to administrative costs, and not less than 90% of the total grant sum shall be devoted to direct program activities. The grantee shall take care not to mix or attribute administrative costs to the direct project cost centers.

B. Specific

Reasonable costs for the grantee's overall grant management, coordination, monitoring, and evaluation are eligible administrative costs. Subject to the ten percent limit, such costs include, but are not limited to, necessary expenditures for the following goods, activities and services:

(1) Salaries, wages, and related costs of the grantee's staff, the staff of affiliated public agencies, or other staff engaged in grantee's overall grant management activities. In charging costs to this category the recipient may either include the entire salary, wages, and related costs allocable to the program for each person whose primary responsibilities (more than 65% of their time) with regard to the grant program involve direct overall grant management assignments, or the pro rata share of the salary, wages, and related costs of each person whose job includes any overall grant management assignments. The grantee may use only one of these two methods during this program. Overall grant management includes the following types of activities:

(a) Preparing grantee program budgets and schedules, and amendments thereto;

(b) Developing systems for the selection and award of funding to sub-grantees and other sub-recipients;

(c) Developing suitable agreements for use with sub-grantees and other sub-recipients to carry out grant activities;

(d) Developing systems for assuring compliance with program requirements;

(e) Monitoring sub-grantee and sub-recipient activities for progress and compliance with program requirements;

(f) Preparing presentations, reports, and other documents related to the program for submission to HUD;

(g) Evaluating program results against stated objectives;

(h) Providing local officials and citizens with information about the overall grant program; however, a more general education program, helping the public understand the nature of lead hazards, lead hazard reduction, blood-lead screening, and the health consequences of lead poisoning is a direct project support activity);

(i) Coordinating the resolution of overall grant audit and monitoring findings; and

(j) Managing or supervising persons whose responsibilities with regard to the program include such assignments as those described in paragraphs (a) through (i).

(2) Travel costs incurred for official business in carrying out the overall grant management;

(3) Administrative services performed under third party contracts or agreements, for services directly allocable to grant management such as: legal services, accounting services, and audit services;

(4) Other costs for goods and services required for and directly related to the overall management of the grant program; and including such goods and services as telephone, postage, rental of equipment, renter's insurance for the program management space, utilities, office supplies, and rental and maintenance (but not purchase) of office space for the program.

(5) The fair and allocable share of grantee's general costs that are not directly attributable to specific projects or operating departments such as salaries, office expenses and other related costs for local officials (e.g., mayor and city council members, etc.), and expenses for a city's legal or accounting department which are not charged back to particular projects or other operating departments. If a grantee has an established burden rate, it should be used; if not, the grantee shall be assigned a negotiated provisional burden rate, subject to final audit.

BILLING CODE 4210-32-P

Funding Availability for the Brownfields Economic Development Initiative (BEDI)

Program Overview

Purpose of the Program. BEDI funds are used to enhance the security of a loan guaranteed by HUD under Section 108 of the Housing and Community Development Act of 1974, as amended, for the same brownfields economic development project, or to improve the viability of a brownfields economic development project financed with the Section 108-guaranteed loan, in order to stimulate economic development by local governments and private sector parties at brownfields sites.

HUD provides BEDI funds (as defined in Section III (A)(1) below) to be used in conjunction with Section 108 loan guarantee funds, to finance projects and activities at brownfields sites that will provide near-term and measurable economic benefits, such as job creation and increases in the local tax base, through the return of brownfields sites to productive economic uses. HUD encourages brownfields economic development projects that propose the redevelopment of a brownfields site through new investments by identified private sector parties and that will result in new business or job creation, increases in the local tax base or other near-term, measurable economic benefits. In FY 2003, HUD seeks to increase economic development opportunity throughout the nation and promote the creation and retention of jobs. All BEDI grants must be used in conjunction with a new Section 108 guaranteed loan commitment.

Available Funds. Approximately $29.5 million, including $24.8 million in appropriations from the Consolidated Appropriations Resolution, 2003, Public Law 108-7, approved February 20, 2003 (FY 2003 Consolidated Appropriations) under the “Brownfields Redevelopment” heading; approximately $2,629,155 of unobligated funds from the Fiscal Year 2002 HUD Appropriations Act under the “Brownfields Redevelopment” heading; and $2,065,000 of unobligated funds from the Fiscal Year 2001 HUD Appropriations Act under the “Brownfields Redevelopment” heading. The amount of total available funds is further described in Section II below. The maximum amount of any BEDI grant award this year will be $2 million per project.

Eligible Applicants. Only units of general local government eligible for assistance under the Entitlement, States' Program, or the Small Cities segments of the Community Development Block Grant (CDBG) program may apply for a BEDI grant and a Section 108 Guaranteed Loan. CDBG-eligible urban counties may also apply for funding, but units of general local government that participate in the Urban County Program may not submit an application independent of the Urban County. (See Section III (B) below for additional information regarding eligible applicants.)

Application Deadline. July 16, 2003.

Additional Information

If you are interested in applying for funding under this program, please review carefully the General Section of this SuperNOFA and the following additional information.

I. Application Due Date and Submission, Further Information, and Technical Assistance

Application Due Date. Please submit your completed applications (one original and three copies) on or before July 16, 2003, to the addresses shown below.

Application Submission Procedures. See the General Section of the SuperNOFA for specific procedures governing the submission and receipt of applications.

Addresses for Submitting Applications to HUD Headquarters. Submit your completed application (an original and two copies) by mail or permitted delivery service to: Processing and Control Unit, Room 7251, Office of Community Planning and Development, Department of Housing and Urban Development, 451 Seventh Street, SW., Washington, DC 20410, Attention: BEDI.

When submitting the application, please specify BEDI on any label or mailing container, and include the applicant's name, mailing address (including zip code), street address (if different from mailing address) and zip code, and voice and facsimile telephone numbers (including area code), along with the contact person's name and voice and facsimile telephone numbers (including area code).

Applications to HUD Field Offices. At the same time the application and copies are submitted to HUD Headquarters, an additional copy should be submitted to the Community Planning and Development Division of the appropriate HUD Field Office for the applicant's jurisdiction. HUD strongly suggests that applications submitted to HUD Field Offices be mailed via the United States Postal Service, as access by other delivery services cannot be guaranteed.

For Applications. There is no application kit this year. All information and forms necessary to complete and submit a valid application are contained in the General Section and this program section of the SuperNOFA, and the appendices to the General Section and this program section. Copies of the NOFA and forms are also available on the Internet through the HUD Web site at http://www.hud.gov.

For Further Information and Technical Assistance. Contact Lisa Peoples, Economic Development Specialist, Office of Economic Development, Department of Housing and Urban Development, 451 Seventh Street, SW., Room 7140, Washington, DC 20410, telephone (202) 708-0614 ext. 4456 (this is not a toll-free number). Persons with speech or hearing impairments may access this number via TTY by calling the toll-free Federal Information Relay Service at 1-800-877-8339. Before the application due date, HUD staff will be available to provide general guidance and technical assistance about this BEDI NOFA. However, HUD staff is not permitted to assist in preparing a BEDI application. Following selection of applicants, but before awards are made, HUD staff are available to assist in clarifying or confirming information that is a prerequisite to the offer of an award by HUD. In addition, the Section 108 Loan Guarantee program is not a competitive program and therefore is not subject to those provisions of the HUD Reform Act pertaining to competitions that do not permit HUD staff to assist in the preparation of applications. HUD staff is available to provide advice and assistance to develop your Section 108 loan application.

Applicant Debriefing. Section XI (A)(4) of the General Section of the SuperNOFA provides information on applicant requests for a debriefing. Applicants requesting to be debriefed must send a written request to the contact person for the BEDI program, Ms. Lisa Peoples, at the address listed in the preceding paragraph.

Satellite Broadcast. HUD will hold an information broadcast via satellite for potential applicants to learn more about the program and preparation of BEDI application(s). For more information about the date and time of the broadcast, you should consult the HUD Web site at http://www.hud.gov.

II. Amount Allocated

HUD has available a maximum of $29,531,655 for grant awards under this program section as of its publication date. This amount consists of $24,837,500 in appropriations under the “Brownfields Redevelopment” heading in the FY 2003 Consolidated Appropriations. Funds also include $2,629,155 of unobligated appropriated funds from the Fiscal Year 2002 HUD Appropriations Act under the “Brownfields Redevelopment” heading, as well as $2,065,000 of unobligated appropriated funds from the Fiscal Year 2001 HUD Appropriations Act under the “Brownfields Redevelopment” heading. All such funds are authorized by Section 108(q) of the Act (as defined below). The maximum amount of a BEDI award under this competition is $2 million per project. If any additional funds become available for the BEDI program during Fiscal Year 2003, including through the deobligation and recapture of previous BEDI awards, HUD may either fund additional applicants in accordance with this program section of the SuperNOFA, or may add these funds to funds available for future competitions pursuant to Section 108(q) of the Act.

III. Program Description; Eligible Applicants; Eligible Activities

(A) Program Description. BEDI is designed to help local governments redevelop brownfields, defined in this program section as abandoned, idled, or underutilized real property, including industrial and commercial facilities, where expansion or redevelopment is complicated by the presence or potential presence of environmental contamination. BEDI provides funding to local governments to be used in conjunction with Section 108 loan guarantees, to finance redevelopment of brownfields sites. A BEDI grant award will be conditioned upon, and must be used in conjunction with, a new (i.e., not previously approved) Section 108-guaranteed loan commitment. Both Section 108 loan guarantee proceeds and BEDI grant funds are initially made available by HUD to units of general local government eligible for assistance under HUD's Entitlement, States' Program or Small Cities segments of the Community Development Block Grant program. Such public entities may re-loan the Section 108 loan proceeds and provide BEDI funds to a business or other entity eligible to carry out a specific approved brownfields economic development project, or the public entity may carry out the eligible project itself, as provided in the approved application. In either case, BEDI grant funds and the 108 proceeds must be used to support the same eligible BEDI project.

(1) Definitions. Unless otherwise defined herein, terms defined in 24 CFR part 570 and used in this program section of this SuperNOFA shall have the respective meanings given thereto in that part.

Act means Title I, Housing and Community Development Act of 1974, as amended (42 U.S.C. 5301 et seq.).

Application means a single set of documents submitted by an eligible applicant for BEDI grant funds, in accordance with the provisions of this program section of the SuperNOFA to finance a brownfields economic development project. A BEDI application must be accompanied by a Section 108 loan guarantee request, which may consist of either a brief summary of the proposed use of 108 funds, or a full application, which may either be submitted at the same time as the BEDI application or be provided within 60 days of BEDI grant award, as more fully explained in Section IV(D) of this program section. Note that the Section 108 application must be submitted to the appropriate HUD field office concurrently with its submission to Headquarters.

Brownfields means abandoned, idled, or under-used real property (including industrial and commercial facilities) where expansion or redevelopment is complicated by the presence or potential presence of contamination.

Brownfields Economic Development Initiative (BEDI) funds means the appropriated funds made available for the competition under this program section from any available appropriation.

Brownfields Economic Development Initiative (BEDI) project or brownfields economic development project means an activity or activities (including mixed use projects with housing components) that are eligible under Section 108(q) of the Act and under 24 CFR 570.703, and that will increase economic opportunity for persons of low- and moderate-income, stimulate or retain businesses or jobs, or otherwise lead to near-term, measurable economic benefits in connection with brownfields.

CDBG funds means those funds collectively so defined at 24 CFR 570.3, including grant funds received pursuant to Section 108(q) and this program section of this SuperNOFA.

Economic Development Initiative (EDI) grant means the provision of economic development grant assistance under Section 108(q) of the Act, as authorized by Section 232 of the Multifamily Housing Property Disposition Reform Act of 1994 (Pub. L. 103-233, approved April 11, 1994).

EPA means the U.S. Environmental Protection Agency.

Firm Commitment means either a written agreement or letter of understanding by which an applicant and/or a third party:

(1) Agrees to perform an activity or provide resources as specified in the application, and demonstrates their relationship to the proposed BEDI/Section 108 project;

(2) Specifies the dollar value of the commitment, and demonstrates that it has the financial and organizational capacity to deliver the resources necessary to successfully complete the activity; if the activity is to be self-financed, the third party must evidence its financial capacity through a corporate or personal financial statement or other appropriate means; and

(3) Irrevocably commits the resources to the activity either through cash or in-kind services or contributions; if any portion is to be financed through a grant or loan from another public or private organization, that institution's grant or loan commitment must be firmly committed as well.

Any such agreement or letter of understanding shall be understood as being contingent upon receipt of the BEDI grant. In order for a commitment to be included in the applicant's score under Rating Factor 4 (Leveraging Resources), each commitment—-including the donation or purchase of real property or the provision of in-kind services—-must be assigned a monetary value by the party making the commitment, accompanied by an indication of the basis for that assigned value.

Each agreement or letter of commitment must include the name of the organization making the commitment, the proposed total level of commitment (including how the value was determined) and the responsibilities of the organization as they relate to the proposed BEDI project. The commitment must be signed by an official of the organization legally authorized to make commitments on behalf of the organization, with a statement confirming that authority, and remain in effect for a period stated in the commitment.

Applicants Committing CDBG Funds: In order for an applicant's commitment of CDBG funds to be accepted by HUD as additional financing for a BEDI project, a resolution from the local governing body (e.g., city/borough council) authorizing the amount and permitted uses of the funds must be provided.

Showcase Community means an applicant chosen by the federal government's Brownfields National Partnership for inclusion in the federal government's Brownfields Showcase Communities program. A list of the federally designated Brownfield Showcase Communities is provided in Appendix B of this program section of the SuperNOFA and is also available from the SuperNOFA Information Center or through the HUD web site, http://www.hud.gov.

Strategic Plan means a strategy or course of action developed and agreed to by the nominating local government(s) and state(s) and submitted in partial fulfillment of the application requirements for an Empowerment Zone, Enterprise Community, or a Renewal Community, designated pursuant to 24 CFR part 597, part 598, or part 599.

(2) Background. HUD has multiple programs that are intended to stimulate economic and community development and promote economic revitalization of distressed areas, and which can be effectively employed to address and remedy brownfields conditions. Primary among HUD's resources are the Community Development Block Grant (CDBG) program and the Section 108 loan guarantee program.

(a) The CDBG program provides grant funds by formula to local governments (either directly or through states) to carry out community and economic development activities ($4.340 billion appropriated in FY 2003). The Section 108 loan guarantee program provides CDBG-recipient communities with a source of financing for economic development, public facilities, and other eligible large-scale physical development projects. HUD is authorized pursuant to Section 108 to guarantee notes issued by CDBG entitlement communities and non-entitlement units of general local government eligible to receive funds under the CDBG States' program, as well as non-entitlement units of general local government in the State of Hawaii. The Section 108 program is subject to the regulations applicable to the CDBG program at 24 CFR part 570 as described in 24 CFR part 570, subpart M. BEDI grants must support Section 108 loan guarantees as generally described in this program section of this SuperNOFA.

(b) For FY 2003, the loan guarantee authority for the Section 108 program is estimated at $573,000,000 including $298,000,000 in loan guarantee authority that will continue be to available under the Fiscal Year 2002 appropriation and $275,000,000 in loan guarantee authority for Fiscal Year 2003. The full faith and credit of the United States is pledged to the payment of all guarantees made under Section 108. Under this program, communities (and states, as applicable) pledge their continuing CDBG allocations as security for loans guaranteed by HUD. The Section 108 program, however, does not require CDBG funds to be escrowed for loan repayment (unless such an arrangement is specifically negotiated as loan security and included in the applicable “Contract for Loan Guarantee Assistance.”) This means that a community can ordinarily continue to spend its existing allocation for other CDBG purposes, unless needed for loan repayment.

(3) EDI Program. The EDI authorization, Section 108(q) of the Act, was enacted in 1994 and is intended to complement and enhance the Section 108 Loan Guarantee program.

(4) BEDI Program. A purpose of BEDI (and EDI) grant funds is to reduce grantees' potential loss of future CDBG allocations:

(a) By strengthening the economic feasibility of a project financed with Section 108 funds (and thereby increasing the probability that the project will generate enough cash to repay the guaranteed loan);

(b) By directly enhancing the security of the Section 108-guaranteed loan; or

(c) Through a combination of these or other risk mitigation techniques.

HUD intends all the funds available pursuant to this program section of the SuperNOFA to be used for purposes of the redevelopment of brownfields sites. Accordingly, BEDI funds shall be used as the stimulus for local governments and private sector parties to commence redevelopment or continue phased redevelopment efforts on brownfields sites where contamination is present or potentially present and a redevelopment plan exists. HUD desires to see BEDI and Section 108 funds used to finance projects and activities that involve investment in the brownfields site by an identified private sector party and that will provide near-term results and measurable economic benefits, such as job creation and increases in the local tax base, through the return of brownfields sites to productive economic use.

(5) Integration of Other Government Brownfields Programs. HUD expects and encourages local governments which are designated through (a) the federal government's Brownfields Showcase Community program, (b) other federal brownfields programs (e.g., EPA's Assessment, Tax Incentive, Revolving Loan Fund or Cleanup Grant programs), (c) a state-supported brownfields program, or (d) a state or local related economic development program, to integrate efforts arising from those programs in developing projects for assistance under HUD's BEDI and Section 108 programs. Applicants should elaborate upon these ties in their response to the rating factors, where appropriate (e.g., “Capacity of the Applicant,” “Soundness of Approach,” or “Leveraging Resources”—Rating Factors 1, 3, and 4 respectively.)

(6) Additional Security for Section 108 Loan Guarantee. Public entities should consider the need to provide additional security for the Section 108 loan guarantee pursuant to 24 CFR 570.705(b)(3). Although a public entity is required by the Act to pledge its current and future CDBG allocations as security for the Section 108 loan guarantee, the public entity will usually be required to furnish additional collateral. In most cases, the additional collateral consists (in whole or in part) of the asset financed with the Section 108 loan funds (e.g., a loan made to a business as part of an economic development project and the related mortgage from the business). Applications proposing uses for BEDI funding that directly enhance the value of the assets securing the Section 108 loan will help ensure that the project-based asset(s) will satisfy the additional collateral requirements.

(7) Uses of BEDI Funds. Generally, proposals must be consistent with other CDBG requirements, including meeting National Objectives and activity eligibility requirements under § 570.703 of the Section 108 Loan Guarantee regulations, as described in Section III (C) of this program section. The following examples are offered only to illustrate some of the ways in which BEDI funds may be used to support 108-guaranteed loans:

(a) Land Writedowns. Local governments may use a combination of Section 108 and BEDI funds to acquire a brownfields site for purposes of reconveying the site to a private developer at a discount from its purchase price. This approach would provide the developer with an asset of enhanced value that could be used as collateral for other sources of funding and those other sources of financing could then be used to finance environmental remediation or other development costs. In such a circumstance, the level of BEDI assistance could approximate the difference between the original cost of the site and its remediation in comparison to the market value of the remediated property.

(b) Site Remediation Costs. Local governments may use BEDI funds in any of several ways to address site remediation costs. If the local government proposes to use Section 108 funds to acquire real property, BEDI funds could be used to address assessment and site remediation costs as part of eligible demolition, clearance, or site preparation activities. If the local government uses Section 108 funds to make a loan to a developer, BEDI funds could be granted or loaned to the developer for the purpose of addressing remediation costs as part of an economic development activity.

(c) Funding Reserves. The cash flow generated by an economic development project may be expected to be relatively “thin” in the early stages of the project, i.e., potentially insufficient to meet operating expenses and debt service obligations. The BEDI grant could be used by the grantee to either establish a debt service reserve to cover interest on the Section 108 loan, or as a grant to a business for working capital. In either case, the BEDI funds enhance the economic feasibility of the project.

(d) Direct Enhancement of the Security of the Section 108 Loan. The BEDI grant can be used to pay for the cost of providing credit enhancements for the Section 108 loan. For example, if eligible as part of the cost of an appropriate eligible activity, the BEDI grant can be used to pay for the cost of a standby letter of credit, issued in favor of HUD. This letter of credit will be available to fund amounts due on the Section 108 loan if other sources fail to materialize, and thus will serve to protect the public entity's future CDBG funds.

(e) Provision of Financing to For-Profit Businesses at a Below Market Interest Rate.

While the rates on loans guaranteed under Section 108 are only slightly above the rates on comparable U.S. Treasury obligations, they may nonetheless be higher than can be afforded by businesses, non-profit groups or public entities in severely economically distressed neighborhoods. The BEDI grant can be used to make Section 108 financing affordable by serving to “buy down” the interest rate up front, or make full or partial interest payments on the Section 108 loan. This might increase the financial viability of the businesses or other entities in the early start-up period, which might not otherwise be possible with Section 108 alone. This strategy would be particularly useful where a community was undertaking a large commercial or retail project in a brownfields area in order to act as a catalyst for other development in the area.

(f) Combination of Techniques. A combination of the above could be employed to implement a BEDI project successfully.

(B) Eligible Applicants. Any public entity eligible to apply for Section 108 loan guarantee assistance in accordance with 24 CFR 570.702 may apply for BEDI grant assistance under Section 108(q). Eligible applicants are CDBG entitlement units of general local government and non-entitlement units of general local government eligible to receive loan guarantees under 24 CFR part 570, subpart M. Urban Counties, as defined at 24 CFR 570.3 and 570.307, are eligible applicants for BEDI funds; units of general local government that participate in an Urban County program are not independently eligible applicants. For non-entitlement applicants other than those subject to 24 CFR 570, subpart F (which applies only to the State of Hawaii), applicants will be required to provide evidence in the application from an authorized official of the state agency responsible for administering the State CDBG program stating that it will support the related Section 108 loan with a pledge of its CDBG allocations pursuant to the requirements of 24 CFR 570.705(b)(2). Such evidence shall take the form of the HUD Certification titled “SECTION 108 LOAN GUARANTEES: State Certifications Related to Nonentitlement Public Entities” included in this program section to the SuperNOFA, or which may be obtained by downloading from the Internet at http://www.hud.gov. Note that effective January 25, 1995, non-entitlement public entities in the State of Hawaii are authorized to apply to HUD for Section 108 loans ( see 59 FR 47510, December 27, 1994). Thus non-entitlement public entities in all 50 states and Puerto Rico are eligible to participate in the Section 108 and BEDI programs, with assistance of the state's or commonwealth's pledge of CDBG allocations.

(C) Eligible Activities and National Objectives. (1) BEDI grant funds and Section 108 loan guarantee funds may be used for activities listed at 24 CFR 570.703, provided such activities are carried out as part of a BEDI project as described in this program section of the SuperNOFA and meet the CDBG requirements at 24 CFR 570.200. Applicants are required to submit applications that seek funding for BEDI projects that will contribute to the redevelopment and revitalization of brownfields. Applications that fail to meet the threshold requirements found in Section V (B) of the General Section of the SuperNOFA and the program requirements of this section will not be rated, ranked, or otherwise considered by HUD.

(2) Each activity assisted with Section 108 loan guarantee or BEDI funds must meet a national objective of the CDBG program as described in 24 CFR 570.208. Applicants must clearly identify in their narrative statement (as described in Section V (B) of this program section below) the CDBG national objective to be achieved by the proposed project and provide the appropriate CDBG national objective regulatory citation found at 24 CFR 570.208. Applicants must also address, when applicable, how the proposed activities will comply with the public benefit standards of the CDBG program as reflected in the regulation at 24 CFR 570.209.

(3) A grantee's aggregate use of its CDBG funds, including any Section 108 loan guarantee proceeds and Section 108(q) (BEDI) funds provided pursuant to this program section of the SuperNOFA, must comply with the CDBG primary objective requirements as described in Section 101(c) of the Act and 24 CFR 570.200(a) (3) for entitlement grantees, or 570.484 in the case of a recipient under a state's program.

(4) Applicants are reminded of the Department's Policy Priorities for FY 2003 found in Section II of the General Section of the SuperNOFA, several of which apply to this program section, as described below, under Rating Factor 3 in Section V of this program section.

IV. Program Requirements

(A) General Requirements. Applicants for BEDI grant funds must comply with the statutory, regulatory, threshold and public policy requirements listed in Section V of the General Section of the SuperNOFA.

(B) CDBG Program Regulations. In addition to 24 CFR 570.701 (Definitions), § 570.702 (Eligible applicants), and § 570.703 (Eligible activities), as explained in Section III (C) of this program section of the SuperNOFA, the CDBG regulatory requirements cited in 24 CFR 570.707, including subparts J (Grant Administration), K (Other Program Requirements), and O (Performance Reviews) govern the use of BEDI funds, as applicable.

(C) Compliance with Applicable Environmental and Other Laws. Applicants are advised that an award of BEDI funding does not in any way relieve the applicant or third party users of BEDI funds from compliance with all applicable federal, state and local laws, particularly those addressing the environment. Applicants are further advised that HUD may require evidence that any project involving remediation has been or will be carried out in accordance with applicable law, including voluntary clean up programs.

(D) Related Section 108 Loan Guarantee Request. (1) Each BEDI application must be accompanied by a request for new Section 108 loan guarantee assistance. The request may take any of the four forms defined in paragraphs (a), (b), (c), or (d) below in this Section IV (D). Notwithstanding the form of your request for new Section 108 loan guarantee assistance, the applicant must include citations to the specific regulatory subsection supporting activity eligibility and National Objectives compliance for the Section 108 funds described in the application. (See Section III (C) of this program section of the SuperNOFA.) Both the BEDI and Section 108 funds must be used in conjunction with the same BEDI project. The request for new Section 108 guarantee assistance may be presented through:

(a) A full application for new Section 108 loan guarantee(s), including the documents listed at 24 CFR 570.704(b).

(b) A brief description (not to exceed three pages) of the project to be applied for in a subsequent new Section 108 loan guarantee application(s). Such a 108 application(s) shall be submitted within 60 days of written notice of BEDI selection, with HUD reserving the right to extend such period on a case-by-case basis where HUD determines there is evidence of good cause. BEDI awards will be conditioned on approval of actual Section 108 loan commitments and loan guarantee proceeds in a specific ratio of BEDI funds to Section 108 funds as approved by HUD in the BEDI award. The application description must be sufficient to support the basic eligibility of the proposed project and activities for Section 108 assistance. (See Section III (C) of this program section of the SuperNOFA.)

(c) A copy of a pending, unapproved Section 108 loan guarantee application, and any proposed amendments to the Section 108 application which are related to the BEDI application. The applicant's submission of such a BEDI/Section 108 application shall be deemed by HUD to constitute a request to suspend separate processing of the Section 108 application. The Section 108 application will not be approved until on or after the date of the related BEDI award.

(d) A request for Section 108 loan guarantee assistance (analogous to Section IV (D)(1)(a) or (b) of this BEDI section of the SuperNOFA) that proposes to increase the amount of a previously approved application. However, any amount of Section 108 loan guarantee authority approved before HUD's announcement of a BEDI grant for the same project is not eligible to be used in conjunction with a BEDI grant under this program section.

(2) Further, a Section 108 loan guarantee amount that is required to be used in conjunction with a previously approved BEDI or EDI grant award, whether or not the Section 108 loan guarantee has been approved as of the date of this SuperNOFA, is not eligible for a BEDI award under this SuperNOFA. For example, if a public entity has a previously approved Section 108 loan guarantee commitment of $12 million, even if none of the funds have been utilized, or if the public entity had previously been awarded a BEDI grant of $1 million and had agreed to submit a Section 108 loan application for $10 million in support of that BEDI grant, the public entity's application under this program section of this SuperNOFA must propose to increase the amount of its total Section 108 loan guarantee commitments beyond those amounts to which it has previously agreed. (i.e., the $12 million or $10 million Section 108 loan guarantee commitments in this example).

(E) Prohibitions on Use of BEDI and Section 108 Funds. Certain restrictions shall apply to the use of BEDI and Section 108 funds:

(1) BEDI grant funds must not be used as a resource to immediately repay the principal of a loan guaranteed under Section 108. Repayment of principal is only permissible with BEDI grant funds as a matter of security if other sources projected for repayment of principal prove to be unavailable.

(2) Section 108 loan obligations may not be subordinated, directly or indirectly, to federally tax exempt obligations. Pursuant to Office of Management and Budget (OMB) Circular A-129 (Rev.) Appendix A, Sections II.2.c. and d., (Policies for Federal Credit Programs and Non-Tax Receivables), Section 108 guaranteed loan funds may not directly or indirectly support federally tax-exempt obligations.

(3) BEDI grant funds shall not be used in any manner by grantees to provide public or private sector entities with funding to remediate conditions caused by their own actions, where the public entity (or other known prospective beneficiary of the proposed BEDI grant) has been determined responsible for causation and remediation by order of a court or a federal, state, or local regulatory agency, or is responsible for the remediation as part of a settlement approved by such a court or agency. Applicants will be required in the BEDI Narrative Statement described in Section (V)(B) of this program section of the SuperNOFA to indicate that the proposed BEDI project will not be used to provide assistance as prohibited herein.

(4) Applicants may not propose projects on sites which are: (i) Listed or proposed to be listed on EPA's National Priority List (NPL); (ii) subject to unilateral administrative orders, court orders, administrative consent orders or judicial consent decrees issued or entered into by parties under the Comprehensive Environmental Response, Compensation, and Liability Act of 1980, as amended (CERCLA); or (iii) subject to the jurisdiction, custody or control of the United States government. Applicants will be required in the BEDI Narrative Statement described in Section (V)(B) of this program section of the SuperNOFA to indicate that the proposed BEDI project will not be undertaken at an ineligible site as provided herein.

(5) BEDI grant assistance cannot be used to leverage a Section 108 loan guarantee approved prior to the date of HUD's announcement of a BEDI grant pursuant to this SuperNOFA. However, the BEDI grant may be awarded before HUD approval of the Section 108 commitment if HUD determines that such award will further the purposes of the Act.

(6) A BEDI award will not be made if the Section 108 request contained in the application (See Section IV(D) of this program section) calls for the use of the Section 108-guaranteed obligation solely as security for other financing on the project.

(F) Time-frames. As a condition of any award under this program section, if the related Section 108 application has not been submitted and approved within ten (10) months of written HUD notification of selection for potential funding under this NOFA, HUD may deobligate the BEDI funds. BEDI grant awards will contain conditions requiring grantees to adhere to time-frames mutually agreed on by the applicant/grantee and HUD for implementing proposed projects and drawing Section 108 and BEDI funds. If BEDI grant funds and Section 108 loan proceeds are not disbursed to the applicant within the timeframes specified in the BEDI grant agreement, HUD reserves the right to cancel the award and recapture the BEDI funds.

(G) Limitations on Grant Amounts. (1) HUD expects to approve BEDI grant amounts for approvable applications with a range of ratios of BEDI grant funds awarded to new Section 108 loan guarantee commitments but the minimum ratio will be $1.00 of Section 108 loan guarantee commitments for every $1.00 of BEDI grant funds. However, if an applicant proposes a leverage ratio of exactly 1:1, that application, while still meeting the threshold requirement, will not receive any points under the Rating Factor 4, paragraph (1): “Leverage of Section 108 Funds.”

To receive points under this Factor, applications will have to exceed the 1:1 minimum ratio, and the higher the ratio the more points will be awarded, to the extent consistent with the points available for Rating Factor 4, paragraph (1). Because the proposed ratio of BEDI funds to Section 108 funds represents an applicant's financial commitment, HUD will condition the BEDI grant award on the grantee's achievement of that specific ratio. Its failure to meet that condition by obtaining timely HUD approval of a commitment for, and issuance of, the required Section 108 guaranteed obligations ratio may result in the cancellation and recapture of all or a proportionate share of the BEDI grant award.

(2) HUD will cap BEDI awards at a maximum of $2 million per project. An application in excess of $2 million will be reduced to the extent HUD determines that such a reduction is appropriate.

(3) After selection, but prior to grant award, if HUD determines that an application can be funded at a lesser BEDI grant amount than requested and still be feasible and consistent with the proposed plan and the purposes of the Act, it reserves the right to reduce the amount of the BEDI award and/or increase the required Section 108 loan guarantee commitment.

(4) In the event a BEDI grant is awarded and has been reduced below the original request (e.g., the application contained some activities that were ineligible, exceeded the $2 million cap, or there were insufficient funds to fund the last competitive application at the full amount requested), the applicant will be required to modify the project plans and application to conform to the terms of HUD approval before HUD will execute a grant agreement.

(5) HUD also may proportionately reduce or deobligate the BEDI award if a grantee does not submit an approvable Section 108 loan guarantee application, issue Section 108-guaranteed obligations and receive loan guarantee proceeds on a timely basis (including any extension authorized by HUD) in the amount required by the BEDI/108 leveraging ratio, which will be approved by HUD as a special condition of the BEDI grant award (see Section IV (F) above of this program section of the SuperNOFA).

(6) Any modifications or amendments to an application approved pursuant to this SuperNOFA, whether requested by the applicant or by HUD, must be within the scope of the approved original BEDI application in all respects material to rating the application, unless HUD determines that the revised application remains within the competitive range and is otherwise approvable under this SuperNOFA competition.

(7) In the case of a requested increase in guarantee assistance for a project with a previously approved Section 108 loan guarantee commitment (as further discussed in Section IV (D)(1)(d), above), the BEDI assistance approved will be based on the increased amount of Section 108 loan guarantee assistance.

(H) Timing of Grant Awards and Disbursements. (1) To the extent a full and complete Section 108 application is submitted with the BEDI grant application, HUD will evaluate the Section 108 application immediately following the competition for BEDI grant funds. Note that the 108 application must be submitted to the appropriate HUD field office concurrently with submission to Headquarters.

(2) Notwithstanding any earlier obligation or award of BEDI funds to a grantee, or execution of a grant agreement, HUD will not permit the grantee to draw down BEDI funds before the issuance of the obligations evidencing the related Section 108 guaranteed loan.

(3) Pursuant to the FY 2003 HUD Appropriations Act (under the “Brownfields Redevelopment” heading) and 31 U.S.C. 1552(a), FY 2003 BEDI funds must be obligated (i.e., awarded) by HUD by September 30, 2004, and must be disbursed by HUD to the grantee by September 30, 2009. FY 2002 BEDI funds must be obligated by September 30, 2003 and must be disbursed by HUD to the grantee by September 30, 2008. FY 2001 BEDI funds are not subject to statutory obligation or disbursement deadlines. In all cases, however, HUD reserves the right to require earlier disbursement under a BEDI grant agreement.

(I) Obligation to affirmatively further fair housing. All BEDI grantees are obliged to affirmatively further fair housing, even when the proposed activities do not appear to be directly related to housing. Therefore, applicants that propose to use BEDI funds must include in their applications an explanation of how they propose to further fair housing opportunities for persons on the basis of race, color, national origin, sex, religion, familial status, or disability. Applicants should respond to this requirement under Rating Factor 2, subfactor (2)(c). Affirmative activities include, but are not limited to: initial and periodic assessments of the extent to which affordable and accessible housing opportunities are provided or denied to persons by race, color, national origin, sex, religion, familial status, or disability; outreach to persons in underserved population groups or advocacy organizations representing such persons; affirmative fair marketing of job or housing opportunities; housing choice; addressing environmental justice concerns; or ensuring that employment, housing and other benefits of the BEDI grant are made available to those individuals and families living at or near the brownfields site prior to its redevelopment.

V. The Application Selection Process

(A) Rating and Ranking

(1) Each rating factor and the maximum number of points are provided below. The maximum number of points to be awarded is 104. To be eligible for funding, a BEDI application must obtain a total score of at least 75 points. All applications meeting BEDI program and threshold requirements will be rated under the selection criteria below. Applications must include citations to the specific regulatory subsections supporting eligibility of activities and compliance with National Objectives. (See Section III (C) of this program section of this SuperNOFA). The applicant must also provide narrative statements in response to each of the rating factors below.

(2) All applications meeting BEDI program and threshold requirements will be rated under the selection criteria below. Applications must include citations to the specific regulatory subsections supporting eligibility of activities and compliance with National Objectives. (See Section III (C) of this program section of the SuperNOFA). The applicant must also provide narrative statements in response to each of the rating factors below.

Applications will be selected for funding as follows:

(3) All BEDI grant applications that meet threshold requirements will be ranked separately in order of points assigned with the applications receiving more points ranked above those receiving fewer points.

(4) In the event two or more applications are given the same score, but there are insufficient funds to fund all of the tied applications, the application(s) with the highest score(s) on Rating Factor 3 (Soundness of Approach) shall be selected. If there is still a tie, the following Factors will be considered sequentially, with the application having the high score on that Factor taking precedence until the tie is broken: Rating Factor 1 (Capacity and Experience), Rating Factor 2 (Distress/Extent of the Problem), Rating Factor 4 (Leveraging Resources), and Rating Factor 5 (Achieving Results and Program Evaluation).

(5) Fundable BEDI grant applications must meet the threshold requirements stipulated in Section V of the General Section of this SuperNOFA and be complete as required by the submission requirements of this program section of the SuperNOFA or they will not be ranked. Brownfields economic development projects will be funded in rank order until the total aggregate amount of the applications funded is equal to the maximum amount available in the competition (subject to the limitations described in Section IV(G) above).

(B) BEDI Narrative Statement

(1) Applications must contain narrative statements printed in 12 point type, with sequentially numbered pages for the entire application, including forms and exhibits. The BEDI narrative statement must not exceed three (3) 8.5″ by 11″ pages, doubled-spaced. The BEDI narrative statement should:

(a) Describe the activities that will be carried out with the BEDI grant funds, and explain the nature and extent of the brownfields problem(s) affecting the site and/or structure(s) already on the site;

(b) Describe how the proposed uses of BEDI funds will qualify as eligible activities under 24 CFR 570.703 and meet the National Objectives under 24 CFR 570.208 of the CDBG program. In describing how the proposed uses will meet the National Objectives of the CDBG program and the activity eligibility requirements of the Section 108 program, applications must also include citations to the specific regulatory subsections supporting eligibility of activities and compliance with National Objectives. (See Section III(C) of this program section of this SuperNOFA) and;

(c) Indicate that: (i) the proposed assistance will not be used to provide funding to parties to remediate conditions caused by their own actions for which they have been determined to be legally responsible, as specified in Section IV(E)(3) of this program section; and (ii) that the proposed brownfields site is not ineligible as provided in Section IV(E)(4) of this program section.

(2) The applicant must also provide in narrative form responses to each of the rating factors below.

(C) Factors for Award Used to Evaluate and Rate Applications. HUD will evaluate all applications for funding assistance based on the following factors, the responses to which demonstrate the quality of the proposed project or activities, and the applicant's capacity and commitment to use the BEDI funds in accordance with the purposes of the Act.

(D) Responses to Rating Factors 1-5. Responses to Rating Factors 1-5 below shall not exceed fifteen (15) double-spaced pages combined.

Rating Factor 1: Capacity of the Applicant and Relevant Organizational Experience (20 Points Maximum)

This factor addresses the extent to which the applicant has the organizational resources necessary to successfully implement the proposed activities in a timely manner. The rating of the “applicant” or the “applicant's organization and staff” will include any subcontractors, consultants, and sub-recipients that are firmly committed (see definition in Section III(A)(1) above) to participate in the activities described in the application. In responding to subfactors (1) and (2) of this Factor, applications that merely summarize the amount of funds received, spent or managed will receive fewer points than those providing specific measurable information on program activities undertaken, outcomes of these activities and their accomplishments. In rating this factor, HUD will consider the following:

(1) Applicant Capacity (Up to 10 points). The applicant should demonstrate that it has the organization, the staff and the financial resources in place to implement the specific steps required to successfully carry out its proposed BEDI/Section 108 project. The applicant should offer evidence of this capacity through a description that includes:

(a) Performance in the administration of its CDBG, HOME or other HUD programs, including a description of successfully completed projects and other outcomes or accomplishments under these programs;

(b) Performance, if any, in carrying out economic development projects similar to that proposed, including brownfields economic development or redevelopment projects, if any, and if applicable, the ability to conduct prudent underwriting;

(c) Ability to carry out projects and programs in a timely manner. An applicant must address its performance in spending previously awarded HUD and other funds, if any, in a timely manner, including, for CDBG entitlement recipients, the extent to which the CDBG entitlement recipient has met the HUD standard that the total amount of its undisbursed, entitlement grant funds may not be more than 1.5 times the entitlement grant amount for the current program year (see 24 CFR 570.902(a)(1)(i));

(d) If applicable because the applicant has such designation, the capacity to achieve state and local commitments, including maximizing the federal tax benefits made available as a result of a federal Renewal Community/Empowerment Zone/Enterprise Community designation (including Enhanced Enterprise Community (EEC) designation). Applicants that have been designated as a Renewal Community (RC), Empowerment Zone (EZ) or Enterprise Community (EC/EEC) must respond to this subfactor even if the proposed brownfields economic development project is not to be located within the boundaries of the designated RC/EZ/EC; and

(e) An applicant that has previously received a BEDI or an EDI grant award or, within the past five years, a Section 108-guaranteed loan commitment, must describe the status of the implementation of those project(s) assisted with any BEDI or EDI funds or with any Section 108-guaranteed loan funds so approved within the last five years. An applicant must address any delays that have been encountered and the actions it is taking to overcome any such delays in carrying out the project(s) in a timely manner. For any such previously funded BEDI or EDI grant projects, or for those Section 108 guaranteed-loan projects committed within the past five years, HUD will award more rating points for applications providing evidence of achievement of specific measurable outcomes in carrying out approved activities funded with such guaranteed loan and/or grant funds.

If any of the rating criteria listed under (a) through (e) above do not apply to an application, the rating for this subfactor (1) shall be based solely upon the other applicable criteria.

(2) Partner Capacity (Up to 10 points). In response to this subfactor (2), the applicant should describe the experience and performance of subrecipients, private developers and other businesses, nonprofit organizations (including grassroots faith-based and other community-based organizations), and other entities, if any, that have a role in implementing the proposed BEDI/108 program. Applicants are encouraged to identify specific economic development or other projects undertaken by each entity, which reflect the capacity of each entity to fulfill its responsibilities under the proposed brownfields economic development project, including the location, scale, and timeframe for completion of other relevant projects. If there are no third parties participating with the applicant in the proposed project, points under this subfactor (2) will be allocated under subfactor (1) and added to the maximum points possible under subfactor (1).

Experience will be judged in terms of recent (i.e., within the past 5 years) and successful performance of activities relevant to those proposed in the BEDI application. The more recent and extensive the experience is, the greater the number of points that will be awarded for this Factor.

In addition to the application, HUD also may rely on information at hand or available from public sources such as newspapers, from performance and/or monitoring reports, Inspector General or Government Accounting Office reports or findings, hotline complaints that have been proven to have merit, audit reports and other reliable public information in rating this Factor.

Rating Factor 2: Distress/Extent of the Problem (20 Points Maximum)

This Factor addresses the extent to which there is need for funding the proposed activities based on levels of distress in both the jurisdiction of the public entity that is the applicant and the geographic or target area that will benefit from the project. In responding to this Factor, applications will be evaluated on the extent to which the level of distress for the target area is documented and compared with national data and data for the jurisdiction.

(1) In applying this Factor, HUD will consider current levels of distress defined in standard geographic terms in the target area, as defined by the applicant. This may be Census Tract(s) or Block Groups immediately surrounding the project site up to a radius of one-half mile; or it may be the target area proposed to be served by the project. HUD will also consider the current levels of distress in the applicant public entity's jurisdiction. The applicant should describe the nature of the distress that the project is designed to address and the rationale for its definition of the area to be benefited. Examples of project beneficiaries may include: (a) those receiving or using products or services produced by the project, and (b) those employed by the project.

To the extent that the applicant's Consolidated Plan, its Analysis of Impediments to Fair Housing choice (AI), and/or its Anti-Poverty Strategy found therein identify the level of distress in the jurisdiction and the neighborhood in which the project is to be carried out, references to such documents should be included in preparing the response to this Factor. Applications that fail to reference these sources will receive fewer points under this Factor.

Notwithstanding the above, an applicant proposing a project to be located outside the area for which benefit is claimed could still receive points under this Factor if a clear rationale is provided linking the proposed project location and the benefits to be derived by persons living in the target area.

(2) Applicants should provide data that address the following specific indicators of distress:

(a) Poverty Rate (Up to 5 points). Data should be provided in both absolute and percentage form (i.e., whole numbers and percents) for both the target area and the applicant's jurisdiction as a whole; an application that compares the local poverty rate in the following manner to the national average at the time of submission will receive points under this section as follows:

(i) Less than the national average, but with a poverty rate in the target area that is greater than the applicant's jurisdiction: 2 points;

(ii) Equal to or greater than, but less than twice, the national average: 3 points;

(iii) Equal to or greater than twice the national average: 5 points.

(b) Unemployment Rate (Up to 5 points). An application that compares the local unemployment rate for the applicant's jurisdiction and the target area in the following manner to the national average at the time of submission will receive points under this Section as follows:

(i) Less that the national average, but with an unemployment rate in the target area that is greater than the applicant's jurisdiction: 2 points;

(ii) Equal to or greater than, but less than twice, the national average: 3 points;

(iii) Equal to or greater than twice the national average: 5 points.

(c) Consolidated Plan and Analysis of Impediments to Fair Housing Choice (Up to 5 points). Describe any unmet needs as identified in the jurisdiction's Consolidated Plan and, pursuant to Section IV(I) of this program section of the SuperNOFA, any impediments to fair housing identified in the jurisdiction's Analysis of Impediments to Fair Housing Choice that will be directly addressed by the proposed project.

(d) Other Indicators of Social and/or Economic Decline (Up to 5 points). Applicants should provide other indicators of social or economic decline that best capture the applicant's local situation. Examples that could be provided under this section include information demonstrating the target area and the jurisdiction's stagnant or falling tax base, including recent (within the last three years) commercial or industrial closings, downturns or layoffs; housing conditions, such as the number and percentage of substandard and/or overcrowded units; rent burden (defined as average housing cost divided by average income) for both the target area and jurisdiction; local crime statistics. The response to this subfactor (d) should paint a portrait of the extent of need and distress in the target area and jurisdiction.

HUD requires use of sound and reliable data (e.g., U.S. Census data, state statistical reports, university studies/reports that are verifiable) to support distress levels cited in each application. A source for all information along with the publication or origination date must also be provided. Updated Census data are available as follows for the listed indicators:

Unemployment rate—estimated monthly for counties, with a two-month lag;

Poverty rate—estimated every two years, with a three-year lag, with 2000 being the most recent available.

In rating applications under this Factor, HUD reserves the right to consider sources of available objective data other than, or in addition to, those provided by applicants, in order to compare such data to those provided by applicants.

Rating Factor 3: Soundness of Approach (35 Points Maximum)

This factor addresses the quality and cost-effectiveness of the proposed plan for the brownfields economic development project. Brownfields economic development projects that do not involve new investments by an identified private sector party and that do not result in near-term, measurable economic benefits, such as projects that involve only the preparation of a site for potential redevelopment by an unidentified party, or the capitalization of a loan pool for loans to unidentified borrowers, will receive fewer points under this Factor. The relationship between the proposed eligible activities, community needs and purposes of the program funding must be clearly described, as set forth below, in order to receive points for this Factor. In rating this Factor, HUD will consider the following:

(1) Consistency/Appropriateness of Proposed Activities with Identified Needs (Up to 8 points). The applicant should address the extent to which the proposed plan for use of BEDI grant/Section 108-guaranteed loan funds will address the needs described in Rating Factor 2 above, regarding the distress and extent of the problem in the target area or area to be benefited and the long-term benefit for current residents of the target area. The applicant should provide a clear and quantified explanation of this relationship. As part of the response to this Factor, an applicant should also fully describe:

(a) How the project will achieve one of the National Objectives under the Community Development Block Grant program (see 24 CFR 570.208) and the eligible activities that will be carried out under 24 CFR 570.703, including citations to the specific regulatory subsections supporting eligibility of activities and compliance with National Objectives; and

(b) How the project will address the following policy priorities:

(i) For all BEDI projects, the extent to which the proposed project will improve the quality of life in the nation's communities, by bringing private capital to distressed communities; and

(ii) For BEDI projects that include the construction or rehabilitation of housing:

(A) The extent to which the project will increase affordable housing and homeownership opportunities for low- and moderate income persons, the disabled, the elderly, minorities and families where English may be the second language, whether through the provision of housing or employment which will enable residents to access affordable housing and have a choice of such housing in environmentally healthy and revitalized neighborhoods; and

(B) The extent to which the project will encourage accessible design features for persons with disabilities.

(2) Feasibility and Demonstrable Benefits (Up to 15 points). In responding to this subfactor (2), the applicant should demonstrate the extent to which the redevelopment plan for the brownfields site is logical, feasible and likely to achieve its stated purpose. Applicants are reminded that HUD's intention is to fund brownfields economic development projects and activities that will quickly produce measurable economic benefits and advance the purposes of the BEDI program. The applicant's response should demonstrate the extent to which the project is “ready to go,” meaning that the project is likely to be completed within three to five years from the date of the BEDI award and will produce near-term, measurable economic benefits. Points for this subfactor will be awarded in two parts, for the following:

(a) Implementation Steps (Up to 8 points). The applicant's response should discuss the extent to which the redevelopment plan demonstrates a clear understanding of each of the steps required to implement the brownfields economic development project, including the actions that all parties responsible for implementing the project must complete. The applicant's response to this subfactor should address:

(i) Environmental Investigation. This subfactor (i) will consider the extent to which the redevelopment plan takes into account environmental issues typical of many brownfields remediation efforts. Proposed projects on sites where the nature and degree of environmental contamination is not well-quantified, where no environmental investigation has commenced, or that are the subject of on-going litigation or environmental enforcement actions will receive fewer points under this subfactor (i). Similarly, fewer points will be awarded to proposed projects at sites with exceptionally expensive contamination problems that may be beyond the scope of the BEDI and Section 108 programs' financial resources or other resources firmly committed to the project as described in the application, and sites subject to pending and current litigation that may not be available for remediation and development or redevelopment in a time-frame that will produce near-term and measurable economic benefits through the use of BEDI and Section 108 funds.

(ii) Site Control. This subfactor (ii) will consider the extent to which control of the proposed project site has been secured or is being sought.

(iii) Regulatory and Other Approvals. This subfactor (iii) will consider the extent to which any required zoning classifications, environmental regulatory approvals, waivers, general and special use permits, assessment district designations, public easements or rights-of-way have been secured or are being sought.

(iv) User Agreements. This subfactor (iv) will consider the extent to which any development agreements, leases, memoranda of understanding or other agreements integral to the success of the project have been secured or are being sought.

(b) Timing and Delivery of Project Benefits (Up to 7 points). The applicant's response should set forth the strategy and schedule for the delivery of the project's measurable economic benefits.

(i) Project Benefits. The response to this subfactor (i) should include a full description of the problem (e.g., the extent of environmental contamination, the need for jobs, the shortage of affordable housing, etc.) and the measurable economic benefits that will accrue from the project (e.g. the number of permanent jobs, the amount of commercial or industrial space to be created, the number of housing units to be provided, etc.). The response to this subfactor (i) must also include the time frame in which the measurable economic benefits are to be delivered. For multi-phase projects, the response to this Factor must clearly delineate the different phases of the project and indicate whether or not they are to be funded by BEDI/Section 108 funds. Brownfields economic development projects that provide near-term, measurable economic benefits directly through the creation or retention of jobs will receive a greater number of points under this subfactor (i). BEDI projects that utilize innovative construction techniques, technologies or other strategies in order to achieve increased energy efficiency will also receive a greater number of points under this subfactor (i).

(ii) Project Schedule. The applicant should provide a specific time schedule (with both beginning and end dates) for carrying out the project and identify interim measurable benchmarks (acquisition, site improvements, construction, etc.) to be accomplished. The applicant should also include a proposed schedule for drawing down all funds necessary to complete the project, including BEDI and Section 108 funds.

A timeline form is provided in Appendix A to this program section of the NOFA for the purpose of illustrating the project schedule, but HUD will consider the timeline form only as an illustration of the narrative response to this subfactor (ii).

(3) Section 108 Application (Up to 2 points). BEDI applications accompanied by a full and complete Section 108 application will receive up to two (2) points for this subfactor (3). BEDI applications accompanied by a copy of a currently pending but unapproved Section 108 loan guarantee application for the same project described in the BEDI application will also receive up to two (2) points under this subfactor (3).

(4) Financial Feasibility/Need (Up to 10 points). The applicant should demonstrate the extent to which the project is financially feasible based on its proposed use of BEDI and Section 108 funds. In responding to this subfactor (4), applicants are encouraged to accompany their narrative response, as appropriate, with a development and operating pro forma or similar analysis of the proposed project financing. Such pro forma or other financial analysis will not be counted in the fifteen page limitation on the narrative response to the Rating Factors as provided in Section V (D) of this program section. In the narrative response, applicants must clearly address the question of why the BEDI funds are critical to the success of this project by providing the following items, as applicable:

(a) Project Costs and Financial Requirements. A funding sources and uses statement should be provided that specifies the source of funds for each identified use or activity, along with the derivation of project costs;

(b) Use of BEDI and Section 108 Funds. The applicant should discuss the critical gaps that exist in the financing of the proposed project, why those gaps exist and how the BEDI and Section 108 funds will be used to fill those gaps; and

(c) Funding Criteria. The applicant should describe the criteria used for determining funding need and feasibility.

Rating Factor 4: Leveraging Resources (15 Points Maximum)

In evaluating this factor, HUD will consider the extent to which the response demonstrates the likelihood that the project will leverage both Section 108 loan and other public or private funds as part of the total project resources. This factor has two subfactors, each with its own maximum point total:

(1) Leverage of Section 108 funds (Up to 8 points).

The minimum ratio of Section 108 funds to BEDI funds in any project may not be less than 1:1. Points will be awarded based upon the extent to which the proposed project leverages an amount of Section 108 funds greater than a 1:1 ratio. If the application has a ratio of 1:1, it will not receive any points under this subfactor. The higher the ratio of additional new Section 108 funds to BEDI funds proposed in an application, the more points it will receive under this subfactor, within the points available hereunder. (See Section IV (G)(1) and (5) of this program section of the SuperNOFA regarding the conditioning of BEDI awards on achievement of a specific BEDI/Section 108 leveraging ratio.)

(2) Leverage of Other Financial Resources (Up to 7 points).

HUD will evaluate the extent to which other funds (public or private) are leveraged by BEDI grant funds, and the extent to which such other funds are firmly committed to the project. This could include the use of CDBG funds, other federal or state grants or loans, local general funds, project equity or commercial financing provided by private sources or funds from non-profits or other sources. Funds will be considered committed to the project if they meet the definition of “Firm Commitment” found in Section III(A)(1) above, and may be subject to completion of any environmental review required under 24 CFR part 58 for the project. In order for an applicant's commitment of CDBG funds to be accepted by HUD as additional financing for a project, a resolution from the local governing body (e.g., city/borough council) authorizing the amount and permitted use(s) of the funds must be provided. Additionally, with respect to all commitments, in order for a commitment to receive points under this Factor—such as a commitment to donate or purchase real property or to provide in-kind services—the party making the commitment must assign a monetary value to the commitment and provide the basis for that value.

Rating Factor 5: Achieving Results and Program Evaluation (10 Points Maximum)

This factor emphasizes HUD's commitment to ensuring that applicants maintain commitments made in their application and assess their performance to ensure that performance goals are met. The applicant's response to this Factor should identify: (1) Project outcomes for the proposed BEDI project; (2) interim benchmarks of the project; and (3) performance indicators that will allow the applicant to measure its performance in achieving the identified interim benchmarks and the project outcomes. Achieving results means that the applicant has clearly identified the outcomes of the brownfields economic development project, i.e., the measurable economic benefits to be achieved. The applicant must also identify the interim benchmarks that will lead to the achievement of the project outcomes. The performance indicators selected by the applicant to measure performance should be objectively quantifiable and measure actual achievements against anticipated achievements. The response to this Factor should identify what will be measured, how it will be measured, and the procedures that are in place to make adjustments if performance targets for the interim benchmarks or the project outcomes are not met within established timeframes. BEDI grant agreements will provide for a periodic report by the grantee on the progress of the grantee in achieving the interim benchmarks and project outcomes of the BEDI project, until such time as the project outcomes are achieved.

In response to this Factor, applicants are encouraged to address any of the following applicable outcomes or ultimate goals identified by HUD for BEDI projects: The number of jobs to be created or retained; the amount of increased wages resulting from the creation or retention of jobs; the number of housing units to be constructed or rehabilitated; the total square feet of commercial and industrial space to be created; the total number of low- and moderate-income persons to benefit from the project; the total number of businesses assisted by the project; the number of acres of brownfields returned to productive economic use; and any increased land value as a result of the BEDI project. Applicants may also propose alternative or additional outcomes or goals related to other benefits expected for the neighborhood or for persons assisted, as part of the evaluation plan. A logic model is provided in the General Section of the SuperNOFA for the purpose of illustrating the evaluation plan, but HUD will consider the logic model only as an illustration of the narrative response to this Factor.

Bonus Points

An application may receive up to four (4) bonus points, until the maximum of four points are achieved. Two bonus points may be awarded for each of the following:

(a) Projects that are located either in federally-designated Empowerment Zones, Enterprise or Renewal Communities, or Strategic Planning Communities (See Section VI (C)(2) of the General Section of the SuperNOFA) for advice on locating a list of designated communities);

(b) Projects that are located in Brownfields Showcase Communities designated by EPA. A list of the federally designated Brownfield Showcase Communities is listed in Appendix B of this program section of the SuperNOFA and is also available from the SuperNOFA Information Center or through the HUD Web site, http://www.hud.gov.

VI. Application Submission Requirements

(A) BEDI Funding. An application for a BEDI grant under this program section of the SuperNOFA must have the following items listed in this Section VI to be complete. The standard forms, certifications and assurances that are required for the BEDI application (and listed in paragraph (I) below) can be found in Appendix B to the General Section. The remaining application items that are forms (i.e., excluding such items as narratives or letters, etc.), referred to as the “non-standard forms”, can be found in Appendix A to this program section of the SuperNOFA.

(B) Transmittal Letter signed by the authorized representative of the eligible applicant indicating that it is submitting the application for funding under the Brownfields Economic Development Initiative Program and is requesting funding consideration for a BEDI project.

(C) Checklist and Submission Table of Contents indicating the page numbers where the submission items can be found in the application (form HUD-40076-A EDI/BEDI).

(D) BEDI Narrative Statement (not to exceed 3 pages) describing BEDI-funded eligible activities within the proposed project and indicating that funding will not be used for a prohibited purpose and that the proposed site for the project is not ineligible under the BEDI program. (See Section V (B) of this program section.)

(E) EDI/BEDI/Section 108 Funding Eligibility Statement. A completed EDI/BEDI Section 108 Funding Eligibility Statement (form HUD-40076-E EDI/BEDI).

(F) Request for Loan Guarantee Assistance. A request for loan guarantee assistance under Section 108, as further described in Section IV (D) of this program section of the SuperNOFA. Full application guidelines for the Section 108 program are found at 24 CFR 570.704.

(G) Narrative Responses to Factors for Award (not to exceed 15 pages overall):

(1) Rating Factor 1: Capacity and Relevant Organizational Experience. Provide a narrative indicating the capacity of the applicant's organization and staff and any third parties to perform the work for which it is requesting funding.

(2) Rating Factor 2: Need Statement Identifying the level of Distress/Extent of the Problem. Provide a narrative statement including any documentation supporting the statement of need, accompanied by a completed form HUD-40076-B EDI/BEDI.

(3) Rating Factor 3: Soundness of Approach. Include the activities, budget and time frame for conducting activities and providing project benefits in the narrative response, accompanied by form HUD 40076-C EDI/BEDI.

(4) Rating Factor 4: Leveraging Resources. The response must include a completed copy of form HUD-40076-D EDI/BEDI, “Rating Factor 4: Leveraging Resources—Sources and Uses Statement,” accompanied by any letters of firm commitment as defined in Section III (A)(1) of this program section.

(5) Rating Factor 5: Achieving Results and Program Evaluation: Provide a narrative response to this factor, accompanied by the logic model provided in the General Section of the SuperNOFA.

(H) Request for Funds. A single application must contain a request for funds for a single BEDI/108 project. An applicant may submit an additional application for each additional unrelated BEDI/108 project, but in no event will HUD rate and rank more than one BEDI project per application.

(I) Additional Application Forms and Certifications. In addition to any forms that have been submitted in response to Section VI (A) through (H) above (which may be found at Appendix A), the following forms and certifications must also be submitted in accordance with Section V (H) of the General Section of this SuperNOFA:

(1) Application for Federal Assistance (HUD-424);

(2) Federal Assistance Funding Matrix (HUD 424-M);

(3) Standard Form for Assurances—Non-Construction Programs (HUD 424-B) and/or Standard Form for Assurances—Construction Programs (SF 424-D): not required for BEDI applications since the “Leveraging Resources—Sources and Uses Statement” serves the same purpose as a budget form, but must be submitted with the Section 108 application. Since these forms contain assurances of compliance with civil rights and other regulatory requirements, BEDI applicants may elect to provide the signed assurances either with the BEDI or the Section 108 application, if the latter is submitted with the BEDI application.

(4) Applicant/Recipient Disclosure/Update Report, HUD-2880;

(5) Certification of Consistency With EZ/EC Strategic Plan, HUD-2990.

These forms are found in the Appendix B to the General Section of this SuperNOFA.

The non-standard forms for the BEDI applications are in Appendix A to this program section.

If an applicant wishes to receive an acknowledgment of HUD's receipt of its application, it should submit a completed Acknowledgment of Receipt of Application form.

VII. Corrections to Deficient Applications

The General Section of the SuperNOFA provides the procedures for corrections to deficient applications.

VIII. Environmental Requirements

(A) Environmental Reviews. After the completion of this competition and after HUD's award of BEDI grant funds, pursuant to 24 CFR 570.604, each project or activity assisted under this program is subject to the provisions of 24 CFR part 58, including limitations on the BEDI grantee and Section 108 public entity's commitment of HUD and non-HUD funds prior to the completion of environmental review, notification and release of funds. No such assistance will be released by HUD until a request for release of funds is submitted and the requirements of 24 CFR part 58 have been met. All public entities, including non-entitlement public entities, shall submit the request for release of funds and related certification, required pursuant to 24 CFR part 58, to the appropriate HUD field office for each project to be assisted.

(B) Environmental Justice. (1) Executive Order 12898 (Federal Actions to Address Environmental Justice in Minority Populations and Low-Income Populations) directs federal agencies to develop strategies to address environmental justice. Environmental justice seeks to rectify the disproportionately high burden of environmental pollution that is often borne by low-income, minority, and other disadvantaged communities, and to ensure community involvement in policies and programs addressing this issue.

(2) Brownfields are often located in distressed neighborhoods, contribute to neighborhood blight, and lower the quality of social, economic, and environmental health of communities. The BEDI program is intended to promote the clean up and redevelopment of brownfields sites and HUD expects that projects presented for BEDI funding will integrate environmental justice concerns and provide measurable economic benefits for affected communities and their current residents for the long term.

IX. Authority

Section 108(q), Title I, Housing and Community Development Act of 1974, as amended, (42 U.S.C. 5301); 24 CFR part 570.

Appendices. Appendix A, the non-standard forms for the BEDI application, and Appendix B, a listing of federally designated Brownfields Showcase Communities, follow.

Appendix B

Federally Designated Brownfields Showcase Communities

The following lists Federally Designated Brownfield Showcase Communities:

(1) Baltimore, Maryland

(2) Cape Charles/Northhampton County, Virginia

(3) Chicago, Illinois

(4) Dallas, Texas

(5) Denver, Colorado

(6) Des Moines, Iowa

(7) East Palo Alto, California

(8) Eastward Ho (Consortium), Florida

(8) Gila River Indian Community, Arizona

(9) Glen Cove, New York

(10) Houston, Texas

(11) Jackson, Mississippi

(12) Kansas City, Kansas/Missouri

(13) Los Angeles, California

(14) Lowell, Massachusetts

(15) Metlakatla Indian Community, Alaska

(16) Milwaukee, Wisconsin

(17) Mystic Valley Development Commission, Massachusetts (Cities of Everett, Malden and Medford)

(18) New Bedford, Massachusetts

(19) Niagara Region, New York (Cities of Buffalo, Niagara Falls, Counties of Niagara and Erie)

(20) Portland, Oregon

(21) State of Rhode Island

(22) St. Louis, Missouri/East St. Louis, Illinois

(23) St. Paul, Minnesota

(24) Salt Lake City, Utah

(25) Seattle/King County, Washington

(26) Stamford, Connecticut

(27) Trenton, New Jersey

BILLING CODE 4210-32-P

Funding Availability for Self-Help Homeownership Opportunity Program (Shop)

Program Overview

Purpose of the Program. To facilitate and encourage innovative homeownership opportunities through self-help housing where the homebuyer contributes a significant amount of sweat-equity toward the construction of the new dwelling.

Available Funds. $25,085,875 in Fiscal Year 2003 funds.

Eligible Applicants. You must be a national or regional nonprofit organization or consortium.

Application Deadline. July 3, 2003.

Match. None.

Additional Information

If you are interested in applying for funding under this program, please review carefully the General Section of this SuperNOFA and the following additional information:

I. Application Due Date, Standard Forms, Further Information, and Technical Assistance

Application Due Date. Applications for SHOP grants are due on or before July 3, 2003.

Application Submission Procedures. Applicants must follow the specific Mailing and Receipt Procedures and Proof of Timely Submission located in the General Section of this SuperNOFA.

Address for Submitting Applications. Submit one original and two copies of the application to Department of Housing and Urban Development, Office of Community Planning and Development, Processing and Control Unit, 451 Seventh Street, SW, Room 7251, Washington, DC 20410, ATTN: Self-Help Homeownership Opportunity Program (SHOP).

For Application Forms. Only national and regional nonprofit organizations and consortia are eligible to apply for SHOP funding under this NOFA. This notice contains all the information necessary for submission of your application. Consequently, there is no separate application kit. Copies of the standard forms are located in the General Section of this SuperNOFA or you may request copies by calling HUD's SuperNOFA Information Center at: 1-800-HUD-8929. If you have a hearing or speech impairment, please call the Center's TTY number at 1-800-HUD-2209. When requesting standard forms, you should refer to SHOP and provide your name and address (including zip code) and telephone number (including area code). See Section VI for application submission requirements. You may also access the application requirements on the Internet through HUD's Web site at http://www.hud.gov/grants.

Further Information and Technical Assistance. You may contact Ms. Lou Thompson, Office of Affordable Housing Programs, Department of Housing and Urban Development, Room 7164, 451 Seventh Street, SW., Washington, DC 20410; telephone (202) 708-2684, ext. 4594 (this is not a toll-free number). This number can be accessed via TTY by calling the Federal Information Relay Service Operator at 1-800-877-8339.

Satellite Broadcast. HUD will hold an information broadcast via satellite for potential applicants to learn more about the program and preparation of the application. For more information about the date and time of the broadcast, you should consult the HUD Web site at http://www.hud.gov/grants.

II. Amount Allocated

The amount available for this program is $25,085,875.00 in Fiscal Year 2003 Funds. Any unobligated funds from previous competitions or additional funds that may become available, as a result of deobligation or recaptures from previous awards or budget transfers, may be used in addition to the Fiscal Year 2003 appropriation to fund applications submitted in response to this NOFA.

III. Program Description; Eligible Applicants; Eligible Activities

(A) Program Description. SHOP funding is intended to facilitate and encourage innovative homeownership opportunities on a national geographically-diverse basis through self-help housing where the homebuyer contributes a significant amount of sweat-equity toward the construction or rehabilitation of the dwelling.

Decent, safe, and sanitary non-luxury dwellings developed under SHOP must be made available to eligible homebuyers at prices below the prevailing market prices. Eligible homebuyers are low-income individuals and families (i.e., those whose annual incomes do not exceed 80 percent of the median income for the area, as established by HUD) who are unable to purchase a dwelling. Housing assisted under this Notice must involve community participation in the form of labor contributed by homebuyers and, if the program permits them, volunteers in the construction of dwellings and by other activities that involve the community in the project.

(B) Eligible Applicants. You must be a national or regional nonprofit public or private organization or consortium that has the capacity and experience to provide or facilitate self-help housing homeownership opportunities. Your organization or consortium must undertake eligible SHOP activities directly and/or provide assistance to your local affiliates. Your organization or consortium must undertake eligible SHOP activities directly and/or provide assistance to your local affiliates.

“Regional” is defined for the purpose of this program to be an area such as the Southwest or Northeast that must include at least two states. The states in the region need not be contiguous and the operational boundaries of the organization need not precisely conform to state boundaries.

“Consortium” for the purposes of SHOP is defined as two or more nonprofit organizations that individually have the capacity and experience to provide or facilitate self-help housing and come together to submit a single application for SHOP funding on a national or regional basis. If you are a consortium, an agreement must be executed by all consortium members forming the consortium for the purpose of applying for and using FY 2003 SHOP funds before the application is submitted to HUD. The consortium agreement must be submitted as part of your application. All consortium members must be identified in your application. Your application must be submitted as one integrated document that demonstrates the consortium's comprehensive approach to self-help housing. However, the application must describe the program design of each consortium member if they are different from one another. One organization must be chosen as the lead entity. The lead entity must submit the application and, if selected for funding, will execute the grant agreement with HUD and assume responsibility for carrying out grant activities in compliance with all program requirements. If funded, the lead entity must enter into a separate agreement with each consortium member that incorporates the requirements of the Grant Agreement between HUD and the consortium and outlines the individual consortium member's responsibilities for compliance with SHOP.

“Affiliate” is defined for the purpose of this program to be:

(i) A local self-help housing organization which is a subordinate organization (i.e., chapter, local, post, or unit) of a central organization and which is covered by the group exemption letter issued to the central organization under section 501(c)(3) of the Internal Revenue Code;

(ii) A local self-help housing organization with which the applicant has an existing relationship, e.g., the applicant has provided technical assistance or funding to the local self-help housing organization; or

(iii) A local self-help housing organization with which the applicant does not have an existing relationship, but to which the applicant will provide necessary technical assistance and mentoring as part of funding under the application.

Your application may not propose to fund any affiliate or consortium member that is also included in another SHOP application. You must ensure that any affiliate or consortium member under your FY 2003 application is not also seeking funding from another SHOP applicant for FY 2003 funds. If they apply under more than one national or regional organization or consortium, they may be disqualified for any funding.

(C) Eligible Activities. The only eligible activities are:

(1) Land acquisition (including financing and closing costs), which may include reimbursing an organization, consortium, or affiliate, upon approval of any required environmental review, for non-grant amounts of the organization, consortium, or affiliate advanced to acquire land before completion of the review;

(2) Infrastructure improvements (installing, extending, constructing, rehabilitating, or otherwise improving utilities and other infrastructure, including removal of environmental hazards); and

(3) Administration, planning and management development shall not exceed 20 percent of any SHOP grant. Administrative costs are the costs of general management, oversight and coordination of the SHOP grant; staff and overhead costs of the SHOP grant; costs of providing information to the public about the SHOP grant; cost of affirmatively furthering fair housing; and indirect costs (such as rent and utilities) of the grantee or affiliate in carrying out the SHOP activities. Indirect costs may only be charged to the SHOP grant under a cost allocation plan prepared in accordance with OMB Circular A-122. Funds may be used for both single-family and multifamily dwellings.

(D) Ineligible Costs: Costs associated with the rehabilitation, improvement, or construction of dwellings are not eligible uses of program funds.

IV. Program Requirements

In addition to the statutory, regulatory, threshold and public policy requirements listed in Section V of the General Section of this SuperNOFA, each applicant must meet and comply with the following SHOP statutory, threshold, and other program requirements:

(A) Threshold Requirements

(1) You, the applicant, must be eligible to apply under SHOP (see Section III(B) of this program section of the SuperNOFA).

(2) The amount of funding you request must support no less than 30 self-help units and may not exceed an average investment of $10,000 per unit in SHOP funding.

(3) The population you plan to serve must be eligible under SHOP. Eligible homebuyers are low-income individuals and families (i.e., those whose incomes do not exceed 80 percent of the median income for the area, as established by HUD).

(4) You must demonstrate that you have successfully completed at least 30 self-help homeownership units within a national or regional area in which the homebuyers contributed a significant amount of sweat-equity, and, if your program permitted it, volunteer labor was used toward the construction of the dwellings within the 24-month period immediately preceding the publication of this SuperNOFA.

(5) Your program must require homebuyers to contribute a minimum of 200 hours of sweat equity on the construction of their own homes. This excludes the contribution of volunteer labor, except for assistance for homebuyers with disabilities.

Submission Threshold Requirements

(1) Evidence of your public or private non-profit status, such as a copy of a current Internal Revenue Service ruling that your organization is exempt from taxation under section 501(c)(3) or 501(c)(4) of the Internal Revenue Code of 1986. Where an IRS ruling is unavailable, you may submit a certified copy of your approved charter, articles of incorporation or bylaws demonstrating that you are established as a nonprofit organization under state law. If you are a consortium, each participant in your consortium must be a nonprofit organization. Each consortium member must submit evidence of its nonprofit status to the lead entity for inclusion in the consortium's application package.

Threshold requirements (2) through (5) require no separate submissions. In order for the application to be rated and ranked, these requirements must be addressed under the submission requirements for the rating factors listed in Section V(D) of this program section of this SHOP NOFA below.

(B) Statutory and Program Requirements. This program does not have regulations. You must comply with all statutory requirements applicable to the SHOP program as cited in Section X, Authority, of this SHOP program section and program requirements cited in this program section of the SuperNOFA. Pursuant to these requirements, you must:

(1) Develop, through significant amounts of sweat-equity by each homebuyer and any additional volunteer labor, at least 30 dwelling units at an average cost of no more than $10,000 per unit in SHOP funds for land acquisition and infrastructure improvements;

(2) Use your grant to leverage other sources of funding, including private or other public funds, to complete construction of the housing units;

(3) Develop quality dwellings that comply with local building and safety codes and standards, that will be made available to homebuyers at prices below the prevailing market price;

(4) Schedule activities to expend all grant funds awarded and substantially fulfill your obligations under your grant agreement, including timely development of the appropriate number of dwelling units. Grant funds must be expended within 24 months of the date that grant funds are first made available for drawdown under a line of credit established by HUD for the Grantee, except that grant funds provided to affiliates that develop five or more units must be expended within 36 months; and

(5) Not require a homebuyer to make an up-front financial contribution to a unit other than cash contributed for down payment or closing costs at the time of acquisition.

V. Application Selection Process

(A) Rating. HUD will review all applications in accordance with the Application Selection Process in Section VI of the General Section of this SuperNOFA and in this SHOP program section of the SuperNOFA. HUD will review all applications based on the threshold factors listed in Section IV of this program section. Applications that meet all threshold requirements will be rated according to the selection factors in this program section of the SuperNOFA. Applications that do not meet all threshold factors will be rejected and not rated.

(B) Ranking and Selection Procedures. Applications that receive a total rating of 75 points or more (without the addition of Empowerment Zones/Enterprise Communities/Urban Enhanced Enterprise Communities/Strategic Planning Communities, or Renewal Communities [RC/EZ/ECs] bonus points) will be eligible for selection, and HUD will place them in rank order. After adding any bonus points for RC/EZ/ECs, HUD will consider rank order, funds availability, and past performance in the selection and funding of applications. HUD reserves the right to:

(1) Fund less than the amount requested by any applicant based on the application's rank, the applicant's past performance, and the amount of funds requested relative to the total amount of available funds; and

(2) Fund less than the full amount requested by any applicant to ensure a fair distribution of the funds and the development of housing on a national, geographically-diverse basis as required by the statute; and/or

(3) Not award funds to an applicant with significant performance problems.

HUD will not fund any portion of an application that is ineligible for funding under program statutory requirements, or which does not meet the requirements of the General Section of this SuperNOFA or the requirements in this SHOP section of the SuperNOFA. The minimum grant award shall be the amount necessary to complete at least 30 units at an average investment of not more than $10,000 per unit or a lesser amount if lower costs are reflected in the application. If any funds remain after all selections have been made, these funds may be available for other competitions.

(C) Applicant Debriefing. In accordance with the requirements of Section XI(A)(4) of the General Section of this SuperNOFA, applicants requesting to be debriefed must send a written request to Ms. Lou Thompson, Office of Affordable Housing Programs, Department of Housing and Urban Development, Room 7164, 451 Seventh Street, SW, Washington, DC 20410.

(D) Factors for Award Used to Evaluate Applications. HUD will rate all SHOP applications that successfully complete technical processing using the Rating Factors and the Application Submission Requirements described below. The maximum number of points for this program is 102. This includes two RC/EZ/EC bonus points, as described in Section III(C)(1) of the General Section of the SuperNOFA. In evaluating applications for funding, HUD will take into account an applicant's past performance in managing funds, including accounting for funds appropriately, the timely use of funds received from HUD, meeting performance targets for completion of activities, and the number of persons served.

Rating Factor 1: Capacity of the Applicant and Relevant Organizational Staff (20 Points)

This factor examines the extent to which you, as a single applicant or as a consortium (including individual consortium members), have the experience and organizational resources necessary to carry out the proposed activities in a timely manner.

In evaluating this factor, HUD will consider your recent and relevant experience in carrying out the activities you propose, and your administrative and fiscal management capability to administer the grant, including the ability to account for funds appropriately. All applicants, including individual consortium members, must have capacity and experience in administering or facilitating self-help housing. If you are sponsoring affiliate organizations that do not have a history of developing self-help housing, HUD will assess your organization's experience in providing technical assistance and the ability to mentor new affiliates. HUD will assess your organization's past performance based upon performance reports submitted for completion of eligible activities and the number of households/families provided housing, financial status information focusing on expediency of draws and use of funds, monitoring reports, audit reports and other information available to HUD in making its determination under this factor. If you are not a current recipient of HUD funds, you should submit any existing internal or external performance reports or other information that will assist HUD in making this determination.

Submission Requirements for Rating Factor 1

(1) (7 points) You must describe your past experience in carrying out self-help housing activities (specify the time frame when these activities occurred) that are the same as, or similar to, the activities you propose for funding, and demonstrate reasonable success in carrying out and completing those activities. You must include the average number of sweat equity hours provided per family, and volunteer labor, if your program permitted it. You may demonstrate reasonable success by showing that your previous activities were carried out as proposed consistent with the time frame you proposed for completion of all work. You must show that established benchmarks for acquiring properties and completing housing construction were met and performance reports were submitted, as required. You must also describe any obstacles and/or delays that were encountered, and the actions taken to overcome them to successfully complete your program.

(2) (7 points) You must provide a description of your organization's or consortium's management structure. You must also describe the key staff and their roles and responsibilities for day-to-day management of your proposed SHOP program and activities within the organization or consortium if funds are awarded. If you elect to work with affiliates that do not have capacity and experience, you must state how you will provide technical assistance and mentor these organizations to develop capacity either directly or indirectly.

(3) (4 points) You must demonstrate your organization's ability to handle financial resources with adequate financial control and accounting procedures. You must describe your financial control procedures for SHOP and how they meet 24 CFR 84.21, “Standards for Financial Management Systems.” You are requested to submit a copy of your most recent audit if one is required to be performed for your organization. Only an audit of the lead entity would need to be provided with an application for a consortium.

(4) (2 points) You must demonstrate your experience and ability in constructing and altering homes by describing the kinds of features that you have used to design homes in accordance with universal design or otherwise make homes accessible to the elderly or persons with disabilities. You must provide data on the number of units and the timeframe in which units were constructed and/or altered.

Rating Factor 2: Need/Extent of the Problem (15 Points)

This factor examines the extent to which you identify the housing need, or problems in the areas that your proposed activities will target, and the urgency of meeting that need.

The purpose of this factor is to make sure that funding is provided where a need for funding exists. Under this factor, you must identify the need or needs in the community that your proposed SHOP activities are designed to address or, if you plan to select specific affiliates only after you receive SHOP funding, you must demonstrate how you plan to identify need prior to your selection of affiliates.

Submission Requirements for Rating Factor 2

Extent of Need

(1) (7 points) Identify the extent of need for SHOP funds in all communities or areas in which your proposed activities will be carried out or describe the specific criteria you will use to select communities or projects based on need after you have received an award under SHOP. National and regional organizations and consortia that select affiliates after grant award must submit a listing of affiliates surveyed on which they are projecting their need for SHOP funding.

Quality of Documentation

(2) The kind of information you submit to demonstrate the need or needs in the target areas may include, but is not limited to, the following:

(a) (6 points) Quality of data demonstrating:

(i) Housing market data such as information included in the local Five-Year Consolidated Plan or other data sources, such as local tax assessor databases or relevant realtor information.

(ii) Data dealing with such factors as housing density, housing affordability, housing age or deterioration, homeownership rate (especially minority) and lack of adequate infrastructure or utilities.

(b) (2 points) Quality of data demonstrating:

(i) Need for accessible homes in the area.

(ii) Evidence of housing discrimination.

(iii) Evidence from the local Analysis of Impediments to Fair Housing Choice that shows the need for this program.

Applicants will receive higher scores both for the level of need documented and for the quality of documentation.

Rating Factor 3: Soundness of Approach (40 points)

This factor examines the quality of your plan of proposed activities. In evaluating this factor HUD will consider:

(1) Your specific use of SHOP funds, the number of units and the type(s) of housing to be constructed, the use of sweat equity/volunteer labor; your established timeline for performance; your schedule for expending funds and completing construction; the proposed budget and cost effectiveness of your program; and your plans to reach all potentially-eligible homebuyers, including those with disabilities or least likely to apply.

(2) How your planned activities further the Department's FY 2003 policy priorities noted in Section II of the General Section. You will receive one rating point for each priority your program will address and associated with performance measures. For FY 2003, HUD's policy priorities that apply to the SHOP program are:

(a) Providing increased homeownership and rental opportunities for low- and moderate-income persons, persons with disabilities, the elderly, minorities, and families with limited English proficiency.

(b) Improving our Nation's communities.

(c) Encouraging accessible design features: visitability in new construction and substantial rehabilitation and universal design.

(d) Providing full and equal access to grass-roots faith-based and other community-based organizations in HUD program implementation.

(e) Improving housing conditions for families living in the Colonias and migrant farm workers.

(f) Participation of minority serving institutions in HUD programs.

(g) Participation in Energy Star.

Submission Requirements for Factor 3

(1) (3 points) Identify all activities that you propose to fund with SHOP. You should identify the specific use of SHOP funds and the proposed number of units to be assisted with SHOP funding, the housing type(s) (single family or multifamily, or both) and the form of ownership (fee simple, condominium, cooperative, etc.) you propose to use.

(2) (4 points) Submit a construction and completion schedule that expends SHOP funds and substantially fulfills your obligations, including the completion of the appropriate number of dwelling units, within 24 months, or in the case of affiliates that develop five or more units, within 36 months, and demonstrates that remaining housing construction will be completed within a reasonable period of time. Your schedule must show the number or percentage of dwelling units that will be completed and conveyed to homebuyers at the end of the 24- and 36-month periods and the timeframe for completing any unfinished units.

(3) (4 points) Submit a timetable listing milestones against which HUD is to measure your performance progress in final selection of local affiliates if they are not specifically identified in the application, expending funds, and completing acquisition, infrastructure and housing construction activities within the schedule in Item 2 above. These milestones should be at reasonable intervals (e.g., monthly, quarterly).

(4) (2 points) Describe how your proposed activities address the need or needs you identified under Rating Factor 2 above.

(5) (5 points) Provide a detailed budget with a break out for each proposed task and each budget category (acquisition, infrastructure improvements, and administration) funded by SHOP in the HUD-424C and 424CB. If SHOP funds will be used for administration of your grant, you must include the cost of monitoring consortium members and affiliates at least once during the grant period. Your budget must also include leveraged funding to cover all costs of completing construction of the proposed number of units.

(6) (2 points) Demonstrate that projected costs for the proposed activities do not deviate substantially from the norm in the locale in which your activities will take place, will not exceed an average cost of $10,000 per unit in SHOP funds, and that your proposed activities are cost effective.

(7) (7 points) Describe how each of the Department's policy priorities are furthered by your proposed activities. You will receive one point for each policy priority addressed. To receive a point for a policy priority, you must describe how your proposed work activities address the specific policy and list proposed performance measurements related to it.

(8) (2 points) Describe how you will reach potential homebuyers through the use of services and materials that are accessible or visitable to all persons, including persons with disabilities (e.g., languages, formats, locations, distribution, and use of minority media to attract those least likely to apply).

(9) (4 points) Describe your criteria, including the income range of targeted homebuyers, and procedures for selecting homebuyers. If the selection criteria used by individual consortium members or affiliates are different from your criteria, you must describe the differences.

(10) (2 points) Describe how your program will provide reasonable accommodations for persons with disabilities by providing “sweat equity” assignments that can be performed by the client regardless of disability. Describe the types of tasks that persons with disabilities will be required to perform.

(11) (5 points) Describe your proposed plan for overseeing the performance of consortium members and affiliates, including a plan for monitoring each consortium member and affiliate for program compliance at least once during the term of the grant. Your plan should address when and how you will shift funds among consortium members and affiliates to ensure effective use of SHOP funds within your schedule identified in Item 3 above.

Rating Factor 4: Leveraging Resources (15 Points)

This factor addresses your ability to secure other resources that can be combined with HUD's program resources to achieve the purposes of SHOP. HUD will consider only those leveraging contributions for which current firm commitments have been provided. Leveraged resources can be counted only if you have secured a firm financial commitment described in this Factor. A firm commitment means the agreement by which the contributing partner or entity agrees to perform or provide resources for an activity specified in your application that demonstrates your financial capacity to deliver the resources necessary to carry out the self-help housing activity. Firm commitments of resources may be in the form of cash funding, in-kind contributions, or personnel from federal, state, local, and private sources, which are jointly referred to as your leverage partners. Together with the SHOP grant funds, these commitments must be sufficient to develop the proposed number of units in your application, which must be 30 units or more. Firm commitments must be substantiated by documentation required in item 1 below. Along with leveraged resources, HUD will also consider the extent that the applicant's proposed sweat-equity requirements will serve to reduce costs to the homebuyers.

Submission Requirements for Factor 4

(1) (10 points) Provide firm written commitments (letters, agreements, etc.) from the source of the commitment that will be used to complete the number of self-help housing units stated in your application. Written commitments must include your organization's name, the contributing organization's name (including designation as a federal, state, local or private source), and the proposed type and level of commitment and responsibilities as they relate to your proposed program. This leveraging commitment must be signed by an official of the organization legally able to make the commitment on behalf of the organization and must be specifically targeted to support your FY 2003 SHOP application. If your organization depends upon fund raising and donations from unknown sources/providers and you signed the HUD 424, in order to receive credit you must still submit a separate letter committing a specific amount of dollars in fund raising to your proposed FY 2003 SHOP program. Written commitments may be contingent upon your receiving a grant award. Written commitments must be included as an appendix and do not count against the page limitation. Letters expressing support do not count as leveraging. To receive full credit for leveraging, an applicant's firm commitments must be clearly identified for this FY 2003 SHOP grant and must equal the amount needed to complete all properties, exclusive of the proposed SHOP grant amount.

(2) (5 points) Provide a description of the individual sweat-equity requirements (types of tasks and number of hours required of homebuyers) of your program. Include the dollar value of the sweat equity contribution and how this contribution of labor will reduce the costs of the home to the homebuyer. Reasonable accommodation must be allowed for persons with disabilities to participate in your program. Applicants showing a higher reduction in cost as a result of the sweat equity contribution by the homebuyer will receive a higher score.

Rating Factor 5. Achieving Results and Program Evaluation (10 points)

This factor emphasizes HUD's determination to ensure that applicants meet commitments made in their applications and grant agreements and assess their performance to realize performance goals. HUD requires SHOP applicants to develop an effective, quantifiable, outcome oriented evaluation plan for measuring performance and determining that goals have been met using the Logic Model form provided in the General Section. “Out-comes” are benefits accruing to the families and/or communities during or after participation in the SHOP program. Outcomes are not the actual development of the self-help housing units. Applicants must clearly identify the outcomes to be achieved and measured. Examples of outcomes are increasing the homeownership rate in a neighborhood or among low-income families by a certain percentage, increasing financial stability (e.g. increasing assets of the low-income homebuyer households through additional savings, home equity) or increasing housing stability (e.g., whether persons and families assisted remain in the home one, two, or five or more years after completion).

In addition, applicants must establish interim benchmarks and outputs for their proposed programs that lead to the ultimate achievement of outcomes. “Outputs” are the direct products of the applicant's program activities. Examples of outputs are the number of the houses constructed, number of sweat equity hours, or number of homes rehabilitated. Outputs should produce outcomes for your program.

Program evaluation requires that you, the applicant, identify program outcomes, outputs, benchmarks, and performance indicators that will allow you to measure your performance. Performance indicators should be objectively quantifiable and measure actual achievements against anticipated achievements. Your evaluation plan should identify what you are going to measure, how you are going to measure it, and the steps you have in place to make adjustments to your work plan if performance targets are not met within established timeframes.

This factor reflects HUD's goal to embrace high standards of ethics, management and accountability.

Submission Requirements for Factor 5

You must submit a program evaluation plan that demonstrates how you will measure your own program performance. Your plan must identify the outcomes you expect to achieve or goals you hope to meet over the term of your proposed grant and benchmarks and timeframes for accomplishing these goals. Your plan must show how you will measure actual accomplishments against anticipated achievements. You must indicate how your plan will measure the performance of individual consortium members and affiliates, including the standards and measurement methods, and the steps you have in place or how you plan to make adjustments if you begin to fall short of established benchmarks and timeframes.

VI. Application Requirements, Assembly Format, and Checklist for Application Submission

Your application consists of the items listed in this Section VI. The standard forms, certifications, and assurances that are applicable to this funding (collectively, referred to as the “standard forms”) can be found in Appendix B to the General Section of the SuperNOFA.

Assembly Format. You should assemble your application as outlined below, with tabs designating forms, rating factors, and appendices. Your FY 2003 application has page limitations on your responses to the five rating factors. If you are a national or regional organization, you are limited to 60 pages of narrative responding to the five rating factors. This limitation does not include other required information, such as your audit and commitment letters, which must be included in the appendix. If you are a consortium, you are permitted up to 10 additional pages total to address the capacity and soundness of approach of your individual consortium members if they are different. Make certain that you number all pages sequentially and insert tabs marking each factor. Except for the narrative statements addressing the five rating factors, forms, certifications, assurances, and requested appendices, any other information that is submitted will not be considered. For example, commitments letters will be considered, but not counted against the page limitations; however, general expressions of support will not be considered. Any information beyond the above-noted 60-70 page limitations for the five rating factors will not be reviewed in the rating and ranking process.

In order to receive full consideration for funding, you should assemble your application according to the following checklist to ensure that all of the required items have been submitted.

___ HUD-424, Application for Federal Assistance (signed by the authorized representative of the organization eligible to receive funds)

___ HUD-424B, Applicant Assurances and Certifications

___ Table of Contents

___ Evidence of Non-Profit status

___ Consortium Agreement, if applicable.

Narrative Statement Addressing: (See page limitations above.)

___ Factor 1—Capacity of the Applicant and Relevant Organizational Staff

___ Factor 2—Need/Extent of the Problem

___ Factor 3—Soundness of Approach

___ Factor 4—Leveraging Resources

___ Factor 5—Achieving Results and Program Evaluation

Evaluation Plan—Logic Model form

Forms, Certifications and Assurances

___ HUD 424C, Budget Summary for Competitive Grant Programs

___ HUD 424CB, Grant Application Detailed Budget

___ SF-LLL, Disclosure of Lobbying Activity, as applicable

___ HUD-2880, Applicant/Recipient Disclosure/Update Report

___ HUD-2990, Certification of Consistency with the RC/EZ/EC Strategic Plan

___ HUD-2993, Acknowledgment of Application Receipt

Appendices

___ Recent audit, if available.

___ A copy of your code of conduct and a narrative description of the methods you will use to ensure that all officers, employees and agents of your organization become aware of your code of conduct.

___ Leveraging documentation—written commitment letters.

___ Survey of potential affiliates, if applicable.

VII. Corrections to Deficient Applications

The General Section of the SuperNOFA provides the procedures for corrections to deficient applications.

VIII. Environmental Requirements

The provisions contained in section 305(c) of the Multifamily Housing Property Disposition Reform Act of 1994, Environmental Review, implemented in the Environmental Review regulations at 24 CFR part 58, are applicable to properties assisted with SHOP funds. All SHOP assistance is subject to the National Environmental Policy Act of 1969 and related federal environmental authorities. SHOP grant applicants are cautioned that no federal or non-federal funds or assistance which limits reasonable choices or could produce a significant adverse environmental impact may be committed to a project until all required environmental reviews and notifications have been completed by a unit of general local government, tribe or state and until HUD approves a recipient's request for release of funds under the environmental provisions contained in 24 CFR part 58. Notwithstanding the preceding sentence, in accordance with section 11(d)(2)(A) of the Housing Opportunity Extension Act of 1996 and HUD Notice CPD-01-09, an organization, consortium or affiliate receiving SHOP assistance may advance non-grant funds to acquire land prior to completion of an environmental review and HUD's approval of a request for release of funds and environmental certification. Any advances to acquire land prior to such approval are made at the risk of the organization, consortium or affiliate and reimbursement from SHOP funds for such advances will depend on the result of the environmental review.

IX. HUD Reform Act of 1989

The provisions of the HUD Reform Act of 1989 that apply to this NOFA are explained in the General Section of the SuperNOFA at Section XI.

X. Authority

The funding made available under this program section of the SuperNOFA is authorized by section 11 of the Housing Opportunity Program Extension Act of 1996 (42 U.S.C. 12805 note) (the “Extension Act”).

BILLING CODE 4210-32-P

Funding Availability for the Youthbuild Program

Program Overview

Purpose of the Program. The purpose of the Youthbuild program is to assist disadvantaged young adults in distressed communities in completing their high school education, to provide on-site construction training experiences which also results in the rehabilitation or construction of housing for homeless persons and low- and very low-income families, to foster leadership skills, to further opportunities for placement in apprenticeship programs, and to promote economic self-sufficiency.

Available Funds. Approximately $54,642,500 is available for Fiscal Year (FY) 2003.

Adjustments to Funding. HUD reserves the right to utilize this year's funding to fund previous years errors prior to rating and ranking this years' applications. HUD reserves the right to reallocate funds between categories to achieve the maximum allocation of funds. Any available funds that remain after all applications within funding range have been selected or obligated will be reallocated between categories one (1) and two (2) by rank order between applications at the discretion of the selecting official or designee.

Eligible Applicants. Eligible applicants are public or private nonprofit agencies, including grassroots faith-based and other community-based organizations, State or local housing agencies or authorities, State or units of local government, or any entity eligible to provide education and employment training under other Federal employment training programs, as further defined in HUD's regulation at 24 CFR 585.4.

Application Deadline. June 6, 2003.

Match. None.

Additional Information

If you are interested in applying for funding under this program, please carefully review the General Section of this SuperNOFA and the following additional information. Mailed Applications. Your application will be considered timely filed if your application is received in HUD Headquarters on or before 5:15 p.m. eastern standard time on the application due date.

I. Application Due Date and Technical Assistance

Application Due Date. Completed applications (one original and two copies) must be submitted and received by HUD on or before 5:15 p.m., June 6, 2003 at the address shown below.

Application Submission Procedures. New Security Procedures. HUD has implemented new security procedures that impact application submission procedures. Please read the following instructions carefully and completely. No hand deliveries will be accepted.

Address for Submitting Applications. Completed applications (one original signed application and two copies) must be submitted to the Processing and Control Unit, Office of Community Planning and Development, Department of Housing and Urban Development, 451 Seventh Street, SW., Room 7255, Washington, DC 20410, Attention: Youthbuild Program. When submitting your application, please include your name and mailing address (including zip code) and telephone number and fax number (including area code).

There is no Application Kit for the FY2003 Youthbuild NOFA. This SuperNOFA clearly describes the requirements for completing a successful application and all forms and certifications needed to complete the application are included in the General and YouthBuild Sections of the SuperNOFA.

For information concerning the HUD Youthbuild program, contact Ms. Phyllis Williams, Community Planning and Development Specialist, Office of Rural Housing and Economic Development, Office of Community Planning and Development, Department of Housing and Urban Development, 451 Seventh Street, SW., Room 7137, Washington, DC 20410; telephone (202) 708-2290 (this is not a toll-free number). Persons with speech or hearing impairments may access this number via TTY by calling the toll-free Federal Information Relay Service at 1-800-877-8339.

For Technical Assistance. Prior to the application deadline, HUD's staff will be available to provide general guidance on the application submission process and location of information, but not guidance in preparing your application.

Satellite Broadcast. HUD will hold an information broadcast via satellite for potential applicants to learn more about the program and preparation of an application. For more information about the date and time of this broadcast, you should consult the HUD Web site at http://www.hud.gov.

II. Amount Allocated

(A) Available Funds. Approximately $54,642,500 in Fiscal Year (FY) 2003 funding will be made available through this program section of this SuperNOFA for the Youthbuild program. The breakdown of funding is discussed below.

(B) The FY 2003 HUD Appropriations Act. The Department of Veterans Affairs and Housing and Urban Development, and Independent Agencies Appropriations Act, 2003 (the “FY 2003 HUD Appropriations Act”) made $60,000,000 available of which $54,642,500 is allocated for grants.

(C) Funding Categories. HUD will award up to $54,642,500 on a competitive basis. Funds will be divided between three categories of grants as described below. In each fiscal year, the Secretary shall reserve five percent (5%) of the amounts available for activities under this subtitle pursuant to section 402 to carry out subsections (b) and (c), (Subtitle D—Hope for Youth: Section 458 (42 U.S.C. 12899g).

Category 1 Grants. New Applicants. HUD will award up to $10,000,000 for new applicants that have not previously received implementation grants since the inception of the program for a period not to exceed 30 months. The maximum amount awarded to a successful applicant in this category is $400,000.

Category 2 Grants. Grants up to $700,000. HUD will award up to $34,642,500 for grants up to $700,000 for a period not to exceed 30 months. The maximum amount awarded to a successful applicant in this category is $700,000. Any eligible applicant can apply in Category 2.

Category 3 Grants. Underserved and Rural Areas. HUD will award up to $10,000,000 for grants to organizations serving clients in underserved and rural areas as defined in this NOFA for a period not to exceed 30 months. The maximum amount awarded to a successful applicant in this category is $400,000.

Applicants must indicate on their transmittal/cover letter which funding categories they are applying for.

III. Program Description and Eligible Activities

(A) Program Description. The purposes of the Youthbuild Program are to:

(1) Provide economically disadvantaged young adults with opportunities to obtain an educational experience that will enhance their employment skills, as a means to achieving self-sufficiency;

(2) Foster the development of leadership skills and commitment to community;

(3) Expand the supply of permanent affordable housing for homeless and low- and very low-income persons by providing implementation grants for carrying out a Youthbuild program;

(4) Provide disadvantaged young adults with meaningful on-site training experiences in housing construction and rehabilitation that will enable them to render a service to their communities by helping to meet the housing needs of homeless persons and low-income families; and

(5) Give to the greatest extent possible, job training, employment, contracting and other economic opportunities to low-income young adults.

HUD also focuses on the Youthbuild Program as a way to foster the development of nonprofit organizations, including grassroots faith-based and other community-based organizations which over time can provide the services mentioned above to disadvantaged youth and which at the same time rely less on HUD's financial support to carryout these activities.

(B) Eligible Activities

(1) Work and activities associated with the acquisition, architectural and engineering work, rehabilitation or construction of the housing, as defined in HUD's regulations at 24 CFR 585.309, 585.310, and 585.311.

(2) Relocation payments and other assistance required to comply with HUD's regulation at 24 CFR 585.308;

(3) Costs of ongoing training and technical assistance needs related to carrying out a Youthbuild program;

(4) Education, job training, counseling, employment, leadership development services and optional activities that meet the needs of the participants including entrepreneurial training, drivers' education, apprenticeship opportunities, financial literacy, credit counseling, assistance programs for those with learning disabilities, and in-house staff training;

(5) Outreach to potential participants;

(6) Wages, benefits, and need-based stipends for participants and;

(7) Administrative costs, which must not exceed 10 percent of the grant award. HUD encourages you to use grant funds for outreach, recruitment, training and other services for the participants that facilitate program implementation. Please refer to HUD's regulation at 24 CFR 585.305 for further details on eligible activities.

IV. Program Requirements

In addition to the requirements listed in the General Section of this SuperNOFA, as an applicant you must comply with the following Youthbuild program requirements.

(A) Threshold Requirements

(1) Eligible Applicants. Eligible applicants are public or private nonprofit agencies, including grassroots faith-based and other community-based organizations, State or local housing agencies or authorities, State or units of local government, or any entity eligible to provide education and employment training under other Federal employment training programs.

(2) Eligible Participants. Participants in a Youthbuild program must be very low-income high school dropouts between the ages of 16 and 24, inclusive, at the time of enrollment. Up to 25 percent of participants may be above very low-income, or may be high school graduates (or equivalent), but must have educational needs (such as lack of reading, writing and communication skills) that justify their participation in the program.

(3) Locational Limitations. You may submit more than one application in the current competition if your program's participant recruitment and housing areas are in different jurisdictions. Each application you submit may only propose activities to carry out one Youthbuild program, i.e., to start a new Youthbuild program or to fund new classes of Youthbuild participants for an existing program.

(4) Response to NOFA—Page Limitation. The total narrative response to all factors identified in Section VI of this program NOFA must not exceed 15 pages, and must be submitted on 8.5″ by 11″ paper, using a 12 point font, with lines double spaced and printed only on one side. Please note that submitting pages in excess of the page limit will not disqualify your application. However, HUD will not review or consider the information on any excess pages, which may result in a lower score or failure to meet a threshold.

(5) Youthbuild Program Components. Applications that receive assistance under this Youthbuild Program section of the SuperNOFA must contain the three components described as follows:

(a) Educational and job training services;

(b) Leadership training, counseling, and other support activities; and

(c) On-site training through actual housing rehabilitation and/or new construction work, new construction may be subject to the accessible design and construction requirements of the Fair Housing Act [see Section II(C) of the General Section of the SuperNOFA], including the provision of alternative training experiences that are necessary as a reasonable accommodation for students with disabilities.

(6) Identification of and Access to Property. Your application must identify the location of the site(s) or property(ies) (e.g. addresses, parcel numbers, etc.) that will be used for on-site construction. Your application MUST contain a letter from the property owner or property management company(ies) allowing access to the housing site(s) for on-site construction training. HUD may deem as ineligible any application that fails to specifically identify the location of the on-site construction.

Site Selection—In determining the site or the location of a federally assisted facility, the applicant may not select sites that will exclude qualified persons with disabilities, or otherwise subject them to discrimination under the Youthbuild Program.

New Construction—Substantial Alterations—Other Alterations. If the Applicant undertakes to participate in New Construction, Substantial Alterations or Other Alterations, it must conform to the accessibility standards outline in the Regulations Implementing the Rehabilitation Act of 1973 at 24 CFR, Part 8, §§ 8.22, 8.23(a) and 8.23(b).

(7) Training Requirement. Each program must be structured so that 50 percent of each participant's time is spent in on-site training and the other 50 percent in educational training.

(8) Economic Opportunities for Low and Very Low-Income Persons (Section 3). Section 3 of the Housing and Urban Development Act of 1968, (12 U.S.C. 1701u) is applicable to the Youthbuild program. Please see Section II of the General Section of the SuperNOFA.

(9) Participation in Local Workforce Investment Act One-Stop Center. Youthbuild grantees are mandatory partners in one-stop centers authorized by the Workforce Investment Act of 1998 (Pub. L. 105-220).

(10) First time applicants. If you are a first time applicant applying for funding under Category 1, you must have a graduating class of not more than 20 participants.

(11) Grant Period. You must expend funds awarded within 30 months of the effective date of the grant agreement.

(12) Maximum Awards. Under the competition established by this Youthbuild Program section of the SuperNOFA, the maximum award for a Youthbuild grant is $700,000.

(13) Potential Environmental Disqualification. HUD reserves the right to disqualify an application where one or more environmental thresholds are exceeded if HUD determines that it cannot conduct the environmental review and satisfactorily complete the review within the HUD application review period. (See 24 CFR 585.307.) Environmental thresholds are explained in Appendix A of this program section of this SuperNOFA.

(B) Desirable Elements of a Youthbuild Program

You should document the extent to which HUD's initiatives are furthered by the proposed activities. Such initiatives include:

(1) Promoting healthy, safe, and energy efficient homes;

(2) Affirmatively furthering fair housing by promoting greater opportunities for housing choice for minorities and persons with disabilities;

(3) Providing opportunities for self-sufficiency, particularly for persons enrolled in welfare to work programs;

(4) Providing educational, apprenticeship and job training opportunities;

(5) Promoting welfare reform;

(6) Encouraging visitability in new construction and substantial rehabilitation activities; and

(7) Encouraging universal design.

VI. Application Selection Process

Applicants must meet all of the applicable threshold requirements of Section V (B) of the General Section of the SuperNOFA and Sections IV(A), (B) and C of this program section of the SuperNOFA. HUD will review each application and assign points in accordance with the selection factors described in this section. The maximum number of points is 102. This maximum includes two Renewal Community/Empowerment Zone/Enterprise Community (RC/EZ/EC) bonus points as described in Section VI(C) of the General Section of the SuperNOFA. An application must receive a minimum of 75 points to be eligible for funding.

(A) Rating and Ranking.

(1) General. To review and rate applications, HUD may establish panels including officials from other Federal agencies and outside experts or consultants to obtain certain expertise and other outside points of view. In evaluating applications for funding, HUD will take into account an applicant's past performance in managing funds, including the ability to account for funds appropriately, timely use of funds received either from HUD or from other Federal, State or local programs and meeting performance targets for completion of activities and number of persons served or targeted for assistance. HUD may use information relating to these items based on information at hand or available from public sources such as newspapers, Inspector General or Government Accounting Office Reports or Findings, hotline complaints that have been proven to have merit, or other such sources of information.

(2) Rating. All applications for funding will be evaluated against the rating factors described in Section (VI) of this NOFA.

(3) Ranking. Applications will be ranked separately within each of the three funding categories. Applications will be selected for funding in accordance with their rank order in each category.

(4) To be eligible for funding, an application must have an overall minimum score of 75 points. If two or more applications are rated fundable and have the same score, but there are insufficient funds to fund all of them, HUD will select the application(s) with the highest score for Rating Factor 3 (Soundness of Approach). If two or more applications still have the same score, the highest score in the following factors will be selected sequentially until one highest score can be determined: Rating Factor 1 (Capacity of the Applicant and Relevant Organization); Rating Factor 4 (Leveraging of Resources) and Rating Factor 2 (Need/Extent of the Problem).

(B) Categories of Grants. HUD will make grants in three categories:

(1) Category 1 Grants. Grants for new applicants that have not previously received funding under the Youthbuild program since the inception of the Program and that have elected not to apply under Category 2 or 3. HUD will make available approximately $10,000,000 to new applicants proposing grant(s) of $400,000 or less for activities not to exceed 30 months.

(2) Category 2 Grants. HUD will make available approximately $34,642,500 to applicants proposing grant(s) of $700,000 or less for activities not to exceed 30 months.

(3) Category 3 Grants. HUD will make available $10,000,000 for applicants proposing grant(s) of $400,000 or less to establish programs in underserved and rural areas not to exceed 30 months. Rural and Underserved areas are defined as follows:

(a) Rural Area. A Rural area is defined in one of five ways:

(i) A place having fewer than 2,500 inhabitants (within or outside of metropolitan areas).

(ii) A county with an urban population of 20,000 inhabitants or less.

(iii) Rural portions of extended cities, as identified by the U.S. Census Bureau.

(iv) Open country, which is not part of or associated with an urban area. The United States Department of Agriculture (USDA) describes “open country” as a site separated by open space from any adjacent densely populated urban area. Open space includes undeveloped land, agricultural land or sparsely settled areas but does not include physical barriers, (such as rivers and canals), public parks, commercial and industrial developments, small areas reserved for recreational purposes, and open space set aside for future development.

(v) Any place with a population not in excess of 20,000 and not located in a Metropolitan Statistical Area.

(b) Underserved Area. An underserved area is defined as an area comprised of census tracts with the following distress criteria:

(i) A census tract where the unemployment remains high (50 percent or more above the nation's unemployment rate) and

(ii) A census tract where high rates of poverty (50 percent or more above the national average) persists.

(C) Potential Environmental Disqualification. HUD reserves the right to disqualify an application where one or more environmental thresholds are exceeded if HUD determines that it cannot conduct the environmental review and satisfactorily complete the review within the HUD application review period. (See 24 CFR 585.307.) Environmental thresholds are explained in Appendix A of this program section of this SuperNOFA. Complete form 2Cl3a, 2C13b, or 2C13c and form 2C15 only if you are proposing to use Youthbuild funds for new housing construction or rehabilitation.

(D) Notification of Approval or Disapproval. HUD will notify you whether or not you have been selected for an award. If you are selected, HUD's notice to you of the amount of the grant award based on the approved application will constitute HUD's CONDITIONAL approval, subject to negotiation and execution of the grant agreement by HUD.

(E) Rating Factors for Award Used to Evaluate and Rate Applications. The factors for rating and ranking applicants, and maximum points for each factor, are provided below. The maximum number of points for the program is 102. This includes two RC/EZ/EC bonus points, as described in the General Section of the SuperNOFA.

(F) Application Debriefing. Applicants requesting to be debriefed must send a written request (see General Section IX(G)(3)) to Ms. Jackie Williams-Mitchell, Director, Office of Rural Housing and Economic Development (ORHED), Office of Community Planning and Development, 451 Seventh Street, SW., Room 7137, Washington, DC 20410. Debriefing information can be found in Section VII(E)(2) of the General Section of the SuperNOFA.

Rating Factor 1: Capacity of the Applicant and Relevant Organizational Experience (15 points)

This factor addresses the qualifications and experience of the applicant and participating parties to implement a successful young adult education, training program in accordance with your work plan as further described in Factor 3. HUD will review and evaluate information provided documenting recent capability. Experience within the last 5 years will be considered recent. In reviewing this rating factor, HUD will evaluate the following sub-factors:

(1) Team Member Composition and Experience (5 points). Your experience and the experience of your project director, core staff competencies including your day-to-day program manager, consultants and contractors. You must demonstrate that your program manager has the background, experience and capacity to implement all of the program components of the proposed work plan, as evidenced by recent work experience (within the last 5 years) in managing projects of the same or similar size, dollar amount, types of activities and beneficiaries as those proposed in your work plan. If any gaps exist in your experience or organizational structure to carry out the program, describe how you will fill those gaps including the hiring of consultants or other outside parties.

(2) Organizational Structure (5 points). The structure of your organization, management structure, including reporting relationships of key staff, a system for coordinating with outside contractors or third party service providers, a mechanism for an internal and external auditing relationships, and an accounting system which meets Federal accounting system requirements. You should provide a clear description of how your organizational structure will operate to carry out your work plan.

(3) Relevant Experience (5 points). The objectives and accomplishments of your past experience in conducting similar activities. You must describe your past project objectives and accomplishments which are similar to those of your proposed work plan to show your effectiveness and timeliness in managing similar projects. If you have received similar grants including previous Youthbuild grants, you must describe your effectiveness of your administration including timeliness and performance in meeting reporting requirements and your ability to have resolved problems that presented themselves during the grant period. In addressing timeliness of reports, you must compare when your reports were due with when they were actually submitted. You must describe your achievements, including those of previous Youthbuild grants, of specific measurable outcome objectives. Specific outcome objectives include: number of youths recruited, trained and received GEDs; number of youths obtaining jobs (i.e., those that are a part of a career path or apprenticeship program), number of youths participating in apprenticeships and number of housing units rehabilitated or constructed and made available for low and very low income persons.

Also, you must describe the extent to which you or participating partners have been successful in past education, training and employment programs and activities, including Federally-funded Youthbuild programs. If you have received a Youthbuild grant, you must submit copies of your last two progress reports or, if applicable, a closeout report. In applying the rating criteria, HUD will take into consideration your performance (including meeting target dates and schedules) as reported.

The more recent, relevant, and successful the experience of the proposed team members, organization and other participating entities in relation to the work plan, the greater the number of points that you will receive. For previous and existing Youthbuild grantees, applicants that can demonstrate a closer and greater linkage between the expected outcomes and the previously generated outcomes will receive a higher amount of points for this Factor.

Rating Factor 2: Need/Extent of the Problem (25 Points)

This Factor addresses the extent to which there is need for funding the proposed activities based on levels of distress and an indication of the urgency of meeting the need/distress in the applicant's target area. In responding to this Factor, applications will be evaluated on the extent to which the level of need for the proposed activity and the urgency in meeting the need are documented and compared to the target area and national data.

(1) In applying this Factor, HUD will consider current levels of distress for the area (i.e., Census Tract(s) or Block Groups) immediately surrounding the project site or the target area to be served by the proposed project, and in the nation. This means that an application that provides data that show levels of distress in the target area expressed as a percent greater than the national average will be rated higher under this Factor.

Notwithstanding the above, an applicant proposing a project to be located outside the target area could still receive points under the Distress Factor if a clear rationale and linkage is provided linking the proposed project location and the benefits to be derived by persons living in more distressed area(s) of the applicant's target area.

(2) Applicants should provide data that address indicators of distress, as follows:

(a) Poverty (5 points)—data should be provided in both absolute and percentage form (i.e., whole numbers and percents) for the target area(s); an application that compares the local poverty rate in the following manner to the national average at the time of submission will receive points under this section as follows:

(i) Less than the national average—0 points

(ii) Equal to but less than twice the national average—1 point

(iii) Twice but less than three times the national average—3 points

(iv) Three or more times the national average—5 points

(b) Unemployment (5 points)—for the project area;

(i) Less than the national average—0 points

(ii) Equal to but less than twice the national average—1 point

(iii) Twice but less than three times the national average—2 points

(iv) Three but less than four times the national average—3 points

(v) Four but less than five times the national average—4 points

(vi) Five or more times the national average—5 points

(c) High School Dropouts (10 points)—for the project area;

(i) Less than the national average—0 points

(ii) Equal to but less than twice the national average—2 points

(iii) Twice but less than three times the national average—4 points

(iv) Three but less than four times the national average—6 points

(v) Four but less than five times the national average—8 points

(vi) Five or more times the national average—10 points

(d) Concrete examples of social and/or economic decline that best capture the applicant's local situation (5 points). Examples that could be provided under this section are information on the community's stagnant or falling tax base, including recent commercial or industrial closings, housing conditions, such as the number and percentage of substandard and/or overcrowded units, rent burden (defined as average housing cost divided by average income) for the target area and urgency in addressing problems facing youth, local crime statistics, etc.

(3) In rating applications under this Factor, HUD reserves the right to consider sources of available objective data, such as the U.S. Census, other than, or in addition to, those provided by applicants, and to compare such data to those provided by applicants and local crime statistics for the project site.

HUD requires use of sound and reliable data (e.g., U.S. Census data, State statistical reports, university studies/reports that are verifiable) to support distress levels cited in each application. A source for all information along with the publication or origination date must also be provided.

Updated Census data are available as follows for the listed indicators:

(a) Unemployment rate—estimated monthly, with a two-month lag;

(b) Population—estimated for incorporated places through 2000;

(c) Poverty rate—2000 data being the most recent available.

Rating Factor 3: Soundness of Approach (40 points)

This factor addresses the extent to which your proposed program is coordinated with other ongoing and related activities in the area you propose to serve, how well your program outcomes result in increased independence and empowerment to your beneficiaries at the conclusion of the grant period. HUD will evaluate the extent to which your application meets the following three elements:

(1) Coordination of activities (2 points). The extent to which you have coordinated your activities with other known organizations that are not directly in your proposed work activities, but with which you share common goals and objectives and are working toward meeting these objectives in a holistic and comprehensive manner. The goal of coordination is to ensure that programs do not operate in isolation. The more your activities are coordinated with other agencies in your service area, the more points you will receive. An example of coordination activities would be the applicant's partnership with an existing child day care facility (which is not funded by program) that provides day care services to the Youthbuild participants during the hours they are being trained or receiving education.

(2) Self-Sufficiency (1 point). The extent to which your application implements practical solutions within the grant term that result in assisting beneficiaries of grant program funds in achieving independent living, economic empowerment, educational opportunities, housing choice or improved environments which are free from environmental hazards such as lead hazards, brownfields, overcrowded housing, etc. Applicants that clearly describe the extent to which proposed activities result in increased independence and empowerment for their beneficiaries will receive higher points in this sub-factor.

(3) Sustainability (2 points). The extent to which your program exhibits the potential to be financially self-sustaining by decreasing dependence on Youthbuild funding and relying more on state, local and private funding so your activities can be continued after your grant award is complete. Applicants that demonstrate a reduced dependence on Youthbuild funds over the life of their award will receive a greater number of points for this sub-factor.

Youthbuild Program Work Plan. There must be a clear relationship between your proposed activities, community needs and the purpose of the Youthbuild program. HUD will consider the overall quality and feasibility of your proposed work plan and budget which must be consistent with the Youthbuild program as measured by your specific activities and outcomes.

Specifically, HUD will consider the following categories when assessing your proposed work plan:

(1) Program Components. (15 points).

(a) Outreach strategy, recruitment strategy and selection activities. HUD will determine the extent to which you demonstrate a clear linkage with the following work plan activities and proposed outcomes and results. Points will be awarded based upon overall quality and feasibility of the outreach, recruitment and selection activities, the number and types of outreach activities, number of youths to be recruited including eligible participants who are harder to reach and comprehensiveness of the local selection process.

Letters describing specific resources or services to be contributed by non-applicant organizations must be included in your application. In evaluating this category, HUD will consider:

(i) Specific steps you will take to attract potential eligible participants who are unlikely to be aware of this program (because of race, color, national origin, religion, ethnicity, sex or disability) and selection strategies;

(ii) Special outreach efforts you will make to recruit eligible young women, young women with dependent children, and persons receiving public assistance; and

(iii) Recruitment arrangements you have made with public agencies, courts, homeless shelters, local school systems, local workforce development systems, one-stop centers and, community-based organizations, etc. You will receive a greater number of points if your outreach and recruitment arrangements are consistent with the purpose of the Youthbuild program and your project goals and the resources provided.

(b) Educational and job training services and activities. HUD will evaluate the extent to which you demonstrate a clear linkage with the following work plan activities and proposed outcomes and results.

Letters describing specific resources or services to be contributed by non-applicant organizations must be included in your application. Points will be awarded based upon the quality and feasibility of your proposed curriculum, qualifications of instructors and proposed wages and stipends for youth participants. In evaluating this category, HUD will consider:

(i) The types of in-class academic and vocational instruction you will provide;

(ii) The number and qualifications of program instructors and ratio of instructors to participants;

(iii) Scheduling plan for classroom and on-the-job training needed to meet program requirements and ensure timely completion of your program; and

(iv) Reasonable payments of participants' wages, stipends, and incentives. You will receive a greater number of points if your educational and job training services are consistent with the purpose of the Youthbuild program and your project goals and the resources provided.

(c) Leadership development. HUD will determine the extent to which you demonstrate a clear linkage with work plan activities and proposed outcomes and results. Letters describing specific resources or services to be contributed by non-applicant organizations must be submitted in your application. Points will be awarded based upon the quality and feasibility of your proposed leadership curriculum, qualifications of instructors and the impact of the proposed leadership activities on the target area. You must describe the leadership development training you will offer to participants and strategies for providing the training to build group cohesion and peer support. You will receive a greater number of points if your leadership development activities are consistent with the purpose of the Youthbuild program and your project goals and the resources provided.

(d) Support services. HUD will determine the extent to which you demonstrate a clear linkage with work plan activities and proposed outcomes and results.

Letters describing specific resources or services to be contributed by non-applicant organizations must be included in your application. Points will be awarded based upon the quality and feasibility of your proposed support services strategy and stipends for the participants.

You must assess the need for counseling and referral services during each stage of program implementation: outreach strategy, recruitment strategy, youths interviewed and not selected for the program, program participants, youths who drop out of the program and graduates of the program. Describe how the participant needs will be addressed, document counseling and referral services to be offered to participants, the type of counseling, social services, and/or need-based stipends you will provide.

Applicants will receive a greater number of points if your support service activities are consistent with the purpose of the Youthbuild program and your project goals and the resources provided.

(e) Follow-up assistance and support activities to program graduates. HUD will evaluate the extent to which you provide assistance to Youthbuild program participants after graduation. Letters describing specific resources or services to be contributed by non-applicant organizations must be included in your application. Points will be awarded based upon the quality and feasibility of your proposed strategy. You must describe the type of proposed assistance and support which should be based upon an assessment of the needs of the program graduates and should include continued linkage to the local Youthbuild program, counseling and social service referral services. You will receive a greater number of points if your follow-up assistance and support service activities to program graduates are consistent with the purpose of the Youthbuild program and your project goals and the resources provided.

(f) On-site training. HUD will evaluate the extent to which the work plan provides for quality and comprehensive on-site construction training by addressing the categories below. Letters describing specific resources or services to be contributed by any non-applicant organizations must be included in your application. Points will be awarded based upon the quality and feasibility of your proposed curriculum, experience of proposed instructors, number of youth to be trained and wages or stipends for participants. HUD will consider:

(i) The housing construction or rehabilitation activities participants will undertake at the site(s) to be used for the on-site training component of the program as provided in the training curriculum and methodology for carrying out on-site training;

(ii) The qualification and number of on-site supervisors;

(iii) The ratio of trainers to participants;

(iv) The number of participants per site; and

(v) The amounts, wages, and/or stipends you will pay to participants during on-site work. All applicants will receive a greater number of points if your on-site training plan is consistent with the purpose of the Youthbuild program and your project goals and the resources provided.

(2) Strategy for Job Placement. (2 points). HUD will evaluate the quality and feasibility of your proposed strategy to place youth participants in permanent jobs.

Letters describing specific resources or services to be contributed by non-applicant organizations must be included in your application. You will be rated on the following factors: (a) Proposed number of youth to obtain jobs that promote economic self-sufficiency (i.e. those that are a part of career paths or apprenticeship programs); (b) proposed number of youths who will continue post-secondary or secondary education; (c) proposed number of youths to receive entrepreneurship training. Two points of this factor will be awarded based upon the comprehensiveness and feasibility of your strategies and procedures to place youth participants in related apprenticeships and commitments from construction trade unions. You will receive a greater number of points if your strategy for job placement is consistent with the purpose of the Youthbuild program, your proposed project and the resources provided.

(3) Expected Outcomes. (3 points). Program outcomes for the Youthbuild Program must include: (a) Number of participants; (b) attainment of a GED or certificate by participants; (c) number of housing units constructed; (d) number of housing units rehabilitated; (e) placement of participants in employment or education; and (f) literacy and numeracy. As part of this evaluation, HUD will assess the cost effectiveness of your stated outcomes as compared to the funds that you are requesting in the Youthbuild Grant Budget. You will receive a greater number of points if your proposed outcomes are consistent with the purpose of the Youthbuild program, your proposed project and the resources provided.

(4) Housing Program Priority. (10 points). HUD will assign Housing Program Priority points to all applications that contain evidence that housing resources for other Federal, State, local or private sources that are available and firmly committed to cover all costs, in full, for the following housing activities for the proposed Youthbuild program: acquisition, architect and engineering fees, construction, and rehabilitation. Applications that do not include proper documentation of firm financial commitments of non-Youthbuild resources or propose to use Youthbuild grant funds, in whole or in part, or do not evidence site control, for any one of the housing activities listed above will not be entitled to housing program priority points. Forms 2C, Housing Site Description, and 2C10, Youthbuild Grant Individual Housing Project Site Estimate, must be completed to receive the Housing Program Priority points.

(5) Policy Priorities. (5 points). Policy Priorities are further defined in Section II of the General Section of the SuperNOFA. Applicant should document to the extent HUD's policy priorities are enhanced by the proposed activities. Applicants who include activities that can result in the achievement of these Departmental policies priorities as described below and in Section II of the General Section of this SuperNOFA, will receive higher rating points in evaluating their application for funding. Five Departmental policy priorities are listed below. Applicant will receive 1 rating point for each policy priority addressed in the program of activities section under this rating factor as described in Section VI(b) of this program NOFA. Policy Priorities include:

(a) Improving our Nation's Communities

(b) Providing Full and Equal Access to Grass-Roots Faith-Based and Other Community—Based Organizations in HUD Program Implementation.

(c) Participating in Energy Star.

(d) Encouraging Accessible Design Features.

(e) Ending Chronic Homelessness within Ten Years.

Rating Factor 4: Leveraging Resources (10 Points)

(Exhibit 4B Non-Housing Program Resources Must Be Complete and You Must Provide Letters of Firm Commitment From the Donor With the Amount of Cash or In-Kind Contribution) This factor addresses the ability of the applicant to secure non-HUD resources. This factor measures the extent to which you have established partnerships with other entities to secure resources for your proposed program. Each commitment described in the narrative for this Factor must have a firm commitment letter. Grantees who leverage significant resources will receive a greater number of points.

HUD will evaluate the extent to which firm commitments of resources are obtained from Federal, State, local, and private and nonprofit sources. HUD will award a greater number of points based upon a comparison of the extent of leveraged funds and the requested Youthbuild grant. The greater the amount of resources leveraged, the higher the points that will be awarded. In assigning points for this criterion, HUD will consider the level of non-applicant resources obtained for cash or in-kind contributions to cover the following kinds of areas:

(1) Social services (i.e., counseling and training);

(2) Use of existing vocational, adult, and bilingual educational courses;

(3) Donation of labor, resource personnel, supplies, teaching materials, classroom, and/or meeting space; and

(4) Other commitments. In rating this element, HUD will consider only those contributions for which current firm commitments have been provided. HUD will evaluate the level of resources from other organizations and agencies proposed based on their importance to the total program. Leveraging will only be counted if you have secured a firm financial commitment. A firm commitment letter means an agreement by which an applicant's partner or contributing entity agrees to perform an activity specified in the application and demonstrates the financial capacity to deliver the resources necessary to carry out the activity, and commits the resources to the activity either in cash, through in-kind services or contributions and is irrevocable, subject only to approval and receipt of a FY 2003 Youthbuild grant.

For all applicants, each letter of commitment must include the organization's name, the applicant's name, the proposed program, the proposed total level of commitment and responsibilities as they relate to the proposed program. The commitment letter must also be signed by an official of the organization legally able to make commitments on behalf of the organization and not earlier than the date that this NOFA is published. In documenting a firm commitment, the applicant's partner or contributing entity must:

(i) Specify the authority by which the commitment is made, the amount of the commitment and the use of funds. If the committed activity is to be self-financed, the applicant's partner or contributing entity must evidence its financial capability through a corporate or personal financial statement or other appropriate means. If any portion of it is to be financed through a lending institution, the participant must evidence the institution's commitment to fund the commitment.

(ii) State the amount and use of the commitment, and the relationship of the commitment to the proposed investment; and

(iii) Affirm that its investment is contingent only upon receipt of FY 2003 Youthbuild funds and state a willingness on the part of the signatory to sign a legally binding commitment (conditioned on HUD environmental review and approval of a property, where applicable) upon award of the grant.

Resources from other Federal, State, Local governments or Private Entities. HUD encourages use of existing housing and homeless assistance programs administered by HUD or other Federal, State, local governments, or private and nonprofit housing programs as part of your Youthbuild program. In addition, HUD encourages use of other non-Youthbuild funds available for vocational, adult, and bilingual education programs or for job training under the Workforce Investment Act and the Personal Responsibility and Work Opportunity Reconciliation Act of 1996.

Grantees who leverage significant resources will receive more points.

(1) Public sector sources—Federal, State, or local government sources to provide resources to carry out Youthbuild activities. (5 points)

(2) Private or nonprofit sector sources to provide resources to carry out Youthbuild activities. (5 points)

Rating Factor 5: Achieving Results and Program Evaluation (10 Points)

This factor emphasizes HUD's commitment to ensuring that applicants keep promises made in their application and assesses their performance to ensure performance goals are met. Achieving results means you, the applicant, have clearly identified the benefits, or outcomes of your program. Outcomes are ultimate goals. Benchmarks or outputs are interim activities or products that lead to the ultimate achievement of your goals. Program evaluation requires that you, the applicant, identify program outcomes, interim products or benchmarks, and performance indicators that will allow you to measure your performance. Performance indicators should be objectively quantifiable and measure actual achievements against anticipated achievements. Your Evaluation Plan should identify what you are going to measure, how you are going to measure it, and the steps you have in place to make adjustments to your work plan if performance targets are not met within established timeframes.

Applicant should agree to cooperate with any HUD-approved evaluation by making staff available for interview, providing lists of participants and their contact information, and making available files under appropriate assurance of confidentiality of records.

Program outcomes for the Youthbuild Program must include:

(1) Number of participants;

(2) Number of housing units constructed;

(3) Number of housing units rehabilitated.

(4) Number of GED's or certificates attained by participants (numerator: of those who are enrolled in education, the number of participants who attain a diploma, GED or certificate; denominator: those who are enrolled in education).

(5) Number of participants placed in employment or education (numerator: of those who are not in education or employed at registration, the number of participants who have entered employment, the military or enrolled in post secondary education and/or advanced training/occupational skills training by the end of the first quarter after exit; denominator: of those who are not in education or employed at registration, the number of participants who exit during the quarter); and

(6) Literacy and numeracy gains (measures the increase in literacy and numeracy skills of participants through a common assessment tool administered at program registration and regular intervals thereafter).

Applicants are required to complete the Logic Model form (see appendix to the General Section). This rating factor reflects HUD's goal to embrace high standards of ethics, management and accountability.

VII. Application Submission Requirements

(A) Site Access Submission Requirements. You must submit identification of specific housing sites, and firm evidence of site access.

(1) Guidance on evidence of site access:

a. If the applicant or joint applicant has a contract or option to purchase the property, you should provide a statement to that effect and include a copy of the contract or option;

b. If a third party owns the property or has a contract or option to purchase, that third party must provide a letter to you stating the nature of the ownership and specifically providing you with access to the property for the purposes of the program and the time frame in which the property will be available. In the case of a contract or option, include a copy of the document; and

c. You must provide the required certification that the proposed activities are consistent with the HUD-approved Consolidated Plan in accordance with 24 CFR part 91 and referenced in the General Section of the SuperNOFA.

(B) Category 3 applicants only. You must state that the proposed project to be established will be located in an underserved and rural area as defined in Section (VI)(B)(3) of this notice.

(C) Application Items. Your application must contain the items listed in this section. These items include the standard forms, certifications, and assurances listed in the General Section of the SuperNOFA that are applicable to this funding (collectively, referred to as the “standard forms”). The standard forms can be found in Appendix B to the General Section of the SuperNOFA. The remaining application items that are forms (i.e., excluding such items as narratives, letters), referred to as the “non-standard forms” can be found as Appendix B to this program section of the SuperNOFA. The items are as follows:

(1) HUD-424, Application for Federal Assistance.

(2) HUD-424B, Applicant Assurances and Certifications.

(3) HUD-424C, Budget Information for Construction Program.

(4) HUD-2880, Applicant/Recipient Disclosure/Update Form.

(5) SF-LLL, Disclosure of Lobbying Activities (if applicable);

(6) Letters from property owners allowing access to the housing site for construction training.

(7) Submission of 501(c)(3) status and/or letter certifying non-profit status if the applicant is a public non-profit organization.

(8) Narrative Response to Factors for Award.

Factor 1—Capacity of the Applicant and Relevant Organizational Experience

Factor 2—Need/Extent of the Problem

Factor 3—Soundness of Approach, including the following non-narrative items:

(a) letters from non-applicant resource providers describing contributions or support, (b) documentation necessary to complete environmental review (Exhibit 2C15), and description of relocation, if applicable.

Factor 4—Leveraging Resources, including your letters(s) evidencing the leveraged commitment(s), which will not be counted in the 15 page limitation.

Factor 5—Achieving Results and Program Evaluation.

(9) HUD-2990, Certification of Consistency with the EZ/EC Strategic Plan;

(D) The total narrative response to all factors identified in Section VI(C)(13) of this program NOFA must not exceed 15 pages, and must be submitted on 8.5″ by 11″ paper, using a 12 point font, with lines double-spaced and printed only on one side. Please note that submitting pages in excess of the page limit will not disqualify your application. However, HUD will neither review nor consider the information on any excess pages, which may result in a lower score or failure to meet a threshold.

VIII. Corrections to Deficient Applications

The General Section of the SuperNOFA provides the procedures for corrections to deficient applications.

IX. Environmental Requirements

(A) Environmental Reviews. Environmental procedures apply to HUD approval of grants when you propose to use Youthbuild funds to cover any costs for the lease, acquisition, rehabilitation, or new construction of real property proposed for housing project development. Environmental procedures do not apply to HUD approval of your application when you propose to use your Youthbuild funds solely to cover costs for classroom and/or on-the-job construction training and support services.

If you propose to use your Youthbuild funds to cover any costs of the lease, acquisition, rehabilitation, or new construction of real property, you must submit all relevant environmental information in your application to support HUD decision-making in accordance with the environmental procedures and standards set forth in HUD Regulation 24 CFR 585.307.

X. Authority

This program is authorized under subtitle D of title IV of the Cranston-Gonzalez National Affordable Housing Act, as added by section 164 of the Housing and Community Development Act of 1992 (Pub. L. 102-550, 106 Stat. 3723, 42 U.S.C. 12899). The Youthbuild Program regulations are found in 24 CFR part 585.

Appendix A—Instructions for Completion of Youthbuild Environmental Requirements (Exhibit 2C(15))

A. Instructions to Applicants

1. If you propose to use Youthbuild funds to cover any costs of the lease, acquisition, rehabilitation, or new construction or real property, you shall submit all relevant environmental information in your application to support HUD decision making in accordance with the environmental procedures and standards set forth in 24 CFR 585.307. For each proposed Youthbuild property for which HUD environmental procedures apply, you are to prepare a separate Exhibit 2C(15) in which you supply HUD with environmental threshold information and letters from qualified data sources (see definition below) which support the information. HUD will review your submission and determine how, if necessary, HUD will comply with any Federal laws and authorities that may be applicable to your property proposed for Youthbuild funding. If environmental procedures apply and Exhibit 2C(15) with supporting documentation is not included then the application will be deemed ineligible.

You are to follow these instructions for preparing Exhibit 2C(15). The instructions advise you on how to obtain and document certain information to be supplied to HUD in this exhibit. Before selecting a property for Youthbuild funding, you should read these instructions and be advised that HUD encourages you to select, to the extent practicable, properties and locations that are free of environmental hazards and problems discussed in these instructions. The responses to the environmental criteria in Exhibit 2C(15) will be used to determine environmental approval or disapproval by HUD of proposals for physical development of properties.

2. After selecting a property for proposed Youthbuild funding, you are to determine the activities to be undertaken with your Youthbuild funds. You are to indicate in Section E whether the Youthbuild funds will be used for:

(a) Lease or purchase of a property;

(b) Minor rehabilitation or

(c) Major rehabilitation; or

(d) New construction of housing.

The activities proposed for Youthbuild funding will determine the kind of data that you will need to obtain from a qualified data source in order to complete Exhibit 2C(15).

3. Once you have selected a property and determined the activities for Youthbuild funding, you are advised to check with your city or county agency that administers HUD's Community Development Block Grant program and performs environmental reviews, or the local planning agency. This course of action is recommended in view of the fact that most, if not all of the data needed for preparing Exhibit 2C(15) is readily available from the local community development agency and the local planning agency. You are advised to ask the environmental staff of those agencies the following questions:

(a) Has the agency ever prepared an environmental review of the proposed Youthbuild property or the neighborhood in which the property is located, and if so, would it provide a copy to the applicant for use by HUD;

(b) Would the agency assist you in completing section G; or if the agency is not able to help complete any item in section G, would the agency advise you which local or State agency is the appropriate qualified data source for obtaining the information.

Also, you should check with the local planning agency before proceeding elsewhere for the information.

You are advised that the cost of preparing information and analyses needed for Exhibit 2C(15) is an eligible cost under the Youthbuild program and is reimbursable if you are approved for a grant.

4. Key terms used in these instructions are defined in the following section. Most of the other terms are technical and their definition would be known to qualified data sources.

(a) Qualified data source means any Federal, State or local agency with expertise or experience in environmental protection (e.g., the local community development agency; the land planning agency; the State environmental protection agency; the State Historic Preservation Officer) or any other source qualified to provide reliable information on the particular subject. Please attach a letter supporting the information from each qualified data source to Exhibit 2C(15).

(b) Minor rehabilitation refers to proposed repairs and renovations to an existing building:

(i) Where the estimated cost of the work is less than 75 percent of the property value after completion;

(ii) That does not involve changes in land use from residential to nonresidential, or from nonresidential to residential;

(iii) That does not involve the demolition of one or more buildings, or parts of a building, containing the primary use served by the project; and

(iv) That does not increase unit density by more than 20 percent.

For minor rehabilitation of a building located in a floodplain, the criteria for substantial improvement modify this definition. (See Item B 3 below)

(c) Major rehabilitation refers to proposed repairs and renovations to an existing building:

(i) Where the estimated cost of the work is 75 percent or more of the property value after completion; or

(ii) That involves changes in land use from residential to nonresidential, or from nonresidential to residential; or

(iii) That involves the demolition of one or more buildings, or parts of a building, containing the primary use served by the project; or

(iv) That increases unit density by more than 20 percent.

(d) Multifamily housing means any residential building that contains five or more apartments or rooming units.

(e) Single-family housing means any residential building that contains one-to-four dwelling units.

Because each Federal environmental law or authority has compliance requirements that differ according to the type of proposed activity to be funded, you are required to supply information in Exhibit 2C(15) only for the type of activity for which the Youthbuild grant will be used.

(f) If you propose new construction or major rehabilitation of multifamily housing, you must supply complete and reliable environmental threshold information for items 1 through 13 in section G.

(g) If you propose new construction of single family housing, you must supply complete and reliable environmental threshold information for items 1 through 12 in section G.

(h) If you propose minor rehabilitation of multifamily or single-family housing, or the purchase or lease of a property, you must supply complete and reliable environmental threshold information for items 1 through 7 in section G.

5. Applicants subject to HUD's environmental procedures are to submit Exhibit 2C(15) and accompanying documentation to HUD with the applications for grant assistance. Such applicants are prohibited from committing or expending State, local or other funds in order to undertake property rehabilitation, construction (including demolition), or acquisition (including lease), until HUD and the grantee execute a grant agreement for the proposed Youthbuild project.

6. HUD reserves the right to disqualify any application where one or more environmental thresholds are exceeded if HUD determines that the compliance review cannot be conducted and satisfactorily completed within the HUD review period for Youthbuild applications.

B. Environmental Threshold and Documentation Requirements

The threshold and documentation requirements for each of the Federal environmental laws and authorities are described below, following the same order as they appear in section G.

1. Site within designated coastal barrier resources:

Threshold: Youthbuild applicants are prohibited by Federal law from using Federal financial assistance for properties, if the properties are located within designated coastal barriers of the Atlantic Ocean, Gulf of Mexico, and the Great Lakes (Coastal Barrier Resources Act, as amended, 16 U.S.C. 3501).

* Documentation: You are to select either A or B for the condition that best describes the property and report the option selected in item 1 of section G.

A. Your program operates in a community that does not contain any shores along the Atlantic Ocean, the Gulf of Mexico, or the Great Lakes.

B. Your program operates in a community that does contain shores along the Atlantic Ocean, the Gulf of Mexico, or the Great Lakes, you must provide HUD with a finding made by a qualified data source stating that the proposed property is not located within a designated coastal barrier resource by citing the map panel number of the official maps issued by the Department of the Interior (DOI) on the basis of which the finding was made.

2. Site contaminated with toxic chemicals and radioactive materials:

Threshold: Under HUD policy, as described in 24 CFR 50.3(i), HUD will not approve the provision of financial assistance to residential properties on sites where contamination could affect the health and safety of occupants or conflict with the intended utilization of the property. Sites known or suspected to be contaminated by toxic chemicals or radioactive materials include but are not limited to sites: (i) Listed on either an EPA Superfund National Priorities List (NPL) or CERCLA (Comprehensive Environmental Response, Compensation, and Liability Act) List, or equivalent State list; (ii) located within 3,000 feet of a toxic or solid waste landfill site; or (iii) with an underground storage tank (which is not a residential fuel tank).

* Documentation: You are to select either A or B for the condition that best describes property and report the option selected in item 2 of section G.

A. You are providing HUD with a finding made by a qualified data source stating that the proposed Youthbuild property and any neighboring properties do not contain any sites known or suspected to be contaminated with toxic chemicals and radioactive materials.

B. You are providing any site contamination data by a qualified data source in your letter for HUD's evaluation of contamination and/or suspicion of any contamination of a proposed property or any neighboring properties.

3. Site affecting a floodplain:

Threshold: A property located within a floodplain and proposed for funding is subject to Executive Order 11988, Floodplain Management. The Executive Order directs HUD to avoid, where practicable, proposed financial support for any floodplain property, whenever HUD has options to approve properties in flood-free locations. The Order does not apply to existing single-family properties proposed for purchase or lease except for: (a) Property that is located within a floodway or coastal high hazard area; and (b) substantial improvement. Substantial improvement for flood hazard purposes means any property rehabilitation which: (i) Increases the unit density of the property; or (ii) equals or exceeds 50 percent of the market value of the property before rehabilitation, but excluding the costs for correcting health, sanitary, and safety code violations. Note: Proposed funding for substantial improvement and new construction are subject to the Executive Order decision-making process. This may result in a disqualification of your application (refer above to number 7 under “Instructions to Applicants”).

* Documentation: You are to select A or B for the condition that best describes your property and report the option selected in item 3 of section G.

A. You are providing HUD with a finding made by a qualified data source stating that the property is not located within the Special Flood Hazard Area (SFHA).

B. You are providing HUD with a finding made by a qualified data source that the property is located within the Special Flood Hazard Area (SFHA) and indicating if the property is located within a floodway or coastal high hazard area.

The information for A and B must provide HUD with the flood map panel number obtained either from the official maps issued for the National Flood Insurance Program or from the property appraisal report used to make the finding.

For all proposed rehabilitation of properties that are located within a SFHA, you must provide HUD with estimates of: (1) The property value before rehabilitation, and (2) the cost of the proposed rehabilitation. Provide the estimates in section F.

If the property is found to be located within a SFHA, proceed to item 4 on flood insurance protection. Otherwise proceed to item 5.

4. Building requiring flood insurance protection:

Threshold: HUD will estimate the amount and period of flood insurance coverage that is to be made a condition of approval of any HUD financial assistance for a building located within a Special Flood Hazard Area (SFHA). The Flood Disaster Protection Act of 1973 requires owners of HUD-assisted buildings to purchase and maintain flood insurance protection as a condition of approval of any HUD financial assistance for the proposed purchase, rehabilitation, or new construction of any SFHA building. The law prescribes the coverage period and dollar amount of flood insurance protection.

Proof of Purchase of Flood Insurance Protection: You must provide HUD with proof of purchase of flood insurance protection for any proposed Youthbuild building located within the SFHA, whenever HUD funding is being used for property purchase, rehabilitation, or new construction. The standard documentation for compliance is the Policy Declarations form issued by the National Flood Insurance Program (NFIP) or issued by any property insurance company offering coverage under the NFIP. Whenever the requirement applies to coverage which extends to future years, the grant agreement will require that the insured has its insurer automatically forward to HUD, in the same manner as to the insured, an information copy of the Policy Declarations form, which is used to verify compliance. The Youthbuild applicant's responsibility ceases in cases where a mortgage loan is approved requiring flood insurance as condition of loan approval by a lender (other than the Youthbuild applicant), whose responsibility is to assure flood insurance coverage for the loan.

* Documentation: You are to select either A or B for the condition that best describes your property and report the option selected in item 4 of section G.

A. You already own the property and attach a copy of the Policy Declarations form confirming that a current flood insurance policy is in effect and the policy provides adequate coverage for the building proposed for the Youthbuild project located within the Special Flood Hazard Area.

B. After you have purchased (or constructed, in the case of proposed new construction) the Youthbuild property, you must obtain and maintain flood insurance protection. For the term and amount of coverage prescribed by law, you must provide HUD with a copy of the Policy Declarations form confirming that the flood insurance policy is in effect and the policy provides adequate coverage for the Youthbuild building located within the Special Flood Hazard Area.

5. Site within clear zones or accident potential zones of airports and airfields:

Threshold: HUD policy as described in 24 CFR part 51, subpart D applies to HUD approval of financial assistance to: (a) Properties located within clear zones; and (b) in the case of new construction or major rehabilitation, properties located within accident potential zones.

(a) Clear zones: New construction and major rehabilitation of a property that is located on a clear zone site is prohibited. HUD financial assistance in a clear zone is allowed only for the proposed lease, purchase, or minor rehabilitation of properties (24 CFR 51.302(a)). For HUD funding approval for any property in a clear zone: (a) HUD will give advance written notice to the prospective property buyer in accord with 24 CFR 51.303(a)(3); and (b) a copy of the HUD notice signed by the prospective property buyer will be placed in the property file. The written notice informs the prospective property buyer of: (i) The potential hazards from airplane accidents, which studies have shown more likely to occur within clear zones than in other areas around the airport/airfield; and (ii) the potential acquisition by airport or airfield operators, who may wish to buy the property at some future date as part of a clear zone acquisition program.

(b) Accident potential zones: For properties located within the accident potential zone (APZ), HUD shall determine whether the use of the property is generally consistent with Department of Defense “Land Use Compatibility Guidelines for Accident Potential Zones.”

* Documentation: You are to select either A or B for the condition that best describes your property and report the option selected in item 5 of section G.

A. The property is not located within 3,000 feet of a civil airport or military airfield.

B. If your property is located within 3,000 feet of a civil airport or military airfield, you must provide HUD with a finding from the airport operator stating whether or not the property is located within a runway clear zone at a civil airport, or a clear zone or accident potential zone at a military airfield.

For properties that are located within a runway clear zone or a clear zone or accident potential zone, if you propose to rehabilitate such a property you must provide HUD with estimates of: (i) The cost of the proposed rehabilitation, and (ii) the property value after completion of the rehabilitation. The estimates are to be provided in section F.

6. Site is or affects an historic property:

Threshold: Only if a property is proposed for rehabilitation or new construction must HUD in consultation with the State Historic Preservation Officer (SHPO), and following the Department of the Interior's Standards and Guidelines for Evaluation, make a determination whether the property is:

(a) Listed on or formally determined to be eligible for listing on the National Register of Historic Places;

(b) Located within or directly adjacent to an historic district; or

(c) A property whose area of potential effects includes an historic district or property.

Historic properties and districts are subject by law to special protection and historic preservation processing, which HUD must perform to comply with the regulations of the Advisory Council on Historic Preservation (ACHP: 36 CFR part 800). Note: If you are using information from the SHPO as a qualified data source you need to allow sufficient time to obtain the information from the SHPO. You may wish to make special arrangements with the SHPO for rapid review of the proposed property where this is practicable. In addition, for properties determined to be historic properties, HUD will require 30 to 90 days in most cases for HUD to perform historic preservation compliance with the ACHP regulations. This may result in a disqualification of the application (refer above to number 7 under “Instructions to Applicants”).

* Documentation: You are to select one of the following options that best describe the condition of your property and report the option selected in item 6 of section G.

A. You propose financial assistance for rehabilitation or new construction, and are providing HUD with a SHPO's finding that the proposed Youthbuild activity:

1. Is located within an area where there are no historic properties; or

2. Will have no effect on historic properties; or

3. Will have an effect on historic properties not considered adverse.

B. You propose financial assistance for rehabilitation or new construction, and are providing HUD with a SHPO's finding that the proposed Youthbuild activity will have an adverse effect on historic properties.

C. You are providing HUD with a copy of a letter from the SHPO stating any reasons for not being able to provide you with the requested information and finding.

7. Site near hazardous industrial operations:

Threshold: Properties that are located near hazardous industrial operations handling fuels or chemicals of an explosive or flammable nature are subject to HUD safety standards (24 CFR 51, Subpart C). However, under the Youthbuild program, these standards would apply only if you propose: (a) construction of a building; (b) conversion of a non-residential land use to a residential land use including making habitable a building condemned for habitation; or (c) rehabilitation that increases the density of a residential structure by increasing the number of dwelling or rooming units. In the case of tanks containing common liquid fuels, the requirement for an acceptable separation distance (ASD) calculation only applies to storage tanks that have a capacity of more than 100 gallons. *Documentation: You are to select one of the following options that best describes the condition of the property, and report the option selected in item 7 of section G.

A. The proposed project does not include: (1) Construction of a building; (2) conversion of a non-residential land use to a residential land use including making habitable a building condemned for habitation; or (3) rehabilitation that increases the density of a residential structure by increasing the number of dwelling or rooming units.

B. The proposed project includes: (1) Construction of a building; (2) conversion of a non-residential land use to a residential land use including making habitable a building condemned for habitation; or (3) rehabilitation that increases the density of a residential structure by increasing the number of dwelling or rooming units; and you are providing HUD with a finding by a qualified data source that the proposed property is not located within the immediate vicinity of hazardous industrial operations handling fuel or chemicals of an explosive or flammable nature by citing data used and the maps used.

C. The applicant proposes: (1) Construction of a building; (2) conversion of a non-residential land use to a residential land use including making habitable a building condemned for habitation; or (3) rehabilitation that increases the density of a residential structure by increasing the number of dwelling or rooming units. The grantee provides HUD a finding made by a qualified data source stating: (1) That the proposed property is located within the immediate vicinity of hazardous industrial operations handling fuel or chemicals of an explosive or flammable nature; (2) the type and scale of such hazardous industrial operations; (3) the distance of such operations from the proposed property; (4) a preliminary calculation of the acceptable separation distance (ASD) between such operations and the proposed property; and (5) a recommendation as to whether it is safe to use the property in accord with 24 CFR Part 51, subpart C.

8. Site near high noise source:

Threshold: For new construction which is to occur in high noise areas (i.e. exceeding 65 decibels), applicants shall incorporate noise attenuation features to the extent required by HUD environmental criteria and standards contained in Subpart B (Noise Abatement and Control) of 24 CFR part 51. Approvals in a Normally unacceptable noise zone require a minimum of 5 decibels additional sound attenuation for buildings having noise-sensitive uses if the day-night average sound level is greater than 65 decibels but does not exceed 70 decibels, or a minimum of 10 decibels of additional sound attenuation if the day-night average sound level is greater than 70 decibels but does not exceed 75 decibels.

Proposed housing sites with above 75 decibels are unacceptable and the noise attenuation measures require the approval of the Assistant Secretary for Community Planning and Development. In Unacceptable noise zones, HUD strongly encourages conversion of noise-exposed sites to non-housing land uses compatible with the high noise levels.

For major rehabilitation projects involving five or more dwelling units located in the “Normally Unacceptable” and “Unacceptable” noise zones, HUD actively seeks to have project sponsors incorporate noise attenuation features, given the extent and nature of the rehabilitation being undertaken and the level of exterior noise exposure.

*Documentation: You are to select A or B for the condition that best describes their project and report the option selected in item 8 of section G.

A. You are providing HUD with a finding made by a qualified data source stating that the property proposed by the applicant for a major rehabilitation or new construction project involving five or more dwelling units is not located within: (1) 1,000 feet of a major noise source, road, or highway; (2) 3,000 feet of a railroad; or (3) 1 mile of a civil or 5 miles of a military airfield.

B. The applicant provides HUD with a finding made by a qualified data source: (1) Stating that the plans for the property proposed by the applicant for a major rehabilitation or new construction project involving five or more dwelling units will incorporate noise attenuation features in accord with HUD environmental criteria and standards contained in Subpart B (Noise Abatement and Control) of 24 CFR part 51; (2) stating whether the property is located within a “Normally Unacceptable” or “Unacceptable” noise zone; and (3) providing HUD plans and a statement of the anticipated interior noise levels.

9. Site affecting coastal zone management:

Threshold: Only for proposed activities involving new construction or major rehabilitation of multifamily housing does the Coastal Zone Management (CZM) authority apply. Projects that can affect the coastal zone must be carried out in a manner consistent with the approved State coastal zone management program under Sec. 307 of the Coastal Zone Management Act of 1972, as amended.

*Documentation: You are to select either A or B for the condition that best describes the project and report the option selected in item 9 of section G.

A. You state that your project is not located within a coastal zone, as defined by the States Coastal Zone Management Plan.

B. If your project is located within a coastal zone, you are providing HUD with a finding made by the State CZM agency that the project proposed by the applicant is consistent with the approved State coastal zone management program.

10. Site affecting a sole source aquifer:

Threshold: The sole source aquifer authority applies primarily to activities involving proposed new construction or conversion to housing of non-residential property. Projects which can affect aquifers designated by the Environmental Protection Agency (EPA) must be reviewed for impact on such designated aquifer sources. The Safe Drinking Water Act of 1974 requires protection of drinking water systems which are the sole or principal drinking water source for an area and which, if contaminated, would create a significant hazard to public health.

*Documentation: You are to select either A or B for the condition that best describes their project and report the option selected in item 10 of section G.

A. You are providing HUD with a finding made by a qualified data source stating that the proposed property is not located on nor does it affect a sole source aquifer designated by EPA.

B. If your project proposes new construction or conversion activities that are located on or may affect any sole source aquifer designated by the EPA, you are identifying the aquifer and providing HUD with an explanation of the effect on the aquifer from a qualified data source, and/or a copy of any comments on the proposed project that have been received from the EPA Regional Office as well as from any State or local agency with jurisdiction for protecting the drinking water system.

11. Site affecting endangered species:

Threshold: The Endangered Species Protection (ESP) authority applies primarily to activities involving proposed new construction or conversion to housing of a non-residential property. Projects which can affect listed or proposed endangered or threatened species or critical habitats require consultation with the Department of the Interior or the Department of Commerce in compliance with the procedure of Section 7 of the Endangered Species Act of 1973, as amended.

*Documentation: You are to select either A or B for the condition that best describes the property and report the option selected in item 11 of section G.

A. If your project proposes new construction or conversion activities, you are providing HUD with a finding made by a qualified data source that the project is not likely to affect any listed or proposed endangered or threatened species or critical habitat. The finding shall indicate whether the project is located within a critical habitat, and if so, explain why the project is not likely to affect the species or habitat.

B. If your project proposes new construction or conversion activities that are likely to affect listed or proposed endangered or threatened species or critical habitat, you are providing HUD with a statement from a qualified data source explaining the likely affect, and/or a finding made by the Fish and Wildlife Service of the Department of the Interior or the National Marine Fisheries Service of the Department of Commerce stating as acceptable the proposed mitigation that you will provide to protect any affected endangered or threatened species or critical habitat.

12. Site affecting a designated wetland:

Threshold: New construction or conversion to housing of a non-residential property located within a designated wetland is subject to Executive Order 11990, Protection of Wetlands. This Executive Order directs HUD to avoid, where practicable, financial support for new construction on wetland property. Note: Proposed funding for new construction or conversion is subject to the Executive Order decision making process. This may result in a disqualification of the application (refer above to number 7 under “Instructions to Applicants”).

*Documentation: You are to select A or B for the condition that best describes the property and report the option selected in item 12 of section G.

A. You are providing HUD with a finding made by a qualified data source stating that the property is not located within a designated wetland where new construction or conversion is proposed.

B. You are providing HUD with a finding made by a qualified data source that the property is located within a designated wetland, which applies only to property where new construction or conversion is proposed.

The information for A and B must provide HUD with the wetland panel number obtained from official maps issued by the Department of the Interior on the basis of which the finding was made, or where DOI has not mapped the area, a letter or other documentation from the Army Corps of Engineers or other Federal agency.

13. Significant impact to the human environment:

Threshold: HUD must perform an environmental assessment of any property proposed for major rehabilitation or new construction except for an individual single-family property having one-to-four dwelling units or a scattered site project of five or more units where the sites are more than 2,000 feet apart and there are not more than four units on any one site. It is the policy of the Department to reject proposals which have significant adverse environmental impacts and to encourage the modification of projects in order to enhance environmental quality and minimize environmental harm. This policy is authorized by the National Environmental Policy Act (NEPA) and the implementing regulations of the Council on Environmental Quality and HUD's Environmental Rule at 24 CFR part 50.

*Documentation: You are to provide HUD with any information on any adverse environmental impacts that affect the property or that the project would create. You are to report this data on a separate sheet and attach it to Exhibit 2C(15). Examples of adverse impacts are: soil instability and erodibility; natural or person-made hazards and nuisances; air pollution; inadequate infrastructure (e.g., water supply, waste water treatment, storm water management, solid waste collection), inadequate public services (i.e., fire, police, health care, social services, schools, parks) and transportation; and encroachment on prime farmlands and wild and scenic river areas. You are to identify any significant impacts to the human environment.

Appendix B

The non-standard forms, which follow, are required for your Youthbuild application.

BILLING CODE 4210-32-P

Funding Availability for the Rural Housing and Economic Development Program

Program Overview

Purpose of Program: The purpose of the Rural Housing and Economic Development (RHED) program is to build capacity at the State and local level for rural housing and economic development and to support innovative housing and economic development activities in rural areas. The funds made available under this program will be awarded competitively, through a selection process conducted by HUD in accordance with HUD Reform Act.

Available Funds: Approximately $24,837,500 million will be awarded in Fiscal Year (FY) 2003 plus any additional funds that would be available through recapture.

Eligible Applicants: Local rural non-profit organizations, community development corporations, federally recognized Indian tribes, State housing finance agencies and State economic development and/or community development agencies.

Application Deadline: May 27, 2003.

Match: None.

Additional Information

If you are interested in applying for funding under this program, please carefully review the General Section of this SuperNOFA and the following information:

I. Application Due Date, Further Information and Technical Assistance

Application Due Date: Applications for RHED grants must be received by the deadline date. Applications received after the deadline date will not be considered.

See the General Section of this SuperNOFA for specific procedures governing the form of application submission).

Applications. Your application will be considered timely filed if your application is received in HUD headquarters on or before 5:15 pm eastern standard time on the application due date.

Address for Submitting Applications: Completed applications (one original and two complete copies) must be submitted to: Processing and Control Unit, Room 7251, Office of Community Planning and Development, U.S. Department of Housing and Urban Development, 451 Seventh Street, SW., Washington, DC 20410; ATTN: Office of Rural Housing and Economic Development. When submitting your application, please include your name, mailing address (including zip code), telephone number, and fax number (including area code).

Application Kits. An application kit for the RHED program is not necessary for submitting an application in response to this announcement. This announcement contains all the information necessary for the submission of your application for the Rural Housing and Economic Development Program.

Further Information and Technical Assistance. All information and materials required to submit an application for funding under the HUD Rural Housing and Economic Development program are included in the Appendix to this NOFA.

For information concerning the HUD Rural Housing and Economic Development program, contact Ms. Holly A. Kelly, Economic Development Program Specialist, Office of Rural Housing and Economic Development, Office of Community Planning and Development (CPD), U.S. Department of Housing and Urban Development, 451 7th Street, SW., Room 7137, Washington, DC 20410; telephone 202-708-2290 (this is not a toll-free number). Persons with speech or hearing impairments may access this number via TTY by calling the toll-free Federal Information Relay Service at 1-800-877-8339.

Prior to the application deadline, HUD staff at the number above will be available to provide general guidance and clarification of the NOFA, but not guidance in actually preparing your application. Following selection, but prior to award, HUD staff will be available to assist in clarifying or confirming information that is a prerequisite to the offer of an award by HUD.

Satellite Broadcast. HUD will hold an information broadcast via satellite for potential applicants to learn more about the program and preparation of an application. For more information about the date and time of this broadcast, consult the HUD Web site at www.hud.gov.

II. Amount Allocated

(A) Available Funds. Approximately $24,837,500 million in Fiscal Year (FY) 2003 funding (plus any additional funds that would be available through recapture) is being made available through this NOFA. The breakdown for this funding is below.

(B) Funding Categories and Maximum Award Amounts. HUD will award up to approximately $25 million on a competitive basis in the following funding categories. Applicants must apply for funds in only one of the two categories: Category (1) Capacity Building or Category (2) Support for Innovative Housing and Economic Development Activities. Only one application will be accepted from any given organization. If more than one application is received from any one organization, the application that was received in the Processing and Control Unit at HUD Headquarters first will be considered for funding. All subsequent applications will be deemed ineligible.

Category 1 Capacity Building. HUD will award up to approximately $10 million to applicants for capacity building activities. This amount will go directly to local rural non-profits, community development corporations (CDCs) and federally recognized Indian tribes to increase an organization's capacity to support innovative housing and economic development activities. The maximum amount awarded to a successful applicant in this category will be $150,000. If you received two or more RHED grants for capacity building since 1999, you are not eligible to apply under this category.

Category 2 Support for Innovative Housing and Economic Development Activities. HUD will award up to approximately $14,837,500 million to federally recognized Indian tribes, State Housing Finance Agencies (HFA)s, State community and/or economic development agencies, local rural non-profits and Community Development Corporations (CDCs) to support innovative housing and economic development activities in rural areas nationwide. The maximum amount awarded to a successful applicant in this category will be $400,000.

Special Note: Applicants are encouraged to ensure that the amount of RHED funds requested are consistent throughout their application including on the HUD 424 “Application for Federal Assistance”, the Transmittal Letter, the application narrative sections (Rating Factors) and the HUD 424A “Budget Information”. Inconsistencies may result in discrepancies between funding amounts requested and amounts awarded.

III. Program Description; Eligible Applicants; Eligible Activities

(A) Program Description

(1) Background. There has been a growing national recognition of the need to enhance the capacity of local rural non-profit organizations, community development corporations, federally recognized Indian tribes, State housing finance agencies (HFAs) and State economic development and/or community development agencies to expand the supply of affordable housing and to engage in economic development activities in rural areas. A number of resources are available from the Federal government to address these problems, including programs of the United States Department of Agriculture (USDA), the Economic Development Administration (EDA), the Appalachian Regional Commission (ARC), the Department of the Interior (for Indian Tribes) and HUD. The Rural Housing and Economic Development program has been developed to supplement these resources and to focus specifically on capacity building and promoting innovative approaches to housing and economic development in rural areas. In administering these funds, HUD encourages you to coordinate your activities supported by any of the above mentioned agencies.

(2) Definitions

Appalachia's Distressed Counties means those counties in Appalachia that ARC has determined to have unemployment and poverty rates that are 150 percent of the respective U.S. rates and has a per capita income that is less than 67 percent of the U.S. per capita income, and has counties with 200 percent of the U.S. poverty rate and one other indicator such as percent of overcrowded housing, etc. Appendix B to this notice identifies ARC's list of distressed counties.

Colonia means any identifiable, rural community that:

(i) Is located in the state of Arizona, California, New Mexico, or Texas;

(ii) Is within 150 miles of the border between the U.S. and Mexico; and

(iii) Is determined to be a Colonia on the basis of objective need criteria, including the lack of potable water supply, lack of adequate sewage systems, and lack of decent, safe, sanitary, and accessible housing.

Farmworker means a farm employee of an owner, tenant, labor contractor, or other operator raising or harvesting agricultural or aquacultural commodities; or a worker in the employment of a farm operator, handling, planting, drying, packing, grading, storing, delivering to storage or market, or carrying to market agricultural or aquacultural commodities produced by the operator. Seasonal farm workers are those farm employees who typically do not have a constant year round salary.

A Firm commitment means the agreement by which an applicant's partner agrees to perform an activity specified in the application and demonstrates the financial capacity to deliver the resources necessary to carry out the activity, and commits the resources to the activity either in cash or through in-kind contributions and is irrevocable, subject only to approval and receipt of a FY 2003 RHED grant. Each letter of commitment should include the organization's name, the applicant's name, the proposed program, the proposed total level of commitment and responsibilities as they relate to the proposed program. The commitment must be written on letterhead from the participating organization, must be signed by an official of the organization legally able to make commitments on behalf of the organization and dated not earlier than the date of publication of this NOFA. In documenting a firm commitment, the applicant's partner must:

(i) Specify the authority by which the commitment is made, the amount of the commitment, the use of funds and the relationship of the commitment to the proposed investment. If the committed activity is to be self-financed, the applicant's partner must evidence its financial capability through a corporate or personal financial statement or other appropriate means. If any portion of it is to be financed through a lending institution, the participant must provide evidence of the institution's commitment to fund the loan;

(ii) Affirm that the commitment is contingent only upon the receipt of FY 2003 RHED funds and state a willingness on the part of the signatory to sign a legally binding commitment (conditioned on HUD environmental review and approval of a property, where applicable) upon award of the grant.

Federally Recognized Indian tribe means any tribal entity eligible to apply for funding and services from the Bureau of Indian Affairs by virtue of their status as Indian Tribes. The list of federally recognized Indian tribes can be found in the notice published by the Department of the Interior on July 12, 2002, at 67 FR 46328, and is also available from HUD.

Innovative housing activities means projects, techniques, methods, combinations of assistance, construction materials, and energy efficiency improvements or financing institutions or sources new to the eligible area, or its population. The innovative activities can also build upon and enhance a model that already exists.

Local rural non-profit or Community Development Corporation means either:

(i) Any private entity with tax-exempt status recognized by the Internal Revenue Service (IRS) which serves the eligible rural area involved in the application (including local affiliates of national organizations that provide technical and capacity building assistance in rural areas); or

(ii) Any public non-profit such as a Council of Governments that will serve specific local non-profit organizations in the eligible area.

Lower Mississippi Delta Region means the eight state, 235 county/parish region defined by Congress in the Lower Mississippi Delta Development Act, Pub. L. 100-460. Appendix C to this notice identifies the counties referenced in the Act.

Rural area may be defined in one of five ways:

(i) A place having fewer than 2,500 inhabitants (within or outside of metropolitan areas).

(ii) A county with an urban population of 20,000 inhabitants or less.

(iii) Territory, persons, and housing units in the rural portions of “extended cities.” The U.S. Census Bureau identifies the rural portions of extended cities.

(iv) Open country that is not part of or associated with an urban area. The USDA describes “open country” as a site separated by open space from any adjacent densely populated urban area. Open space includes undeveloped land, agricultural land, or sparsely settled areas, but does not include physical barriers (such as rivers and canals), public parks, commercial and industrial developments, small areas reserved for recreational purposes, and open space set aside for future development.

(v) Any place with a population not in excess of 20,000 and not located in a Metropolitan Statistical Area.

State economic development and/or community development agency means any state agency that has promotion of statewide or local community/economic development as its primary purpose.

State housing finance agency means any state agency created to assist local communities and housing providers with financing assistance for development of housing in rural areas, particularly for low- and moderate-income people.

(B) Eligible applicants. Eligible applicants for each of the funding categories are as follows:

(1) For capacity building funding. If you are a local rural non-profit, including grassroots, faith-based and other community-based grassroots organization, CDC, or federally recognized Indian tribe, you are eligible for capacity building funding to carry out innovative housing and economic development activities which should lead to an applicant becoming self-sustaining in the future.

(2) For support for innovative housing and economic development activities funding. If you are a local rural non-profit organizations, including grassroots, faith-based and other community-based grassroots organization, CDC, federally recognized Indian tribe, State HFA, or State economic development and/or community development agency, you may apply for funding to support innovative housing and economic development activities in rural areas.

(C) Eligible activities. The following are examples of eligible activities under the Rural Housing and Economic Development program. These examples are illustrative and are not meant to limit the activities that you may propose in your application:

(1) For capacity building funding. Capacity building for innovative rural housing and economic development involves the enhancement of existing organizations to carry out new functions and/or to more effectively perform existing functions. Activities may include, but are not limited to the following:

(a) Enhancement of existing functions or creation of new functions to provide affordable housing and economic development in rural areas;

(b) Acquisition of additional space and support facilities;

(c) Salaries for additional staff needed to conduct the work, including financial management specialists, and economic development specialists;

(d) Training of staff in the areas of financial management, economic development financing, housing accessibility and visitability standards, fair housing issues and complaint filing;

(e) Development of business plans in order for the organization to be self-sustaining;

(f) Development of Management Information Systems (MIS) and software to enable better and more accurate reporting of information to HUD and to other entities;

(g) Development of feasibility studies and market studies;

(h) Training on energy efficiency in construction for housing and commercial projects;

(i) Housing counseling services including fair housing counseling, the provision of information on budgeting, access to credit and other federal program assistance available;

(j) Conducting conferences or meetings with other Federal and State agencies to inform residents of programs, rights and responsibilities associated with homebuying opportunities; and;

(k) Arranging for technical assistance to conduct needs assessments, conduct asset inventories and to develop strategic plans.

Note: Administrative costs for assistance under this funding category may not exceed fifteen percent (15%) of the total HUD RHED grant award.

(2) For support of innovative housing and economic development activities. This category is intended to support, but not be limited to, other costs for innovative housing and economic development activities. Activities may include, but are not limited to the following:

(a) Cost for using new or innovative construction, energy efficiency or other techniques that will result in the design and/or construction of innovative housing and economic development projects;

(b) Preparation of plans, architectural or engineering drawings;

(c) Preparation of legal documents, government paperwork and applications to allow construction of housing and economic development activities to occur in the jurisdiction;

(d) Financial assistance for the acquisition of land and buildings;

(e) Demolition of property to permit construction or rehabilitation activities to occur;

(f) Development of infrastructure to support the housing or economic development activities;

(g) Purchase of construction materials;

(h) Job training to support the activities of the organization;

(i) Homeownership counseling including fair housing counseling, credit counseling, budgeting, access to credit, and other federal assistance available;

(j) Conducting conferences or meetings with other Federal and State agencies to inform residents of programs, rights and responsibilities associated with homebuying opportunities;

(k) Development of feasibility studies and market studies;

(l) Development of Management Information Systems (MIS) and software to enable better and more accurate reporting of information to HUD and to other entities;

(m) Establishing Community Development Financial Institutions (CDFIs), lines of credit, revolving loan funds, microenterprises, and small business incubators; and

(n) Provision of direct financial assistance to homeowners/businesses/developers, etc. This can be in the form of establishing default reserves, pooling/securitization mechanisms, loans, grants, funding existing Individual Development Accounts or similar activities.

Applicants are reminded that they must affirmatively further fair housing in all their activities. Applicants should reference Section V(D) of the SuperNOFA General Section for clarification of AFFA requirements.

Applicants should demonstrate that their activities will continue to serve the populations that are in need and that beneficiaries will have a choice of innovative housing and economic development opportunities as a result of these activities.

Note: Administrative costs for assistance under this funding category may not exceed fifteen percent (15%) of the total HUD RHED grant award.

(D) Ineligible activities. Examples of ineligible activities for both funding categories include:

(a) the use of RHED grant funds for income payments to subsidize individuals or families;

(b) political activities;

(c) general governmental expenses other than expenses related to the administrative cost of the grant; or

(d) projects and activities intended for personal gain or private use.

IV. Program Requirements

(A) General. To be eligible for funding under this program section of this SuperNOFA, you must meet the threshold and statutory or regulatory requirements applicable to all programs set forth in Section V of the General Section of the SuperNOFA. In addition to the above, you must meet the following program specific requirements.

(B) Accounting System Requirements. RHED requires that successful applicants have in place an accounting system that meets the policies, guidance, and requirements as described in the following applicable OMB Circulars and Code of Federal Regulations:

(1) OMB Circular No. A-87 (Cost Principles Applicable to Grants, Contracts and Other Agreements with State and Local Governments);

(2) OMB Circular No. A-122 (Cost Principles for Nonprofit Organizations),

(3) OMB Circular No. A-133 (Audits of States, Local Governments, and Non-Profit Organizations);

(4) 24 CFR part 84 (Grants and Agreements with Institutions of Higher Education, Hospitals, and other Non-Profit Organizations); and

(5) 24 CFR part 85 (Administrative Requirements for Grants and Cooperative Agreements to State, Local, and Federally recognized Indian tribal governments).

These documents apply to the award, acceptance and use of assistance under the Rural Housing and Economic Development program NOFA, and to the remedies for noncompliance, except when inconsistent with the provisions of the FY 2003 HUD Appropriations Act, other Federal statutes or the provisions of this NOFA.

(C) Ethical Standards. HUD requires that all grantees adhere to core values and ethical business practices, as described in the General Section of the SuperNOFA as a condition of the award.

(D) Ensuring the Participation of Small Businesses, Small Disadvantaged Businesses, and Women-Owned Businesses. HUD requires grantees to use small businesses, small disadvantaged businesses and women-owned businesses in conducting your work activities, if possible. Please refer to Section V(F) of the General Section of the SuperNOFA for specific requirements.

(E) Forms, Certifications and Assurances. Applicants are required to submit signed copies of the standard forms, certifications and assurances included in the Appendix of this NOFA signed by the managing officer of your organization.

(F) Environmental Review. Selection for award does not constitute approval of any proposed sites. Following selection for award, HUD will perform an environmental review of activities proposed for assistance under this part, in accordance with 24 CFR part 50. The results of the environmental review may require that proposed activities be modified or that proposed sites be rejected. Applicants are particularly cautioned not to undertake or commit HUD funds for acquisition or development of proposed properties (including establishing lines of credit that permit financing of such activities or making commitments for loans that would finance such activities from a revolving loan fund capitalized by funds under this NOFA) prior to HUD approval of specific properties or areas. Each application must contain an assurance that you, the applicant, will assist HUD to comply with part 50; will supply HUD with all available relevant information to perform an environmental review for each proposed property; will carry out mitigating measures required by HUD or select alternate property; and will not acquire, rehabilitate, convert, demolish, lease, repair or construct property, nor commit or expend HUD or local funds for these program activities with respect to any eligible property, until HUD approval of the property is received. In supplying HUD with environmental information, grantees are to use the same guidance as provided in the Notice CPD-99-01, entitled “Field Environmental Processing for HUD Colonias Initiative (HCI) grants” issued January 27, 1999.

(G) Conflicts of Interest. Consultants and experts assisting HUD in rating and ranking applicants for funding under this NOFA are subject to 18 U.S.C. 208. Refer to Section V(M) of the General Section of the SuperNOFA.

(H) Grant Amounts. In the event, you, the applicant, are awarded a grant that has been reduced (e.g. the application contained some activities that were ineligible or budget information did not support the request), you will be required to modify your project plans and application to conform to the terms of HUD's approval before execution of the grant agreement. HUD reserves the right to reduce or de-obligate the award if suitable modifications to the proposed project are not submitted by the awardee within 90 days of the request. Any modifications must be within the scope of the original application. HUD reserves the right not to make awards under this NOFA.

(I) Grant Period. Recipients will have 36 months from the date of the executed grant agreement to complete all project activities.

(J) Lead-Based Paint Hazard Control. All property assisted under the Rural Housing and Economic Development program is covered by the Lead-Based Paint Poisoning Prevention Act (42 U.S.C. 4821-4846) and HUD's implementing regulations at 24 CFR part 35.

(K) Adjustments to Funding. In addition to the items identified under Section VI(F) of the General Section of the SuperNOFA, HUD:

(1) reserves the right to utilize this year's funding to fund previous year's errors prior to the rating and ranking this year's applications. Additionally, HUD reserves the right to reallocate funds between categories to achieve the maximum allocation of funds in both categories.

(2) If after all eligible applicants have been selected for funding in Category 1 and funds remain, the remaining funds will be allocated to Category 2 to fund additional eligible applications in that category. If after all eligible applicants have been selected for funding in Category 2 and funds remain, the remaining funds will be allocated to Category 1 to fund additional eligible applications in that category. If a balance of funds remains, HUD reserves the right to utilize those funds toward the following year's competition.

(L) Economic Opportunities for Low and Very Low Income Persons (Section 3). Section 3 of the Housing and Urban Development Act of 1968 (12 U.S.C. 1702u) is applicable to the RHED program. Please see Section V of the General Section of the SuperNOFA.

V. Application Selection Process

(A) Rating and Ranking. (1) General. To review and rate applications, HUD may establish panels which may include outside experts or consultants to obtain certain expertise and outside points of view, including views from other Federal agencies.

(2) Rating. All applicants for funding will be evaluated against the criteria below. In evaluating applications for funding, HUD will take into account an applicant's past performance in managing funds, including the ability to account for funds appropriately; timely use of funds received either from HUD or other Federal, State or local programs; meeting performance targets for completion of activities; and number of persons to be served or targeted for assistance. HUD may use information relating to these items based on information at hand or available from public sources such as newspapers, Inspector General or Government Accounting Office reports or findings, hotline complaints that have been found to have merit, or other such sources of information. In evaluating past performance, HUD will deduct points from rating scores as specified under Rating Factor 1, Capacity of the Applicant and Relevant Organizational Experience, described in this section below.

(3) Ranking. Applicants will be ranked separately within each of the two funding categories. Applicants will be selected for funding in accordance with their rank order in each category. An application must receive a minimum score of 75 points to be eligible for funding. If two or more applications are rated fundable and have the same score, but there are insufficient funds to fund all of them, the application(s) with the highest score for Rating Factor 2 (Need and Extent of the Problem) shall be selected. If applications still have the same score, the highest score in the following factors will be selected sequentially until one highest score can be determined, Rating Factor 3 (Soundness of Approach), Rating Factor 1 (Capacity and Experience), Rating Factor 5 (Achieving Results and Program Evaluation) and Rating Factor 4 (Leveraging Resources).

(B) Initial screening. During the period immediately following the application deadline, HUD will screen each application to determine eligibility. Applications will be rejected if they:

(1) Are submitted by ineligible applicants (including applicants that do not meet the threshold requirements described in the General Section of the SuperNOFA);

(2) Do not serve an eligible rural area;

(3) Do not meet the objectives of the RHED program;

(4) Propose a program for which the majority of the activities are ineligible.

(C) Rating Factors for Award Used to Evaluate and Rate Applications. The factors for rating and ranking applicants, and maximum points for each factor, are provided below. The maximum number of points for this program is 102. This includes 100 points for all five rating factors and two RC/EZ/EC bonus points, as described in the General Section of the SuperNOFA.

(D) Notification of Approval and Disapproval. HUD will notify you whether or not you have been selected for an award. If you are selected, HUD's notice to you of the amount of the grant award based on the approved application will constitute HUD's conditional approval, subject to negotiation and execution of the grant agreement by HUD.

(E) Applicant Debriefing. Any applicant can obtain a debriefing of their application. Please refer to Section IX(A)(4) of the General Section of the SuperNOFA for details on the conditions and time frames for requesting a debriefing. In addition, applicants requesting a debriefing must send a written request to Ms. Jackie Williams-Mitchell, Director, Office of Rural Housing and Economic Development (ORHED), at the address listed in Section I of this NOFA under “For Further Information and Technical Assistance.”

(F) Rating Factors. The following Rating Factors will be used to review, evaluate and rate your application.

Rating Factor 1—Capacity of the Applicant and Relevant Organizational Experience (15 Points).

This rating factor addresses the extent to which you have the organizational resources necessary to successfully implement your proposed work plan as further described in Rating Factor 3 in a timely manner, specifically within the 36 month award period.

Rating standards applicable to individual funding categories. The two funding categories have different objectives. Accordingly, in addition to the generally applicable rating standard discussed above, different standards as discussed below will be used to judge the experience and qualifications of the applicants for each of the two funding categories. HUD fully supports emerging organizations that desire to develop internal capacity. Therefore, the following categories will be evaluated:

(1) For Capacity Building applications (15 points). Team members, composition, experience, organizational structure and management capacity. Your response to this subfactor should clearly state the need which your organization is to address through the request for assistance. In addition, you should describe how the enhanced capacity realized through the assistance will fulfill that need. HUD will evaluate the experience of your project director, core staff, any outside consultants, contractors, subrecipients, and project partners to implement all of the work activities in your workplan as they relate to innovative housing and economic development activities. In evaluating your capacity to do the work, HUD will assess the recentness and relevancy of the prior work experience of each of the parties listed above to execute the prescribed activities; the services that consultants or other parties will provide to fill gaps in your staffing structure to enable you to carry out the proposed workplan; the experience of your project director in managing projects of similar size, scope, and dollar amount; the lines of authority and procedures that you have in place for ensuring that workplan goals and objectives are being met, consultants and other project partners are performing as planned, and that beneficiaries are being adequately served. In responding to this sub-factor, please indicate how the capacity building assistance will strengthen or otherwise impact your organization's current housing or economic development program portfolio, or if you are a new grantee, how the capacity assistance will ensure that you can carry out your proposed activities. In judging your response to this factor, HUD will only consider work experience gained within the last three years. When responding, please be sure to provide the dates, job titles and relevancy of the past experience to work undertaken by the employee or contractor under your proposed RHED application. The more recent, relevant, and successful the experience of your team members is in relationship to the workplan activities, the greater the number of points you will receive.

(2) For Support for Innovative Rural Housing and Economic Development Activities applications

(a) (5 points). Team members, composition, and experience. HUD will evaluate the experience of your project director, core staff, any outside consultants, contractors, subrecipients, and project partners to implement all of the work activities in your workplan. In evaluating your capacity to do the work, HUD will assess the recentness and relevance of the prior work experience of each of the parties listed above to execute the prescribed activities; the services that consultants or other parties will provide to fill gaps in your staffing structure to enable you to carry out the proposed workplan; the experience of your project director in managing projects of similar size, scope, and dollar amount; the lines of authority and procedures that you have in place for ensuring that workplan goals and objectives are being met, that consultants and other project partners are performing as planned, and that beneficiaries are being adequately served. In judging your response to this factor, HUD will only consider work experience gained within the last seven years. When responding, please be sure to provide the dates, job titles and relevancy of the past experience to work undertaken by the employee or contractor under your proposed RHED application. The more recent, relevant, and successful the experience of your team members are in relationship to the workplan activities, the greater the number of points that you will receive.

(b) (5 points). Organizational structure and management capacity. HUD will evaluate the extent to which you can demonstrate your organization's ability to manage a workforce composed of full-time and/or part-time staff as well as any consultant staff and your ability to work with community-based groups or organizations in resolving issues related to affordable housing and economic development. In evaluating this sub-factor, HUD will take into account your experience in working with community-based organizations to design and implement programs which address the identified housing and economic development issues. The more recent, relevant, and successful the experience of your organization and any participating entities, the greater the number of points you will receive.

(c) (5 points). Experience with performance based funding requirements. HUD will evaluate your experience in producing timely products and reports in any previous grant programs undertaken with HUD funds or other Federal, State, local or non-profit or for-profit organization funds. In assessing points for this sub-factor, HUD reserves the right to take into account your past performance in meeting performance and reporting goals on any previous HUD awards. HUD will deduct one point for each of the following activities related to previous HUD grant programs for which unsatisfactory performance has been verified and related to: (1) Mismanaging funds, including the inability to account for funds appropriately; (2) untimely use of funds received either from HUD or other Federal, State, or local programs; and (3) significant and consistent failure to meet performance targets. Among the specific outcomes to be measured are the number of jobs created or retained, the number of people trained, the number of housing units rehabilitated or constructed and made available for low- and moderate-income persons, or other relevant objective performance measures related to your previous job experience and/or grant programs. Applicants that can demonstrate a closer and greater linkage between the expected outcomes and the previously generated outcomes will receive higher points for this sub-factor.

Rating Factor 2—Need and Extent of the Problem (25 Points)

The Rural Housing and Economic Development program is designed to address the problems of rural poverty, inadequate housing and lack of economic opportunity. This Factor addresses the extent to which there is a need for funding the proposed activities based on levels of distress, and an indication of the urgency of meeting the need/distress in the applicant's target area. In responding to this Factor, applications will be evaluated on the extent to which the level of need for the proposed activity and the urgency in meeting the need are documented and compared to the target area and national data.

(1) In applying this factor, HUD will compare current levels of need in the area (i.e.) Census Tract(s) or Block Group(s), immediately surrounding the project site or the target area to be served by the proposed project and in the national level of need. This means that an application that provides data that show levels of need in the project area expressed as a percent greater than the national average will be rated higher under this Factor. Notwithstanding the above, an applicant proposing a project to be located outside the target area could still receive points under the Rating Factor 2 if a clear rationale and linkage is provided linking the proposed project location and the benefits to be derived by persons living in more distressed area(s) of the applicant's target area.

(2) Applicants should provide data that address indicators of need as follows:

(a) Poverty Rate (5 points)—data should be provided in both absolute and percentage form (i.e., whole numbers and percents) for the target area(s). An application that compares the local poverty rate in the following manner to the national average at the time of submission will receive points under this section as follows:

(i) Less than the national average = 0 points;

(ii) Equal to but less than twice the national average = 1 point;

(iii) Twice but less than three times the national average = 3 points;

(iv) Three or more times the national average = 5 points.

(b) Unemployment (5 points)—for the target area:

(i) Less than the national average = 0 points;

(ii) Equal to but less than twice the national average = 1 points;

(iii) Twice but less than three times the national average = 2 points;

(iv) Three but less than four times the national average = 3 points;

(v) Four but less than five times the national average = 4 points;

(vi) Five or more times the national average = 5 points.

(c) Other indicators of social and/or economic decline that best capture the applicant's local situation (5 points)—Data that could be provided under this section are information on the community's stagnant or falling tax base, including recent commercial or industrial closings; housing conditions, such as the number and percentage of substandard and/or overcrowded units; rent burden (defined as average housing cost divided by average income) for the target area; local crime statistics, etc. To the extent that the applicant's statewide or local Consolidated Plan, its Analysis of Impediments to Fair Housing choice (AI), and/or its Anti-Poverty Strategy identify the level of distress in the community and the neighborhood in which the project is to be carried out, references to such documents should be included in preparing the response to this Factor.

In rating applications under this Factor, HUD reserves the right to consider sources of available objective data other than, or in addition to, those provided by applicants, and to compare such data to those provided by applicants for the project site. This data includes the use of U.S. Census data.

(a) HUD requires use of sound and reliable data (e.g., U.S. Census data, State statistical reports, university studies/reports that are verifiable) to support distress levels cited in each application. A source for all information along with the publication or origination date must also be provided.

(b) Updated Census data are available for the following indicators:

(i) Unemployment rate—estimated monthly for counties, with a two-month lag;

(ii) Population—estimated for incorporated places and counties, through 2000;

(iii) Poverty rate—2000 data being the most recent available.

(c) Demographics of Distress—Special Factors (10 points). Because of HUD's concern with meeting the needs of certain underserved areas, you will be awarded a total of ten points if you are located in or propose to serve one or more of the following populations, if your application demonstrates that 100 percent of the beneficiaries supported by RHED funds are in one or more of the following populations. You must also specifically identify how each population will be served and that the proposed service area meets the definition of “eligible rural area” as described in Section III(A)(2) of this NOFA:

(i) Areas with very small populations in non-urban areas (2,500 population or less);

(ii) Seasonal farmworkers;

(iii) Federally recognized Indian Tribes;

(iv) Colonias;

(v) Appalachia's Distressed Counties; or

(vi) The Lower Mississippi Delta Region (8 states and 235 counties/parishes). For these underserved areas, you should ensure that the populations that you serve and the documentation that you provide is consistent with the information described in the above paragraphs under this rating factor.

Rating Factor 3—Soundness of Approach (30 points)

This factor addresses the overall quality of your proposed workplan, taking into account the project and the activities proposed to be undertaken; the cost-effectiveness of your proposed program; and the linkages between identified needs, the purposes of this program and your proposed activities and tasks. In addition, this factor addresses your ability to ensure that a clear linkage exists between innovative rural housing and economic development. In assessing cost-effectiveness, HUD will take into account your staffing levels, beneficiaries to be served, a timetable for the achievement of program outcomes, the delivery of products and reports and any anticipated outcomes or products. You will receive a greater number of points if your workplan is consistent with the purpose of the RHED program, your program goals and the resources provided.

(a) Management Plan (24 points). A clearly defined management plan that identifies each of the projects and activities you will carry out to further the objectives of this program; describes the linkage between rural housing and economic development activities; and addresses the needs identified in Factor 2, including needs that had been previously identified in a statewide or local Analysis of Impediments to Fair Housing Choice (AI) or Consolidated Plan. The populations that were described in Rating Factor 2 for the purpose of documenting need should be the same populations that will receive the primary benefit of the activities, both immediately and long term. The benefits should be affirmatively marketed to those populations least likely to apply for and receive these benefits without such marketing. Your timetable should address the measurable goals and objectives to be achieved through the proposed activities; the method you will use for evaluating and monitoring program progress with respect to those activities; and the method you will use to ensure that the activities will be completed on time and within your proposed budget estimates. Applicants that have a clearly defined management plan and can produce results in less than 36 months will receive higher rating points for this sub-factor. Your management plan should also include the budget for your program, broken out for each line item. Documented projected cost estimates from outside sources are also required. Applicants should submit their workplan on a spreadsheet showing each project to be undertaken and the tasks (to the extent necessary or appropriate) in your workplan to implement the project with your associated budget estimate per activity/task. Your workplan should provide the rationale for your proposed activities and any assumptions used in determining your project timeline and budget estimates. Failure to provide your rationale may result in an application receiving fewer points for lack of clarity in the proposed management plan.

This sub-factor should include information that indicates the extent to which you have coordinated your activities with other known organizations (e.g. through letters of participation or coordination) that are not directly participating in your proposed work activities, but with which you share common goals and objectives and are working toward meeting these objectives in a holistic and comprehensive manner. The goal of this coordination is to ensure that programs do not operate in isolation. Additionally, your application should demonstrate the extent to which your program exhibits the potential to be financially self-sustaining by decreasing dependence on RHED funding and relying more on state, local, and private funding. The goal of sustainability is to ensure that the activities proposed in your application can be continued after your grant award is complete.

(b) Policy Priorities (6 Points). Policy Priorities are further outlined in Section II of the General Section of the SuperNOFA. You should document the extent to which HUD's Policy Priorities are furthered by the proposed activities. Applicants that include activities that can result in the achievement of these Departmental Policy Priorities as described below and in Section II of the General Section of this SuperNOFA will receive higher rating points in evaluating their application for funding. Six Departmental Policy Priorities are listed below. You will receive 1 rating point for each Policy Priority addressed in your program of activities under this rating factor as described in Section VI (b) of this program NOFA. When Policy Priorities are included, describe in brief detail how those activities will be carried out. The Policy Priorities include (1 point each):

(a) Providing Increased Homeownership and Rental Opportunities for Low- and Moderate-Income Persons, Persons with Disabilities, the Elderly, Minorities, and Families with Limited English Proficiency;

(b) Improving our Nation's Communities;

(c) Encouraging Accessible Design Features;

(d) Providing Full and Equal Access to Grass-Roots Faith-Based and Other Community-Based Organizations in HUD Program Implementation;

(e) Participation in Energy Star;

(f) Ending Chronic Homelessness within Ten Years

Rating Factor 4—Leveraging Resources (10 Points)

This factor addresses the extent to which applicants for any of the two funding categories have obtained firm commitments of financial or in-kind resources from other Federal, State, local, and private sources. For every RHED dollar anticipated, you should provide the specific amount of dollars leveraged. In assigning points for this criterion, HUD will consider the level of outside resources obtained for cash or in-kind services that support activities proposed in your application. HUD will award a greater number of points based upon a comparison of the extent of leveraged funds compared to the requested RHED grant. This criterion is applicable to both funding categories under this NOFA. The level of outside resources for which commitments are obtained will be evaluated based on their importance to the total program. You must provide evidence of leveraging by including in the application letters of firm commitment to participate from any entity, including your own organization, which will be providing matching funds to the project. Each commitment described in the narrative of this factor must be in accordance with the definition of “firm commitment” as defined in Section III(A)(2) of this NOFA. The commitment letter must be on letterhead from the participating organization, must be signed by an official of the organization legally able to make commitments on behalf of the organization and must not be dated earlier than this NOFA is published.

Points for this Factor will be awarded based on the satisfactory provisions of evidence of leveraging and financial sustainability, as described above, and the ratio of requested HUD RHED funds as follows:

(i) 50% or more of requested HUD RHED funds will receive 10 points;

(ii) 39-30% of requested HUD RHED funds will receive 8 points;

(iii) 29-20% of requested HUD RHED funds will receive 6 points;

(iv) 19-9% of requested HUD RHED funds will receive 4 points;

(v) Less than 9% of HUD RHED funds requested will receive 0 points.

Rating Factor 5—Achieving Results and Program Evaluation (20 Points)

This Factor emphasizes HUD's commitment to ensuring that applicants keep promises made in their application and assesses their performance to ensure performance goals are met. Achieving results means you, the applicant, have clearly identified the benefits or outcomes of your program. Outcomes are ultimate project end goals. Benchmarks or outputs are interim activities or products that lead to the ultimate achievement of your goals. Program evaluation requires that you, the applicant, identify program outcomes, interim products or benchmarks, and performance indicators that will allow you to measure your performance. Performance indicators should be objectively quantifiable and measure actual achievements against anticipated achievements. Your Evaluation Plan should identify what you are going to measure, how you are going to measure it, and the steps you have in place to make adjustments to your work plan if performance targets are not met within established time frames.

Program outcomes for the Rural Housing and Economic Development Program must include where applicable: (1) Number of housing units constructed; (2) number of housing units rehabilitated that will be made available to low-to-moderate-income participants; (3) number of jobs created; (4) percentage change in earnings as a result of employment for those participants; (5) number of participants trained; (6) the percent of participants trained that find a job; (7) number of new businesses created; (8) number of existing businesses assisted; and (9) annual estimated savings for low-income family as a result of energy efficiency improvements. In addition, applicants that receive capacity building funds must include goals (and report accomplishments) for the following, where applicable: (1) Increase in program accomplishments as a result of capacity building assistance (e.g. number of employees hired or retained, efficiency or effectiveness of services provided) and (2) Increase in organizational resources as a result of assistance (e.g., dollars leveraged).

Applicant must complete the “Logic Model” HUD Form included in the General Section of the SuperNOFA and submit the completed form with their application.

This rating factor reflects HUD's goal to embrace high standards of ethics, management and accountability. HUD will hold a training broadcast via satellite for potential applicants to learn more about Rating Factor 5. For more information about the date and time of the broadcast, consult the HUD Web site at www.hud.gov.

RC/EZ/EC Bonus Points (2 Points)

HUD will award two bonus points to all applications that include documentation stating that the proposed eligible activities/projects will be located in and serve Federally designated Rural Renewal Communities, Rural Empowerment Zones, or Enterprise Communities (Rural EZs/ECs). A listing of Federally designated Rural RCs, EZs and ECs is available on the Internet at http://www.hud.gov. Further explanation of RC/EZ/EC can be found in Section VI of the General Section of the SuperNOFA.

VI. Application Submission Requirements

(A) Form of Application. All pages of the application must be numbered sequentially. Your application must include an original and two copies of the items listed below.

(B) Application Items. Your application must contain the items listed in this section. These items include the standard forms and non-standard certifications that can be found in the Appendices to this program section of the SuperNOFA. The items are as follows:

(1) A transmittal letter that must include the category under which you are applying, the dollar amount requested, the category under which you qualify for demographics of distress Special Factor under Rating Factor 2 “Need and Extent of the Problem” and which of the five definitions of the term “rural area” set forth in Section III(A)(2) of this NOFA applies to the proposed service area and accompanying documentation as indicated on the form.

(2) A table of contents;

(3) A signed HUD-424 (application form);

(4) A budget for all funds (Federal and Non-Federal including HUD-424A and HUD 424C) and a breakdown of all Federal funds requested, in the format provided in Appendix A of this NOFA;

Special Note: You must ensure that the amount of RHED funds requested are consistent throughout your application including on the HUD 424 “Application for Federal Assistance”, the Transmittal Letter, the application Narrative section (Rating Factors) and the HUD 424A “Budget Information”.

(5) Documentation of funds pledged in support of Rating Factor 4—“Leveraging Resources” (which will not be counted in the 15 page limitation);

(6) The required certifications and assurances (signed, as appropriate, and attached as an Appendix);

(7) Acknowledgment of the Application Receipt form (HUD 2993) (submitted with application and returned to you as verification of timely receipt).

(8) If you are a private nonprofit organization, a copy of your organization's IRS ruling providing tax-exempt status under section 501 of the IRS Code of 1986, as amended.

(9) The Environmental Review Assurance:

(10) Narrative Response to Factors for Award:

(a) You must describe your organization and the assignment of responsibilities for the work to be carried out under the grant (Rating Factor 1).

(b) You must describe the need and extent of the problem and populations to be served (Rating Factor 2).

(c) You must submit a workplan that describes your soundness of approach and the clear linkage between rural housing and economic development (Rating Factor 3). In addressing this submission requirement, you must:

(i) Describe the activities you propose to undertake to address the needs which needs that have been identified, the linkage between rural housing and economic development, and describe the specific outcomes you expect to achieve.

(ii) Include a management plan which identifies the specific actions you will take to complete the proposed activities on time, and a budget in the format provided which explains the uses of both Federal and non-Federal funds and the period of performance under the grant.

(iii) Include a discussion of the process by which the work accomplished with the grant will be evaluated to determine if the objectives of the grant were met.

(d) You must identify the resources which will be leveraged by the amount of this grant's funding that you are requesting. (Rating Factor 4). To receive the maximum number of points under Rating Factor 4 you must provide evidence of firm commitments. The commitment can be contingent upon HUD site approval following environmental review.

(e) You must describe the extent to which your program reflects a coordinated, community based process of identifying needs and building a system to address these needs, providing program beneficiaries outcomes resulting in increased independence and empowerment, and the potential for your organization to become financially self-sustaining. You must also describe how your activities will satisfy the program outcomes as described in Rating Factor 5 (Achieving Results and Program Evaluation) namely where applicable, the number of housing units constructed, the number of housing units rehabilitated, the number of jobs created, the number of jobs retained, the number of participants trained, the number of new businesses created and the number of existing businesses assisted (Rating Factor 5).

The total narrative response to all factors should not exceed 15 pages and must be submitted on 8.5” by 11” paper, using a 12 point font size, with lines double spaced and printed only on one side. Please note that although submitting pages in excess of the page limit will not disqualify your application, HUD will not consider or review the information on any excess pages, which may result in a lower score or failure to meet a threshold.

VII. Corrections to Deficient Applications

The General Section of the SuperNOFA provides the procedures for corrections to deficient applications. After the application due date, HUD may not, consistent with its regulations in 24 CFR part 4, subpart B, consider any unsolicited information you, the applicant, may want to provide. HUD may contact you, however, to clarify an item in your application or to correct technical deficiencies. You should note, however, that HUD may not seek clarification of items or responses that improve the substantive quality of your response to any eligibility or selection factors. Examples of curable (correctable) technical deficiencies include your failure to submit the proper certifications or your failure to submit an application that contains an original signature by an authorized official. In each case, HUD will notify you in writing of a technical deficiency. HUD will notify applicants by facsimile or by USPS, return receipt requested. Clarifications or corrections of technical deficiencies in accordance with the information requested by HUD must be submitted within 5 calendar days of the date you receive HUD notification. (If the due date falls on a Saturday, Sunday or Federal holiday, your correction must be received by HUD on the next day that is not a Saturday, Sunday or Federal holiday). The determination of when you received the deficiency letter will be based on the confirmation of the facsimile transmission, return or postal tracking information, as appropriate. If the deficiency is not corrected within this time period, HUD will reject the application as incomplete and it will not be considered for funding.

Catalog of Federal Domestic Assistance (CDFA)

The Catalogue of Federal Domestic Assistance number is 14.250.

VIII. Authority

Division K of the FY 2003 Consolidated Appropriations Resolution.

BILLING CODE 4210-32-P

Funding Availability for Housing Choice Voucher Family Self-Sufficiency (FSS) Program Coordinators

Program Overview

Purpose of the Program. The Housing Choice Voucher Family Self-Sufficiency (FSS) program (referred to in previous NOFAs as the Section 8 FSS program and as the Rental Certificate/Housing Choice Voucher FSS program) is intended to promote the development of local strategies to coordinate the use of assistance under the Housing Choice Voucher program with public and private resources to enable participating families to achieve economic independence and self-sufficiency. The FSS program provides critical tools that can be used by communities to support welfare reform and help families develop new skills that will lead to economic self-sufficiency. As a result of their participation in the FSS program, many families have achieved stable, well-paid employment, which has made it possible for them to become homeowners.

An FSS program coordinator assures that program participants are linked to the supportive services they need to achieve self-sufficiency.

Available Funds. This NOFA announces the availability of up to $47,688,000 in Fiscal Year (FY) 2003 to employ program coordinators for the Housing Choice Voucher FSS program. If additional funding becomes available during FY 2003, HUD may increase the amount available for Housing Choice Voucher FSS Program coordinators under this NOFA. Awards under this NOFA are subject to a cap of $62,500 per year per full time coordinator position funded. Under this NOFA, if PHAs apply jointly, the $62,500 maximum amount that may be requested per position applies to up to one full-time coordinator position for the application as a whole, not to each PHA separately. Evidence of salary comparability to similar positions in the local jurisdiction for each position must be kept on file in the PHA office.

Eligible Applicants: PHAs eligible to apply for funding under this NOFA are:

(1) PHAs that received funding for one or more FSS program coordinators under an FSS NOFA in FY 1999, FY 2000, FY 2001 or FY 2002, and

(2) PHAs that were not funded under an FSS NOFA in FY 1999, FY 2000, FY 2001, or FY 2002 that—

(a) Have HUD approval to administer a Housing Choice Voucher FSS program of at least 25 slots, or

(b) Are PHAs with HUD approval to administer Housing Choice Voucher FSS programs of fewer than 25 slots, applying jointly with one or more other PHAs so that together they have HUD approval to administer at least 25 Housing Choice Voucher FSS slots. (See Section III. A. of this NOFA for further information about the PHA's HUD-approved FSS program size.)

Application Deadline. May 30, 2003.

Match. None

Additional Information

If you are interested in applying for Housing Choice Voucher FSS Program Coordinator funding under this NOFA, please review carefully the General Section of this SuperNOFA and the following additional information.

I. Application Due Date, Application Kits, and Technical Assistance

Application Due Date. Your completed application (an original and one copy) is due on or before May 30, 2003.

Address for Submitting Applications. Submit your original application and one copy with an Acknowledgment of Application Receipt, Form HUD-2993, to: Grants Management Center; Mail Stop: Housing Choice Voucher Family Self-Sufficiency Program Coordinator Funding; 2001 Jefferson Davis Hwy, Suite 703; Arlington, VA 22202.

Application Submission Procedures. See “ADDRESSES AND APPLICATION SUBMISSION PRODEDURES” in the General Section of the SuperNOFA regarding HUD's mailing, delivery and receipt procedures pertinent to submission of your application.

For Application Kits. There is no application kit for this NOFA. This announcement contains all the information necessary for the submission of your application for Housing Choice Voucher FSS program coordinator funding.

For Further Information and Technical Assistance. For answers to your questions, you may contact the Public and Indian Housing Resource Center at 1-800-955-2232. Persons with hearing or speech impairments may access this number via TTY (text telephone) by calling the Federal Information Relay Service at 1-800-877-8339. (These are toll-free numbers). Information can be accessed via the Internet at http://www.hud.gov/grants.

Prior to the application deadline, staff at the numbers given above will be available to provide general guidance, but not guidance in actually preparing the application. Following selection, but prior to award, HUD staff will be available to assist in clarifying or confirming information that is a prerequisite to the offer of an award by HUD.

Satellite Broadcast. HUD plans to hold an information broadcast via satellite for potential applicants to learn more about the program and preparation of an application. For more information about the date and time of this broadcast, you should consult the HUD web site at www.hud.gov.

II. Amount Allocated

For FY 2003, up to $47,688,000 is available under Title II, Department of Housing and Urban Development, Certificate Fund in the Consolidated Appropriations Resolution, 2003, (Pub. L. 108-7, approved February 20, 2003). If additional funds become available in FY 2003, HUD may fund additional applications submitted in response to the NOFA.

III. Program Description; Eligible Applicants; Number of Positions for Which Eligible Applicants May Apply; Eligible Activities, Ineligible Activities

(A) Program Description. A PHA administering the FSS program uses a program coordinating committee (PCC) to assist the PHA to secure resources and implement the FSS program. A PCC is made up of representatives of businesses, local government, job training and employment agencies, local welfare agencies, educational institutions, childcare providers, and nonprofit service providers, including faith-based and other community organizations. A Housing Choice Voucher FSS program coordinator works with the PCC and with local service providers to assure that Housing Choice Voucher FSS program participants are linked to the supportive services they need to achieve self-sufficiency. The FSS program coordinator ensures through case management that the services included in participants' contracts of participation are provided on a regular, ongoing and satisfactory basis, that participants are fulfilling their responsibilities under the contracts and that FSS escrow accounts are established and properly maintained for eligible families. FSS coordinators may also perform job development functions for the FSS program.

PHAs are encouraged to outreach to disabled Housing Choice Voucher program participants who might be interested in participating in the FSS program and to include agencies on their FSS PCC that work with and provide services for disabled families.

Under normal circumstances, a full-time FSS program coordinator should be able to serve approximately 50 FSS program participants, depending on the coordinator's case management functions.

Through annual NOFAs, HUD has provided funding to PHAs that are operating Housing Choice Voucher FSS programs to enable those PHAs to employ program coordinators to support their Housing Choice Voucher FSS programs.

In the FY 2003 Housing Choice Voucher FSS Program Coordinator NOFA, HUD is again making funding available to PHAs to employ FSS program coordinators and FSS homeownership program coordinators for one year.

PHAs funded under an FSS NOFA in FY 1999, FY 2000, FY 2001, or FY 2002 are considered “renewal” PHAs in this NOFA. These renewal PHAs are invited to apply for funds to continue previously funded FSS program coordinator positions. In addition, any renewal PHA that did not receive funding for a Housing Choice Voucher FSS homeownership coordinator under the FY 2002 FSS NOFA is invited to apply for funding for a coordinator position to support FSS homeownership activities.

Because of the importance of the FSS program in helping families increase earned income and develop assets, HUD will also accept applications from “new” PHAs that were not funded under an FSS NOFA in FY 1999, FY 2000, FY 2001, or FY 2002.

To support the Department's initiatives on Colonias, a selection preference is included in this NOFA for “new” applicant PHAs that provide services and support to rural under-served communities in the Southwest Border regions of Arizona, California, New Mexico and Texas. See Section IV.A.(3)(c) of this NOFA for requirements that must be met to qualify for the Colonias preference.

In this NOFA, the FSS program size is the total number of Housing Choice Voucher FSS program slots identified in the PHA's HUD-approved FSS Action Plan. To ensure that the application is accurate, prior to submitting an application, new PHAs may wish to confirm the number of HUD-approved slots their local HUD field office has on record for the PHA. An FSS Action Plan can be updated by means of a simple one-page addendum that reflects the total number of FSS slots (voluntary and/or mandatory slots) the PHA intends to serve. This addendum must be approved by the PHA's local HUD field office.

For a new PHA applicant to qualify for funding under this NOFA, the PHA's initial FSS Action Plan or amendment to change the number of Housing Choice Voucher FSS slots in the PHA's previously HUD-approved FSS Action Plan must be submitted to and approved by the PHA's local HUD field office prior to the application due date under this NOFA.

(B) Eligible Applicants. PHAs eligible to apply for funding under this NOFA are:

(1) Renewal PHAs. Those PHAs that received funding under an FSS NOFA in FY 1999, FY 2000, FY 2001, or FY 2002.

(2) New PHAs. PHAs that were not funded under an FSS NOFA in FY 1999, FY 2000, FY 2001, or FY 2002 that:

(a) Are authorized through their HUD-approved FSS Action Plan to administer a Housing Choice Voucher FSS program of at least 25 slots; or

(b) Are PHAs with HUD approval to administer Housing Choice Voucher FSS programs of fewer than 25 slots that apply jointly with one or more other PHAs so that together they have HUD approval to administer at least 25 Housing Choice Voucher FSS slots. Joint applicants must specify a lead co-applicant that will receive and administer the FSS program coordinator funding.

(3) Moving to Work (MTW) PHAs. PHAs that are under the MTW demonstration may qualify for funding under this NOFA if the PHA administers an FSS program. When determining the size of a MTW PHA's HUD-approved FSS program, the PHA may request that the number of FSS slots reflected in the PHA's MTW agreement be used instead of the number in the PHA's FSS Action Plan.

(4) Troubled PHAs. (a) A PHA that has been designated by HUD as a troubled PHA under the Section 8 Management Assessment Program (SEMAP), or has major program management findings from Inspector General audits or serious outstanding HUD management review or IPA audit findings for the PHA's Housing Choice Voucher or Moderate Rehabilitation programs that are resolved prior to the application due date is eligible to apply under this NOFA. Serious program management findings are those that would cast doubt on the capacity of the PHA to administer its Housing Choice Voucher FSS program in accordance with applicable HUD regulatory and statutory requirements.

(b) A PHA whose SEMAP troubled designation has not been removed by HUD or the findings resolved by the due date, may apply if the PHA submits an application that designates another contractor that is acceptable to HUD that:

(i) Includes an agreement by the other contractor to administer the FSS program on behalf of the PHA; and

(ii) In the instance of a PHA with unresolved major program management findings, includes a statement that outlines the steps the PHA is taking to resolve the program findings.

(C) Number of Positions for which Eligible PHAs may apply: Eligible PHAs may apply for funding for Housing Choice Voucher FSS coordinator positions under this NOFA as follows:

(1) Renewal PHAs. PHAs that received funding under an FSS NOFA in FY 1999, FY 2000, FY 2001, or FY 2002 that qualify as eligible PHAs under the definition of eligible applicants in Section III.B. of this NOFA, may apply for:

(a) Renewal of each FSS coordinator position, including homeownership coordinator positions, most recently funded under an FSS NOFA in FY 1999, FY 2000, FY 2001, or FY 2002 that has been filled by the PHA.

(b) Up to one initial full-time FSS homeownership program coordinator for renewal PHAs with qualifying homeownership programs that did not receive funding for a homeownership coordinator under the FY 2002 FSS NOFA.

(2) New PHAs: A PHA that did not receive funding under an FSS NOFA in FY 1999, FY 2000, FY 2001, or FY 2002 may apply for funding for Housing Choice Voucher FSS program coordinator positions as follows:

(a) Up to one full-time FSS coordinator position for a PHA with HUD approval to administer an FSS program of 25 or more FSS slots.

(b) Up to one full-time position per application for joint PHA applicants that have HUD approval to administer a total of at least 25 Housing Choice Voucher FSS slots between or among them.

(D) Eligible Activities. Funds awarded to PHAs under this NOFA may only be used to employ or otherwise retain the services of Housing Choice Voucher FSS program coordinators and FSS homeownership coordinators for one year. A part-time program coordinator may be retained where appropriate.

(E) Ineligible Activities. (1) Funds under this NOFA may not be used to pay the salary of an FSS coordinator for a public housing FSS program. Operating subsidy can be used to fund a public housing FSS program coordinator's salary.

(2) Funds under this NOFA may not be used to pay for services for FSS program participants.

IV. Program Requirements

In addition to the applicable statutory, regulatory, threshold and public policy requirements listed in Section V. of the General Section of the SuperNOFA, each applicant must meet and comply with the following threshold statutory and other program requirements.

(A) Threshold Requirements. (1) Each applicant must qualify as an eligible PHA under Section III.B of this NOFA and must have submitted their FSS application by the application due date and in the format required in Section VI. of this NOFA.

(2) Renewal Applicants. (a) In addition to the requirements in Section IV.(A)(1) above, renewal PHA applicants must continue to operate a Housing Choice Voucher FSS program, have filled eligible FSS program coordinator positions for which they are seeking renewal funding, executed FSS contracts of participation with FSS program participants and submitted reports on participating families to HUD via the HUD-50058 FSS/WtW Voucher Addendum.

(b) Renewal PHAs applying for an initial Housing Choice Voucher FSS Homeownership Coordinator must meet all requirements of Sections IV.(A)(1) and (A)(2)(a) above. In addition, the PHA must not have received funding for an FSS homeownership coordinator under the FY 2002 Housing Choice Voucher FSS Program Coordinator NOFA and must administer or participate in a homeownership program that serves FSS program participants or graduates. Qualifying homeownership programs include the Housing Choice Voucher program homeownership option and other programs that prepare voucher program FSS participants for making the transition from rental to homeownership.

(3) New Applicants. (a) Must be authorized through their HUD-approved FSS Housing Choice Voucher Action Plan to administer an FSS program or at least 25 slots; or

(b) Are PHAs with HUD approval to administer Housing Choice Voucher FSS programs of fewer than 25 slots that apply jointly with one or more other PHAs so that together they have HUD approval to administer at least 25 Housing Choice Voucher FSS slots.

(c) New Applicant PHAs claiming the Colonias preference must meet the requirements of Section IV.(A)(1) and Section IV.(A)(3)(a) or (b) and operate in a Southwest border area that contains Colonias communities and administer programs that include outreach to members of those Colonias communities.

Note: A listing of those PHAs in Arizona, California, New Mexico and Texas that HUD has identified as operating in areas containing Colonias is included in this NOFA as Attachment C. PHAs not listed in Attachment C will be required to request that the Grants Management Center determine their eligibility for the preference.

V. Application Selection Process

(A) Threshold Compliance. Only applications that meet all of the applicable threshold requirements of Section IV. of this NOFA will be eligible for further processing.

(B) Panels. To review applications, HUD may establish panels that may include persons not currently employed by HUD.

(C) Order of Funding. The funds available under this NOFA are not being awarded on a competitive basis. Applications will be reviewed by the Grants Management Center (GMC) to determine whether or not they are technically adequate based on the NOFA requirements. Field offices will provide to the GMC in a timely manner, as requested, information needed by the GMC to make its determination, such as the HUD-approved Housing Choice Voucher FSS program size of new PHA applicants and information on the administrative capabilities of PHAs. Categories of applications that will not be funded are stated in Section VII.(B) of this FSS NOFA.

All technically adequate applications will be funded to the extent funds are available. If HUD receives applications for funding greater than the amount made available under this NOFA, HUD will fund eligible applicants as follows:

Priority 1—Applications from eligible renewal PHAs for continuation of eligible positions where the PHA has hired a coordinator.

Priority 2—Eligible new applicant PHAs that qualify for the Colonias preference.

Priority 3—Applications from eligible new PHAs that do not qualify for the Colonias preference.

Priority 4—Applications from eligible renewal PHAs for an initial coordinator position to support FSS homeownership activities.

HUD will first process and fund all eligible Priority 1 applications to continue funding for Housing Choice Voucher FSS program coordinators and FSS homeownership coordinators. If the amount available is not sufficient to fund all eligible Priority 1 applications up to the maximum amount permitted in this NOFA, HUD will determine if all applications can be funded if salary increases for Priority 1 are limited to no more than one percent of the salary from the most recent award to the PHA for the position to be renewed. If monies are still not sufficient to fund all eligible positions, HUD will begin by funding eligible applications at the reduced salary level, by Housing Choice Voucher program size, from smallest to largest, starting with the smallest Housing Choice Voucher programs first. Housing Choice Voucher program size will be determined by HUD using baseline data developed by the Department.

If funding remains after funding all Priority 1 applications, HUD will then process and provide funding to eligible Priority 2 applicants for up to one Housing Choice Voucher FSS program coordinator position per eligible new PHA that qualifies for the Colonias preference under this NOFA. If there are not sufficient monies to fund an FSS program coordinator for each eligible Priority 2 PHA, HUD will begin funding up to one full-time coordinator for each eligible Priority 2 applicant by Housing Choice Voucher program size, from smallest to largest, starting with the smallest Housing Choice Voucher programs first. As with Priority 1, Housing Choice Voucher program size will be determined by HUD using baseline data developed by the Department.

If funding remains after funding all Priority 1 and 2 applications, HUD will then process and provide funding to eligible Priority 3 applicants for up to one FSS program coordinator per PHA, or in the case of joint applications, up to one coordinator per application. If there are not sufficient monies to fund an FSS program coordinator for each eligible Priority 3 PHA, HUD will begin funding up to one full-time FSS program coordinator for each eligible Priority 3 applicant by Housing Choice Voucher program size, from smallest to largest, starting with the smallest first. If there are not sufficient monies to fund all applications from Priority 3 PHAs with the same Housing Choice Voucher program size, funding will be provided based on the size of the PHA's Housing Choice Voucher FSS program, reflected in the PHA's HUD-approved Housing Choice Voucher FSS Action Plan, starting with the largest approved Housing Choice Voucher FSS program first.

If funding remains after funding all Priority 1, 2 and 3 applications, HUD will then process and provide funding to eligible Priority 4 applicants for up to one initial Housing Choice Voucher FSS homeownership coordinator to support the homeownership activities of Housing Choice Voucher FSS program participants. If there are not sufficient monies to fund an initial FSS homeownership coordinator for each eligible Priority 4 PHA, HUD will begin funding up to one full-time homeownership coordinator for each eligible Priority 4 PHA, starting with PHAs with the highest percentage of FSS families currently ready for homeownership, including the number of families (FSS participants and graduates) currently participating in a homeownership program. The percentage will be computed using the Housing Choice Voucher FSS program size in the PHA's HUD-approved FSS Action Plan and the total number of families certified as being ready for homeownership and the number of FSS participants and graduates currently participating in a homeownership program or programs that are stated in the Attachment A certification letter of the PHA.

Based on the number of applications submitted, the GMC may elect not to process applications for any funding category in instances where it is apparent that there are insufficient funds available to fund any applications within the priority category.

VI. Application Submission Requirements

(A) Renewal PHAs. Each PHA that received funding for an FSS program coordinator or coordinators under an FSS NOFA in FY 1999, FY 2000, FY 2001, or FY 2002 that wishes to receive funding under this NOFA must complete a certification in the format shown as “Attachment A” of this NOFA, and must include all information required in “Attachment A.” The completed Attachment A certification constitutes the entire PHA application for funding for renewal PHAs under this FSS NOFA.

(B) “New” PHAs. PHAs that did not receive funding under an FSS NOFA in FY 1999, FY 2000, FY 2001, or FY 2002 must complete a certification in the format shown as “Attachment B” of this FSS NOFA and must include all information required in Attachment B. The completed Attachment B certification constitutes the entire PHA application for funding under this section.

(C) Applicant Debriefing. See Section XI. (A)(4) of the General Section of the SuperNOFA.

VII. Corrections to Deficient Applications

(A) Acceptable Applications. The General Section of the SuperNOFA provides the procedures for corrections to deficient applications. Examples of correctable technical deficiencies include, but are not limited to, submission of an attachment A or B with missing information or one that lacks an original signature by an authorized official.

(B) Unacceptable Applications. (1) After the technical deficiency correction period (as provided in the General Section), the GMC will disapprove PHA applications that it determines are not acceptable for processing.

(2) Applications from PHAs that fall into any of the following categories are ineligible for funding under this NOFA and will not be processed:

(a) An application from a PHA that is not an eligible PHA under Section III.B. of this NOFA or an application that does not comply with the requirements of Section VI. of this NOFA.

(b) An application from a PHA that does not meet the fair housing and civil rights compliance requirements of Section V.(B)(2) of the General Section of the SuperNOFA.

(c) An application from a PHA that does not comply with the prohibition against lobbying activities of Section V.(N) of this SuperNOFA.

(d) An application that fails to comply with the requirements of Section III.(B)(4) of this FSS NOFA from a PHA that as of the application due date has not made progress satisfactory to HUD in resolving serious outstanding Inspector General audit findings, or serious outstanding HUD management review or independent public accountant (IPA) audit findings for one or more of the following programs: Housing Choice Voucher or Moderate Rehabilitation and has not designated another contractor acceptable to HUD to administer the FSS program on behalf of the PHA.

(e) An application from a PHA that has been debarred or otherwise disqualified from providing assistance under the program.

(f) An applicant that as of the application due date has a “troubled” rating under SEMAP and has not designated another contractor acceptable to HUD to administer the FSS program on behalf of the PHA.

(g) An application that was not received by the due date specified in Section I. of this FSS NOFA.

VIII. Environmental Requirements

No environmental review is required in connection with the award of assistance under this NOFA, because the NOFA only provides funds for employing a coordinator that provides public and supportive services, which are categorically excluded from environmental review under the National Environmental Policy Act of 1969 (42 U.S.C. 4321) and not subject to compliance actions for related environmental authorities under 24 CFR 50.19(b)(4) and (12).

IX. Authority

The Consolidated Appropriations Resolution, 2003 (Pub.L. 108-7, approved February 20, 2003) allows funding for program coordinators under the Housing Choice Voucher FSS program. As a result, the Department determined to make a sufficient amount available under this NOFA, under Part 984, in accordance with 24 CFR 984.302(b), to enable PHAs to employ Housing Choice Voucher FSS program coordinators for one year at a reasonable cost as determined by the PHA and HUD, based on salaries for similar positions in the locality.

BILLING CODE 4210-32-P